DEPARTMENT OF THE INTERIOR

Fish and Wildlife Service

50 CFR Part 17

[FWS-R1-ES-2008-0051; 92210-1117-0000-FY08-B4]

RIN 1018-AU37

Endangered and Threatened Wildlife and Plants; Revised Designation of Critical Habitat for the Northern Spotted Owl

AGENCY: Fish and Wildlife Service, Interior.

ACTION: Final rule.

SUMMARY: We, the U.S. Fish and Wildlife Service (Service), are revising currently designated critical habitat for the northern spotted owl (Strix occidentalis caurina) under the Endangered Species Act of 1973, as amended (Act). In 1992, we designated critical habitat for the northern spotted owl on 6, 887, 000 acres (ac) (2, 787, 070 hectares (ha)) of Federal lands in California, Oregon, and Washington. In this document we finalize revised critical habitat for the northern spotted owl on a total of approximately 5, 312, 300 acres (ac) (2, 149, 800 hectares (ha)) of Federal lands in California, Oregon, and Washington.

DATES: This rule becomes effective on September 12, 2008.

ADDRESSES: This final rule and its associated economic analysis are available on the Internet at http://www.regulations.gov and http://www.fws.gov/oregonfwo/species/. Supporting documentation we used in preparing this final rule will be available for public inspection, by appointment, during normal business hours, at the U.S. Fish and Wildlife Service, Oregon Fish and Wildlife Office, 2600 SE 98th Ave, Suite 100, Portland, OR 97266; telephone 503-231-6179; facsimile 503-231-6195.

FOR FURTHER INFORMATION CONTACT: Paul Henson, Field Supervisor, Oregon Fish and Wildlife Office, (see ADDRESSES); Ken Berg, Field Supervisor, Western Washington Fish and Wildlife Office, 510 Desmond Drive, Lacey, WA 98503 (telephone 360-753-9440); Michael Long, Field Supervisor, Arcata Fish and Wildlife Office, 1655 Heindon Road, Arcata, CA 95521 (telephone 707-822-7201). Persons who use a telecommunications device for the deaf (TTD) may call the Federal Information Relay Service (FIRS) at 800-877-8339, 24 hours a day, 7 days a week.

SUPPLEMENTARY INFORMATION:

Background

It is our intent to discuss only those topics directly relevant to the revised designation of critical habitat in this rule. For more information on the northern spotted owl and critical habitat, please refer to the proposed rule published in the Federal Register on June 12, 2007 (72 FR 32450).

Prior and subsequent to the listing of the northern spotted owl in 1990 (55 FR 26114), many committees, task forces, and work groups were formed to develop conservation strategies for the northern spotted owl. Information on these efforts can be found in the proposed critical habitat rule (72 FR 32450). We recently released the final Recovery Plan for the Northern Spotted Owl (USFWS 2008), which incorporates the best available scientific information regarding the conservation of the northern spotted owl. The final recovery plan recommends a the network of habitat blocks, or managed owl conservation areas (MOCAs), in the westside provinces in the range of the northern spotted owl, and a broader landscape-based habitat management approach (without MOCAs) for the dry forest eastside provinces in Washington and Oregon. The westside provinces include the Olympic Peninsula, Western Washington Lowlands, Western Washington Cascades, Oregon Coast Range, Willamette Valley, Western Oregon Cascades, and California Coast. The Willamette Valley and Western Washington Lowland provinces are excluded from the MOCA network because, given their low population numbers and isolation from other populations, the recovery plan assumed that these areas could not play an essential role in the recovery of the species (USFWS 2008, pp. 14 to 15). The Oregon Klamath and California Klamath are currently included in the MOCA network of the westside provinces; however, the recovery plan notes that this is an interim strategy for the complex habitat in these provinces (USFWS 2008, p. 24), which are also largely considered fire-prone similar to the eastside provinces. Hence when we refer to the “fire-prone” provinces, we include the Oregon Klamath and California Klamath with the dry forest eastside provinces. The eastside provinces refer to the Eastern Washington Cascades, Eastern Oregon Cascades, and California Cascades.

We believe the recovery strategy described in the final recovery plan will be effective, and therefore the MOCAs delineated in that plan and identified as essential to the conservation of the species serve as the basis for this critical habitat designation in the westside provinces. The landscape management approach for the eastside provinces, identified in the 2008 final recovery plan (USFWS 2008) and by the Sustainable Ecosystems Institute (SEI) Scientific Panel (SEI 2008) as the most effective approach for managing northern spotted owl habitat in dry forests, was not incorporated into this rule because it cannot be translated into critical habitat at this time, until the new approach called for by the recovery plan is further defined. In the eastside provinces the areas identified for designation in the proposed critical habitat (72 FR 32450), based on the Option 1 MOCAs in the 2007 draft recovery plan, are finalized in this rule. These MOCAs represent the most current delineation of specific areas that provide the physical and biological features essential to the conservation of the northern spotted owl in that region, as required by our regulations at 50 CFR 424.12.

Here we provide detailed background information on this most recent recovery planning process, as understanding the science and strategy behind the habitat network recommended in the recovery plan is integral to understanding the revised critical habitat designation.

2006 to 2008 Recovery Planning Process for the Northern Spotted Owl

In April 2006, we convened an interdisciplinary, interagency Northern Spotted Owl Recovery Team (Recovery Team) to incorporate the most recent scientific information into a final recovery plan for the species. The Recovery Team sought input from northern spotted owl experts on the main threats to the northern spotted owl population; these experts identified three primary threats to the species: competition from barred owls, past habitat loss, and current habitat loss. The Draft Recovery Plan for the Northern Spotted Owl was released in April 2007 (72 FR 20865). Following a 90-day public comment period and a series of public meetings in California, Oregon, and Washington, we received more than 75, 000 public comments. In addition, we collaborated with the American Ornithologists' Union and the Society for Conservation Biology to conduct two sets of blind peer reviews, and requested and received additional independent peer reviews of the 2007 draft recovery plan from scientists with expertise regarding the northern spotted owl and its habitat. We initiated the revisions to the draft recovery plan in October 2007, and contracted a consultant, SEI, to assist with review of the science and peer review comments on the recovery plan, and convened expert panel workgroups on barred owls, habitat issues, and fire ecology to evaluate and respond to technical issues and to evaluate the recommendations of SEI. The final recovery plan, substantially revised from the original draft, was released in May 2008. Revisions from the draft recovery plan included the elimination of Option 2, the “rule set” option for siting of conservation areas, as well as the addition of more recent modeling work to evaluate the size and spacing criteria of the recommended reserve network.

The final recovery plan identifies competition with the barred owl, ongoing loss of suitable habitat as a result of timber harvest and catastrophic fire, and loss of amount and distribution of suitable habitat as a result of past activities and disturbances as the most important rangewide threats to the northern spotted owl. The final recovery plan describes a variety of recovery actions to address these threats and recover the species, concentrating primarily on habitat conservation, habitat management, and barred owl control (USFWS 2008, p. 12), following a strategy designed for evaluation and adaptive management over the next 10 years (USFWS 2008, pp. VIII to IX). Of these actions, it is Recovery Action 4 that forms the foundation of this critical habitat designation: “Establish a network of MOCAs (as presented in Appendices C and D) that are of sufficient size and spacing to achieve long-term recovery of spotted owls” (USFWS 2008, p. 20). Although the recovery plan speaks to the potential contributions of various lands to the conservation of the owl, it is the MOCA network that is specifically identified as representing those “areas that contain or will develop suitable habitat considered essential for spotted owl recovery” (USFWS 2008, p. 13). As section 3(5)(A) of the Act defines critical habitat, in part, as those specific areas that provide the physical and biological features determined to be essential to the conservation of the species, we have designated critical habitat for the northern spotted owl on the basis of the MOCA network.

The 2008 final recovery plan specifically delineates MOCAs in the westside provinces occupied by the northern spotted owl (Western Washington Cascades, Western Oregon Cascades, Western Washington Lowlands, Olympic Peninsula, and Oregon Coast Range) and adopts a broader scale landscape management strategy without defined boundaries in the eastside provinces (USFWS 2008; p. 9, p. 14, Appendices C and D). The recovery plan recognized the need for an adaptive management approach in the Klamath provinces, but recommends a MOCA network for these provinces as an interim strategy that is expected to change following the work of the Dry Forest Landscape Workgroup (USFWS 2008, p. 24).

The MOCA network is a set of large habitat blocks, each capable of supporting 20 or more breeding pairs of owls (MOCA 1s), and smaller habitat blocks capable of supporting up to 19 breeding pairs of owls (MOCA 2s). The MOCA strategy is founded on the concepts and information first presented in “A Conservation Strategy for the Northern Spotted Owl, compiled by the Interagency Scientific Committee to Address the Conservation of the Northern Spotted Owl” (hereafter “ISC Report”; Thomas et al. 1990). The 1992 Final Draft Recovery Plan for the Northern Spotted Owl (USFWS 1992) reflected the ISC Report in its focus on managing large blocks of suitable habitat throughout the range of the northern spotted owl that could support self-sustaining populations of 20 breeding pairs, and spacing the blocks and managing between them to permit movement between the blocks. The ISC Report initially delineated and mapped a network of Habitat Conservation Areas, which were modified into Designated Conservation Areas (DCAs) in the 1992 final draft recovery plan. In 1994, the Northwest Forest Plan (NWFP) amended 26 land resource management plans (LRMPs) of the Forest Service and Bureau of Land Management (BLM) to provide a network of land-use allocations identified as Late Successional Reserves (LSRs) to provide habitat for multiple late-successional forest species, including the northern spotted owl. In 2004, a comprehensive scientific review confirmed that this reserve strategy designed for the northern spotted owl is based on sound scientific principles that have not substantially changed since the species was listed (Courtney et al. 2004). Additionally, more recent modeling by Marcot et al. (2008) has reaffirmed the size and spacing criteria utilized in the final MOCA network (summarized in USFWS 2008, pp. 76 to 81).

One of the significant departures in the 2008 final recovery plan, as revised from the 2007 draft recovery plan, is that it eliminates the MOCA system on the dry forest provinces east of the Cascade Mountain crest in Washington and Oregon where habitat loss from stand-replacing fires has been relatively high. These areas have a natural pattern of frequent, natural disturbances that preclude the long-term persistence and effectiveness of any static habitat management areas (Agee 2003; Spies et al. 2006). An independent scientific panel advised that a simple reserve network of MOCAs failed to adequately address the eastside fire threats and the maintenance of spotted owl habitat in dry forests cannot rely on static reserves in such a high-risk landscape (USFWS 2008, p. 108; see also Courtney et al. 2008, pp. 53 to 72). Consequently, in the Eastern Washington Cascades, Eastern Oregon Cascades, and California Cascades provinces, the 2008 final recovery plan describes a habitat management strategy that seeks to identify and maintain well-distributed, spatially dynamic patches of high quality habitat, manage the lands outside of high quality patches to restore ecological processes and functions, and reduce the potential of stand-replacement fires and insect and disease outbreaks; the plan does not delineate specific, mapped conservation areas (USFWS 2008, p. 21). The recovery plan also calls for a study of how to best address the fire-prone, but more complex habitat, of the Klamath province (USFWS 2008, pp. 23 to 25).

The landscape strategy of moving habitat patches recommended for the eastside provinces does not translate easily into critical habitat, which is defined by statute as “specific areas” and which, per our implementing regulations, must “be defined by specific limits using reference points and lines as found on standard topographic maps of the area” (16 U.S.C. 1532(5)(A) and 50 CFR 424.12(c)). Consequently, the areas identified for designation in the proposed critical habitat (72 FR 32450), which were based on the MOCAs identified for that region in the 2007 draft recovery plan, are finalized in this rule. These areas meet the criteria regarding contiguity, habitat quality, size, spacing, and distribution used to identify critical habitat within the range of the northern spotted owl, and represent the most current specific areas designed for the conservation of the northern spotted owl that also meet the delineation requirements for critical habitat (50 CFR 424.12). Many of these areas have been designated as LSRs, or are managed under LRMPs to develop the primary constituent elements (PCEs) of northern spotted owl habitat. However, as the Service, land management agencies, and scientists work together to implement the landscape-based habitat management strategy described in the 2008 final recovery plan for the fire-prone provinces, we may consider adjustments to critical habitat to better reflect the results of that effort.

The MOCA network identified in the 2008 Recovery Plan for the Northern Spotted Owl (USFWS 2008), and the MOCAs identified for the eastside provinces under Option 1 of the 2007 Draft Recovery Plan for the Northern Spotted Owl (USFWS 2007), serve as the basis for this revised critical habitat designation. The 2008 final recovery plan concludes that the habitat needs for recovery of the northern spotted owl in the United States can be achieved by managing for appropriate habitat on Federal lands within the range of the species, with voluntary recovery measures on intervening non-Federal lands. As in the 1992 designation, we have included only Federal lands in the revised designation. The 2008 final recovery plan focuses on managing large blocks of habitat in designated conservation areas (MOCAs) on Federal lands in the westside provinces throughout the range of the spotted owl and spacing the blocks and managing the areas between them to permit movement of spotted owls between and among the blocks (USFWS 2008, p. 70).

The Federal lands comprising the MOCA network of the final recovery plan include areas of congressionally-reserved lands, such as designated wilderness areas; these areas were therefore included in the recovery plan's assessment that the MOCA network is sufficient to achieve the recovery of the northern spotted owl As in the 1992 designation of critical habitat, congressionally-reserved lands such as wilderness areas and national parks are not included within the boundaries of the critical habitat designation. However, the contribution of these congressionally-reserved areas must be considered in any evaluation of the sufficiency of the overall conservation habitat network for the recovery of the northern spotted owl.

Previous Federal Actions

A description of previous Federal actions up to the time of listing on June 26, 1990, can be found in the final rule listing the northern spotted owl (55 FR 26114). On January 15, 1992, we published a final rule designating 6, 887, 000 acres (2, 787, 000 ha) of Federal lands in Washington, Oregon, and California as critical habitat for the northern spotted owl (57 FR 1796). In December 1992, we completed the Final Draft Recovery Plan for the Northern Spotted Owl in Washington, Oregon, and California (USFWS 1992). This plan was never finalized, however, and a new draft recovery plan was released in April of 2007 (USFWS 2007; 72 FR 20865). The final Recovery Plan for the Northern Spotted Owl was released on May 16, 2008 (USFWS 2008).

On January 13, 2003, we entered into a settlement agreement with the American Forest Resources Council, Western Council of Industrial Workers, Swanson Group Inc., and Rough & Ready Lumber Company to conduct a 5-year status review of the northern spotted owl and consider potential revisions to its critical habitat. On April 21, 2003, we published a notice initiating the 5-year review of the northern spotted owl (68 FR 19569). We then published a second information request for the 5-year review on July 25, 2003 (68 FR 44093). We contracted a comprehensive status review of the northern spotted owl to provide the best available scientific information for the 5-year review. The status review report was completed in September 2004 and continues to serve as the most current comprehensive summary of scientific information on the northern spotted owl (Courtney et al. 2004). We completed the 5-year review on November 15, 2004, concluding that the northern spotted owl should remain listed as a threatened species under the Act (USFWS 2004).

As amended, the settlement agreement called for the Service to submit any proposed revised critical habitat designation we deemed appropriate to the Federal Register by June 1, 2007, and to submit any final revised critical habitat designation, as appropriate, to the Federal Register by July 30, 2008. The settlement agreement required that the review of critical habitat would include a revised consideration of economic and other impacts. The proposed revised critical habitat rule was published in the Federal Register on June 12, 2007 (72 FR 32450). On May 21, 2008, we published a notice announcing the availability of a draft economic analysis and the reopening of the public comment period on the proposed revised critical habitat designation (73 FR 29471). This notice also alerted the public of the opportunity to comment on the proposed revision of critical habitat in the context of the recently released final recovery plan. The comment period closed on June 20, 2008.

Summary of Comments and Recommendations

We requested written comments from the public on the proposed revision of critical habitat for the northern spotted owl in the proposed rule published on June 12, 2007 (72 FR 32450). We also contacted appropriate Federal, State, and local agencies; tribes; scientific organizations; and other interested parties, and invited them to comment on the proposed rule.

We conducted two comment periods that resulted in 1, 413 comments directly addressing the proposed revised critical habitat designation. Of these, 1, 138 were template or form letter responses. During the comment period that opened for the draft economic analysis on May 21, 2008, and closed on June 20, 2008, we received seven additional comments directly addressing the proposed revised critical habitat designation.

Comments received were grouped into related topics specific to the proposed critical habitat revision for the northern spotted owl and are addressed in the following summary and incorporated in the final rule as appropriate. We received one request for a public hearing, but this was later withdrawn.

Peer Review

In accordance with our peer review policy published on July 1, 1994 (59 FR 34270), and current Departmental guidance, we solicited expert opinions from nine knowledgeable individuals with scientific expertise that included familiarity with the species, the geographic region in which the species occurs, and/or conservation biology principles. We received responses from six of these individuals. We reviewed all comments received from the peer reviewers for substantive issues and new information regarding northern spotted owl critical habitat, and address them in the following summary.

Peer Review Comments

(1) Comment: Three peer reviewers recommended that the Service not rely on the 2007 draft recovery plan as the basis for critical habitat designation. One reviewer notes that we continue to rely on the 2007 draft recovery plan as the best scientific information available, stating that it is the most current assessment and conservation guidance, but not necessarily the best. Two reviewers questioned whether the reduction of more than 1.5 million acres was consistent with the best scientific understanding of the species' conservation needs, and asked how we can justify dropping critical habitat from the current designation when the species is continuing to decline. One reviewer pointed to the work of Carroll and Johnson (in press), which indicates the current proposal will result in reduced habitat as well as reduced abundance of owls.

Our Response: The revised critical habitat is based on the final Recovery Plan for the Northern Spotted Owl (with the exception of critical habitat in the eastside provinces, which are based on the Option 1 MOCAs of the draft recovery plan (USFWS 2007), for reasons detailed in the Background section), which describes the habitat needed to recover the species using the best available scientific information integrated with an assessment of the needs for recovery of the northern spotted owl (USFWS 2008). This final plan reflects substantial revisions to the 2007 draft plan made in response to public and peer review comments, as well as additional independent scientific review. The network of habitat blocks recommended by the recovery plan represents the habitat component of the recovery strategy for the northern spotted owl and serves as the foundation of this critical habitat designation. The MOCA 1s are designed to provide for the management of large blocks of habitat throughout the range of the owl sufficient to each support self-sustaining populations of at least 20 pairs of spotted owls, while the MOCA 2s are designed for smaller populations. The spacing of the blocks and management of the areas between them are intended to permit the movement of spotted owls between these habitat blocks (USFWS 2008, Appendix C). These areas were identified based on the best available information, including modeling conducted for the 1992 draft recovery plan (published subsequently as Lamberson et al. 1994) and more recent habitat modeling conducted specifically for the 2008 final recovery plan, which estimated occupancy levels given habitat sizing and spacing variations (Marcot et al. 2008). Based on this scientific data and modeling, we believe the recovery strategy described in the final recovery plan will be effective, and the habitat conservation areas delineated in that plan and identified as essential to the conservation of the species serve as the basis for this critical habitat designation.

Similar to the reserve network of the Northwest Forest Plan, the MOCAs delineated in the final recovery plan include congressionally-reserved areas, such as wilderness areas and national park lands. These areas were considered in evaluating the effectiveness of the MOCA network in providing the habitat component of recovery for the northern spotted owl, but consistent with the Secretary's decision in our 1992 critical habitat designation, these congressionally-reserved areas are not included in this designation. For this reason, the acreage in designated critical habitat will be less than that in the MOCA network.

It is important to note that this critical habitat reflects only the habitat element of the final recovery plan, i.e., the establishment of the MOCA network under Recovery Action 4 (USFWS 2008, p. 20). Other factors that may play a role in achieving the recovery of the northern spotted owl, such as management of barred owls, are not necessarily reflected in this critical habitat designation. The recovery plan identifies several threats that may be contributing to the ongoing decline of the northern spotted owl, including barred owls and avian disease. In addition to the establishment of the MOCA network, the final recovery plan describes 33 additional recovery actions to address a variety of threats (USFWS 2008, pp. 17 to 35). Critical habitat represents one component of recovery.

The work of Carroll and Johnson (in press) evaluated, in part, the proposed revision of critical habitat, which in turn was based on the habitat network recommended in the 2007 draft recovery plan (USFWS 2007). This final revision of critical habitat is based upon the MOCA network recommended in the final Recovery Plan for the Northern Spotted Owl (USFWS 2008). We acknowledge that the final MOCAs cover fewer acres than the LSRs in the same provinces, as Carroll and Johnson point out. We note that LSRs were delineated for multiple late-successional species, and not just the northern spotted owl. However, the key question is whether the final MOCAs (and the critical habitat designation based on those MOCAs) are sufficient to provide the habitat component of recovery for the species.

The size and spacing of the final MOCAs are derived from consideration of the collective work of several authors (e.g., Thomas et al. 1990; USDA et al. 1993; Lamberson et al. 1994; Noon and McKelvey 1996; Forsman et al. 2002) and on more recent modeling work (Marcot et al. 2008) contracted specifically for the final northern spotted owl recovery plan. Our consideration of all of the modeling data evaluating the likelihood of long-term persistence of the northern spotted owl population across its range, as well as plan feasibility and likelihood of implementation, led the final recovery plan to the recommendation of the final MOCA network in westside provinces and landscape management strategy in the fire-prone eastside provinces. These are considered sufficient to achieve the recovery of the northern spotted owl, in conjunction with the other recovery actions identified in the recovery plan (USFWS 2008, p. VIII).

(2) Comment: Two peer reviewers stated that the proposed revised critical habitat rule ignored a large number of scientific papers on the northern spotted owl published since the ISC Report (Thomas et al. 1990), and specifically overlooked the work of Noon and McKelvey (1996) suggesting that managing for clusters of 20 pairs of spotted owls is not sufficient for long-term population stability.

Our Response: The revised critical habitat is based on the 2008 final recovery plan, which is based on the consideration of all of the best available science, including recent studies on spotted owl habitat size, spacing and occupancy modeling, and all other documents published since the ISC Report (Thomas et al. 1990), either through specific analysis or through the work of recent reviews (e.g., status review (Courtney et al. 2004), northern spotted owl 5-year review (USFWS 2004)). We contracted with SEI for a detailed scientific review of the 2007 draft recovery plan, as well as to provide assistance with responses to specific public comments and peer review comments on scientific and technical issues. This information, as well as other scientific information and comments received on the 2007 draft recovery plan, was used in the development of the 2008 final recovery plan.

Relative to the specific paper mentioned, Noon and McKelvey (1996), the authors state that their recent modeling data support perhaps 30 to 40 spotted owl pairs per conservation area. The data supporting this statement were never published, however. The final recovery plan did, to the extent possible, consider the work of Noon and McKelvey (1996) amongst all of the modeling efforts evaluated in the delineation and evaluation of the MOCA network (USFWS 2008, pp. 74 to 75, p. 81). We contracted more recent modeling of the block size and spacing necessary for spotted owl recovery (Marcot et al. 2008), which included the most recent spotted owl dispersal data (see “2008 Modeling of Size of MOCAs and Distances Between MOCAs, ” USFWS 2008, pp. 76 to 81). Based on the best available data on block size and spacing, including the results of Noon and McKelvey (1996) and Marcot et al. (2008), we believe a level of population persistence reasonable to achieve recovery is attained by habitat blocks large enough for at least 20 reproducing spotted owl pairs. The 2008 final recovery plan, on which critical habitat is based, does provide more than the minimum level of habitat for 20 pairs in some areas, with 23 MOCAs (over half of the MOCA 1s) large enough to support at least 30 spotted owl pairs, as recommended by Noon and McKelvey (1996) (using the calculation from the ISC Report (Thomas et al. 1990) and final recovery plan (USFWS 2008)). The critical habitat designation includes both the MOCA 1s and MOCA 2s identified in the final recovery plan.

It is important to note that the goal of the most recent modeling efforts by Marcot et al. (2008) was not to identify the number of owl pairs needed per habitat block, but rather to identify the amount and relative configuration of habitat that would be needed to maintain a stable population of spotted owls over the long term. To answer this question, they modeled several different numbers of owl pairs, from 4 to 49 per habitat unit, with those habitat units at various distances from one another (USFWS 2008, pp. 76 to 81). The hexagonal design of the model limited the numbers of pairs that could be evaluated such that the simulation of round numbers, such as 10 or 20 pairs, was not possible; this modeling effort was therefore limited to assessments of 4, 9, 25, 36, and 49 pairs of owls per habitat block. Accordingly, to evaluate the results of the model for the target number of 20 owl pairs, the recovery plan concludes that simple interpolation suggests that a cluster size of 20 territories per cluster would fare only slightly worse than that of 25 territories per cluster (USFWS 2008, p. 77). This assumption led to the final determination that, given a population with a finite rate of population growth (λ) equal to 1, clusters of 20 pairs of owls in habitat blocks of the size and spacing recommended in the final MOCA network had a high likelihood of remaining stable over a time period of 100 years. Examination of the modeling data shows that at the spacing of habitat blocks recommended in the final recovery plan (12 miles (mi) (19 kilometers (km)) for large habitat blocks, or MOCA 1s), the likelihood of long-term persistence of owls in habitat blocks was essentially the same whether they supported 25, 36, or 49 pairs of owls (Figures C1, C2, and C3, USFWS 2008, pp. 79 to 81). In other words, at the spacing recommended by the recovery plan, there did not appear to be any significant benefit to managing for more than 20 pairs of owls per habitat block in terms of achieving long-term persistence of populations.

(3) Comment: One peer reviewer pointed out that Zielinski et al. (2006) describe an approach to finding an optimal reserve network that would be appropriate to use over the entire range of the northern spotted owl.

Our Response: The revised critical habitat is based on the habitat reserve system in the 2008 final recovery plan, which is in turn based on the 1992 draft recovery plan reserve system that covers the entire U.S. range of the northern spotted owl. The Zielinski et al. (2006) model has been applied to only a limited portion of the range of the species, which is inadequate for the critical habitat effort. We believe the reserve network recommended in the 2008 final recovery plan, as revised from the 2007 draft plan, is based on the best available science, including recent information on spotted owl habitat size, spacing, and occupancy from modeling.

(4) Comment: Two peer reviewers questioned the scientific basis for changing the boundaries of existing reserves on BLM lands and questioned whether habitat quality was considered when DCA boundary adjustments were made.

Our Response: The revised critical habitat is based on the MOCA reserve system in the 2008 final recovery plan, which describes the habitat areas and amount believed to be essential to the recovery of the northern spotted owl. The MOCAs were based on the DCAs from the 1992 draft recovery plan, with some modifications. A key criterion for these DCAs, which formed the starting place for the final MOCA network, was the inclusion of as much high-quality habitat as possible, as well as maximizing the number of known spotted owl sites, within an effective and efficient system of habitat blocks (USFWS 2008, p. 69). Modifications to the boundaries were largely an effort to better align MOCAs with the reserve allocations in the BLM and U.S. Forest Service land use plans, to meet or maintain the spacing requirements, or to include areas where BLM modeling demonstrated future habitat was most likely to form into large or small blocks of habitat capable of supporting larger clusters of reproducing spotted owls (USFWS 2008, pp. 82 to 83). During all of these modifications we attempted to maximize the amount and quality of existing spotted owl habitat in any added areas, and we maintained the size and spacing parameters of the ISC Report (Thomas et al. 1990). The recovery team worked with maps of spotted owl habitat produced by Biomapper, which include lands that meet the criterion of providing habitat with a suitability score equal to or greater than that used by 90 percent of known spotted owl pairs (Davis and Lint 2005, p. 41). In addition, we contracted to have the size and spacing criteria reanalyzed (Marcot et al. 2008) using the most recent spotted owl dispersal data and demographic parameters. Based on these results, we believe that the size and spacing of the habitat blocks that comprise the MOCA network, on which the critical habitat units are based, are sufficient to achieve the habitat component of the recovery strategy for the northern spotted owl (USFWS 2008, p. 81).

(5) Comment: One peer reviewer recommended that we use predictive habitat modeling to determine areas of high value to owls (especially for nesting and roosting) that may not currently be surveyed.

Our Response: The critical habitat units are based on the MOCA system from the 2008 final recovery plan (or, in the eastside provinces, the Option 1 MOCAs from the 2007 draft recovery plan), which was established and modified to include spotted owl habitat and known historic spotted owl locations. By trying to maximize spotted owl habitat within the MOCAs, and therefore also within the critical habitat units, we believe we have effectively maximized the acres of PCEs present within each critical habitat unit. In addition, forest age and composition information has been collected in many of the areas identified as MOCAs. We also used the latest habitat models available, such as those described by Davis and Lint (2005) and the models developed by BLM for their Western Oregon Plan Revision analyses, to predict those areas of habitat that are of high value to owls, even if not currently surveyed.

(6) Comment: One peer reviewer stated that there was no scientifically valid justification for continuing to rely only on Federal lands for recovery of the northern spotted owl, especially in the face of continuing population declines despite the 1992 critical habitat designation and 1994 Northwest Forest Plan (USDA and USDI 1994), and with no concomitant increase in habitat quality.

Our Response: The revised designation of northern spotted owl critical habitat is based on the MOCAs from the 2008 final recovery plan, which form a habitat network designed to contribute to the recovery of spotted owl populations through rangewide distribution and connectivity of blocks of habitat. The 2008 final recovery plan is based on the best available science, including recent information on spotted owl habitat size, spacing, and occupancy modeling and provides for a level of owl dispersal and persistence within a Federal land-based MOCA system that is expected to contribute to the habitat component requisite for the recovery of the species (USFWS 2008, p. 18). It has long been recognized that the vast majority of remaining suitable habitat for the northern spotted owl, over 90 percent in Oregon and Washington, is on Federal lands (e.g., Thomas et al. 1990, p. 65; USFWS 1992, p. 31); thus conservation actions have focused on these areas.

Non-federal lands, described as Conservation Support Areas in the 2008 final recovery plan, are recognized as providing additional habitat contributions and support to the MOCA system; although recognized as potentially helpful in achieving recovery plan goals, these areas were not considered essential to the conservation of the species (USFWS 2008, p. 14). The recovery plan identifies only the specific areas of the MOCA network, which is entirely based on Federal lands, as essential to the conservation of the species (USFWS 2008, p. 13); thus the MOCA network serves as the basis of this critical habitat designation. In addition, the recovery criteria set forth in the recovery plan consider the successful performance of the MOCA network as one of the indicators that recovery has been achieved, but do not require the contributions of Conservation Support Areas as an essential component of recovery (USFWS 2008, p. 18). That Conservation Support Areas were not considered strictly essential to the conservation of the species should not be interpreted as meaning that these areas are unimportant for the species; these lands simply did not meet the more exacting statutory definition of critical habitat under section 3(5)(A) of the Act, which specifies that areas designated as critical habitat must have the physical and biological features which are essential to the species' conservation.

We believe that the habitat network recommended in the final recovery plan will be sufficient to recover the northern spotted owl, assuming the currently observed negative population trend has been addressed. As noted in the recovery plan, if negative population growth continues, the population will continue to decline regardless of how much habitat is available (USFWS 2008, p. 77). Population declines have been attributed to a variety of factors in addition to loss of habitat from wildfire and timber harvest, including barred owls, poor weather conditions, and forest defoliation caused by insect infestations (Anthony et al. 2006, p. 33). Thus one key to recovery is to reverse the current population trend, which is one of the goals of the recovery plan, and which will require actions to address a variety of threats in addition to habitat loss or degradation. The evidence thus far points to low adult survivorship as the most likely contributor to the declining population trend (Anthony et al. 2006, p. 30, and references therein), and the most recent scientific review points to the barred owl as a plausible cause of low survivorship in many parts of the northern spotted owl's range, while noting that there is no evidence that actions such as increasing the size of habitat reserves would increase survivorship (Courtney et al. 2008, pp. 120 to 121). At present the best available scientific information indicates that the revised critical habitat designation provides the network of large blocks of habitat called for by the recovery plan; we consider these areas sufficient to achieve the recovery of the northern spotted owl, in conjunction with the other recovery actions in the final recovery plan (USFWS 2008, pp. VII to VIII)

(7) Comment: Three peer reviewers expressed concern about several aspects of Option 2 of the draft recovery plan, including the lack of specificity on the rule set for small blocks, the need for a more specific description of suitable habitat, and concerns about the clarity of the rule set.

Our Response: Option 2 has been deleted from the 2008 Recovery Plan for the Northern Spotted Owl. This final revised critical habitat designation does not rely on any aspect of Option 2 presented in the 2007 Draft Recovery Plan for the Northern Spotted Owl.

(8) Comment: One peer reviewer questioned the implication of deviating from ISC Report principles (Thomas et al. 1990) in terms of amounts and location of habitat in the proposed critical habitat and stated that the proposal did not provide additional modeling or further analysis to justify the change. He also cautioned that the viability conclusions from the ISC Report (Thomas et al. 1990) may not hold for the current proposed critical habitat.

Our Response: This critical habitat designation is based on the recovery plan MOCA system, which was delineated starting with the location and size of the DCAs from the 1992 draft recovery plan, which in turn applied the principles of the ISC Report (USFWS 2008, Appendix C). As part of establishing the MOCA network, some modifications were made to the DCAs to better align them with the reserve allocations in the BLM and U.S. Forest Service land use plans (e.g., LSRs), to meet or maintain the spacing requirements, or to include areas where BLM modeling demonstrated future habitat was most likely to form into large or small blocks of habitat capable of supporting larger clusters of reproducing spotted owls. In the process of making these modifications the recovery team attempted to maximize the amount of existing spotted owl habitat in any added areas, while maintaining the size and spacing parameters of the ISC Report (Thomas et al. 1990).

After publication of the proposed critical habitat revision in 2007, we contracted to have the size and spacing criteria reanalyzed using the most recent spotted owl dispersal and demographic data in the course of revising the draft recovery plan (Marcot et al. 2008). The subsequently revised habitat network of the final recovery plan served as the basis for this final revision of critical habitat. Based on this most recent analysis, in conjunction with consideration of all other available data (e.g., Thomas et al. 1990; USFWS 1992; Lamberson et al. 1994; USDA and USDI 1994; Noon and McKelvey 1996; Forsman et al. 2002), we believe that the specific habitat component of recovery is achievable through the MOCA network on which this revised critical habitat designation is based (USFWS 2008, p. 81).

(9) Comment: One peer reviewer pointed out that the critical habitat proposal did not include an analysis of the value of the habitat being designated. He stated that we could not justify reduction in habitat unless we can demonstrate a clear increase in quality of that habitat.

Our Response: The original critical habitat designation was based on the information in the ISC Report (Thomas et al. 1990), and was designated early in the process of determining how to best implement the concepts in that report. As described in the rule, the 1992 critical habitat included not only the reserves identified in the ISC Report (Thomas et al. 1990), but also included additional areas outside of these reserves. These additions included areas of better quality suitable habitat, as well as areas designed to support connectivity and habitat linkages between and within provinces, and were expanded to section lines to facilitate legal descriptions. The MOCAs in the 2008 final recovery plan represent the application of the same concepts, but with better information on habitat, habitat use, and known sites, including the results of the Forest Ecosystem Management Assessment Team (USDA et al. 1993) that informed the Northwest Forest Plan. While this final critical habitat contains less area than the 1992 critical habitat designation, we believe it represents the application of the same conservation principles necessary for achieving the recovery of the northern spotted owl. Furthermore, recent modeling work (Marcot et al. 2008) indicates that the size and spacing criteria utilized in the final recovery plan should be sufficient to achieve the recovery criterion set forth for the MOCA network (Recovery Criterion 2), assuming the root cause of negative population growth has been addressed (USFWS 2008, p. 18).

(10) Comment: One peer reviewer noted that the proposed revision of critical habitat does not define the quality of habitat for owls, which may vary by forest condition. He recommended that the Service clarify that, while northern spotted owls do not exclusively require old-growth, they do preferentially select old-growth forest.

Our Response: Numerous studies and reviews over the past decades describe how spotted owls generally rely on older forested habitats (e.g. Carroll and Johnson, in press; Courtney et al. 2004) because such forests contain the structures and characteristics required for nesting, roosting, and foraging, and the recent SEI review notes that there is an association between demographic performance of northern spotted owls and the availability of late successional old-growth forest (SEI 2008, p. 11). However, because northern spotted owls also use mature and structurally diverse forests, we did not limit our discussion to strictly old-growth. Old-growth forests meet the description of PCEs (i), (ii), and (iii), and would be included in any analysis of effects of actions to critical habitat.

(11) Comment: One peer reviewer notes that there is not a clear relationship between habitat quality and demographic performance; therefore the amount of critical habitat may have little impact on the long-term viability of the owl population.

Our Response: It is clear that without a sufficient area of habitat the spotted owl will not reach recovery (e.g., Courtney et al. 2008, p. 16; USFWS 2008, p. VII). Therefore, we have used all the best scientific information available since the ISC Report (Thomas et al. 1990) to establish a system of critical habitat units designed to provide sufficient habitat, representing all of the PCEs, well-distributed across the range of the spotted owl to ensure its survival and recovery. Other actions, such as potential control of barred owls, will also play a role in improving the demographic performance of the species. Such actions do not, however, preclude the need for management of sufficient suitable habitat in dynamic dry forest landscapes and the establishment of the MOCA network as essential elements of the recovery strategy for the northern spotted owl (USFWS 2008, p. 12). We believe that the habitat network recommended in the final recovery plan will be sufficient to recover the northern spotted owl, assuming the currently observed negative population trend has been addressed. As noted in the recovery plan, if negative population growth continues, the population will continue to decline regardless of how much habitat is available (USFWS 2008, p. 77). Population declines have been attributed to a variety of factors in addition to loss of habitat from wildfire and timber harvest, including barred owls, poor weather conditions, and forest defoliation caused by insect infestations (Anthony et al. 2006, p. 33). Thus one key to recovery is to stabilize population growth, which is one of the goals of the recovery plan, and which will require actions to address a variety of threats in addition to habitat loss or degradation. The evidence thus far points to low adult survivorship as the most likely contributor to the declining population trend (Anthony et al. 2006, p. 30, and references therein), and the most recent scientific review points to the barred owl as a plausible cause of low survivorship in many parts of the northern spotted owl's range, while noting that there is no evidence that actions such as increasing the size of habitat reserves would increase survivorship (Courtney et al. 2008, pp. 120 to 121). In sum, at present the best available scientific information indicates that the revised critical habitat designation provides the network of large habitat blocks called for in the recovery plan; however, to be fully effective this habitat network must operate in conjunction with the implementation of all recovery actions identified in the recovery plan (USFWS 2008, pp. VII to VIII).

(12) Comment: Three peer reviewers questioned how, if northern spotted owl populations are declining across its range, can reducing the amount of critical habitat, as proposed, lead to recovery?

Our Response: In determining which areas to propose as critical habitat within the area occupied by the species at the time of listing, we consider the physical and biological features (i.e., PCEs) that are essential to the conservation of the species and that may require special management considerations and protection. Critical habitat addresses one component of spotted owl recovery, but it is not intended to be the only tool for recovery. The species may continue to face non-habitat threats regardless of how much critical habitat is designated (e.g., Courtney et al. 2008, p. 120; USFWS 2008, p. VII). Population modeling indicates that the maintenance and restoration of habitat as described in the 2008 final recovery plan, upon which this critical habitat revision is based, is adequate to support well-distributed populations of reproducing spotted owl pairs over the long term to achieve recovery of the species (Marcot et al. 2008). An important element of the model for this reserve system is that it must assume a stable population (a finite rate of population growth, or λ, of 1), otherwise a declining population will eventually proceed to extinction no matter how large the reserves are (USFWS 2008, p. 77). Increasing adult survivorship appears to be the key factor in achieving population stability for the northern spotted owl (Anthony et al. 2006, p. 30; Courtney et al. 2008, p. 120; USFWS 2008, p. 47, p. 77). The most recent scientific review of the draft recovery plan acknowledges that there is no evidence to suggest that increasing the size of habitat reserves would alter adult survivorship, and points to control of barred owls as a more likely means of increasing the survivorship of spotted owls (Courtney et al. 2008, pp. 120 to 121). Reducing the currently observed population decline of the northern spotted owl is one of the key short-term strategies of the final recovery plan, which invokes recovery actions such as potential control of barred owls in addition to the protection of habitat to achieve this goal (USFWS 2008, pp. 12 to 15).

(13) Comment: One peer reviewer stated that the requirement of adequate habitat for dispersal is not very useful without some quantification of what is ‘adequate.'

Our Response: In the revision of northern spotted owl critical habitat, we state that “...the provision of adequate habitat to provide for successful dispersal is essential to the conservation of the species.” This is not a description of the PCE or a requirement of critical habitat, but rather a description of the general function of the PCE. We have made some changes in the regulatory language describing the PCEs to clarify the habitat components necessary to this PCE. In addition, whether there is adequate dispersal habitat would be a determination made during an Endangered Species Act (16 U.S.C. 1531 et seq.) section 7 consultation and would be based, in part, on the baseline condition of critical habitat and any noted deficiencies in dispersal condition.

(14) Comment: One peer reviewer pointed out that although the critical habitat rule describes one of the PCEs to include the appropriate amount and spatial arrangement of nesting habitat, we never described what that amount and arrangement is.

Our Response: We used the best available scientific information to determine the PCEs for northern spotted owl critical habitat. Our implementing regulations at 50 CFR 424.12(b) require us to list the known PCEs for the species; we have listed and described those PCEs to the best of our understanding. PCEs in critical habitat can include a variety of types and scales of features. Because the individual components of forest stands that serve as northern spotted owl habitat vary across the range, we could not describe each potential combination that would lead to habitat supporting territorial and dispersing northern spotted owls. As noted repeatedly in the recent Scientific Review of the Draft Northern Owl Recovery Plan, there is tremendous regional variation in the ecology of the northern spotted owl and the importance of various factors determining the viability of the species throughout its range (Courtney et al. 2008, p. 16); thus prescriptions for recovery of the northern spotted owl must of necessity be locally specific (Courtney et al. 2008, p. 22). However, we have revised the final rule to clarify the PCEs where possible.

(15) Comment: One peer reviewer questioned the reasons for the reduction in relatively large areas of the designated critical habitat in some areas (e.g., eastern Washington and western Oregon Cascades) because it was not clear how the reasons for changes described in the rule apply to these areas. The areas are not above the elevation limit of the species and contain habitat for the spotted owl.

Our Response: The 1992 critical habitat rule was completed without the benefit of a final recovery plan for the northern spotted owl and drew heavily on the concepts from the ISC Report (Thomas et al. 1990) and its recommended reserves. In the 1992 rule, we expanded the application of the ISC reserve concept to address uncertainties relative to connectivity, include larger areas of fairly unfragmented existing habitat and areas of high quality habitat within or adjacent to the ISC reserves, and facilitate legal boundary descriptions. This resulted in the designation of more than 1 million acres of critical habitat beyond the initial ISC reserve boundaries. Over the past decades, we have benefited from additional information and experience with the application and implementation of the large block concepts of the ISC strategy, thereby reducing the previous uncertainty and improving our understanding of the areas essential for the conservation of the northern spotted owl. The amount of habitat in this final rule is based upon the best available information, including the modeling conducted for the 1992 draft recovery plan (Lamberson et al. 1994) as well as more recent habitat modeling estimating occupancy levels given habitat sizing and spacing variations conducted for the 2008 final recovery plan (Marcot et al. 2008).

(16) Comment: Two peer reviewers requested a clarification of the role of various habitats, pointing out that nesting and roosting habitat also provide for foraging and dispersal, foraging habitat also provides for dispersal, and dispersal habitat is primarily limited to dispersal only.

Our Response: We have clarified this in the preamble to the final rule.

(17) Comment: One peer reviewer asked if dispersal habitat would be considered critical habitat, given that dispersal habitat was not mapped and distances between blocks were increased to the maximum.

Our Response: Spotted owl dispersal habitat is described in PCE (iii) and is critical habitat where it occurs within the critical habitat unit boundaries described in the rule. Habitat described in PCE (ii) will also function for dispersal. Dispersal habitat outside of the designated areas is not critical habitat because it is not essential to the conservation of the species. This is because the recovery plan provides for northern spotted owl dispersal through the appropriate spacing of MOCAs. The distances between critical habitat units were designed to be within 12 mi (19 km) for large critical habitat units (those capable of supporting 20 or more spotted owl pairs) and within 7 mi (11 km) for small critical habitat units (those capable of supporting fewer than 20 spotted owl pairs), as outlined in the ISC Report (Thomas et al. 1990). As part of the most recent recovery planning process, we reanalyzed those dispersal distances using updated dispersal data (USFWS 2008, p. 75) and found no basis for modifying those distances. Dispersal between critical habitat units is anticipated to occur under current forest management; thus we did not consider it necessary to designate these areas as critical habitat. The dispersal habitat identified here under PCE (iii) occurs within the critical habitat units with those physical and biological features determined to be essential to the conservation of the species.

(18) Comment: One peer reviewer asked if the habitat quality criteria were applied to congressionally-reserved or administratively withdrawn lands in the selection process. Many such areas at high elevations are of relatively little value to spotted owls.

Our Response: When the MOCAs were established, the recovery team attempted to maximize the amount of habitat-capable acres and acres of existing spotted owl habitat, even when including areas that were congressionally-reserved (e.g., wilderness areas) or administratively withdrawn (e.g., recreational areas not scheduled for timber harvest). We also limited critical habitat to areas within the anticipated elevation limit of spotted owls. In designating critical habitat based on the MOCAs, we did not include congressionally-reserved lands within the MOCAs, as in our 1992 designation, but did include administratively withdrawn areas.

(19) Comment: Three peer reviewers wrote that the critical habitat designation should incorporate the potential effects of barred owls, which reduce or eliminate the value of habitats for the spotted owl. The feasibility of managing barred owls may impact the location and amount of critical habitat. One reviewer suggested that the 1992 critical habitat units should be maintained, even if this exceeds the current MOCA network, to allow northern spotted owls within currently reserved areas to compete with barred owls.

Our Response: We agree that the feasibility of managing barred owls may affect the recovery of the spotted owl. The 2008 final recovery plan reaffirmed that the barred owl poses one of the most important threats to the northern spotted owl, and considered whether additional habitat may be needed to address the barred owl threat. The final recovery plan recommended the establishment of the MOCA network, which serves as the basis of this critical habitat designation, in addition to potential barred owl control and management of the dry-forest landscape in the eastside provinces, as essential elements of the recovery strategy for the northern spotted owl (USFWS 2008, p. 12). The MOCAs represent the habitat that the recovery plan recognized as essential for the recovery of the species (USFWS 2008, p. 13); hence this critical habitat designation is based on that reserve network. Although the larger MOCAs (MOCA 1s) are designed to support a minimum of 20 pairs of owls, nearly half of the large MOCAs are large enough to support over 30 pairs of spotted owls, providing for some level of exclusion by barred owls while still meeting the size necessary for 20 or more spotted owl pairs.

Recovery Action 32 of the final recovery plan also called for a short-term strategy of maintaining substantially all of the older and more structurally complex multi-layered conifer forests outside of MOCAs in the westside provinces of the spotted owl's range, allowing for other threats, such as fire and insects, to be addressed by restoration management actions. Providing habitat for the northern spotted owl may then lend itself to provide additional support for reducing the threat from the barred owl (USFWS 2008, pp. 34 to 35). However, the recovery plan acknowledges that forest stands that may potentially meet the intent of this short-term management strategy have not yet been defined or identified (USFWS 2008, p. 34). Whether any of this habitat should be designated as critical habitat may be further considered as it is delineated.

(20) Comment: One peer reviewer questioned statements in the proposed revision of northern spotted owl critical habitat that enhancing juvenile survivorship would play an important role in maintaining stable populations of spotted owls, when all evidence points to adult survivorship as most sensitive life history parameter.

Our Response: While adult survival has greater impact on demographic modeling of spotted owl populations, dispersal is a very important component of the life history of the species. Dispersal allows for the mixing of genes, recolonization of areas with deficit populations, and replacement of territorial spotted owls that die. Our consideration of dispersal and the survival of dispersing juveniles does not detract from the importance of adult survival. However, maintaining stable populations also depends on the adults producing enough young that survive to territorial status to replace themselves. Increasing juvenile survival should add support to overall population stability.

(21) Comment: One peer reviewer questioned how the owl habitat value of wilderness areas and national parks was evaluated.

Our Response: In delineating the MOCAs, only congressionally-reserved areas that were capable of supporting spotted owl habitat were included in the recovery plan; this was based on habitat mapping and elevation limits on habitat suitability. This critical habitat rule is based on these MOCAs, and although, as in our 1992 designation, congressionally-reserved areas within MOCAs are not being designated as critical habitat, these areas were included in the recovery plan's evaluation of the adequacy of the MOCA network. Thus we consider that such congressionally-reserved areas included in the MOCAs would function in concert with critical habitat to support clusters of owls.

(22) Comment: One peer reviewer pointed out that the critical habitat proposal did not provide a specific discussion of the concept of habitat fitness, and more particularly, how management in the northern part of the range (flying squirrel habitat) may differ from that in the southern part of the range (woodrat habitat).

Our Response: Spotted owl habitat varies across the range of the species, as does the most effective configuration of habitat within a home range to maximize survival and reproduction (e.g., Courtney et al. 2008, p. 16). We have identified PCEs that include the habitat types necessary for spotted owl life stages, but we also recognize that the amount, quality, and configuration of those habitat types depends on local conditions and other factors such as prey availability. Providing for such conditions will necessarily involve different management in different portions of the range; however, describing the multitude of management options and combinations of options is beyond the scope of this critical habitat designation. This designation defines the “what” and “how much” of habitat essential for the conservation of the species; the “how” aspect will be addressed across the range of the species in response to habitat conditions as part of the Act's section 7 consultation process.

(23) Comment: One peer reviewer pointed out that the proposed revised critical habitat made some use of section 3(5)(a) of the Act to exclude areas from critical habitat consideration and suggested that this should be dominant approach to any exclusions, rather than relying on section 4(b)(2) exclusions.

Our Response: Section 3(5)(A) of the Act defines critical habitat; to the extent that certain areas do not meet that definition, they not included. The Secretary has the discretion to exclude lands that have been proposed under section 4(b)(2) of the Act, upon a determination that the benefits of such exclusion outweigh the benefits of specifying a particular area as part of the critical habitat (unless the failure to designate such an area would result in the extinction of the species). As described in the proposed rule, all areas proposed for designation were considered for possible exclusion under section 4(b)(2). No exclusions have been made in this final revised critical habitat designation.

(24) Comment: One peer reviewer suggested that critical habitat should consider the potential value of some surrounding matrix lands, which may also provide habitat for owls. In some areas these may have become better habitat than the areas within critical habitat. The reviewer did not suggest that these areas be included in critical habitat.

Our Response: Lands outside of critical habitat (e.g., in the timber land base of land use plans) may play a role in recovery of the northern spotted owls. As noted earlier, critical habitat designations do not signal that habitat outside the designation is unimportant. There are areas outside the final critical habitat designation that continue to support spotted owls and their habitat; we expect that these areas will contribute to recovery. However, we also note that section 3(5)(C) of the Act states that critical habitat shall not include the entire geographical area which can be occupied by the species, except under special circumstances determined by the Secretary. Based on the final recovery plan, we do not believe it is necessary to include matrix areas in this designation.

(25) Comment: Several peer reviewers provided input on specific statements, including suggestions or requests for clarification, questions on details, and editorial comments.

Our Response: We have incorporated our responses to these comments into this final rule.

Comments from the Public

(26) Comment: One commenter pointed out that the Service used one of many network configurations under the draft recovery plan that would meet rangewide habitat needs over 30 or more years. The commenter stated that these areas were simply recommendations and were not necessarily identified because they contain the PCEs required in a critical habitat designation.

Our Response: The network of habitat areas in the critical habitat designation is only one of many potential configurations that might be devised. However, the particular network of habitat blocks that we are designating as critical habitat is that which has been specifically derived to achieve the recovery of the northern spotted owl, as recommended by the most current recovery plan for the species (USFWS 2008) and based on the most recent modeling efforts (Marcot et al. 2008). We believe the network of conservation areas recommended by the recovery plan represents the best available science regarding the conservation of the northern spotted owl. Although these areas were selected for their contribution to recovery through their size and spacing on the landscape, and not defined with critical habitat specifically in mind, the habitat qualities which we have defined as the PCEs for the northern spotted owl were also key criteria for the selection of the conservation areas recommended in the recovery plan. We have determined that the areas included in this revised critical habitat designation provide the physical and biological features that are essential for the conservation of the northern spotted owl and that require special management, thus meeting the definition of critical habitat as provided by the Act.

The configuration of the MOCA network was based on the configuration of the DCA network from the 1992 Draft Recovery Plan for the Northern Spotted Owl (USFWS 1992), which in turn was based on the Habitat Conservation Areas from the ISC Report (Thomas et al. 1990). These Habitat Conservation Areas were based on the attributes of “superior owl habitat” as described in the ISC Report (Thomas et al. 1990, p. 19); these attributes equate to PCEs (ii)(A) through (ii)(C), and may also function as PCE (iii) (spotted owl dispersal habitat). As part of establishing the MOCA network some modifications were made to the DCAs in order to: better align them with subsequent U.S. Forest Service and BLM land management plan reserves (e.g., LSRs); meet the spacing requirements; or include areas where BLM modeling demonstrated future habitat was likely to form into large or small blocks of habitat capable of supporting more spotted owls (USFWS 2008, pp. 82 to 83).

(27) Comment: Several commenters objected to various aspects of Option 2 of the recovery plan, and asserted that the Service had erred by relying on this option, in part, for its proposed revision of critical habitat. Two commenters stated that granting the authority to decide the location of critical habitat units (through MOCA boundaries) to local U.S. Forest Service and BLM managers under Option 2 of the 2007 draft recovery plan constitutes an inadequate regulatory mechanism.

Our Response: Option 2 has been deleted from the final 2008 Recovery Plan for the Northern Spotted Owl. This final revision of critical habitat does not rely on Option 2 as presented in the April 2007 Draft Recovery Plan for the Northern Spotted Owl.

(28) Comment: Many commenters stated that the Service relied on the flawed 2007 Draft Recovery Plan for the Northern Spotted Owl, which itself did not use the best scientific evidence, and should not be used to as the basis for critical habitat designation. Commenters provided several examples of flaws, many from the recovery plan's peer reviews. Other commenters suggested that is not appropriate to base critical habitat on a draft recovery plan that is highly controversial and still subject to change based on scientific review and public comments.

Our Response: The 2007 draft recovery plan was extensively peer reviewed and also underwent an additional level of independent scientific review; the 2008 final recovery plan was informed by those reviews. This final revision of critical habitat is based on the 2008 final recovery plan, as revised in response to public and peer review comments, as well as independent scientific review, and not on the original draft plan. We believe it is appropriate to base our critical habitat designation on this document, which identifies those areas deemed essential for the conservation and recovery of the species based on the best available science. See also our response to Peer Review Comment 1.

(29) Comment: One commenter pointed out that more recent modeling (Noon and McKelvey 1996) called for reserves large enough to support 30 to 40 spotted owl pairs and questioned why we did not apply this information. Another commenter believes the Service used out-dated population persistence models for the spotted owl, which were the basis for the habitat block sizes.

Our Response: See response to Peer Review Comment 2.

(30) Comment: Two commenters stated that the Service failed to consider the impacts on the owl and its critical habitat from global warming and should have expanded the reserve network to do so.

Our Response: The effects of climate change are difficult to predict at the local or regional level. The 2008 final recovery plan, upon which the critical habitat is based, acknowledges climate change as a potential but difficult-to-quantify threat. The current best estimates predict an increase in wildfire in the range of the spotted owl due to the warming climate. The 2008 final recovery plan describes a landscape management approach in the more fire-prone eastside provinces of the spotted owl to best ensure sufficient spotted owl habitat persists in a strong and increasing disturbance regime. However, designating critical habitat requires that specific geographic boundaries be described and mapped; such a requirement does not match with a landscape management approach involving a system of moving habitat patches over time. We have, therefore, designated revised critical habitat units in the eastside provinces based on the MOCAs originally identified for the eastside provinces by the Recovery Team (USFWS 2007), as these represent the most recent delineation of specific conservation areas for the northern spotted owl in this region. These areas meet the criteria regarding contiguity, habitat quality, size, spacing, and distribution used to identify critical habitat within the range of the northern spotted owl. Many of these areas have been designated as LSRs, or are managed under land use plans to develop the PCEs of spotted owl habitat. As the dry forest landscape management strategy described in the final recovery plan is implemented and we work with our fellow Federal agencies to maintain sufficient spotted owl habitat in these areas, we may adjust critical habitat to better reflect our evolving knowledge of this temporally dynamic system.

(31) Comment: Several commenters wrote of concerns with portions of the recovery plan addressing management activities within MOCAs that are the basis for critical habitat designation. One commenter questioned the application of information on habitat fitness and targets for percentages of habitat in the draft recovery plan. Many commenters recommended that no logging be allowed in mature and old growth, but some thinning of dense young stands and thinning small trees in the dry climates on the east side of the Cascades be allowed. One commenter stated that the Service completely omitted new science regarding the pervasive and detrimental impacts of post-fire salvage logging on ecosystem processes and functions.

Our Response: The 2008 final recovery plan has addressed many of the comments and issues raised with regards to the application of scientific information. In particular, it eliminated habitat fitness targets for MOCAs and now calls for management of habitat-capable lands in MOCAs to produce the highest amount and highest quality northern spotted owl habitat possible (Recovery Action 5; USFWS 2008, p. 20). It also calls for post-fire habitat modifications in MOCAs to focus mainly on habitat restoration (Recovery Action 10; USFWS 2008, p. 26). The 2008 final recovery plan recognizes that a different management strategy is necessary in the dry, eastside provinces that are characterized by frequent disturbance (e.g., see “Habitat Management in Dry Forests” and “Dry-Forest Landscape Work Group, ” USFWS 2008, pp. 20 to 26). In addition, Appendix E of the final recovery plan, “Fire and Spotted Owl Habitat, ” was written by an interagency group of fire ecologists using the best available information and considering the information in all of the publications mentioned in the comment (USFWS 2008).

The designation of critical habitat does not create a management plan for the units, or establish a refuge, wilderness, reserve, preserve, or other conservation area. We cannot, in a designation, establish specific management standards or requirements for critical habitat. Federal agencies are required by section 7(a)(2) of the Act to ensure that actions they authorize, fund, or carry out do not result in the destruction or adverse modification of critical habitat. The effect of post-fire salvage logging would be considered in the consultation process when any such projects are proposed, informed by the 2008 final recovery plan. The 2008 final recovery plan does not include goals for habitat percentages in the MOCAs but does call for managing habitat-capable lands to maximize the amount and quality of spotted owl habitat within MOCAs, which we believe is consistent with the critical habitat goals in this rule. Critical habitat does not control, in any way, what happens on lands not within the designation, unless the action has an effect on the critical habitat.

(32) Comment: One commenter requested that the Service reexamine the scientific underpinnings of the habitat reserve concept. The commenter believes that the factual and scientific basis for the ISC's reserve strategy has been undermined by later and better scientific information and that none of the fundamental building blocks of the ISC reserve strategy - the size, distribution, or number of habitat reserve areas - can be justified in a critical habitat designation, which is limited to those that are, in fact, “essential to the conservation of the species.”

Our Response: The 2008 final recovery plan for the northern spotted owl is one of the most extensively reviewed recovery plans our agency has produced. The use of the habitat reserve approach in the westside provinces was carefully considered and the decision to continue with this approach was based on the best science available (see Response to Peer Review Comment 2). The landscape approach in fire-prone forests of the Eastern Washington Cascades, Eastern Oregon Cascades, and California Cascades reflects the need to modify the strict reserve-based approach in more dynamic ecosystems. We believe it is appropriate to base our critical habitat designation in the westside provinces on the final recovery plan, which identifies those areas deemed essential for the conservation and recovery of the species based on the best available science. In the case of the eastside provinces, we believe it is appropriate to base our critical habitat designation on the MOCAs identified in the 2007 draft recovery plan, as these represent our most current understanding of the specific areas essential to the conservation of the owl and that meet our regulatory requirements for the designation of critical habitat. We will consider future adjustments to critical habitat there as new information becomes available.

(33) Comment: Many commenters wrote that the Service did not adequately explain how we could propose reducing critical habitat by 1.5 million acres at a time when northern spotted owl populations are declining and potential threats, such as barred owls, are increasing. One commenter questioned the reduction in critical habitat when the draft recovery plan identified loss of habitat as the number one threat. The commenter cited a recent report on the status and trends of northern spotted owl populations during the first 10 years of the Northwest Forest Plan, stating that the first decade of monitoring did not provide any reason to depart from the Northwest Forest Plan objective of habitat maintenance and restoration. One commenter believed that the Service did not fully consider the results of the recent status review and demographic analysis, and the expansion of the barred owl that they believe supports maintaining or increasing the area in critical habitat. Many commenters stated that the reduction in critical habitat threatens to undermine the northern spotted owl's recovery and may lead to listing as endangered.

Our Response: See Responses to Peer Review Comments 1, 6, and 12.

(34) Comment: One commenter stated that the Service eliminated LSRs from critical habitat because “they are intended to provide for other species as well.” The commenter felt that simply because the LSRs support other species, does not mean that they should have been eliminated from the owl's critical habitat.

Our Response: We believe our statement was misread or misunderstood. LSRs were not eliminated from critical habitat, but on the contrary were intentionally included in the realignment of the DCAs to comprise the MOCA network. However, not all of the LSRs were necessarily essential to the recovery of the northern spotted owl. We did not eliminate LSRs because they were designed to meet the needs of species other than the spotted owl, but pointed out that the LSRs were designed to benefit many species. Our decision on which LSRs to include was based on which areas contained the physical and biological features in the quantity and configuration that were essential to the recovery of the species, based on the 2008 final recovery plan MOCA recommendations. The MOCAs were, in fact, specifically designed to take advantage of reserved land use allocations such as the LSRs of the Northwest Forest Plan and BLM's proposed land use plan reserves (see USFWS 2008, Appendix C).

(35) Comment: One commenter asserted that critical habitat should be expanded to reduce competition with the barred owl and conserve the ecosystem upon which the northern spotted owl depends. The commenter states that the final recovery plan recognizes the value of providing extra habitat in Recovery Action 32, and further cautions the Service against pursuing a single species recovery effort instead of the ecosystem-based Northwest Forest Plan. Another commenter opined that critical habitat should be based on the Northwest Forest Plan, not the final recovery plan for the northern spotted owl.

Our Response: Although one of the stated purposes of the Act is to provide a means by which the ecosystems upon which endangered species and threatened species may depend may be conserved, the statutory provisions of the Act nonetheless maintain a single species focus when it comes to listing, recovery planning, and the designation of critical habitat. The Northwest Forest Plan was developed in 1994 with the intent of conserving numerous species that are dependent upon late-successional forests of the Pacific Northwest, most of which are not listed as threatened or endangered. Toward this end, the Northwest Forest Plan identified LSRs to provide habitat for multiple late-successional forest species, including the northern spotted owl. The MOCA strategy of the 2008 final recovery plan that forms the basis of this critical habitat designation is founded on the concepts and information first presented the ISC Report (Thomas et al. 1990) and later incorporated into the 1992 Final Draft Recovery Plan for the Northern Spotted Owl (USFWS 1992). The 2008 final recovery plan recognized the 1992 Final Draft Recovery Plan as the most recent recovery guidance specific to the northern spotted owl and therefore relied upon that document as the foundation of the final MOCA network instead of the Northwest Forest Plan, since the latter addresses many other forest-dependent species in addition to the owl (USFWS 2008, p. 5). We believe it is appropriate to base our critical habitat designation on the most recent conservation strategy specific to the listed species, in this case the Final Recovery Plan for the Northern Spotted Owl, as indicated by the statute.

The Act's definition of critical habitat in section 3(5)(A) limits any designation to the specific areas within the geographical area occupied by the listed species on which are found those physical or biological features essential to the conservation of the species and which may require special management considerations or protection (and areas outside the range occupied by the species at the time it is listed, if such areas are determined to be essential to the conservation of the species). Critical habitat does not provide for the conservation of broad ecosystems that do not meet this definition. Any areas within the range of the species that may not have the physical and biological features considered essential to its conservation, or that do not require special management considerations or protection, cannot be designated as critical habitat. Although the MOCAs of the final recovery plan (and therefore the critical habitat units designated here) were designed to incorporate the LSRs of the Northwest Forest Plan when possible (USFWS 2008, p. 13, 82 to 83), any areas that were not determined to be essential to the conservation of the northern spotted owl were not included in the designation, in accordance with the Act's definition of critical habitat. See also the response to Comment 34, above.

Regarding barred owls and Recovery Action 32, please see our response to Peer Review Comment 19.

(36) Comment: Two commenters stated that the Final Recovery Plan for the Northern Spotted Owl indicated that increased habitat protections are needed, and pointed specifically to Recovery Action 32 and the need for special management of the entire landscape in the dry forest eastside provinces, suggesting that these areas should be designated as critical habitat. One commenter also suggested that the landscape management strategy suggested for the eastside provinces in the recovery plan should also be applied in the Klamath provinces.

Our Response: Recovery Action 32 of the final recovery plan recommends a near-term strategy of maintaining substantially all of the older and more structurally complex multi-layered conifer forests outside of MOCAs in the westside provinces of the spotted owl's range, allowing for other threats, such as fire and insects, to be addressed by restoration management actions. Providing habitat for the northern spotted owl may then lend itself to provide additional support for reducing the threat from the barred owl (USFWS 2008, pp. 34 to 35). Such areas are anticipated to increase spotted owl populations in areas adjacent to MOCAs, and to allow time to determine the competitive effects of barred owls on spotted owls and the effectiveness of experimental barred owl control measures. This strategy represents a revision from the 2007 draft recovery plan and was first introduced in the May 2008 final recovery plan. This approach was not contemplated in the proposed revision of critical habitat for the northern spotted owl (72 FR 32450). Furthermore, the final recovery plan states that the forest stands that may possibly contribute to this short-term management strategy have not yet been fully defined or identified (USFWS 2008, p. 34). Whether any of this habitat should be designated as critical habitat may be further considered as it is delineated.

As indicated by the commenter, in the Eastern Washington Cascades, Eastern Oregon Cascades, and California Cascades provinces, the 2008 final recovery plan describes a habitat management strategy that seeks to identify and maintain well-distributed, spatially dynamic patches of high quality habitat, manage the lands outside of high quality patches to restore ecological processes and functions, and reduce the potential of stand-replacement fires and insect and disease outbreaks; the plan does not delineate specific, mapped conservation areas in these provinces (USFWS 2008, p.21). However, this landscape strategy of shifting habitat patches does not translate easily into critical habitat which, per our implementing regulations, must “be defined by specific limits using reference points and lines as found on standard topographic maps of the area” (50 CFR 424.12(c)). As critical habitat requires that we specifically delineate geographic areas that provide the physical and biological features essential to the conservation of the northern spotted owl, areas identified for designation in the proposed critical habitat (72 FR 32450), which were based on the MOCAs identified for that region in the 2007 draft recovery plan, are finalized in this rule. These areas meet the criteria regarding contiguity, habitat quality, size, spacing, and distribution used to identify critical habitat within the range of the northern spotted owl, and represent the best available science regarding specific geographic areas within this region that are considered essential to the conservation of the northern spotted owl. Many of these areas have been designated as LSRs, or are managed under LRMPs to develop the primary constituent elements (PCEs) of northern spotted owl habitat. As the land management agencies and scientists work together to implement the habitat management strategy described in the 2008 final recovery plan, we may adjust critical habitat to better reflect their efforts and understanding.

The comment regarding the Klamath provinces is more relevant to the recovery plan than to critical habitat. The final recovery plan recognizes the potential for the application of a broad landscape management strategy in the Oregon and California Klamath provinces, but notes that due to the unique conditions in this region, there is greater uncertainty as to the most appropriate management regime. The plan thus recommends a MOCA network for this region in the interim, and adoption of an adaptive management approach that allows for the development of an appropriate management strategy through the work of the dry-forest landscape work group (Recovery Actions 8 and 9; USFWS 2008, pp. 23 to 26).

We believe that the habitat network recommended in the final recovery plan will be sufficient to recover the northern spotted owl, assuming the currently observed negative population trend has been addressed. As noted in the recovery plan, if negative population growth continues, the population will continue to decline regardless of how much habitat is available (USFWS 2008, p. 77). Population declines have been attributed to a variety of factors in addition to loss of habitat from wildfire and timber harvest, including barred owls, poor weather conditions, and forest defoliation caused by insect infestations (Anthony et al. 2006, p. 33). Thus one key to recovery is to stabilize population growth, which is one of the goals of the recovery plan, and which will require actions to address a variety of threats in addition to habitat loss or degradation. The evidence thus far points to low adult survivorship as the most likely contributor to the declining population trend (Anthony et al. 2006, p. 30, and references therein), and the most recent scientific review points to the barred owl as a plausible cause of low survivorship in many parts of the northern spotted owl's range, while noting that there is no evidence that actions such as increasing the size of habitat reserves would increase survivorship (Courtney et al. 2008, pp. 120 to 121). At present the best available scientific information indicates that the revised critical habitat designation provides the network of large blocks of habitat called for by the recovery plan to achieve the recovery of the species.

(37) Comment: One commenter stated that the Service did not clearly identify the geographical areas occupied by the species at the time it was listed as required by law. In 1989, the Service Status Review Supplement identified 1, 507 known pairs, and stated this likely represented 70 to 80 percent of the population. Based on this, the commenter believes that the Service must define occupied areas by the 1, 507 pairs known at that time. Based on that habitat area used by owl pairs and the need for 40 percent of the land to be habitat, the commenter offered that the Service should designate only 2.1 million acres of critical habitat. Alternatively, the commenter points out that the Service must determine whether habitat outside of the occupied areas is essential to the conservation of the species, under section 3(5)(A)(ii) of the Act.

Our Response: This designation is entirely within the geographic range of the northern spotted owl occupied at the time of listing, as can best be reasonably determined by a combination of historic and recent documented occupancy, known historical distribution, and distribution of current appropriate habitat. We do not believe that the designation of critical habitat under section 3(5)(A)(i) of the Act is narrowly restricted to small areas of documented occupancy, particularly for a wide-ranging species where such a level of detail across the range is rarely, if ever, achievable. Reasonable determinations of occupancy have been made based upon a variety of data sources available to the Service.

(38) Comment: One commenter pointed to the 1992 designation that explicitly included areas not occupied at the time of listing, describing these as needed for linkage to support recolonization of unoccupied portions.

Our Response: We based our critical habitat designation on areas that are within the geographic area occupied by the northern spotted owl at the time of its listing. The 1992 rule used the term “occupied” in terms of individual occupied sites with pairs or resident single owls. Under this approach, the “unoccupied” areas they describe were actually cases of unknown occupancy. All critical habitat in 1992 and in the current designation are within the occupied range of the northern spotted owl at the time of listing.

(39) Comment: One commenter stated that the Service decided not to include areas outside the geographical area presently occupied by the species and that this is not an appropriate justification for eliminating critical habitat.

Our Response: The commenter apparently misunderstood our statement. We stated “[w]e do not propose to designate areas outside the geographical area presently occupied by the species since the species currently occurs throughout its historical range, albeit in very low numbers in some areas.” If the species still occurs throughout its historic range, there are no areas outside of the geographic areas occupied by the species where it would be appropriate to designate critical habitat. We did not need to go beyond the occupied range of the northern spotted owl to designate the areas essential to recovery of the species.

(40) Comment: One commenter suggested that the Service should base critical habitat on where owls currently reside and designate areas of highest use and habitat quality, releasing areas with lower habitat potential, rather than rely on the 13-year-old Northwest Forest Plan.

Our Response: See response to Peer Review Comment 8.

(41) Comment: One commenter pointed out that the Service does not have owl surveys to determine how much potential habitat is occupied and lacks an inventory of lands containing the PCEs, as is required to determine where critical habitat can be designated. The commenter recommended we complete surveys and inventories before designating critical habitat.

Our Response: Section 4 of the Act requires that we designate critical habitat on the basis of the best scientific and commercial data available, and that we consider physical and biological features (primary constituent elements, or PCEs) that are essential to the conservation of the species, within the area occupied by the species at the time of listing, that may require special management considerations and protection. We have used the best information available, including maps and data from the land management agencies, and the information contained in the final recovery plan. The Act does not require surveys of the species prior to critical habitat designation.

(42) Comment: One commenter wrote that the Service proposal does not contain a finding that the areas proposed presently contain the physical and biological features essential for the conservation of the species.

Our Response: The proposed revision of critical habitat stated that one or more of the physical and biological features essential for the conservation of the species or PCEs, were present on all of the critical habitat units in several places in that proposed rule, including 72 FR 32459, 32460, and 32476. We have determined that all of the critical habitat units designated in this final rule provide at least one of the biological and physical features or PCEs essential to the conservation of the northern spotted owl, as described under “Primary Constituent Elements for the Northern Spotted Owl, ” below.

(43) Comment: One commenter stated that the Service did not adequately identify the PCEs essential for conservation of the northern spotted owl. In particular, PCE (ii) did not describe the constituent elements essential for conservation or describe what constitutes “sufficient area, quality and configuration” of forests that are essential to spotted owls.

Our Response: See response to Peer Review Issue 14.

(44) Comment: One commenter wrote of court rulings concerning the required presence of PCEs in all areas designated as critical habitat and our inclusion of areas with the ability to develop these characteristics. The commenter noted that the recovery plan data show that only about half of the areas contain suitable habitat. The commenter also points to recovery plan data to support statements that 1 million acres of the MOCAs on which critical habitat was based are not capable of becoming suitable habitat. The commenter stated that Service should revise critical habitat to omit the areas that do not contain any of the PCEs.

Our Response: The commenter refers to the recovery plan as partial support that the areas proposed for critical habitat do not all contain the PCEs. The recovery plan refers only to “suitable habitat” which does not fully encompass the full set of PCEs identified in the proposed rule. When dispersal habitat and stands containing the requisite ecological conditions to develop an essential habitat type over time are included, all of the critical habitat units contain at least one PCE.

(45) Comment: One commenter stated that the Service has identified no essential physical or biological features to justify inclusion of old growth forests in its proposal.

Our Response: Numerous studies and reviews over the past decades describe how spotted owls generally rely on older forested habitats (e.g., Carroll and Johnson, in press; Courtney et al. 2004) because such forests contain the structures and characteristics required for nesting, roosting, and foraging. Therefore, old growth forests contain the PCEs (i), (ii), and (iii).

(46) Comment: Two commenters questioned the broad nature of PCE (i) (forest types), and whether this creates a requirement to consult on actions that do not affect PCE (ii) or (iii).

Our Response: We have clarified in the final designation that PCE (i) (forest types) applies only where it includes PCEs (ii) (nesting, roosting, or foraging habitat) or (iii) (dispersal habitat) also.

(47) Comment: One commenter stated that PCE (iii) (dispersal habitat) was not relevant because the Service did not propose any critical habitat units based on the presence of this PCE, the recovery plan did not identify any dispersal habitats among the MOCAs, and we did not use dispersal habitat in the mapping of critical habitat units.

Our Response: Dispersal habitat is a component of each critical habitat unit and occurs in all units. Impacts to dispersal habitat could affect use of critical habitat units by reducing successful movements in the units for both territorial spotted owls within their home range and non-territorial owls. Dispersal habitat is important to dispersal within critical habitat, supporting non-territorial owls and their movements, which in turn allow for the replacement of territorial spotted owls when they die or abandon a territory.

(48) Comment: One commenter wrote that nowhere in the revised critical habitat proposal does the Service explain how it used these PCEs in the designation of any particular area as critical habitat.

Our Response: Critical habitat was based on the MOCAs identified in the 2008 final recovery plan as areas essential for recovery of the northern spotted owl, each of which was delineated based on the existence of spotted owl habitat in Habitat Conservation Areas, DCAs, and, subsequently, in the MOCAs. While we did not use the term PCE in establishing the MOCAs in the recovery plan, as this terminology is unique to the designation of critical habitat, these reserve blocks were based on the presence of the habitat characteristics described as PCEs in this rule (e.g., USFWS 2008, pp. 50 to 53).

(49) Comment: Many commenters pointed out that some spotted owls also use younger forest with legacy features such as downed logs and snags, and that this type of habitat should also be protected.

Our Response: Critical habitat is based on the MOCAs identified in the 2008 final recovery plan (and, in the eastside provinces, on the Option 1 MOCAs from the 2007 draft recovery plan). Any such forest with these features that may occur within these MOCAs was designated as critical habitat; these features are included in the PCEs and would receive consideration in consultations on critical habitat.

(50) Comment: One commenter stated that the Service failed to adequately identify the specific geographical places within which physical or geographic features essential to the conservation of the northern spotted owl are present.

Our Response: The critical habitat unit boundaries, as described, are the most precise units that we believe can be reasonably identified for a species with such a wide range. As described in this final rule, we believe the physical and biological features (PCEs) essential to the conservation of the species are present in each of the critical habitat units.

(51) Comment: One commenter stated that the Service failed to include all lands and water essential to recovery, as required by Congress. Another commenter stated that all suitable habitat should be designated as critical habitat, as evidence from the performance of the Northwest Forest Plan suggests that currently protected habitat is not sufficient; therefore reductions in habitat may lead to the extinction of the northern spotted owl.

Our Response: See Response to Peer Review Comments 1 and 6.

(52) Comment: One commenter stated that lacking more definitive science, the proposed critical habitat still includes too many acres of land with no proven benefit to a species that is largely at risk of extinction due to predation and interbreeding with barred owls. If the threat of the barred owl cannot be abated, setting aside land for the spotted owl will not provide species recovery, and thus the land use restrictions resulting from such designation would not be prudent or in keeping with the directive of the Act.

Our Response: The barred owl represents a major threat to the northern spotted owl, but is not the only one. Several recent reports indicate the major threats currently facing the spotted owl are loss of habitat, including loss due to fire, and barred owls. The final recovery plan therefore identifies the three essential elements of the recovery strategy for the northern spotted owl as control of barred owls, management of the dry-forest landscape, and the establishment of the MOCA network (USFWS 2008, p. 12). Although management of the barred owl threat is a high priority, recovery of the northern spotted owl is simply not achievable in the absence of sufficient suitable habitat for the species to persist (e.g., Courtney et al. 2008, p. 16; USFWS 2008, p. VIII, p. 19, p. 20). Sufficient appropriate habitat must be maintained for the northern spotted owl as we learn how to address the barred owl threat; we believe this designation meets that objective of critical habitat. Section 4(b)(2) of the Act requires us to use the best available science in making and revising critical habitat designations; it does not authorize us to wait for definitive information. We believe that this revised designation is based on the best available science.

(53) Comment: One commenter stated that the Service did not identify how much habitat is needed to reach recovery for the northern spotted owl, determine the habitat necessary to meet the needs of a nesting pair, or determine whether the conservation areas provide sufficient habitat for 20 nesting pairs.

Our Response: The revised critical habitat is based on the 2008 final recovery plan, which in turn is based on the best available science, including recent spotted owl habitat area size, spacing, and occupancy modeling (Marcot et al. 2008). The MOCA network identified in the final recovery plan is designed to meet the habitat needs of the spotted owl by delineating the size and spacing of habitat areas needed for long-term persistence of well-distributed owl populations. This included applying information on the amount of habitat needed to support a pair of nesting owls by physiographic province, as the amount varies across the range of the species. This information was used in determining whether the MOCAs on which critical habitat was based were of adequate size to support 20 breeding pairs (see USFWS 2008, Appendix C, for details). We believe this methodology is more effective than trying to identify an arbitrary amount of acreage necessary for conservation, recovery, or critical habitat.

(54) Comment: One commenter pointed out that the 2007 draft recovery plan includes reserves and assumes barred owl reductions. Because the barred owl reductions are not assured, the critical habitat units may not be large enough to provide for the target 20 pairs of spotted owls. Critical habitat units should be increased in size to account for the expected and current exclusion of spotted owls by barred owls. One commenter suggested that the effective size of critical habitat is reduced due to barred owl presence and increasing the area in critical habitat could reduce interactions with barred owls. Many commenters suggested that protecting more habitat would increase the chance that spotted owls and barred owls can coexist.

Our Response: See response to Peer Review Comment 19.

(55) Comment: One commenter stated that old growth forests designated as critical habitat have become hunting grounds for barred owls and, thus, are superfluous. As a result, the Service has not meaningfully identified the geographic areas occupied by the northern spotted owl.

Our Response: The fact that barred owls will use old growth forest does not render it unnecessary for spotted owls. Not all old growth and structurally-diverse forest stands are occupied by barred owls, and these types of forest remain high quality habitat for spotted owls. While we are concerned that barred owls may eventually displace spotted owls completely in some areas, this has not yet happened.

(56) Comment: Two commenters questioned the decision to not designate any critical habitat on non-Federal lands. One pointed out the importance of non-Federal lands for dispersal and habitat connectivity, especially in western Oregon checkerboard lands, northwest Oregon, and southwest Washington.

Our Response: See Response to Peer Review Comment 6.

(57) Comment: One commenter recommended that the Service provide an explicit commitment of resources to non-regulatory recovery programs to facilitate non-Federal landowners to participate in spotted owl recovery.

Our Response: The designation of critical habitat defines areas essential for recovery; it does not include the authority to commit resources to any particular recovery programs.

(58) Comment: Three commenters pointed to the inconsistency between the marbled murrelet critical habitat proposal, where Federal lands were proposed for exclusion under section 4(b)(2) of the Act based on their management as LSRs under land management plans, and this proposal, where Federal lands within LSRs were not proposed for exclusion.

Our Response: The referenced proposed revision of critical habitat for the marbled murrelet that proposed the exclusion of Federal lands was never finalized; on March 6, 2008, we published a decision that the proposed revision should not be made at that time. (73 FR 12067). We have determined not to exclude any lands on the basis of section 4(b)(2) of the Act in this final revised designation of critical habitat for the northern spotted owl.

(59) Comment: The Environmental Protection Agency noted the Northwest Forest Plan states that the Service may review and revise critical habitat for the northern spotted owl based on the provisions of the Northwest Forest Plan Standards and Guidelines. The agency wrote that the proposed rule does not discuss how or whether these standards and guidelines were considered in the proposed revision.

Our Response: The final critical habitat for the northern spotted owl is based on the recommendations of the 2008 final recovery plan, which identifies a specific network of managed owl conservation areas (MOCAs) to achieve the recovery of the species. This revision was not based on the provisions of the Northwest Forest Plan specifically. The land-use allocation and standards and guidelines of the Northwest Forest Plan were a consideration in the delineation of the owl conservation areas recommended in the 2008 final recovery plan for the northern spotted owl, and the MOCAs were designed to take advantage of reserve lands such as the LSRs under the Northwest Forest Plan (USFWS 2008, pp. 82 to 83). Because the LSRs were originally selected to support older forest-dependent species and the congressionally-reserved and administratively withdrawn areas have been managed under restrictions that have promoted the development of older forests, these areas were likely to support spotted owl habitat at higher levels.

(60) Comment: One commenter suggested that, once a wildfire eliminates habitat attributes, the U.S. Forest Service and BLM should have the professional/legal discretion to quickly reallocate northern spotted owl critical habitat in a timely manner that integrates the northern spotted owl habitat considerations into necessary emergency and other restoration activities following the catastrophic event.

Our Response: The designation or subsequent revision of critical habitat requires a formal rulemaking by the Secretary of the Interior; it is not within our agency's authority to delegate this responsibility.

(61) Comment: One commenter recommended that the Service optimize the opportunities for accomplishing multiple habitat objectives within the same area by overlapping areas designated for marbled murrelet critical habitat, LSRs, and other special habitats or sites.

Our Response: Section 3(5)(A) of the Act specifies clear requirements for the designation of critical habitat for threatened or endangered species. The definition of critical habitat includes the specific areas within the geographical area occupied by the species at the time it was listed, and on which are found those physical or biological features essential to the conservation of the species and which may require special management considerations or protection, or specific areas outside the geographical area occupied at the time of listing, upon a determination that such areas are essential for the conservation of the species. The designation of critical habitat for the marbled murrelet and northern spotted owl would intersect only to the extent that critical habitat, as defined independently for each species, overlaps. However, management efficiencies are encouraged; such efficiencies were incorporated into the design of the northern spotted owl recovery plan, which took advantage of existing managed areas on Federal lands to provide for the conservation of the owl.

(62) Comment: One commenter noted that it appeared that the procedure for selecting lands for critical habitat was not applied equally to the U.S. Forest Service and BLM, given that there was a larger reduction of critical habitat on BLM lands. They pointed out that the U.S. Forest Service is held to a higher standard of species management under the National Forest Management Act than BLM, and therefore, the reduction of critical habitat on BLM lands would result in a greater loss of old forest habitat.

Our Response: The critical habitat units are based on the MOCAs in the 2008 Final Recovery Plan for the Northern Spotted Owl which delineated a reserve system capable of meeting the habitat needs of the species, regardless of which Federal agency manages the land.

(63) Comment: One commenter provided a list of new information, suggesting that it should lead to an increase in critical habitat, rather than a decrease. The new information included West Nile virus (because larger populations will survive epidemics better), Sudden Oak Death disease and wildfire (which will cause some habitat loss in units that could be offset by additional acres), climate change (where larger reserves are more likely to retain usable habitat), aggressive application of fuels reduction and healthy forest efforts (that may cause loss of some habitat), past logging practices (which caused habitat loss), and potential elimination of reserves in the BLM's proposed Western Oregon Plan Revisions.

Our Response: The 2008 final recovery plan for the northern spotted owl, upon which this critical habitat designation is based, identified competition from barred owls, habitat loss from logging and fire, and past habitat loss as the main threats facing the species, but also considered other threats. Numerous stresses on the spotted owl population were examined in constructing the recovery strategy, including all of those listed in the comment. Relative to West Nile virus, there are no known cases of spotted owls contracting this disease in the wild and the susceptibility of the species is not known. Sudden Oak Death disease is present in the range of the spotted owl. Recovery Action 20 calls for the monitoring of avian diseases and Sudden Oak Death disease and recommends disease-specific responses if they are detected. The Recovery Plan discusses several of the potential impacts of global climate change on spotted owls and their habitat and recognizes the uncertainty of those impacts. Recovery Action 31 calls for tracking these impacts and adjusting protections and management. BLM is aware of the MOCA network, and we will evaluate the effect of the agency's final planning decision through consultation relative to this critical habitat designation. In light of full consideration of all these impacts to spotted owls and spotted owl habitat, this critical habitat network is judged to be sufficient for conservation of the species.

(64) Comment: The BLM California State Office and the U.S. Forest Service recommended that the Service remove lands in the 2006 Northern California Coastal Wild Heritage Wilderness Act and the Headwaters Forest Reserve from critical habitat based on their statutory management direction.

Our Response: The 2006 Northern California Coastal Wild Heritage Wilderness areas were inadvertently included on the maps of the proposed revised critical habitat designation, and have not been included in this final designation, consistent with our explanation in the preamble to the proposed rule that we intended to do so (72 FR 32459). The Headwaters Forest Reserve was acquired by the BLM in 1999 for the purpose of preserving old-growth forests and is a congressional reserve. As explained previously, we are maintaining the decision made in the 1992 designation of critical habitat to not include congressionally-reserved lands within the boundaries of the critical habitat designation. As described in the proposed rule and consistent with the 1992 designation, the Headwaters Forest Reserve is not included in the final designation.

(65) Comment: The BLM California State Office stated that LSR designation through the Northwest Forest Plan is providing sufficient protection to warrant exclusion of these areas from final northern spotted owl critical habitat under section 4(b)(2) of the Act. The U.S. Forest Service stated that National Forest lands should not be designated as critical habitat because special management is not necessary for spotted owl recovery under existing management plans. Another reviewer stated that BLM lands in western Oregon should not be designated as critical habitat because special management is not needed for spotted owl recovery under existing and proposed management plans, and also because of section 4(b)(2) of the Act.

Our Response: An exclusion under section 4(b)(2) of the Act requires a determination that the benefits of exclusion outweigh the benefits of designation. As demonstrated by the recent proposed revisions to the land management plans of the BLM in western Oregon (Western Oregon Plan Revisions), some of which put existing LSRs under the Northwest Forest Plan into the harvest timber base, we believe the permanence of the LSR or other land use plan designations is too uncertain under the existing record to support exclusion of these areas under section 4(b)(2) of the Act.

(66) Comment: One commenter stated that the Service should not designate areas that have other higher and better land uses (e.g., based on past infrastructure investments).

Our Response: The Act provides for the Secretary of the Interior to designate critical habitat after taking into consideration the economic impact, the impact on national security, and any other relevant impacts of specifying any particular area as critical habitat, at his or her discretion. An exclusion under section 4(b)(2) of the Act requires a determination that the benefits of exclusion outweigh the benefits of designation, and is made at the discretion of the Secretary. We have considered such impacts, including the completion of an economic analysis of the proposed revised critical habitat designation, and determined not to make exclusions based on the record before us.

(67) Comment: The Quinault Nation pointed out that the proposed designation does not include any consideration or analysis of the impacts to the Quinault Nation as required under Secretarial Order 3206. They clarified that the Nation is not offering any additional lands for the designation of critical habitat, and stressed the Service's obligation to carry out their responsibilities with regard to the Act and Secretarial Order 3206.

Our Response: The proposed designation did not include an analysis of the impacts to the Quinault Nation or any other Tribal entity. Consistent with Secretarial Order 3206, because this action will not impact Tribal trust resources, the exercise of Tribal rights, or Indian lands, Tribal consultation was not required. We recognize and accept our responsibilities for prompt and meaningful communication with the Tribes should we undertake any action under the authority of the Act which may affect Tribal lands, Tribal trust resources, or the exercise of Tribal rights.

(68) Comment: One commenter questioned the failure to keep 1992 critical habitat south of Canyon Creek and adjacent to the Buckhorn Wilderness on the Olympic Peninsula, Washington, resulting in a small area surrounded by critical habitat and fragmenting the large, contiguous nature of protected habitat in this area. Several commenters expressed concern about the reduction of critical habitat in the Applegate area of southwest Oregon because of the potential for fragmentation of important habitat and connectivity in the region.

Our Response: We based the final designation of critical habitat for the northern spotted owl on the 2008 final recovery plan. The 2008 final recovery plan did not include 1992 critical habitat south of Canyon Creek and adjacent to the Buckhorn Wilderness on the Olympic Peninsula. The 2008 final recovery plan does include a realignment of about 3, 200 acres in the Klamath Interprovincial critical habitat unit which we have included in the final designation, but does not include any increase in total critical habitat in the area. We believe the size and spacing of the proposed habitat areas is sufficient to maintain a well-distributed spotted owl population.

(69) Comment: One commenter disagreed with the determination that lands managed by the BLM in western Oregon should be designated as critical habitat for the northern spotted owl. The commenter states that section 3(5)(A)(i)(II) of the Act permits designation of critical habitat only in areas “which require special management considerations or protection . . . , ” and that since BLM land use plans, both current and as proposed in the Western Oregon Plan Revisions, provide for species recovery, they preclude the need for additional regulatory protections afforded by a critical habitat designation.

Our Response: We have determined that the BLM lands in western Oregon that are designated here as critical habitat provide the physical and biological features that are essential to the conservation of the northern spotted owl, thus meeting the first prong of the definition of critical habitat under section 3(5)(A)(i)(I) of the Act. As these physical and biological features may also require special management considerations or protection, we conclude that these lands also meet the second prong of the definition under section 3(5)(A)(i)(II) of the Act, and we therefore include these areas in critical habitat for the northern spotted owl. The question of whether the benefits of excluding any lands with such management plans may outweigh the benefits of designating such lands as critical habitat, falls under the discretionary authority of section 4(b)(2) of the Act.

(70) Comment: One commenter suggested that all Forest Service managed lands within LSRs and all O&C lands (lands that fall under the Oregon and California Railroad and Coos Bay Wagon Road Grant Lands Act of 1937, or “O&C Act”) managed by BLM should be excluded from the designation. According to the commenter, all Forest Service lands in LSRs are already dedicated to maintaining and creating spotted owl habitat and that critical habitat would be an unnecessary administrative burden. In addition, he stated that all O&C lands should be excluded since the management of O&C timberlands for the economic benefit of the counties is a non-discretionary action under the O&C Act. In light of National Association of Home Builders v. Defenders of Wildlife, 127 S.Ct. 2518 2007, the commenter believes that the Act does not apply to Federal actions taken to implement a non-discretionary mandate imposed by another statute and, thus, that removal of these lands from the timber base for the purpose of critical habitat is illegal.

Our Response: As part of our section 7 consultation with the Forest Service on their LRMPs, as amended, they have already consulted on various activities carried out on their lands including: roads and trail management, recreation management, special use permit administration, administrative infrastructure, fire and fuels management, and law enforcement. In our biological opinion on the LRMPs, we determined that implementation of the plans was not likely to jeopardize the continued existence of the northern spotted owl. Since critical habitat has been previously designated for this species, the Forest Service has already consulted with us on potential impacts to this species related to the activities outlined in the LRMPs; we do not believe that additional consultation as a result of this critical habitat revision would place an undue burden on the Forest Service in this instance. As the critical habitat designation has the benefit of raising awareness of essential habitat for the northern spotted owl and promoting positive management actions to benefit the recovery and survival of the species, we have determined not to exclude the LSRs from critical habitat on the basis of the current record. See also our Response to Comment 65.

With regard to the comment concerning BLM lands, we do not believe that National Association of Home Builders v. Defenders of Wildlife or the O&C Act give us the authority to not include lands in critical habitat. The Home Builders case is in the context of section 7 of the Act, not section 4, and holds that an agency's duty under section 7(a)(2) of the Act to avoid jeopardizing a listed species or adversely modifying critical habitat applies only to discretionary actions, consistent with our section 7 implementing regulations which apply section 7(a)(2) to “actions in which there is discretionary Federal involvement and control” (see also 50 CFR 402.03). It does not address the designation of critical habitat under section 4 of the Act.

The O&C Act (43 U.S.C. 1181a et seq.), enacted in 1937, provides for O&C lands classified as timberlands to be managed for permanent forest production on a long-term sustained yield basis to provide economic stability of local communities and industries, protect watersheds, regulate stream flow, and provide recreational facilities. While the commenter believes that this precludes BLM from creating non-harvestable reserves on suitable O&C timberlands, he also acknowledges that BLM “has broad discretion to determine where the mandated timber sales will occur, and under what management prescriptions.” Under his view, section 7 cannot operate to frustrate the achievement of the O&C Act's non-discretionary goals. However, he also states that the limitations on section 7 consultation should be narrow and, in many cases, should apply without any departure from normal practices. Thus, assuming for the sake of argument that the commenter's interpretation of the O&C Act is correct, the mandate to designate critical habitat under section 4 of the Act and the resulting application of section 7(a)(2) can be harmonized with the mandates of the O&C Act. For this reason we find no authorization to not include O&C lands from critical habitat based on any express contradiction between the two statutes.

If the commenter means to suggest that O&C lands should be excluded from critical habitat under section 4(b)(2), the record would have to show that the benefits of exclusion outweigh the benefits of inclusion in the designation. While the commenter asserts that O&C lands should be excluded for economic reasons, the commenter provides no information on the economic costs that would result from the designation. The economic analysis we contracted finds that the incremental costs of this designation will be limited to administrative costs, ranging from a total of $132, 000 to $202, 000 annually spread across all critical habitat units, assuming the Western Oregon Plan Revision (WOPR) is part of the baseline and is consistent with this designation. On the other hand, even under the commenter's view of the O&C Act, BLM would have at least some measure of discretion to avoid destroying or adversely modifying critical habitat, thus providing a measure of protection to designated lands. Furthermore, the O&C lands coincide with some of the most productive northern spotted owl habitat, which some experts believe will play a key role in the conservation of the owl (SEI 2008, pp. 20, 22).

In addition, BLM's analysis indicates that management of O&C lands without the designation of blocks of habitat critical for the survival and recovery of the northern spotted owl could actually result in greater costs. BLM's proposed Alternative 3 contained in the Draft Environmental Impact Statement of the WOPR would have approached the conservation of northern spotted owl habitat by managing the harvest of all the O&C lands suitable for timber production under a long rotation age. Thus, if critical habitat were not designated on O&C lands, as suggested by the commenter, the likely outcome would be that BLM would manage the O&C lands to utilize its authority to avoid jeopardy by adopting Alternative 3, or some variation of it. However, BLM's analysis showed that such a long rotation harvest age alternative would have a much lower economic benefit compared to the alternatives adopting a large block strategy similar to this critical habitat designation (BLM 2007, pp. 534 to 553).

Thus, after considering the relevant impacts in the record before us, we have chosen not to exclude the O&C lands on the basis of section 4(b)(2).

Comments from State Agencies

(71) Comment: The Washington Department of Natural Resources recognized the designation of critical habitat as an important complement to the implementation of the final recovery plan for the northern spotted owl, and asked that we revise the adverse modification standards described to ensure that they do not impede the implementation of the recovery plan strategy for actively managing dry, fire-prone eastside forests to sustain northern spotted owl habitat over time.

Our Response: We have modified the discussion of Section 7 Consultation and the Application of the Adverse Modification Standard in this final rule to clarify the relationship between critical habitat and the recovery actions and management goals outlined in the Final Recovery Plan for the Northern Spotted Owl (USFWS 2008). Although consultation would be required, we do not anticipate that any activities that would contribute to implementing the recovery actions and achieving the habitat goals outlined in the recovery plan would result in an adverse modification determination.

Comments Specific to the Draft Economic Analysis

(72) Comment: One commenter suggested that the economic analysis should use a pre-designation timeframe of 1990 - 1992 and a post-designation timeframe that begins after the current northern spotted owl habitat was designated in 1992, instead of dividing economic impacts into pre-designation (1990 - 2007) and post-designation (2008 - 2027) timeframes. The commenter believes that the approach taken “leaves a false impression that significant economic impacts associated with the protection of the owl are now past tense, affected communities and individuals have made adjustments, and designating critical habitat would create little or no economic impact.” The commenter commends the analysis for quantifying the total adverse impact from the NWFP and other owl protection strategies, but criticizes the analysis for assuming the impacts are baseline (impacts related to protections already accorded the species) and not directly forced by a critical habitat designation (impacts associated specifically with the designation of critical habitat for the species) because the 1994 NWFP and the more recent proposed revisions from the WOPR have been materially influenced by the current (1992) critical habitat designation and the proposed revisions to it, stating that a portion of the economic impacts should be attributed to the critical habitat designation.

Our Response: We first designated critical habitat for this species in 1992. The purpose of the 2008 Economic Analysis is to analyze the regulatory impacts of the proposed revision of critical habitat (2007), which will replace the current critical habitat designation (1992). We are not revisiting the original critical habitat designation. Thus, in the economic analysis, “pre-designation” refers to the 1992 designation in place, and “post-designation” refers to the time period after this revised final critical habitat designation is effective.

The intent of the presentation of results in the economic analysis was not to imply that the economic impact of species conservation efforts is over. As the economic analysis illustrates, pre-designation (1990 - 2007) impacts associated with species conservation efforts within the boundaries of the proposed designation total approximately $9.6 billion ($600 million annualized at a 7 percent discount rate), and post-designation (2008 - 2027) impacts are expected to continue to accrue at a similar rate ($600 million annualized at a 7 percent discount rate).

The commenter also disagreed with the assumption that the impacts are baseline (impacts related to protections already accorded the species) and not directly forced by a critical habitat designation (impacts associated specifically with the designation of critical habitat for the species). Conceptually, the incremental economic impacts of the proposed critical habitat on timber production are intended to isolate the role that critical habitat would have on future timber harvests and values. The analysis attempted to identify Forest Service and BLM timber harvest data for certain time periods (e.g., pre-listing in 1990, listing in 1990 until the designation of critical habitat in 1992, critical habitat designation in 1992 until the adoption of the NWFP in 1994, and post-NWFP adoption in 1994) that would allow for an incremental analysis of the impact of critical habitat designation on timber harvest. However, Forest Service and BLM timber harvest data generally represent forest-wide conditions and do not relate to the boundaries of the current or proposed designation. Therefore, the analysis relied upon discussions with Forest Service and BLM land managers and Service personnel who were familiar with the NWFP and WOPR to develop the analytical approach applied in the economic analysis. There may have been some effect of current critical habitat on timber production after the current critical habitat was designated in 1992 (e.g., reduction in areas offered for timber sale to avoid critical habitat) until the NWFP was adopted in 1994, but these effects were difficult to quantify because they were generally subsumed in the reaction of timber industry to listing of the northern spotted owl under the Act (e.g., limiting timber production in response to potential lawsuits), as well as natural fluctuations in the timber industry, which are baseline costs. Consequently, the analysis does not attribute timber harvest reductions to critical habitat. To the extent that critical habitat concerns drive decision-making, the estimate of incremental impacts due to critical habitat may be understated.

(73) Comment: One commenter states that the economic analysis must look at global economic welfare and account for the “net economic benefits” of conserving spotted owl habitat, including the avoided costs of global climate change, species endangerment, polluted drinking water, and degraded quality of life.

Our Response: Where sufficient information is available, the economic analysis attempts to recognize and measure the net economic effects of species conservation efforts imposed on regulated entities and the regional economy as a result of critical habitat designation. That is, it attempts to measure costs imposed on landowners or other users of the resource net of any offsetting gains experienced by these individuals associated with these conservation efforts. The analysis does not attempt to net out broader social benefits that may result incidentally from species conservation. The primary purpose of the rulemaking is the potential to enhance conservation of the species. As stated in the economic analysis, “[r]ather than rely on economic measures, the Service believes that the direct benefits of the proposed rule are best expressed in biological terms that can be weighed against the expected cost impacts of the rulemaking.” Thus, the Service utilizes cost estimates from the economic analysis as one factor against which biological benefits are compared during the section 4(b)(2) weighing process. The Service agrees that, to the extent that additional social benefits, such as improving climate and water quality, eliminating nonnative species, and enhancing quality of life, result from conservation measures for the northern spotted owl, these improvements could also benefit human communities.

Critical Habitat

Critical habitat is defined in section 3 of the Act as

(i) The specific areas within the geographical area occupied by a species, at the time it is listed in accordance with the Act, on which are found those physical or biological features

(a) Essential to the conservation of the species and

(b) That may require special management considerations or protection; and

(ii) Specific areas outside the geographical area occupied by a species at the time it is listed, upon a determination that such areas are essential for the conservation of the species.

Conservation, as defined under section 3 of the Act, means to use all methods and procedures necessary to bring any endangered species or threatened species to the point at which the measures provided pursuant to the Act are no longer necessary. Such methods and procedures include, but are not limited to, all activities associated with scientific resources management such as research, census, law enforcement, habitat acquisition and maintenance, propagation, live trapping, and transplantation, and, in the extraordinary case where population pressures within a given ecosystem cannot be otherwise relieved, may include regulated taking.

Critical habitat receives protection under section 7 of the Act through the prohibition against Federal agencies carrying out, funding, or authorizing the destruction or adverse modification of critical habitat. Section 7(a)(2) of the Act requires consultation on Federal actions that may affect critical habitat. The designation of critical habitat does not affect land ownership or establish a refuge, wilderness, reserve, preserve, or other conservation area. Such designation does not allow the government or public to access private lands. Such designation does not require implementation of restoration, recovery, or enhancement measures by private landowners. Where a landowner requests federal agency funding or authorization for an action that may affect a listed species or critical habitat, the consultation requirements of section 7(a)(2) would apply, but even in the event of a destruction or adverse modification finding, the landowner's obligation is not to restore or recover the species, but to implement reasonable and prudent alternatives to avoid destruction or adverse modification of critical habitat.

For inclusion in a critical habitat designation, the habitat within the geographical area occupied by the species at the time of listing must contain the physical and biological features (we also refer to these as primary constituent elements, or PCEs) essential to the conservation of the species and be included only if those features may require special management considerations or protections. Critical habitat designations, to the extent known using the best scientific data available, are habitat areas that have the capability of providing essential life cycle needs of the species (i.e., areas on which are found the PCEs laid out in the appropriate quantity and spatial arrangement for the conservation of the species).

Section 4 of the Act requires that we designate critical habitat on the basis of the best scientific and commercial data available. Further, our Policy on Information Standards Under the Endangered Species Act, published in the Federal Register on July 1, 1994 (59 FR 34271), and Section 515 of the Treasury and General Government Appropriations Act for Fiscal Year 2001 (Pub. L. 106-554; H.R. 5658) and the associated Information Quality Guidelines issued by the Service, provide criteria, establish procedures, and provide guidance to ensure that decisions made by the Service represent the best scientific data available. They require Service biologists, to the extent consistent with the Act and the best scientific data available, to use primary and original sources of information as the basis for recommendations to designate critical habitat.

When determining which areas should be designated as critical habitat, our primary source of information is generally the information developed during the listing process for the species. Additional information sources include the recovery plan for the species, articles in peer-reviewed journals, conservation plans developed by States and counties, scientific status surveys and studies, biological assessments, other unpublished materials, and expert opinion or personal knowledge.

Habitat is often dynamic, spotted owls may move from one area to another over time, and local populations may increase or decline as habitat changes. Furthermore, we recognize that designation of critical habitat may not include all of the habitat areas that may eventually be determined to be necessary for the recovery of the species. For these reasons, critical habitat designations do not signal that habitat outside the designation is unimportant or may not promote the recovery of the species.

Areas that support populations, but are outside the critical habitat designation, will continue to be subject to conservation actions implemented under section 7(a)(1) of the Act and to the regulatory protections afforded by the section 7(a)(2) jeopardy standard, as determined on the basis of the best available information at the time of the action. Federally funded or permitted projects affecting listed species outside their designated critical habitat areas may require consultation under section 7 of the Act and may still result in jeopardy findings in some cases. Similarly, critical habitat designations made on the basis of the best available information at the time of designation will not control the direction and substance of future recovery plans, habitat conservation plans, or other species conservation planning efforts if new information available to these planning efforts calls for a different outcome.

Primary Constituent Elements

In accordance with section 3(5)(A)(i) and 4(b)(1)(A) of the Act and the regulations at 50 CFR 424.12, in determining which areas to propose as critical habitat within the area occupied by the species at the time of listing, we must consider those physical and biological features (primary constituent elements, or PCEs) in the necessary and appropriate quantity and spatial arrangement essential to the conservation of the species, and that may require special management considerations and protection. These physical and biological features that provide the essential life history requirements of the species include, but are not limited to, the following:

(1) Space for individual and population growth and for normal behavior;

(2) Food, water, air, light, minerals, or other nutritional or physiological requirements;

(3) Cover or shelter;

(4) Sites for breeding, reproduction, and rearing (or development) of offspring; and

(5) Habitats that are protected from disturbance or are representative of the historic geographical and ecological distributions of a species.

As required by 50 CFR 424.12(b), we are to list the known PCEs with our description of critical habitat. The PCEs may include, but are not limited to, the following: roost sites, nesting grounds, spawning sites, feeding sites, seasonal wetland or dryland, water quality or quantity, host species or plant pollinator, geological formation, vegetation type, tide, and specific soil types.

The PCEs in the necessary and appropriate quantity and spatial arrangement essential for the conservation of the northern spotted owl are derived from the biological needs of the species as described in the proposed rule (72 FR 32450) and summarized here.

Space for Population Growth and for Normal Behavior

Northern spotted owls remain on their home range throughout the year; therefore this area must provide all the habitat components and prey needed to provide for the survival and successful reproduction of a territorial pair. The home range of a northern spotted owl is relatively large and varies in size among and within provinces, generally increasing to the north (Courtney et al. 2004, p. 5-24; 55 FR 26117) where home range size ranges from 2, 955 ac (1, 196 ha) in the Oregon Cascades (Thomas et al. 1990, p. 194) to 14, 271 ac (5, 775 ha) on the Olympic Peninsula (USFWS 1992, p. 23; USFWS 1994 in litt., p. 1). Northern spotted owl home ranges are generally larger where northern flying squirrels are the predominant prey and smaller where woodrats are the predominant prey (Zabel et al. 1995, p. 436). Home range size also increases with increasing forest fragmentation (Carey et al. 1992, p. 235; Franklin and Gutiérrez 2002, p. 212; Glenn et al. 2004, p. 45) and decreasing proportions of nesting habitat on the landscape (Carey et al. 1992, p. 235; Forsman et al. 2005, p. 374), suggesting that northern spotted owls increase the size of their home ranges to encompass adequate amounts of suitable forest types (Forsman et al. 2005, p. 374).

Northern spotted owl home ranges contain two distinct use areas: the core area, which is the area that is used most intensively and usually includes the nesting area (Bingham and Noon 1997, pp. 134 to 135), and the remainder of the home range, which is used for foraging and roosting. The size of core areas varies considerably across the northern spotted owl's geographic range following a pattern similar to that of home range size (Bingham and Noon 1997, p. 133), varying from over 4, 057 ac (1, 642 ha) in the northernmost (flying squirrel prey) provinces (Forsman et al. 2005, pp. 370, 375) to less than 500 ac (202 ha) in the southernmost (dusky-footed woodrat prey) provinces (Pious 1995, pp. 9 to 10, Table 2; Zabel et al. 2003, pp. 1036 to 1038).

Core areas contain greater proportions of mature/old forest than random or non-use areas (Courtney et al. 2004, p. 5-13), and the quality of habitat at the core area scale shows the strongest relationships with occupancy (Meyer et al. 1998, p. 34; Zabel et al. 2003, pp. 1027, 1036), survival (Franklin et al. 2000, p. 567; Dugger et al. 2005, p. 873), and reproductive success (Ripple et al. 1997, pp. 155 to 156; Dugger et al. 2005, p. 871). In some areas, edges between forest types within northern spotted owl home ranges may provide increased prey abundance and availability (Franklin et al. 2000, p. 579). For successful reproduction, core areas need to contain one or more forest stands that have both the structural attributes and the location relative to other features in the home range that allow them to fulfill essential nesting, roosting, and foraging functions (Carey and Peeler 1995, pp. 233 to 236; Rosenberg and McKelvey 1999, pp. 1035 to 1037).

The primary function of the remainder of the home range outside the core area is to provide roosting and foraging opportunities essential to the year-round survival of the resident pair to supplement the prey resources in the core area.

Sites for Breeding, Reproduction, and Rearing of Offspring (Nesting)

Nesting habitat provides structural features for nesting, protection from adverse weather conditions, and cover to reduce predation risks for adults and young. Nesting stands typically include a moderate to high canopy closure (60 to 80 percent); a multi-layered, multi-species canopy with large (greater than 30 inches (in) (76 centimeters (cm)) diameter at breast height (dbh)) overstory trees; a high incidence of large trees with various deformities (e.g., large cavities, broken tops, mistletoe infections, and other evidence of decadence); large snags; large accumulations of fallen trees and other woody debris on the ground; and sufficient open space below the canopy for northern spotted owls to fly (Thomas et al. 1990, p. 164; 57 FR 1798).

Recent studies have found that northern spotted owl nest stands tend to have greater tree basal area, number of canopy layers, density of broken-top trees, number or basal area of decadent snags, and volume of decadent logs (Courtney et al. 2004, pp. 5-16 to 5-19, 5-23) than non-nest stands. In some forest types, northern spotted owls nest in younger forest stands that contain structural characteristics of older forests. Nesting northern spotted owls consistently occupy stands having a high degree of canopy cover that may provide thermoregulatory benefits (Weathers et al. 2001, p. 686), allowing northern spotted owls a wider range of choices for locating thermally neutral roosts near the nest site. A high degree of canopy closure may also conceal northern spotted owls, reducing potential predation.

To support northern spotted owl reproduction, a home range requires appropriate amounts of nesting, roosting, and foraging habitat arrayed so that nesting pairs can use it efficiently and safely. In the northern parts of the range where nesting, roosting, and foraging habitat have similar attributes, nesting is generally associated with increasing old forest in the core area (Swindle et al. 1999, p. 1216). In some southern portions of the range, northern spotted owl survival is positively associated with the area of old forest habitat in the core, but reproductive output is positively associated with amount of edge between older forest and other habitat types in the home range (Franklin et al. 2000, pp. 573, 579). This pattern suggests that where dusky-footed woodrats are the primary prey species, core areas that have nesting habitat stands interspersed with varied types of foraging habitat may be optimal for northern spotted owl survival and reproduction.

Cover or Shelter (Roosting)

The primary functions of roosting habitat are to facilitate thermoregulation in summer and winter, shelter northern spotted owls from precipitation, and provide cover to reduce predation risk while resting or foraging. Studies of roosting locations found that northern spotted owls tended to use stands with greater vertical canopy layering (Mills et al. 1993, pp. 318 to 319), canopy closure (King 1993, p. 45), snag diameter (Mills et al. 1993, pp. 318 to 319), diameter of large trees (Herter et al. 2002, pp. 437, 441), and amounts of large woody debris (Chow 2001, p. 24; reviewed in Courtney et al. 2004, pp. 5-14 to 4-16, 5-23). The characteristics of roosting habitat differ from those of nesting habitat only in that roosting habitat need not contain the specific structural features used for nesting (Thomas et al. 1990, p. 62).

Food or Other Nutritional or Physiological Requirements (Foraging)

The primary function of foraging habitat is to provide a food supply for survival and reproduction. Foraging activity is positively associated with tree height diversity (North et al. 1999, p. 524), canopy closure (Irwin et al. 2000, p. 180; Courtney et al. 2004, p. 5-15), snag volume, density of snags greater than 20 in (50 cm) dbh (North et al. 1999, p. 524; Irwin et al. 2000, pp. 179 to 180; Courtney et al. 2004, p. 5-15), density of trees greater than or equal to 31 in (80 cm) dbh (North et al. 1999, p. 524), volume of woody debris (Irwin et al. 2000, pp. 179 to 80), and young forests with some structural characteristics of old forests (Carey et al. 1992, pp. 245 to 247; Irwin et al. 2000, pp. 178 to 179). Northern spotted owls select old forests for foraging in greater proportion than their availability at the landscape scale (Carey et al. 1992, pp. 236 to 237; Carey and Peeler 1995, p. 235; Forsman et al. 2005, pp. 372 to 373), but will forage in younger stands with high prey densities and access to prey (Carey et al. 1992, p. 247; Rosenberg and Anthony 1992, p. 165; Thome et al. 1999, pp. 56 to 57).

Because northern spotted owls show a clear geographic pattern in diet, and different prey species prefer different habitat types, prey distribution contributes to differences in northern spotted owl foraging habitat selection across the range. In the northern portion of their range, northern spotted owls forage heavily in older forests or forests with similar structure that support northern flying squirrels (Rosenberg and Anthony 1992, p. 165; Carey et al. 1992, p. 233). In the southern portion of their range, where woodrats are a major component of their diet, northern spotted owls are more likely to use a variety of stands, including younger stands, brushy openings in older stands, and edges between forest types in response to higher prey density in some of these areas (Solis 1983, pp. 89 to 90; Sakai and Noon 1993, pp. 376 to 378; Carey et al. 1999, p. 73; Sakai and Noon 1997, p. 347; Franklin et al. 2000, p. 579). An adequate amount and distribution of foraging habitat within the home range is essential to the survival and reproduction of northern spotted owls.

Habitats that are Representative of the Historical Geographical and Ecological Distributions of the Northern Spotted Owl

The northern spotted owl inhabits most of the major types of coniferous forests across its geographic range, including Sitka spruce, western hemlock, mixed conifer and mixed evergreen, grand fir, Pacific silver fir, Douglas-fir, redwood/Douglas-fir (in coastal California and southwestern Oregon), white fir, Shasta red fir, and the moist end of the ponderosa pine zone (Forsman et al. 1984, p. 8-9; Franklin and Dyrness 1988, numerous pages; Thomas et al. 1990, p. 145). The vegetative composition of northern spotted owl habitat changes from north to south and from west to east within the species' range. The lower elevation limit of subalpine vegetation types defines the uppermost elevation used by northern spotted owls. This elevation varies with latitude from about 3, 000 feet (ft) (914 meters (m)) above sea level in coastal Washington and Oregon (Davis and Lint 2005, p. 32) to about 6, 000 ft (1, 828 m) above sea level near the southern edge of the range (derived from Davis and Lint 2005, p. 32).

Historically, forest types occupied by the northern spotted owl were fairly continuous, particularly in the wetter parts of its range in coastal northern California and most of western Oregon and Washington. Suitable forest types in the drier parts of the range (interior northern California, interior southern Oregon, and east of the Cascade crest in Oregon and Washington) occur in a mosaic pattern interspersed with infrequently used vegetation types such as open forests, shrubby areas, and grasslands. In the Klamath Mountains Provinces of Oregon and California, and to a lesser extent in the Coast and Cascade Provinces of California, large areas of serpentine soils exist that are typically not capable of supporting northern spotted owl habitat (Davis and Lint 2005, pp. 31 to 33).

Conditions Supporting Non-resident Owls

Landscapes with northern spotted owl habitat likely contain non-resident (non-breeding) northern spotted owls, sometimes referred to as “floaters” (Forsman et al. 2002, pp. 15, 26). These habitats contribute to stable or increasing populations of northern spotted owls by maintaining sufficient individuals to quickly fill territorial vacancies when residents die or leave their territories. Where large blocks of habitat with multiple breeding pairs occur, the opportunities for this integration are enhanced due to the within- block production of potential replacement birds (Thomas et al. 1990, p. 295, 307).

Intervening habitats are important in supporting the successful dispersal of northern spotted owls that is essential to maintaining the genetic and demographic connection among populations both within and across provinces. Habitats that support movements between larger blocks providing nesting, roosting, and foraging habitats for northern spotted owls, act to limit the adverse genetic effects of inbreeding, and provide demographic support to declining populations (Thomas et al. 1990, pp. 271 to 272). Dispersing juvenile northern spotted owls experience high mortality rates (more than 70 percent in some studies (Miller 1989, pp. 32 to 41; Franklin et al. 1999, pp. 25, 28; 55 FR 26115)) from starvation, predation, and accidents (Miller 1989, pp. 41 to 44; Forsman et al. 2002, pp. 18 to 19). Juvenile dispersal is thus a highly vulnerable life stage for northern spotted owls, and enhancing the survivorship of juveniles during this period could play an important role in maintaining stable populations of northern spotted owls.

Juvenile dispersal occurs in steps (Forsman et al. 2002, pp. 13 to 14) between which dispersing juveniles settle into temporary home ranges for up to several months (Forsman et al. 2002, p. 13). During the transience (movement) phase, dispersers used mature and old-growth forest slightly more than its availability; during the colonization phase, mature and old-growth forest was used at nearly twice its availability (Miller et al. 1997, p. 144). Closed pole-sapling-sawtimber habitat was used roughly in proportion to availability in both phases and may represent the minimum condition for movement. Open sapling and clearcuts were used less than expected based on availability during colonization (Miller et al. 1997, p. 145).

Successful juvenile dispersal may depend on locating unoccupied suitable habitat in close proximity to other occupied sites (LaHaye et al. 2001, pp. 697 to 698). Natal dispersal distances, measured from natal areas to eventual home range, tend to be larger for females (about 15 mi (24 km)) than males (about 8.5 mi (13.7 km)) (Courtney et al. 2004, p. 8-5). Approximately 68 percent of radio-marked juveniles of both sexes dispersed greater than 12 mi (19 km) from their natal areas, which was also the average dispersal distance. Approximately 80 percent dispersed greater than 7 mi (11 km) from their natal areas (Thomas et al. 1990, pp. 305 to 306). Northern spotted owls regularly disperse through highly fragmented forested landscapes that are typical of the mountain ranges in western Washington and Oregon (Forsman et al. 2002, p. 22), and have dispersed from the Coastal Mountains to the Cascades Mountains in the broad forested regions between the Willamette, Umpqua, and Rogue Valleys of Oregon (Forsman et al. 2002, p. 22). Corridors of forest through fragmented landscapes serve primarily to support relatively rapid movement through such areas, rather than colonization.

Habitat Capable Areas

The northern spotted owl inhabits a variety of forest types across its range and is usually associated with forests that express mature or old-growth characteristics. The physical and biological features of the designated areas are those elements that provide for successful nesting, roosting, foraging, and dispersal of the northern spotted owl, or the capability of providing for these life functions in the future. Although all of these areas supported fully functioning habitat for the northern spotted owl at some time in the past, and the majority of lands designated support habitat that is functioning at the present time, these habitats are fragmented primarily due to past timber harvest, wildfire, disease, and wind-throw. Furthermore, given natural events such as fire, windstorms, and insect damage, not all habitat-capable lands in a unit are likely to be high quality habitat at any one time. However, these lands retain the physical and biological features necessary to allow for the regrowth of the habitat characteristics required by northern spotted owls and are essential to achieving the area, quality, and configuration of habitat blocks required for recovery of the owl (USFWS 2008, p. 13). The PCEs for the northern spotted owl are thus described as the elements that presently express the characteristics described, as well as the capability of developing those characteristics.

Primary Constituent Elements for the Northern Spotted Owl

Under our regulations, we are required to identify the known physical and biological features (PCEs) essential to the conservation of the northern spotted owl. All areas designated as revised critical habitat for the northern spotted owl are within the geographic area occupied by the species at the time of listing and contain the appropriate forest type (PCE (i)) and at least one other PCE. We have further determined that these PCEs may require special management or protections. Much of the recent research on northern spotted owl biology supports the PCEs described in the previous critical habitat designation; based on our current knowledge, the PCEs described here are more detailed and specific, where possible. Based on our current knowledge of the life history, biology, and ecology of the species and the requirements of the habitat to sustain the essential life history functions of the species, we have determined that the PCEs for the northern spotted owl are:

(i) Forest types that support the northern spotted owl across its geographic range. These forest types are primarily Sitka spruce, western hemlock, mixed conifer and mixed evergreen, grand fir, Pacific silver fir, Douglas-fir, white fir, Shasta red fir, redwood/Douglas-fir (in coastal California and southwestern Oregon), and the moist end of the ponderosa pine coniferous forests zones at elevations up to approximately 3, 000 ft (914m) near the northern edge of the range and up to approximately 6, 000 ft (1, 828 m) at the southern edge (Forsman et al. 1984, pp. 8 to 9; Franklin and Dyrness 1988, numerous pages; Thomas et al. 1990, p. 145; Davis and Lint 2005, p. 32). These forest types may be in early-, mid-, or late-seral stages. This PCE is essential to the conservation of the species because it provides the biotic communities that are known to be necessary for the northern spotted owl. This PCE must occur in concert with at least one of the PCEs described in paragraphs (ii) or (iii), below.

(ii) Nesting, roosting, foraging habitat. Forest types described in paragraph (i) above that contain one or more of the habitat types described below to meet the home range needs of territorial pairs of northern spotted owls throughout the year or that are habitat-capable of developing one or more of these habitat types. (As used in the description of PCEs, areas that are “habitat-capable” of developing an essential habitat component are those forest types described in paragraph (2)(i) above, excluding serpentine soil areas, and that provide the requisite ecological conditions (e.g., moisture regime, soils, aspect, slope, potential vegetative community) for growing and sustaining the structural conditions required for that habitat component.) A home range provides the habitat components essential for the survival and successful reproduction of a resident breeding pair of northern spotted owls. The amount, quality, and configuration of these habitat types required for a home range varies according to local conditions and factors such as the degree of habitat fragmentation, proportion of available nesting habitat, and primary prey species. The core area of the home range is used most intensively and usually includes the nesting area. The remainder of the home range is used for foraging and roosting. Since the northern spotted owl is such a wide-ranging species, what constitutes “sufficient” area, quality or configuration varies according to local conditions. Home range and core area sizes vary widely both within and among physiographic provinces across the range of the northern spotted owl (Courtney et al. 2004, p. 5-24). Core areas, which usually include the nesting habitat, range from over 4, 057 ac (1, 642 ha) in the north (Forsman et al. 2005, pp. 369 to 370) to approximately 500 ac (202 ha) in the south (Pious 1995, pp. 9 to 10, Table 2; Meyer et al. 1998, p. 34; Zabel et al. 2003, pp. 1036 to 1038; Glenn et al. 2004, p. 41). Home range sizes range from 2, 955 ac (1, 196 ha) in the Oregon Cascades (Thomas et al. 1990, p. 194) to 14, 271 ac (5, 775 ha) on the Olympic Peninsula (USFWS 1992, p. 23; USFWS 1994, in litt., p. 1). Many factors may influence the size of the home range utilized by northern spotted owls, including the degree of habitat fragmentation, proportion of available nesting habitat, and primary prey species. The three habitat types within the home range of a northern spotted owl are:

(A) Nesting habitat. Nesting habitat is essential to provide structural features for nesting, protection from adverse weather conditions, and cover to reduce predation risks. It includes a moderate to high canopy closure (60 to 80 percent); a multi-layered, multi-species canopy with large (generally greater than 30 inches (in) (76 centimeters (cm) diameter at breast height (dbh)) overstory trees; a high incidence of large trees with various deformities (e.g., large cavities, broken tops, mistletoe infections, and other platforms); large snags; large accumulations of fallen trees and other woody debris on the ground; and sufficient open space below the canopy for northern spotted owls to fly. Patches of nesting habitat, in combination with roosting habitat (see paragraph (ii)(B) below) must be sufficiently large and contiguous to maintain northern spotted owl core areas and home ranges, and must be proximate to foraging habitat (see paragraph (ii)(C) below). Nesting habitat can also function as roosting, foraging, and dispersal habitat.

(B) Roosting habitat. Roosting habitat is essential to provide for thermoregulation, shelter, and cover to reduce predation risk while resting or foraging. It differs from nesting habitat in that it need not contain those specific structural features used for nesting (such as cavities, broken tops, and mistletoe platforms), but does contain moderate to high canopy closure (60 to 80 percent); a multi-layered, multi-species canopy; large accumulations of fallen trees and other woody debris on the ground; and open space below the canopy for northern spotted owls to fly. Roosting habitat will also function as foraging and dispersal habitat, but not as nesting habitat due to lack of nesting structures.

(C) Foraging habitat. Foraging habitat is essential to provide a food supply for survival and reproduction. It contains some roosting habitat attributes but can consist of more open and fragmented forests or, especially in the southern portion of the range where some younger stands may have high prey abundance and structural attributes similar to those of older forests, such as moderate tree density, subcanopy perches at multiple levels, multi-layered vegetation, or residual older trees. Foraging habitat can also function as dispersal habitat.

(iii) Dispersal habitat. Forest types described in paragraph (i) above that provide one or both of the habitat components described below that are essential to the dispersal of juvenile and non-territorial northern spotted owls, or that are habitat-capable of developing one or both of these components. Dispersal habitat can occur in intervening areas between larger blocks of nesting, foraging, and roosting habitat or within blocks of nesting, roosting, and foraging habitat. Dispersal habitat is essential to maintaining stable populations by filling territorial vacancies when resident northern spotted owls die or leave their territories, and to providing adequate gene flow across the range of the species. The two types of dispersal habitat are:

(A) Habitat supporting the transience phase of dispersal contains stands with adequate tree size and canopy closure to provide protection from avian predators and minimal foraging opportunities. This may include younger and less diverse forest stands than foraging habitat (see paragraph (ii)(C) above), such as even-aged, pole-sized stands, but such stands should contain some roosting structures and foraging habitat to allow for temporary resting and feeding during the movement phase.

(B) Habitat supporting the colonization phase of dispersal is generally equivalent to roosting and foraging habitat and is described in paragraphs (ii)(B) and (ii)(C) above, although it may be in smaller amounts than that needed to support nesting pairs (see paragraph (ii)(A) above).

This revised designation describes the PCEs essential to support the life history functions of the northern spotted owl in the amount and configuration required for the species' conservation. Because not all life history functions require all of the PCEs, not all of the revised critical habitat will contain all of the PCEs. Some units contain all PCEs and support multiple life processes, while some units contain only a portion of the PCEs necessary to support the species' particular use of that habitat. However, all of the critical habitat units in this revised designation support at least the first PCE described (forest-type) in conjunction with at least one of the other PCEs described above.

Criteria Used to Identify Critical Habitat

The Act defines critical habitat in part as areas containing the physical or biological features (PCEs) essential to the conservation of the species. To determine what is essential, we determine the amount and spatial arrangement of PCEs necessary to recover the species. This final revision to critical habitat relies upon the biology and information discussed in the final rule designating the current critical habitat for northern spotted owl (57 FR 1796; January 15, 1992), the Record of Decision for Amendments to U.S. Forest Service and BLM Planning Documents within the Range of the Northern Spotted Owl (USDA and USDI 1994), and the 2008 Recovery Plan for the Northern Spotted Owl (USFWS 2008; incorporating by reference the ISC Report (Thomas et al. 1990) and the 1992 final draft recovery plan for the northern spotted owl (USFWS 1992)). These planning efforts were based on creating and managing large blocks of northern spotted owl habitat to support local populations spaced in a manner that allows for the successful movement of dispersing individuals between these blocks. We relied on the 2008 final recovery plan recommendations regarding contiguity, habitat quality, spacing, and distribution within the range of the northern spotted owl to select large blocks of habitat containing the PCEs in the westside provinces, and the 2007 draft recovery plan for the eastside provinces. We consider PCEs contained in the habitat areas identified in the 2008 final recovery plan to be essential to the conservation of the northern spotted owl.

We used the following criteria to select the specific areas containing the PCEs that are essential to the conservation of the northern spotted owl:

(1) Focus on Federal lands. The foundation of the current recovery strategy, as set forth in the 2008 Final Recovery Plan for the Northern Spotted Owl (USFWS 2008), is a network of MOCAs (i.e., habitat blocks) located on Federal lands. In some areas of limited Federal ownership, private and State lands may help to expedite the recovery of the northern spotted owl by providing demographic support and connectivity to facilitate dispersal among habitat blocks. These voluntary habitat contributions on non-Federal lands (termed Conservation Support Areas) are expected to increase the likelihood that northern spotted owl recovery will be achieved, shorten the time needed to achieve recovery, and reduce management risks associated with the recovery strategy and recovery actions. Although Conservation Support Areas are identified as potentially contributing to recovery, the final recovery plan did not identify these areas as essential; the Federal lands comprising the MOCA network were the only lands identified as essential to the recovery of the species (USFWS 2008, p. 13). Therefore, we considered in making this revised designation only Federal lands on which are found the PCEs that are essential to the conservation of the northern spotted owl for the purposes of designating critical habitat.

(2) Large and small habitat blocks. We relied on recommendations in the 2008 final recovery plan regarding contiguity, habitat quality, spacing, and distribution within the range of the northern spotted owl to select large, contiguous blocks of quality habitat, where possible, for critical habitat units (USFWS 2008, Appendices C and D), with the exception of the eastside critical habitat units which are based on the MOCAs recommended in the 2007 draft recovery plan (see Background, above).

(3) Dispersal distance between blocks. As described in the 2008 final recovery plan, the success of the conservation strategy for the northern spotted owl depends on the relatively frequent dispersal of individuals between large habitat blocks; therefore, the blocks must be separated by distances within the known dispersal distance of juveniles (Thomas et al. 1990, p. 307). Based on the observed dispersal distances of juveniles, the maximum allowable distance between the nearest points of contact of neighboring large habitat blocks is 12 mi (19 km) (Thomas et al. 1990, p. 307, Table P1). To provide an additional measure of successful dispersal security for the smaller blocks, a shorter distance of 7 mi (11 km) (Thomas et al. 1990, p. 308) was used. The scientific principles applied by the ISC, including the determination of dispersal distances, continue to be supported by current available scientific information (Courtney et al. 2004; Marcot et al. 2008; USFWS 2008, pp. 75 to 81).

(4) Habitats representative of the historical geographical and ecological distribution of the northern spotted owl. Habitats that are representative of the historic geographical and ecological distribution of the northern spotted owl are more likely to sustain the species over time. The northern spotted owl has historically occupied a wide range of forested habitat types across the various physiographic provinces within its range. Therefore, this rule designates critical habitat units distributed at appropriate dispersal distances throughout the range of the northern spotted owl in order to conserve and maintain the historical geographical and ecological variation to the extent possible.

When determining revised critical habitat boundaries, we made every effort to avoid including developed areas such as buildings, paved areas, and other structures that lack PCEs for the northern spotted owl. The scale of the maps prepared under the parameters for publication within the Code of Federal Regulations may not reflect the exclusion of such developed areas. Any such structures and the land under them which occur within revised critical habitat boundaries shown on the maps of this rule have been excluded by text in the rule and are not designated as critical habitat. Therefore, Federal actions limited to these areas would not trigger section 7 consultation, unless they affect the species or PCEs in adjacent critical habitat.

We are designating critical habitat within the geographical area occupied by the northern spotted owl, in areas that contain an essential forest type (PCE (i)) and at least one other PCE essential for the conservation of the species, and with PCEs that may require special management considerations or protection.

Special Management Considerations or Protection

When designating critical habitat, we assess whether the areas determined to be occupied at the time of listing and containing the PCEs essential to conservation may require special management considerations or protection. In June 2006, a panel of spotted owl and wildfire ecology experts was assembled to help the spotted owl recovery team identify the most current threats facing the species. With the assumption that existing habitat conservation plans and LRMPs would be in place, the panelists identified and ranked threats to the spotted owl; past habitat loss, current habitat loss, and competition from barred owls were identified as the most-pressing threats to the spotted owl, although it was noted that timber harvest recently has been greatly reduced on Federal lands (USFWS 2008, p. 5).

Among the 12 physiographic provinces, the more fire-prone provinces (Eastern Washington Cascades and Eastern Oregon Cascades, California Cascades, Oregon and California Klamath) scored high on threats from ongoing habitat loss as a result of wildfire and the effects of fire exclusion on vegetation change. Provinces on the westside (Western Washington Cascades and Western Oregon Cascades, Western Washington Lowlands, Olympic Peninsula, and Oregon Coast Range) generally scored high on threats from the adverse effects of habitat fragmentation and ongoing habitat loss as a result of timber harvest (USFWS 2008, p. 8). Consequently, westside provinces and the fire-prone dry forest provinces of will require different management considerations and a different management context.

Northern spotted owls disproportionately use older forests that are typically characterized by large-diameter trees, multiple canopy layers, high levels of standing and down woody material, and generally complex structure. All of these habitat components can be lost as a consequence of timber harvest; large-scale, high intensity fire; or other stochastic events.

Timber harvest has contributed significantly to habitat loss, degradation, and fragmentation for the northern spotted owl, and was the basis for the original listing of the species (55 FR 26114; June 26, 1990). As a result of the listing, and the implementation of the standards and guidelines identified in the Northwest Forest Plan (USDA and USDI 1994), the threat posed by timber harvest on Federal lands has been greatly reduced since 1994. While reduced as a threat, timber harvest clearly has the potential to remove, degrade, or fragment northern spotted owl habitat. However, some forms of timber harvest can also be used as a tool to restore, enhance, and develop individual habitat components that are important to the northern spotted owl.

Vegetation management, including timber management within critical habitat units in the westside provinces should maintain, enhance, or develop the individual habitat components important to nesting, roosting, foraging, and dispersal, as well as provide adequate amounts and juxtapositions of nesting, roosting, foraging, and dispersal habitat. In general, vegetation management in critical habitat units in the westside provinces should seek to maintain or enhance the characteristics of older forest, and provide large blocks of older forest and associated interior forest conditions. Any timber management intended to maintain or enhance northern spotted owl habitat must take into account regional variation in habitat use and associations across the range. For example, in southern portions of the range, harvest plans should carefully consider the mix of prey production habitat, interior old forest, and the edges between them, which would differ from the management for larger, more continuous blocks of older forest in the northern portions of the range (Courtney et al. 2004, pp. 5 to 23).

In the fire-prone dry forest provinces, habitat losses due to increased wildfire intensity and size may be due to excessive fuel buildup resulting from many decades of fire suppression. Vegetation management in these provinces will have a different focus than management in west side provinces. Northern spotted owl habitat is particularly vulnerable in some drier eastside forests such as those in the Eastern Washington Cascades, the Eastern Oregon Cascades, and California Cascades. In these provinces, recent fire losses have been higher than the range of historical variability (Courtney et al. 2004, p. 6-32). In these fire-prone landscapes, it will be important to reduce the risk of large scale habitat loss and restore ecosystem processes and functions (USFWS 2008, p. 20) in order to provide for the recovery function of spotted owl critical habitat. In the dry forest provinces, the distribution of northern spotted owl habitat may be dependent upon a landscape that has been treated to reduce the potential for significant losses by stand replacement fires. Dry forest treatments may include fuels treatments that reduce ladder and ground fuels while still retaining the stand structure that supports spotted owl nesting, roosting, foraging, and dispersal habitat, as these actions may reduce the risk of future loss of habitat to wildfire. In addition, there may be a need for actions that allow for rapid development of replacement spotted owl nesting, roosting and foraging habitat (USFWS 2008, p. 20). Thus, special management is necessary relative to fire management. Under certain circumstances, fuels reduction activities that attempt to return the landscape to a more historical natural condition may have negative effects in the short-term but increase the resilience of spotted owl habitat to large fires over the long-term, thereby supporting the intended recovery function of critical habitat in the future. Management of northern spotted owl habitat in the dry forest provinces should balance the short-term impacts of fire hazard reduction projects with the long-term risk of catastrophic loss of northern spotted owl habitat (Courtney et al. 2004, pp. 6 to 28; see also Appendix E of the recovery plan, USFWS 2008).

Other stochastic events can contribute to loss, degradation, and fragmentation of northern spotted owl habitat; these may include insects, diseases, and windthrow or blowdown. Some areas within the range of the northern spotted owl have already been negatively impacted by these factors, including the eastern Washington Cascades (insects) and eastern Oregon Cascades (insects, disease) (Courtney et al. 2004, pp. 6 to 25). Forest managers have little control over many of these events, but some factors, such as blowdown or windthrows, can in some cases be minimized by management that maintains large, contiguous blocks of older forest, such as the critical habitat units designated here. In some circumstances, forest management can also reduce the potential for large-scale losses to insects and disease.

The loss of large areas of habitat may lead to reduced dispersal capability or, in the worst case, barriers to dispersal, which can result in small, isolated subpopulations. Recent studies show no indication of a current reduction in genetic variation in Washington, Oregon, or California (Barrowclough et al. 1999, pp. 927 to 928; Courtney et al. 2004, p. 11-9; Haig et al. 2004, p. 683), although Henke et al. (2005 pp. i, 14) found “especially low” genetic diversity in northern spotted owls. Any isolation problems that northern spotted owls are experiencing today may not be evident in the genetic record for some time. Areas of concern for isolation include the northern spotted owl's range in Canada, the Olympic Peninsula in Washington, and Marin County in California (Courtney et al. 2004, p. 8-24). Because dispersal is an essential function for northern spotted owls, fragmentation between populations can have negative effects. We considered the distances between critical habitat units and northern spotted owl dispersal ecology during revised critical habitat unit selection. Special management is required to assure that the recommended maximum dispersal distances between blocks of habitat for northern spotted owls are not exceeded.

The final recovery plan confirmed that competition from the barred owl is one of the most pressing threats currently facing the northern spotted owl (USFWS 2008, p. 8) and expresses the need for urgency in addressing the management of barred owls. The recovery plan identifies 12 different recovery actions specific to addressing the threat posed by the barred owl (USFWS 2008, pp. 29 to 35). Given the experimental nature of direct removal as a management tool for barred owl control and the absence of any known habitat-based approach that has successfully favored northern spotted owls, special management considerations for barred owls will need to be developed, as described in the recovery plan.

For these reasons, we have determined that the physical and biological features essential to the conservation of the northern spotted owl may require special management considerations or protection.

Summary of Changes from Proposed Revised Critical Habitat

In preparing this final critical habitat designation for the northern spotted owl, we reviewed and considered comments from the public and peer reviewers on the proposed designation of critical habitat published on June 12, 2007 (72 FR 32450). We also reviewed and considered comments from our announcement of revisions to the proposal and the availability of the draft economic analysis published on May 21, 2008 (73 FR 29471). As a result of the comments and a reevaluation of the revised proposed critical habitat boundaries, we made changes to our designation, as follows:

(1) Due to data and time constraints, some of the mapped critical habitat units in the proposed revised critical habitat for California included newly designated wilderness areas (Pub. L. 109-362, October 17, 2006). However, we stated in the preamble to the proposed rule that critical habitat units in California, including newly designated wilderness areas, would be adjusted to be consistent with the treatment of wilderness areas in Oregon and Washington in the 1992 designation. We did not receive any public comments on this issue, and these new wilderness areas are not included in the final critical habitat designation.

(2) We worked closely with the BLM and Forest Service to identify blocks of habitat within their management jurisdiction that would meet all of the criteria specified above. As a result of this coordination, we proposed that the MOCAs as defined in Option 1 of the 2007 Draft Recovery Plan for the Northern Spotted Owl (USFWS 2007, p. 140) constitute the critical habitat units on National Forest lands. This also applied to BLM lands in the range of the northern spotted owl in California. In the final recovery plan, small changes were made to both Forest Service and BLM lands identified under Option 1 as MOCA 1s and MOCA 2s. Many of the changes were minor, and consisted of correcting mapping errors, improving habitat and dispersal connectivity through small adjustments, or correctly identifying administrative boundaries. These changes are reflected in this final rule in our realignment of critical habitat with the corrected MOCAs in the westside provinces on all Forest Service lands and BLM lands in California, as identified in the 2008 Recovery Plan for the Northern Spotted Owl (USFWS 2008).

(3) On BLM lands in Oregon, we proposed the location of critical habitat units consistent with Option 2 of the 2007 draft recovery plan, which employed a habitat selection rule-set to define areas needed for long-term conservation of the northern spotted owl (USFWS 2007, p. 158). Option 2 of the draft recovery plan has been eliminated and is not utilized in the final 2008 recovery plan. In the interim, the BLM modeled habitat in-growth of these lands and produced new information that identified habitat areas with the capability to develop into large blocks that achieve the size and distribution needs identified in the final recovery plan (i.e., MOCA 1s and MOCA 2s) over the shortest timeframe. This model allowed the BLM to reevaluate the boundaries of the MOCAs on their lands using criteria developed in the final recovery plan. The joint application of the recovery criteria and the new information provided by BLM regarding existing habitat on BLM lands and the ability of this habitat to meet the recovery needs of the species resulted in the identification of the conservation areas identified in the final recovery plan and designated as critical habitat in this rule. These areas are somewhat different than those mapped in the proposed rule but still meet the criteria for designating critical habitat (e.g., within the area occupied at the time of listing, contain the PCEs, form large habitat blocks). The designation of critical habitat on BLM lands in Oregon is now based on the MOCA 1s and MOCA 2s as identified in the 2008 Recovery Plan for the Northern Spotted Owl (USFWS 2008). We provided notice and an opportunity for the public to comment on these changes by making the final recovery plan available and seeking comments on the application of the final recovery plan to critical habitat revisions during the comment period beginning on May 21, 2008 (73 FR 29471).

The areas identified in this final rule constitute a revision from the areas we designated as critical habitat for the northern spotted owl in 1992 (57 FR 1796), and supersedes that designation. In addition, the changes to the proposed revised critical habitat designation identified above in (2) and (3) resulted in a decrease of 25, 539 ac (10, 394 ha) after this final designation from what we proposed to designate as revised critical habitat on June 12, 2007 (72 FR 32450).

Table 1. Differences between proposed and final revised critical habitat. Totals may not sum due to rounding; rounded to nearest 100 units. Small differences between the proposed and final revised critical habitat that are not noted as additions or deletions are due to corrections of the GIS map layer and rounding error. Deletions in California are the result of removing 2006 wilderness areas from critical habitat.
Units | Proposed Revised Critical Habitat ac (ha) | Additions from Proposal to Final ac (ha) | Deletions from Proposal to Final ac (ha) | Final Revised Critical Habitat ac (ha)
Washington
Olympic Peninsula | 331, 700 ac (134, 200 ha) | 0 | 0 | 332, 100 ac (134, 400 ha)
Northwest Washington Cascades | 410, 900 ac (166, 300 ha) | 0 | 17, 500 ac(7, 100 ha) | 393, 500 ac(159, 200 ha)
Okanogan | 115, 600 ac (46, 800 ha) | 0 | 0 | 115, 600 ac(46, 800 ha)
Entiat | 304, 800 ac(123, 300 ha) | 0 | 0 | 304, 800 ac(123, 300 ha)
Southwest Washington Cascades | 523, 700 ac (211, 900 ha) | 0 | 0 | 523, 700 ac(211, 900 ha)
Southeast Washington Cascades | 143, 400 ac (58, 000 ha) | 0 | 0 | 143, 400 ac(58, 000 ha)
Oregon
Northern Oregon Coast Ranges | 321, 400 ac(130, 000 ha) | 53, 900 ac(21, 800 ha) | 5, 300 ac(2, 100 ha) | 370, 000 ac(149, 700 ha)
Southern Oregon Coast Ranges | 204, 300 ac(82, 700 ha) | 34, 400 ac(13, 900 ha) | 25, 900 ac(10, 500 ha) | 212, 700 ac(86, 100 ha)
Western Oregon Cascades North | 334, 700 ac (135, 400 ha) | 900 ac(400 ha) | 0 | 335, 600 ac (135, 800 ha)
Hood River | 42, 700 ac (17, 300 ha) | 0 | 0 | 42, 700 ac (17, 300 ha)
Eastern Oregon Cascades | 106, 700 ac(43, 200 ha) | 0 |  | 106, 600 ac(43, 100 ha)
Western Oregon Cascades South | 448, 400 ac (181, 500 ha) | 0 |  | 448, 100 ac(181, 300 ha)
Willamette/North Umpqua | 119, 600 ac (48, 400 ha) | 45, 500 ac(18, 400 ha) | 46, 600 ac(18, 900 ha) | 118, 500 ac(48, 000 ha)
Rogue-Umpqua | 165, 500 ac(67, 000 ha) | 52, 700 ac(21, 300 ha) | 34, 400 ac(13, 900 ha) | 183, 800 ac(74, 400 ha)
Oregon and California
Oregon Klamath Mountains | 195, 200 ac(79, 000 ha) | 600 ac(200 ha) | 500 ac(200 ha) | 195, 200 ac (79, 000 ha)
Klamath Intra-Province | 96, 600 ac(39, 100 ha) | 3, 200 ac(1, 300 ha) | 3, 200 ac(1, 300 ha) | 96, 600 ac (39, 100 ha)
Southern Cascades | 226, 400 ac(91, 600 ha) | 19, 900 ac(8, 100 ha) | 0 | 246, 300 ac(99, 700 ha)
Scott and Salmon Mountains | 242, 400 ac (98, 100 ha) | 0 | 0 | 242, 200 ac(98, 100 ha)
California
Coastal Redwoods | 6, 900 ac (2, 800 ha) | 0 | 0 | 6, 900 ac (2, 800 ha)
Coastal Humboldt | 49, 300 ac (20, 000 ha) | 0 | 18, 600 ac(7, 500 ha) | 30, 700 ac(12, 400 ha)
King Range | 40, 300 ac (16, 300 ha) | 0 | 25, 500 ac(10, 300 ha) | 14, 800 ac(6, 000 ha)
South Fork Mountain Divide | 145, 200 ac(58, 800 ha) | 0 | 7, 300 ac(3, 000 ha) | 137, 900 ac (55, 800 ha)
Eel - Russian River | 21, 900 ac (8, 900 ha) | 0 | 1, 700 ac(700 ha) | 20, 300 ac(8, 200 ha)
Mendocino Coast Ranges | 215, 100 ac (87, 000 ha) | 0 | 28, 900 ac(11, 700 ha) | 186, 200 ac (75, 400 ha)
Western Klamath/Siskiyou Mountains | 240, 100 ac(97, 200 ha) | 0 | 20, 800 ac(8, 500 ha) | 219, 300 ac (88, 700 ha)
Trinity Divide | 13, 900 ac (5, 600 ha) | 0 | 0 | 13, 900 ac (5, 600 ha)
Shasta-Trinity Lakes | 86, 800 ac(35, 100 ha) | 0 | 0 | 86, 800 ac(35, 100 ha)
Eastern Klamath Mountains | 110, 800 ac (44, 800 ha) | 0 | 0 | 110, 800 ac(44, 800 ha)
Shasta/McCloud | 73, 300 ac (29, 700 ha) | 0 | 0 | 73, 300 ac(29, 700 ha)
Total | 5, 337, 700 ac (2, 159, 900 ha) | 211, 100 ac(85, 400 ha) | 236, 200 ac(95, 600 ha) | 5, 312, 300 ac(2, 149, 800 ha)

Critical Habitat Designation

We are designating 29 units as critical habitat for the northern spotted owl in Washington, Oregon, and California for a total of approximately 5, 312, 300 ac (2, 149, 800 ha). These units replace the 1992 critical habitat designation at 50 CFR 17.95(b). The critical habitat units described below constitute our best assessment of areas within the area occupied at the time of listing that contain the physical and biological features that may require special management considerations or protection, and that were found to be essential to the conservation of the northern spotted owl. Table 2 identifies the areas that meet the definition of critical habitat for the northern spotted owl. Table 3 provides the approximate area by ownership encompassed within each critical habitat unit determined to meet the definition of critical habitat for the northern spotted owl.

Table 2. Areas determined to meet the definition of critical habitat for the northern spotted owl. [Totals may not sum due to rounding; rounded to nearest 100 units.]
Critical Habitat Unit by State: Unit Number | Critical Habitat Unit by State: Area Name | Area Covered: Acres | Area Covered: Hectares
Washington
Unit 1 | Olympic Peninsula | 332, 100 ac | 134, 400 ha
Unit 2 | Northwest Washington Cascades | 393, 500 ac | 159, 200 ha
Unit 3 | Okanogan | 115, 600 ac | 46, 800 ha
Unit 4 | Entiat | 304, 800 ac | 123, 300 ha
Unit 5 | Southwest Washington Cascades | 523, 700 ac | 211, 900 ha
Unit 6 | Southeast Washington Cascades | 143, 400 ac | 58, 000 ha
Oregon
Unit 7 | Northern Oregon Coast Ranges | 370, 000 ac | 149, 700 ha
Unit 8 | Southern Oregon Coast Ranges | 212, 700 ac | 86, 100 ha
Unit 9 | Western Oregon Cascades North | 335, 600 ac | 135, 800 ha
Unit 10 | Hood River | 42, 700 ac | 17, 300 ha
Unit 11 | Eastern Oregon Cascades | 106, 600 ac | 43, 100 ha
Unit 12 | Western Oregon Cascades South | 448, 100 ac | 181, 300 ha
Unit 13 | Willamette/North Umpqua | 118, 500 ac | 48, 000 ha
Unit 14 | Rogue-Umpqua | 183, 800 ac | 74, 400 ha
Oregon and California
Unit 15 | Oregon Klamath Mountains | 195, 200 ac | 79, 000 ha
Unit 16 | Klamath Intra-Province | 96, 600 ac | 39, 100 ha
Unit 17 | Southern Cascades | 246, 300 ac | 99, 700 ha
Unit 25 | Scott and Salmon Mountains | 242, 200 ac | 98, 000 ha
California
Unit 18 | Coastal Redwoods | 6, 900 ac | 2, 800 ha
Unit 19 | Coastal Humboldt | 30, 700 ac | 12, 400 ha
Unit 20 | King Range | 14, 800 ac | 6, 000 ha
Unit 21 | South Fork Mountain Divide | 137, 900 ac | 55, 800 ha
Unit 22 | Eel - Russian River | 20, 300 ac | 8, 200 ha
Unit 23 | Mendocino Coast Ranges | 186, 200 ac | 75, 400 ha
Unit 24 | Western Klamath/Siskiyou Mountains | 219, 300 ac | 88, 700 ha
Unit 26 | Trinity Divide | 13, 900 ac | 5, 600 ha
Unit 27 | Shasta-Trinity Lakes | 86, 800 ac | 35, 100 ha
Unit 28 | Eastern Klamath Mountains | 110, 800 ac | 44, 800 ha
Unit 29 | Shasta/McCloud | 73, 300 ac | 29, 700 ha

Table 3. Federal ownership of critical habitat units designated for the northern spotted owl. [Totals may not sum due to rounding; rounded to nearest 100 units
Critical Habitat Units | U.S. Forest Service: Acres | U.S. Forest Service: Hectares | BLM: Acres | BLM: Hectares
Washington
Olympic Peninsula | 332, 100 ac | 134, 400 ha | 0 |
Northwest Washington Cascades | 393, 500 ac | 159, 200 ha | 0 |
Okanogan | 115, 600 ac | 46, 800 ha | 0 |
Entiat | 304, 800 ac | 123, 300 ha | 0 |
Southwest Washington Cascades | 523, 700 ac | 211, 900 ha | 0 |
Southeast Washington Cascades | 143, 400 ac | 58, 000 ha |  |
Oregon
Northern Oregon Coast Ranges | 206, 700 ac | 83, 600 ha | 163, 300 ac | 66, 100 ha
Southern Oregon Coast Ranges | 67, 800 ac | 27, 400 ha | 144, 900 ac | 58, 600 ha
Western Oregon Cascades North | 334, 700 ac | 135, 400 ha | 900 ac | 400 ha
Hood River | 42, 700 ac | 17, 300 ha | 0 |
Eastern Oregon Cascades | 106, 600 ac | 43, 100 ha | 0 |
Western Oregon Cascades South | 448, 000 ac | 181, 300 ha | 100 ac | 40 ha
Willamette/North Umpqua | 0 |  | 118, 500 ac | 48, 000 ha
Rogue-Umpqua | 23, 400 ac | 9, 500 ha | 160, 500 ac | 65, 000 ha
Oregon and California
Oregon Klamath Mountains | 194, 600 ac | 78, 800 ha | 600 ac | 200 ha
Klamath Intra-Province | 58, 000 ac | 23, 500 ha | 38, 600 ac | 15, 600 ha
Southern Cascades | 191, 600 ac | 77, 500 ha | 54, 700 ac | 22, 100 ha
Scott and Salmon Mountains | 242, 200 ac | 98, 100 ha | 0 |
California
Coastal Redwoods | 6, 900 ac | 2, 800 ha | 0 |
Coastal Humboldt | 0 |  | 30, 700 ac | 12, 400 ha
King Range | 0 |  | 14, 800 ac | 6, 000 ha
South Fork Mountain Divide | 133, 800 ac | 54, 100 ha | 4, 100 ac | 1, 700 ha
Eel - Russian River | 0 |  | 20, 300 ac | 8, 200 ha
Mendocino Coast Ranges | 186, 200 ac | 75, 400 ha | 0 |
Western Klamath/Siskiyou Mountains | 215, 600 ac | 87, 200 ha | 3, 700 ac | 1, 500 ha
Trinity Divide | 13, 900 ac | 5, 600 ha | 0 |
Shasta-Trinity Lakes | 85, 700 ac | 34, 700 ha | 1, 100 ac | 400 ha
Eastern Klamath Mountains | 110, 800 ac | 44, 800 ha | 0 |
Shasta/McCloud | 73, 300 ac | 29, 700 ha | 0 |

Below we provide a brief description of those lands being designated as critical habitat for the northern spotted owl in this final rule.

Washington

Unit 1. Olympic Peninsula

The Olympic Peninsula Unit consists of approximately 332, 100 ac (134, 400 ha) in Clallam, Jefferson, Mason, and Grays Harbor Counties, Washington, and is comprised of lands managed by the Olympic National Forest. This unit includes one area that, with approximately 479, 400 ac (194, 000 ha) of habitat or habitat-capable areas in the adjacent Wilderness and Olympic National Park, meets the size requirement of a large habitat block, and two areas that meet the size requirement of small habitat blocks.

Unit 2. Northwest Washington Cascades

The Northwest Washington Cascades Unit consists of approximately 393, 500 ac (159, 200 ha) in Whatcom, Skagit, Snohomish, King, and Kittitas Counties, Washington, and is comprised of lands managed by the Mt. Baker-Snoqualmie and Wenatchee National Forests. This unit includes one area that, with approximately 18, 200 ac (7, 400 ha) of habitat or habitat-capable in the adjacent Wilderness and the North Cascades National Park, meets the size requirement of a large habitat block. There are also 12 areas that, with approximately 163, 700 ac (66, 200 ha) of habitat or habitat-capable areas in adjacent Wilderness and the North Cascades National Park, meet the size requirement of small habitat blocks and two areas wholly within critical habitat that meet the size requirement of small habitat blocks.

Unit 3. Okanogan

The Okanogan Unit consists of approximately 115, 600 ac (46, 800 ha) in Whatcom, Okanogan, and Chelan Counties, Washington, and is comprised of lands managed by the Okanogan and Wenatchee National Forests. This unit includes three areas that, with approximately 65, 600 ac (26, 600 ha) of habitat or habitat-capable areas in the adjacent Wilderness and the North Cascades National Park, meet the size requirement of small habitat blocks and four areas wholly within critical habitat that meet the size requirement of small habitat blocks.

Unit 4. Entiat

The Entiat Unit consists of approximately 304, 800 ac (123, 300 ha) in Chelan and Kittitas Counties, Washington, and is comprised of lands managed by the Wenatchee and Mt. Baker-Snoqualmie National Forests. This unit includes three areas that, with approximately 60, 900 ac (24, 600 ha) of habitat or habitat-capable areas in the adjacent Wilderness, meet the size requirement of large habitat blocks and four areas that, with approximately 26, 700 ac (10, 800 ha) of habitat or habitat-capable areas in the adjacent Wilderness, meet the size requirement of small habitat blocks.

Unit 5. Southwest Washington Cascades

The Southwest Washington Cascades Unit consists of approximately 523, 700 ac (211, 900 ha) in King, Pierce, Thurston, Lewis, Skamania, Cowlitz, Kittitas, and Yakima Counties, Washington, and is comprised of lands managed by the Mt. Baker-Snoqualmie, Gifford Pinchot, and Wenatchee National Forests. This unit includes three areas that, with approximately 122, 500 ac (49, 600 ha) of habitat or habitat-capable areas in the adjacent Wilderness and Mount Rainier National Park, meet the size requirement of large habitat blocks and one area wholly within critical habitat that meets the size requirement of a large habitat block. In addition, there are two areas wholly within critical habitat that meet the size requirement of small habitat blocks and one area that, with approximately 19, 700 acres (8, 000 ha) of habitat or habitat-capable areas in the adjacent Wilderness, meets the size requirement of a small habitat block.

Unit 6. Southeast Washington Cascades

The Southeast Washington Cascades Unit consists of approximately 143, 400 ac (58, 000 ha) in Kittitas, Yakima, and Skamania Counties, Washington, and is comprised of lands managed by the Wenatchee and Gifford Pinchot National Forests. This unit includes four areas that, with approximately 73, 600 ac (30, 000 ha) of habitat or habitat-capable areas in the adjacent Wilderness, meet the size requirement of small habitat blocks and two areas wholly within critical habitat that meet the size requirement of small habitat blocks.

Unit 7. Northern Oregon Coast Ranges

The Northern Oregon Coast Ranges Unit consists of approximately 370, 000 ac (149, 700 ha) in Tillamook, Yamhill, Polk, Lincoln, Benton, and Lane Counties, Oregon, and is comprised of lands managed by the Siuslaw National Forest (206, 700 ac (83, 600 ha)) and Salem and Eugene BLM Districts (163, 300 ac (66, 100 ha)). This unit includes one area that, with approximately 16, 500 ac (6, 700 ha) of habitat or habitat-capable areas in the adjacent Wilderness, meets the size requirement of a large habitat block and one area wholly within critical habitat that meets the size requirement of a large habitat block. In addition, there is one area that, with approximately 5, 800 ac (2, 300 ha) of habitat or habitat-capable areas in the adjacent Wilderness, meets the size requirement of small habitat block and six areas wholly within critical habitat that meet the size requirement of a small habitat blocks.

Unit 8. Southern Oregon Coast Ranges

The Southern Oregon Coast Ranges Unit consists of approximately 212, 700 ac (86, 100 ha) in Lane, Coos, and Douglas Counties, Oregon, and is comprised of lands managed by the Siuslaw National Forest (67, 800 ac (27, 400 ha)) and Eugene, Roseburg and Coos Bay BLM Districts (144, 900 ac (58, 600 ha)). This unit includes one area that, with approximately 600 ac (200 ha) of habitat or habitat-capable areas in the adjacent Congressionally-reserved lands, meets the size requirement of a small habitat block and three areas wholly within critical habitat that meet the size requirement of small habitat blocks.

Unit 9. Western Oregon Cascades North

The Western Oregon Cascades North Unit consists of approximately 335, 600 ac (135, 800 ha) in Linn, Marion, Clackamas, Hood River, and Multnomah Counties, Oregon, and is comprised of lands managed by the Mt. Hood and Willamette National Forests (334, 700 ac (135, 400 ha)) and Salem BLM District (900 ac (400 ha)). This unit includes five areas that, with approximately 151, 500 ac (61, 300 ha) of habitat or habitat-capable areas in the adjacent Wilderness, meet the size requirement of large habitat blocks and one area wholly within critical habitat that meets the size requirement of a small habitat block.

Unit 10. Hood River

The Hood River Unit is comprised of approximately 42, 700 ac (17, 300 ha) in Hood River and Wasco Counties, Oregon, and is comprised of lands managed by the Mt. Hood National Forest. This unit includes one area that, with approximately 14, 500 ac (5, 900 ha) of habitat or habitat-capable areas in the adjacent Wilderness, meets the size requirement of a large habitat block.

Unit 11. Eastern Oregon Cascades

The Eastern Oregon Cascades Unit is comprised of approximately 106, 600 ac (43, 100 ha) in Jefferson, Deschutes, and Klamath Counties, Oregon, and is comprised of lands managed by the Deschutes National Forest. This unit includes five areas that, with approximately 32, 900 ac (13, 300 ha) of habitat or habitat-capable areas in the adjacent Wilderness and Crater Lake National Park, meet the size requirement of small habitat blocks and two areas wholly within critical habitat that meet the size requirement of small habitat blocks.

Unit 12. Western Oregon Cascades South

The Western Oregon Cascades South Unit consists of approximately 448, 100 ac (181, 300 ha) in Jackson, Douglas, Lane, and Linn Counties, Oregon, and is comprised of lands managed by the Willamette, Umpqua, and Rogue River National Forests (448, 000 ac (181, 300 ha)) and Eugene BLM Districts (100 ac (40 ha)). This unit includes five areas that, with approximately 184, 200 ac (74, 500 ha) of habitat or habitat-capable areas in the adjacent Wilderness, meet the size requirement of large habitat blocks and three areas wholly within critical habitat that meet the size requirement of large habitat blocks.

Unit 13. Willamette/North Umpqua

The Willamette/North Umpqua Unit is comprised of approximately 118, 500 ac (48, 000 ha) of lands in Lane and Douglas Counties, Oregon, and is comprised of lands managed by the Eugene and Roseburg BLM Districts. This unit includes one area that meets the size requirement of a large habitat block and two areas that meet the size requirement of small habitat blocks. These areas provide for habitat connectivity and northern spotted owl movement via the inter-provincial connection from the western Cascades to the Oregon Coast Ranges.

Unit 14. Rogue/Umpqua

The Rogue/Umpqua Unit consists of approximately 183, 800 ac (74, 400 ha) in Douglas and Josephine Counties, Oregon, and is comprised of lands managed by the Umpqua National Forest (23, 400 ac (9, 500 ha)) and Roseburg and Medford BLM Districts (160, 500 ac (65, 000 ha)). This unit includes one area that, with approximately 4, 100 ac (1, 700 ha) of habitat or habitat-capable areas in the adjacent Wilderness, meets the size requirement of a large habitat block, and three areas wholly within critical habitat that meet the size requirement of small habitat blocks. These areas provide for habitat connectivity and northern spotted owl movement via the inter-provincial connection from the western Cascades to the Oregon Coast Ranges across the Rogue-Umpqua divide.

Unit 15. Oregon Klamath Mountains

The Oregon Klamath Mountains Unit is a total of approximately 195, 200 ac (79, 000 ha), including 189, 400 ac (76, 600 ha) in Coos, Curry, and Josephine Counties, Oregon, and 5, 800 ac (2, 300 ha) in the northernmost portion of Del Norte County, California. It is comprised of lands managed by the Siskiyou and Six Rivers National Forests (194, 600 ac (78, 800 ha)) and Coos Bay BLM District (600 ac (200 ha)). This unit includes three areas that, with approximately 111, 200 ac (45, 000 ha) of habitat or habitat-capable areas in the adjacent Wilderness, meet the size requirement of large habitat blocks and one area that, with approximately 17, 700 ac (7, 200 ha) of habitat or habitat-capable areas in the adjacent Wilderness, meets the size requirement of a small habitat block. The northern spotted owl population in the Oregon Klamath Province is the major population link between the Oregon Coast Ranges and western Oregon Cascades Provinces. It also provides the primary connection between northern spotted owl populations in Oregon and California.

Unit 16. Klamath Intra-Province

The Klamath Intra-Province Unit is a total of approximately 96, 600 ac (39, 100 ha), including 90, 500 ac (36, 600 ha) in Josephine and Jackson Counties, Oregon, and 6, 100 ac (2, 500 ha) in the northern portion of Siskiyou County, California. It is comprised of lands managed by the Rogue-Siskiyou and Klamath National Forests (58, 000 ac (23, 500 ha)) and Medford BLM District (38, 600 ac (15, 600 ha)). This unit includes one area that meets the size requirement of a large habitat block and one area that meets the size requirement of a small habitat block. These areas provide essential habitat connections through an area of limited habitat in the Klamath Province.

Unit 17. Southern Cascades

The Southern Cascades Unit is a total of approximately 246, 300 ac (99, 700 ha), including 206, 600 ac (83, 600 ha) in Jackson and Klamath Counties, Oregon, and 39, 700 ac (16, 100 ha) in the northern portion of Siskiyou County, California. It is comprised of lands managed by Rogue-Siskiyou, Winema, and Klamath National Forests (191, 600 ac (77, 500 ha)) and Medford and Lakeview BLM Districts (54, 700 ac (22, 100 ha)). This unit includes two areas that, with approximately 47, 600 ac (19, 300 ha) of habitat or habitat-capable areas in the adjacent Wilderness, meet the size requirement of large habitat blocks and two areas wholly within critical habitat that meet the size requirement of large habitat blocks. The unit also includes one area that, with approximately 11, 000 ac (4, 400 ha) of habitat or habitat-capable areas in the adjacent Wilderness, meets the size requirement of a small habitat block and two areas wholly within critical habitat that meet the size requirement of small habitat blocks.

Unit 18. Coastal Redwoods

The Coastal Redwoods Unit consists of approximately 6, 900 ac (2, 800 ha) in Del Norte County, California, and is comprised of lands managed by Six Rivers National Forest. This unit includes one area that, with approximately 7, 300 ac (3, 000 ha) of habitat or habitat-capable areas in the adjacent portions of Redwood National Park, meets the size requirement of a small habitat block.

Unit 19. Coastal Humboldt

The Coastal Humboldt Unit consists of approximately 30, 700 ac (12, 400 ha) in Humboldt and Mendocino Counties, California, and is comprised of lands managed by the BLM Arcata Field Office. This unit includes four areas that, with approximately 15, 900 ac (6, 400 ha) of habitat or habitat-capable areas in the adjacent Congressionally-Reserved areas, meet the size requirement of small habitat blocks and eight areas wholly within critical habitat that meet the size requirement of small habitat blocks.

Unit 20. King Range

The King Range Unit consists of approximately 14, 800 ac (6, 000 ha) in Humboldt and Mendocino Counties, California, and is comprised of lands managed by the BLM Arcata Field Office. This unit includes one area that, with approximately 25, 400 ac (10, 300 ha) of habitat or habitat-capable areas in the adjacent Congressionally-Reserved areas, meets the size requirement of a small habitat block.

Unit 21. South Fork Mountain Divide

The South Fork Mountain Divide Unit consists of approximately 137, 900 ac (55, 800 ha) in Humboldt and Trinity Counties, California, and is comprised of lands managed by the Six Rivers and Shasta-Trinity National Forests (133, 800 ac (54, 100 ha)) and BLM Arcata Field Office (4, 100 ac (1, 700 ha)). This unit includes one area that, with approximately 7, 300 ac (3, 000 ha) of habitat or habitat-capable areas in the adjacent Wilderness, meets the size requirement of a large habitat block, two areas wholly within critical habitat that meet the size requirement of small habitat blocks, and one area that, with approximately 200 ac (100 ha) of habitat or habitat-capable areas in the adjacent Wilderness, meets the size requirement of a small habitat block.

Unit 22. Eel-Russian River

The Eel-Russian River Unit consists of approximately 20, 300 ac (8, 200 ha) in Mendocino and Trinity Counties, California, and is comprised of lands managed by the BLM Ukiah and Arcata Field Offices. This unit includes three areas that, with approximately 3, 100 ac (1, 300 ha) of habitat or habitat-capable areas in the adjacent associated Wilderness, meet the size requirement of small habitat blocks and five areas wholly within critical habitat that meet the size requirement of small habitat blocks.

Unit 23. Mendocino Coast Ranges

The Mendocino Coast Ranges Unit consists of approximately 186, 200 ac (75, 400 ha) in Mendocino, Lake, Colusa, Glenn, Tehama, and Trinity Counties, California, and is comprised of lands managed by the Mendocino National Forest. This unit includes one area that, with approximately 111, 800 ac (45, 200 ha) of habitat or habitat-capable areas in the adjacent Wilderness, meets the size requirement of a large habitat block and one area wholly within critical habitat that meets the size requirement of a large habitat block. In addition, the unit includes five areas wholly within critical habitat that meet the size requirement of small habitat blocks.

Unit 24. Western Klamath/Siskiyou Mountains

The Western Klamath/Siskiyou Mountains Unit consists of approximately 219, 300 ac (88, 700 ha) in Del Norte, Humboldt, Trinity, Shasta, and Siskiyou Counties, California, and is comprised of lands managed by the Six Rivers and Shasta-Trinity National Forests (215, 600 ac (87, 200 ha)) and BLM Redding Field Office (3, 700 ac (1, 500 ha)). This unit includes three areas that, with approximately 202, 100 ac (81, 800 ha) of habitat or habitat-capable areas in the adjacent associated Wilderness, meet the size requirement of large habitat blocks and two areas wholly within critical habitat that meet the size requirement of large habitat blocks. In addition, the unit includes one area that, with approximately 8, 000 ac (3, 200 ha) of habitat or habitat-capable areas in the adjacent associated Wilderness, meets the size requirement of a small habitat block.

Unit 25. Scott and Salmon Mountains

The Scott and Salmon Mountains Unit is a total of approximately 242, 200 ac (98, 100 ha), including 242, 000 ac (98, 000 ha) in Siskiyou County, California, and 200 ac (100 ha) in Josephine County, Oregon, and is comprised of lands managed by the Klamath National Forest. This unit includes three areas that, with approximately 118, 000 ac (47, 800 ha) of habitat or habitat-capable areas in adjacent Wilderness, meet the size requirement of large habitat blocks, two areas that, with approximately 6, 200 ac (2, 500 ha) of habitat or habitat-capable areas in adjacent Wilderness, meet the size requirement of small habitat blocks, and one area wholly within critical habitat that meets the size requirement of a small habitat block.

Unit 26. Trinity Divide

The Trinity Divide Unit consists of approximately 13, 900 ac (5, 600 ha) in Siskiyou County, California, and is comprised of lands managed by the Klamath National Forest. This unit includes four areas that, with approximately 6, 000 ac (2, 400 ha) of habitat or habitat-capable areas in adjacent Wilderness, meet the size requirement of small habitat blocks and one area wholly within critical habitat that meets the size requirement of a small habitat block. These areas are large enough to contain one to two pairs of northern spotted owls each, forming a “stepping-stone” string of small areas providing connectivity to the eastern Klamath Mountains.

Unit 27. Shasta-Trinity Lakes

The Shasta-Trinity Lakes Unit consists of approximately 86, 800 ac (35, 100 ha) in Shasta and Trinity Counties, California, and is comprised of lands managed by the Shasta-Trinity National Forest (85, 700 ac (34, 700 ha)) and BLM Redding Field Office (1, 100 ac (400 ha)). This unit includes eight areas that, with approximately 12, 600 ac (5, 100 ha) of habitat or habitat-capable areas in adjacent Wilderness, meet the size requirement of small habitat blocks and three areas wholly within critical habitat that meet the size requirement of small habitat blocks.

Unit 28. Eastern Klamath Mountains

The Eastern Klamath Mountains Unit consists of approximately 110, 800 ac (44, 800 ha) in Shasta and Siskiyou Counties, California, and is comprised of lands managed by the Shasta-Trinity and Klamath National Forests. This unit includes one area wholly within critical habitat that meets the size requirement of a large habitat block and four areas that meet the size requirement of small habitat blocks.

Unit 29. Shasta/McCloud

The Shasta/McCloud Unit consists of approximately 73, 300 ac (29, 700 ha) in Siskiyou and Shasta Counties, California, and is comprised of lands managed by the Klamath, Lassen, and Shasta-Trinity National Forests. This unit includes one area that, with approximately 200 ac (100 ha) of habitat or habitat-capable areas in adjacent Wilderness, meets the size requirement of a small habitat block and 12 areas wholly within critical habitat that meet the size requirement of small habitat blocks.

Effects of Critical Habitat Designation

Section 7 Consultation

Section 7 of the Act requires Federal agencies, including the Service, to ensure that actions they fund, authorize, or carry out are not likely to destroy or adversely modify critical habitat. In our regulations at 50 CFR 402.02, we defined destruction or adverse modification as “a direct or indirect alteration that appreciably diminishes the value of critical habitat for both the survival or recovery of a listed species. Such alterations include, but are not limited to, alterations adversely modifying any of those physical or biological features that were the basis for determining the habitat to be critical.” However, recent decisions by the 5th and 9th Circuit Courts of Appeals have invalidated this definition (see Gifford Pinchot Task Force v. U.S. Fish and Wildlife Service, 378 F. 3d 1059 (9th Cir 2004) and Sierra Club v. U.S. Fish and Wildlife Service et al., 245 F.3d 434, 442F (5th Cir 2001)). Pursuant to current national policy and the statutory provisions of the Act, destruction or adverse modification is determined on the basis of whether, with implementation of the proposed Federal action, critical habitat would remain functional (or retain the current ability for the PCEs to be functionally established) to serve the intended conservation role for the species.

Section 7(a) of the Act requires Federal agencies, including the Service, to evaluate their actions with respect to any species that is proposed or listed as endangered or threatened and with respect to its critical habitat, if any is proposed or designated. Regulations implementing this interagency cooperation provision of the Act are codified at 50 CFR 402.

Section 7(a)(2) of the Act requires Federal agencies to ensure that activities they authorize, fund, or carry out are not likely to jeopardize the continued existence of a listed species or to destroy or adversely modify its designated critical habitat. If a Federal action may affect a listed species or its critical habitat, the responsible Federal agency (action agency) must enter into consultation with us. At the conclusion of this consultation, the Service will issue either:

(1) a concurrence letter for Federal actions that may affect, but are not likely to adversely affect, listed species or critical habitat; or

(2) a biological opinion for Federal actions that may affect, but are likely to adversely affect, listed species or critical habitat.

If we issue a biological opinion concluding that a project is likely to result in jeopardy to a listed species or the destruction or adverse modification of critical habitat, we also provide reasonable and prudent alternatives to the project, if any are identifiable, to avoid those outcomes. “Reasonable and prudent alternatives” are defined at 50 CFR 402.02 as alternative actions identified during consultation that:

• Can be implemented in a manner consistent with the intended purpose of the action,

• Can be implemented consistent with the scope of the Federal agency's legal authority and jurisdiction,

• Are economically and technologically feasible, and

• Would, in the Director's opinion, avoid jeopardizing the continued existence of the listed species or destroying or adversely modifying critical habitat.

Reasonable and prudent alternatives can vary from slight project modifications to extensive redesign or relocation of the project. Costs associated with implementing a reasonable alternative are similarly variable.

Regulations at 50 CFR 402.16 require Federal agencies to reinitiate consultation on previously reviewed actions, in part, in instances where a new species is listed or critical habitat is subsequently designated that may be affected and the Federal agency has retained discretionary involvement or control over the action or such discretionary involvement or control is authorized by law. Consequently, some Federal agencies may request reinitiation of consultation with us on actions for which formal consultation has been completed, if those actions may affect subsequently listed species or designated critical habitat or adversely modify or destroy proposed critical habitat. Other regulatory criteria for reinitiation of consultation are found at 50 CFR 402.16.

Federal activities that may affect the northern spotted owl or its designated critical habitat will require section 7 consultation under the Act. Activities on State, Tribal, local or private lands requiring a Federal permit (such as a permit from the U.S. Army Corps of Engineers under section 404 of the Clean Water Act (33 U.S.C. 1251 et seq.) or a permit from the Service under section 10(a)(1)(B) of the Act) or involving some other Federal action (such as funding from the Federal Highway Administration, Federal Aviation Administration, or the Federal Emergency Management Agency) are examples of agency actions that may be subject to the section 7 consultation process. Federal actions not affecting listed species or critical habitat, and actions on State, Tribal, local or private lands that are not federally funded, authorized, or permitted, do not require section 7(a)(2) consultations.

Application of the Adverse Modification Standard for Actions Involving Effects to Northern Spotted Owl Critical Habitat

The key factor related to the adverse modification determination is whether, with implementation of the proposed Federal action, the affected critical habitat would remain functional (or retain the current ability to develop the necessary habitat characteristics, in situations where the PCEs have been temporarily degraded) to serve the intended conservation role for the northern spotted owl. Generally, the conservation role of northern spotted owl critical habitat is to support a viable owl population at the rangewide scale by providing a network of functional units within each physiographic province.

For a wide-ranging species such as the northern spotted owl, where multiple critical habitat units are designated, each unit has a provincial and rangewide role in contributing to the conservation of the species as described in the recovery plan. The size and distribution of these critical habitat units are based on the MOCAs identified in the 2008 final recovery plan for the northern spotted owl in the westside provinces and the 2007 draft recovery plan for the eastside. MOCAs are intended to support stable and well-distributed populations of spotted owls over time and allow for movement of spotted owls across the network of MOCAs (USFWS 2008, p.13). The basis for a destruction or adverse modification opinion would be whether the effects of a proposed Federal action appreciably reduce the ability of critical habitat to support its intended conservation role (e.g., a viable rangewide population of the northern spotted owl) by evaluating those effects at the critical habitat unit, physiographic province, and rangewide scales. While evaluating the local effects must be done to determine whether the unit can continue to fulfill its particular function, a destruction or adverse modification finding would ultimately be based on the effects to the value of critical habitat at the provincial and rangewide scales for the survival or recovery of the species. In all cases, the determination of whether an action is likely to cause the destruction or adverse modification of critical habitat will be determined, in part, by the current condition of the critical habitat at the unit, province, and rangewide scales, along with the scope, scale, and specific parameters of the action.

In any proposed or final regulation that designates critical habitat, section 4(b)(8) of the Act requires us to briefly evaluate and describe those activities involving a Federal action that may destroy or adversely modify such habitat, or that may be affected by such a designation. Activities vary in degree of impact on PCEs or unit function. Actions may have no effect, provide wholly beneficial effects (e.g., improve habitat condition), produce both short-term adverse effects and long-term beneficial effects, or result in adverse effects. Actions with no effect on critical habitat do not require section 7 consultation relative to critical habitat, though they may still have effects on the species that require consultation. Actions that are likely to adversely affect critical habitat require formal consultation. Actions with effects that are discountable, insignificant, or completely beneficial may result in a determination of “not likely to adversely affect.” This determination can be made after informal consultation, and does not require formal section 7 consultation. For clarity, we will discuss each level of effect separately. We have provided examples of hypothetical projects at each level, though the actual level of effect is dependent on the details of the project and the condition of the critical habitat unit; therefore a specific project may warrant a different effects determination than described below.

Actions resulting in wholly beneficial effects include activities that actively promote the development or improve the functionality of critical habitat for the northern spotted owl without incurring any adverse effects. For example, this might include variable-density thinning in forests that do not currently support nesting, roosting, or foraging, where these thinning treatments are designed to speed the development of these habitats while maintaining dispersal habitat function. This may also include thinning or other treatments in young plantations that do not provide even dispersal habitat (but are capable of providing habitat), where these actions are specifically designed to speed development of spotted owl habitat. Nevertheless, such actions may affect critical habitat and would require consultation under section 7 of the Act, but may warrant a determination of not likely to adversely affect critical habitat. In such instances, consultation on effects to critical habitat may be concluded with informal consultation and the Service's issuance of a concurrence letter.

Likewise, if the adverse effects of a proposed Federal action on the PCEs of spotted owl critical habitat at the stand scale are expected to be discountable (extremely unlikely to occur) or insignificant, the action may affect, but is not likely to adversely affect, northern spotted owl critical habitat. In such cases, the Federal action agency can complete the section 7 compliance process through informal consultation. Examples of such actions may include pre-commercial or commercial thinning (e.g., light thinning of a 30-year-old forested stand) that does not delay the development of PCEs and the removal of a few hazard trees at the edge of nesting, roosting, or foraging habitat where the removal does not include any potential nest trees and the stand conditions are not altered by this removal.

Some proposed Federal activities may have short-term adverse effects and long-term beneficial effects on the PCEs of spotted owl critical habitat. The 2008 final recovery plan for the northern spotted owl anticipates that the MOCAs on the westside, upon which critical habitat is based, will be managed to produce the highest amount and quality of northern spotted owl habitat possible, even if there are short-term negative effects from those actions (USFWS 2008, p. 20). For example, variable thinning in single-story, uniform forest stands to promote the development of multi-story structure and nest trees may result in short-term impacts to the current habitat's capability to support owl dispersal and some foraging but have long-term benefits by creating higher quality habitat that will better support territorial pairs of spotted owls. Such activities would have less impact in critical habitat units where foraging and dispersal habitat is not limiting. Though they may have long-term beneficial effects, because they have short-term adverse effects, such actions may adversely affect critical habitat and would require formal consultation under section 7 of the Act.

In fire-prone landscapes, it will be important to reduce the risk of large scale habitat loss and restore ecosystem processes and functions (USFWS 2008, p. 20) in order to provide for the recovery function of spotted owl critical habitat. Fuels management in fire-prone areas may have both adverse and beneficial effects to spotted owl critical habitat. Dry forest treatments may include fuels treatments that reduce ladder and ground fuels while still retaining the stand structure that supports spotted owl nesting, roosting, foraging, and dispersal habitat, as these actions may reduce the risk of future loss of habitat to wildfire. In addition, there may be a need for actions that allow for rapid development of replacement spotted owl nesting, roosting, and foraging habitat (USFWS 2008, p. 20). Under certain circumstances, fuels reduction activities that attempt to return the landscape to a more historical natural condition will likely have adverse effects on the intended function of critical habitat in the short term but increase the long-term resilience of spotted owl habitat to large fires, thereby supporting the intended recovery function of critical habitat in the future. In such cases, although we would not anticipate that such an action would constitute adverse modification if the activity is compatible with the habitat management goals for that area outlined in the recovery plan, formal consultation would be required.

Other activities that are likely to adversely affect the PCEs of northern spotted owl critical habitat, and are thus likely to require formal consultation, may include, but are not limited to:

(1) Actions that would remove or modify known nest trees or potential nest structures such as large broken-topped trees, snags, and trees with suitable nesting platforms, when such removal reduces the likelihood of owls nesting within the stand. Such activities may adversely affect critical habitat if the magnitude of the action would reduce the likelihood of owls nesting in that forest stand being treated, thus potentially preventing or suppressing reproduction.

(2) Actions that would remove or reduce the quality or quantity of forest conditions that support spotted owl nesting, roosting, foraging, or dispersal at the stand scale, such as removing large trees, reducing canopy closure below certain threshold levels, reducing multi-layered and multi-species stand structure, and reducing down wood or cover that reduces prey populations. Such activities may adversely affect critical habitat if the action is likely to adversely affect the ability of northern spotted owls to breed, feed, or shelter to an extent that increases the risk of predation of adults or young, increases thermal stress, decreases foraging success, decreases reproductive success, or increases mortality resulting from extreme weather.

(3) Actions that would fragment northern spotted owl nesting, roosting, foraging, or dispersal habitat within critical habitat, such that connectivity within or between individual blocks, units, or provinces is reduced or eliminated. Concentrated removal or modification of forested areas within individual blocks could increase the distance northern spotted owls must travel to reach suitable forest conditions, which can result in an increased risk of predation, increased stress, decreased reproductive success, and reduction in foraging opportunities.

(4) Actions that would prevent or appreciably slow the development of spotted owl habitat at the stand scale in areas of critical habitat. Such actions may adversely affect spotted owl critical habitat because older forested stands are more capable of supporting spotted owls than younger stands. Ground disturbances that disrupt the ability of the landscape to grow forested communities within critical habitat to their full potential could decrease northern spotted owl nesting and foraging opportunities, while increasing the distance between blocks of intact habitat, which could result in an increased risk of predation and increased stress on northern posted owls. Harvest of intermediate-aged stands that slows the development of suitable northern spotted owl habitat may adversely affect critical habitat by delaying the time at which that habitat is capable of supporting northern spotted owl breeding, feeding, or sheltering behavior.

(5) Actions that would impede the attainment of habitat management goals as described in the 2008 final recovery plan for the northern spotted owl (USFWS 2008). Examples would be actions that would hamper the implementation of the landscape management strategy for the fire-prone provinces (Recovery Actions 6, 7, and 8; USFWS 2008, pp. 21 to 24). On the westside, actions that slow the development of the highest amount and the highest quality northern spotted owl habitat that the affected lands are capable of producing in the long term (Recovery Action 5, USFWS 2008, p. 20), or post-fire habitat modification in MOCAs that would not conserve those habitat elements (e.g., large trees, snags, down wood) that require the most time to develop and recover. Such actions would adversely affect critical habitat by setting back the development and quality of future spotted owl habitat (Recovery Action 10, USFWS 2008, p. 26).

Most of the discussion so far has focused on the types of projects that may or may not require formal section 7 consultation. However, it is important to distinguish between a finding that a project is likely to adversely affect critical habitat, which triggers formal consultation, and a determination at the conclusion of formal consultation that a project will destroy or adversely modify critical habitat. Since the original designation of critical habitat for the northern spotted owl in 1992 (57 FR 1796), the Service has completed many consultations on projects that were considered to likely adversely affect critical habitat and thus required formal consultation, but it was determined at the conclusion of consultation that the projects would not destroy or adversely modify critical habitat. An action will be determined to destroy or adversely modify critical habitat only if it alters the PCEs to an extent that the intended conservation role of critical habitat for the survival or recovery of the northern spotted owl is appreciably reduced. As discussed above, that determination involves consideration of the effects of an action at the unit and province scales. Because the individual units and provinces have a unique role to play in the intended conservation function of northern spotted owl critical habitat, as described in the recovery plan for the species, this analysis framework creates a structured approach for detecting an appreciable reduction in the conservation function of critical habitat for the species, which is the level at which the adverse modification determination is ultimately made. Each proposed action requiring a section 7 consultation must be evaluated individually, in light of the baseline condition of the critical habitat unit and effect of the impact on the critical habitat unit in light of its provincial and rangewide role in the survival or recovery of the species.

As described above, we do not anticipate that activities consistent with the stated management goals or recommended recovery actions presented in the 2008 Recovery Plan for the Northern Spotted Owl would constitute adverse modification, even if those activities may have adverse effects in the short term, if the result over the long term is an improvement in the function of the habitat to provide for the essential life history needs of the northern spotted owl. An example of these types of actions are those management activities described in Appendix E of the recovery plan, which provides guidance for management of dry forests in the fire-prone provinces to maximize the suitability of habitat for the northern spotted owl in a landscape subject to frequent and severe disturbance (USFWS 2008, pp. 96 to 121). Any such actions, even if provided for in the recovery plan, may still require formal consultation.

Activities that are determined not to destroy or adversely modify critical habitat in one physiographic province setting may receive a destruction or adverse modification determination in another, due to differences in the existing baseline condition and in the significance of project effects on the intended conservation role of critical habitat at the unit, province, and rangewide scales. Therefore, the Service cannot provide, in this rule, a detailed description of the threshold for future actions that would result in the destruction or adverse modification of critical habitat applicable throughout the range of the designated critical habitat. However, we fully anticipate that some projects may be proposed in critical habitat that may adversely affect one ore more PCEs of critical habitat but are not likely to destroy or adversely modify critical habitat.

Economic Analysis

Section 4(b)(2) of the Act requires us to designate critical habitat on the basis of the best scientific information available and to consider the economic and other relevant impacts of designating a particular area as critical habitat. Section 4(b)(2) of the Act allows the Secretary to exclude areas from critical habitat upon a determination that the benefits of such exclusions outweigh the benefits of specifying such areas as critical habitat. We cannot exclude such areas from critical habitat when such exclusion will result in the extinction of the species concerned.

Following the publication of the proposed critical habitat designation, we conducted an economic analysis to estimate the potential economic effect of the designation. The draft analysis was made available for public review on May 21, 2008 (73 FR 29471). We accepted comments on the draft analysis until June 20, 2008.

As described below, in addition to the economic analysis contracted by the Service specific to this revised critical habitat designation, we also considered information contained in the BLM's Draft Environmental Impact Statement for their Western Oregon Plan Revisions (BLM 2007, pp. 534 to 553), particularly as it relates to the economic costs and benefits of designating critical habitat on O&C lands.

The primary purpose of the economic analysis contracted by the Service is to estimate the potential economic impacts associated with the designation of northern spotted owl critical habitat. This information is intended to assist the Secretary in making decisions about whether the benefits of excluding particular areas from the designation outweigh the benefits of including those areas in the designation. The economic impact of the proposed revised critical habitat designation is analyzed by comparing scenarios both “with critical habitat” and “without critical habitat.” The “without critical habitat” scenario represents the baseline for the analysis, considering protections already in place for the species; for example, under the Federal listing and other Federal, State, and local regulations. The baseline, therefore, represents the costs incurred regardless of whether critical habitat is designated. The “with critical habitat” scenario describes the incremental impacts associated specifically with the designation of critical habitat for the species. The incremental conservation efforts and associated impacts are those not expected to occur absent the designation of critical habitat for the species. In other words, the incremental costs are those attributable solely to the designation of critical habitat above and beyond the baseline costs; these are the costs we may consider in the final designation of critical habitat.

The economic analysis estimates the foreseeable economic impacts of the revised critical habitat designation over the next 20 years, and projects the potential incremental costs as a result of the revised critical habitat designation. These incremental costs are those costs attributed to critical habitat over and above those baseline costs coextensive with listing. The analysis quantifies the coextensive economic impacts of northern spotted owl conservation efforts associated primarily with the following activities: (1) Timber management, (2) section 7 consultation, (3) survey and monitoring efforts, and (4) barred owl management. As described by that document, the incremental impacts of the revised critical habitat designation would be attributable entirely to the administrative costs associated with section 7 consultation, and would be borne by Federal agencies.

The annualized pre-designation (1990 to 2007) impacts associated with species conservation activities for the northern spotted owl in area proposed for revised designation are estimated to be $563 million applying a 3 percent discount rate and $600 million applying a 7 percent discount rate. These impacts are related to timber management, survey and monitoring efforts, barred owl management, and section 7 consultations. The post-designation impacts associated with species conservation were estimated over the period 2008 to 2027 for the same four categories of activities. The quantified post-designation baseline impacts (those estimated to occur in the absence of the critical habitat designation) are estimated to be $601.80 to $602.21 million annualized applying a 7 percent discount rate, or $601.77 to $602.15 million annualized applying a 3 percent discount rate, over the 20-year period of analysis. Because these costs are projected to occur whether critical habitat is designated or not, they are not considered in our determination of whether the benefits of including an area as critical habitat outweigh the benefits of excluding the area.

Of the activities considered in the analysis, only the administrative costs of actions taken under section 7 of the Endangered Species Act that are specific to critical habitat for the northern spotted owl were considered to be incremental costs associated with the critical habitat designation. The economic analysis forecasts these incremental impacts associated with the revised designation of critical habitat to be $132, 000 to $202, 000 annualized over the next 20 years using a 7 percent discount rate, and $122, 000 to $195, 000 annualized using a 3 percent discount rate. The U.S. Forest Service (Forest Service) is expected to bear approximately 60 percent of the total anticipated upper-bound incremental impacts, while the U.S. Fish and Wildlife Service is forecast to bear more than 30 percent of these impacts. The economic analysis anticipated the remaining incremental impacts (about 10 percent) would be borne by the Bureau of Land Management (BLM).

The methodology for distinguishing between the incremental costs of designating critical habitat, over and above the costs associated with species protection under the Act more generally, is important. In the absence of critical habitat, Federal agencies must ensure that any actions they authorize, fund, or carry out are not likely to jeopardize the continued existence of any endangered species or threatened species — costs associated with such actions are considered baseline costs. Once an area is designated as critical habitat, proposed actions that have a Federal nexus in this area will also require consultation and potential revision to ensure that the action does not result in the destruction or adverse modification of designated critical habitat — costs associated with these actions are considered incremental costs. Based on historical data, the economic analysis estimates that the post-designation incremental and baseline administrative impacts will collectively result in 23 individual, four batched, and one programmatic consultation annually during the post-designation period. Additionally, each National Forest and BLM district is expected to revise and consult and/or reinitiate consultation on their land and resource management plans.

The economic analysis projects that there will be no changes in management of any habitat resources that entail quantifiable costs resulting from these additional consultations over the 20-year period. For the Forest Service, this is because costs of habitat management to protect northern spotted owls are already envisioned in the Northwest Forest Plan (NFWP), and the majority of both current and proposed critical habitat areas are designated as Late Successional Reserves under the, NWFP on which large scale harvesting of trees is generally not permitted, in order to protect late-successional and old-growth forests that are important to myriad species dependent on such forests, including the northern spotted owl. As revised critical habitat on Forest Service lands is focused on areas that are Late Successional Reserves already managed for the benefit of northern spotted owls, we do not estimate any changes to the management of these areas as a result of critical habitat designation.

On BLM lands, we note that the economic analysis assumed the implementation of BLM's preferred alternative (proposed Alternative 2) of the Western Oregon Plan Revisions (WOPR) as described in the Draft Environmental Impact Statement. Whether the revised critical habitat designation on BLM lands falls within any Late Successional Management Areas that may or may not be finalized under the WOPR may affect the potential timber management costs estimated to be associated with this designation. Since the WOPR have not yet been finalized, we did not find it appropriate to rely on this assumption or the estimated costs based on it. However, the economic analysis estimates that BLM lands account for only 10 percent of the total incremental costs of the revised critical habitat designation. We weighed this factor in combination with the consideration that if critical habitat were not designated on O&C lands, the likely outcome would be that BLM would manage the O&C lands to utilize its authority to avoid jeopardy by adopting its proposed Alternative 3, or some variation of it, which calls for timber management at a long rotation harvest age. BLM's analysis shows that the long rotation harvest age alternative would have a much lower economic benefit compared to the alternatives adopting a large block strategy similar to this critical habitat designation (BLM 2007, pp. 534 to 553). Therefore, from a timber management perspective, there may be greater economic benefits to the designation of critical habitat as opposed to not designating critical habitat. After considering all of this information, we project no significant incremental timber management costs as a result of the critical habitat designation.

Exclusions Under Section 4(b)(2) of the Act

The Secretary may exclude an area from critical habitat under section 4(b)(2) of the Act after taking into consideration the economic impact, the impact on national security, and any other relevant impact if he determines that the benefits of such exclusion outweigh the benefits of designating such area as critical habitat, unless he determines that the exclusion would result in the extinction of the species concerned. We did not propose any specific exclusions under section 4(b)(2) in the proposed revised critical habitat.

Based on comments received on the proposed revised designation itself, information in the final economic analysis contracted by the Service, information in the BLM's Draft Environmental Impact Statement on the WOPR, and the recovery strategy for the northern spotted owl presented in the recovery plan, we are not excluding any areas in this final rule. This is provided for in section 4(b)(2) of the Act, and in our implementing regulations at 50 CFR 424.19. We are therefore designating National Forest and BLM lands that meet the definition of critical habitat for the northern spotted owl because we are unable to conclude that the benefits of excluding these lands outweigh the benefits of their inclusion in critical habitat for the recovery of the northern spotted owl. We will, of course, continue to consider on a case-by-case basis in future critical habitat rules whether to exclude particular Federal lands from such designation when we determine that the benefits of such exclusion outweigh the benefits of their inclusion.

Required Determinations

Regulatory Planning and Review (Executive Order 12866)

The Office of Management and Budget (OMB) has determined that this rule is not significant and has not reviewed this rule under Executive Order 12866 (E.O. 12866). OMB bases its determination upon the following four criteria:

(a)Whether the rule will have an annual effect of $100 million or more on the economy or adversely affect an economic sector, productivity, jobs, the environment, or other units of the government.

(b)Whether the rule will create inconsistencies with other Federal agencies' actions.

(c)Whether the rule will materially affect entitlements, grants, user fees, loan programs, or the rights and obligations of their recipients.

(d)Whether the rule raises novel legal or policy issues.

Regulatory Flexibility Act (5 U.S.C. 601 et seq.)

Under the Regulatory Flexibility Act (RFA) (as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule will not have a significant economic impact on a substantial number of small entities. The SBREFA amended the RFA to require Federal agencies to provide a statement of factual basis for certifying that the rule will not have a significant economic impact on a substantial number of small entities. The SBREFA also amended the RFA to require a certification statement.

Small entities include small organizations, such as independent nonprofit organizations; small governmental jurisdictions, including school boards and city and town governments that serve fewer than 50, 000 residents; as well as small businesses. Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750, 000. To determine if potential economic impacts to these small entities are significant, we consider the types of activities that might trigger regulatory impacts under this rule, as well as the types of project modifications that may result. In general, the term “significant economic impact” is meant to apply to a typical small business firm's business operations.

To determine if the rule could significantly affect a substantial number of small entities, we consider the number of small entities affected within particular types of economic activities (e.g., housing development, grazing, oil and gas production, timber harvesting). We apply the “substantial number” test individually to each industry to determine if certification is appropriate. However, the SBREFA does not explicitly define “substantial number” or “significant economic impact.” Consequently, to assess whether a “substantial number” of small entities is affected by this designation, this analysis considers the relative number of small entities likely to be impacted in an area. In some circumstances, especially with critical habitat designations of limited extent, we may aggregate across all industries and consider whether the total number of small entities affected is substantial. In estimating the number of small entities potentially affected, we also consider whether their activities have any Federal involvement.

Designation of critical habitat only affects activities conducted, funded, or permitted by Federal agencies. Some kinds of activities are unlikely to have any Federal involvement and so will not be affected by critical habitat designation. In areas where the species is present, Federal agencies already are required to consult with us under section 7 of the Act on activities they fund, permit, or implement that may affect the northern spotted owl. Federal agencies also must consult with us if their activities may affect critical habitat. Designation of critical habitat, therefore, could result in an additional economic impact on small entities due to the requirement to reinitiate consultation for ongoing Federal activities.

In general, two different mechanisms in section 7 consultations could lead to additional regulatory requirements for the approximately four small businesses, on average, that may be required to consult with us each year regarding their project's impact on the northern spotted owl and its habitat. First, if we conclude, in a biological opinion, that a proposed action is likely to jeopardize the continued existence of a species or adversely modify its critical habitat, we can offer “reasonable and prudent alternatives.” Reasonable and prudent alternatives are alternative actions that can be implemented in a manner consistent with the scope of the Federal agency's legal authority and jurisdiction, that are economically and technologically feasible, and that would avoid jeopardizing the continued existence of listed species or result in adverse modification of critical habitat. A Federal agency and an applicant may elect to implement a reasonable and prudent alternative associated with a biological opinion that has found jeopardy or adverse modification of critical habitat. An agency or applicant could alternatively choose to seek an exemption from the requirements of the Act or proceed without implementing the reasonable and prudent alternative. However, unless an exemption were obtained, the Federal agency or applicant would be at risk of violating section 7(a)(2) of the Act if it chose to proceed without implementing the reasonable and prudent alternatives.

Second, if we find that a proposed action is not likely to jeopardize the continued existence of a listed animal or plant species, we may identify reasonable and prudent measures designed to minimize the amount or extent of take and require the Federal agency or applicant to implement such measures through non-discretionary terms and conditions. We may also identify discretionary conservation recommendations designed to minimize or avoid the adverse effects of a proposed action on listed species or critical habitat, help implement recovery plans, or to develop information that could contribute to the recovery of the species.

Based on our experience with consultations under section 7 of the Act for all listed species, virtually all projects - including those that, in their initial proposed form, would result in jeopardy or adverse modification determinations in section 7 consultations - can be implemented successfully with, at most, the adoption of reasonable and prudent alternatives. These measures, by definition, must be economically feasible and within the scope of authority of the Federal agency involved in the consultation. We can only describe the general kinds of actions that may be identified in future reasonable and prudent alternatives. These are based on our understanding of the needs of the species and the threats it faces, as described in the final listing rule and this critical habitat designation. Within the final critical habitat units, the types of Federal actions or authorized activities that we have identified as potential concerns are:

(1) Regulation of activities affecting waters of the United States by the U.S. Army Corps of Engineers under section 404 of the Clean Water Act;

(2) Regulation of activities by the Fish and Wildlife Service under section 10(a)(1)(B) of the Endangered Species Act; and

(3) Activities involving other Federal actions (such as funding from the Federal Highway Administration, Federal Aviation Administration, or the Federal Emergency Management Agency).

It is likely that a developer or other project proponent could modify a project or take measures to protect the northern spotted owl. The kinds of actions that may be included if future reasonable and prudent alternatives become necessary include conservation set-asides, management of competing nonnative species, restoration of degraded habitat, and regular monitoring. These are based on our understanding of the needs of the species and the threats it faces, as described in the final listing rule and this final critical habitat designation. These measures are not likely to result in a significant economic impact to project proponents.

Appendix B of the DEA evaluates the potential economic effects of the proposed revised designation on small entities, based on the estimated incremental impacts associated with the proposed rulemaking. The screening analysis is based on the estimated impacts associated with the proposed rulemaking as described in chapters 3 through 7 and Appendix A of the DEA. The analysis evaluates the potential for economic impacts related to several categories, including: (1) Timber management, (2) barred owl management and control, (3) northern spotted owl surveys and monitoring, (4) fire management, (5) linear projects (i.e., transportation, pipelines, and powerlines), (6) restoration, (7) recreation, and (8) administrative costs associated with Section 7 consultation. Of these activities, incremental impacts associated with the proposed revised critical habitat designation are anticipated only for the additive administrative costs of section 7 consultations and technical assistance requests (Appendix A of the DEA). The DEA concludes that as these incremental economic impacts will be borne entirely by Federal government agencies (USFS, BLM and the Service); the proposed rulemaking is not expected to affect any small entities.

In summary, we have considered whether the proposed revised designation would result in a significant economic impact on a substantial number of small entities Based on currently available information and as explained above, all incremental economic impacts of the proposed revised designation are expected to be borne entirely by Federal agencies and no impacts on any small entities are anticipated. We therefore certify that this rule will not have a significant economic impact on a substantial number of small entities. Federal involvement, and thus section 7 consultations, would be limited to a subset of the area designated. The most likely Federal involvement could include U.S. Army Corps of Engineers' permits, permits we may issue under section 10(a)(1)(B) of the Act, FHA funding for road improvements, and regulation of timber harvest, grazing, mining, and recreation by the Forest Service and BLM. A regulatory flexibility analysis is not required.

Small Business Regulatory Enforcement Fairness Act (5 U.S.C. 801 et. Seq.)

Under SBREFA, this rule is not a major rule. Our detailed assessment of the economic effects of this designation is described in the economic analysis. Based on the effects identified in the economic analysis, we believe that this rule will not have an annual effect on the economy of $100 million or more, will not cause a major increase in costs or prices for consumers, and will not have significant adverse effects on competition, employment, investment, productivity, innovation, or the ability of U.S.-based enterprises to compete with foreign-based enterprises. Refer to the final economic analysis for a discussion of the effects of this determination.

Executive Order 13211

On May 18, 2001, the President issued an Executive Order on regulations that significantly affect energy supply, distribution, and use. Executive Order 13211 requires agencies to prepare Statements of Energy Effects when undertaking certain actions. This final rule to designate critical habitat for the northern spotted owl is not considered a significant regulatory action under Executive Order 12866. It is not expected to significantly affect energy supplies, distribution, or use. Therefore, this action is not a significant energy action and no Statement of Energy Effects is required.

Unfunded Mandates Reform Act (2 U.S.C. 1501 et seq.)

In accordance with the Unfunded Mandates Reform Act (2 U.S.C. 1501), the Service makes the following findings:

(a) This rule will not produce a Federal mandate. In general, a Federal mandate is a provision in legislation, statute or regulation that would impose an enforceable duty upon State, local, Tribal governments, or the private sector and includes both “Federal intergovernmental mandates” and “Federal private sector mandates.” These terms are defined in 2 U.S.C. 658(5)-(7). “Federal intergovernmental mandate” includes a regulation that “would impose an enforceable duty upon State, local, or Tribal governments” with two exceptions. It excludes “a condition of Federal assistance.” It also excludes “a duty arising from participation in a voluntary Federal program, ” unless the regulation “relates to a then-existing Federal program under which $500, 000, 000 or more is provided annually to State, local, and Tribal governments under entitlement authority, ” if the provision would “increase the stringency of conditions of assistance” or “place caps upon, or otherwise decrease, the Federal Government's responsibility to provide funding, ” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above on to State governments.

(b) We do not believe that this rule will significantly or uniquely affect small governments, because only Federal lands are involved in the revised designation. A Small Government Agency Plan is not required.

Federalism

In accordance with Executive Order 13132, the rule does not have significant Federalism effects. A Federalism assessment is not required. In keeping with DOI and Department of Commerce policy, we requested information from, and coordinated development of, this final critical habitat designation with appropriate State resource agencies in Washington, Oregon, and California. The designation of revised critical habitat in areas currently occupied by the northern spotted owl impose nominal additional restrictions to those currently in place and, therefore, may have little incremental impact on State and local governments and their activities. The designation may have some benefit to these governments in that areas that contain the features essential to the conservation of the species are more clearly defined, and the PCEs of the habitat necessary to the conservation of the species are specifically identified. While making this definition and identification does not alter where and what Federally sponsored activities may occur, it may assist these local governments in long-range planning (rather than waiting for case-by-case section 7 consultations to occur).

Civil Justice Reform

In accordance with Executive Order 12988, this rule does not unduly burden the judicial system and meets the requirements of sections 3(a) and 3(b)(2) of the Order. We have designated critical habitat in accordance with the provisions of the Act. This final rule uses standard property descriptions and identifies the PCEs within the designated areas to assist the public in understanding the habitat needs of the northern spotted owl.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act

It is our position that, outside the jurisdiction of the U.S. Court of Appeals for the Tenth Circuit, we do not need to prepare environmental analyses as defined by the NEPA in connection with designating critical habitat under the Endangered Species Act of 1973, as amended. We published a notice outlining our reasons for this determination in the Federal Register on October 25, 1983 (48 FR 49244). This assertion was upheld in the U.S. Court of Appeals for the Ninth Circuit (Douglas County v. Babbitt, 48 F.3d 1495 (9th Cir. Ore. 1995), cert. denied 116 S. Ct. 698 (1996).

Government-to-Government Relationship with Tribes

In accordance with the President's memorandum of April 29, 1994, “Government-to-Government Relations with Native American Tribal Governments” (59 FR 22951), Executive Order 13175, and the Department of Interior's manual at 512 DM 2, we readily acknowledge our responsibility to communicate meaningfully with recognized Federal Tribes on a government-to-government basis. No tribal lands are included in this final revised critical habitat designation. Native American Indian Tribes within the range of the northern spotted owl were contacted when the proposal was released.

Takings

In accordance with Executive Order 12630, (“Government Actions and Interference with Constitutionally Protected Private Property Rights”), we have analyzed the potential takings implications of designating critical habitat for the northern spotted owl in a takings implications assessment. The takings implication assessment concludes that this designation of critical habitat for the northern spotted owl does not pose significant takings implications.

References Cited

A complete list of all references cited in this rulemaking is available upon request from the Field Supervisor, Oregon Fish and Wildlife Office (see ADDRESSES section), or at http://www.regulations.gov.

Author(s)

The primary authors of this package are the staff of the U.S. Fish and Wildlife Service.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend § 17.95(b) by revising the entry for “Northern Spotted Owl (Strix occidentalis caurina)” to read as follows:

§ 17.95 Critical habitat—fish and wildlife.

(b) Birds.

Northern Spotted Owl (Strix occidentalis caurina)

(1) Critical habitat units are depicted for the States of Washington, Oregon, and California on the maps below.

(2) The primary constituent elements of critical habitat for the northern spotted owl are:

(i) Forest types that support the northern spotted owl across its geographic range. These forest types are primarily Sitka spruce, western hemlock, mixed conifer and mixed evergreen, grand fir, Pacific silver fir, Douglas-fir, white fir, Shasta red fir, redwood/Douglas-fir (in coastal California and southwestern Oregon), and the moist end of the ponderosa pine coniferous forests zones at elevations up to approximately 3, 000 ft (914 m) near the northern edge of the range and up to approximately 6, 000 ft (1, 828 m) at the southern edge. These forest types may be in early-, mid-, or late-seral stages. This primary constituent element is essential to the conservation of the species because it provides the biotic communities that are known to be necessary for the northern spotted owl. This primary constituent element must occur in concert with at least one of the primary constituent elements described in paragraphs 2(ii) or 2(iii) of this entry.

(ii) Nesting, roosting, and foraging habitat. Forest types described in paragraph (2)(i) of this entry that contain one or more of the habitat types described below to meet the home range needs of territorial pairs of northern spotted owls throughout the year or that are habitat-capable of developing one or more of these habitat types. (As used in this entry, areas that are “habitat-capable” of developing an essential habitat component are those forest types described in paragraph (2)(i) above, excluding serpentine soil areas, and that provide the requisite ecological conditions (e.g., moisture regime, soils, aspect, slope, potential vegetative community) for growing and sustaining the structural conditions required for that habitat component.) A home range provides the habitat components essential for the survival and successful reproduction of a resident breeding pair of northern spotted owls. The amount, quality, and configuration of these habitat types required for a home range varies according to local conditions and factors such as the degree of habitat fragmentation, proportion of available nesting habitat, and primary prey species. The core area of the home range is used most intensively and usually includes the nesting area. The remainder of the home range is used for foraging and roosting. The size of home ranges extend from approximately 2, 955 ac (1, 196 ha) in the Oregon Cascades to approximately 14, 271 ac (5, 775 ha) on the Olympic Peninsula of Washington. The size of core areas extends from approximately 500 ac (202 ha) in the southern part of the species' range to approximately 4, 057 ac (1, 642 ha) in the northern part of the range. The three habitat types within the home range of a northern spotted owl are:

(A) Nesting habitat. Nesting habitat is essential to provide structural features for nesting, protection from adverse weather conditions, and cover to reduce predation risks. It includes a moderate to high canopy closure (60 to 80 percent); a multi-layered, multi-species canopy with large (generally greater than 30 inches (in) (76 centimeters (cm) diameter at breast height (dbh)) overstory trees; a high incidence of large trees with various deformities (e.g., large cavities, broken tops, mistletoe infections, and other platforms); large snags; large accumulations of fallen trees and other woody debris on the ground; and sufficient open space below the canopy for northern spotted owls to fly. Patches of nesting habitat, in combination with roosting habitat (see paragraph (2)(ii)(B) of this entry) must be sufficiently large and contiguous to maintain northern spotted owl core areas and home ranges, and must be proximate to foraging habitat (see paragraph (2)(ii)(C) of this entry). Nesting habitat can also function as roosting, foraging, and dispersal habitat.

(B) Roosting habitat. Roosting habitat is essential to provide for thermoregulation, shelter, and cover to reduce predation risk while resting or foraging. It differs from nesting habitat in that it need not contain those specific structural features used for nesting (e.g., large cavities, broken tops, mistletoe platforms, and other platforms), but does contain moderate to high canopy closure (60 to 80 percent); a multi-layered, multi-species canopy; large accumulations of fallen trees and other woody debris on the ground; and open space below the canopy for northern spotted owls to fly. Roosting habitat will also function as foraging and dispersal habitat, but not as nesting habitat due to lack of nesting structures.

(C) Foraging habitat. Foraging habitat is essential to provide a food supply for survival and reproduction. It contains some roosting habitat attributes but can consist of more open and fragmented forests, especially in the southern portion of the range where some younger stands may have high prey abundance and structural attributes similar to those of older forests, such as moderate tree density, subcanopy perches at multiple levels, multi-layered vegetation, or residual older trees. Foraging habitat can also function as dispersal habitat.

(iii) Dispersal habitat. Forest types described in paragraph (2)(i) of this entry that provide one or both of the habitat components described for the dispersal of juvenile and non-territorial northern spotted owls, or that are habitat-capable of developing one or both of these components. Dispersal habitat can occur in intervening areas between larger blocks of nesting, foraging, and roosting habitat or within blocks of nesting, roosting, and foraging habitat. Dispersal habitat is essential to maintaining stable populations by filling territorial vacancies when resident northern spotted owls die or leave their territories, and to providing adequate gene flow across the range of the species. The two types of dispersal habitat are:

(A) Habitat supporting the transience phase of dispersal contains stands with adequate tree size and canopy closure to provide protection from avian predators and minimal foraging opportunities. This may include younger and less diverse forest stands than foraging habitat (see paragraph (2)(ii)(C) of this entry), such as even-aged, pole-sized stands, but such stands should contain some roosting structures and foraging habitat to allow for temporary resting and feeding during the movement phase.

(B) Habitat supporting the colonization phase of dispersal is generally equivalent to roosting and foraging habitat and is described in paragraphs (2)(ii)(B) and (2)(ii)(C) of this entry, although it may be in smaller amounts than that needed to support nesting pairs (see paragraph (2)(ii)(A) of this entry).

(3) Critical habitat does not include manmade structures (e.g., buildings, aqueducts, airports, and roads, including the land on which they are located) existing on the effective date of this rule and not containing one or more of the primary constituent elements.

(4) Critical habitat unit maps. The designated critical habitat units for the northern spotted owl are depicted on the maps below. These maps were created using the MOCA layer from the 2008 Northern Spotted Owl Recovery Plan; Universal Transverse Mercator (UTM) North American Datum 1983 (NAD 83) was the starting layer. This layer was then combined with the East Cascades portion of the 2007 Northern Spotted Owl Proposed Critical Habitat layer to form the starting point of the final revised critical habitat designation. A map layer of the Northwest Forest Plan (2002) was added so that congressionally-reserved lands could be removed from critical habitat. In addition, we used a wilderness layer provided by the California State office of the BLM to remove wilderness lands in California that were designated after the Northwest Forest Plan layer was created. We used the wilderness layer from the Mt. Baker-Snoqualmie National Forest to remove the 2008 Wild Sky Wilderness in Washington from the final revised critical habitat layer. All acreage calculations were performed using Geographic Information Systems (GIS).

(5) Note: Index map of critical habitat units for the northern spotted owl in the State of Washington follows:

BILLING CODE 4310-55-S

(6) Note: Index map of critical habitat units for the northern spotted owl in the State of Oregon follows:

(7) Note: Index map of critical habitat units for the northern spotted owl in the State of California follows:

BILLING CODE 4310-55-C

(8) Olympic Peninsula Unit (Unit 1). Clallam, Grays Harbor, Jefferson, and Mason Counties, Washington.

(i) The Olympic Peninsula Unit consists of 332, 100 ac (134, 400 ha) and is comprised of lands managed by the Olympic National Forest.

(ii) From USGS 1:24, 000 scale quadrangles Anderson Creek, Brinnon, Bunch Lake, Burnt Hill, Colonel Bob, Deadmans Hill, Eldon, Ellis Mountain, Elwha, Finley Creek, Hunger Mountain, Indian Pass, Kloochman Rock, Lake Pleasant, Lake Quinault East, Lake Quinault West, Lake Sutherland, Larsen Creek, Lightning Peak, Maiden Peak, Matheny Ridge, Mount Deception, Mount Hoquiam, Mount Jupiter, Mount Muller, Mount Olson, Mount Skokomish, Mount Tebo, Mount Townsend, Mount Walker, Mount Washington, Mount Zion, Pysht, Reade Hill, Salmon River East, Slide Peak, Snider Peak, Stequaleho Creek, Stevens Creek, The Brothers, Twin Rivers, Tyler Peak, Uncas, West of Pysht, Winfield Creek and Wynoochee Lake.

(A) Land bounded by the following UTM Zone 10, NAD83 coordinates (E, N): 462389, 5263092; 464761, 5263079; 464787, 5262959; 465480, 5262631; 465650, 5262391; 465657, 5262189; 465945, 5262018; 466142, 5262039; 466429, 5261632; 466691, 5261592; 466996, 5260962; 467405, 5260718; 467714, 5260657; 468053, 5260494; 468730, 5261105; 469047, 5260963; 469269, 5261137; 469465, 5261163; 469667, 5261286; 469696, 5261542; 469579, 5261799; 469673, 5261891; 469709, 5262102; 470447, 5262165; 470571, 5262468; 470848, 5262639; 471195, 5263042; 474255, 5263027; 474257, 5261501; 475460, 5261479; 475589, 5260407; 475992, 5260405; 476114, 5259599; 476513, 5259598; 476569, 5259218; 476170, 5259219; 476281, 5258466; 478668, 5258451; 478749, 5257673; 479136, 5257672; 479149, 5257273; 479583, 5257272; 479579, 5256873; 480373, 5256869; 480336, 5254013; 480462, 5254013; 480492, 5253715; 480391, 5252513; 480309, 5252249; 479904, 5251880; 479663, 5251781; 478411, 5251803; 477293, 5251940; 477212, 5251882; 477152, 5251686; 477151, 5251364; 476714, 5250882; 476352, 5250665; 476111, 5250637; 475715, 5250865; 475420, 5251202; 475324, 5251411; 475466, 5252249; 475467, 5253165; 475377, 5253439; 475067, 5253873; 474774, 5254048; 474399, 5254411; 473766, 5254602; 473035, 5254625; 472638, 5254711; 472003, 5255105; 471045, 5255410; 470835, 5255760; 470667, 5255822; 470289, 5255695; 470277, 5255176; 469464, 5254994; 468963, 5255036; 467629, 5255402; 466644, 5256005; 466307, 5256097; 466118, 5256037; 466013, 5255896; 466090, 5255638; 466992, 5254851; 467511, 5254539; 467604, 5254416; 467584, 5254245; 467460, 5254159; 466832, 5254027; 466150, 5253605; 465582, 5253532; 465660, 5253385; 465660, 5253105; 465564, 5252843; 465385, 5252629; 465007, 5252453; 464553, 5252508; 464549, 5252352; 464375, 5252333; 464266, 5252149; 464013, 5252157; 464042, 5251873; 463966, 5251680; 464188, 5251335; 464096, 5251353; 463903, 5251560; 463753, 5251602; 463635, 5251929; 462987, 5252144; 462745, 5252127; 462662, 5251794; 462564, 5251781; 462441, 5251887; 462301, 5251878; 462159, 5251725; 461838, 5251654; 461625, 5251799; 461055, 5251934; 460935, 5251886; 460567, 5252112; 460422, 5252058; 459849, 5252305; 459493, 5252125; 459496, 5252223; 459323, 5252358; 459379, 5252560; 459064, 5252938; 459044, 5253141; 458816, 5253267; 458879, 5253665; 458601, 5253719; 458483, 5253915; 458282, 5253904; 458194, 5253966; 457772, 5253917; 457556, 5252979; 457545, 5252685; 457635, 5252690; 457559, 5252512; 457354, 5252449; 457221, 5252486; 457105, 5252658; 456852, 5252821; 456660, 5252771; 455707, 5252199; 455297, 5252225; 454937, 5252091; 454964, 5252343; 454800, 5252378; 454611, 5252068; 454021, 5252007; 453540, 5252111; 453371, 5252206; 453286, 5252878; 453428, 5253179; 453359, 5253357; 453106, 5253530; 452718, 5253541; 452547, 5253972; 452451, 5253735; 452061, 5253683; 451711, 5253989; 450769, 5254193; 450642, 5254112; 450475, 5254107; 450311, 5253989; 450242, 5253836; 450252, 5253499; 450345, 5253278; 450262, 5253125; 449710, 5252860; 449350, 5253153; 449160, 5253158; 449088, 5253066; 449117, 5252805; 449199, 5252724; 448994, 5252554; 449373, 5252176; 449309, 5252052; 449364, 5251898; 449343, 5251678; 449146, 5251570; 448725, 5251592; 448731, 5251411; 448603, 5251047; 448087, 5250761; 448176, 5250360; 448071, 5250055; 448179, 5249647; 448181, 5249165; 448529, 5249086; 448603, 5248925; 448514, 5248700; 448217, 5248295; 448151, 5248006; 447995, 5247715; 448426, 5247249; 448466, 5247069; 448576, 5246937; 448689, 5246463; 448535, 5245984; 448637, 5245598; 448387, 5244937; 448135, 5244850; 447851, 5244876; 447708, 5244828; 447577, 5244623; 447355, 5244472; 447331, 5239754; 446928, 5239752; 446920, 5239433; 446521, 5239435; 446503, 5238658; 445817, 5238663; 445824, 5238946; 442808, 5238957; 442935, 5241761; 439741, 5241996; 439783, 5243358; 440186, 5243350; 440205, 5244554; 439803, 5244562; 439799, 5244161; 439581, 5244165; 438300, 5244776; 438029, 5245347; 437859, 5245984; 437744, 5246127; 437239, 5245813; 436706, 5245285; 436359, 5245102; 436049, 5244786; 435475, 5244609; 434712, 5244496; 433917, 5244496; 432165, 5244785; 431733, 5244958; 430965, 5245498; 431756, 5245492; 431761, 5245693; 431961, 5245693; 431966, 5245894; 432165, 5245893; 432184, 5246696; 432578, 5246692; 432586, 5247092; 431952, 5247099; 432420, 5248094; 432608, 5248090; 432604, 5247890; 432993, 5247886; 433005, 5248683; 432622, 5248690; 432616, 5249492; 433397, 5249482; 433403, 5250042; 433612, 5250041; 433620, 5250287; 433816, 5250286; 433838, 5251861; 433439, 5251862; 433435, 5251712; 433290, 5251712; 433107, 5252630; 433155, 5252905; 433295, 5253147; 433509, 5253326; 433879, 5253444; 433863, 5255231; 434595, 5256162; 434700, 5256209; 434969, 5256878; 435150, 5256872; 435696, 5257270; 435815, 5257258; 436125, 5257637; 436168, 5257809; 436361, 5257750; 436785, 5258172; 436880, 5258195; 436968, 5258083; 437206, 5258199; 437571, 5258196; 437576, 5258603; 437979, 5258601; 437984, 5259007; 438780, 5258999; 438783, 5259406; 438968, 5259405; 438972, 5259604; 439475, 5259595; 439434, 5259418; 438994, 5259101; 438827, 5258806; 439522, 5258234; 439962, 5258042; 440272, 5257596; 440622, 5257272; 440779, 5257162; 440989, 5257125; 441020, 5256903; 441166, 5256920; 441468, 5256676; 441824, 5256605; 442069, 5256438; 442461, 5256419; 442709, 5256620; 442785, 5256476; 443183, 5256246; 443405, 5255817; 443740, 5255516; 444455, 5256011; 444810, 5256382; 445309, 5256508; 445635, 5256512; 446501, 5257410; 446711, 5257803; 446724, 5257946; 447072, 5258496; 447685, 5258863; 447986, 5258923; 448718, 5259436; 449123, 5259521; 449430, 5259439; 449867, 5259679; 449068, 5260345; 448861, 5260428; 450381, 5260820; 451060, 5260622; 451708, 5260973; 452018, 5260560; 452551, 5260304; 452784, 5260101; 452993, 5259575; 453452, 5259328; 453675, 5259389; 453961, 5259580; 454169, 5259795; 454641, 5260077; 454890, 5260372; 455172, 5260534; 455442, 5260931; 455446, 5261147; 455540, 5261259; 455687, 5261694; 455811, 5261835; 456346, 5262198; 456607, 5262254; 457044, 5262505; 458160, 5262622; 458598, 5262850; 461912, 5262829; 461911, 5263092; 462389, 5263092; and excluding land bound by 439807, 5244962; 440609, 5244950; 440617, 5245751; 439819, 5245765; 439807, 5244962; and excluding land bound by 441410, 5245168; 441411, 5243728; 443007, 5243708; 443014, 5245258; 441410, 5245340; 441410, 5245168.

(B) Land bounded by the following UTM Zone 10, NAD83 coordinates (E, N): 431385, 5275526; 431804, 5275505; 431805, 5275264; 431861, 5275179; 432083, 5275129; 432489, 5274878; 432678, 5274827; 432966, 5274552; 433336, 5274397; 433517, 5274368; 433760, 5274457; 433951, 5274443; 434321, 5274586; 434571, 5274474; 434717, 5274289; 434974, 5274121; 435334, 5274044; 435598, 5274091; 435836, 5274304; 436062, 5274354; 436307, 5274181; 436604, 5274166; 437102, 5274026; 437324, 5274042; 437473, 5274168; 438035, 5273888; 438313, 5273912; 438992, 5273392; 439371, 5273288; 439789, 5273421; 440072, 5273174; 440092, 5270550; 439927, 5270412; 439919, 5270003; 439521, 5269492; 439844, 5268753; 439758, 5268347; 439482, 5268255; 439177, 5267858; 438486, 5267863; 438421, 5263036; 435154, 5263069; 434857, 5262900; 434575, 5262617; 434394, 5262567; 433887, 5262199; 433532, 5262136; 433194, 5262273; 432469, 5262026; 432035, 5261719; 431682, 5261781; 431890, 5262238; 431903, 5262385; 431835, 5262473; 431543, 5262595; 431242, 5262613; 430817, 5262806; 430500, 5262831; 430315, 5262777; 430194, 5263098; 430077, 5264802; 429937, 5265013; 429724, 5265148; 429461, 5265110; 429348, 5264902; 429165, 5264762; 428779, 5264796; 427797, 5264425; 427412, 5264720; 426944, 5264453; 426573, 5264657; 426290, 5264620; 426192, 5264550; 425901, 5264651; 425555, 5264665; 424712, 5264013; 424310, 5264076; 424150, 5263976; 423722, 5264296; 423511, 5264314; 423191, 5264507; 422815, 5264538; 422667, 5264635; 422558, 5264578; 422297, 5264604; 422038, 5264506; 421772, 5264231; 421775, 5264071; 421661, 5263964; 421260, 5264126; 421026, 5264038; 420924, 5264075; 420668, 5264017; 420650, 5264238; 420553, 5264247; 420456, 5264410; 420250, 5264487; 420152, 5265030; 421232, 5265025; 421302, 5269277; 421524, 5269412; 422030, 5269540; 422862, 5269563; 423057, 5269809; 422917, 5269652; 422855, 5269954; 422949, 5270326; 422810, 5270774; 422859, 5271049; 422998, 5271291; 423381, 5271541; 423568, 5271771; 423844, 5271920; 424077, 5272289; 424477, 5272402; 425002, 5272373; 425848, 5272581; 426073, 5272553; 426249, 5272635; 426565, 5272584; 426757, 5272743; 427584, 5273046; 427863, 5273046; 428165, 5272923; 428339, 5272935; 428251, 5273533; 428169, 5273709; 428276, 5274352; 428599, 5274273; 429468, 5274541; 429532, 5274565; 429532, 5274840; 430377, 5275033; 431081, 5275518; 431385, 5275526.

(C) Land bounded by the following UTM Zone 10, NAD83 coordinates (E, N): 423949, 5277834; 423925, 5276220; 423132, 5276226; 423125, 5275824; 422726, 5275816; 422716, 5275422; 422320, 5275416; 422321, 5275039; 421941, 5275028; 421936, 5274636; 420685, 5274665; 420742, 5277885; 423949, 5277834.

(D) Land bounded by the following UTM Zone 10, NAD83 coordinates (E, N): 487856, 5316142; 487983, 5315818; 487766, 5315870; 487527, 5315660; 487356, 5315723; 487236, 5315512; 487310, 5315273; 487213, 5315092; 487031, 5314991; 487003, 5314877; 487025, 5314817; 487309, 5314762; 487330, 5314512; 487480, 5314603; 487681, 5314500; 487800, 5314194; 487905, 5314144; 488016, 5314009; 488023, 5313899; 488098, 5313888; 488306, 5313671; 488269, 5313653; 487807, 5313809; 487612, 5313775; 487426, 5313917; 486986, 5313826; 486814, 5313912; 486770, 5314016; 486524, 5314101; 485640, 5314104; 485992, 5313524; 485992, 5313279; 485604, 5313075; 485169, 5312707; 484825, 5312805; 484789, 5312614; 484699, 5312512; 484116, 5312500; 483456, 5312262; 483578, 5312214; 483664, 5311858; 483544, 5311820; 483371, 5311630; 483285, 5311693; 483118, 5311624; 482825, 5311709; 482830, 5313017; 481022, 5313047; 481040, 5316272; 481498, 5316270; 481299, 5316049; 481531, 5315841; 481737, 5315505; 481917, 5315399; 481797, 5315544; 481827, 5315603; 482170, 5315637; 482089, 5316008; 482425, 5315830; 482611, 5315651; 482737, 5315731; 483423, 5315355; 483662, 5315385; 483915, 5315296; 484415, 5315274; 484448, 5315501; 484707, 5315538; 484789, 5315473; 484781, 5315354; 485057, 5315363; 485191, 5315195; 485354, 5314636; 485270, 5314209; 485607, 5314662; 485661, 5315335; 486027, 5315150; 486258, 5315349; 486563, 5315195; 486639, 5315740; 486484, 5316174; 486648, 5316186; 486797, 5316112; 486909, 5316255; 487871, 5316282; 487819, 5316216; 487856, 5316142.

(E) Land bounded by the following UTM Zone 10, NAD83 coordinates (E, N): 492413, 5316271; 492973, 5316275; 492933, 5315959; 493092, 5315669; 493012, 5315668; 493011, 5315466; 492609, 5315462; 492608, 5315260; 492418, 5315258; 492406, 5314955; 492808, 5314959; 492804, 5314654; 493006, 5314655; 493006, 5314455; 493208, 5314457; 493208, 5314355; 493611, 5314359; 493690, 5313987; 493845, 5313727; 494192, 5313717; 494287, 5313851; 494429, 5313857; 494446, 5314136; 494793, 5314105; 494858, 5313443; 494822, 5313229; 495022, 5312834; 495353, 5313021; 495605, 5313018; 495750, 5313430; 496308, 5313541; 496462, 5313969; 496955, 5314153; 497001, 5314199; 496934, 5314679; 497111, 5315057; 497377, 5315343; 497730, 5315568; 498301, 5315736; 498384, 5316054; 498614, 5316271; 500241, 5316256; 500133, 5315851; 500002, 5315630; 499834, 5315554; 499880, 5315362; 500252, 5315257; 500466, 5315077; 500606, 5314835; 500651, 5314528; 500885, 5314504; 501216, 5314627; 501206, 5314138; 502012, 5314113; 502009, 5312955; 501083, 5313026; 500689, 5312922; 500245, 5313059; 500185, 5312965; 500545, 5312582; 500753, 5312218; 500778, 5311768; 500528, 5310994; 500490, 5310493; 500110, 5310215; 499977, 5309919; 499812, 5309749; 499690, 5309750; 499613, 5310463; 499468, 5310692; 499227, 5310802; 499096, 5310768; 498883, 5310457; 498575, 5310392; 498399, 5310523; 498138, 5310364; 497934, 5310322; 498163, 5310120; 498317, 5309520; 498268, 5309125; 497924, 5308830; 498135, 5308835; 498319, 5308718; 498805, 5308262; 498928, 5308294; 499036, 5308504; 499096, 5308458; 499269, 5308490; 499490, 5308605; 499783, 5308955; 500064, 5309021; 500269, 5308993; 500344, 5308899; 500339, 5308690; 500448, 5308394; 500855, 5308239; 500988, 5307816; 501446, 5307666; 501523, 5307527; 501566, 5307103; 501151, 5306968; 500455, 5307022; 500194, 5306928; 500120, 5306761; 500139, 5306600; 500342, 5306228; 499953, 5306770; 499718, 5307445; 499167, 5307955; 498742, 5308126; 498651, 5308097; 498632, 5307778; 498568, 5307694; 498255, 5307749; 497917, 5307943; 497498, 5307899; 497247, 5307986; 497179, 5307954; 497308, 5307509; 496844, 5307538; 496773, 5307439; 497314, 5306799; 497266, 5306738; 497002, 5306768; 496960, 5306310; 496867, 5306262; 496570, 5306584; 496239, 5306659; 495990, 5306486; 495601, 5306596; 495604, 5306209; 495748, 5305710; 496166, 5305483; 496344, 5305108; 496466, 5304605; 496736, 5304326; 497009, 5303675; 497335, 5303357; 497688, 5303179; 497862, 5302913; 498098, 5302875; 498154, 5302804; 498209, 5302289; 498406, 5302222; 498385, 5302176; 498478, 5302085; 498603, 5302132; 498663, 5302088; 498730, 5301882; 498880, 5301970; 499029, 5301862; 499046, 5301669; 499150, 5301628; 499136, 5301351; 499626, 5301195; 499567, 5301086; 499003, 5300814; 499008, 5300717; 499230, 5300550; 499518, 5300192; 499207, 5300024; 498879, 5299695; 499153, 5299227; 499707, 5298875; 499840, 5298450; 499882, 5297998; 499779, 5297621; 499937, 5297069; 500460, 5296879; 501636, 5295263; 501794, 5295201; 502049, 5295269; 502830, 5295707; 503149, 5295752; 503458, 5295880; 503695, 5295618; 503639, 5295241; 503770, 5294897; 503689, 5294693; 504806, 5294687; 504780, 5293528; 506720, 5293561; 506810, 5293420; 506989, 5293457; 507094, 5293377; 507078, 5293196; 507150, 5292971; 507071, 5292823; 507081, 5292504; 506986, 5292242; 506806, 5292028; 506564, 5291888; 506319, 5291842; 506355, 5291467; 506429, 5291390; 506298, 5291390; 506298, 5290909; 506613, 5290997; 506542, 5290767; 505817, 5289862; 505889, 5289642; 505827, 5289610; 505617, 5289735; 505453, 5289926; 505118, 5289939; 505068, 5290024; 505134, 5290215; 504793, 5290317; 504499, 5290612; 504403, 5290874; 504401, 5291132; 504001, 5291239; 503712, 5291526; 503598, 5291475; 503377, 5291519; 502965, 5291309; 502658, 5291316; 502597, 5291078; 502271, 5291034; 502173, 5290945; 502162, 5290866; 502309, 5290846; 502467, 5290732; 502729, 5290754; 502856, 5290924; 502931, 5290937; 503232, 5290553; 503224, 5290295; 503007, 5290121; 502977, 5289933; 503127, 5289783; 503052, 5289443; 503247, 5289384; 503223, 5289176; 503870, 5289029; 503792, 5288720; 503340, 5288120; 503302, 5287521; 503038, 5287141; 502948, 5286766; 502304, 5286483; 501560, 5286861; 501244, 5286829; 500640, 5285559; 500443, 5285533; 499864, 5285754; 499862, 5286248; 498663, 5286246; 498663, 5285836; 499255, 5285832; 499256, 5285640; 499065, 5285633; 499062, 5285446; 499618, 5285444; 499659, 5285347; 498943, 5284361; 498364, 5284162; 498053, 5283611; 498130, 5283445; 498762, 5283181; 499126, 5283135; 499452, 5283207; 499647, 5283078; 499646, 5282887; 499478, 5282507; 499399, 5282107; 499064, 5281519; 499010, 5281295; 499280, 5280988; 499395, 5280610; 499707, 5280605; 499887, 5280398; 499650, 5279607; 499450, 5279318; 498492, 5278701; 498051, 5278261; 497718, 5278181; 497413, 5277924; 496838, 5277836; 495837, 5277247; 494875, 5276145; 494875, 5276003; 495057, 5275856; 495142, 5275685; 495349, 5275070; 495587, 5274827; 495563, 5274382; 495288, 5274446; 495102, 5274250; 495066, 5274048; 495078, 5273647; 495201, 5273559; 495342, 5273268; 494972, 5273063; 494722, 5273093; 494426, 5272876; 494234, 5272864; 494094, 5272622; 493743, 5272614; 493724, 5271238; 491724, 5271244; 491722, 5270873; 491350, 5270866; 491334, 5270468; 490932, 5270460; 490945, 5270860; 490666, 5270851; 490660, 5265010; 490498, 5265004; 490275, 5264881; 489980, 5264458; 489833, 5264446; 489706, 5264320; 489568, 5264381; 489333, 5264279; 489254, 5264105; 489157, 5264126; 488971, 5263817; 488578, 5263513; 488524, 5263256; 488420, 5263143; 488265, 5263173; 488188, 5263436; 487157, 5262846; 486812, 5262900; 486672, 5262726; 486571, 5262771; 486384, 5263086; 486262, 5263131; 486135, 5262678; 486481, 5262398; 486322, 5262459; 486142, 5262357; 486039, 5262183; 485932, 5262173; 485788, 5262338; 485714, 5262616; 485581, 5262252; 485468, 5262139; 485563, 5261858; 485340, 5261995; 485312, 5262319; 485245, 5262214; 485083, 5262202; 484999, 5261789; 485070, 5261508; 485202, 5261371; 484946, 5261384; 484944, 5261123; 484363, 5260809; 484131, 5260753; 481029, 5260741; 481012, 5260570; 480713, 5260565; 480716, 5260393; 478790, 5260400; 478825, 5260117; 478782, 5260079; 477668, 5260048; 477169, 5260278; 477142, 5260516; 476947, 5260517; 476733, 5260752; 476726, 5260958; 476272, 5260969; 476227, 5261390; 476173, 5261390; 476192, 5262036; 476282, 5262044; 476315, 5261958; 476528, 5261880; 477120, 5261753; 477079, 5261531; 477195, 5261138; 477180, 5260918; 477563, 5260801; 477585, 5260690; 477691, 5260646; 478098, 5260638; 478397, 5260532; 478545, 5260625; 478806, 5260635; 478937, 5260740; 479238, 5260775; 479524, 5261065; 479638, 5261392; 479812, 5261339; 479874, 5261219; 479990, 5261200; 480116, 5261040; 480279, 5260989; 480460, 5261927; 480446, 5262328; 480342, 5262593; 480380, 5263162; 480744, 5263260; 480971, 5263603; 481009, 5263780; 481228, 5263862; 481317, 5264074; 481485, 5264185; 481844, 5265083; 482060, 5265438; 482253, 5265673; 482434, 5265686; 482447, 5266380; 481531, 5266890; 481678, 5267076; 482284, 5267262; 482394, 5267594; 482655, 5267575; 482838, 5267635; 483055, 5267826; 483216, 5268058; 483183, 5268288; 483284, 5268377; 483363, 5268588; 483368, 5268943; 483590, 5269236; 483646, 5269488; 483499, 5269446; 483164, 5269489; 482677, 5269656; 482325, 5269607; 482192, 5269693; 481824, 5269239; 481556, 5269015; 481164, 5268906; 480922, 5268726; 480538, 5268751; 480397, 5268817; 480284, 5268960; 480265, 5269111; 479841, 5269037; 479667, 5269072; 480073, 5269264; 480370, 5269238; 480480, 5269292; 480717, 5269580; 481238, 5269955; 481232, 5270080; 481074, 5270189; 481120, 5270300; 481459, 5270520; 481645, 5270771; 481760, 5270841; 481908, 5270828; 481991, 5270907; 482241, 5271480; 482256, 5271762; 482377, 5271964; 482414, 5272274; 482635, 5272701; 484286, 5272691; 487122, 5275502; 487332, 5275426; 487517, 5275223; 487597, 5275213; 487917, 5274628; 488137, 5274564; 488431, 5274208; 488695, 5274102; 489136, 5273767; 489636, 5273889; 490008, 5274127; 490232, 5274310; 490374, 5274591; 490526, 5275287; 490699, 5275527; 490892, 5276185; 491291, 5276565; 491575, 5277416; 491914, 5277388; 492295, 5277494; 492426, 5277588; 492471, 5277793; 492603, 5277774; 492941, 5277970; 493066, 5278168; 493126, 5278617; 493292, 5278554; 494082, 5278491; 494206, 5278608; 494530, 5278643; 495412, 5279103; 495579, 5279707; 495564, 5280056; 495682, 5280524; 495690, 5280740; 495527, 5280978; 495578, 5281399; 495524, 5281624; 495666, 5281783; 495813, 5282164; 495747, 5282598; 496104, 5282626; 496199, 5282714; 496339, 5282622; 496470, 5282665; 496563, 5282787; 496790, 5282826; 497002, 5282686; 497192, 5282911; 497281, 5282874; 497435, 5282951; 497615, 5282851; 497785, 5282842; 497654, 5283465; 497980, 5283577; 498362, 5284327; 498464, 5285046; 498218, 5284970; 498227, 5285317; 498062, 5285583; 497903, 5285717; 497768, 5285712; 497629, 5285865; 497450, 5285837; 497068, 5285999; 496936, 5285989; 496736, 5286488; 496463, 5286697; 496353, 5286685; 496217, 5286537; 496030, 5286619; 495813, 5286448; 495295, 5286344; 495146, 5286162; 495076, 5286487; 495284, 5287071; 495251, 5287311; 494463, 5287205; 494166, 5287006; 493998, 5286995; 493994, 5286491; 493744, 5286339; 493674, 5286165; 493503, 5286098; 493376, 5286159; 493405, 5286368; 493241, 5286375; 492820, 5286000; 492003, 5285918; 491798, 5285994; 491656, 5286146; 491482, 5286165; 491304, 5286097; 490601, 5286270; 490566, 5286184; 490184, 5286064; 489892, 5285810; 489790, 5285935; 489832, 5286830; 490760, 5286852; 490864, 5286646; 490798, 5286532; 491926, 5286318; 492349, 5286331; 492614, 5286386; 492942, 5286623; 493220, 5286539; 493198, 5286674; 493409, 5286853; 494137, 5287414; 494585, 5287647; 496432, 5288067; 496315, 5288567; 496178, 5288812; 496280, 5289363; 496153, 5289723; 496219, 5290059; 495993, 5290621; 496132, 5290966; 495803, 5291304; 495722, 5291541; 495817, 5291804; 496013, 5291988; 496080, 5292270; 496678, 5292859; 496699, 5292946; 496337, 5293146; 496290, 5293285; 496139, 5293334; 495738, 5293255; 495685, 5293097; 495599, 5293053; 495369, 5293170; 495131, 5293149; 494963, 5293057; 494881, 5293116; 494672, 5293026; 494566, 5293439; 494203, 5293621; 494315, 5294069; 495277, 5294291; 495550, 5294514; 495664, 5294465; 496038, 5294532; 496123, 5294777; 496356, 5294745; 496427, 5294628; 496534, 5295043; 496519, 5295384; 496919, 5295608; 496865, 5296026; 496905, 5296464; 496605, 5296952; 496671, 5297191; 496779, 5297302; 496968, 5297334; 496913, 5297625; 497142, 5297502; 497259, 5297534; 497598, 5297443; 497827, 5297502; 497883, 5297424; 497974, 5297809; 497642, 5298214; 497504, 5298547; 497539, 5298887; 497488, 5299126; 497377, 5299286; 497734, 5299720; 497513, 5300189; 497047, 5300430; 497055, 5300732; 496885, 5301119; 496827, 5301567; 496456, 5301568; 496263, 5301438; 495603, 5301528; 495479, 5302020; 495329, 5302170; 493613, 5301848; 493478, 5302283; 493413, 5302863; 493068, 5303138; 492910, 5303355; 492757, 5303657; 492715, 5303982; 492430, 5304075; 492321, 5303758; 492193, 5303896; 492139, 5304230; 492033, 5304388; 491808, 5304158; 491785, 5304041; 491571, 5303932; 491580, 5303845; 491481, 5303793; 491294, 5303376; 490847, 5303454; 490710, 5303047; 490707, 5302751; 490586, 5302750; 490468, 5302580; 488887, 5301589; 488675, 5301787; 488236, 5301855; 488070, 5302515; 488044, 5303015; 487969, 5303116; 488353, 5303387; 488736, 5303530; 488952, 5303766; 489020, 5304116; 489334, 5304677; 489223, 5304798; 489190, 5305152; 488921, 5305522; 489332, 5305763; 489494, 5306509; 489716, 5306635; 490095, 5307124; 490412, 5307320; 490470, 5307425; 490563, 5307892; 490471, 5308187; 490856, 5308531; 490765, 5309049; 490954, 5309264; 491044, 5309682; 490849, 5310195; 490982, 5310659; 490972, 5310840; 490686, 5311085; 490324, 5311235; 489958, 5311496; 489170, 5311829; 488528, 5311822; 487903, 5311598; 487663, 5311787; 487550, 5311965; 487279, 5312091; 487063, 5312311; 487376, 5312806; 487807, 5312829; 488040, 5312568; 488372, 5312445; 488870, 5312520; 489130, 5312792; 489068, 5313030; 488787, 5313206; 488714, 5313322; 488659, 5313488; 488695, 5314043; 488283, 5314900; 487952, 5315174; 487907, 5315482; 488133, 5315559; 488132, 5315475; 488639, 5315479; 488641, 5315948; 488834, 5316130; 489111, 5316231; 489199, 5315880; 489016, 5314906; 489186, 5314204; 489297, 5314089; 489697, 5314188; 489803, 5314034; 489788, 5313840; 489328, 5313645; 489312, 5313403; 489426, 5313226; 489553, 5313411; 489851, 5313493; 490053, 5313674; 490197, 5314106; 490052, 5314575; 489433, 5315128; 489484, 5315303; 489418, 5315583; 489463, 5315885; 489750, 5316283; 492413, 5316271; and excluding land bound by 491996, 5313289; 491995, 5313038; 492105, 5313126; 491996, 5313289; and excluding land bound by 497002, 5312498; 497044, 5312235; 497447, 5312269; 497710, 5312173; 497914, 5312003; 498790, 5312139; 498880, 5312173; 498905, 5312632; 499095, 5312924; 498419, 5312930; 498380, 5313039; 498097, 5313027; 497973, 5313114; 497865, 5313039; 497202, 5313030; 497211, 5313217; 497344, 5313341; 497075, 5313097; 496986, 5312743; 497002, 5312498; and excluding land bound by 496655, 5287853; 496656, 5287464; 497058, 5287459; 497058, 5287071; 497859, 5287069; 497859, 5287457; 497457, 5287456; 497459, 5287852; 496655, 5287853.

(F) Land bounded by the following UTM Zone 10, NAD83 coordinates (E, N):430630, 5313967; 430453, 5313306; 430053, 5312305; 429439, 5311791; 429432, 5311198; 429293, 5311189; 428878, 5311427; 428498, 5311516; 428227, 5311360; 428045, 5311017; 427641, 5310733; 427339, 5310749; 427005, 5310912; 426625, 5311295; 426071, 5311331; 425642, 5311227; 425463, 5310788; 425332, 5310683; 424724, 5310642; 424517, 5310415; 424342, 5310351; 424134, 5310367; 423638, 5310259; 423361, 5310367; 422524, 5310139; 422121, 5310185; 421827, 5310113; 421439, 5310191; 421283, 5310407; 420839, 5310283; 420688, 5310331; 420384, 5309983; 420056, 5309855; 419637, 5309890; 419495, 5309623; 419333, 5309599; 418771, 5309253; 418497, 5309325; 418282, 5309818; 418141, 5309993; 417556, 5310172; 417249, 5309972; 416934, 5309922; 416554, 5309768; 416259, 5309487; 415958, 5309660; 415809, 5309669; 415220, 5309344; 414662, 5309227; 414084, 5309255; 413513, 5308981; 413584, 5309269; 413536, 5309371; 413300, 5309652; 412919, 5309846; 412348, 5309745; 412118, 5309961; 411940, 5309975; 411854, 5310146; 411590, 5310301; 411463, 5310286; 411341, 5310140; 410998, 5310163; 410562, 5310571; 410365, 5310886; 410000, 5311021; 409379, 5311081; 409045, 5311235; 408774, 5311173; 408413, 5311322; 408302, 5311654; 407676, 5311848; 407356, 5311864; 407068, 5311695; 406861, 5311816; 406735, 5303100; 405494, 5303100; 405491, 5303463; 404953, 5303523; 404601, 5303413; 404520, 5303212; 404286, 5303153; 404287, 5303100; 403892, 5303100; 403888, 5303401; 403450, 5303245; 403081, 5303215; 402695, 5302854; 402561, 5302807; 402401, 5302850; 402357, 5303085; 402197, 5303257; 402058, 5303199; 401917, 5302969; 401968, 5307139; 402114, 5308774; 402218, 5313350; 402834, 5313324; 403026, 5313148; 404520, 5313068; 405184, 5312905; 405378, 5312963; 405550, 5313325; 405791, 5313518; 406557, 5313510; 406782, 5313325; 406929, 5313058; 407176, 5313011; 407418, 5312872; 407671, 5312475; 408218, 5312552; 408333, 5312665; 408449, 5312609; 408614, 5312688; 408662, 5312590; 408772, 5312564; 408925, 5312747; 409162, 5312549; 409117, 5312226; 409201, 5312103; 409608, 5311819; 410073, 5312005; 410752, 5311544; 410949, 5311797; 411191, 5311937; 411576, 5311976; 411733, 5312073; 412001, 5312010; 412594, 5312244; 412487, 5312618; 412664, 5312677; 412847, 5312639; 413087, 5312913; 412888, 5313312; 413010, 5313299; 413168, 5313163; 413203, 5313004; 413351, 5313156; 413376, 5313302; 413139, 5313444; 413199, 5313554; 413347, 5313431; 413492, 5313446; 413601, 5313297; 413882, 5313179; 413949, 5312995; 414711, 5313438; 414921, 5313399; 415068, 5313070; 415351, 5313014; 415961, 5313219; 416532, 5313571; 416760, 5313509; 416992, 5313268; 417227, 5313156; 417479, 5313195; 417782, 5313336; 418050, 5313235; 418379, 5313292; 418765, 5313114; 418997, 5313125; 419220, 5313222; 420248, 5313234; 420356, 5314024; 420791, 5314614; 421040, 5314742; 421179, 5315692; 421218, 5315762; 421735, 5315931; 421745, 5316134; 421582, 5316566; 421634, 5316711; 421868, 5317116; 422665, 5318140; 423239, 5319153; 423459, 5319394; 424066, 5319781; 425586, 5319950; 425789, 5319820; 426625, 5319744; 427479, 5319374; 427872, 5319173; 428274, 5318595; 428389, 5317964; 428275, 5317210; 428334, 5316070; 428099, 5314911; 428169, 5314261; 428220, 5314013; 428291, 5313961; 428735, 5314333; 429803, 5315853; 429902, 5316189; 429915, 5316806; 430378, 5318058; 430419, 5318290; 430354, 5318743; 429882, 5320097; 429873, 5320450; 430124, 5320391; 430226, 5319974; 430698, 5319746; 430791, 5319551; 431081, 5319387; 431054, 5314676; 430756, 5314313; 430630, 5313967.

(G) Land bounded by the following UTM Zone 10, NAD83 coordinates (E, N): 403540, 5320641; 403656, 5320658; 403753, 5320552; 404051, 5320450; 404216, 5320466; 404402, 5320273; 404454, 5320089; 404586, 5320198; 404489, 5318766; 404520, 5318711; 404682, 5318704; 404426, 5318595; 404342, 5318290; 404280, 5318224; 404182, 5318262; 404101, 5318123; 404106, 5318025; 404290, 5318095; 404439, 5317866; 404391, 5317767; 404155, 5317632; 404114, 5317525; 404217, 5317325; 404167, 5316659; 403980, 5316602; 403834, 5316726; 403913, 5316826; 403752, 5316908; 403930, 5317034; 403830, 5317196; 403910, 5317238; 403900, 5317336; 403709, 5317296; 403711, 5317412; 403633, 5317475; 403756, 5317522; 403757, 5317595; 403453, 5317692; 403195, 5317653; 403013, 5317332; 402994, 5317034; 403121, 5316666; 402955, 5316534; 402910, 5316371; 402720, 5316246; 402914, 5315991; 403088, 5315571; 402789, 5315148; 402279, 5315158; 402263, 5314755; 400677, 5314785; 400697, 5315185; 400300, 5315205; 400302, 5315593; 399092, 5315641; 399123, 5316870; 399510, 5316854; 399510, 5317217; 399123, 5317232; 399122, 5318392; 400736, 5318315; 400764, 5318707; 402365, 5318672; 402380, 5319459; 401978, 5319475; 401990, 5319866; 402390, 5319856; 402407, 5320341; 402625, 5320306; 403013, 5320515; 403418, 5320643; 403531, 5320843; 403540, 5320641.

(H) Land bounded by the following UTM Zone 10, NAD83 coordinates (E, N): 460275, 5322748; 460275, 5322708; 460831, 5322701; 462455, 5322791; 462426, 5321143; 461198, 5321152; 460813, 5320869; 460183, 5320530; 460098, 5320700; 459155, 5321652; 458579, 5321852; 458186, 5322146; 457308, 5322082; 456938, 5321795; 456674, 5321446; 456296, 5321284; 456269, 5321598; 455880, 5321615; 455883, 5322806; 456296, 5322803; 456291, 5322003; 456694, 5322000; 456698, 5322380; 457091, 5322397; 457103, 5322788; 458700, 5322758; 458707, 5322385; 458772, 5322384; 459108, 5322380; 459111, 5322751; 459875, 5322725; 459878, 5323135; 460275, 5323122; 460275, 5322748.

(I) Land bounded by the following UTM Zone 10, NAD83 coordinates (E, N): 446360, 5324581; 447800, 5324495; 450173, 5324473; 450172, 5324071; 450285, 5324061; 450596, 5324058; 450595, 5324463; 453418, 5324440; 453418, 5324034; 453818, 5324024; 453813, 5323627; 454211, 5323615; 454202, 5323226; 455044, 5323214; 455086, 5322402; 454683, 5322405; 454668, 5321209; 454335, 5321212; 453744, 5321304; 453085, 5321499; 452851, 5321730; 452619, 5321815; 451884, 5321906; 451657, 5321817; 451458, 5321954; 451076, 5321984; 450114, 5321873; 449883, 5321757; 449677, 5321524; 449422, 5321421; 448933, 5321579; 448476, 5321829; 447965, 5321871; 447509, 5322178; 446903, 5322237; 446431, 5322588; 445771, 5322556; 444600, 5322763; 444626, 5324559; 446360, 5324581.

(J) Land bounded by the following UTM Zone 10, NAD83 coordinates (E, N): 432988, 5326722; 433096, 5326320; 433026, 5326004; 431956, 5326265; 431491, 5326233; 431535, 5326595; 431782, 5326940; 431780, 5326770; 432183, 5326746; 432178, 5326348; 432983, 5326315; 432988, 5326722.

(K) Land bounded by the following UTM Zone 10, NAD83 coordinates (E, N): 432988, 5326722; 432594, 5326737; 432598, 5327061; 432809, 5326936; 432988, 5326722.

(L) Land bounded by the following UTM Zone 10, NAD83 coordinates (E, N): 421867, 5331438; 421642, 5331368; 421860, 5331313; 421885, 5331208; 421544, 5331239; 421841, 5330927; 421998, 5330975; 422063, 5330811; 422167, 5330784; 422279, 5330854; 422443, 5330721; 422889, 5330717; 423225, 5330821; 423192, 5330398; 423468, 5330387; 423790, 5330417; 423897, 5330506; 423714, 5331292; 423771, 5331354; 424022, 5331416; 425136, 5331314; 427245, 5331319; 427181, 5331112; 426902, 5330850; 426927, 5330646; 427002, 5330577; 427338, 5330724; 427618, 5330724; 428139, 5330523; 428434, 5330228; 428540, 5329804; 429114, 5329798; 429160, 5329522; 429327, 5329527; 429290, 5329759; 429338, 5330034; 429577, 5330375; 429820, 5330515; 430245, 5330593; 430313, 5330797; 430159, 5331142; 430294, 5331174; 430437, 5330943; 430401, 5330880; 430482, 5330816; 430464, 5330591; 431030, 5330321; 431258, 5330417; 431177, 5327220; 431074, 5326901; 431132, 5326534; 430807, 5326539; 430360, 5326644; 430170, 5326946; 429787, 5327214; 429621, 5327430; 429498, 5327303; 429127, 5327417; 429137, 5327197; 429070, 5327240; 429066, 5327448; 429259, 5327765; 429236, 5327918; 429299, 5328107; 429501, 5328203; 429538, 5328288; 429552, 5328459; 429321, 5328474; 429197, 5328365; 429020, 5328348; 428896, 5328111; 428650, 5327967; 428658, 5328144; 428391, 5328227; 428417, 5327853; 428099, 5327710; 427814, 5327278; 427756, 5326991; 427264, 5326678; 427015, 5326736; 426782, 5326695; 426558, 5326838; 426215, 5326946; 425970, 5326802; 425555, 5326766; 425177, 5326942; 424925, 5327335; 424528, 5327328; 424047, 5327213; 423738, 5327233; 423595, 5327134; 423314, 5327139; 423018, 5326948; 422694, 5326977; 422241, 5326574; 421979, 5326484; 421735, 5326502; 421564, 5326446; 421034, 5326104; 420829, 5326198; 420436, 5326061; 420061, 5326242; 419643, 5326048; 419576, 5325852; 418964, 5325948; 418577, 5325762; 418190, 5325709; 417769, 5325789; 417729, 5325746; 417545, 5325859; 417496, 5325768; 417142, 5325716; 417111, 5325793; 416497, 5326032; 416301, 5325957; 415341, 5325969; 415071, 5325850; 414724, 5325922; 414406, 5325883; 414353, 5326037; 414439, 5326115; 414165, 5326627; 413630, 5326805; 413480, 5326985; 413140, 5326976; 413148, 5327190; 413542, 5327193; 413549, 5327604; 415508, 5327523; 415503, 5326756; 417103, 5326674; 417116, 5327412; 417370, 5327385; 417833, 5327623; 418172, 5327624; 420037, 5328410; 420344, 5328742; 420298, 5328879; 420493, 5328905; 420578, 5329104; 420822, 5329160; 421072, 5329091; 421231, 5329119; 421536, 5329310; 421528, 5329567; 421424, 5329625; 421563, 5329956; 421712, 5330089; 421426, 5330577; 421338, 5330528; 421074, 5330086; 420842, 5329968; 420764, 5329784; 420672, 5329824; 420619, 5330007; 420574, 5329903; 420354, 5329902; 420105, 5329699; 419562, 5329506; 419430, 5329656; 419250, 5329661; 419333, 5330194; 419308, 5330381; 419108, 5330350; 419007, 5329870; 418712, 5329575; 418310, 5329467; 418035, 5329516; 417793, 5329656; 417554, 5329997; 417506, 5330272; 417553, 5330721; 417337, 5330583; 417025, 5330661; 416952, 5330560; 416873, 5330562; 416851, 5330131; 416731, 5330200; 416589, 5330665; 416515, 5330655; 416427, 5330514; 416472, 5330732; 416366, 5330921; 416169, 5330480; 416252, 5330785; 416013, 5330714; 415984, 5330850; 415894, 5330925; 415946, 5331132; 415757, 5331196; 415931, 5331691; 420339, 5331576; 421867, 5331438.

(M) Land bounded by the following UTM Zone 10, NAD83 coordinates (E, N): 403111, 5333607; 403305, 5333513; 403941, 5333393; 404126, 5333160; 404622, 5332899; 404876, 5332929; 405243, 5333083; 405239, 5332770; 406042, 5332747; 406035, 5332344; 406832, 5332321; 406828, 5332083; 407421, 5332045; 407696, 5331639; 407754, 5331168; 407950, 5330648; 407914, 5330464; 407693, 5330477; 407690, 5330107; 406087, 5330213; 406104, 5327816; 405515, 5327845; 405516, 5327439; 404520, 5327465; 404649, 5328647; 405013, 5328605; 404951, 5329458; 403738, 5329482; 403709, 5329880; 403312, 5329891; 403285, 5330283; 403060, 5330299; 403092, 5331476; 403665, 5331477; 403662, 5331871; 404057, 5331874; 404044, 5332222; 402768, 5332286; 402799, 5333703; 403111, 5333607.

(iii) Note: Map of Olympic Peninsula Unit follows:

BILLING CODE 4310-55-S

BILLING CODE 4310-55-C

(9) Northwest Washington Cascades Unit (Unit 2). King, Kittitas, Skagit, Snohomish, and Whatcom Counties, Washington.

(i) The Northwest Washington Cascades Unit consists of 393, 500 ac (159, 200 ha) and is comprised of lands managed by the Mt. Baker-Snoqualmie and Wenatchee National Forests.

(ii) From USGS 1:24, 000 scale quadrangles Bacon Peak, Baker Pass, Bandera, Bearpaw Mountain, Bedal, Benchmark Mountain, Big Devil Peak, Big Snow Mountain, Blanca Lake, Cascade Pass, Chikamin Peak, Darrington, Day Lake, Downey Mountain, Eldorado Peak, Evergreen Mountain, Findley Lake, Finney Peak, Fortson, Gee Point, Glacier, Glacier Peak West, Groat Mountain, Grotto, Helena Ridge, Huckleberry Mountain, Illabot Peaks, Lake Philippa, Lake Shannon, Lime Mountain, Lost Lake, Mallardy Ridge, Meadow Mountain, Monte Cristo, Mount Baker, Mount Higgins, Mount Larrabee, Mount Phelps, Mount Sefrit, Mount Shuksan, Prairie Mountain, Pugh Mountain, Rockport, Sauk Mountain, Scenic, Shuksan Arm, Silverton, Skykomish, Sloan Peak, Snoqualmie Lake, Snoqualmie Pass, Snowking Mountain, Sonny Boy Lakes, Stevens Pass, Twin Sisters Mountain, Verlot, Welker Peak, White Chuck Mountain, and Whitehorse Mountain.

(A) Land bounded by the following UTM Zone 10, NAD83 coordinates (E, N): 617392, 5249439; 617395, 5249305; 617577, 5249313; 617809, 5249041; 618891, 5248609; 619769, 5248618; 619783, 5247771; 620584, 5247796; 620616, 5246182; 618983, 5246149; 619040, 5244545; 617746, 5244552; 617555, 5244506; 617323, 5244661; 617096, 5244984; 616939, 5244996; 616574, 5245189; 616343, 5245456; 616030, 5245589; 615998, 5245732; 615898, 5245592; 615779, 5245545; 614971, 5245555; 614551, 5245373; 614544, 5245634; 614142, 5245626; 614151, 5245212; 612926, 5245161; 612928, 5245099; 612706, 5245221; 612323, 5245601; 612524, 5245604; 612514, 5246004; 611284, 5245976; 611284, 5245839; 610844, 5245593; 610727, 5245590; 610685, 5245939; 610875, 5246210; 611291, 5246534; 611695, 5246740; 612162, 5246807; 612472, 5246993; 612420, 5247194; 612443, 5247725; 612673, 5247814; 612768, 5247986; 612634, 5248045; 612515, 5248565; 612549, 5248687; 612732, 5248654; 612923, 5248818; 612914, 5249337; 612824, 5249335; 612875, 5249384; 614263, 5249765; 614924, 5249547; 615011, 5249440; 614951, 5249390; 615037, 5249331; 615154, 5248969; 615276, 5248935; 615433, 5248962; 615565, 5249086; 615534, 5249402; 615737, 5249588; 616112, 5249668; 616974, 5249710; 616974, 5249784; 617392, 5249439; and excluding land bound by 617403, 5247877; 616896, 5247681; 617675, 5247683; 617552, 5247847; 617403, 5247877; and excluding land bound by 616672, 5247657; 616361, 5247776; 616231, 5247747; 616191, 5247673; 616672, 5247657.

(B) Land bounded by the following UTM Zone 10, NAD83 coordinates (E, N): 616086, 5249765; 615519, 5249547; 615445, 5249594; 615253, 5249469; 615034, 5249477; 614907, 5249614; 614968, 5249755; 614913, 5250057; 615091, 5250280; 616068, 5250627; 616086, 5249765.

(C) Land bounded by the following UTM Zone 10, NAD83 coordinates (E, N): 614685, 5265791; 614861, 5265659; 615029, 5265736; 615368, 5265172; 615149, 5265192; 614413, 5265553; 614685, 5265791.

(D) Land bounded by the following UTM Zone 10, NAD83 coordinates (E, N): 610609, 5267020; 611271, 5266540; 611700, 5265931; 611804, 5265911; 611813, 5265663; 612601, 5265681; 612916, 5265608; 613346, 5265210; 614144, 5265080; 614349, 5265479; 614383, 5265347; 614315, 5265115; 614367, 5264934; 614576, 5264756; 614808, 5264712; 615030, 5264511; 615259, 5264564; 615547, 5264109; 615668, 5264099; 615860, 5264212; 616178, 5264073; 616357, 5264427; 616425, 5264454; 616856, 5264135; 617074, 5264127; 617109, 5263619; 617806, 5263318; 617919, 5263114; 618079, 5262996; 618395, 5262978; 618651, 5262886; 618502, 5262458; 618614, 5262327; 618870, 5262260; 619525, 5262212; 619800, 5262375; 620265, 5262166; 620833, 5262251; 621097, 5262389; 621320, 5262709; 621730, 5262839; 622480, 5263400; 622889, 5263518; 623709, 5264114; 623649, 5263728; 623795, 5263683; 623748, 5263426; 623414, 5263384; 622793, 5262934; 622121, 5262665; 621675, 5262007; 622118, 5261902; 622389, 5261642; 622691, 5262070; 623101, 5262176; 623745, 5262627; 624278, 5262638; 624609, 5263046; 624607, 5263143; 624748, 5263182; 624676, 5263033; 624692, 5262806; 624932, 5261601; 624531, 5261333; 624251, 5261339; 623661, 5261083; 623044, 5260961; 622456, 5260632; 621994, 5260489; 622005, 5259946; 621895, 5259768; 621597, 5259549; 621233, 5259485; 621004, 5259530; 620762, 5259669; 620582, 5259883; 620487, 5260146; 620523, 5260561; 620663, 5260803; 620938, 5261011; 620918, 5261127; 619295, 5261176; 618452, 5261414; 617604, 5261895; 616913, 5261881; 617022, 5261810; 616993, 5261445; 617104, 5261374; 617188, 5261413; 617275, 5261329; 617288, 5261257; 617228, 5261219; 617744, 5260962; 617637, 5260838; 617628, 5260705; 617484, 5260592; 617372, 5260141; 616924, 5260059; 616859, 5260252; 616551, 5260452; 616356, 5260485; 616166, 5260882; 616056, 5260892; 615864, 5260791; 615804, 5263411; 613078, 5263332; 612374, 5262894; 612229, 5262855; 612142, 5262938; 612009, 5262923; 611535, 5262381; 611480, 5262041; 611548, 5261402; 611514, 5261169; 611743, 5260594; 611624, 5260064; 612133, 5259635; 612039, 5259170; 612141, 5258540; 612040, 5257727; 612160, 5257459; 612671, 5256953; 612681, 5256578; 611863, 5256464; 612207, 5255357; 611131, 5255328; 610948, 5255453; 610743, 5256145; 610278, 5256922; 609493, 5256907; 609475, 5256495; 607919, 5256453; 607898, 5256891; 607118, 5256876; 606274, 5257698; 606190, 5263035; 605535, 5263035; 605506, 5264587; 605995, 5264752; 606918, 5265398; 606850, 5264960; 606670, 5264894; 606380, 5264939; 606307, 5264831; 606414, 5264665; 607068, 5264687; 607059, 5265778; 607380, 5265768; 608034, 5266031; 608107, 5266162; 608277, 5266177; 608361, 5266116; 608918, 5266275; 609646, 5266817; 609716, 5267004; 609874, 5266995; 610070, 5267236; 610368, 5267197; 610609, 5267020; and excluding land bound by 621260, 5260146; 621837, 5259866; 621907, 5259977; 621651, 5260057; 621404, 5260246; 621282, 5260256; 621260, 5260146.

(E) Land bounded by the following UTM Zone 10, NAD83 coordinates (E, N): 604170, 5276526; 604101, 5276512; 604140, 5277127; 604400, 5277235; 604348, 5277586; 604571, 5277587; 604577, 5277210; 604461, 5277127; 604510, 5276590; 604170, 5276526.

(F) Land bounded by the following UTM Zone 10, NAD83 coordinates (E, N): 606156, 5278431; 606166, 5277616; 604571, 5277598; 604566, 5277998; 604751, 5278183; 605007, 5278136; 605553, 5277862; 605971, 5278076; 606156, 5278431.

(G) Land bounded by the following UTM Zone 10, NAD83 coordinates (E, N): 612414, 5281723; 612422, 5281259; 612138, 5280922; 611839, 5280685; 611119, 5281118; 610318, 5281273; 610181, 5280859; 609875, 5280358; 610135, 5280048; 610391, 5279968; 610134, 5279467; 609862, 5279124; 609807, 5278844; 609526, 5278307; 609722, 5278202; 609821, 5278071; 610391, 5277960; 610979, 5277584; 611286, 5277300; 611529, 5277256; 611485, 5277013; 612005, 5277023; 612083, 5276722; 612366, 5276473; 612429, 5276329; 612760, 5276045; 613139, 5275835; 613345, 5275815; 613530, 5275710; 613396, 5275420; 612696, 5275095; 611821, 5275095; 611754, 5275433; 611543, 5275829; 610486, 5276765; 609743, 5277077; 609537, 5277098; 609215, 5276826; 609091, 5276993; 608958, 5277027; 608761, 5277204; 608463, 5277646; 607363, 5277626; 607259, 5277975; 607138, 5278021; 606829, 5278378; 606475, 5278541; 606071, 5278872; 605812, 5278810; 605867, 5279196; 606146, 5279199; 606119, 5281669; 606289, 5281902; 606462, 5282063; 607001, 5282278; 607566, 5282672; 608677, 5283046; 609198, 5283425; 609539, 5283528; 609772, 5283520; 610878, 5283339; 612202, 5282862; 612396, 5282711; 612414, 5281723; and excluding land bound by 609317, 5279485; 609937, 5279493; 609920, 5279724; 609521, 5279730; 608992, 5280454; 608824, 5280464; 609327, 5279726; 608142, 5279717; 608147, 5279485; 609317, 5279485; and excluding land bound by 608172, 5278816; 608175, 5278649; 608599, 5278669; 608597, 5278824; 608172, 5278816.

(H) Land bounded by the following UTM Zone 10, NAD83 coordinates (E, N): 619406, 5283260; 617911, 5283248; 617858, 5283358; 618469, 5283756; 618662, 5283773; 618448, 5284142; 618628, 5284158; 618560, 5284270; 618685, 5284437; 618680, 5284715; 618296, 5284701; 618209, 5284845; 618771, 5284995; 618802, 5285238; 618899, 5285240; 619017, 5284783; 619317, 5284958; 619362, 5284856; 619406, 5283260.

(I) Land bounded by the following UTM Zone 10, NAD83 coordinates (E, N): 619406, 5283260; 621015, 5283331; 620986, 5284129; 620163, 5284086; 620121, 5284897; 620532, 5284918; 620499, 5285317; 621709, 5285354; 621716, 5284968; 621807, 5284957; 624194, 5285124; 624217, 5284340; 625830, 5284419; 625872, 5283621; 626585, 5283613; 626639, 5282828; 627425, 5282833; 627383, 5283642; 631620, 5283686; 631953, 5284002; 631834, 5284107; 631430, 5284259; 631404, 5284879; 632190, 5284910; 632205, 5285309; 635348, 5285371; 635446, 5283752; 635639, 5283769; 635829, 5283435; 635790, 5283023; 635661, 5282862; 636052, 5282666; 636227, 5282440; 636241, 5281836; 636337, 5281366; 636229, 5281317; 636320, 5281039; 636519, 5280790; 636701, 5280782; 636655, 5280152; 636341, 5279104; 636344, 5278463; 636254, 5278158; 635917, 5278156; 635568, 5278556; 635540, 5279738; 635266, 5280083; 634785, 5279866; 634454, 5280738; 634227, 5280920; 633526, 5281969; 633194, 5282147; 632508, 5282304; 632036, 5282305; 631447, 5281918; 631027, 5281255; 630688, 5281271; 630715, 5280343; 630289, 5279192; 629730, 5278601; 629325, 5277746; 629096, 5277500; 629162, 5277412; 629006, 5277328; 628441, 5276698; 628257, 5276815; 627860, 5277278; 627492, 5276968; 627126, 5277129; 627286, 5277568; 626975, 5277936; 626318, 5278140; 625970, 5278023; 625921, 5280272; 625799, 5280282; 625404, 5280128; 625097, 5280236; 624808, 5281034; 624224, 5281490; 624094, 5281463; 623920, 5281344; 623653, 5280840; 623669, 5279925; 623463, 5279844; 623230, 5279972; 622845, 5279891; 622880, 5279408; 622985, 5279035; 623209, 5278737; 622899, 5278513; 622749, 5278219; 622831, 5277749; 622677, 5277601; 622687, 5277141; 622594, 5277006; 622645, 5276850; 622538, 5276799; 622461, 5276435; 622174, 5276271; 622166, 5276090; 622004, 5275747; 622008, 5275565; 621816, 5275452; 621657, 5274916; 621504, 5274694; 621532, 5274489; 621465, 5274208; 621677, 5273946; 621692, 5273764; 621450, 5273784; 620908, 5274173; 620882, 5274257; 621061, 5274406; 620922, 5274695; 620917, 5274937; 621058, 5275182; 621005, 5275424; 621137, 5275475; 621290, 5275684; 621288, 5275781; 621456, 5275930; 621465, 5276088; 621621, 5276175; 621892, 5276532; 621839, 5276760; 621922, 5277451; 622103, 5277867; 622041, 5277938; 622070, 5278301; 621794, 5278380; 621596, 5278618; 621605, 5278751; 621518, 5278858; 621363, 5279375; 621278, 5279410; 621237, 5279615; 620805, 5280066; 620695, 5280124; 620285, 5280079; 619630, 5279570; 619643, 5279498; 619379, 5279420; 618427, 5278639; 618234, 5278623; 618176, 5278489; 617888, 5278410; 617686, 5278225; 617589, 5278211; 617484, 5278063; 617209, 5277901; 617164, 5277730; 616975, 5277473; 616819, 5276853; 616576, 5276920; 616630, 5277236; 616701, 5277310; 616741, 5277698; 617125, 5278455; 617108, 5278685; 617204, 5278735; 617422, 5278715; 618340, 5279363; 618648, 5279684; 618852, 5279784; 618910, 5279894; 618995, 5279884; 619113, 5280032; 619211, 5279973; 619473, 5280148; 619457, 5280685; 620157, 5280467; 620206, 5280636; 619454, 5280865; 619406, 5283260; and excluding land bound by 621479, 5282040; 621660, 5281992; 621710, 5283345; 621530, 5283354; 621526, 5282904; 621113, 5282934; 621117, 5282754; 621530, 5282698; 621479, 5282040; and excluding land bound by 627824, 5282842; 627845, 5282431; 628243, 5282452; 628235, 5282839; 627824, 5282842; and excluding land bound by 620213, 5280906; 620383, 5280781; 620459, 5280860; 620288, 5281011; 620213, 5280906.

(J) Land bounded by the following UTM Zone 10, NAD83 coordinates (E, N): 640170, 5287625; 640246, 5287482; 640304, 5287590; 640847, 5286870; 641002, 5286319; 640715, 5286320; 640757, 5286067; 640997, 5286055; 640924, 5285856; 640492, 5285491; 639809, 5285476; 639812, 5285863; 639412, 5285865; 639410, 5285466; 638576, 5285447; 638260, 5284980; 637530, 5284648; 637090, 5284323; 636612, 5285110; 636327, 5285394; 636968, 5285409; 636990, 5285990; 638091, 5285460; 638308, 5285489; 638617, 5285738; 638581, 5286257; 636188, 5286189; 636182, 5285390; 635529, 5285375; 635612, 5285449; 635503, 5285447; 635512, 5285592; 635911, 5285602; 635902, 5286001; 635406, 5286001; 635166, 5285923; 634621, 5285958; 634297, 5285842; 634101, 5285922; 633767, 5285733; 633751, 5286942; 637164, 5287060; 637876, 5287289; 638276, 5287498; 638854, 5288005; 639346, 5288186; 639540, 5288154; 639786, 5287991; 640170, 5287625.

(K) Land bounded by the following UTM Zone 10, NAD83 coordinates (E, N): 616536, 5305238; 616457, 5305228; 616532, 5305432; 616536, 5305238.

(L) Land bounded by the following UTM Zone 10, NAD83 coordinates (E, N): 616893, 5305098; 616973, 5304980; 616766, 5305015; 616430, 5304884; 616436, 5305077; 616955, 5305355; 616927, 5305535; 617137, 5305876; 617264, 5305896; 617051, 5305729; 617043, 5305448; 616922, 5305323; 616893, 5305098.

(M) Land bounded by the following UTM Zone 10, NAD83 coordinates (E, N): 628800, 5309744; 629058, 5309793; 629071, 5309608; 628936, 5309654; 628579, 5309397; 628439, 5309449; 628032, 5309116; 627544, 5309170; 627134, 5308954; 626784, 5308967; 626645, 5308715; 626391, 5308637; 626377, 5308495; 626433, 5308441; 626343, 5308284; 626344, 5308080; 626163, 5307892; 626255, 5307747; 626207, 5307566; 625991, 5307312; 625973, 5307194; 625894, 5307165; 625610, 5306427; 625145, 5305936; 624985, 5305650; 625255, 5305534; 625207, 5305456; 625309, 5305416; 625502, 5305539; 625640, 5305440; 625536, 5305188; 625253, 5304835; 625542, 5304597; 625957, 5304827; 626327, 5304770; 626351, 5304479; 626672, 5303995; 626844, 5303987; 627101, 5304103; 627266, 5304078; 627053, 5303703; 627071, 5303538; 627186, 5303399; 627296, 5303372; 627551, 5303542; 628061, 5303453; 628271, 5303058; 628616, 5302812; 628846, 5303067; 628825, 5302313; 629196, 5302104; 629258, 5301910; 629193, 5300579; 629468, 5300152; 629440, 5299980; 629294, 5299823; 629180, 5299718; 628866, 5299600; 628606, 5299293; 628190, 5299200; 627292, 5299237; 626051, 5299690; 625391, 5300350; 624870, 5301064; 624564, 5301641; 624198, 5302102; 624101, 5302132; 624299, 5302406; 623823, 5303439; 623886, 5304006; 623817, 5304236; 623894, 5304515; 623908, 5305002; 623654, 5305160; 624156, 5305059; 624262, 5305157; 624268, 5305410; 623476, 5305332; 623466, 5305200; 623619, 5305167; 623233, 5305031; 622901, 5305027; 622084, 5305278; 621742, 5305278; 621631, 5305438; 621508, 5305394; 621415, 5305506; 621205, 5305480; 620681, 5305673; 620431, 5305619; 620201, 5305867; 619760, 5305985; 619406, 5305995; 619008, 5306186; 618801, 5306006; 618546, 5306015; 618550, 5305860; 617841, 5305942; 617398, 5305917; 617581, 5305945; 617566, 5306101; 616978, 5306017; 616806, 5305592; 616538, 5305446; 616573, 5305537; 616816, 5305701; 616841, 5306256; 616986, 5306352; 617060, 5306289; 616948, 5306293; 616878, 5306220; 616880, 5306075; 617314, 5306084; 617310, 5306277; 617738, 5306265; 617734, 5306408; 618275, 5306311; 618771, 5306316; 619335, 5306446; 619520, 5306395; 619666, 5306621; 619768, 5306592; 619623, 5306366; 620546, 5306139; 620754, 5306132; 620801, 5306249; 621308, 5305825; 621987, 5305761; 622555, 5305604; 622553, 5305646; 623070, 5305582; 623220, 5305454; 623516, 5305527; 623726, 5305495; 624415, 5305577; 624765, 5305848; 625040, 5306238; 625631, 5307421; 625787, 5307596; 625911, 5308043; 625931, 5308575; 626066, 5308848; 626115, 5309288; 626771, 5309313; 626770, 5309479; 627086, 5309398; 627251, 5309454; 627711, 5309443; 628042, 5309276; 628114, 5309457; 628153, 5309366; 628343, 5309503; 628437, 5309829; 628800, 5309744.

(N) Land bounded by the following UTM Zone 10, NAD83 coordinates (E, N): 612715, 5324568; 612761, 5324074; 612401, 5323960; 612305, 5323868; 612274, 5323720; 612432, 5323122; 612687, 5322918; 613251, 5322622; 614198, 5322320; 614747, 5322226; 615332, 5321958; 615529, 5321661; 615605, 5321405; 615690, 5320620; 615896, 5320324; 616276, 5320273; 616580, 5320367; 616633, 5320472; 616724, 5321766; 616807, 5322052; 616953, 5322232; 616814, 5321603; 616841, 5321532; 616963, 5321535; 617007, 5320969; 616792, 5320463; 616843, 5319859; 616812, 5319768; 616722, 5319785; 616710, 5319727; 617241, 5318302; 617454, 5317934; 617311, 5317971; 617219, 5317777; 617581, 5317689; 617628, 5317774; 618146, 5317509; 618201, 5317329; 618515, 5316951; 618612, 5316634; 618699, 5316559; 618421, 5316180; 617718, 5315852; 617485, 5315566; 616720, 5315301; 616051, 5315361; 615876, 5315451; 615545, 5316139; 615532, 5316769; 615373, 5316777; 615163, 5317705; 615000, 5318107; 614856, 5318135; 614646, 5318509; 613976, 5319215; 613850, 5319289; 613369, 5319321; 613119, 5319789; 612515, 5320145; 612524, 5320426; 612412, 5321068; 612108, 5321689; 611945, 5321806; 611957, 5322294; 611444, 5322669; 611185, 5323050; 610845, 5323175; 610418, 5323509; 610056, 5323685; 609931, 5323802; 609814, 5324132; 609855, 5324305; 610087, 5324506; 610633, 5324543; 610968, 5324679; 611160, 5324843; 611241, 5324922; 611357, 5325347; 611741, 5325844; 612079, 5325699; 612414, 5325457; 612671, 5325063; 612715, 5324568; and excluding land bound by 617096, 5317403; 617459, 5317326; 617528, 5317484; 617119, 5317475; 617096, 5317403.

(O) Land bounded by the following UTM Zone 10, NAD83 coordinates (E, N): 604887, 5330192; 604635, 5330169; 604637, 5330278; 605327, 5330326; 604887, 5330192.

(P) Land bounded by the following UTM Zone 10, NAD83 coordinates (E, N): 625818, 5329918; 626031, 5329620; 628118, 5327554; 628287, 5327182; 628633, 5326979; 629193, 5326198; 628977, 5325998; 628572, 5326036; 628454, 5325986; 628340, 5325770; 628154, 5325599; 628011, 5325596; 628021, 5325145; 627902, 5325142; 627644, 5324994; 627498, 5325110; 627451, 5325085; 627461, 5324658; 627295, 5324606; 627298, 5324488; 627591, 5324185; 627711, 5324140; 627618, 5324019; 627693, 5323855; 628055, 5323649; 628088, 5323298; 628376, 5323117; 628483, 5322920; 628467, 5322759; 628392, 5322680; 628607, 5322562; 628728, 5322295; 628560, 5322027; 628501, 5321781; 628624, 5321475; 629303, 5321058; 629548, 5321031; 629806, 5320722; 630232, 5320660; 630594, 5320095; 631141, 5319851; 631601, 5319443; 631881, 5319308; 632461, 5318755; 632694, 5318696; 632860, 5318745; 633104, 5318513; 633414, 5318462; 633810, 5318555; 633795, 5317821; 633727, 5317658; 633183, 5317212; 632432, 5316413; 631049, 5316861; 630832, 5316375; 630449, 5316138; 628393, 5316057; 628240, 5316414; 628081, 5316543; 627814, 5316657; 627653, 5316846; 627374, 5316948; 627128, 5317195; 626445, 5317589; 626398, 5317846; 626498, 5317996; 626544, 5318235; 626677, 5318354; 626731, 5318516; 626548, 5318641; 626639, 5319184; 626795, 5319451; 626635, 5319673; 626756, 5319747; 626753, 5319869; 626924, 5320021; 626794, 5320340; 626815, 5320572; 626863, 5321011; 627047, 5321163; 626835, 5321416; 626823, 5321673; 627031, 5321594; 627066, 5322065; 627009, 5322296; 627122, 5322408; 627076, 5322484; 627113, 5322542; 627327, 5322760; 627381, 5322947; 626454, 5322953; 626410, 5324948; 625619, 5324930; 625610, 5325304; 625199, 5325295; 625180, 5326144; 624800, 5326136; 624774, 5327320; 622006, 5327265; 622002, 5327188; 621896, 5327295; 621412, 5327046; 621362, 5326981; 621428, 5326615; 621348, 5326459; 621461, 5325998; 621447, 5325489; 621647, 5324850; 620657, 5324816; 620338, 5324989; 620098, 5324425; 619959, 5324621; 619797, 5324663; 619319, 5323797; 619323, 5323617; 619469, 5323388; 620172, 5322701; 620380, 5322596; 620453, 5322488; 621114, 5322186; 621216, 5322201; 621218, 5322130; 621629, 5321882; 621787, 5321711; 621929, 5321701; 621932, 5321592; 622256, 5321194; 622099, 5320991; 621926, 5320961; 621615, 5320767; 621529, 5320849; 621525, 5321068; 621389, 5321084; 621218, 5321261; 620965, 5321346; 620863, 5321318; 620621, 5321506; 620350, 5321546; 620056, 5321720; 619416, 5321861; 618844, 5322455; 618439, 5322730; 618148, 5322801; 618082, 5323218; 617752, 5323259; 618251, 5323492; 618653, 5324437; 619073, 5325016; 619277, 5325456; 619755, 5325817; 620055, 5326668; 620244, 5327026; 620593, 5327366; 620808, 5327704; 620957, 5328125; 621327, 5328457; 621594, 5328963; 621835, 5329138; 622752, 5329497; 623185, 5329796; 623648, 5329928; 624128, 5330279; 624367, 5330344; 624937, 5330298; 625773, 5330101; 625818, 5329918.

(Q) Land bounded by the following UTM Zone 10, NAD83 coordinates (E, N): 597035, 5330771; 597134, 5330629; 597099, 5330556; 596992, 5330470; 596836, 5330456; 596718, 5330334; 596718, 5329626; 596613, 5329519; 596230, 5329402; 596208, 5329282; 596526, 5328952; 596565, 5328748; 596865, 5328789; 597661, 5328587; 597710, 5328504; 597928, 5328424; 598346, 5328539; 598719, 5328497; 598721, 5327682; 598468, 5327726; 598072, 5327671; 597615, 5327747; 597054, 5327656; 597053, 5327582; 596285, 5327569; 596314, 5325962; 596721, 5325969; 596735, 5325154; 597131, 5325161; 597117, 5325976; 597933, 5325990; 597940, 5325594; 598360, 5325601; 598334, 5327100; 599294, 5327116; 599306, 5326457; 599566, 5326689; 599769, 5326717; 599863, 5326850; 599983, 5326888; 600265, 5327253; 600390, 5327663; 600591, 5327810; 600879, 5327839; 601230, 5327653; 600944, 5327564; 600826, 5327442; 600736, 5327045; 600763, 5326901; 600407, 5326656; 600350, 5326451; 600267, 5326389; 599920, 5326336; 600417, 5326068; 600636, 5325868; 600696, 5325893; 600831, 5326435; 601006, 5326702; 601233, 5326802; 601617, 5326772; 601652, 5326857; 602304, 5326868; 602307, 5327233; 602471, 5327090; 602340, 5326913; 602336, 5326728; 602535, 5326125; 602317, 5326100; 602325, 5325682; 602660, 5325688; 602974, 5325413; 603915, 5325278; 603893, 5325089; 603731, 5324897; 603523, 5324893; 603526, 5324721; 603379, 5324622; 602539, 5324392; 602223, 5324096; 601986, 5323978; 601632, 5323987; 601261, 5324292; 601092, 5324284; 600893, 5324026; 600670, 5323905; 600543, 5323925; 600316, 5324334; 600143, 5324468; 599654, 5324486; 599266, 5324652; 598727, 5324165; 598279, 5324247; 597874, 5324235; 597739, 5324353; 598393, 5324367; 598379, 5325182; 597587, 5325169; 597556, 5325576; 597340, 5325572; 597347, 5325165; 597575, 5325168; 597587, 5324460; 596852, 5324729; 596463, 5324636; 596204, 5324440; 595973, 5324423; 594951, 5324785; 594737, 5324950; 594521, 5325436; 594780, 5325743; 594783, 5325529; 595180, 5325535; 595159, 5326758; 595087, 5326756; 595432, 5327292; 595645, 5328125; 595974, 5328789; 596157, 5329808; 596572, 5330250; 596631, 5330531; 596857, 5330991; 597035, 5330771; and excluding land bound by 601149, 5324654; 601153, 5324438; 601573, 5324445; 601569, 5324661; 601149, 5324654.

(R) Land bounded by the following UTM Zone 10, NAD83 coordinates (E, N): 591085, 5339284; 591266, 5339167; 591427, 5338882; 591466, 5338680; 591269, 5338246; 591284, 5338019; 590063, 5337988; 590005, 5337856; 589778, 5337852; 589697, 5337648; 589458, 5337608; 589233, 5337449; 589125, 5337447; 589004, 5337577; 588801, 5337538; 588490, 5336732; 588472, 5336361; 588595, 5336160; 588993, 5335951; 588782, 5335660; 589326, 5335322; 589518, 5335289; 589790, 5335484; 589997, 5335296; 590546, 5335276; 591072, 5335444; 592952, 5335014; 593500, 5334951; 593654, 5334772; 593820, 5334409; 593912, 5333658; 593737, 5332530; 593706, 5331418; 592930, 5330662; 592567, 5330497; 592212, 5330439; 591522, 5330498; 590910, 5330682; 590611, 5330911; 590172, 5331016; 589718, 5330970; 589150, 5330644; 586310, 5330597; 586216, 5335430; 584689, 5335401; 584614, 5338755; 584672, 5338887; 584963, 5338675; 585141, 5338773; 585464, 5338814; 585969, 5338642; 586102, 5338573; 586397, 5338099; 586527, 5338221; 586827, 5338165; 587150, 5338218; 588053, 5338675; 588050, 5338866; 588204, 5338940; 588587, 5338946; 589004, 5339084; 589161, 5339027; 589627, 5339094; 590079, 5339268; 590224, 5339175; 590435, 5339477; 591085, 5339284.

(S) Land bounded by the following UTM Zone 10, NAD83 coordinates (E, N): 601767, 5338459; 601772, 5338208; 601496, 5338215; 601250, 5337923; 600958, 5338146; 601006, 5338416; 601306, 5338649; 601896, 5340031; 601806, 5340401; 601905, 5340906; 601987, 5341015; 601854, 5341815; 602434, 5341826; 602477, 5339538; 602398, 5339297; 602424, 5339166; 602317, 5339140; 602036, 5338883; 601767, 5338459.

(T) Land bounded by the following UTM Zone 10, NAD83 coordinates (E, N): 592677, 5342425; 592889, 5342201; 593141, 5342182; 593132, 5342002; 593612, 5341914; 593792, 5341941; 593898, 5342027; 593896, 5342110; 594991, 5342150; 594999, 5342070; 594153, 5341840; 593882, 5341535; 593307, 5341574; 593005, 5341688; 592751, 5341708; 592383, 5341936; 592538, 5342160; 592558, 5342388; 592677, 5342425.

(U) Land bounded by the following UTM Zone 10, NAD83 coordinates (E, N): 604013, 5343139; 604028, 5342396; 604854, 5342412; 604871, 5341520; 605611, 5341534; 605270, 5341482; 605276, 5341167; 605669, 5341174; 605624, 5342138; 605866, 5342178; 606142, 5342130; 606384, 5341990; 606563, 5341776; 606671, 5341374; 606622, 5341098; 606483, 5340856; 606249, 5340668; 606596, 5340238; 606693, 5339846; 606468, 5339722; 606440, 5339552; 606923, 5339394; 607080, 5338981; 606972, 5338826; 607602, 5337502; 607697, 5337106; 608315, 5336543; 608170, 5336099; 610135, 5336159; 610300, 5336498; 610556, 5336697; 610619, 5336832; 610691, 5336815; 611205, 5337114; 611599, 5337053; 611727, 5336808; 611797, 5335472; 612043, 5335073; 612551, 5334655; 613344, 5334196; 613506, 5334414; 613931, 5334541; 614101, 5334378; 614068, 5333665; 614551, 5333294; 615028, 5333185; 615296, 5332858; 615706, 5332558; 615993, 5331860; 615770, 5331581; 615856, 5330939; 616162, 5330029; 616140, 5329582; 615831, 5329288; 615624, 5329246; 614721, 5329591; 614277, 5329575; 613215, 5329387; 612360, 5329438; 612058, 5329562; 611601, 5330072; 610913, 5330228; 610354, 5329917; 610053, 5329379; 609447, 5329107; 609133, 5329133; 608934, 5329282; 608877, 5329398; 608831, 5330603; 608751, 5331093; 608468, 5331550; 608061, 5331876; 607692, 5331919; 607428, 5331803; 606176, 5330625; 605416, 5330353; 605383, 5330739; 603324, 5330697; 603356, 5332483; 602876, 5332473; 602597, 5332707; 601190, 5332679; 600806, 5332980; 600289, 5333107; 600184, 5333207; 600451, 5333590; 600693, 5333458; 600900, 5333428; 601721, 5333582; 601894, 5333517; 602443, 5333528; 602647, 5333601; 602811, 5333981; 602770, 5334289; 602867, 5334600; 602831, 5334702; 602966, 5334808; 602962, 5334980; 602854, 5335218; 602922, 5335288; 603025, 5335255; 603367, 5335331; 603736, 5335750; 603805, 5335752; 603905, 5335891; 604076, 5335894; 604447, 5336245; 604578, 5336522; 604680, 5336593; 604744, 5336800; 604667, 5337245; 604700, 5337280; 604839, 5337214; 605036, 5337664; 605337, 5338048; 605397, 5338461; 605325, 5338631; 605392, 5338701; 604629, 5339097; 604111, 5339258; 603861, 5339699; 603721, 5339834; 603778, 5340453; 603498, 5340687; 603313, 5341370; 603103, 5341537; 603066, 5341673; 602669, 5342206; 602585, 5342217; 602517, 5342416; 601628, 5342427; 601652, 5342315; 601582, 5342314; 601140, 5342977; 600461, 5342750; 599917, 5343079; 604013, 5343139; and excluding land bound by 602024, 5342619; 602424, 5342601; 602349, 5342799; 601477, 5342831; 601529, 5342629; 602024, 5342619.

(V) Land bounded by the following UTM Zone 10, NAD83 coordinates (E, N): 617835, 5349743; 617819, 5349608; 618373, 5349619; 618406, 5349160; 618884, 5348537; 619115, 5348350; 619477, 5348178; 620029, 5348082; 620285, 5348386; 620397, 5348771; 620670, 5349123; 620783, 5349962; 620739, 5350273; 620879, 5350176; 622179, 5349807; 622849, 5349728; 622998, 5349774; 623927, 5347713; 626414, 5348198; 626496, 5348283; 626782, 5348301; 626991, 5348581; 627277, 5348635; 627441, 5348782; 627586, 5348702; 627919, 5348745; 628270, 5348900; 628010, 5348471; 627979, 5348301; 628024, 5348175; 628168, 5348056; 628481, 5348140; 628711, 5348292; 629685, 5348533; 630055, 5348719; 631783, 5347604; 631936, 5347414; 631655, 5347179; 631645, 5347097; 631908, 5347103; 631923, 5346984; 632263, 5346753; 633187, 5346583; 633465, 5346458; 634197, 5345782; 634646, 5346020; 634668, 5344807; 634144, 5344794; 632647, 5343414; 631769, 5343333; 630970, 5343061; 630619, 5342752; 630621, 5342571; 630719, 5342395; 630633, 5342382; 630146, 5341848; 629782, 5341602; 629554, 5341145; 629483, 5341120; 629245, 5341139; 628670, 5341340; 627790, 5341321; 627373, 5340789; 626755, 5340775; 626757, 5340680; 626596, 5340455; 626152, 5340519; 625906, 5341513; 625763, 5341819; 625195, 5342289; 624408, 5342364; 624353, 5342320; 624340, 5341896; 624631, 5340975; 624625, 5340616; 624555, 5340403; 624371, 5340012; 623938, 5339706; 623504, 5339583; 623422, 5339492; 623372, 5339241; 623470, 5339084; 623836, 5338800; 624164, 5338652; 624546, 5338585; 624616, 5338480; 623951, 5338528; 623924, 5338693; 623781, 5338714; 623707, 5338831; 622997, 5338673; 622636, 5338855; 622911, 5337998; 620949, 5337958; 620888, 5338365; 620687, 5338337; 620649, 5337995; 619910, 5338391; 619727, 5338876; 619904, 5339647; 619854, 5340021; 620030, 5339678; 620508, 5339545; 620239, 5339944; 620062, 5340510; 619872, 5340459; 619689, 5340303; 619486, 5340700; 619254, 5340989; 619175, 5341388; 618871, 5341937; 618455, 5342478; 618268, 5342630; 616214, 5342829; 616086, 5343175; 615646, 5343759; 615310, 5343875; 614639, 5343721; 614324, 5343467; 613990, 5343024; 613744, 5343021; 613473, 5343253; 613322, 5343552; 613089, 5343728; 612948, 5343937; 612651, 5344978; 612613, 5345764; 612330, 5346637; 611713, 5347672; 611639, 5347900; 611598, 5348173; 611757, 5349109; 612074, 5350035; 612071, 5350302; 618156, 5350430; 618292, 5350031; 617733, 5350025; 617819, 5349917; 617835, 5349743; and excluding land bound by 618100, 5348139; 618236, 5348419; 618113, 5348416; 618105, 5348815; 617777, 5348802; 617710, 5348601; 617759, 5348454; 618100, 5348139; and excluding land bound by 627760, 5346589; 627778, 5345786; 628190, 5345795; 628166, 5346599; 627760, 5346589; and excluding land bound by 622022, 5340814; 622431, 5339540; 622922, 5339883; 623443, 5340013; 624415, 5340130; 624385, 5340390; 624241, 5340459; 624186, 5340790; 623807, 5340758; 623466, 5340853; 623466, 5340437; 623305, 5340499; 623099, 5340219; 622987, 5340219; 622987, 5340271; 622897, 5340271; 622741, 5340547; 622505, 5340497; 622505, 5340808; 622867, 5340779; 623159, 5340863; 622425, 5340846; 621920, 5341097; 622022, 5340814.

(W) Land bounded by the following UTM Zone 10, NAD83 coordinates (E, N): 619323, 5365876; 619901, 5365828; 620504, 5365998; 621546, 5366527; 621581, 5361891; 621127, 5362072; 620515, 5362089; 620455, 5362008; 620443, 5361779; 620507, 5361643; 620791, 5361483; 620530, 5361461; 620277, 5361725; 620199, 5362440; 619995, 5362820; 619135, 5362791; 617447, 5363022; 617358, 5362632; 617544, 5362278; 617508, 5361864; 617688, 5361799; 617708, 5361484; 617332, 5361180; 617251, 5360840; 617434, 5359849; 617384, 5359552; 617206, 5359433; 616717, 5359499; 615944, 5359321; 615391, 5359535; 615232, 5359701; 615124, 5359989; 614876, 5360142; 614464, 5360993; 614512, 5361198; 614732, 5361416; 614711, 5363162; 614650, 5363672; 614463, 5364199; 614020, 5364741; 613943, 5365173; 613966, 5365662; 614377, 5366531; 614405, 5367678; 614454, 5367804; 614675, 5367950; 615045, 5368002; 615047, 5368092; 615324, 5368348; 615332, 5369104; 615536, 5369527; 616891, 5369247; 617182, 5369014; 617574, 5367220; 617781, 5366904; 618385, 5366137; 619323, 5365876.

(X) Land bounded by the following UTM Zone 10, NAD83 coordinates (E, N): 582326, 5371814; 582342, 5370988; 583167, 5371004; 583179, 5370219; 584774, 5370244; 584790, 5369445; 594270, 5369503; 594339, 5367561; 595137, 5367575; 595132, 5367993; 595954, 5368009; 595956, 5364636; 597610, 5364669; 597802, 5364609; 597865, 5364675; 602360, 5364711; 602425, 5359971; 602450, 5359913; 602676, 5359917; 602716, 5359703; 603181, 5359712; 603280, 5357816; 603165, 5357551; 602907, 5357307; 602478, 5356630; 602014, 5356502; 601893, 5357862; 601411, 5358714; 601174, 5359366; 600771, 5359216; 600608, 5359022; 600540, 5358603; 600099, 5357867; 599784, 5356750; 599541, 5356244; 599443, 5355716; 599414, 5354628; 599559, 5354511; 600809, 5354091; 601051, 5353904; 601169, 5353666; 600562, 5353655; 600564, 5353539; 600364, 5353569; 600133, 5353756; 599534, 5353866; 599082, 5353750; 598283, 5353677; 597702, 5353428; 597247, 5353468; 596910, 5353618; 596709, 5353507; 596533, 5353336; 596417, 5353095; 596194, 5352195; 595717, 5351434; 595456, 5351322; 594655, 5350651; 594934, 5350393; 595734, 5350419; 595843, 5350337; 595871, 5349427; 594345, 5349397; 594327, 5350288; 592610, 5350254; 592626, 5349364; 586329, 5349241; 586314, 5350004; 586441, 5350006; 586362, 5354077; 586424, 5354142; 586178, 5360245; 586241, 5360310; 586222, 5361264; 585785, 5361256; 585779, 5361649; 585398, 5361643; 585404, 5361248; 583232, 5361206; 583040, 5361266; 583073, 5359548; 578239, 5359454; 578223, 5360268; 579845, 5360300; 579833, 5361133; 579428, 5361116; 579434, 5360711; 578215, 5360694; 578176, 5362697; 576649, 5362668; 576597, 5366736; 577313, 5366707; 577318, 5366314; 577735, 5366332; 577741, 5365915; 578539, 5365926; 578533, 5366343; 578140, 5366338; 578123, 5366730; 578087, 5369250; 578308, 5369256; 578362, 5371747; 581509, 5371798; 581514, 5371410; 581907, 5371416; 581902, 5371806; 582326, 5371814; and excluding land bound by 580540, 5365990; 580575, 5364371; 580980, 5364376; 580945, 5365995; 580540, 5365990; and excluding land bound by 581384, 5363572; 581394, 5361977; 582991, 5361987; 582992, 5362797; 582194, 5362786; 582183, 5363571; 581384, 5363572; and excluding land bound by 587969, 5362612; 587969, 5361814; 588779, 5361826; 588779, 5362612; 587969, 5362612; and excluding land bound by 587570, 5362201; 587564, 5362593; 586741, 5362593; 586748, 5362188; 586200, 5362179; 586206, 5361775; 587159, 5361789; 587165, 5362194; 587570, 5362201; and excluding land bound by 582221, 5360821; 582226, 5360405; 582619, 5360422; 582614, 5360827; 582221, 5360821; and excluding land bound by 587208, 5350062; 587996, 5350081; 587989, 5350504; 587201, 5350480; 587208, 5350062; and excluding land bound by 589882, 5350139; 589889, 5349710; 590307, 5349716; 590300, 5350146; 589882, 5350139.

(Y) Land bounded by the following UTM Zone 10, NAD83 coordinates (E, N): 627489, 5377919; 628255, 5377892; 628723, 5377475; 628970, 5377052; 629450, 5376735; 629866, 5376676; 630296, 5376771; 630659, 5376582; 631528, 5376570; 631746, 5376543; 631868, 5376459; 631791, 5375008; 631313, 5372068; 632915, 5371369; 633837, 5371260; 634443, 5371274; 634696, 5371200; 634960, 5370956; 635372, 5370914; 636162, 5370962; 636373, 5370711; 636566, 5370639; 637588, 5370417; 637768, 5370456; 638065, 5370253; 638292, 5369814; 638540, 5369059; 638954, 5368245; 639005, 5367984; 638558, 5367775; 637840, 5367675; 637395, 5368344; 637142, 5368457; 636945, 5368726; 636657, 5368314; 636290, 5368735; 636109, 5368826; 635822, 5368843; 635620, 5368814; 635364, 5368558; 634938, 5368417; 633687, 5368386; 633619, 5368230; 633659, 5368076; 629859, 5367962; 629821, 5368545; 629693, 5368936; 629728, 5369437; 629019, 5369933; 628745, 5369927; 628409, 5370051; 628028, 5370019; 627454, 5370114; 627325, 5370015; 627028, 5369961; 626745, 5370422; 626998, 5371182; 626884, 5371641; 625852, 5372187; 625636, 5372438; 625547, 5372765; 626071, 5373432; 626083, 5373530; 625900, 5373960; 625141, 5374749; 625063, 5375187; 624964, 5375290; 624907, 5379638; 627489, 5377919; and excluding land bound by 628331, 5374779; 628333, 5374684; 628689, 5374692; 628693, 5375084; 628386, 5374970; 628331, 5374779.

(Z) Land bounded by the following UTM Zone 10, NAD83 coordinates (E, N): 576867, 5404088; 577013, 5403974; 578257, 5404042; 578333, 5403975; 578209, 5403420; 578391, 5403380; 578858, 5403498; 578942, 5403007; 578951, 5402362; 578168, 5402282; 577847, 5401920; 577890, 5401118; 577766, 5401023; 577534, 5401019; 577491, 5400931; 577347, 5400941; 577337, 5400728; 577137, 5400669; 577139, 5400073; 577901, 5399894; 578137, 5399957; 578351, 5399912; 578650, 5399727; 579446, 5399607; 580687, 5399909; 580921, 5400114; 581179, 5400562; 581585, 5399539; 581422, 5399078; 581817, 5398956; 581886, 5398882; 581738, 5398560; 581717, 5398347; 581493, 5398249; 581309, 5397795; 580828, 5397445; 579898, 5396993; 579147, 5396390; 578632, 5396774; 578191, 5396922; 577374, 5397693; 575820, 5397755; 575508, 5397987; 575399, 5398187; 575280, 5398198; 575431, 5398413; 575318, 5398850; 575262, 5399454; 575377, 5399802; 576437, 5399823; 576371, 5400169; 576330, 5403070; 575739, 5403062; 575734, 5403412; 576591, 5403881; 576805, 5404136; 576867, 5404088.

(AA) Land bounded by the following UTM Zone 10, NAD83 coordinates (E, N): 606339, 5404845; 607229, 5403165; 607225, 5396894; 606873, 5396862; 606571, 5396572; 605803, 5396391; 605517, 5396469; 605311, 5396678; 604867, 5396955; 604760, 5397000; 604345, 5396980; 603978, 5397166; 604005, 5396346; 602804, 5396332; 602803, 5395753; 602904, 5395400; 603076, 5395118; 603008, 5394951; 602525, 5394764; 602468, 5394656; 602404, 5394275; 602526, 5394064; 602567, 5393804; 602454, 5393482; 602636, 5393272; 602626, 5392560; 602871, 5392126; 603197, 5391812; 603128, 5391704; 603153, 5391431; 603036, 5391364; 602734, 5390765; 602695, 5390260; 603058, 5389596; 603649, 5389105; 604199, 5389039; 604692, 5389060; 604745, 5388959; 604740, 5388591; 604971, 5388323; 605182, 5387177; 605740, 5387128; 606851, 5387362; 607041, 5387342; 607233, 5387203; 607286, 5386908; 607072, 5386476; 607052, 5386297; 607203, 5385848; 607126, 5385502; 607154, 5385265; 607369, 5385257; 607562, 5385094; 607795, 5384718; 607886, 5384304; 608068, 5384105; 608449, 5383446; 608692, 5383154; 608920, 5383027; 609276, 5382463; 609210, 5382153; 609060, 5381948; 609041, 5381698; 609190, 5381356; 609432, 5381087; 609417, 5380635; 609604, 5380418; 609549, 5380375; 608620, 5380119; 607329, 5380181; 606969, 5380267; 606786, 5380216; 606414, 5380278; 605782, 5380201; 605484, 5380248; 605429, 5380281; 605405, 5382212; 602254, 5382212; 602255, 5382059; 601890, 5382054; 600950, 5382493; 600393, 5383215; 600156, 5383745; 600546, 5383753; 600578, 5385332; 601719, 5385353; 601712, 5385757; 600587, 5385744; 600583, 5386547; 600103, 5386549; 600099, 5386917; 599292, 5386892; 599321, 5385703; 598181, 5385660; 598188, 5385249; 597463, 5385243; 597435, 5386683; 597495, 5386875; 598258, 5386890; 598223, 5388671; 597319, 5388662; 597317, 5388778; 597541, 5389529; 597571, 5389850; 597719, 5390232; 597664, 5390658; 597805, 5390755; 597708, 5390848; 597729, 5391015; 597752, 5391074; 597894, 5391077; 598219, 5391509; 598533, 5392546; 598476, 5393079; 598616, 5393888; 598788, 5394235; 598824, 5394935; 598812, 5395646; 598703, 5396439; 599025, 5397049; 599447, 5397294; 602227, 5397430; 602517, 5397793; 602726, 5397891; 603319, 5397910; 604071, 5398292; 604480, 5398631; 604805, 5399017; 604704, 5399336; 604893, 5399387; 605027, 5399816; 604979, 5399863; 605024, 5399994; 603859, 5400126; 603761, 5399650; 603443, 5399549; 603024, 5399126; 602695, 5398930; 602518, 5398879; 602386, 5398971; 602091, 5398883; 601904, 5398737; 601906, 5398642; 601721, 5398401; 599312, 5398276; 598910, 5398174; 598597, 5397789; 598268, 5397606; 597793, 5397645; 597714, 5397406; 597812, 5396519; 598052, 5396380; 598110, 5395777; 597844, 5395369; 597606, 5394736; 597373, 5394448; 596724, 5394294; 596779, 5393833; 597030, 5393754; 597150, 5393649; 597012, 5393410; 596881, 5393407; 596886, 5393135; 597162, 5392950; 597121, 5392605; 597219, 5392381; 597226, 5392014; 597087, 5391786; 597212, 5391433; 596839, 5391427; 596846, 5391011; 596442, 5391004; 596449, 5390623; 596034, 5390604; 596032, 5388650; 589381, 5388561; 589408, 5387161; 587818, 5387129; 587791, 5388529; 585883, 5388492; 586101, 5387096; 583937, 5387081; 583937, 5387830; 583569, 5387824; 583569, 5388573; 582776, 5388572; 582798, 5387074; 581184, 5387052; 580880, 5388623; 579872, 5392013; 579488, 5394035; 580760, 5395511; 581068, 5395563; 581485, 5395438; 581709, 5395477; 581955, 5395729; 582191, 5395792; 582296, 5395924; 582729, 5396014; 582787, 5396074; 583229, 5395939; 583434, 5395728; 583576, 5395754; 584010, 5396070; 584149, 5396321; 584157, 5396571; 584467, 5396481; 584518, 5396268; 584737, 5395903; 584446, 5395530; 584313, 5394969; 584482, 5394757; 584722, 5394607; 584601, 5394010; 584637, 5393975; 586217, 5393893; 586374, 5393741; 586460, 5393540; 586892, 5393297; 587154, 5393206; 587296, 5393220; 587715, 5393024; 587829, 5393113; 588116, 5393082; 588238, 5393168; 588381, 5393091; 588459, 5393136; 588741, 5392911; 588956, 5392994; 589299, 5392792; 589632, 5392400; 589811, 5392328; 589956, 5392500; 590104, 5392859; 590612, 5393035; 590354, 5393316; 589840, 5393440; 589546, 5393647; 589226, 5393766; 589083, 5393931; 588754, 5394085; 588618, 5394259; 588274, 5394267; 587949, 5394430; 587787, 5394644; 587809, 5394953; 587563, 5395413; 586964, 5395521; 586855, 5395615; 586933, 5395949; 587096, 5396189; 587796, 5396188; 587803, 5395772; 588956, 5395659; 590374, 5396109; 591384, 5396598; 590924, 5396930; 590515, 5397122; 590172, 5397625; 590064, 5398069; 589720, 5398405; 590126, 5398352; 590652, 5398087; 591114, 5398166; 591219, 5398322; 591702, 5398532; 592074, 5398507; 592320, 5398677; 592521, 5398716; 592912, 5398747; 593043, 5398690; 593187, 5399973; 594206, 5402191; 596143, 5402606; 596653, 5402803; 596997, 5402847; 597420, 5402710; 597680, 5402877; 597737, 5402878; 597910, 5402643; 598017, 5402632; 598026, 5402482; 598197, 5402341; 598466, 5402377; 598496, 5402823; 598418, 5402990; 598448, 5403079; 599251, 5403425; 599447, 5403717; 599628, 5403751; 600023, 5404454; 600022, 5404523; 599851, 5404614; 599886, 5404759; 606339, 5404845.

(BB) Land bounded by the following UTM Zone 10, NAD83 coordinates (E, N): 599145, 5422279; 599176, 5421893; 598998, 5421890; 598982, 5422128; 598472, 5422131; 598392, 5421951; 597709, 5421498; 598220, 5420878; 598521, 5420657; 598212, 5420676; 598082, 5420590; 597946, 5420208; 597973, 5420065; 597857, 5419885; 597981, 5419566; 597928, 5419370; 597964, 5419185; 598138, 5418795; 598419, 5418491; 598300, 5418287; 598722, 5417926; 598905, 5417632; 599120, 5417552; 599262, 5417590; 599414, 5417736; 599497, 5418019; 600387, 5418490; 600470, 5418479; 600538, 5418706; 600723, 5418579; 601137, 5418682; 601390, 5418608; 601801, 5418128; 601958, 5417438; 601819, 5417257; 601249, 5416826; 601523, 5416258; 601749, 5416031; 601807, 5415846; 601843, 5415080; 601997, 5414235; 601996, 5413883; 601916, 5413570; 601733, 5413544; 601609, 5413816; 601431, 5413777; 601240, 5413844; 600838, 5414360; 600634, 5414511; 600082, 5414822; 599831, 5414925; 599713, 5414887; 599507, 5415110; 599436, 5415085; 599345, 5414845; 599480, 5414108; 599438, 5413771; 599595, 5413471; 599523, 5413125; 599540, 5412651; 599824, 5411888; 599480, 5411660; 599069, 5411595; 598508, 5412070; 598367, 5412254; 598256, 5412639; 598058, 5412811; 597627, 5413413; 596481, 5413923; 597030, 5414445; 596374, 5414437; 596117, 5415122; 595644, 5415590; 595534, 5415582; 595144, 5415208; 594593, 5414414; 591419, 5414374; 591456, 5411152; 587911, 5411093; 588382, 5412811; 588717, 5413240; 588758, 5413545; 588614, 5414058; 588428, 5414343; 588269, 5414755; 587952, 5415305; 587807, 5415441; 587419, 5415549; 587352, 5414079; 587243, 5414309; 586185, 5414292; 586111, 5415304; 585985, 5415376; 585807, 5415406; 585071, 5415269; 584501, 5415114; 584236, 5414927; 583887, 5414850; 583403, 5414451; 583295, 5414117; 583275, 5413925; 583402, 5413505; 583683, 5413208; 583661, 5412894; 583324, 5412743; 582972, 5413079; 582623, 5412856; 582415, 5412886; 581468, 5413704; 581235, 5413965; 581056, 5414360; 580672, 5414595; 580443, 5414952; 579002, 5415786; 579359, 5415797; 579355, 5416974; 579234, 5417116; 579104, 5417066; 579058, 5416934; 578941, 5416873; 578950, 5416172; 578737, 5416169; 578734, 5416029; 578441, 5416427; 578353, 5417317; 578158, 5417861; 578133, 5418247; 578305, 5418464; 578454, 5418862; 579371, 5419545; 580793, 5419680; 581487, 5419592; 582411, 5419347; 582790, 5419367; 583508, 5419536; 584165, 5419495; 584371, 5419407; 584829, 5419360; 585733, 5419456; 586114, 5419568; 586224, 5419676; 586707, 5419883; 587565, 5419957; 587349, 5419556; 587462, 5419165; 587301, 5418830; 587328, 5418664; 587463, 5418345; 587583, 5418217; 587962, 5418376; 588058, 5418259; 588285, 5418227; 588400, 5418431; 588601, 5418505; 588682, 5418625; 589301, 5418564; 589290, 5419229; 595587, 5419323; 595642, 5419538; 595580, 5419727; 595662, 5419776; 595819, 5419636; 595971, 5419745; 596424, 5419658; 596470, 5419718; 596427, 5420181; 596580, 5420909; 596793, 5421184; 597024, 5421333; 597003, 5421449; 597066, 5421529; 597625, 5422044; 598136, 5422303; 598469, 5422274; 598467, 5422404; 598664, 5422455; 599042, 5422461; 599145, 5422279; and excluding land bound by 586758, 5417906; 586807, 5417799; 587033, 5417791; 587297, 5417581; 587216, 5417473; 587432, 5417286; 587623, 5417229; 587692, 5417373; 587476, 5417500; 587486, 5417643; 587851, 5417827; 587719, 5417920; 587401, 5417785; 587113, 5417995; 586804, 5417978; 586758, 5417906; and excluding land bound by 580348, 5415609; 580353, 5415217; 580543, 5415219; 580552, 5415410; 580968, 5415416; 580965, 5415618; 581179, 5415621; 581061, 5415778; 581183, 5415726; 581188, 5415823; 581461, 5415839; 581458, 5416053; 580959, 5416046; 580962, 5415832; 580558, 5415814; 580561, 5415612; 580348, 5415609.

(iii) Note: Map of Northwest Washington Cascades Unit follows:

BILLING CODE 4310-55-S

BILLING CODE 4310-55-C

(10) Okanogan Unit (Unit 3). Whatcom, Okanogan, and Chelan Counties, Washington.

(i) The Okanogan Unit consists of 115, 600 ac (46, 800 ha) and is comprised of lands managed by the Okanogan and Wenatchee National Forests.

(ii) From USGS 1:24, 000 scale quadrangles Azurite Peak, Big Goat Mountain, Brief, Chikamin Creek, Crater Mountain, Hoodoo Peak, Hungry Mountain, Martin Peak, Mazama, McAlester Mountain, McLeod Mountain, Midnight Mountain, Oval Peak, Pasayten Peak, Pyramid Mountain, Robinson Mountain, Saska Peak, Shull Mountain, Silver Falls, Silver Star Mountain, Slate Peak, South Navarre Peak, Stormy Mountain, and Thompson Ridge.

(A) Land bounded by the following UTM Zone 10, NAD83 coordinates (E, N): 697558, 5312454; 697452, 5312182; 697548, 5311875; 697400, 5311766; 697308, 5311592; 697308, 5311257; 697395, 5311049; 697229, 5310844; 696885, 5310685; 696818, 5310754; 696792, 5311221; 696686, 5311428; 696737, 5311661; 696695, 5311958; 696638, 5311984; 696572, 5311799; 696496, 5311855; 696567, 5312364; 696809, 5312428; 697558, 5312454.

(B) Land bounded by the following UTM Zone 10, NAD83 coordinates (E, N): 680912, 5312584; 680856, 5312442; 680760, 5312384; 680138, 5312584; 679841, 5312526; 679531, 5312108; 679584, 5311776; 679399, 5311813; 679321, 5311977; 678995, 5311802; 678702, 5311918; 678388, 5312082; 678282, 5312299; 678738, 5312497; 679653, 5312576; 679796, 5312724; 679815, 5312981; 679957, 5313116; 679988, 5313259; 679847, 5313779; 679325, 5314383; 679320, 5314604; 679448, 5314642; 679834, 5314537; 680190, 5314249; 680598, 5313670; 680879, 5313109; 680838, 5313106; 680947, 5312823; 680912, 5312584.

(C) Land bounded by the following UTM Zone 10, NAD83 coordinates (E, N): 686976, 5327418; 687438, 5326636; 687887, 5326160; 688745, 5325671; 689556, 5324992; 690203, 5324611; 690585, 5324307; 690923, 5324155; 691681, 5324019; 692699, 5323621; 693232, 5323557; 693422, 5323502; 693465, 5323413; 693538, 5323436; 693742, 5322955; 693677, 5322680; 693683, 5322235; 693975, 5321785; 694232, 5321671; 695396, 5320322; 695616, 5320179; 695817, 5320104; 696198, 5320465; 696425, 5320480; 696464, 5320422; 696516, 5320239; 696234, 5320170; 695923, 5319995; 695699, 5319975; 695623, 5319881; 695476, 5319888; 695223, 5320104; 695534, 5319644; 695916, 5319491; 696224, 5319517; 696625, 5319440; 697095, 5319218; 697193, 5318961; 697250, 5318946; 697998, 5318937; 698523, 5319026; 698816, 5319011; 698997, 5318683; 699034, 5318302; 699445, 5317664; 699499, 5317478; 699676, 5317296; 700262, 5317266; 700482, 5316996; 701144, 5315698; 701150, 5315479; 701962, 5315507; 701967, 5315017; 701643, 5314755; 701471, 5314042; 701369, 5313933; 700976, 5313783; 700665, 5313358; 700757, 5313264; 700065, 5313315; 699937, 5313506; 699666, 5313604; 699520, 5313347; 699489, 5313069; 699332, 5312902; 698891, 5312977; 698771, 5312925; 698552, 5313170; 698523, 5313316; 698127, 5313306; 698279, 5313568; 698213, 5313843; 697919, 5314143; 697806, 5314383; 697384, 5314614; 697203, 5314926; 696752, 5315311; 696153, 5315504; 695901, 5315512; 695646, 5315710; 694915, 5315997; 695011, 5315910; 695086, 5315485; 695391, 5315282; 695571, 5314843; 695795, 5314698; 696127, 5314343; 696314, 5313803; 695827, 5313169; 695539, 5312932; 695211, 5313192; 695124, 5313512; 695006, 5313613; 694786, 5313599; 694355, 5313386; 694247, 5313503; 694012, 5313555; 694209, 5313909; 694179, 5314274; 694461, 5314471; 694540, 5314639; 694369, 5315063; 694282, 5315861; 694114, 5316085; 693235, 5316969; 692896, 5316929; 692681, 5317029; 692236, 5317530; 691911, 5317792; 691555, 5318476; 691351, 5318414; 691205, 5318112; 690897, 5318186; 690921, 5318584; 690833, 5318703; 690314, 5318769; 690416, 5318949; 690266, 5319055; 690061, 5318980; 689855, 5319240; 689601, 5319287; 689406, 5319182; 689225, 5319362; 688644, 5319491; 688409, 5319692; 688738, 5320049; 688724, 5320104; 688373, 5320360; 688145, 5320316; 688027, 5320434; 687847, 5320484; 687842, 5320863; 687975, 5320908; 688075, 5321060; 688273, 5321084; 688523, 5321556; 688508, 5321640; 688143, 5321920; 688089, 5322048; 688456, 5322179; 688514, 5322413; 688682, 5322696; 688349, 5322717; 688093, 5322905; 687736, 5322978; 687632, 5322911; 687315, 5323003; 686513, 5322479; 686270, 5322605; 686911, 5323648; 686838, 5323723; 686632, 5323763; 686561, 5323890; 686346, 5323884; 686340, 5324009; 686231, 5324029; 686206, 5324126; 686285, 5324203; 686731, 5324310; 686825, 5324521; 686394, 5324677; 686193, 5324828; 686089, 5325235; 685940, 5325197; 685789, 5325239; 685570, 5325163; 685462, 5325213; 685402, 5325562; 685076, 5325933; 685159, 5326294; 685288, 5326428; 685167, 5326586; 684990, 5326655; 685052, 5326853; 685333, 5327111; 686086, 5327423; 686311, 5327426; 686709, 5327702; 686976, 5327418.

(D) Land bounded by the following UTM Zone 10, NAD83 coordinates (E, N): 677490, 5327322; 677894, 5327293; 678344, 5327040; 679342, 5325732; 679617, 5324974; 679510, 5324260; 679663, 5324092; 679798, 5324133; 679935, 5324053; 679930, 5323710; 680021, 5323589; 680277, 5323603; 680707, 5323869; 680925, 5323919; 680901, 5323396; 680955, 5323322; 681085, 5323277; 681184, 5323376; 681323, 5323392; 681374, 5323674; 681615, 5323925; 681707, 5324209; 681866, 5324416; 681919, 5325597; 682032, 5325531; 682187, 5325291; 682434, 5325190; 682628, 5324910; 682771, 5324578; 682774, 5324353; 683064, 5324265; 683158, 5324164; 683202, 5324009; 682688, 5323633; 682470, 5322964; 682611, 5322883; 682872, 5322886; 683097, 5322789; 682978, 5322442; 682474, 5322313; 682278, 5322047; 681861, 5321703; 682413, 5321694; 682885, 5321443; 682666, 5321090; 682637, 5320825; 682363, 5320130; 682492, 5319539; 682588, 5319363; 682690, 5319364; 682856, 5319525; 683021, 5319880; 683142, 5320412; 683348, 5320532; 683484, 5320720; 683682, 5320758; 683878, 5320525; 683665, 5319819; 683706, 5319556; 683895, 5319421; 684388, 5319539; 684654, 5319514; 684784, 5319227; 684702, 5318959; 684267, 5318849; 684183, 5318777; 684070, 5318535; 684078, 5318231; 684165, 5318175; 684398, 5318255; 684848, 5318793; 685035, 5318772; 685197, 5318696; 685137, 5318519; 685387, 5318056; 685644, 5317918; 685639, 5317560; 685949, 5317697; 685849, 5317370; 685952, 5317272; 685926, 5317095; 685591, 5316740; 685668, 5316456; 685599, 5316369; 685618, 5316015; 685692, 5315964; 685778, 5316072; 685939, 5316555; 686183, 5316363; 686269, 5316037; 686154, 5315846; 685737, 5315618; 685673, 5315365; 685858, 5315198; 686037, 5315156; 686491, 5315576; 686724, 5316032; 686920, 5315774; 686653, 5315237; 686668, 5314993; 686814, 5314781; 686478, 5314532; 686314, 5314324; 686064, 5313788; 685967, 5313289; 685903, 5313238; 685827, 5313350; 685479, 5313306; 685320, 5313439; 685308, 5313577; 685224, 5313667; 685112, 5313571; 684567, 5313406; 683853, 5313298; 682921, 5313304; 682594, 5313416; 682311, 5313205; 681751, 5313227; 681525, 5313194; 681443, 5313124; 681259, 5313665; 680987, 5314080; 681112, 5314338; 680873, 5314364; 680632, 5314701; 680474, 5315022; 680381, 5315632; 679489, 5315616; 679328, 5315900; 678958, 5315962; 678618, 5316400; 678256, 5315480; 677987, 5315425; 677681, 5315169; 677508, 5314879; 677413, 5314861; 677412, 5315113; 677537, 5315308; 677556, 5315606; 677937, 5316302; 677506, 5316621; 677406, 5316771; 677281, 5316337; 677236, 5316398; 676986, 5316320; 676857, 5316111; 676350, 5316179; 676052, 5316112; 675845, 5315873; 675395, 5315543; 675198, 5315553; 675079, 5315744; 675079, 5315970; 675178, 5316106; 675365, 5316193; 675631, 5317007; 675906, 5317158; 676444, 5317677; 676268, 5317803; 676312, 5317998; 676736, 5318418; 676980, 5318756; 676924, 5319365; 676432, 5319332; 675871, 5319075; 676093, 5319256; 676460, 5319384; 676346, 5320583; 676172, 5320757; 674952, 5321516; 674928, 5321305; 675043, 5321150; 674948, 5321050; 674941, 5320690; 674795, 5320247; 674442, 5319626; 674319, 5319049; 674389, 5318978; 674478, 5319030; 674742, 5319592; 674854, 5319730; 675058, 5319834; 675454, 5319822; 675725, 5319549; 675573, 5319489; 675489, 5319707; 675329, 5319631; 675002, 5319256; 674805, 5318817; 674608, 5318667; 674273, 5318139; 674196, 5318389; 674132, 5319248; 674046, 5319319; 674195, 5319521; 674199, 5319813; 674161, 5319902; 673936, 5319944; 674206, 5320324; 674186, 5320542; 673993, 5320550; 673842, 5320631; 673635, 5320557; 673290, 5320052; 672962, 5319866; 672658, 5319517; 672225, 5320139; 672075, 5320208; 672517, 5320675; 672620, 5321038; 672866, 5321375; 672892, 5321732; 672677, 5321893; 672265, 5321261; 672111, 5321146; 671646, 5321196; 671325, 5321546; 671372, 5321731; 671522, 5321832; 671510, 5322071; 670958, 5322525; 670900, 5322817; 671167, 5322876; 671315, 5323120; 670902, 5323142; 670894, 5323957; 670684, 5324470; 670787, 5325269; 670932, 5325553; 671128, 5325723; 672043, 5326887; 672236, 5326821; 672473, 5326459; 672793, 5325612; 673065, 5325860; 673256, 5325947; 673276, 5325404; 673461, 5324871; 673783, 5324587; 674238, 5324329; 674603, 5323874; 675501, 5323737; 675691, 5323130; 676020, 5323262; 676311, 5323179; 676299, 5322830; 676369, 5322662; 676549, 5322679; 676704, 5322794; 676842, 5322789; 677050, 5322597; 677301, 5322587; 677601, 5322284; 677842, 5322252; 677884, 5322341; 677859, 5323183; 678247, 5322942; 678556, 5322910; 678623, 5322981; 678608, 5323222; 678237, 5323881; 678153, 5324364; 678033, 5324505; 678215, 5324865; 678173, 5325161; 678088, 5325448; 677333, 5326277; 676797, 5326090; 676896, 5326709; 676541, 5327112; 676307, 5328279; 676381, 5328474; 676606, 5328312; 676763, 5327965; 677102, 5327541; 677332, 5327363; 677490, 5327322; and excluding land bound by 675771, 5316588; 676005, 5316503; 676339, 5316544; 676598, 5316649; 677135, 5317049; 676808, 5317293; 676742, 5317435; 676300, 5317012; 675863, 5316743; 675771, 5316588.

(E) Land bounded by the following UTM Zone 10, NAD83 coordinates (E, N): 705875, 5343213; 706339, 5343278; 706670, 5343511; 706950, 5343547; 707356, 5343273; 707838, 5342795; 708392, 5342413; 708420, 5341363; 708719, 5339469; 708539, 5338621; 708155, 5337989; 707931, 5337376; 707699, 5337171; 707330, 5336636; 706629, 5336177; 705414, 5335877; 704848, 5335960; 704685, 5336070; 704246, 5336138; 703578, 5336375; 702958, 5336789; 702644, 5337589; 702430, 5337957; 702344, 5338989; 702418, 5340427; 702716, 5342744; 703292, 5343522; 703905, 5343761; 704848, 5343718; 705126, 5343628; 705875, 5343213; and excluding land bound by 703634, 5339429; 703666, 5339411; 703724, 5339545; 703634, 5339429.

(F) Land bounded by the following UTM Zone 10, NAD83 coordinates (E, N): 694703, 5361433; 695005, 5361569; 695365, 5361142; 695721, 5360854; 695959, 5360387; 696048, 5359804; 695799, 5359630; 695747, 5359375; 695556, 5359262; 695039, 5359094; 694579, 5359046; 694137, 5359198; 693701, 5359593; 693590, 5359617; 693578, 5359406; 693695, 5359231; 693850, 5359257; 693760, 5358911; 694115, 5358901; 694426, 5358789; 694875, 5358816; 694892, 5358390; 695368, 5358540; 695358, 5358691; 695619, 5358933; 695707, 5358927; 695765, 5359048; 696042, 5358970; 695905, 5358218; 695557, 5357439; 695117, 5356739; 694927, 5356576; 694034, 5356092; 693065, 5355802; 692299, 5355793; 692250, 5356111; 691814, 5356656; 691339, 5356714; 691177, 5356790; 690905, 5357108; 691001, 5357181; 690945, 5357300; 691027, 5357342; 690966, 5357423; 691041, 5357502; 690977, 5357742; 690523, 5357577; 690385, 5357681; 690072, 5357613; 689965, 5357817; 690014, 5357898; 689768, 5357924; 689687, 5357859; 689521, 5358009; 689176, 5358822; 689132, 5359749; 688759, 5359872; 688242, 5360297; 688285, 5360491; 689242, 5362415; 689550, 5362899; 690486, 5363860; 690959, 5364079; 691263, 5363999; 691732, 5363480; 692002, 5363340; 693419, 5362938; 693839, 5362735; 694805, 5361907; 694543, 5361691; 694568, 5361528; 694703, 5361433; and excluding land bound by 692690, 5360279; 692801, 5360346; 692563, 5360507; 692536, 5360387; 692690, 5360279; and excluding land bound by 692707, 5359389; 692876, 5359401; 692774, 5359460; 692707, 5359389.

(G) Land bounded by the following UTM Zone 10, NAD83 coordinates (E, N): 668942, 5372708; 668971, 5372593; 668131, 5372554; 667322, 5372686; 668098, 5373945; 668249, 5374090; 668494, 5374182; 668722, 5374099; 668902, 5373776; 668942, 5372708.

(H) Land bounded by the following UTM Zone 10, NAD83 coordinates (E, N): 685379, 5385961; 685659, 5385965; 686479, 5386398; 687575, 5386720; 687759, 5386131; 687760, 5385625; 688017, 5385655; 688462, 5386162; 688787, 5386322; 689007, 5386263; 689397, 5386328; 689548, 5386233; 689634, 5386087; 689486, 5386028; 689379, 5385825; 689154, 5385902; 689147, 5385817; 688598, 5386142; 688479, 5385845; 688371, 5385750; 688778, 5385519; 689132, 5385521; 690040, 5385289; 690375, 5385127; 690685, 5384772; 690733, 5384428; 691578, 5383838; 691602, 5383628; 691761, 5383339; 692789, 5382324; 692765, 5382041; 692451, 5381605; 690657, 5379778; 689738, 5378689; 689584, 5378844; 688640, 5379439; 687993, 5379764; 687657, 5379796; 687384, 5379681; 687140, 5379678; 686582, 5379931; 685510, 5380788; 684749, 5381200; 684482, 5381182; 683744, 5380775; 683005, 5380457; 682649, 5380392; 681961, 5380387; 680951, 5380534; 680453, 5380695; 679695, 5381163; 679394, 5381474; 679066, 5382094; 678873, 5382950; 678909, 5384316; 678855, 5385138; 679008, 5385519; 679398, 5386133; 679714, 5386459; 680533, 5387114; 681168, 5387489; 682653, 5387537; 682799, 5387417; 683570, 5387253; 683967, 5387090; 684449, 5386759; 685379, 5385961; and excluding land bound by 688892, 5386034; 688996, 5385990; 689031, 5386085; 688931, 5386169; 688892, 5386034.

(I) Land bounded by the following UTM Zone 10, NAD83 coordinates (E, N): 684310, 5391841; 684371, 5391838; 684379, 5391977; 684303, 5391987; 684264, 5391847; 684311, 5391773; 683891, 5391754; 683882, 5392036; 683640, 5392055; 683559, 5392662; 682970, 5391764; 683260, 5391596; 683311, 5391082; 683957, 5390870; 684066, 5390705; 684179, 5390689; 684210, 5390517; 684707, 5390120; 684714, 5390035; 684968, 5389819; 684081, 5388786; 683672, 5388507; 682709, 5388187; 682465, 5388180; 681739, 5388352; 681328, 5388638; 681662, 5389008; 681731, 5389186; 681626, 5389630; 681346, 5390062; 680633, 5390863; 680205, 5391594; 680311, 5391677; 680264, 5391751; 680115, 5391711; 679094, 5392931; 678826, 5393335; 678596, 5394082; 678684, 5394498; 680850, 5394783; 680886, 5394866; 682434, 5395129; 682229, 5395745; 682023, 5396070; 682030, 5396355; 682261, 5396543; 682743, 5396404; 684668, 5396107; 686185, 5396232; 686413, 5396396; 686938, 5395878; 687194, 5395529; 687540, 5394800; 687670, 5394360; 687717, 5393766; 687613, 5392939; 687272, 5391787; 686897, 5391179; 686590, 5390881; 685907, 5390394; 685215, 5390932; 684985, 5391217; 684769, 5391269; 684310, 5391841; and excluding land bound by 681062, 5392905; 680845, 5392811; 680951, 5392626; 681111, 5392738; 681062, 5392905; and excluding land bound by 680677, 5392366; 680947, 5392356; 681058, 5392422; 680953, 5392575; 680677, 5392366.

(J) Land bounded by the following UTM Zone 10, NAD83 coordinates (E, N): 665012, 5406498; 665138, 5406465; 665439, 5405971; 665815, 5404800; 665944, 5403950; 665731, 5402788; 665560, 5402304; 665138, 5401523; 664410, 5400817; 663742, 5400433; 663493, 5399221; 663212, 5398372; 662762, 5397399; 662383, 5396938; 662022, 5396743; 660565, 5396271; 660033, 5396275; 659001, 5396444; 658734, 5395820; 657910, 5394460; 657328, 5393973; 656307, 5393575; 655147, 5393479; 654476, 5393622; 653390, 5394062; 652871, 5394537; 651977, 5395909; 651861, 5396255; 651795, 5396831; 651853, 5397714; 652025, 5398620; 652314, 5399097; 652659, 5399501; 652966, 5399724; 653283, 5399533; 653638, 5399568; 653822, 5399452; 654129, 5399380; 654424, 5398060; 654920, 5398281; 655766, 5398340; 657030, 5398596; 657329, 5398778; 658126, 5399498; 658388, 5399564; 658452, 5399647; 658547, 5399634; 659192, 5400051; 659335, 5400675; 659288, 5400824; 659418, 5401192; 659514, 5401216; 659561, 5401384; 659914, 5401573; 660088, 5401954; 660646, 5402266; 661046, 5402592; 661567, 5402831; 661777, 5403471; 661793, 5404133; 662154, 5404694; 662469, 5404950; 662856, 5405051; 663104, 5405204; 663613, 5405960; 664022, 5406212; 664144, 5406397; 664434, 5406630; 664651, 5406734; 665035, 5406571; 665012, 5406498; and excluding land bound by 662044, 5402792; 662348, 5402922; 662081, 5402916; 662012, 5402869; 662044, 5402792.

(iii) Note: Map of Okanogan Unit follows:

BILLING CODE 4310-55-S

BILLING CODE 4310-55-C

(11) Entiat Unit (Unit 4). Chelan and Kittitas Counties, Washington.

(i) The Entiat Unit consists of 304, 800 ac (123, 300 ha) and is comprised of lands managed by the Wenatchee and Mt. Baker-Snoqualmie National Forests.

(ii) From USGS 1:24, 000 scale quadrangles Benchmark Mountain, Blewett, Cashmere Mountain, Chikamin Creek, Chikamin Peak, Chiwaukum Mountains, Cle Elum Lake, Davis Peak, Easton, Enchantment Lakes, Jack Ridge, Kachess Lake, Labyrinth Mountain, Leavenworth, Liberty, Mission Peak, Monitor, Mount David, Mount Howard, Peshastin, Plain, Poe Mountain, Polallie Ridge, Red Top Mountain, Reecer Canyon, Ronald, Saska Peak, Schaefer Lake, Silver Falls, Stampede Pass, Stevens Pass, Sugarloaf Peak, Swauk Pass, Swauk Prairie, Teanaway, Teanaway Butte, Tiptop, Trinity, Tyee Mountain, Van Creek, and Winton.

(A) Land bounded by the following UTM Zone 10, NAD83 coordinates (E, N): 665910, 5250991; 666247, 5250973; 666346, 5251058; 667397, 5251344; 667751, 5251350; 667952, 5251226; 668063, 5251037; 668283, 5250863; 668680, 5250745; 669535, 5250225; 670509, 5249843; 671261, 5249625; 671882, 5249222; 671874, 5249109; 672069, 5248785; 672287, 5248672; 672772, 5248574; 672899, 5248365; 673029, 5248310; 673296, 5248351; 673313, 5247824; 674212, 5247853; 674372, 5247428; 674948, 5246994; 674970, 5246262; 675951, 5246289; 676418, 5245972; 676894, 5246071; 677073, 5245867; 677511, 5245828; 678078, 5246039; 678512, 5246035; 678840, 5245860; 679127, 5245953; 679238, 5245921; 679421, 5246094; 679628, 5246078; 679808, 5246284; 679966, 5246292; 680297, 5246076; 680654, 5245952; 680767, 5245813; 680768, 5245656; 681058, 5245627; 681364, 5245841; 681663, 5245689; 681953, 5245754; 682341, 5245572; 682523, 5245583; 682683, 5245509; 682833, 5245541; 682986, 5245399; 682928, 5245262; 683158, 5245089; 683328, 5245046; 683505, 5245141; 683739, 5245401; 683912, 5245805; 683830, 5246510; 683514, 5246744; 683423, 5247033; 684157, 5247770; 684364, 5248226; 684496, 5248358; 684884, 5248518; 686231, 5248324; 686747, 5248510; 686908, 5248637; 686982, 5248841; 687072, 5249191; 687099, 5249712; 687198, 5249807; 687458, 5249871; 687667, 5250140; 687867, 5250278; 688035, 5250322; 690258, 5250155; 690471, 5250075; 690592, 5249877; 690562, 5249510; 690422, 5249197; 690496, 5248987; 690628, 5248865; 690854, 5248759; 691786, 5248646; 692044, 5248556; 692160, 5248351; 692808, 5247992; 693391, 5247494; 694009, 5247072; 694017, 5246928; 694862, 5246951; 694952, 5246860; 695188, 5246368; 695453, 5246210; 695711, 5245895; 695772, 5243987; 695530, 5243197; 694715, 5242137; 694260, 5242114; 694275, 5241862; 693728, 5241691; 693589, 5241500; 693516, 5241200; 693053, 5240919; 692773, 5240876; 692736, 5241232; 691959, 5241205; 691975, 5240964; 691618, 5241162; 690789, 5241045; 689490, 5241085; 688075, 5241040; 686512, 5240804; 685935, 5240612; 685284, 5240268; 683660, 5239800; 682372, 5239098; 682041, 5238504; 681810, 5237799; 682235, 5235952; 682186, 5235330; 682100, 5235104; 681464, 5234490; 681409, 5234341; 681431, 5234074; 681717, 5233662; 682466, 5233280; 682635, 5233046; 682845, 5232891; 682964, 5232609; 682978, 5232158; 683076, 5231791; 683251, 5231638; 683701, 5231595; 683996, 5231442; 683341, 5231080; 682885, 5230929; 682807, 5230794; 682511, 5230609; 682497, 5230288; 682210, 5229831; 682134, 5229585; 681383, 5229468; 680956, 5229488; 680679, 5229365; 680309, 5229029; 679720, 5229018; 679706, 5229171; 679579, 5229267; 679557, 5229818; 679173, 5229806; 679171, 5229641; 678394, 5229905; 678316, 5230199; 678289, 5232141; 674257, 5232020; 674242, 5232409; 674436, 5232415; 674415, 5233628; 674618, 5233633; 674607, 5234028; 675014, 5234051; 675003, 5234437; 675407, 5234455; 675383, 5235262; 674979, 5235251; 674959, 5236048; 674560, 5236038; 674595, 5234436; 674200, 5234425; 674214, 5233819; 674012, 5233809; 674025, 5233213; 673429, 5233189; 673418, 5233600; 671399, 5233547; 671361, 5235151; 669283, 5235095; 668921, 5235241; 668809, 5235362; 668655, 5236243; 668960, 5236853; 669147, 5237440; 669094, 5237841; 668547, 5238284; 667639, 5238667; 667314, 5238995; 667092, 5246853; 665484, 5246817; 665505, 5246015; 663898, 5245968; 663854, 5247578; 665521, 5247653; 665521, 5247951; 665823, 5248046; 665888, 5248121; 665689, 5248488; 665678, 5248698; 665435, 5248489; 665435, 5248425; 663825, 5248383; 663844, 5247852; 663658, 5248155; 663629, 5248525; 663348, 5248864; 663191, 5248958; 663031, 5248916; 662844, 5248744; 662738, 5248123; 662557, 5247874; 662613, 5247711; 662540, 5247544; 662241, 5247537; 662290, 5245925; 660696, 5245881; 660643, 5247694; 661010, 5247693; 661494, 5247491; 661886, 5247492; 662093, 5247617; 662270, 5248061; 661911, 5249327; 661820, 5250427; 661992, 5250983; 662277, 5251186; 662569, 5251263; 664844, 5251408; 665460, 5251277; 665910, 5250991; and excluding land bound by 677081, 5242762; 677105, 5241971; 677513, 5241983; 677481, 5242774; 677081, 5242762; and excluding land bound by 679056, 5242029; 679068, 5241620; 679868, 5241641; 679856, 5242038; 679461, 5242033; 679440, 5242448; 678645, 5242424; 678649, 5242032; 679056, 5242029; and excluding land bound by 679173, 5238407; 679196, 5237626; 680006, 5237635; 679975, 5238430; 679173, 5238407; and excluding land bound by 679117, 5237639; 678892, 5237578; 678287, 5237615; 678487, 5237989; 678416, 5238026; 678222, 5237675; 678121, 5237657; 678126, 5237469; 679120, 5237294; 679036, 5237464; 679117, 5237639; and excluding land bound by 677809, 5237126; 677802, 5237366; 677608, 5237363; 677611, 5237012; 677477, 5237008; 677483, 5236786; 677384, 5236785; 677383, 5236540; 677276, 5236538; 677245, 5236253; 677210, 5236285; 676876, 5236132; 676842, 5236203; 676533, 5236109; 676483, 5235959; 676002, 5235706; 676007, 5235645; 675983, 5235697; 675611, 5235503; 675654, 5235363; 676441, 5235734; 677192, 5235965; 677195, 5235887; 677377, 5235889; 677379, 5235742; 677480, 5235746; 677483, 5235645; 677760, 5235653; 677776, 5235537; 677918, 5235510; 678947, 5235477; 678949, 5235658; 679074, 5235678; 679182, 5235518; 679370, 5235575; 679235, 5235829; 679065, 5235727; 678940, 5235726; 678939, 5235679; 678013, 5235656; 678011, 5235755; 677910, 5235753; 677905, 5235855; 677579, 5235846; 677576, 5235949; 677474, 5235947; 677472, 5236045; 677334, 5236040; 677530, 5236079; 677527, 5236329; 677660, 5236333; 677715, 5236793; 677818, 5236795; 677809, 5237126; and excluding land bound by 676978, 5235505; 676177, 5235482; 676183, 5235286; 676583, 5235299; 676589, 5234898; 676780, 5234896; 676801, 5234708; 677198, 5234720; 677193, 5234908; 677398, 5234930; 677388, 5235328; 676991, 5235313; 676978, 5235505; and excluding land bound by 674288, 5237300; 674246, 5238169; 674121, 5238165; 674160, 5237382; 674227, 5237228; 674288, 5237300; and excluding land bound by 673860, 5234792; 673867, 5234411; 674198, 5234418; 674191, 5234799; 673860, 5234792; and excluding land bound by 688643, 5249244; 688109, 5249270; 688168, 5248432; 688991, 5248415; 688940, 5249230; 688643, 5249244.

(B) Land bounded by the following UTM Zone 10, NAD83 coordinates (E, N): 673108, 5254268; 673923, 5254289; 673803, 5254049; 673810, 5253422; 673695, 5253193; 673471, 5253137; 673142, 5253299; 673108, 5254268.

(C) Land bounded by the following UTM Zone 10, NAD83 coordinates (E, N): 673108, 5254268; 671503, 5254228; 671436, 5256382; 672675, 5256419; 673099, 5256549; 673618, 5256960; 673967, 5257068; 673985, 5256458; 673051, 5256430; 673059, 5256072; 673468, 5256076; 673464, 5255889; 673266, 5255878; 673278, 5255477; 673481, 5255478; 673490, 5255525; 673747, 5255460; 674318, 5255174; 674295, 5254903; 673915, 5254897; 673894, 5255089; 673498, 5255072; 673489, 5254874; 673092, 5254867; 673098, 5254668; 673494, 5254676; 673505, 5254483; 673103, 5254463; 673108, 5254268.

(D) Land bounded by the following UTM Zone 10, NAD83 coordinates (E, N): 643025, 5253393; 643057, 5251787; 641465, 5251739; 641424, 5253345; 639756, 5253274; 639789, 5251683; 638153, 5251719; 638149, 5253286; 636623, 5253296; 636606, 5251704; 638153, 5251719; 638190, 5250119; 639815, 5250082; 639789, 5251683; 641465, 5251739; 641498, 5250152; 643110, 5250178; 643153, 5248587; 644760, 5248630; 644800, 5247050; 646397, 5247095; 646339, 5248677; 644760, 5248630; 644716, 5250221; 646306, 5250262; 646263, 5251856; 647864, 5251878; 647782, 5253472; 646215, 5253460; 646263, 5251856; 644663, 5251826; 644616, 5253433; 643025, 5253393; 643013, 5253839; 644571, 5253948; 645262, 5254724; 645816, 5255099; 645965, 5255524; 646155, 5255710; 646164, 5255042; 647751, 5255089; 647745, 5256672; 647259, 5256660; 647896, 5256875; 648392, 5256814; 649021, 5255990; 649071, 5255435; 649012, 5255248; 648563, 5254945; 648300, 5254400; 647749, 5254135; 648072, 5253720; 648215, 5253284; 648166, 5251771; 648360, 5250850; 648449, 5250644; 648619, 5250483; 648760, 5250155; 649049, 5250080; 649488, 5249531; 649984, 5249204; 650105, 5249005; 650134, 5248599; 650652, 5248327; 650979, 5247994; 650507, 5247452; 650520, 5247265; 650348, 5246748; 650572, 5246273; 650624, 5245860; 650381, 5245576; 650283, 5245289; 650071, 5245047; 650027, 5244891; 650144, 5244780; 650360, 5244297; 650572, 5244238; 650967, 5243888; 651130, 5243829; 651399, 5244175; 653438, 5246001; 653552, 5246173; 653838, 5246356; 654114, 5246426; 654329, 5245990; 654657, 5245584; 654896, 5245007; 654976, 5244623; 654965, 5243722; 654791, 5243718; 654828, 5242919; 654928, 5242922; 654895, 5242520; 652837, 5242468; 652868, 5240900; 649704, 5240822; 649713, 5239231; 648154, 5239182; 648127, 5240786; 646527, 5240761; 646463, 5242363; 644865, 5242331; 644831, 5243903; 643247, 5243917; 643253, 5243511; 643118, 5243508; 643049, 5243305; 643079, 5243198; 643251, 5243044; 643091, 5243104; 642992, 5243347; 643084, 5243481; 642999, 5243590; 642970, 5243795; 642874, 5243861; 642870, 5243996; 642930, 5244097; 643069, 5244137; 643146, 5244733; 643096, 5244735; 643049, 5244951; 642984, 5244771; 642859, 5244713; 642794, 5244770; 643072, 5245262; 642979, 5245276; 642853, 5245118; 642805, 5245131; 642736, 5245218; 642789, 5245363; 642653, 5245293; 642593, 5245364; 642621, 5245541; 642739, 5245653; 642712, 5245729; 642557, 5245673; 642253, 5245076; 642241, 5244367; 642166, 5244181; 642071, 5244144; 642016, 5243882; 642110, 5243459; 642031, 5243266; 641909, 5243309; 641909, 5243125; 641799, 5243094; 641823, 5242995; 641693, 5242867; 641674, 5240780; 642068, 5239158; 641935, 5238885; 641950, 5238554; 642148, 5238381; 642170, 5238067; 642283, 5237902; 642563, 5237792; 642722, 5237644; 642773, 5237511; 642722, 5237312; 642926, 5236790; 643434, 5236117; 643439, 5235890; 643272, 5235887; 643277, 5235318; 642889, 5235303; 642897, 5234905; 643683, 5234913; 643691, 5234512; 642900, 5234501; 642922, 5232889; 642612, 5232755; 642438, 5232842; 642300, 5233166; 641339, 5233776; 641116, 5234041; 639813, 5235003; 639709, 5235178; 639696, 5235831; 639267, 5235825; 639155, 5236029; 638886, 5236163; 638397, 5236586; 637924, 5236842; 637709, 5237072; 637514, 5237197; 636964, 5237316; 636774, 5237437; 636639, 5237671; 636503, 5237682; 636422, 5237946; 636312, 5238000; 636280, 5238188; 636109, 5238438; 635891, 5238574; 635881, 5238742; 635687, 5239111; 635619, 5239122; 635446, 5239361; 634980, 5240121; 634481, 5240631; 634201, 5241312; 634213, 5241540; 634075, 5241846; 633860, 5242156; 633691, 5242271; 633390, 5242897; 633215, 5243341; 633228, 5243519; 633075, 5243733; 632918, 5244419; 632937, 5244911; 633138, 5245498; 633142, 5245806; 633249, 5245997; 633229, 5246130; 633394, 5246605; 633302, 5247160; 633259, 5247160; 633259, 5247638; 633350, 5247714; 633415, 5248863; 633309, 5249218; 633296, 5249835; 633144, 5250644; 633126, 5251421; 632997, 5251519; 632823, 5251471; 632802, 5251149; 632631, 5250818; 632684, 5250380; 632623, 5250235; 632723, 5249542; 632870, 5249302; 632872, 5249143; 633020, 5248809; 632881, 5248721; 632811, 5248533; 632833, 5248098; 632684, 5247827; 632659, 5247065; 632554, 5246692; 632720, 5246655; 632848, 5246439; 632526, 5245981; 632338, 5245851; 631860, 5246094; 631850, 5246769; 631063, 5246759; 630325, 5247186; 630293, 5248621; 628680, 5248588; 628702, 5247683; 627963, 5247979; 627621, 5248460; 627386, 5248638; 627224, 5248858; 627081, 5249253; 626995, 5251785; 628437, 5251807; 628585, 5251685; 629407, 5251449; 629456, 5251772; 629576, 5251911; 629818, 5251885; 630225, 5252042; 630506, 5252382; 630415, 5252572; 630461, 5252765; 630401, 5252931; 630555, 5252983; 630570, 5253145; 630919, 5253288; 631219, 5253981; 631151, 5254295; 631186, 5254655; 631349, 5255104; 631571, 5255418; 631562, 5255566; 631849, 5255702; 631848, 5255764; 632009, 5255842; 632099, 5255968; 632500, 5256045; 632565, 5256418; 632866, 5256511; 633144, 5256512; 633804, 5256329; 634223, 5256691; 634687, 5256937; 634708, 5257092; 634818, 5257138; 634592, 5257300; 634694, 5257414; 634499, 5257564; 634337, 5257900; 634371, 5258012; 634456, 5258070; 634901, 5258105; 636310, 5258682; 636453, 5258642; 636518, 5258508; 636535, 5258069; 636612, 5257929; 636664, 5257305; 636748, 5257134; 637299, 5257110; 637530, 5257022; 637523, 5256799; 637790, 5256243; 638241, 5255734; 638542, 5255549; 638920, 5255001; 639185, 5254872; 639720, 5254876; 639727, 5254579; 639970, 5254543; 640178, 5254387; 640327, 5254378; 640646, 5254219; 640811, 5254031; 641332, 5253715; 641517, 5253491; 641780, 5253355; 643025, 5253393; and excluding land bound by 638395, 5253435; 638597, 5253610; 638335, 5253715; 638148, 5253655; 638149, 5253359; 638373, 5253367; 638395, 5253435; and excluding land bound by 637966, 5254221; 638029, 5254221; 638029, 5254284; 637902, 5254221; 637902, 5254157; 637966, 5254157; 637966, 5254221; and excluding land bound by 637966, 5254539; 638029, 5254539; 638093, 5254666; 637902, 5254539; 637902, 5254475; 637966, 5254475; 637966, 5254539; and excluding land bound by 633513, 5254857; 633513, 5254920; 633449, 5254920; 633513, 5254793; 633577, 5254793; 633577, 5254857; 633513, 5254857; and excluding land bound by 637648, 5254920; 637648, 5254857; 637711, 5254857; 637711, 5254920; 637648, 5254920; and excluding land bound by 633382, 5253185; 633411, 5251619; 635011, 5251643; 634992, 5253236; 633382, 5253185; and excluding land bound by 633513, 5250722; 633513, 5250659; 633577, 5250659; 633577, 5250722; 633513, 5250722; and excluding land bound by 633704, 5250595; 633704, 5250531; 633767, 5250531; 633767, 5250595; 633704, 5250595; and excluding land bound by 638237, 5247725; 638271, 5246897; 639879, 5246929; 639835, 5248542; 638217, 5248501; 638237, 5247725; and excluding land bound by 633606, 5243772; 633636, 5242445; 633822, 5242190; 635243, 5242194; 635213, 5243805; 633606, 5243772; 633577, 5245188; 635088, 5245226; 635032, 5246831; 633458, 5246795; 633478, 5245187; 633092, 5245180; 632997, 5244994; 632938, 5244621; 633143, 5243771; 633606, 5243772; and excluding land bound by 648652, 5246460; 648652, 5246397; 648716, 5246397; 648716, 5246460; 648652, 5246460; and excluding land bound by 640319, 5244170; 640319, 5244107; 640383, 5244107; 640383, 5244170; 640319, 5244170; and excluding land bound by 640128, 5244107; 640128, 5244170; 640065, 5244170; 640065, 5244107; 640128, 5244107; and excluding land bound by 640319, 5243979; 640319, 5243916; 640383, 5243916; 640383, 5243979; 640319, 5243979; and excluding land bound by 640128, 5243916; 640128, 5243979; 640065, 5243979; 640065, 5243916; 640128, 5243916; and excluding land bound by 640618, 5243824; 639953, 5243785; 640071, 5242346; 641640, 5242271; 641641, 5243881; 640618, 5243824; and excluding land bound by 635299, 5239662; 635280, 5240590; 634529, 5240576; 634880, 5240289; 635299, 5239662; and excluding land bound by 636139, 5238470; 636559, 5237757; 636964, 5237402; 636928, 5239010; 635790, 5238987; 635943, 5238646; 636139, 5238470; and excluding land bound by 642418, 5237173; 642418, 5237110; 642482, 5237110; 642482, 5237173; 642418, 5237173; and excluding land bound by 641973, 5237110; 641973, 5237173; 641909, 5237173; 641909, 5237110; 641973, 5237110; and excluding land bound by 642164, 5237046; 642164, 5236982; 642228, 5236982; 642228, 5237046; 642164, 5237046; and excluding land bound by 640383, 5236664; 640383, 5236601; 640446, 5236601; 640446, 5236664; 640383, 5236664; and excluding land bound by 651769, 5241754; 651769, 5241690; 651833, 5241690; 651833, 5241754; 651769, 5241754; and excluding land bound by 651833, 5241372; 651833, 5241308; 651896, 5241308; 651896, 5241372; 651833, 5241372; and excluding land bound by 652278, 5241308; 652278, 5241245; 652405, 5241245; 652405, 5241308; 652278, 5241308; and excluding land bound by 651578, 5241245; 651578, 5241181; 651642, 5241181; 651642, 5241245; 651578, 5241245.

(E) Land bounded by the following UTM Zone 10, NAD83 coordinates (E, N): 674850, 5259005; 674793, 5259464; 674737, 5259487; 675329, 5259719; 675492, 5259724; 675500, 5259384; 674850, 5259005.

(F) Land bounded by the following UTM Zone 10, NAD83 coordinates (E, N): 673841, 5260391; 673841, 5260328; 673714, 5260328; 673651, 5260201; 673523, 5260201; 673460, 5260073; 673333, 5260073; 673269, 5259946; 673523, 5259946; 673587, 5260073; 673714, 5260073; 673778, 5260201; 673878, 5260201; 673890, 5259678; 674032, 5259650; 673911, 5259530; 673339, 5259501; 673105, 5259780; 673087, 5260073; 673205, 5260073; 673333, 5260264; 673460, 5260264; 673460, 5260391; 673296, 5260391; 673339, 5260421; 673587, 5260455; 673587, 5260391; 673714, 5260391; 673722, 5260473; 673872, 5260419; 673841, 5260391.

(G) Land bounded by the following UTM Zone 10, NAD83 coordinates (E, N): 672172, 5267473; 672011, 5267054; 671655, 5266548; 671492, 5266407; 671307, 5266396; 671198, 5266318; 670893, 5265962; 669112, 5265896; 669144, 5266063; 669944, 5266962; 670199, 5267334; 670426, 5267458; 670986, 5267514; 671557, 5267454; 671900, 5267516; 672172, 5267473.

(H) Land bounded by the following UTM Zone 10, NAD83 coordinates (E, N): 673765, 5264496; 673803, 5262895; 675401, 5262924; 675369, 5264539; 673765, 5264496; 673719, 5266020; 672910, 5266008; 673211, 5266446; 673159, 5266742; 673005, 5266923; 672870, 5267290; 672912, 5267614; 672977, 5267617; 672972, 5267789; 673145, 5268046; 673366, 5268055; 673364, 5268215; 673761, 5268250; 673763, 5268039; 674312, 5268051; 674534, 5267810; 674832, 5267657; 673792, 5267635; 673832, 5266028; 675447, 5266065; 675412, 5267214; 675984, 5266814; 676210, 5266860; 676841, 5267419; 677320, 5268180; 677496, 5268212; 677497, 5268137; 677893, 5268148; 677902, 5267739; 678689, 5267759; 678700, 5267356; 678314, 5267348; 678346, 5266149; 677939, 5266131; 677955, 5265332; 677077, 5265306; 677098, 5264518; 678016, 5264556; 678093, 5262955; 677003, 5262965; 677027, 5262573; 676612, 5262477; 676258, 5262107; 675900, 5261850; 675806, 5261760; 675615, 5261312; 673852, 5261282; 673541, 5261482; 673304, 5261757; 672839, 5261997; 672602, 5261990; 672451, 5262060; 672518, 5261551; 672394, 5261181; 671892, 5262354; 671980, 5262703; 671958, 5263030; 672095, 5263616; 672256, 5264035; 672387, 5264194; 672404, 5264461; 673765, 5264496; and excluding land bound by 676170, 5264354; 676163, 5264545; 675762, 5264540; 675768, 5264354; 676170, 5264354.

(I) Land bounded by the following UTM Zone 10, NAD83 coordinates (E, N): 654368, 5275952; 654732, 5275992; 655120, 5275823; 656061, 5275570; 656655, 5275555; 656939, 5275599; 657023, 5275669; 657088, 5275585; 657445, 5275651; 658660, 5275325; 659005, 5275282; 659457, 5275344; 659459, 5274940; 659344, 5274950; 659416, 5274785; 659406, 5274328; 659647, 5274328; 659670, 5274839; 659527, 5274919; 659567, 5275365; 659811, 5275483; 659793, 5274883; 659945, 5274778; 659738, 5274324; 660084, 5274327; 660093, 5274780; 659991, 5274772; 659931, 5274901; 659975, 5274971; 659930, 5275524; 663063, 5275614; 663062, 5274785; 663013, 5274718; 662559, 5274837; 662407, 5274736; 662275, 5274815; 662287, 5274412; 663090, 5274432; 663102, 5274024; 663907, 5274046; 663891, 5274626; 663608, 5274469; 663516, 5274480; 663667, 5274831; 663865, 5274824; 663888, 5274746; 663865, 5275632; 666073, 5275692; 666364, 5275518; 666638, 5275105; 666637, 5274652; 666490, 5273984; 666424, 5272976; 666470, 5272144; 666623, 5271604; 666545, 5271357; 666451, 5271457; 666246, 5270803; 665812, 5270220; 665528, 5270083; 665237, 5270168; 664868, 5270641; 663913, 5270848; 662262, 5271820; 661769, 5272008; 661335, 5271884; 661170, 5271563; 657622, 5271470; 657533, 5274297; 656550, 5274148; 656360, 5273846; 656403, 5274119; 656231, 5274300; 655804, 5274530; 655021, 5274645; 654658, 5274598; 654052, 5274817; 654050, 5274885; 653761, 5275051; 653693, 5275259; 653592, 5275359; 653651, 5275360; 654113, 5276019; 654236, 5276047; 654337, 5276174; 654368, 5275952; and excluding land bound by 664932, 5272863; 664944, 5272657; 665279, 5272667; 665275, 5272575; 665169, 5272571; 665052, 5272358; 665221, 5272135; 665586, 5272358; 665571, 5272895; 664932, 5272863.

(J) Land bounded by the following UTM Zone 10, NAD83 coordinates (E, N): 674473, 5280759; 676168, 5280826; 676164, 5280009; 675335, 5279977; 675371, 5279175; 674530, 5279150; 674473, 5280759.

(K) Land bounded by the following UTM Zone 10, NAD83 coordinates (E, N): 674473, 5280759; 672863, 5280735; 672815, 5282327; 671212, 5282294; 671256, 5280691; 672863, 5280735; 672899, 5279108; 671124, 5279059; 671035, 5279205; 670851, 5279166; 670707, 5279597; 670267, 5280048; 670150, 5280812; 669825, 5281233; 669748, 5281558; 669712, 5281826; 669790, 5282196; 670406, 5282270; 670393, 5282709; 670378, 5282788; 670264, 5282748; 670115, 5282817; 670038, 5282772; 669957, 5283941; 669875, 5284294; 669737, 5284511; 669731, 5284704; 669539, 5284705; 669509, 5285587; 669826, 5285653; 670886, 5285484; 671653, 5285552; 672818, 5285922; 673696, 5286459; 674232, 5286451; 674519, 5286528; 674547, 5285746; 676145, 5285776; 676155, 5283644; 674786, 5283592; 674804, 5283203; 675596, 5283232; 675626, 5282837; 676166, 5282856; 676167, 5282460; 674421, 5282375; 674473, 5280759; and excluding land bound by 670931, 5285098; 670535, 5285081; 670559, 5284496; 670761, 5284484; 670772, 5284289; 671071, 5284310; 671059, 5284706; 670949, 5284715; 670931, 5285098.

(L) Land bounded by the following UTM Zone 10, NAD83 coordinates (E, N): 643187, 5292901; 643271, 5292901; 643278, 5292426; 643068, 5292384; 642884, 5292241; 642701, 5291923; 642424, 5291676; 642135, 5291195; 641701, 5291160; 641666, 5291075; 641606, 5291519; 641747, 5291897; 641729, 5291991; 641944, 5292238; 642352, 5293220; 643187, 5292901.

(M) Land bounded by the following UTM Zone 10, NAD83 coordinates (E, N): 655661, 5311844; 656318, 5311079; 656429, 5310482; 656427, 5309906; 656878, 5309407; 657021, 5309164; 657197, 5308108; 657298, 5308013; 657173, 5307946; 657071, 5308073; 656737, 5308127; 656528, 5308087; 656197, 5307814; 655983, 5307432; 655795, 5306594; 655823, 5306481; 655601, 5306335; 655687, 5306199; 655614, 5305984; 655281, 5305541; 655300, 5305444; 655169, 5305268; 655002, 5304715; 655656, 5304205; 655802, 5304174; 656125, 5303763; 657187, 5303258; 657026, 5302854; 656708, 5303040; 656523, 5303294; 655915, 5303570; 655571, 5303918; 654528, 5304644; 654171, 5304701; 653951, 5304578; 653412, 5303593; 653236, 5302562; 653281, 5301959; 653448, 5301747; 654092, 5301767; 654470, 5301591; 655105, 5300973; 654428, 5299609; 654091, 5299370; 653771, 5298937; 653079, 5298679; 652699, 5298640; 651441, 5298839; 651303, 5298795; 651473, 5298489; 651533, 5297658; 651465, 5297216; 651026, 5296009; 650856, 5295756; 650418, 5295363; 650276, 5294979; 650073, 5294819; 649892, 5294757; 649149, 5294781; 648607, 5294708; 648493, 5294431; 648484, 5294118; 648552, 5293555; 648655, 5293338; 648692, 5292678; 648779, 5292827; 649011, 5292999; 649304, 5292707; 649886, 5292432; 650294, 5292443; 650320, 5291472; 651923, 5291514; 651884, 5293099; 651992, 5293149; 653511, 5293175; 653509, 5293226; 653835, 5293311; 654111, 5293487; 654383, 5293842; 655197, 5293963; 655356, 5293360; 655320, 5292979; 654953, 5292416; 655124, 5292389; 655468, 5292733; 655643, 5292799; 656224, 5292723; 656705, 5292742; 656733, 5291649; 652709, 5291541; 651664, 5290796; 651321, 5290663; 651240, 5290469; 651047, 5290278; 650950, 5289948; 650546, 5289553; 650222, 5289402; 649525, 5289261; 649238, 5289099; 648967, 5289049; 648355, 5288792; 648172, 5288658; 647987, 5288628; 647809, 5288352; 647609, 5288179; 647376, 5287580; 646835, 5287214; 646241, 5287217; 645458, 5287422; 645237, 5288003; 645031, 5287818; 644956, 5287628; 644979, 5287426; 644838, 5287460; 644632, 5287346; 644456, 5287364; 644423, 5287690; 644549, 5287927; 644831, 5288116; 645147, 5288569; 645390, 5288695; 645305, 5288855; 645164, 5289558; 645233, 5289716; 644882, 5289892; 643836, 5290160; 643654, 5290728; 643700, 5292008; 644903, 5292043; 644873, 5293646; 643262, 5293609; 643261, 5293743; 643708, 5293958; 644027, 5294191; 644290, 5294641; 644640, 5294755; 644758, 5295241; 644424, 5295239; 644408, 5295350; 644241, 5295376; 644204, 5295598; 644118, 5295577; 643836, 5295236; 643242, 5295221; 643174, 5295295; 643291, 5295495; 643534, 5295662; 643555, 5295829; 643721, 5296100; 643995, 5296273; 643985, 5296659; 643522, 5297113; 643615, 5297636; 644150, 5298354; 644601, 5298262; 645025, 5298384; 645920, 5298932; 646704, 5299267; 647112, 5299760; 647234, 5300048; 647344, 5300106; 647549, 5300099; 647620, 5299977; 648138, 5299805; 648365, 5299600; 648664, 5299539; 648954, 5299565; 648916, 5300319; 649047, 5301021; 649018, 5301918; 648898, 5302273; 648725, 5302009; 648595, 5302031; 648352, 5302569; 647999, 5302325; 647971, 5301984; 647816, 5301993; 647667, 5302280; 647653, 5302564; 647751, 5302863; 647593, 5303002; 647121, 5303076; 646764, 5303222; 646592, 5303168; 646156, 5303306; 645903, 5303275; 645573, 5303347; 645146, 5303132; 645202, 5302144; 645135, 5301833; 644936, 5301908; 644705, 5302236; 644590, 5302611; 644408, 5302705; 644113, 5302401; 643362, 5302017; 643513, 5301668; 641454, 5301617; 641352, 5304429; 641197, 5304468; 640963, 5304679; 640604, 5304688; 640179, 5304857; 639779, 5305330; 640108, 5305671; 639841, 5306130; 639735, 5307488; 639514, 5307693; 639276, 5308065; 639239, 5308615; 640155, 5308506; 640795, 5308622; 641300, 5308486; 641871, 5308172; 642032, 5307910; 642271, 5307762; 642480, 5307792; 642729, 5307971; 642421, 5308427; 642725, 5308651; 642808, 5309019; 643145, 5309169; 643266, 5309011; 643314, 5309075; 643526, 5308752; 643515, 5308937; 643630, 5309070; 643691, 5309072; 643726, 5308936; 643780, 5308981; 643888, 5308897; 644193, 5309035; 644146, 5308935; 644426, 5308892; 644453, 5308781; 644572, 5308735; 644756, 5308789; 644840, 5308496; 644989, 5308266; 645233, 5308141; 645579, 5307799; 645948, 5307659; 646553, 5307195; 646970, 5307081; 647304, 5307108; 647708, 5306778; 648178, 5306759; 648288, 5306848; 648863, 5306591; 649126, 5306239; 649615, 5306096; 649905, 5306104; 650150, 5306197; 650232, 5306150; 651598, 5306168; 651694, 5306294; 651693, 5306573; 651952, 5306809; 651979, 5306976; 652153, 5307161; 652241, 5307367; 652492, 5307461; 652934, 5307831; 652931, 5308165; 652844, 5308417; 652957, 5309026; 653085, 5309333; 653096, 5310323; 653346, 5310930; 653515, 5311083; 653520, 5311361; 653629, 5311426; 653766, 5311399; 653886, 5311526; 654022, 5311529; 654251, 5311758; 654635, 5311762; 654464, 5311894; 654444, 5312184; 654069, 5312347; 654049, 5312600; 653841, 5312743; 653713, 5312925; 653727, 5313087; 653843, 5313164; 653779, 5313459; 653639, 5313839; 653358, 5314166; 653384, 5314352; 653318, 5314511; 653494, 5315085; 653619, 5315281; 655007, 5312789; 655661, 5311844; and excluding land bound by 655756, 5311551; 655996, 5311361; 655698, 5311628; 655756, 5311551; and excluding land bound by 652104, 5302943; 652093, 5302443; 652323, 5302303; 652325, 5302230; 652488, 5302265; 652816, 5302084; 652819, 5302219; 653110, 5302031; 653106, 5302202; 652814, 5302395; 652805, 5302730; 652502, 5302893; 652507, 5302722; 652104, 5302943; and excluding land bound by 646656, 5293982; 646509, 5293892; 646103, 5293835; 645732, 5293951; 645505, 5293898; 645493, 5293803; 645734, 5293857; 646129, 5293741; 646441, 5293788; 646667, 5293872; 646841, 5294096; 647059, 5294212; 647057, 5294290; 646785, 5294150; 646656, 5293982; and excluding land bound by 647645, 5291435; 647909, 5291504; 648697, 5291979; 648695, 5292057; 647645, 5291435; and excluding land bound by 646733, 5290903; 645570, 5290238; 645573, 5290129; 647128, 5291037; 647127, 5291124; 646733, 5290903.

(N) Land bounded by the following UTM Zone 10, NAD83 coordinates (E, N): 679257, 5292249; 679280, 5290672; 680859, 5290642; 680842, 5292306; 679257, 5292249; 679216, 5293919; 678818, 5293909; 678842, 5292669; 678446, 5292663; 678450, 5292250; 678043, 5292250; 678057, 5291852; 677638, 5291838; 677654, 5291445; 676689, 5291425; 676578, 5293441; 677616, 5293470; 677610, 5293881; 678421, 5293900; 678424, 5294302; 679204, 5294320; 679178, 5295542; 679568, 5295545; 679543, 5296337; 679159, 5296339; 679169, 5295935; 678776, 5295929; 678757, 5296714; 679150, 5296734; 679141, 5297136; 677972, 5297091; 677977, 5296690; 677575, 5296672; 677575, 5297075; 676868, 5297080; 676863, 5297369; 677361, 5297434; 677296, 5298031; 676903, 5298034; 676858, 5298423; 676696, 5298413; 676610, 5298876; 676734, 5299035; 676683, 5299374; 676592, 5299412; 676424, 5299350; 676267, 5299442; 676391, 5299633; 676060, 5300086; 676004, 5300312; 675864, 5300389; 675811, 5300525; 675672, 5300545; 675678, 5300862; 675481, 5300937; 675134, 5300894; 674866, 5301138; 674664, 5301115; 674694, 5301450; 674626, 5301797; 674263, 5302485; 673592, 5302668; 673407, 5302629; 673028, 5302813; 672967, 5302949; 673071, 5303245; 672946, 5303347; 672867, 5303524; 672834, 5303799; 672568, 5303986; 672487, 5304290; 672245, 5304486; 672121, 5304767; 671824, 5304928; 671662, 5305099; 671097, 5305321; 670577, 5305700; 670567, 5306083; 670820, 5306309; 670974, 5306338; 671659, 5306176; 671746, 5306235; 671588, 5306704; 671094, 5307328; 670876, 5307290; 670677, 5307154; 670567, 5307037; 670524, 5306791; 670124, 5306903; 669966, 5307071; 669659, 5307038; 669152, 5307540; 668698, 5307536; 668362, 5307666; 668143, 5307971; 667698, 5308132; 667505, 5308313; 667332, 5308363; 667196, 5308791; 666927, 5309009; 666748, 5309035; 666254, 5308811; 665751, 5308809; 665551, 5308931; 665402, 5308803; 664851, 5308583; 665020, 5308290; 664694, 5308202; 664259, 5308359; 663583, 5309465; 663314, 5310278; 663053, 5311709; 662975, 5313706; 662918, 5313860; 662982, 5314178; 662951, 5314365; 662823, 5314467; 662563, 5315051; 662279, 5315356; 661963, 5315874; 661719, 5316863; 661411, 5317200; 661247, 5317714; 661040, 5318908; 660836, 5319117; 660640, 5319467; 660212, 5319843; 659873, 5320358; 661116, 5319891; 661860, 5320061; 661950, 5320156; 661723, 5320552; 661820, 5320622; 661780, 5320714; 661986, 5320868; 662001, 5321005; 661787, 5321327; 661838, 5321502; 661753, 5321864; 661658, 5321973; 661642, 5322517; 661486, 5322785; 661493, 5322971; 661391, 5323073; 661469, 5323366; 661231, 5323489; 661308, 5323609; 661273, 5323756; 661327, 5323795; 661015, 5324108; 661077, 5324332; 661014, 5324374; 660852, 5325044; 660771, 5325066; 660697, 5325275; 660779, 5325444; 660758, 5325549; 660626, 5325811; 660368, 5325971; 660302, 5326130; 660097, 5326142; 659913, 5326304; 659782, 5326566; 659810, 5326672; 659727, 5326763; 659668, 5327064; 659443, 5327169; 659437, 5327386; 660404, 5328614; 660626, 5328434; 660823, 5328681; 660974, 5329249; 660887, 5329716; 660721, 5329914; 661545, 5330949; 661606, 5330764; 661765, 5330614; 662131, 5330563; 662107, 5329900; 662154, 5329771; 662318, 5329640; 662560, 5329616; 662774, 5329511; 662716, 5329354; 662429, 5329234; 662468, 5328957; 662373, 5328800; 662746, 5328532; 662939, 5328272; 662835, 5327903; 662913, 5326613; 663635, 5324767; 663903, 5323083; 664004, 5322971; 663946, 5322663; 664164, 5321976; 664121, 5321734; 664253, 5321446; 664247, 5321217; 664383, 5321023; 664619, 5320751; 664853, 5320801; 665536, 5321155; 665770, 5321180; 666552, 5321536; 667332, 5321769; 667599, 5322147; 667820, 5321788; 668046, 5321674; 668454, 5321203; 668891, 5320991; 669005, 5320551; 669078, 5319614; 669248, 5319407; 669876, 5318753; 670291, 5318532; 670605, 5318267; 670980, 5318061; 671552, 5317979; 671900, 5317627; 672259, 5317117; 672419, 5316751; 672705, 5316447; 672722, 5316159; 671768, 5315812; 671732, 5315222; 671924, 5314055; 672411, 5313560; 673426, 5313093; 673733, 5312824; 674133, 5312004; 674469, 5310801; 674868, 5310088; 675009, 5309670; 675957, 5308490; 676366, 5308169; 677313, 5307189; 677906, 5306793; 678110, 5307366; 678190, 5307453; 678334, 5307469; 678653, 5307262; 678839, 5307040; 678908, 5306872; 678923, 5306423; 678849, 5306129; 678902, 5305546; 679217, 5304512; 679786, 5304254; 680042, 5304375; 680240, 5304948; 680409, 5304994; 680657, 5304859; 680696, 5304624; 680498, 5304338; 680356, 5303964; 680222, 5303774; 679906, 5303551; 679740, 5303115; 679746, 5302973; 679836, 5302902; 680240, 5303048; 680367, 5303014; 680411, 5302431; 680532, 5302071; 680702, 5301955; 681077, 5301925; 681158, 5301990; 681126, 5303058; 681430, 5303200; 681800, 5303215; 681983, 5303003; 681833, 5301827; 681883, 5301318; 682043, 5301280; 682289, 5301328; 682404, 5301508; 682498, 5301948; 682868, 5302351; 682800, 5302587; 682500, 5302833; 682417, 5303114; 682521, 5303326; 682803, 5303602; 683048, 5303667; 683448, 5303444; 683959, 5302654; 683934, 5302479; 683594, 5302419; 683160, 5302082; 683149, 5301435; 683333, 5301203; 683629, 5301063; 683788, 5301115; 683903, 5300845; 684205, 5300948; 684350, 5300849; 684425, 5300892; 684932, 5301493; 684886, 5301913; 684746, 5302324; 684810, 5302427; 684894, 5302431; 685078, 5302105; 685658, 5302003; 685554, 5301721; 685122, 5301483; 685062, 5301374; 685007, 5300957; 685339, 5300435; 685750, 5300423; 686353, 5299868; 686888, 5299556; 687390, 5299438; 687463, 5299063; 687698, 5298973; 687774, 5298878; 687709, 5298632; 687536, 5298340; 687614, 5298013; 687760, 5297853; 688062, 5297754; 688312, 5297933; 688497, 5297728; 689105, 5297735; 689339, 5297662; 689388, 5297506; 689580, 5297400; 689744, 5297198; 690101, 5297210; 690254, 5297134; 690420, 5296876; 690457, 5296494; 690958, 5296696; 691066, 5296656; 691136, 5296277; 691255, 5296143; 691191, 5295735; 691489, 5295858; 691631, 5295855; 691676, 5295788; 691713, 5295259; 691964, 5294882; 691793, 5294436; 692351, 5294274; 692303, 5294025; 692133, 5293951; 691547, 5293991; 691439, 5293939; 691152, 5293948; 691021, 5293864; 690651, 5293944; 690394, 5294119; 689316, 5294337; 688969, 5294176; 688914, 5293930; 688691, 5293678; 688823, 5293463; 688793, 5293248; 688466, 5293087; 688038, 5292740; 687375, 5293051; 687298, 5293299; 687142, 5293437; 686441, 5293559; 686029, 5293502; 685435, 5292844; 685236, 5292781; 685301, 5291454; 685405, 5291281; 685584, 5290451; 685906, 5289513; 685763, 5289316; 685704, 5289032; 685731, 5288813; 685837, 5288543; 687235, 5287527; 687118, 5287274; 686840, 5287151; 686203, 5287010; 685830, 5286683; 685902, 5287685; 684095, 5287475; 683300, 5287480; 683289, 5287903; 682509, 5287909; 682512, 5287486; 682115, 5287477; 682097, 5287886; 681707, 5287874; 681721, 5287466; 680931, 5287446; 680901, 5289047; 679379, 5289027; 679194, 5290298; 678934, 5290237; 678185, 5290276; 678032, 5290298; 677893, 5290444; 677808, 5290808; 677868, 5291050; 678076, 5291060; 678070, 5291444; 678478, 5291451; 678466, 5291841; 678862, 5291847; 678851, 5292251; 679257, 5292249; and excluding land bound by 681668, 5290247; 681694, 5289039; 682089, 5289057; 682102, 5288676; 682497, 5288671; 682506, 5288284; 683285, 5288292; 683262, 5289086; 682491, 5289073; 682499, 5289482; 682089, 5289468; 682088, 5290272; 681668, 5290247; and excluding land bound by 686436, 5296030; 686375, 5297540; 684514, 5297428; 684539, 5295789; 686442, 5295899; 686436, 5296030; and excluding land bound by 679131, 5297535; 679913, 5297562; 679918, 5297959; 680333, 5297983; 680344, 5298392; 679522, 5298360; 679523, 5297958; 679125, 5297942; 679131, 5297535; and excluding land bound by 678322, 5298720; 678302, 5299516; 677502, 5299497; 677515, 5298693; 678322, 5298720; and excluding land bound by 677486, 5300304; 677409, 5301927; 676626, 5301924; 676672, 5300704; 677062, 5300698; 677083, 5300305; 677486, 5300304; and excluding land bound by 675361, 5302694; 675342, 5303486; 674539, 5303474; 674546, 5303079; 674942, 5303072; 674960, 5302689; 675361, 5302694; and excluding land bound by 675777, 5305094; 675718, 5306707; 674110, 5306650; 674175, 5305055; 675777, 5305094; and excluding land bound by 670873, 5307387; 670822, 5308593; 670430, 5308585; 670426, 5308969; 670814, 5308990; 670809, 5309389; 668823, 5309329; 668839, 5308529; 669631, 5308553; 669649, 5308146; 670044, 5308157; 670082, 5307367; 670873, 5307387; and excluding land bound by 660045, 5326966; 659924, 5326944; 659823, 5326838; 659900, 5326718; 660016, 5326697; 659964, 5326616; 660025, 5326599; 660273, 5326887; 660045, 5326966.

(O) Land bounded by the following UTM Zone 10, NAD83 coordinates (E, N): 644716, 5250221; 643110, 5250178; 643057, 5251787; 644663, 5251826; 644716, 5250221.

(iii) Note: Map of Entiat Unit follows:

BILLING CODE 4310-55-S

BILLING CODE 4310-55-C

(12) Southwest Washington Cascades Unit (Unit 5). Clark, Cowlitz, King, Kittitas, Lewis, Pierce, Skamania, and Thurston Counties, Washington.

(i) The Southwest Washington Cascades Unit consists of 523, 700 ac (211, 900 ha) and is comprised of lands managed by the Mt. Baker-Snoqualmie, Gifford Pinchot, and Wenatchee National Forests.

(ii) From USGS 1:24, 000 scale quadrangles Bare Mountain, Bearhead Mountain, Big Huckleberry Mountain, Burnt Peak, Carson, Cedar Flats, Clear West Peak, Cougar Lake, East Canyon Ridge, Eatonville, French Butte, Gifford Peak, Greenhorn Buttes, Lester, Little Huckleberry Mountain, Lone Butte, Lookout Mountain, McCoy Peak, Mineral, Morton, Mossyrock, Mount Defiance, Mount Mitchell, Mount Wow, Nagrom, Newaukum Lake, Noble Knob, Norse Peak, Ohanapecosh Hot Springs, Packwood, Packwood Lake, Purcell Mountain, Quartz Creek Butte, Randle, Sawtooth Ridge, Siouxon Peak, Smith Creek Butte, Spencer Butte, Spirit Lake East, Stabler, Steamboat Mountain, Sun Top, Sunrise, Tatoosh Lakes, Termination Point, The Rockies, Tower Rock, Wahpenayo Peak, White Pass, White River Park, and Willard.

(A) Land bounded by the following UTM Zone 10, NAD83 coordinates (E, N): 597072, 5061947; 596689, 5061945; 596691, 5061751; 596355, 5061959; 596250, 5062102; 596251, 5062746; 597067, 5062772; 597072, 5061947.

(B) Land bounded by the following UTM Zone 10, NAD83 coordinates (E, N): 592585, 5066258; 592577, 5065936; 592289, 5066251; 592585, 5066258.

(C) Land bounded by the following UTM Zone 10, NAD83 coordinates (E, N): 597970, 5088074; 597758, 5088156; 597635, 5088516; 597996, 5088610; 598090, 5088550; 598119, 5088201; 597970, 5088074.

(D) Land bounded by the following UTM Zone 10, NAD83 coordinates (E, N): 597462, 5088741; 597533, 5088755; 597606, 5088533; 597361, 5088463; 597261, 5087935; 597078, 5088034; 596991, 5088267; 596610, 5088525; 596658, 5088684; 596885, 5088763; 597462, 5088741.

(E) Land bounded by the following UTM Zone 10, NAD83 coordinates (E, N): 597072, 5061947; 597476, 5061935; 597474, 5062863; 597741, 5062905; 597837, 5062768; 598263, 5062765; 598269, 5063545; 597868, 5063539; 597858, 5064062; 597470, 5064069; 597479, 5063572; 596844, 5063566; 596835, 5063998; 596645, 5063995; 596642, 5064424; 597047, 5064530; 597029, 5065506; 596671, 5065525; 596680, 5065577; 596585, 5065518; 595380, 5065509; 595382, 5065119; 594617, 5065104; 594627, 5064718; 594257, 5064717; 593791, 5064516; 593796, 5065446; 593414, 5065441; 593419, 5065016; 593184, 5065014; 593183, 5064946; 593070, 5064949; 593058, 5065503; 592660, 5065504; 592238, 5065945; 592050, 5066025; 592050, 5066253; 592207, 5066369; 592191, 5066251; 592257, 5066250; 592859, 5065665; 592623, 5065885; 593796, 5065905; 593786, 5066959; 595346, 5066979; 595328, 5067421; 592188, 5067457; 592119, 5069745; 590915, 5069720; 590909, 5070129; 589703, 5070109; 589712, 5069702; 589309, 5069696; 589291, 5070511; 588918, 5070505; 588919, 5071041; 588519, 5071035; 588517, 5071828; 588919, 5071840; 588911, 5072628; 588109, 5072630; 588105, 5073034; 587703, 5073036; 587711, 5072225; 587308, 5072229; 587327, 5070635; 587025, 5070636; 587010, 5071424; 585403, 5071422; 585387, 5072063; 585518, 5071812; 585997, 5071816; 585639, 5072237; 585380, 5072325; 585384, 5072211; 584881, 5072206; 584875, 5072407; 584774, 5072405; 584768, 5072606; 584969, 5072609; 584957, 5073010; 585361, 5073016; 585349, 5073419; 585147, 5073413; 585144, 5073817; 584942, 5073814; 584935, 5074618; 584123, 5074604; 584102, 5075814; 583999, 5075813; 583982, 5076621; 583674, 5076619; 583668, 5077220; 583466, 5077216; 583465, 5077320; 583264, 5077316; 583267, 5077014; 582462, 5076999; 582457, 5077399; 581651, 5077395; 581646, 5077799; 581245, 5077803; 581239, 5078214; 580836, 5078214; 580851, 5077002; 581256, 5076999; 581262, 5076596; 581661, 5076595; 581667, 5076189; 582072, 5076186; 582085, 5075175; 583301, 5075195; 583309, 5074792; 583511, 5074795; 583514, 5074594; 583716, 5074621; 583729, 5073811; 584133, 5073800; 584139, 5073391; 583434, 5073390; 583441, 5073188; 583139, 5073184; 583136, 5073283; 582935, 5073280; 582939, 5073172; 582376, 5073122; 582324, 5072999; 582547, 5072889; 582815, 5072857; 583044, 5072907; 583049, 5072687; 583353, 5072739; 583359, 5072536; 583030, 5072523; 582940, 5072571; 582875, 5072307; 582883, 5072201; 582941, 5072202; 582966, 5071893; 583092, 5071890; 583092, 5071778; 583357, 5071780; 583353, 5071997; 583560, 5072000; 583562, 5071792; 583382, 5071790; 583389, 5071396; 583795, 5071402; 583801, 5071006; 584003, 5071008; 584007, 5070811; 584208, 5070813; 584212, 5070616; 585421, 5070627; 585412, 5071024; 586213, 5071019; 586220, 5070618; 587024, 5070617; 587029, 5070211; 580620, 5070188; 580410, 5070503; 579773, 5070763; 579742, 5071028; 579744, 5070868; 579605, 5070981; 579642, 5071121; 578945, 5071786; 578414, 5071789; 578345, 5071654; 577880, 5071470; 577796, 5071372; 577574, 5071381; 577432, 5071274; 576994, 5071262; 576770, 5071293; 576614, 5071445; 576480, 5071416; 576369, 5071573; 576193, 5071677; 576008, 5071509; 575663, 5071506; 575532, 5071549; 575445, 5071771; 575197, 5071753; 575066, 5071878; 575043, 5071675; 574849, 5071588; 574773, 5071421; 574599, 5071387; 574515, 5071244; 574227, 5071197; 573635, 5071459; 573422, 5071697; 573051, 5071734; 572965, 5071826; 572680, 5071897; 572515, 5072131; 572210, 5072229; 572068, 5072135; 571735, 5072566; 571396, 5072798; 571351, 5072753; 571126, 5072889; 571021, 5072852; 570739, 5072971; 570614, 5072958; 570340, 5072667; 570130, 5072556; 570175, 5072487; 570100, 5072231; 570131, 5072016; 570298, 5071920; 570489, 5071922; 570504, 5071711; 570622, 5071627; 570759, 5071373; 570967, 5071257; 571304, 5070899; 571455, 5070835; 571464, 5070718; 571690, 5070480; 572082, 5070212; 572087, 5069906; 571727, 5069899; 571628, 5070086; 571056, 5070458; 570674, 5070877; 570677, 5071023; 570288, 5071255; 570247, 5071413; 569931, 5071604; 569694, 5072077; 569551, 5072217; 569179, 5072135; 568809, 5071822; 568653, 5071796; 568368, 5072289; 568551, 5072363; 568541, 5072542; 568859, 5072804; 568953, 5072728; 569042, 5072773; 569181, 5072701; 569287, 5072723; 569497, 5073215; 569765, 5073315; 569948, 5073272; 570187, 5073351; 570194, 5073457; 570295, 5073539; 570707, 5073445; 570791, 5073556; 570917, 5073573; 570967, 5073464; 571181, 5073535; 571659, 5073328; 571795, 5073130; 571970, 5073051; 572017, 5072885; 572151, 5072878; 572450, 5072613; 572860, 5072698; 573186, 5072579; 573226, 5072173; 573328, 5072109; 573552, 5072152; 573671, 5071987; 573982, 5072160; 574064, 5072071; 574086, 5071885; 574554, 5071909; 574642, 5072008; 574647, 5072397; 575038, 5072456; 575008, 5072615; 574780, 5072895; 574750, 5073191; 575065, 5073246; 575369, 5073559; 575583, 5073921; 575613, 5074153; 575813, 5074587; 576055, 5074744; 576339, 5074716; 576390, 5074768; 576018, 5075123; 575901, 5075381; 575899, 5075548; 575704, 5075713; 575577, 5076462; 575369, 5076620; 575093, 5077094; 575005, 5077436; 575049, 5077780; 574984, 5077923; 574652, 5077942; 574575, 5077864; 574485, 5077876; 573942, 5078081; 573795, 5078047; 573202, 5078162; 573058, 5078334; 572968, 5078346; 572911, 5078313; 573023, 5077956; 572983, 5077871; 573213, 5077776; 573337, 5077623; 573340, 5077418; 573508, 5077304; 573219, 5077313; 572986, 5077400; 572836, 5077624; 572567, 5077524; 572423, 5077725; 572361, 5077652; 572482, 5077347; 572099, 5077007; 572159, 5077242; 571592, 5077319; 571183, 5077629; 571006, 5077864; 571007, 5078138; 571087, 5078184; 571094, 5078356; 571219, 5078448; 571427, 5078352; 571637, 5078856; 571183, 5079159; 571136, 5079268; 570705, 5079288; 570623, 5079184; 570577, 5079261; 570570, 5079795; 570950, 5080030; 570792, 5080018; 570664, 5080098; 570479, 5080344; 570689, 5080439; 570855, 5080798; 570822, 5080903; 570450, 5081255; 570316, 5081286; 570105, 5081225; 569467, 5081785; 569129, 5081881; 568796, 5081859; 568328, 5081947; 567988, 5082261; 567388, 5082206; 567285, 5082290; 567708, 5082888; 567793, 5082889; 567901, 5082577; 568415, 5082271; 569509, 5082191; 570105, 5081910; 570673, 5081308; 570776, 5081102; 570947, 5081107; 571159, 5080956; 571171, 5081082; 571092, 5081223; 570658, 5081494; 570479, 5081884; 570318, 5081972; 570348, 5082094; 570180, 5082202; 570071, 5082187; 569965, 5082373; 570261, 5082396; 570374, 5082596; 570771, 5082762; 571023, 5083183; 571540, 5083479; 571871, 5083349; 572194, 5083363; 572261, 5083797; 572046, 5083758; 571816, 5084036; 571446, 5084333; 570942, 5084520; 570691, 5084517; 570528, 5084701; 570399, 5084732; 570123, 5084683; 569970, 5084585; 569845, 5084281; 569641, 5084111; 569506, 5084155; 569134, 5084073; 569002, 5084264; 568626, 5084002; 568511, 5084060; 568428, 5084257; 568183, 5084498; 567952, 5084296; 567865, 5084042; 567652, 5083777; 567171, 5083382; 566875, 5083360; 566531, 5083554; 566180, 5083621; 565777, 5083516; 565138, 5083660; 564590, 5083599; 564042, 5083654; 564207, 5083504; 564433, 5083426; 564596, 5083214; 564714, 5083204; 564768, 5083114; 564569, 5082721; 564462, 5082715; 563667, 5083541; 563943, 5083671; 563888, 5083706; 563950, 5083779; 564058, 5083781; 564199, 5084044; 564351, 5084146; 564492, 5084355; 564523, 5084870; 564760, 5085370; 564845, 5085732; 564789, 5086002; 564504, 5085737; 564190, 5085687; 563999, 5085919; 564069, 5086082; 563805, 5086449; 563099, 5086926; 562827, 5086901; 562544, 5086756; 562130, 5086885; 561487, 5086542; 561397, 5086577; 561360, 5086676; 560999, 5086797; 560795, 5086623; 560730, 5086757; 560585, 5086845; 560520, 5087142; 560391, 5087008; 560070, 5087258; 559611, 5087433; 559552, 5087554; 559345, 5087648; 559120, 5088134; 558482, 5088037; 558463, 5089170; 563264, 5089221; 563201, 5092032; 563591, 5092031; 563581, 5092436; 564794, 5092458; 564745, 5094059; 566354, 5094089; 566383, 5094880; 567992, 5094916; 568003, 5095701; 573805, 5095757; 573990, 5095292; 574171, 5095172; 574283, 5094987; 574352, 5094621; 574437, 5094487; 574371, 5094113; 574754, 5093842; 574931, 5093567; 575654, 5092824; 575755, 5092529; 575852, 5092434; 576345, 5092132; 576906, 5092010; 577342, 5092106; 577622, 5092328; 577895, 5092112; 578088, 5092089; 578284, 5091873; 578572, 5090931; 578781, 5090709; 578861, 5090452; 579376, 5090459; 580066, 5089747; 579972, 5089039; 580084, 5088886; 580159, 5088501; 580508, 5088325; 580362, 5087745; 580621, 5087555; 580715, 5087273; 580589, 5087040; 580568, 5086699; 580599, 5086307; 580759, 5085788; 580626, 5085143; 580801, 5084483; 580977, 5084311; 581405, 5084548; 581459, 5084350; 581973, 5084476; 582358, 5084291; 582243, 5084624; 582305, 5084822; 582572, 5085032; 582558, 5085122; 582673, 5085214; 582786, 5085460; 582746, 5085524; 583051, 5085901; 583284, 5085856; 583386, 5085735; 583717, 5085570; 583893, 5085300; 584321, 5085181; 584673, 5084850; 584800, 5084802; 585474, 5084985; 585792, 5085453; 586075, 5085622; 586332, 5085169; 586518, 5085208; 586642, 5085349; 586838, 5085240; 587266, 5085316; 587494, 5085498; 587546, 5085635; 587644, 5085543; 587720, 5085155; 588189, 5085180; 588342, 5085310; 588522, 5085281; 588555, 5085223; 588721, 5085309; 588764, 5085502; 588876, 5085369; 589199, 5085624; 589478, 5085403; 589787, 5085627; 589878, 5085466; 590068, 5085331; 590095, 5085213; 590307, 5085223; 590415, 5085493; 590388, 5085612; 590469, 5085670; 590717, 5085805; 591011, 5085822; 591703, 5085602; 591868, 5085442; 591883, 5085305; 592160, 5085197; 592154, 5084859; 592373, 5084825; 592671, 5084973; 592760, 5084912; 592849, 5084682; 593211, 5084533; 593451, 5084326; 593593, 5084330; 593800, 5084464; 593987, 5084492; 594426, 5084970; 595016, 5086159; 595101, 5086569; 595573, 5086629; 595674, 5086914; 595585, 5087340; 595817, 5087652; 595743, 5087815; 595772, 5087896; 595898, 5087875; 596065, 5087985; 596329, 5088009; 596504, 5088110; 596605, 5088305; 596800, 5088274; 596886, 5088319; 597122, 5087978; 597376, 5087863; 598058, 5087929; 598286, 5087855; 598572, 5087433; 598908, 5087259; 598998, 5086870; 599511, 5086204; 599803, 5085644; 600434, 5085616; 600560, 5085301; 600976, 5085189; 601072, 5085332; 601219, 5085290; 601368, 5085336; 601414, 5085528; 601738, 5085662; 601813, 5085500; 602149, 5085614; 602207, 5085522; 601973, 5085438; 601829, 5085213; 601406, 5084915; 601348, 5084720; 601094, 5084587; 600924, 5084359; 601166, 5084165; 600771, 5083770; 600728, 5083331; 600535, 5083297; 600188, 5083429; 600575, 5084243; 600585, 5084402; 600486, 5084408; 600202, 5084080; 599595, 5083565; 599353, 5083440; 599185, 5083227; 598843, 5082971; 598753, 5082755; 598987, 5082575; 599081, 5082228; 598994, 5081939; 598686, 5081358; 598732, 5081290; 598968, 5081220; 599015, 5081051; 599262, 5080815; 599394, 5080369; 599619, 5080174; 599731, 5079973; 599736, 5079818; 600074, 5079826; 600353, 5079590; 600333, 5079443; 600079, 5079027; 599858, 5078843; 599760, 5078554; 599791, 5078294; 599556, 5078219; 599469, 5077691; 599507, 5077594; 599677, 5077312; 599984, 5077425; 600083, 5077382; 600131, 5077009; 600217, 5076945; 600135, 5076717; 600253, 5076337; 600531, 5076161; 601685, 5075148; 601796, 5074590; 602269, 5073569; 601858, 5073540; 601747, 5073316; 601490, 5073098; 600989, 5073105; 600444, 5073500; 599904, 5074155; 599670, 5074335; 598697, 5074936; 598394, 5075060; 598350, 5074996; 598497, 5074466; 598468, 5073940; 598133, 5073771; 597950, 5073423; 597819, 5073371; 597799, 5072460; 597960, 5071788; 597864, 5071351; 598004, 5071080; 598195, 5070948; 598401, 5071045; 598815, 5071026; 599384, 5070838; 599718, 5070908; 599914, 5070705; 600496, 5070712; 600520, 5069106; 600117, 5069112; 600069, 5067562; 602534, 5067564; 602531, 5067101; 603116, 5067109; 603135, 5066912; 603362, 5066926; 603429, 5066015; 602610, 5065952; 602622, 5065182; 603020, 5065201; 603231, 5065009; 603478, 5064902; 603485, 5065221; 604236, 5065247; 604259, 5064850; 604632, 5064859; 604635, 5064490; 605008, 5064506; 605030, 5063717; 604644, 5063694; 604662, 5062887; 603861, 5062848; 603866, 5062629; 603795, 5062637; 603771, 5062560; 603674, 5062681; 603635, 5062608; 603470, 5062695; 603472, 5062636; 603076, 5062649; 602316, 5062071; 602101, 5062032; 601494, 5061741; 601490, 5061786; 601078, 5061565; 600301, 5061567; 600281, 5061399; 599926, 5061371; 599248, 5061470; 599243, 5061968; 599483, 5061967; 599434, 5063561; 599047, 5063554; 599060, 5063170; 598681, 5063156; 598688, 5062763; 598994, 5062770; 598989, 5062606; 599070, 5062606; 599151, 5062404; 599288, 5062409; 599120, 5062352; 599076, 5062437; 598876, 5062339; 599074, 5062431; 599117, 5062345; 599287, 5062388; 599295, 5062125; 598687, 5062113; 598688, 5062548; 598271, 5062546; 598270, 5062489; 598382, 5062470; 598613, 5062228; 598536, 5062113; 598363, 5061373; 598135, 5061443; 598075, 5061524; 598095, 5061649; 597984, 5061661; 597973, 5061579; 597919, 5061620; 597966, 5061728; 597818, 5061788; 597809, 5061262; 597445, 5061389; 597073, 5061618; 597072, 5061947; and excluding land bound by 603888, 5064457; 603860, 5064835; 603480, 5064819; 603496, 5064440; 603888, 5064457; and excluding land bound by 597007, 5065897; 596978, 5066262; 596586, 5066261; 596592, 5065907; 597007, 5065897; and excluding land bound by 596200, 5065915; 596174, 5066640; 595356, 5066648; 595367, 5066272; 595799, 5066272; 595810, 5065917; 596200, 5065915; and excluding land bound by 599649, 5067538; 599667, 5068278; 598417, 5068247; 598399, 5067473; 599649, 5067538; and excluding land bound by 579680, 5079820; 579690, 5080891; 579108, 5080881; 579108, 5079815; 579680, 5079820; and excluding land bound by 576031, 5080865; 576178, 5081396; 576317, 5081603; 576867, 5081829; 576993, 5081985; 576979, 5082126; 576448, 5082441; 576395, 5082660; 576278, 5082774; 576327, 5082850; 576469, 5082776; 576537, 5082506; 576759, 5082330; 577145, 5082218; 577600, 5081839; 578026, 5081676; 578608, 5082701; 578551, 5083138; 578420, 5083368; 578412, 5083947; 578191, 5084098; 577667, 5084851; 577079, 5084805; 576690, 5084915; 576428, 5085311; 576273, 5085439; 575655, 5085621; 575440, 5086150; 574880, 5086356; 574755, 5086561; 574725, 5086928; 574617, 5087183; 574464, 5087233; 574284, 5087141; 574101, 5087242; 573896, 5087136; 573862, 5087026; 573564, 5086913; 573634, 5086361; 573431, 5086152; 573459, 5085818; 572936, 5085516; 572886, 5085335; 572916, 5084950; 572764, 5084871; 572575, 5084563; 572783, 5084316; 572671, 5084085; 572825, 5083931; 572690, 5083590; 572692, 5083119; 572567, 5082834; 572545, 5082499; 572608, 5082438; 573026, 5082403; 573099, 5082237; 573446, 5082275; 573524, 5082224; 573056, 5081642; 573474, 5081210; 574038, 5081203; 574127, 5081267; 574365, 5081026; 574714, 5080915; 575064, 5080944; 575669, 5080640; 575877, 5080696; 575994, 5080622; 576031, 5080865; and excluding land bound by 582298, 5073237; 582517, 5073405; 582512, 5073535; 582149, 5073519; 582157, 5073368; 582298, 5073237.

(F) Land bounded by the following UTM Zone 10, NAD83 coordinates (E, N): 585468, 5150987; 585669, 5150851; 585441, 5150716; 585328, 5150508; 585025, 5150470; 585010, 5150275; 584732, 5149967; 584528, 5149305; 584351, 5149228; 584318, 5149079; 584521, 5148955; 584846, 5149085; 585048, 5148996; 585490, 5148978; 585612, 5148888; 585962, 5148335; 586004, 5148232; 585869, 5147576; 585725, 5147373; 585652, 5147371; 585645, 5147672; 585526, 5147733; 585445, 5147673; 585448, 5147367; 585550, 5147369; 585560, 5146567; 585788, 5146560; 586215, 5145894; 587147, 5145628; 587523, 5145112; 587989, 5145057; 588210, 5144859; 588896, 5144682; 588996, 5144505; 589294, 5143190; 589271, 5142817; 588980, 5142703; 588461, 5142878; 588336, 5142790; 588305, 5142612; 588398, 5142510; 588803, 5142356; 589058, 5142142; 589329, 5142078; 589210, 5141996; 589236, 5141841; 589079, 5141619; 589115, 5141299; 588967, 5140899; 589029, 5140811; 588446, 5140565; 588078, 5140153; 588323, 5139743; 588381, 5139415; 588501, 5139222; 588231, 5139060; 588011, 5138745; 587453, 5138530; 587297, 5138017; 587129, 5138051; 586889, 5137792; 586664, 5137834; 586512, 5137950; 586465, 5137527; 586392, 5137494; 586291, 5137083; 586202, 5136880; 585805, 5136617; 585747, 5136192; 585483, 5136120; 585364, 5135883; 585140, 5135921; 585043, 5135871; 584860, 5135553; 584978, 5135558; 585125, 5135143; 585195, 5135431; 585337, 5135494; 585546, 5135318; 585561, 5135152; 585658, 5135129; 585714, 5135247; 585720, 5135126; 585905, 5134950; 586079, 5135008; 586188, 5135411; 586379, 5135425; 586317, 5135165; 586372, 5134967; 586605, 5134674; 586627, 5134398; 586136, 5134357; 585944, 5134087; 585893, 5133924; 585948, 5133828; 585649, 5133605; 585679, 5133500; 585379, 5133111; 585298, 5133410; 585043, 5133282; 584890, 5133486; 584673, 5133630; 584504, 5133445; 584523, 5133239; 584099, 5133319; 584097, 5133197; 583774, 5132978; 583792, 5132849; 583505, 5132322; 583544, 5132137; 583903, 5132121; 584344, 5132284; 584577, 5132161; 584587, 5132012; 584404, 5131726; 584069, 5131482; 584006, 5131340; 584090, 5131134; 583942, 5130958; 583904, 5130755; 583726, 5130672; 583379, 5130708; 583464, 5130446; 583242, 5130301; 583390, 5130214; 583093, 5129882; 583146, 5129497; 583094, 5129428; 582745, 5129355; 582598, 5129093; 582813, 5129153; 582947, 5128842; 583204, 5128825; 583094, 5128484; 583144, 5128375; 583286, 5128421; 583261, 5128149; 583371, 5128122; 583556, 5128311; 583748, 5128220; 583942, 5128012; 584180, 5128181; 584163, 5128590; 584443, 5128978; 584565, 5128984; 584645, 5129066; 584836, 5129052; 585017, 5129253; 585438, 5128756; 585577, 5128725; 585642, 5128766; 585822, 5129316; 585458, 5129785; 585130, 5129996; 585132, 5130122; 585362, 5130623; 585679, 5130935; 585860, 5131460; 586005, 5131567; 586116, 5131471; 586211, 5131055; 586056, 5130769; 586136, 5130511; 586236, 5130370; 586402, 5130397; 586530, 5130290; 586695, 5130399; 586885, 5131032; 586886, 5131373; 586986, 5131444; 587126, 5131154; 587157, 5130887; 587356, 5130701; 587399, 5130409; 587350, 5130181; 587138, 5130006; 587097, 5129835; 587158, 5129658; 586823, 5129334; 586693, 5129316; 586651, 5129201; 586553, 5129207; 586294, 5129001; 586352, 5128568; 586064, 5128156; 586141, 5127897; 585899, 5127692; 585764, 5127479; 585858, 5127112; 585928, 5127052; 585870, 5126812; 586034, 5126680; 586036, 5126506; 586131, 5126467; 586079, 5126365; 586224, 5126172; 586408, 5126122; 586451, 5125899; 586668, 5125822; 587279, 5125818; 587306, 5126086; 587665, 5127015; 587781, 5127086; 588236, 5127152; 588674, 5126844; 588639, 5126755; 588384, 5126705; 588434, 5126458; 588243, 5126410; 588069, 5126179; 588047, 5126065; 588200, 5125946; 588183, 5125613; 588043, 5125484; 588241, 5125342; 588462, 5125302; 588506, 5125141; 588463, 5125047; 588841, 5124876; 588904, 5124792; 588825, 5124661; 588871, 5124601; 589073, 5124499; 589127, 5124853; 589470, 5124974; 589554, 5125069; 589840, 5124823; 590079, 5124849; 590236, 5124949; 590845, 5124633; 591019, 5124669; 591159, 5125175; 590918, 5125413; 590240, 5125720; 590006, 5126227; 590012, 5126503; 590183, 5126677; 590354, 5126672; 590474, 5126983; 590425, 5127164; 590532, 5127309; 590503, 5127560; 590341, 5127710; 590510, 5127771; 590563, 5127971; 590315, 5128176; 590441, 5128350; 590466, 5128549; 590188, 5128580; 590225, 5128933; 590408, 5128962; 589751, 5130003; 589511, 5130209; 589588, 5130410; 589492, 5130541; 589481, 5130679; 589280, 5130732; 589134, 5131086; 589098, 5131292; 589223, 5131307; 589128, 5131406; 589415, 5131664; 589505, 5131649; 589507, 5131771; 589638, 5131912; 589093, 5132112; 589026, 5132378; 588856, 5132521; 588973, 5132775; 589343, 5132981; 589328, 5133090; 589208, 5133226; 589226, 5133299; 589542, 5133391; 589661, 5133341; 589704, 5133443; 589744, 5133659; 589570, 5133996; 589706, 5134088; 589445, 5134501; 589597, 5134630; 589531, 5134896; 589597, 5135047; 589564, 5135449; 589792, 5135624; 589840, 5136059; 590156, 5136138; 590212, 5136457; 590461, 5136736; 590808, 5136652; 590712, 5136573; 590746, 5136428; 590925, 5136333; 590869, 5136072; 590790, 5135977; 590961, 5135952; 590994, 5135770; 591137, 5135903; 591550, 5135441; 591670, 5135171; 591583, 5134634; 591785, 5134143; 591534, 5133894; 591450, 5133617; 591589, 5133563; 591608, 5133466; 591524, 5133204; 591380, 5133051; 591570, 5132921; 591927, 5133018; 592242, 5132549; 592516, 5131890; 592798, 5131835; 592841, 5131758; 592848, 5131365; 592643, 5131271; 592640, 5130809; 592531, 5130612; 592561, 5130507; 592212, 5130285; 592017, 5130045; 592047, 5129997; 592407, 5130074; 592329, 5129727; 592219, 5129563; 592234, 5129246; 592066, 5128910; 592128, 5128830; 592123, 5128676; 592051, 5128638; 592072, 5128432; 592017, 5128317; 592173, 5128068; 591769, 5128109; 591908, 5127868; 591607, 5127696; 591781, 5127537; 591473, 5127088; 591692, 5126756; 591948, 5126571; 591813, 5126389; 591771, 5126076; 591987, 5126076; 592077, 5125843; 592177, 5125955; 592497, 5125994; 592478, 5126131; 592546, 5126193; 592499, 5126294; 592885, 5126537; 593043, 5126573; 593049, 5126837; 593123, 5127013; 593045, 5127064; 593026, 5127173; 593151, 5127244; 593024, 5127457; 593033, 5127595; 593502, 5127763; 593645, 5127750; 593591, 5127805; 593625, 5127924; 593522, 5127958; 593430, 5128094; 593488, 5128233; 593495, 5128688; 593598, 5128800; 593470, 5128907; 593467, 5129044; 593703, 5129248; 593565, 5129403; 593669, 5129523; 593565, 5129594; 593557, 5129805; 593713, 5129918; 593715, 5130048; 593530, 5130125; 593421, 5130273; 593526, 5130291; 593541, 5130385; 593715, 5130417; 593694, 5130619; 593645, 5130639; 593765, 5130929; 594322, 5130754; 594432, 5130764; 594454, 5130895; 594405, 5131076; 594498, 5131500; 594325, 5131598; 594314, 5131732; 594008, 5132172; 594202, 5132435; 594075, 5132628; 594188, 5132881; 594200, 5133089; 594005, 5133251; 594028, 5133507; 593679, 5133666; 593686, 5133914; 593212, 5134229; 593129, 5134499; 593406, 5134675; 593210, 5134882; 593311, 5134913; 593400, 5135129; 593240, 5135165; 593070, 5135358; 593042, 5135710; 593136, 5135883; 592891, 5136105; 592747, 5136404; 592972, 5136494; 592894, 5136854; 592794, 5136978; 592850, 5137068; 592779, 5137230; 592915, 5137414; 593101, 5138058; 593111, 5138841; 593440, 5138870; 593743, 5138760; 593930, 5138779; 594529, 5138446; 594797, 5138482; 594848, 5138616; 594872, 5138314; 595065, 5138082; 595090, 5137939; 594705, 5137623; 594437, 5137538; 594202, 5136811; 594029, 5136533; 593940, 5136038; 594063, 5135862; 594009, 5135654; 594081, 5135495; 594471, 5135123; 594531, 5134642; 594680, 5134294; 594677, 5134139; 594912, 5133776; 594882, 5133546; 594743, 5133245; 594835, 5132908; 595240, 5132685; 595411, 5132430; 595337, 5132050; 595656, 5131498; 595635, 5131051; 595444, 5130760; 595435, 5130634; 595656, 5130471; 595698, 5130369; 595506, 5129815; 595130, 5129625; 594856, 5129213; 594800, 5128764; 594655, 5128515; 594692, 5128395; 594468, 5128059; 594443, 5127817; 594542, 5127423; 594306, 5127092; 593972, 5126794; 593941, 5126627; 594379, 5126520; 595181, 5126590; 595538, 5126481; 595708, 5126616; 595892, 5126631; 596226, 5126200; 596258, 5125661; 596388, 5125445; 596555, 5125391; 596925, 5125580; 596963, 5125724; 597115, 5125876; 597195, 5125872; 597373, 5126213; 597624, 5126338; 597773, 5126679; 597836, 5126692; 597930, 5126578; 597843, 5126267; 597843, 5125934; 598000, 5125466; 598209, 5125280; 598330, 5125254; 598344, 5125478; 598723, 5125788; 599053, 5125610; 599311, 5125293; 599461, 5124894; 599554, 5124832; 599678, 5124260; 599679, 5123526; 599944, 5123806; 600052, 5123825; 600070, 5123968; 600290, 5124257; 600697, 5124469; 600981, 5124852; 601115, 5124887; 601326, 5125074; 601485, 5125094; 601594, 5125283; 601700, 5125285; 601934, 5125560; 602049, 5125252; 602211, 5125117; 602663, 5125079; 602616, 5124778; 602407, 5124635; 601834, 5124605; 601739, 5124495; 601945, 5123847; 602114, 5123774; 602215, 5123614; 602372, 5123532; 602602, 5123067; 602193, 5122663; 602183, 5122292; 601872, 5121929; 601592, 5121207; 601453, 5121253; 601006, 5121204; 600903, 5121324; 600936, 5121487; 600834, 5121550; 600711, 5121498; 600639, 5121204; 600682, 5120920; 600386, 5120877; 600354, 5120748; 600439, 5120206; 600530, 5120079; 600343, 5119377; 599936, 5118841; 599778, 5118526; 599774, 5118397; 599859, 5118286; 599676, 5118222; 599563, 5118322; 599542, 5118176; 599437, 5118085; 599276, 5118093; 599215, 5117919; 599364, 5117665; 599394, 5117458; 599884, 5117190; 599915, 5117112; 599654, 5117195; 599847, 5117071; 600102, 5116762; 600237, 5116779; 600511, 5117007; 600738, 5116916; 600989, 5116908; 601115, 5116829; 601141, 5116754; 601042, 5116690; 601094, 5116559; 601000, 5116232; 600651, 5116145; 600531, 5116193; 600393, 5115822; 600012, 5115746; 599830, 5115904; 599554, 5115814; 599430, 5116144; 599223, 5116178; 598909, 5116629; 598740, 5116595; 598694, 5116732; 598500, 5116735; 598439, 5116672; 598510, 5116535; 598309, 5116557; 598017, 5116446; 598272, 5116124; 598218, 5115986; 598129, 5116072; 597904, 5116056; 597709, 5116134; 597349, 5115965; 597141, 5116043; 597094, 5116211; 596864, 5116095; 596676, 5116123; 596572, 5116009; 596353, 5115955; 596239, 5115810; 595970, 5115692; 595624, 5115430; 595304, 5115431; 595218, 5115367; 595245, 5115254; 595125, 5115265; 595070, 5115201; 595088, 5114870; 594798, 5114646; 594796, 5114371; 594854, 5114297; 594647, 5114299; 594579, 5114236; 594746, 5113982; 594615, 5113936; 594262, 5114080; 594328, 5113887; 594290, 5113567; 593538, 5113231; 593584, 5113080; 593091, 5112602; 592945, 5112732; 592760, 5112566; 592715, 5112401; 592915, 5112287; 592595, 5112209; 592562, 5112055; 592828, 5111860; 592865, 5111528; 592464, 5111553; 592361, 5111326; 592126, 5111166; 592009, 5111193; 591898, 5111356; 591716, 5111347; 591347, 5110978; 591228, 5110969; 591056, 5111129; 590931, 5111121; 590821, 5110963; 590893, 5110807; 590827, 5110606; 590850, 5110381; 590652, 5110215; 590587, 5110007; 590401, 5109873; 590225, 5109933; 589997, 5109685; 589731, 5109536; 589688, 5109460; 589758, 5109368; 589658, 5109016; 589513, 5109057; 589276, 5109016; 589203, 5108895; 589014, 5108942; 588870, 5108846; 589147, 5108786; 589262, 5108963; 589368, 5108980; 589553, 5108669; 589385, 5108422; 588927, 5108506; 588689, 5108397; 588570, 5108550; 588642, 5108723; 588542, 5108728; 588332, 5108956; 587930, 5109006; 587838, 5108910; 587788, 5108496; 587861, 5108266; 587809, 5108021; 587459, 5108003; 587291, 5107900; 587281, 5107750; 586896, 5107224; 587103, 5107158; 587287, 5107011; 587203, 5106828; 587066, 5106782; 586933, 5106486; 586974, 5106248; 587068, 5106238; 587235, 5106365; 587551, 5106208; 587704, 5106010; 587586, 5105952; 587772, 5105686; 588238, 5105769; 588512, 5105678; 588769, 5105675; 589021, 5105720; 589145, 5105824; 589418, 5105798; 590230, 5106118; 590261, 5106350; 590368, 5106304; 590433, 5106151; 590583, 5106150; 590663, 5106038; 590852, 5106172; 591295, 5106197; 591600, 5106398; 591696, 5106295; 591821, 5106354; 591980, 5106337; 592146, 5106397; 592245, 5106533; 592395, 5106544; 592584, 5106658; 592818, 5106585; 593142, 5106657; 593466, 5106534; 593815, 5106602; 593935, 5106507; 593895, 5106315; 593662, 5106152; 593762, 5106029; 593597, 5105936; 592775, 5105741; 592522, 5105731; 592149, 5105854; 591988, 5105793; 591631, 5105531; 591418, 5105210; 591248, 5105137; 590981, 5104848; 590548, 5104543; 590376, 5104032; 590481, 5103892; 590587, 5103858; 590575, 5103675; 590325, 5103556; 590022, 5102848; 589820, 5102609; 589697, 5102627; 589634, 5102560; 589618, 5102353; 589510, 5102254; 589544, 5102173; 589715, 5102169; 589755, 5102040; 589642, 5101993; 589395, 5101699; 589165, 5101605; 588889, 5101592; 588725, 5101430; 588725, 5101276; 588536, 5101150; 588338, 5101065; 588044, 5101120; 588061, 5101278; 588179, 5101476; 588686, 5102151; 588964, 5102283; 589680, 5103073; 589924, 5103431; 589999, 5103773; 589644, 5103964; 589465, 5103770; 589321, 5104051; 588539, 5104640; 587942, 5104944; 587709, 5104996; 588206, 5104792; 588079, 5104577; 587873, 5104523; 587895, 5104336; 587829, 5104128; 587685, 5104151; 587511, 5104079; 587409, 5104159; 587097, 5103753; 586916, 5103725; 587019, 5103545; 587038, 5103176; 586737, 5103209; 586512, 5103161; 586264, 5103007; 586211, 5102080; 586269, 5101949; 586135, 5101747; 586270, 5101530; 586281, 5101261; 586137, 5100827; 585795, 5100734; 585636, 5100487; 585732, 5100382; 585768, 5100107; 585618, 5100055; 585547, 5099834; 585586, 5099704; 585513, 5099684; 585330, 5099809; 585328, 5099037; 577592, 5099024; 577564, 5101251; 577660, 5101417; 577531, 5103863; 575937, 5103858; 575563, 5104653; 575899, 5104657; 575900, 5105454; 575092, 5105440; 575067, 5107056; 575150, 5107729; 574962, 5108006; 574850, 5108010; 574475, 5107597; 574264, 5107610; 574253, 5108736; 574036, 5109169; 573796, 5109105; 573632, 5109214; 573303, 5109160; 573273, 5109305; 573162, 5109275; 572892, 5109367; 573047, 5109481; 572988, 5109710; 573498, 5109699; 573628, 5109964; 573399, 5109966; 573382, 5110011; 573723, 5110440; 573683, 5110546; 573419, 5110576; 573580, 5110701; 573638, 5111037; 573811, 5111012; 573791, 5111274; 573647, 5111575; 573579, 5111630; 573435, 5111561; 573407, 5112036; 573232, 5112134; 573145, 5112346; 572762, 5112151; 572714, 5111982; 572613, 5111953; 572586, 5112797; 572513, 5112835; 572408, 5112745; 572329, 5112800; 572195, 5112731; 572099, 5112808; 571815, 5112760; 571616, 5112522; 571449, 5112526; 571349, 5112429; 571173, 5112209; 571225, 5112103; 571046, 5112034; 570881, 5111819; 570835, 5111828; 570873, 5112019; 570722, 5111923; 570402, 5112104; 570228, 5112088; 570078, 5112167; 570409, 5112309; 570732, 5112679; 570974, 5113329; 571155, 5113579; 571209, 5113902; 571536, 5114235; 571574, 5114411; 572032, 5114626; 572706, 5114721; 572908, 5114519; 573079, 5114496; 573093, 5114343; 573248, 5114303; 573339, 5114191; 573326, 5114507; 574014, 5114001; 574300, 5113887; 574385, 5113866; 574757, 5114021; 574988, 5114371; 575130, 5115066; 575412, 5115752; 575765, 5117071; 575761, 5117351; 575162, 5117432; 575138, 5117544; 575275, 5117753; 575387, 5117793; 575278, 5117993; 575276, 5118161; 575028, 5118253; 574733, 5118204; 574653, 5118321; 574757, 5118490; 575395, 5118620; 575568, 5118886; 575855, 5118800; 576207, 5118838; 576132, 5119011; 576229, 5119269; 576102, 5119598; 576220, 5119963; 576453, 5120161; 577006, 5120185; 577523, 5120857; 577602, 5121725; 577130, 5123195; 576829, 5123566; 576566, 5124038; 576454, 5124507; 576470, 5125044; 576106, 5125509; 576036, 5125721; 576095, 5125900; 575347, 5126238; 575186, 5126633; 575195, 5126790; 574827, 5126718; 574214, 5126945; 574052, 5126943; 573935, 5126869; 573576, 5126976; 573343, 5126850; 573128, 5126937; 573184, 5127253; 573094, 5127483; 573109, 5127797; 572818, 5128183; 572837, 5128514; 572947, 5128671; 572898, 5129345; 573028, 5129634; 572978, 5130391; 573028, 5130466; 573107, 5130369; 573154, 5129919; 573790, 5129523; 574025, 5129554; 574093, 5129439; 574463, 5129329; 574546, 5129167; 574482, 5129020; 574572, 5128923; 574688, 5128942; 574994, 5128736; 575237, 5128962; 575382, 5128877; 575964, 5128870; 576597, 5128240; 577362, 5127962; 577384, 5127641; 578333, 5127201; 578360, 5127019; 578274, 5126755; 578379, 5126496; 578889, 5125971; 579084, 5126064; 579519, 5126617; 580116, 5126913; 580346, 5127539; 580802, 5127346; 581044, 5127327; 581451, 5127457; 581894, 5127736; 582482, 5127665; 582211, 5127865; 582205, 5128286; 582303, 5128616; 582147, 5128719; 582239, 5128826; 582213, 5128955; 582175, 5129060; 582057, 5129131; 581963, 5129475; 582002, 5129576; 581845, 5129781; 582043, 5130193; 581808, 5130117; 581664, 5130225; 581469, 5130218; 581326, 5130330; 581262, 5130208; 581107, 5130218; 580995, 5130399; 580722, 5130432; 580537, 5130620; 580320, 5130691; 580515, 5130766; 580530, 5131127; 580442, 5131357; 580541, 5131581; 580583, 5132129; 580678, 5132332; 581596, 5132117; 581570, 5132218; 581713, 5132163; 582062, 5132236; 581900, 5132518; 581918, 5132733; 581774, 5132820; 581841, 5133052; 581661, 5133143; 581688, 5133240; 581625, 5133341; 581434, 5133355; 581338, 5133524; 581131, 5133550; 580966, 5133690; 581104, 5133732; 581352, 5134055; 581292, 5134326; 581432, 5134534; 581371, 5134797; 581051, 5135365; 581178, 5135330; 581311, 5135408; 581427, 5135252; 581536, 5135310; 581670, 5135279; 581757, 5135211; 581803, 5135041; 582098, 5134927; 582210, 5134775; 582279, 5134419; 582447, 5134364; 582456, 5133923; 582710, 5133780; 582948, 5134241; 582970, 5134431; 582922, 5134723; 582703, 5135020; 582888, 5135160; 583091, 5135199; 583105, 5135398; 583029, 5135567; 583076, 5135722; 583340, 5135749; 583386, 5135652; 583277, 5135290; 583391, 5134927; 583263, 5134467; 583255, 5134115; 583485, 5133955; 583620, 5134221; 583709, 5134246; 583801, 5134409; 583863, 5134900; 583965, 5134946; 584088, 5135166; 584229, 5135229; 584175, 5135350; 583901, 5135452; 584061, 5135997; 584174, 5136047; 584156, 5136221; 584258, 5136408; 584397, 5136387; 584509, 5136462; 584601, 5136743; 584812, 5136942; 584373, 5137271; 583930, 5137352; 583710, 5137476; 583245, 5138004; 582882, 5138596; 582541, 5138839; 581990, 5138884; 581236, 5138571; 580794, 5138560; 580575, 5138667; 580522, 5138305; 580182, 5137910; 580099, 5137657; 579702, 5137612; 580112, 5137632; 580143, 5137428; 580307, 5137283; 580276, 5136931; 580163, 5136871; 579868, 5136856; 579831, 5137110; 579604, 5137213; 579544, 5137313; 579607, 5137566; 579102, 5137605; 579057, 5138448; 578917, 5138635; 578780, 5138640; 578710, 5138713; 578679, 5138862; 578809, 5139042; 578618, 5139223; 578479, 5139772; 578181, 5140233; 578102, 5141081; 577953, 5141103; 577916, 5140844; 577834, 5141009; 577677, 5141111; 577739, 5141238; 577631, 5141333; 577496, 5146425; 577508, 5149502; 578665, 5149543; 578673, 5149930; 579879, 5149986; 579886, 5150771; 580671, 5150795; 580714, 5150023; 581511, 5150046; 581494, 5150844; 581967, 5150870; 581973, 5150683; 582071, 5150686; 582080, 5150586; 582172, 5150586; 582178, 5150494; 582274, 5150496; 582282, 5150108; 583879, 5150116; 583864, 5150952; 585468, 5150987; and excluding land bound by 582223, 5147106; 582226, 5147006; 582327, 5147007; 582330, 5146905; 582535, 5146908; 582533, 5147011; 582939, 5147019; 582935, 5147220; 582833, 5147219; 582831, 5147319; 582613, 5147315; 582609, 5147514; 582708, 5147510; 582696, 5147760; 582469, 5147752; 582483, 5147313; 582320, 5147310; 582325, 5147108; 582223, 5147106; and excluding land bound by 585184, 5144544; 585189, 5144146; 585387, 5144149; 585390, 5143958; 585591, 5143959; 585595, 5143756; 586396, 5143771; 586397, 5144057; 586332, 5144091; 586276, 5144497; 586072, 5144494; 585847, 5144605; 585800, 5144867; 585457, 5144869; 585183, 5144676; 585184, 5144544; and excluding land bound by 586389, 5144569; 586477, 5144176; 586800, 5144197; 586941, 5144348; 587185, 5144396; 587183, 5144588; 586389, 5144569; and excluding land bound by 587585, 5144385; 587183, 5144334; 587196, 5143282; 587751, 5143277; 587984, 5143488; 588038, 5143896; 587993, 5144173; 587933, 5144267; 587585, 5144385.

(G) Land bounded by the following UTM Zone 10, NAD83 coordinates (E, N): 553346, 5159198; 553367, 5158161; 552958, 5158159; 552949, 5158563; 552568, 5158560; 552558, 5159770; 553335, 5159783; 553346, 5159198.

(H) Land bounded by the following UTM Zone 10, NAD83 coordinates (E, N): 546957, 5161208; 548565, 5161220; 548615, 5159750; 546979, 5159738; 546957, 5161208.

(I) Land bounded by the following UTM Zone 10, NAD83 coordinates (E, N): 551735, 5161411; 551743, 5159757; 550989, 5159765; 550995, 5160563; 550163, 5160568; 550149, 5161416; 551735, 5161411.

(J) Land bounded by the following UTM Zone 10, NAD83 coordinates (E, N): 542120, 5162783; 543730, 5162801; 543741, 5161290; 542130, 5161267; 542120, 5162783.

(K) Land bounded by the following UTM Zone 10, NAD83 coordinates (E, N): 546957, 5161208; 545421, 5161203; 545434, 5160531; 544211, 5160459; 544208, 5160786; 543857, 5160798; 543855, 5161192; 545346, 5161209; 545335, 5162800; 546939, 5162812; 546957, 5161208.

(L) Land bounded by the following UTM Zone 10, NAD83 coordinates (E, N): 551735, 5161411; 551708, 5163034; 553325, 5163054; 553339, 5161425; 551735, 5161411.

(M) Land bounded by the following UTM Zone 10, NAD83 coordinates (E, N): 542114, 5164375; 542120, 5162783; 540515, 5162772; 540497, 5164382; 542114, 5164375.

(N) Land bounded by the following UTM Zone 10, NAD83 coordinates (E, N): 545335, 5162800; 543730, 5162801; 543725, 5164393; 545336, 5164404; 545335, 5162800.

(O) Land bounded by the following UTM Zone 10, NAD83 coordinates (E, N): 556509, 5165487; 555709, 5165478; 555701, 5166306; 556504, 5166321; 556509, 5165487.

(P) Land bounded by the following UTM Zone 10, NAD83 coordinates (E, N): 543725, 5164393; 542114, 5164375; 542101, 5166167; 540898, 5166171; 540911, 5167768; 542541, 5167780; 542546, 5166176; 543712, 5166172; 543725, 5164393.

(Q) Land bounded by the following UTM Zone 10, NAD83 coordinates (E, N): 540911, 5167768; 538944, 5167742; 538944, 5169377; 540893, 5169378; 540911, 5167768.

(R) Land bounded by the following UTM Zone 10, NAD83 coordinates (E, N): 544157, 5167817; 542541, 5167780; 542541, 5169409; 544158, 5169414; 544157, 5167817.

(S) Land bounded by the following UTM Zone 10, NAD83 coordinates (E, N): 547366, 5167827; 545780, 5167834; 545749, 5169432; 547372, 5169450; 547366, 5167827.

(T) Land bounded by the following UTM Zone 10, NAD83 coordinates (E, N): 545749, 5169432; 544158, 5169414; 544140, 5171024; 545737, 5171048; 545749, 5169432.

(U) Land bounded by the following UTM Zone 10, NAD83 coordinates (E, N): 583997, 5176426; 584346, 5176368; 584544, 5176275; 584635, 5176160; 584919, 5176071; 585666, 5176108; 585778, 5175961; 586234, 5175799; 586366, 5175823; 586537, 5175688; 586716, 5175747; 587425, 5175690; 587559, 5175853; 587830, 5175709; 588247, 5175632; 588490, 5175641; 588570, 5175722; 588684, 5175707; 588759, 5175766; 589190, 5175782; 589261, 5175851; 589318, 5176190; 589453, 5176439; 591461, 5176457; 591656, 5176337; 591963, 5176293; 592473, 5176024; 593179, 5175972; 593296, 5175839; 593351, 5175565; 593543, 5175415; 593770, 5174878; 594104, 5174934; 594282, 5175066; 594370, 5175222; 594566, 5175031; 594720, 5175047; 594809, 5175125; 594973, 5175640; 595071, 5175720; 595394, 5175598; 595646, 5175293; 596088, 5174991; 596357, 5175086; 597013, 5175122; 597894, 5175549; 598152, 5175566; 598298, 5175285; 598354, 5174902; 598506, 5174818; 598384, 5174695; 598394, 5174443; 598260, 5174422; 598199, 5174241; 598215, 5173931; 598390, 5173915; 598435, 5173536; 598639, 5173504; 598567, 5173327; 598683, 5172936; 598987, 5172513; 599071, 5172486; 598950, 5172373; 598991, 5172232; 599318, 5171877; 599409, 5171866; 599510, 5171945; 599515, 5171662; 599737, 5171434; 599892, 5171423; 599644, 5171233; 600269, 5170412; 600259, 5170263; 600547, 5169884; 600434, 5169784; 600661, 5169377; 600707, 5169061; 600889, 5168710; 600919, 5168479; 601116, 5168199; 601093, 5168070; 601159, 5167929; 601330, 5167713; 601602, 5167640; 601707, 5167513; 601357, 5167249; 601507, 5165930; 601269, 5165924; 601229, 5166408; 601006, 5167060; 600718, 5166789; 600562, 5166366; 600326, 5165978; 599947, 5165672; 599622, 5165524; 599472, 5165528; 599383, 5165335; 599156, 5165274; 599097, 5165379; 598912, 5165405; 598739, 5165516; 598691, 5165429; 598600, 5165755; 598609, 5165620; 598443, 5165347; 598539, 5165142; 598407, 5164940; 598294, 5164902; 598009, 5164926; 597693, 5165063; 596934, 5164857; 596689, 5165038; 596658, 5165187; 596244, 5165244; 595781, 5164866; 595527, 5165139; 595501, 5165352; 595308, 5165392; 595177, 5165603; 594951, 5165492; 594974, 5165372; 594918, 5165306; 595047, 5164896; 595242, 5164735; 595229, 5164614; 595151, 5164598; 594450, 5165177; 593546, 5165574; 593388, 5165636; 593104, 5165609; 592461, 5165712; 591967, 5165483; 591841, 5165331; 591638, 5165335; 591776, 5165029; 591601, 5164882; 591497, 5164691; 591093, 5164388; 590766, 5164275; 590688, 5164156; 590528, 5164145; 590548, 5164019; 590773, 5163796; 590767, 5163598; 590877, 5163410; 591020, 5163322; 591104, 5163061; 591043, 5162940; 590848, 5162931; 590708, 5162812; 590683, 5162712; 590980, 5162436; 590751, 5162334; 590630, 5162125; 590714, 5161982; 590646, 5161701; 590363, 5161533; 589775, 5161554; 589383, 5161709; 588921, 5162148; 588552, 5162623; 588433, 5162903; 588270, 5163032; 587849, 5163145; 587419, 5163115; 587137, 5163202; 586995, 5163102; 586972, 5163464; 585399, 5163429; 585357, 5165029; 586980, 5165059; 586958, 5166728; 587605, 5166756; 587601, 5167382; 587417, 5167476; 587415, 5167554; 587650, 5167565; 587705, 5167666; 587290, 5168591; 587146, 5168667; 587041, 5168616; 586613, 5168615; 586207, 5169064; 585835, 5168751; 585488, 5168638; 584925, 5169027; 584690, 5169037; 584721, 5168917; 584651, 5168816; 584500, 5168892; 584301, 5168895; 584070, 5169034; 583802, 5168915; 583581, 5169303; 583323, 5169398; 583253, 5169347; 583131, 5169423; 582882, 5169397; 582181, 5169948; 581952, 5170058; 581912, 5170299; 581832, 5170362; 581503, 5170442; 581013, 5170404; 579874, 5170733; 579817, 5170768; 579820, 5170968; 579545, 5171240; 579650, 5171342; 579675, 5171556; 579921, 5171717; 579733, 5171877; 579691, 5172276; 579368, 5172427; 579293, 5172596; 579149, 5172708; 579028, 5172684; 578689, 5172920; 579372, 5173011; 579390, 5173189; 579067, 5173319; 579061, 5173660; 579177, 5173940; 579478, 5174266; 579885, 5174187; 580467, 5174290; 580632, 5174264; 580843, 5174375; 581213, 5174403; 581283, 5174489; 581357, 5175139; 581712, 5175223; 581795, 5175339; 581784, 5175538; 582657, 5175566; 582643, 5176144; 582990, 5176235; 582988, 5176418; 582877, 5176447; 583583, 5176406; 583877, 5176551; 583997, 5176426.

(V) Land bounded by the following UTM Zone 10, NAD83 coordinates (E, N): 615543, 5178476; 615603, 5177345; 615518, 5177201; 614285, 5176565; 613565, 5176393; 613257, 5176108; 612857, 5175657; 612917, 5174694; 613024, 5174472; 613207, 5174380; 614023, 5173279; 614288, 5173101; 614492, 5173083; 614840, 5173158; 614951, 5173416; 615030, 5173801; 614838, 5175183; 614976, 5175338; 615767, 5175076; 616113, 5175093; 616915, 5174775; 616759, 5174442; 616733, 5174198; 616660, 5174145; 616322, 5174114; 616065, 5174185; 616079, 5173528; 616300, 5173445; 616288, 5173376; 616060, 5173221; 616144, 5172506; 616508, 5172103; 617795, 5171548; 617972, 5171399; 618382, 5171263; 619278, 5170727; 619316, 5170587; 618891, 5170037; 618727, 5169312; 618640, 5169162; 618515, 5169004; 618322, 5168958; 617288, 5170229; 616809, 5170427; 615953, 5171053; 615599, 5171023; 615497, 5170883; 615514, 5170370; 615662, 5169999; 616271, 5169303; 616576, 5169079; 616947, 5168515; 617201, 5168254; 617683, 5167497; 618036, 5167088; 618564, 5166223; 619351, 5165380; 619009, 5165036; 618447, 5164955; 618362, 5165230; 618215, 5165222; 618304, 5165415; 618265, 5165627; 618085, 5165750; 618067, 5165917; 617919, 5166070; 617893, 5166276; 617719, 5166554; 617549, 5166656; 617545, 5166910; 617285, 5167107; 617212, 5167321; 617098, 5167356; 617080, 5167469; 616925, 5167557; 616801, 5167759; 613636, 5167712; 613620, 5167819; 613502, 5167848; 613104, 5167794; 613022, 5167701; 612496, 5167691; 612153, 5168144; 612829, 5168494; 612934, 5169011; 612855, 5169322; 612771, 5169435; 612343, 5169619; 612165, 5169818; 611771, 5169954; 611184, 5170056; 610907, 5169977; 610526, 5169312; 610442, 5168834; 610293, 5168661; 609911, 5168343; 609395, 5168320; 609365, 5168269; 609263, 5168056; 609412, 5167574; 609368, 5167385; 608952, 5166842; 608928, 5166407; 609026, 5166188; 609182, 5166068; 609091, 5165713; 609323, 5165701; 609486, 5165823; 609572, 5165580; 609686, 5165523; 609816, 5165621; 609959, 5165418; 610475, 5165468; 610805, 5165626; 610801, 5165431; 610964, 5165355; 610955, 5163277; 611003, 5163150; 611030, 5161227; 610795, 5161084; 610576, 5160807; 610760, 5160630; 610932, 5160273; 610978, 5159836; 611162, 5159670; 611168, 5159261; 611066, 5159220; 611095, 5159131; 610941, 5159009; 610802, 5159028; 610532, 5159380; 610353, 5159489; 610299, 5159679; 610026, 5159910; 610099, 5160011; 610021, 5160112; 610057, 5160270; 609980, 5160372; 609862, 5160355; 609641, 5160622; 609136, 5160782; 608850, 5161235; 608397, 5161440; 608282, 5161732; 608033, 5161933; 607533, 5161923; 606997, 5161682; 606591, 5161341; 607197, 5160208; 607568, 5160015; 608181, 5159372; 608551, 5159252; 608822, 5158564; 608571, 5158437; 608445, 5158263; 608406, 5158024; 607872, 5158009; 607890, 5156304; 607785, 5156185; 607684, 5156169; 607505, 5156205; 607338, 5156152; 606915, 5156248; 606851, 5155995; 606836, 5155319; 606938, 5155183; 606662, 5155114; 606625, 5155163; 606211, 5155199; 606027, 5155146; 605810, 5154957; 605936, 5154681; 605858, 5154644; 605827, 5154388; 606079, 5153808; 606245, 5153676; 606296, 5153214; 605903, 5152865; 605561, 5152873; 605409, 5153020; 604995, 5153098; 604507, 5152890; 604353, 5152745; 603974, 5152796; 604048, 5153082; 604262, 5153435; 604054, 5153951; 603820, 5154324; 603696, 5154906; 603234, 5155254; 602504, 5156210; 602131, 5156438; 601392, 5157116; 600940, 5157336; 600743, 5157575; 599950, 5158138; 599898, 5158191; 599861, 5158664; 600657, 5158664; 600592, 5159461; 601416, 5159462; 601390, 5160273; 602188, 5160273; 602162, 5161071; 602561, 5161065; 602528, 5162313; 603338, 5162314; 603318, 5164348; 604527, 5164368; 604513, 5165978; 605323, 5165979; 605329, 5166352; 606127, 5166367; 606106, 5167577; 604437, 5167566; 604506, 5167660; 605200, 5167900; 605431, 5168111; 605436, 5168464; 605687, 5168941; 605757, 5169434; 605855, 5169463; 606052, 5169353; 606141, 5169471; 606202, 5169621; 606169, 5169876; 606038, 5170078; 606098, 5170308; 606065, 5170808; 606797, 5170809; 606872, 5171843; 606827, 5172155; 607168, 5172500; 607240, 5172755; 607165, 5173034; 607380, 5173585; 607340, 5173727; 607477, 5173936; 607539, 5174837; 610007, 5174911; 610242, 5175082; 610689, 5175644; 611297, 5175792; 611686, 5176087; 611941, 5176163; 612095, 5176447; 612584, 5176954; 612593, 5177160; 612734, 5177227; 613159, 5177661; 613340, 5177939; 613743, 5178267; 614621, 5178422; 615082, 5178378; 615303, 5178501; 615110, 5178339; 615543, 5178631; 615543, 5178476; and excluding land bound by 606488, 5169079; 606490, 5168904; 606581, 5168904; 606583, 5168807; 606894, 5168811; 606891, 5169001; 606789, 5169002; 606789, 5169207; 606682, 5169207; 606682, 5169102; 606488, 5169079.

(W) Land bounded by the following UTM Zone 10, NAD83 coordinates (E, N): 551708, 5163034; 550104, 5163026; 550105, 5161416; 548564, 5161415; 548551, 5162812; 546939, 5162812; 546953, 5164409; 548519, 5164397; 548507, 5166214; 547359, 5166210; 547366, 5167827; 548967, 5167841; 548937, 5169463; 547372, 5169450; 547335, 5171054; 548923, 5171067; 548903, 5172627; 550620, 5172654; 550574, 5174270; 549716, 5174247; 549715, 5175029; 550564, 5175029; 550554, 5175836; 551226, 5175849; 551179, 5177458; 551649, 5177462; 551596, 5179067; 552038, 5179071; 552018, 5179869; 555188, 5179884; 555194, 5179099; 555595, 5179096; 555597, 5178710; 556004, 5178708; 556017, 5175873; 556995, 5175851; 557027, 5174333; 556214, 5174326; 556227, 5172731; 557797, 5172746; 557785, 5173532; 558141, 5173540; 558148, 5173151; 558530, 5173155; 558690, 5166362; 557513, 5166341; 557496, 5167134; 557114, 5167142; 557104, 5167943; 557869, 5167945; 557857, 5168739; 557090, 5168737; 557084, 5169125; 555484, 5169109; 555500, 5167922; 552279, 5167876; 552312, 5166266; 553284, 5166280; 553292, 5164626; 551688, 5164612; 551708, 5163034; and excluding land bound by 557264, 5170337; 557839, 5170340; 557820, 5171143; 557044, 5171138; 557060, 5170335; 557264, 5170337.

(X) Land bounded by the following UTM Zone 10, NAD83 coordinates (E, N): 580637, 5181129; 580902, 5180815; 581092, 5180711; 581035, 5180545; 581072, 5180400; 581270, 5180091; 581303, 5179845; 581492, 5179641; 581394, 5179519; 581152, 5179514; 580994, 5179604; 580902, 5179567; 580801, 5179665; 580983, 5179264; 580457, 5179264; 580442, 5179409; 580386, 5179337; 580231, 5179669; 579806, 5179947; 579608, 5180285; 579876, 5180788; 579994, 5180752; 580269, 5180858; 580300, 5180995; 580637, 5181129; and excluding land bound by 580192, 5180231; 580314, 5180205; 580397, 5180370; 580582, 5180345; 580771, 5180533; 580625, 5180610; 580225, 5180327; 580192, 5180231.

(Y) Land bounded by the following UTM Zone 10, NAD83 coordinates (E, N): 621065, 5218472; 621150, 5218253; 621427, 5218094; 621430, 5217686; 621203, 5217432; 621224, 5217325; 622704, 5217343; 622711, 5217021; 622452, 5216930; 622710, 5216979; 622718, 5216566; 622905, 5216566; 623031, 5216451; 623176, 5216432; 623214, 5216318; 623215, 5216267; 623013, 5216189; 622692, 5215798; 622822, 5215441; 622044, 5215551; 621814, 5215437; 621557, 5215444; 621396, 5215538; 621028, 5215580; 621001, 5215712; 619941, 5215693; 619623, 5215466; 618722, 5215265; 618581, 5215556; 618432, 5215675; 617159, 5215662; 618052, 5215093; 617619, 5214717; 617346, 5214272; 617266, 5214014; 617318, 5213856; 617205, 5213389; 617109, 5213265; 617113, 5213094; 616148, 5213074; 615988, 5212587; 615726, 5212144; 615499, 5211920; 615088, 5211664; 614662, 5211957; 613984, 5212044; 613382, 5211890; 613195, 5211765; 613074, 5211431; 613225, 5210848; 614828, 5208653; 615116, 5208036; 615127, 5207694; 615049, 5207327; 614797, 5206924; 613967, 5206116; 613767, 5205525; 613769, 5205260; 614247, 5203985; 614105, 5203727; 614030, 5203889; 612649, 5203782; 611274, 5203758; 611441, 5204677; 611328, 5204936; 611374, 5205598; 611144, 5205597; 611081, 5205717; 611127, 5206988; 611027, 5207391; 610685, 5207399; 609824, 5207212; 609588, 5207113; 609232, 5206797; 608392, 5206759; 607959, 5206673; 607940, 5206230; 608110, 5205543; 601838, 5205547; 601703, 5205999; 601166, 5206315; 600795, 5205993; 600518, 5205543; 595825, 5205545; 596205, 5205812; 596273, 5205924; 596251, 5206039; 596352, 5206157; 596992, 5206425; 597157, 5206583; 597426, 5206691; 597488, 5206820; 597681, 5206849; 597562, 5207028; 597376, 5207119; 597413, 5207477; 597326, 5207678; 597031, 5208046; 596721, 5208130; 596493, 5208100; 595848, 5207366; 595547, 5207393; 593435, 5208325; 593298, 5208851; 593527, 5209911; 594491, 5210891; 594748, 5211862; 594591, 5211974; 594521, 5212359; 594376, 5212589; 593796, 5212593; 593704, 5212733; 593562, 5212783; 593026, 5213290; 592814, 5213685; 592845, 5214227; 592440, 5214646; 590600, 5214579; 590854, 5215159; 606750, 5215480; 606570, 5225108; 608095, 5225111; 608125, 5223525; 609723, 5223555; 609752, 5222449; 610150, 5222450; 610150, 5222866; 611354, 5222873; 611346, 5223576; 611877, 5223585; 611710, 5223095; 612534, 5223095; 612543, 5222647; 612280, 5222628; 612543, 5222645; 612555, 5222242; 612633, 5222208; 612818, 5222194; 612969, 5222315; 612966, 5222448; 614553, 5222482; 614736, 5222325; 614970, 5222423; 615271, 5222244; 615519, 5222366; 615711, 5222635; 615846, 5222712; 616160, 5222476; 616168, 5222079; 616729, 5222086; 617030, 5221975; 617040, 5221650; 617138, 5221465; 617009, 5221230; 616990, 5220988; 617042, 5221109; 617481, 5221130; 617483, 5221000; 617767, 5221024; 617834, 5220978; 617848, 5220490; 619446, 5220510; 619443, 5220662; 619611, 5220513; 619865, 5220518; 619872, 5220174; 620201, 5220174; 620201, 5219694; 620691, 5219696; 620694, 5219299; 620873, 5219299; 620935, 5218943; 621061, 5218936; 621065, 5218472.

(Z) Land bounded by the following UTM Zone 10, NAD83 coordinates (E, N): 608920, 5226718; 608930, 5225541; 609333, 5225548; 609330, 5226354; 609733, 5226361; 609755, 5225141; 611305, 5225146; 611346, 5223585; 609723, 5223555; 609706, 5225140; 608132, 5225124; 608102, 5226722; 608920, 5226718.

(AA) Land bounded by the following UTM Zone 10, NAD83 coordinates (E, N): 546953, 5164409; 545336, 5164404; 545266, 5166183; 544169, 5166175; 544157, 5167817; 545780, 5167834; 545730, 5166186; 546908, 5166201; 546953, 5164409.

(iii) Note: Map of Southwest Washington Cascades Unit follows:

BILLING CODE 4310-55-S

BILLING CODE 4310-55-C

(13) Southeast Washington Cascades Unit (Unit 6). Kittitas, Yakima, and Skamania Counties, Washington.

(i) The Southeast Washington Cascades Unit consists of 143, 400 ac (58, 000 ha) and is comprised of lands managed by the Wenatchee and Gifford Pinchot National Forests.

(ii) From USGS 1:24, 000 scale quadrangles Bumping Lake, Cle Elum, Cougar Lake, Darland Mountain, Foundation Ridge, Frost Mountain, Goose Prairie, Guler Mountain, King Mountain, Little Huckleberry Mountain, Meeks Table, Mount Adams East, Mount Clifty, Old Scab Mountain, Pinegrass Ridge, Quartz Mountain, Rimrock Lake, Ronald, Sleeping Beauty, Spiral Butte, Tieton Basin, Timberwolf Mountain, Trout Lake, and White Pass.

(A) Land bounded by the following UTM Zone 10, NAD83 coordinates (E, N): 605869, 5099945; 605937, 5099828; 606474, 5099704; 606542, 5099755; 607049, 5099719; 607348, 5099856; 607504, 5090103; 606548, 5090110; 606217, 5089806; 606079, 5089755; 605858, 5089487; 605663, 5088728; 605586, 5088630; 605419, 5088576; 605139, 5088629; 604723, 5089011; 604327, 5088889; 604045, 5088629; 603765, 5088582; 603603, 5088613; 603304, 5088969; 602933, 5089018; 602675, 5088826; 602123, 5088996; 601877, 5089130; 601675, 5089335; 601344, 5089482; 600609, 5090376; 600385, 5091439; 599923, 5092608; 599872, 5092895; 599893, 5092772; 599797, 5092690; 598894, 5092343; 598793, 5092040; 598657, 5091913; 598576, 5092250; 598820, 5092655; 598818, 5092749; 599036, 5092853; 599295, 5092757; 599574, 5092912; 599615, 5093069; 599830, 5093242; 599842, 5093785; 600283, 5094749; 600597, 5095661; 600806, 5095871; 600977, 5095929; 601246, 5095805; 601660, 5095373; 602169, 5095224; 602915, 5095360; 603188, 5095584; 603368, 5096154; 603398, 5096707; 603334, 5096904; 603420, 5096997; 603464, 5098709; 603582, 5099172; 603839, 5099434; 603993, 5099777; 604627, 5100207; 605248, 5100511; 605670, 5100234; 605869, 5099945.

(B) Land bounded by the following UTM Zone 10, NAD83 coordinates (E, N): 620114, 5108994; 620206, 5108918; 620477, 5108215; 620542, 5108165; 620656, 5108232; 620777, 5107989; 620794, 5107784; 620990, 5107620; 620884, 5107090; 621214, 5106685; 621165, 5106555; 621209, 5106272; 621124, 5105987; 621191, 5105847; 621426, 5105671; 621520, 5105454; 621580, 5105044; 621185, 5104804; 621011, 5104479; 621003, 5104234; 621279, 5103969; 621294, 5103828; 621231, 5103762; 620885, 5103678; 620942, 5103383; 620895, 5103163; 620987, 5103088; 621309, 5103068; 621453, 5102955; 621630, 5102405; 621788, 5102266; 621693, 5101840; 621629, 5101800; 621646, 5101014; 620178, 5100949; 620064, 5101524; 619909, 5101785; 619880, 5102059; 619465, 5102522; 619435, 5102822; 619313, 5103014; 618874, 5103069; 618694, 5102998; 618578, 5102814; 618378, 5102805; 618006, 5102579; 617552, 5102021; 617153, 5102327; 616916, 5102223; 616677, 5102313; 616575, 5102431; 616200, 5102374; 616209, 5102619; 616090, 5102998; 616004, 5102884; 615904, 5102864; 615729, 5103274; 615396, 5103356; 615353, 5103249; 615418, 5103113; 615403, 5102881; 615349, 5102780; 615161, 5102777; 615025, 5103031; 614913, 5102998; 614685, 5102813; 614709, 5102500; 614463, 5102183; 613361, 5101489; 613177, 5101623; 612785, 5101532; 612558, 5101588; 612368, 5101735; 612219, 5101651; 612124, 5101687; 612120, 5101975; 611830, 5102465; 611671, 5102600; 611364, 5102639; 610923, 5103170; 610825, 5103444; 610879, 5103601; 610833, 5103725; 611035, 5103992; 611148, 5104369; 611241, 5104371; 611297, 5104447; 611366, 5104761; 611211, 5104708; 611135, 5104763; 611137, 5105007; 611168, 5105052; 611369, 5105011; 611653, 5105254; 611504, 5105915; 611562, 5106160; 611631, 5106199; 611663, 5106118; 611795, 5106107; 611997, 5106411; 612109, 5106432; 612012, 5106599; 612272, 5107154; 612497, 5107959; 612480, 5108228; 612291, 5108313; 612188, 5108455; 612171, 5108768; 612591, 5108710; 613287, 5108218; 613449, 5108479; 613559, 5108885; 614331, 5108781; 614978, 5108810; 615296, 5108737; 615297, 5108661; 615550, 5108660; 615852, 5108975; 616885, 5109137; 616887, 5109057; 617195, 5108869; 617101, 5108517; 617209, 5108431; 617222, 5108085; 617639, 5108096; 617724, 5108818; 617858, 5109005; 618323, 5109067; 618322, 5109116; 618557, 5109184; 619656, 5109292; 619992, 5109215; 620114, 5108994.

(C) Land bounded by the following UTM Zone 10, NAD83 coordinates (E, N): 638093, 5163068; 637950, 5163055; 637905, 5163111; 638029, 5163131; 638029, 5163258; 638093, 5163258; 638093, 5163068.

(D) Land bounded by the following UTM Zone 10, NAD83 coordinates (E, N): 637959, 5163718; 638029, 5163513; 637902, 5163513; 637872, 5163572; 637959, 5163718.

(E) Land bounded by the following UTM Zone 10, NAD83 coordinates (E, N): 638093, 5163068; 638156, 5163071; 638156, 5163258; 638029, 5163322; 638029, 5163386; 638093, 5163386; 638093, 5163449; 638220, 5163449; 638283, 5163576; 638093, 5163576; 638093, 5163704; 637959, 5163718; 638156, 5163863; 638156, 5163767; 638347, 5163767; 638347, 5163908; 638609, 5163847; 638538, 5163704; 638283, 5163704; 638283, 5163640; 638474, 5163640; 638474, 5163576; 638729, 5163576; 638729, 5163449; 638538, 5163449; 638574, 5163322; 639021, 5163538; 639218, 5163786; 639653, 5163886; 639724, 5163960; 640018, 5163918; 640240, 5164086; 640818, 5164050; 641233, 5164303; 641423, 5164494; 641608, 5164555; 641927, 5164456; 642307, 5164514; 642479, 5164453; 642814, 5164671; 643123, 5164662; 643361, 5164852; 643182, 5164892; 643075, 5165023; 643199, 5165130; 643451, 5165158; 643653, 5165074; 644182, 5164397; 644520, 5164242; 645182, 5164207; 645268, 5164001; 645603, 5163683; 645968, 5163625; 646287, 5163343; 646638, 5163233; 646761, 5163073; 646723, 5162820; 646906, 5162617; 646943, 5162321; 647320, 5162085; 647008, 5161755; 646704, 5161750; 646707, 5161161; 646325, 5160902; 644677, 5160501; 643577, 5160425; 643213, 5160476; 642173, 5160067; 641449, 5159632; 640889, 5159594; 639661, 5159223; 638356, 5159147; 637500, 5158759; 637190, 5158492; 636804, 5158000; 636181, 5156863; 636078, 5156294; 635711, 5155809; 635541, 5155467; 635098, 5155186; 634547, 5155087; 633602, 5155145; 633268, 5155084; 633094, 5154937; 632378, 5155398; 632033, 5155329; 631770, 5155497; 631659, 5155463; 631320, 5155548; 631631, 5155839; 631677, 5156015; 631625, 5156255; 631351, 5156351; 631182, 5156622; 631087, 5156967; 631172, 5157157; 631178, 5157522; 631805, 5157862; 633229, 5159503; 633571, 5159765; 633708, 5160128; 633695, 5160376; 633390, 5160532; 633174, 5160911; 632967, 5161082; 633084, 5161293; 633391, 5161515; 633651, 5162188; 633916, 5162320; 634173, 5162304; 634353, 5162204; 634553, 5162223; 634869, 5162364; 634950, 5162580; 634991, 5163161; 635162, 5163476; 635713, 5163400; 635994, 5163466; 636664, 5163355; 636864, 5163172; 636651, 5162598; 636425, 5162568; 636327, 5162289; 636132, 5162277; 636022, 5162152; 635700, 5162039; 636307, 5161801; 635992, 5161737; 635865, 5161612; 635765, 5161430; 635598, 5161296; 635674, 5161168; 635978, 5161346; 636439, 5161373; 636664, 5161793; 637064, 5162005; 637307, 5162361; 637681, 5162638; 638093, 5163068; and excluding land bound by 638347, 5163258; 638347, 5163322; 638283, 5163322; 638283, 5163258; 638220, 5163258; 638220, 5163131; 638347, 5163258; and excluding land bound by 638411, 5163386; 638411, 5163449; 638347, 5163449; 638347, 5163386; 638411, 5163386; and excluding land bound by 638411, 5163513; 638411, 5163576; 638347, 5163576; 638347, 5163513; 638411, 5163513.

(F) Land bounded by the following UTM Zone 10, NAD83 coordinates (E, N): 634776, 5168674; 634815, 5168398; 634524, 5167828; 634623, 5167264; 634101, 5167306; 633605, 5167085; 633378, 5167072; 633116, 5166830; 632869, 5166263; 632605, 5166136; 632442, 5166132; 632310, 5166243; 631976, 5166301; 631622, 5166179; 631439, 5166370; 631301, 5166367; 631127, 5166176; 631166, 5165900; 631073, 5165353; 630119, 5164645; 630177, 5164565; 630421, 5164536; 630590, 5164604; 630842, 5164575; 631189, 5164710; 631749, 5164718; 631897, 5164631; 632393, 5164573; 632771, 5164692; 633168, 5164970; 633404, 5164824; 633472, 5164646; 633898, 5164190; 633905, 5163881; 633674, 5163716; 633508, 5163940; 633248, 5163969; 632708, 5163758; 632486, 5163414; 631914, 5163169; 631162, 5163012; 630883, 5163154; 630770, 5163120; 630515, 5162751; 629911, 5162654; 629464, 5162401; 628455, 5161624; 627982, 5161989; 627602, 5161555; 627538, 5161368; 627120, 5161557; 627106, 5161327; 626877, 5161323; 626781, 5161203; 626694, 5161214; 626600, 5161001; 626514, 5160981; 626535, 5160833; 626693, 5160676; 626410, 5160317; 626443, 5160225; 626310, 5160105; 626271, 5159887; 626143, 5159786; 626213, 5159694; 626130, 5159569; 626150, 5159477; 625996, 5159461; 625999, 5159306; 625738, 5159375; 625548, 5159571; 625559, 5159662; 625832, 5160169; 625840, 5160391; 625961, 5160499; 625947, 5160592; 626096, 5160836; 626076, 5160916; 626185, 5161011; 626339, 5161330; 626512, 5161933; 626651, 5162091; 626610, 5162263; 626410, 5162358; 626365, 5162443; 626743, 5162371; 626941, 5162412; 627092, 5162539; 627264, 5162889; 627374, 5162978; 627538, 5163371; 627865, 5163718; 627942, 5163887; 627976, 5164011; 627880, 5164164; 628183, 5165061; 628427, 5165202; 628634, 5165627; 629038, 5165531; 629078, 5165699; 629486, 5165998; 629432, 5166201; 629200, 5166332; 629009, 5166612; 628968, 5166785; 628650, 5166926; 628958, 5167539; 628466, 5167702; 627879, 5167658; 627587, 5167720; 627288, 5167534; 627035, 5167516; 626847, 5167642; 626723, 5167633; 626645, 5167533; 626412, 5167441; 625659, 5167382; 624961, 5167020; 624708, 5167015; 624665, 5167157; 624404, 5167216; 624324, 5167487; 624213, 5167507; 624124, 5167383; 624111, 5167115; 624275, 5166455; 624197, 5166151; 624434, 5165702; 623915, 5165682; 623559, 5165705; 623455, 5165775; 623281, 5166020; 623255, 5166287; 623367, 5166203; 623198, 5166431; 622828, 5166668; 622761, 5166904; 622824, 5167069; 622568, 5167092; 622262, 5167446; 622634, 5167653; 623158, 5167744; 623278, 5167926; 623979, 5168094; 624141, 5168067; 625097, 5169076; 625544, 5168684; 625949, 5168544; 626497, 5168661; 626730, 5168753; 626783, 5168865; 626970, 5168795; 627043, 5168896; 627265, 5168641; 627450, 5168663; 627655, 5168581; 627907, 5168691; 628314, 5168713; 628625, 5168651; 628697, 5168739; 629002, 5168665; 629048, 5168537; 629135, 5168526; 629220, 5168596; 629307, 5168579; 629410, 5168693; 629487, 5168546; 630055, 5168317; 630179, 5168295; 630307, 5168390; 630457, 5168313; 631102, 5168234; 631495, 5168088; 631544, 5168114; 631523, 5168194; 631314, 5168437; 631144, 5168860; 630672, 5169555; 630774, 5169680; 630981, 5169664; 631028, 5169448; 631191, 5169280; 631371, 5169316; 631522, 5169128; 631834, 5169004; 631948, 5168883; 632082, 5168954; 632645, 5168663; 632706, 5169017; 632674, 5169338; 632787, 5169727; 634590, 5168938; 634776, 5168674; and excluding land bound by 625162, 5167799; 625146, 5168191; 624739, 5168174; 624751, 5167978; 624954, 5167991; 624967, 5167787; 625162, 5167799; and excluding land bound by 623713, 5166930; 623371, 5166854; 623047, 5166613; 623228, 5166519; 623422, 5166596; 623568, 5166580; 623808, 5166872; 623713, 5166930.

(G) Land bounded by the following UTM Zone 10, NAD83 coordinates (E, N): 649782, 5166660; 649807, 5165629; 649538, 5165023; 649028, 5165005; 649036, 5164283; 648232, 5163827; 647503, 5163762; 647133, 5163827; 646146, 5164389; 645793, 5164932; 645705, 5165316; 645760, 5165562; 645040, 5165945; 644750, 5166577; 644931, 5166899; 645246, 5166979; 645619, 5166922; 645564, 5166719; 645601, 5166446; 645903, 5166295; 645987, 5166126; 646193, 5166030; 646260, 5166069; 646420, 5166439; 646451, 5166815; 646344, 5168732; 646423, 5169287; 646700, 5169478; 646954, 5169758; 648086, 5170247; 648288, 5170616; 648853, 5170862; 649090, 5170890; 650037, 5170730; 650904, 5170222; 651347, 5170095; 651924, 5169499; 651922, 5168353; 651690, 5167905; 651551, 5167742; 650918, 5167439; 650513, 5166674; 649782, 5166660.

(H) Land bounded by the following UTM Zone 10, NAD83 coordinates (E, N): 645704, 5171618; 645706, 5171406; 645529, 5171325; 644413, 5171347; 643732, 5171093; 643685, 5170804; 643884, 5169965; 643641, 5169224; 643189, 5168672; 643083, 5168690; 642967, 5168458; 641684, 5167440; 641684, 5167322; 641386, 5167303; 640548, 5167638; 640361, 5167635; 639713, 5167439; 639345, 5167184; 638315, 5167194; 637256, 5166996; 636688, 5167042; 636330, 5167275; 636099, 5167686; 635958, 5168159; 635659, 5168491; 635701, 5168670; 636031, 5169066; 636208, 5170246; 636421, 5170653; 636409, 5171466; 636454, 5171509; 637069, 5171540; 637735, 5171073; 638120, 5171026; 638366, 5171081; 638617, 5170920; 639271, 5171003; 639956, 5171340; 640914, 5171381; 640787, 5171520; 641059, 5171533; 641057, 5171632; 641213, 5171839; 641429, 5172383; 641469, 5172804; 641315, 5173029; 641495, 5173287; 641451, 5173608; 641553, 5174310; 642982, 5174363; 644040, 5174317; 644141, 5174204; 644459, 5173308; 644686, 5173081; 645010, 5172443; 645701, 5171790; 645704, 5171618.

(I) Land bounded by the following UTM Zone 10, NAD83 coordinates (E, N): 647493, 5181334; 647851, 5181532; 647903, 5181444; 648000, 5181447; 648052, 5181343; 648004, 5181049; 648139, 5180890; 648650, 5180890; 648777, 5180983; 648772, 5181137; 648852, 5181188; 649218, 5180891; 649289, 5180942; 649299, 5181153; 649655, 5181172; 649927, 5181026; 650002, 5181239; 650303, 5181200; 650766, 5181425; 650981, 5181302; 651192, 5181284; 651234, 5181521; 651499, 5181342; 651674, 5181430; 651735, 5178753; 650753, 5178261; 650446, 5177861; 649950, 5177748; 649769, 5177525; 649525, 5177366; 649235, 5176849; 648955, 5176690; 648024, 5175810; 647826, 5175793; 647682, 5175910; 647448, 5175902; 646825, 5175593; 646428, 5175318; 645634, 5175080; 644950, 5175102; 644483, 5175479; 644051, 5175526; 643527, 5175234; 642956, 5175177; 642684, 5175067; 642458, 5174876; 641629, 5174695; 641228, 5174938; 640661, 5175129; 640406, 5175167; 640168, 5175050; 640073, 5175134; 640304, 5175313; 641046, 5175349; 641488, 5175476; 641907, 5176352; 642106, 5177933; 642078, 5178867; 641958, 5179297; 641593, 5179565; 641503, 5179707; 641863, 5180216; 641891, 5180347; 642303, 5180118; 642246, 5179920; 642321, 5179841; 643057, 5179649; 643394, 5179291; 643750, 5179296; 643874, 5179202; 643939, 5179003; 644317, 5178965; 644397, 5178858; 644587, 5178884; 644883, 5178721; 645018, 5178783; 645001, 5179006; 645292, 5179372; 645594, 5179553; 645829, 5179576; 646636, 5180463; 646683, 5180529; 646573, 5180672; 646560, 5180818; 646819, 5180826; 646848, 5180998; 646952, 5180993; 646949, 5181342; 647044, 5181402; 647032, 5181524; 647382, 5181494; 647493, 5181334.

(J) Land bounded by the following UTM Zone 10, NAD83 coordinates (E, N): 644530, 5184345; 644991, 5184216; 645127, 5184116; 645092, 5183798; 644992, 5183747; 643689, 5184045; 643010, 5183725; 643037, 5183626; 642862, 5183530; 642792, 5183373; 642729, 5183434; 642587, 5183400; 642552, 5183325; 642391, 5183315; 642168, 5183340; 642104, 5183444; 642092, 5183697; 642249, 5183596; 642353, 5183623; 642855, 5183851; 643057, 5184097; 643415, 5184100; 643607, 5184315; 644530, 5184345.

(K) Land bounded by the following UTM Zone 10, NAD83 coordinates (E, N): 638585, 5204286; 639265, 5203707; 639683, 5203593; 639497, 5203548; 639216, 5203236; 639104, 5202813; 639123, 5202515; 638851, 5202162; 638900, 5201962; 638764, 5201953; 638539, 5202053; 638423, 5202007; 638350, 5201955; 638305, 5201744; 638065, 5201708; 637775, 5201423; 637818, 5200980; 637705, 5200691; 637726, 5200568; 637582, 5200391; 637312, 5200280; 637241, 5200155; 637076, 5200070; 636994, 5199557; 636679, 5199325; 636597, 5199398; 636450, 5199332; 636419, 5199035; 636255, 5198672; 635994, 5198444; 635873, 5198051; 635717, 5197874; 635563, 5197827; 635408, 5197583; 635291, 5197555; 635073, 5197352; 634801, 5197365; 634765, 5197290; 634525, 5197265; 634421, 5197189; 634235, 5197215; 634165, 5197313; 634079, 5197274; 633958, 5196875; 633809, 5196667; 633971, 5196337; 633828, 5196111; 633826, 5195654; 633686, 5195545; 633493, 5195627; 633097, 5195556; 632965, 5195368; 632797, 5195433; 632591, 5195236; 632556, 5195124; 632389, 5195145; 632318, 5194965; 632103, 5194923; 632051, 5194718; 631829, 5194712; 631726, 5194612; 631640, 5194288; 631694, 5194061; 631635, 5193967; 631965, 5193553; 631984, 5193269; 632124, 5192962; 631778, 5193067; 631527, 5192913; 631235, 5192412; 631036, 5191882; 631053, 5191660; 630839, 5190968; 630942, 5190198; 630803, 5190065; 630686, 5189734; 630553, 5189620; 630019, 5188582; 629989, 5187945; 629910, 5187862; 629897, 5187615; 629749, 5187296; 629726, 5186925; 629791, 5186815; 629705, 5186194; 629558, 5186148; 629555, 5185993; 629452, 5185874; 629580, 5185703; 629590, 5185518; 629547, 5185468; 629493, 5185683; 629444, 5185694; 629348, 5185531; 628702, 5185091; 628554, 5185100; 628254, 5184945; 628258, 5184197; 628118, 5183779; 627713, 5183084; 627388, 5182947; 627342, 5182773; 626935, 5182437; 626694, 5181875; 626702, 5181776; 626463, 5181400; 626484, 5181283; 626373, 5180990; 626400, 5180879; 626277, 5180833; 626218, 5180449; 626113, 5180422; 626040, 5180080; 626082, 5179846; 625997, 5179776; 626017, 5179430; 625803, 5179308; 625794, 5179153; 625615, 5179149; 625257, 5178851; 624735, 5178939; 624698, 5182110; 624440, 5182884; 624729, 5183243; 624859, 5183536; 624786, 5183751; 624903, 5184094; 624916, 5184601; 625249, 5184670; 625534, 5184917; 625546, 5185239; 625710, 5185360; 625942, 5185786; 625931, 5185996; 626179, 5186267; 626396, 5186253; 626567, 5186350; 626710, 5186600; 626640, 5186691; 626650, 5186797; 626853, 5187141; 626846, 5187469; 626977, 5187701; 626963, 5187756; 626846, 5187760; 626661, 5187700; 625784, 5187669; 625254, 5187849; 623685, 5187346; 623733, 5187464; 623825, 5187466; 623642, 5187666; 623806, 5187818; 623867, 5187968; 623733, 5188070; 623939, 5188903; 623923, 5189094; 623810, 5189172; 624099, 5189240; 624274, 5189448; 624434, 5189464; 624542, 5189640; 624831, 5189708; 625087, 5189905; 625784, 5189982; 626275, 5190116; 626937, 5190112; 627404, 5190258; 627751, 5190494; 628163, 5190886; 629052, 5192136; 629430, 5192960; 629383, 5193133; 629832, 5193532; 629785, 5193710; 629836, 5194218; 630002, 5194241; 630174, 5194591; 630169, 5194813; 630251, 5194765; 630367, 5194811; 630739, 5195079; 630810, 5195217; 630873, 5195150; 630966, 5195170; 631427, 5195551; 631908, 5195630; 632411, 5195839; 632899, 5195855; 633086, 5195767; 633456, 5195861; 633644, 5196812; 633843, 5197299; 634116, 5197559; 634823, 5197749; 635137, 5198071; 634752, 5198650; 634520, 5198799; 634309, 5199097; 634351, 5199414; 634523, 5199715; 634515, 5200098; 634331, 5200555; 634867, 5201231; 635119, 5201250; 635381, 5201417; 635498, 5201419; 635570, 5201520; 635788, 5201457; 635877, 5201608; 636134, 5201502; 636511, 5201492; 636731, 5201361; 637416, 5201427; 637519, 5201763; 638036, 5202165; 638440, 5202347; 638516, 5202813; 638818, 5203104; 638406, 5203274; 638366, 5203644; 638478, 5204186; 638279, 5203952; 637586, 5203688; 637370, 5203689; 637193, 5203821; 636538, 5203319; 636631, 5203588; 637308, 5204205; 638141, 5204428; 638585, 5204286; and excluding land bound by 631525, 5195195; 631224, 5194993; 631390, 5194573; 632225, 5195100; 632703, 5195487; 632607, 5195563; 632349, 5195542; 631525, 5195195; and excluding land bound by 631677, 5194705; 631718, 5194635; 631872, 5194764; 631989, 5194774; 632210, 5195084; 631677, 5194705; and excluding land bound by 628326, 5190619; 628007, 5190607; 627812, 5190372; 627461, 5190148; 627265, 5190127; 627087, 5189965; 626852, 5189894; 626729, 5189711; 626513, 5189632; 626336, 5189642; 625917, 5189849; 625362, 5189840; 625244, 5189605; 624897, 5189332; 624728, 5188882; 624716, 5188712; 624772, 5188716; 624587, 5188605; 624894, 5188705; 624810, 5188598; 625270, 5188853; 625881, 5188832; 626968, 5189070; 627503, 5188930; 627506, 5188848; 627599, 5188825; 627949, 5189038; 628028, 5189030; 627999, 5189101; 628117, 5189113; 628258, 5189255; 628293, 5189144; 628298, 5189322; 628455, 5189310; 628662, 5189522; 628858, 5189505; 628956, 5189719; 628934, 5189829; 629070, 5190074; 629058, 5190512; 629159, 5190556; 629112, 5190969; 629238, 5190956; 629286, 5190807; 629339, 5190871; 629254, 5190967; 629257, 5191084; 629307, 5190963; 629353, 5190992; 629257, 5191208; 629303, 5191206; 629277, 5191307; 629382, 5191395; 629497, 5191262; 629563, 5191350; 629446, 5191618; 629549, 5191529; 629590, 5191586; 629650, 5191555; 629610, 5191685; 629681, 5191592; 629826, 5191645; 629516, 5192053; 629518, 5192492; 629025, 5191819; 628943, 5191521; 628642, 5191319; 628678, 5191110; 628629, 5190945; 628326, 5190619.

(L) Land bounded by the following UTM Zone 10, NAD83 coordinates (E, N): 654831, 5214966; 656435, 5215004; 656454, 5213711; 656069, 5213583; 655890, 5213608; 655627, 5213757; 655480, 5213702; 655359, 5213505; 654997, 5213436; 654855, 5213487; 654831, 5214966.

(M) Land bounded by the following UTM Zone 10, NAD83 coordinates (E, N): 647971, 5221118; 646360, 5221071; 646321, 5222683; 647930, 5222718; 647971, 5221118.

(N) Land bounded by the following UTM Zone 10, NAD83 coordinates (E, N): 651229, 5221620; 649563, 5221567; 649517, 5223363; 651174, 5223414; 651229, 5221620.

(O) Land bounded by the following UTM Zone 10, NAD83 coordinates (E, N): 654831, 5214966; 653217, 5214948; 653238, 5214020; 652891, 5213893; 652842, 5213803; 652399, 5213962; 651936, 5214365; 651625, 5214432; 651614, 5214898; 649848, 5214816; 649865, 5214107; 649766, 5214133; 649554, 5213936; 649291, 5213876; 649183, 5213672; 649330, 5213327; 649518, 5213248; 650129, 5213228; 650532, 5212792; 651075, 5212962; 651202, 5212935; 651245, 5212882; 650989, 5212546; 651140, 5212249; 650908, 5211943; 650929, 5211811; 651077, 5211695; 653291, 5211726; 653366, 5208506; 651753, 5208428; 651760, 5208226; 651433, 5208111; 651169, 5208257; 650814, 5208173; 650558, 5208297; 650099, 5208346; 649550, 5208919; 649212, 5208888; 648888, 5208768; 648432, 5208913; 647988, 5208842; 647608, 5208915; 646967, 5208699; 646795, 5208520; 646449, 5208445; 645904, 5208768; 645780, 5208995; 645630, 5209021; 645351, 5208903; 644807, 5208986; 643973, 5208802; 643864, 5208710; 643739, 5208378; 642920, 5208486; 642506, 5208699; 642190, 5208657; 642046, 5208566; 641794, 5208804; 641882, 5209190; 642189, 5209494; 642292, 5209773; 642227, 5210231; 642116, 5210465; 642207, 5210947; 642067, 5211157; 641683, 5211442; 641398, 5211999; 641101, 5212233; 641302, 5212634; 641326, 5212945; 641191, 5213241; 641330, 5213524; 641182, 5213606; 640600, 5213465; 640181, 5213120; 640417, 5213051; 640637, 5212811; 640674, 5212499; 640493, 5212184; 640243, 5212068; 640059, 5212068; 639744, 5212250; 639620, 5212591; 639691, 5212857; 639873, 5213042; 639790, 5213464; 639312, 5214105; 639125, 5214277; 638869, 5214271; 638729, 5214524; 638696, 5214889; 638953, 5215114; 639001, 5215426; 638498, 5215823; 638386, 5216060; 638609, 5216065; 638557, 5217665; 640167, 5217706; 640153, 5218275; 640243, 5218254; 640402, 5217976; 640695, 5217822; 640728, 5217721; 640858, 5217943; 641270, 5219241; 641489, 5219348; 643177, 5219390; 643272, 5216178; 644874, 5216221; 644832, 5217824; 646438, 5217864; 646478, 5216260; 648087, 5216303; 648052, 5217910; 646438, 5217864; 646400, 5219469; 648012, 5219520; 647971, 5221118; 649573, 5221172; 649615, 5219964; 651283, 5220016; 651325, 5218411; 652932, 5218450; 652891, 5220062; 651283, 5220016; 651246, 5220967; 651229, 5221620; 652842, 5221675; 652792, 5223466; 654358, 5223493; 654425, 5222523; 656028, 5222550; 655998, 5223483; 657613, 5223516; 657638, 5222609; 659219, 5222648; 659395, 5216982; 654789, 5216877; 654831, 5214966; and excluding land bound by 654951, 5218090; 654945, 5218492; 654546, 5218481; 654555, 5218078; 654951, 5218090; and excluding land bound by 655063, 5218495; 655437, 5218147; 655928, 5218172; 656189, 5218524; 655697, 5218510; 655519, 5218312; 654946, 5218880; 654836, 5218735; 655063, 5218495; and excluding land bound by 658897, 5220418; 658823, 5220421; 658824, 5220253; 659276, 5220240; 659277, 5220403; 658897, 5220418.

(P) Land bounded by the following UTM Zone 10, NAD83 coordinates (E, N): 646321, 5222683; 645220, 5222654; 645525, 5224140; 646267, 5224561; 646321, 5222683.

(Q) Land bounded by the following UTM Zone 10, NAD83 coordinates (E, N): 649517, 5223363; 647940, 5223324; 647892, 5224930; 648279, 5224944; 648300, 5224547; 648699, 5224557; 648709, 5224150; 649093, 5224159; 649103, 5223768; 649511, 5223770; 649517, 5223363.

(iii) Note: Map of Southeast Washington Cascades Unit follows:

BILLING CODE 4310-55-S

BILLING CODE 4310-55-C

(14) Northern Oregon Coast Ranges Unit (Unit 7). Benton, Lane, Lincoln, Polk, Tillamook, and Yamhill Counties, Oregon.

(i) The Northern Oregon Coast Ranges Unit consists of 370, 000 ac (149, 700 ha) and is comprised of lands managed by the Siuslaw National Forest (206, 700 ac (83, 600 ha)) and Salem and Eugene Bureau of Land Management (BLM) Districts (163, 300 ac (66, 100 ha)).

(ii) From USGS 1:24, 000 scale quadrangles Alsea, Blaine, Cannibal Mountain, Cedar Butte, Cummins Peak, Devils Lake, Digger Mountain, Dolph, Dovre Peak, Elk City, Euchre Mountain, Falls City, Fanno Ridge, Five Rivers, Flat Mountain, Glenbrook, Grand Ronde, Grass Mountain, Harlan, Hebo, Heceta Head, Hellion Rapids, Herman Creek, Horton, Kilchis River, Laurel Mountain, Marys Peak, Mercer Lake, Mowrey Landing, Neskowin, Neskowin OE W, Niagara Creek, Nortons, Prairie Peak, Sheridan, Socialist Valley, Springer Mountain, Stony Mountain, Stott Mountain, Summit, The Peninsula, Tidewater, Tiernan, Tillamook, Toledo South, Trask Mountain, Triangle Lake, Valsetz, Waldport, Warnicke Creek, Windy Peak, Wren, and Yachats.

(A) Land bounded by the following UTM Zone 10, NAD83 coordinates (E, N): 443293, 4889071; 443288, 4888660; 442905, 4888662; 442913, 4889075; 443293, 4889071.

(B) Land bounded by the following UTM Zone 10, NAD83 coordinates (E, N): 443700, 4889473; 443696, 4889066; 443293, 4889071; 443298, 4889481; 443700, 4889473.

(C) Land bounded by the following UTM Zone 10, NAD83 coordinates (E, N): 452471, 4889295; 452477, 4890083; 454298, 4890090; 454333, 4890034; 454188, 4889929; 454203, 4889669; 454127, 4889639; 454126, 4889543; 454257, 4889544; 454256, 4889285; 452471, 4889295.

(D) Land bounded by the following UTM Zone 10, NAD83 coordinates (E, N): 443288, 4891412; 443283, 4891093; 443678, 4891100; 443684, 4890689; 443287, 4890689; 443298, 4889481; 442934, 4889488; 442981, 4891887; 443682, 4891879; 443680, 4891490; 443289, 4891488; 443288, 4891412.

(E) Land bounded by the following UTM Zone 10, NAD83 coordinates (E, N): 410869, 4891995; 410794, 4891702; 410825, 4891406; 410726, 4891405; 410752, 4891871; 410869, 4891995.

(F) Land bounded by the following UTM Zone 10, NAD83 coordinates (E, N): 450859, 4890974; 450882, 4892606; 451709, 4892597; 452483, 4892459; 452485, 4891281; 451666, 4891325; 451652, 4890917; 450859, 4890974.

(G) Land bounded by the following UTM Zone 10, NAD83 coordinates (E, N): 410869, 4891995; 410775, 4892123; 410821, 4892616; 410869, 4891995.

(H) Land bounded by the following UTM Zone 10, NAD83 coordinates (E, N): 450921, 4894081; 450882, 4892606; 449252, 4892581; 449245, 4894123; 450921, 4894081.

(I) Land bounded by the following UTM Zone 10, NAD83 coordinates (E, N): 443848, 4895473; 443852, 4895373; 443646, 4895382; 443675, 4894600; 443267, 4894625; 443269, 4894233; 442956, 4894252; 442932, 4895788; 443233, 4895781; 443237, 4895686; 443636, 4895674; 443639, 4895577; 443844, 4895568; 443848, 4895473.

(J) Land bounded by the following UTM Zone 10, NAD83 coordinates (E, N): 421296, 4903946; 420898, 4903953; 420935, 4904708; 421326, 4904687; 421296, 4903946.

(K) Land bounded by the following UTM Zone 10, NAD83 coordinates (E, N): 415699, 4904402; 417282, 4904397; 417308, 4903992; 416523, 4903993; 416557, 4903587; 416165, 4903587; 416136, 4901987; 415331, 4901998; 415340, 4902536; 415099, 4902357; 414922, 4902539; 414806, 4902491; 414481, 4902629; 414038, 4902478; 413541, 4902522; 413229, 4902282; 413036, 4902333; 412954, 4902249; 412864, 4902334; 412586, 4902216; 412499, 4902258; 412379, 4902174; 412215, 4902239; 411953, 4902111; 411884, 4902134; 411882, 4902843; 411782, 4902844; 411787, 4903147; 410967, 4903177; 411037, 4903177; 411085, 4903349; 411167, 4903321; 411113, 4903405; 411199, 4903434; 411140, 4903468; 411209, 4903489; 411208, 4903615; 411318, 4903598; 411427, 4903847; 411231, 4903914; 411231, 4904006; 411310, 4904057; 411007, 4904331; 411126, 4904525; 411110, 4904662; 411201, 4904667; 411280, 4904762; 411219, 4904885; 411310, 4904884; 411394, 4904779; 411337, 4904744; 411408, 4904712; 411527, 4904882; 413709, 4904853; 413620, 4904184; 414417, 4904149; 414493, 4904882; 415654, 4904900; 415699, 4904402.

(L) Land bounded by the following UTM Zone 10, NAD83 coordinates (E, N): 420082, 4903560; 418917, 4903574; 418918, 4903176; 419696, 4903171; 419694, 4902777; 420070, 4902777; 420082, 4903560; 421280, 4903545; 421296, 4903946; 421695, 4903938; 421682, 4903538; 422087, 4903537; 422087, 4903437; 422491, 4903435; 422490, 4903335; 422895, 4903333; 422896, 4903437; 423053, 4903407; 422999, 4903662; 423071, 4903466; 423181, 4903530; 423704, 4903523; 423706, 4903622; 423907, 4903620; 423909, 4903720; 424111, 4903718; 424114, 4903920; 424214, 4903920; 424218, 4904123; 424516, 4904125; 424515, 4904023; 424813, 4904025; 424812, 4903921; 424911, 4903922; 424906, 4903319; 425169, 4903317; 425169, 4903519; 425275, 4903517; 425275, 4903616; 425374, 4903616; 425374, 4903516; 425473, 4903515; 425474, 4903715; 425275, 4903716; 425275, 4903916; 425065, 4903928; 425066, 4904131; 424913, 4904143; 424962, 4904341; 425068, 4904332; 425068, 4904432; 425174, 4904423; 425175, 4904522; 424918, 4904548; 424920, 4904670; 424129, 4904664; 424122, 4904324; 424022, 4904322; 424018, 4904121; 423818, 4904120; 423816, 4904020; 423715, 4904020; 423713, 4903920; 423384, 4903921; 423387, 4905427; 424119, 4905443; 424114, 4905818; 424931, 4905862; 424933, 4906713; 425952, 4906889; 426298, 4906859; 426513, 4906686; 426336, 4906180; 426590, 4905636; 426601, 4905414; 426875, 4905167; 426895, 4904865; 427198, 4904643; 427338, 4904401; 427374, 4903986; 427188, 4903598; 427306, 4903457; 427575, 4903404; 427817, 4903264; 427997, 4903050; 428092, 4902788; 428093, 4902514; 426855, 4902513; 426846, 4900900; 428264, 4900905; 428259, 4900503; 428157, 4900499; 428155, 4900296; 427949, 4900295; 427947, 4900091; 428153, 4900092; 428154, 4900194; 428462, 4900195; 428468, 4900821; 429133, 4900819; 429218, 4900761; 429177, 4900819; 429334, 4900818; 429316, 4899979; 429712, 4899944; 429719, 4899240; 430915, 4899289; 430903, 4898451; 432455, 4898412; 432450, 4897608; 431629, 4897610; 431639, 4896282; 431224, 4896318; 430883, 4896557; 430707, 4896935; 430715, 4897245; 430203, 4897150; 429897, 4897174; 430101, 4896733; 429950, 4896418; 429647, 4896426; 429649, 4896524; 429140, 4896513; 429009, 4896652; 428816, 4896669; 428579, 4896810; 428174, 4896707; 428133, 4896619; 428289, 4896500; 428708, 4896549; 428372, 4896405; 428134, 4896464; 427643, 4895949; 427642, 4895796; 427065, 4895812; 427057, 4895411; 428244, 4895368; 428240, 4894973; 429050, 4894933; 429002, 4892938; 428200, 4892984; 428188, 4892585; 428986, 4892545; 428956, 4891759; 428165, 4891789; 428153, 4891392; 428972, 4891363; 428855, 4883161; 428494, 4883169; 428473, 4883393; 428195, 4883595; 428017, 4883318; 427935, 4883309; 428052, 4883257; 428064, 4883179; 424522, 4883278; 424526, 4883648; 424638, 4883681; 424639, 4883736; 424527, 4883738; 424532, 4884866; 424135, 4884874; 424140, 4885274; 422977, 4885271; 422973, 4884862; 423748, 4884870; 423746, 4884471; 423935, 4884475; 423931, 4884177; 424117, 4884182; 424088, 4883411; 423879, 4883752; 423393, 4883966; 423225, 4883976; 423057, 4883901; 422777, 4883938; 422702, 4883864; 422702, 4883612; 422620, 4883600; 422620, 4883691; 422319, 4883695; 421756, 4884681; 421622, 4884688; 421616, 4884880; 421027, 4884939; 421021, 4885326; 420826, 4885334; 420814, 4885938; 420716, 4885941; 420714, 4886041; 420615, 4886044; 420600, 4886739; 420232, 4886740; 420234, 4886922; 419831, 4886931; 419829, 4886741; 419703, 4886700; 416851, 4886754; 416713, 4886405; 416564, 4886238; 415905, 4885975; 415248, 4885897; 414901, 4885434; 414495, 4885369; 413660, 4885706; 413318, 4886035; 412604, 4886330; 412545, 4886571; 412559, 4886944; 412235, 4886953; 412225, 4887131; 411791, 4887141; 412140, 4887176; 412140, 4887371; 411392, 4887388; 411376, 4888156; 411777, 4888130; 411902, 4889784; 412094, 4889781; 412080, 4890179; 412176, 4890178; 412162, 4890576; 411875, 4890578; 411863, 4890973; 411670, 4890980; 411668, 4891080; 411475, 4891088; 411471, 4891288; 411279, 4891297; 411278, 4891398; 411660, 4891378; 411671, 4891565; 411848, 4891605; 412092, 4891486; 412422, 4891653; 412687, 4891579; 412853, 4891429; 412978, 4891476; 413080, 4891433; 413113, 4891373; 412611, 4891370; 412625, 4890972; 413386, 4890973; 413369, 4891375; 413262, 4891374; 413361, 4891442; 413482, 4891381; 413516, 4891226; 413608, 4891172; 413776, 4891257; 414012, 4891160; 414780, 4891223; 414691, 4891163; 414320, 4891178; 414891, 4891060; 414898, 4891247; 415342, 4891241; 415565, 4891000; 415746, 4891006; 415737, 4890409; 416945, 4890397; 416947, 4890585; 417250, 4890584; 417440, 4890737; 417745, 4890677; 417755, 4890790; 417957, 4890787; 417956, 4890586; 418158, 4890583; 418158, 4890482; 418360, 4890479; 418360, 4890579; 418562, 4890576; 418561, 4890375; 419365, 4890360; 419369, 4890621; 419511, 4890618; 419513, 4890760; 419314, 4890764; 419422, 4890896; 419780, 4891001; 419777, 4890855; 420081, 4890849; 420079, 4890747; 420382, 4890740; 420384, 4890842; 420182, 4890846; 420185, 4890948; 420083, 4890950; 420096, 4891557; 420442, 4891544; 420539, 4891623; 420557, 4892453; 421311, 4892439; 421475, 4892318; 421708, 4892340; 422166, 4892541; 422047, 4892586; 422085, 4892718; 422689, 4893100; 422655, 4893288; 422332, 4893531; 422147, 4893507; 422046, 4893637; 421891, 4893587; 421522, 4893728; 420942, 4893578; 420785, 4893442; 420420, 4893340; 420245, 4893200; 420050, 4893216; 419846, 4893120; 419566, 4893263; 419392, 4893432; 419368, 4893599; 419444, 4893752; 419248, 4894029; 419032, 4894030; 418673, 4894163; 418203, 4894099; 417581, 4894218; 417392, 4894197; 417191, 4894475; 416847, 4894588; 416639, 4894542; 416419, 4894762; 416126, 4894757; 416027, 4894832; 415796, 4894863; 415614, 4894783; 415449, 4894901; 415024, 4894778; 414908, 4894810; 414865, 4894710; 414123, 4894742; 413977, 4894572; 413914, 4894620; 413915, 4894769; 413804, 4894868; 413531, 4894946; 413371, 4894751; 413410, 4894605; 413276, 4894311; 413366, 4894210; 413226, 4894075; 413052, 4894203; 412936, 4894148; 412694, 4893845; 412662, 4893706; 412426, 4893755; 412191, 4893700; 411972, 4893783; 411788, 4893603; 411468, 4893576; 411419, 4893432; 411278, 4893321; 411321, 4893076; 411139, 4892848; 411116, 4892199; 410894, 4892209; 410875, 4893122; 411011, 4893377; 410848, 4893165; 410838, 4893017; 410756, 4893015; 410736, 4893110; 410859, 4893737; 411133, 4893738; 411085, 4895105; 411870, 4895132; 411850, 4895424; 411459, 4895418; 411441, 4895711; 411149, 4895712; 411131, 4896478; 411232, 4896477; 411234, 4896866; 411334, 4896865; 411336, 4897060; 411436, 4897059; 411437, 4897156; 411839, 4897151; 411838, 4897054; 412575, 4897065; 412577, 4897261; 412433, 4897258; 412396, 4897320; 412290, 4897342; 412291, 4897256; 411839, 4897248; 411817, 4897372; 411641, 4897352; 411655, 4898062; 411454, 4898065; 411465, 4898739; 411372, 4898739; 411256, 4899021; 411284, 4899274; 411358, 4899371; 411276, 4899397; 411263, 4899556; 411454, 4899569; 411452, 4899656; 411280, 4899723; 411544, 4899864; 411546, 4899973; 411449, 4899881; 411238, 4899892; 411226, 4900039; 411447, 4900036; 411462, 4901199; 411865, 4901194; 412082, 4901089; 412430, 4901127; 412578, 4900995; 412748, 4900967; 412741, 4900680; 412526, 4900602; 412323, 4900693; 412225, 4900648; 412222, 4900536; 412289, 4900487; 412255, 4900424; 411927, 4900327; 411823, 4900365; 411862, 4899257; 411460, 4899263; 411467, 4898877; 411870, 4898871; 411848, 4898464; 412660, 4898464; 412966, 4898574; 413260, 4898517; 413479, 4898608; 413885, 4898620; 413960, 4898679; 414174, 4898488; 414564, 4898381; 414845, 4898419; 415157, 4898352; 415344, 4898165; 415597, 4898044; 415784, 4898103; 416092, 4898024; 416324, 4898060; 416647, 4897872; 416854, 4897944; 417089, 4897830; 417412, 4897880; 417618, 4897781; 417753, 4897809; 417979, 4897724; 418174, 4897857; 418431, 4897890; 418768, 4897793; 418864, 4897621; 419145, 4897976; 419338, 4897933; 419571, 4898005; 420285, 4898029; 420494, 4898536; 420517, 4898738; 420369, 4898920; 420142, 4898921; 420068, 4898986; 420031, 4899428; 420346, 4899403; 420699, 4899489; 420744, 4899411; 420724, 4899047; 420989, 4899064; 421407, 4899503; 421566, 4899572; 421602, 4899824; 421539, 4900164; 421244, 4900333; 421116, 4900792; 420823, 4901179; 420556, 4901242; 420338, 4901423; 420263, 4901578; 419975, 4901707; 419884, 4901849; 418781, 4902378; 418289, 4902491; 417779, 4902788; 417620, 4902761; 417595, 4902521; 417531, 4902452; 417227, 4902642; 417002, 4902668; 416916, 4902763; 416953, 4903190; 417336, 4903189; 417335, 4903587; 418522, 4903576; 418489, 4904379; 419300, 4904373; 419293, 4904793; 420120, 4904774; 420082, 4903560; and excluding land bound by 422893, 4903028; 422891, 4902734; 422789, 4902734; 422788, 4902538; 422686, 4902539; 422684, 4902343; 422887, 4902342; 422886, 4902147; 422987, 4902147; 422993, 4902733; 423095, 4902733; 423096, 4903132; 422894, 4903133; 422893, 4903028; and excluding land bound by 423697, 4902336; 423694, 4901944; 423290, 4901951; 423288, 4901551; 423690, 4901546; 423685, 4901148; 424085, 4901145; 424101, 4902330; 423697, 4902336; and excluding land bound by 416503, 4896861; 416495, 4896460; 418078, 4896431; 418067, 4896043; 418456, 4896035; 418470, 4896814; 416503, 4896861; 416512, 4897262; 416136, 4897252; 416134, 4897307; 415954, 4897247; 414984, 4897220; 413414, 4897277; 413406, 4896883; 416503, 4896861; and excluding land bound by 421973, 4896094; 421811, 4896031; 421328, 4896086; 421212, 4896011; 421416, 4896053; 421824, 4895995; 422218, 4896098; 422480, 4895850; 422627, 4895789; 422283, 4896109; 421973, 4896094; and excluding land bound by 420005, 4895629; 420006, 4896017; 419215, 4896027; 419206, 4895641; 420005, 4895629; and excluding land bound by 417753, 4890389; 417349, 4890393; 417348, 4889589; 418153, 4889579; 418157, 4890382; 417753, 4890389; and excluding land bound by 425650, 4888257; 425647, 4887858; 427248, 4887838; 427244, 4887438; 428843, 4887409; 428838, 4888183; 428437, 4888194; 428438, 4887805; 427642, 4887826; 427644, 4888222; 426855, 4888245; 426868, 4888642; 426068, 4888651; 426054, 4888255; 425650, 4888257; 425679, 4889053; 424493, 4889055; 424483, 4888658; 425272, 4888656; 425258, 4888258; 425650, 4888257; and excluding land bound by 422198, 4885284; 422591, 4885270; 422598, 4886091; 422201, 4886101; 422198, 4885284; and excluding land bound by 424861, 4886074; 424887, 4885263; 425261, 4885256; 425256, 4885666; 426033, 4885656; 426034, 4886067; 424861, 4886074.

(M) Land bounded by the following UTM Zone 10, NAD83 coordinates (E, N): 454155, 4897570; 454183, 4899257; 452600, 4899276; 452567, 4897578; 454155, 4897570; 454130, 4895595; 452478, 4895562; 452563, 4897146; 451729, 4897197; 451677, 4895609; 452478, 4895562; 452482, 4894596; 453351, 4894580; 453351, 4894188; 452483, 4894207; 452484, 4894004; 450921, 4894081; 450920, 4895653; 449292, 4895717; 449298, 4897345; 447688, 4897424; 447695, 4898186; 446043, 4898317; 446037, 4897522; 447688, 4897424; 447665, 4895823; 449258, 4895718; 449245, 4894123; 448055, 4894122; 448024, 4892572; 449252, 4892581; 449310, 4891005; 450859, 4890974; 450824, 4889773; 451234, 4889754; 451228, 4889358; 451643, 4889343; 451646, 4889736; 452060, 4889713; 452058, 4889319; 452471, 4889295; 452463, 4887720; 450831, 4887803; 450830, 4888584; 449214, 4888622; 449190, 4887813; 447576, 4887882; 447572, 4887108; 449186, 4887055; 449190, 4887813; 450850, 4887787; 450830, 4887010; 450955, 4886949; 450695, 4886635; 450545, 4886635; 450402, 4886458; 449977, 4886462; 449970, 4886270; 446027, 4886325; 446060, 4887062; 445283, 4887079; 445263, 4886325; 442909, 4886329; 442900, 4887114; 442520, 4887134; 442516, 4887529; 442896, 4887506; 442897, 4887459; 443685, 4887471; 443689, 4888256; 444490, 4888262; 444493, 4888657; 444093, 4888658; 444098, 4889062; 444902, 4889072; 444905, 4889473; 445706, 4889505; 445696, 4890281; 445295, 4890276; 445301, 4889883; 444495, 4889862; 444504, 4889457; 443700, 4889473; 443695, 4889876; 444095, 4889869; 444087, 4890273; 444485, 4890268; 444476, 4890673; 444080, 4890681; 444086, 4892243; 444486, 4892230; 444476, 4891870; 444880, 4891866; 444885, 4892228; 444686, 4892229; 444688, 4892319; 444489, 4892320; 444497, 4892590; 443687, 4892634; 443687, 4893030; 444498, 4892988; 444498, 4893386; 444498, 4893776; 443688, 4893817; 443689, 4894207; 444498, 4894166; 444497, 4894555; 444882, 4894536; 444877, 4894935; 445664, 4894916; 445653, 4895322; 444469, 4895343; 444442, 4895742; 444840, 4895735; 444829, 4895976; 446052, 4895909; 446059, 4896726; 444826, 4896787; 444829, 4895976; 444024, 4896019; 444037, 4895757; 443632, 4895772; 443623, 4896040; 442838, 4896037; 442997, 4900805; 442993, 4902433; 446088, 4902327; 446124, 4903908; 445334, 4903947; 445335, 4904333; 446532, 4904291; 446526, 4903913; 447327, 4903903; 447301, 4902682; 446905, 4902695; 446898, 4902294; 447685, 4902265; 447682, 4901857; 448090, 4901827; 448090, 4902234; 449354, 4902148; 449336, 4903775; 448539, 4903820; 448547, 4904226; 449353, 4904170; 449371, 4904566; 451011, 4904481; 451033, 4905291; 450622, 4905311; 450632, 4905603; 452668, 4905588; 452682, 4907206; 452277, 4907209; 452278, 4908020; 457580, 4908043; 457585, 4908852; 459196, 4908844; 459193, 4908441; 460790, 4908442; 460793, 4908843; 461587, 4908844; 461593, 4909246; 461988, 4909247; 461997, 4910050; 462796, 4910051; 462794, 4909246; 463193, 4909244; 463192, 4908842; 462381, 4908845; 462371, 4907233; 463976, 4907224; 463938, 4901566; 463146, 4901576; 463143, 4900767; 463934, 4900758; 463948, 4899146; 462335, 4899164; 462336, 4898759; 461955, 4898754; 461952, 4898351; 462336, 4898354; 462336, 4897544; 461567, 4897527; 457515, 4897553; 457523, 4899209; 455865, 4899195; 455857, 4897562; 454155, 4897570; and excluding land bound by 457344, 4904542; 457348, 4905619; 456924, 4905616; 456910, 4905008; 456478, 4905020; 456461, 4904545; 457344, 4904542; 457346, 4904088; 455211, 4904086; 455243, 4903701; 454856, 4903723; 454794, 4904091; 454232, 4904096; 454230, 4903421; 453400, 4903387; 453401, 4902984; 452654, 4902977; 452662, 4903596; 451012, 4903673; 450996, 4902031; 452644, 4901944; 452651, 4902598; 453402, 4902582; 453402, 4902984; 454230, 4902998; 454234, 4903420; 454924, 4903351; 454989, 4902961; 455310, 4902913; 455278, 4903315; 455633, 4903280; 455628, 4902452; 457378, 4902441; 457362, 4904074; 457777, 4904088; 457778, 4904534; 457344, 4904542; and excluding land bound by 460746, 4904075; 462328, 4904087; 462336, 4905622; 461538, 4905624; 461569, 4906432; 460776, 4906435; 460746, 4904075; 459906, 4904073; 459912, 4904924; 459492, 4904930; 459499, 4905323; 460333, 4905313; 460334, 4905631; 459088, 4905626; 459066, 4903597; 459168, 4902423; 460780, 4902410; 460746, 4904075; and excluding land bound by 446089, 4892603; 446087, 4891048; 447682, 4891011; 447633, 4892557; 446089, 4892603.

(N) Land bounded by the following UTM Zone 10, NAD83 coordinates (E, N): 447547, 4917002; 447544, 4916602; 447945, 4916597; 447942, 4916196; 447541, 4916202; 447535, 4915397; 446273, 4915421; 446243, 4914180; 445426, 4914188; 445415, 4913783; 444596, 4913789; 444646, 4915435; 445510, 4915428; 445519, 4915826; 445926, 4915825; 445953, 4917013; 447547, 4917002.

(O) Land bounded by the following UTM Zone 10, NAD83 coordinates (E, N): 444304, 4917033; 444300, 4916631; 444712, 4916628; 444707, 4916227; 444296, 4916229; 444288, 4915433; 443016, 4915428; 443008, 4915031; 442676, 4915030; 442676, 4917047; 443490, 4917040; 443490, 4917444; 443897, 4917441; 443897, 4917037; 444304, 4917033.

(P) Land bounded by the following UTM Zone 10, NAD83 coordinates (E, N): 423814, 4917513; 423809, 4917108; 423396, 4917130; 423415, 4916284; 423014, 4916284; 423044, 4915456; 423821, 4915460; 423816, 4916284; 424622, 4916286; 424632, 4917121; 424923, 4917119; 424991, 4916542; 425119, 4916283; 425408, 4916146; 425799, 4916178; 425794, 4915844; 426182, 4915831; 426190, 4915021; 426606, 4915013; 426618, 4915420; 426559, 4915422; 426590, 4916868; 427387, 4917008; 427392, 4917410; 427797, 4917406; 427729, 4915387; 429317, 4915366; 429322, 4915787; 429719, 4915785; 429725, 4916202; 430123, 4916195; 430129, 4916609; 429731, 4916619; 429739, 4917323; 430563, 4916562; 430771, 4916442; 430913, 4916438; 430915, 4916172; 432103, 4916143; 432109, 4916525; 432769, 4916226; 433041, 4916239; 433300, 4916356; 433297, 4915885; 432637, 4915996; 432534, 4915937; 432497, 4915825; 432515, 4915592; 432664, 4915318; 432845, 4915222; 433049, 4915224; 433036, 4914432; 432645, 4914451; 432634, 4913658; 432017, 4913677; 432006, 4913178; 431904, 4913181; 431902, 4913082; 432208, 4913070; 432213, 4913271; 432315, 4913267; 432318, 4913367; 432556, 4913359; 432358, 4913291; 432254, 4913006; 431933, 4912662; 431478, 4912402; 430281, 4912089; 429979, 4911770; 429334, 4911756; 429074, 4911622; 428962, 4911632; 428899, 4911746; 428993, 4912060; 428980, 4912286; 428645, 4913018; 428065, 4913543; 427412, 4913973; 426568, 4914083; 426237, 4913786; 426561, 4913623; 426478, 4913495; 426124, 4913460; 425577, 4913549; 425223, 4913530; 424374, 4913309; 423429, 4912962; 423660, 4912857; 424123, 4912374; 424200, 4912118; 424104, 4911993; 424124, 4911814; 424290, 4911339; 424059, 4910736; 423826, 4909686; 423521, 4909476; 423219, 4909362; 422689, 4909420; 421877, 4909856; 421910, 4911488; 421844, 4912321; 421896, 4913592; 421814, 4913706; 421894, 4913730; 421889, 4914170; 421722, 4914248; 421861, 4914313; 421845, 4915454; 419525, 4915482; 419397, 4917099; 420590, 4917079; 420578, 4917891; 420966, 4917901; 420981, 4917491; 421378, 4917498; 421389, 4917084; 422205, 4917112; 422160, 4917931; 422958, 4917929; 422969, 4917541; 423814, 4917513; and excluding land bound by 429454, 4914557; 429429, 4913740; 430243, 4913713; 430260, 4914512; 429454, 4914557; and excluding land bound by 426134, 4914216; 425959, 4914217; 425953, 4914017; 426054, 4914017; 426047, 4913818; 426148, 4913819; 426134, 4914216.

(Q) Land bounded by the following UTM Zone 10, NAD83 coordinates (E, N): 449168, 4918599; 449159, 4917390; 449564, 4917389; 449568, 4917793; 450380, 4917793; 450369, 4916980; 450773, 4916977; 450760, 4916163; 450356, 4916167; 450350, 4915761; 449946, 4915767; 449941, 4915362; 449484, 4915369; 449483, 4914951; 448682, 4914961; 448678, 4914557; 447882, 4914571; 447883, 4915390; 449138, 4915372; 449156, 4916988; 447547, 4917002; 447543, 4918607; 449168, 4918599.

(R) Land bounded by the following UTM Zone 10, NAD83 coordinates (E, N): 456857, 4919711; 456854, 4919310; 456450, 4919326; 456447, 4918925; 456043, 4918941; 456052, 4920147; 456860, 4920112; 456857, 4919711.

(S) Land bounded by the following UTM Zone 10, NAD83 coordinates (E, N): 455666, 4921753; 455648, 4920165; 454043, 4920172; 454052, 4921756; 455666, 4921753.

(T) Land bounded by the following UTM Zone 10, NAD83 coordinates (E, N): 457285, 4923276; 457277, 4921687; 455666, 4921753; 455679, 4923346; 457285, 4923276.

(U) Land bounded by the following UTM Zone 10, NAD83 coordinates (E, N): 447562, 4923487; 447535, 4921894; 445936, 4921918; 445942, 4920306; 446764, 4920189; 447537, 4920205; 447543, 4918607; 445925, 4918615; 445953, 4917013; 444304, 4917033; 444300, 4918649; 443491, 4918656; 443490, 4917848; 442681, 4917855; 442676, 4917047; 442251, 4917043; 442276, 4918664; 442686, 4918663; 442696, 4920280; 444291, 4920293; 444333, 4921923; 445535, 4921919; 445549, 4922732; 445949, 4922722; 445984, 4923522; 446808, 4923492; 446788, 4923099; 447171, 4923094; 447185, 4923489; 447562, 4923487.

(V) Land bounded by the following UTM Zone 10, NAD83 coordinates (E, N): 449158, 4923464; 447562, 4923487; 447579, 4924293; 447784, 4925098; 448570, 4925099; 448464, 4924279; 448812, 4924273; 448885, 4924667; 449255, 4924664; 449161, 4924268; 449158, 4923464.

(W) Land bounded by the following UTM Zone 10, NAD83 coordinates (E, N): 434671, 4925185; 434673, 4924367; 435477, 4924378; 435477, 4921971; 434642, 4921950; 434628, 4919560; 436035, 4919510; 436095, 4919271; 436193, 4919232; 436171, 4917463; 435656, 4917422; 435473, 4917570; 434994, 4917540; 435000, 4917948; 434597, 4917959; 434591, 4917455; 434288, 4917458; 434286, 4917257; 434386, 4917256; 434385, 4917163; 434212, 4917165; 434082, 4917054; 433981, 4917059; 433970, 4916958; 433779, 4916961; 433777, 4916759; 433658, 4916761; 433657, 4916609; 433518, 4916595; 433313, 4916441; 433301, 4916951; 432171, 4916966; 432173, 4917178; 431748, 4917182; 431749, 4917364; 431349, 4917369; 431342, 4916983; 431186, 4916987; 431185, 4916823; 431728, 4916817; 431735, 4916655; 430961, 4916483; 430931, 4916991; 430536, 4916998; 430508, 4917401; 430111, 4917407; 430081, 4917808; 429664, 4917835; 429641, 4918262; 429232, 4918312; 429216, 4918759; 428413, 4918906; 427647, 4918907; 427644, 4918113; 426876, 4918102; 426860, 4917335; 426461, 4917340; 426461, 4916878; 426064, 4916851; 426064, 4916752; 425870, 4916754; 425871, 4916556; 425677, 4916559; 425676, 4916458; 425288, 4916464; 425284, 4917740; 424109, 4917703; 424107, 4918105; 423722, 4918099; 423716, 4918293; 423306, 4918280; 423303, 4918476; 422094, 4918421; 422076, 4919621; 422892, 4919647; 422888, 4920047; 423732, 4920077; 423759, 4920841; 422912, 4920826; 422887, 4920442; 422453, 4920437; 422573, 4921595; 422975, 4921598; 423011, 4921993; 423407, 4921987; 423285, 4922583; 423628, 4922616; 423785, 4922042; 424911, 4922073; 424884, 4921585; 424947, 4921343; 424838, 4921101; 424945, 4920630; 425124, 4920572; 425196, 4920480; 425956, 4921298; 426256, 4921303; 426410, 4921159; 426705, 4921261; 427227, 4921108; 427785, 4921346; 428053, 4921671; 428384, 4922524; 428466, 4922432; 428671, 4922542; 429153, 4923086; 428778, 4923157; 428606, 4923273; 428664, 4923325; 429025, 4923204; 429262, 4923392; 429508, 4923381; 429552, 4923471; 429435, 4923542; 429487, 4923698; 429748, 4923927; 429627, 4923970; 429704, 4924275; 429697, 4924547; 429480, 4924623; 429369, 4924892; 433145, 4924840; 433184, 4925115; 433846, 4925187; 434671, 4925185; and excluding land bound by 427262, 4918548; 427261, 4918404; 427550, 4918404; 427552, 4918908; 427264, 4918910; 427262, 4918548.

(X) Land bounded by the following UTM Zone 10, NAD83 coordinates (E, N): 431625, 4926509; 431602, 4924870; 430809, 4924880; 430811, 4926486; 431625, 4926509.

(Y) Land bounded by the following UTM Zone 10, NAD83 coordinates (E, N): 447868, 4926696; 447870, 4925898; 447468, 4925902; 447451, 4926701; 447868, 4926696.

(Z) Land bounded by the following UTM Zone 10, NAD83 coordinates (E, N): 446202, 4926714; 447035, 4926705; 447099, 4925087; 446185, 4925111; 446202, 4926714.

(AA) Land bounded by the following UTM Zone 10, NAD83 coordinates (E, N): 423233, 4926280; 423548, 4926839; 423824, 4926841; 423613, 4926530; 423336, 4926419; 423233, 4926280.

(BB) Land bounded by the following UTM Zone 10, NAD83 coordinates (E, N): 444471, 4926787; 444473, 4925982; 444609, 4925133; 446085, 4925112; 445989, 4924323; 445984, 4923522; 444383, 4923528; 444333, 4921923; 442730, 4921890; 442781, 4924306; 444445, 4924309; 444509, 4925134; 442895, 4925150; 442831, 4927619; 443233, 4927621; 443243, 4926790; 444471, 4926787.

(CC) Land bounded by the following UTM Zone 10, NAD83 coordinates (E, N): 431625, 4926509; 431637, 4927294; 432418, 4927307; 432421, 4928100; 433225, 4928095; 433197, 4926443; 431625, 4926509.

(DD) Land bounded by the following UTM Zone 10, NAD83 coordinates (E, N): 446202, 4926714; 444471, 4926787; 444494, 4927207; 444071, 4927205; 444080, 4927624; 444518, 4927626; 444445, 4928445; 445254, 4928433; 445356, 4927588; 446188, 4927551; 446202, 4926714.

(EE) Land bounded by the following UTM Zone 10, NAD83 coordinates (E, N): 444081, 4930472; 444081, 4930067; 442846, 4930073; 443668, 4930064; 443642, 4928856; 444050, 4928851; 444059, 4928038; 442834, 4928036; 442829, 4928459; 442404, 4928474; 442502, 4929548; 442394, 4929857; 442469, 4930089; 442838, 4930633; 442844, 4931278; 443253, 4931274; 443251, 4930876; 444081, 4930876; 444081, 4930472.

(FF) Land bounded by the following UTM Zone 10, NAD83 coordinates (E, N): 446155, 4930036; 444730, 4930057; 444710, 4930201; 444650, 4930058; 444492, 4930061; 444497, 4930870; 445325, 4930858; 445326, 4931261; 445734, 4931255; 445733, 4931659; 446138, 4931653; 446155, 4930036.

(GG) Land bounded by the following UTM Zone 10, NAD83 coordinates (E, N): 446134, 4932414; 446136, 4932033; 445323, 4932059; 445320, 4932454; 446134, 4932414.

(HH) Land bounded by the following UTM Zone 10, NAD83 coordinates (E, N): 457285, 4923276; 457329, 4925023; 455719, 4925037; 455679, 4923346; 454060, 4923353; 454109, 4925052; 453330, 4925060; 453259, 4923351; 454060, 4923353; 454052, 4921756; 452446, 4921741; 452437, 4920553; 452847, 4920557; 452844, 4920160; 454043, 4920172; 454021, 4919374; 453624, 4919374; 453619, 4918969; 454017, 4918968; 454012, 4918562; 452412, 4918572; 452427, 4919375; 452010, 4919390; 452017, 4919788; 452431, 4919764; 452434, 4920157; 451195, 4920227; 451196, 4919815; 451603, 4919810; 451602, 4919396; 451198, 4919405; 451201, 4918596; 452412, 4918572; 452387, 4916946; 450773, 4916977; 450800, 4918609; 449168, 4918599; 449166, 4920203; 449966, 4920205; 449973, 4920626; 449572, 4920629; 449577, 4921054; 449979, 4921046; 449990, 4921845; 449185, 4921853; 449158, 4923464; 450793, 4923448; 450898, 4924232; 450044, 4924250; 450112, 4925119; 449464, 4925098; 449464, 4925493; 449821, 4925500; 449829, 4926291; 449464, 4926287; 449463, 4926686; 450943, 4926708; 450957, 4925090; 452590, 4925078; 452621, 4926682; 450943, 4926708; 450947, 4927511; 449461, 4927489; 449463, 4926686; 447868, 4926696; 447868, 4928300; 446126, 4928387; 446060, 4929228; 445289, 4929240; 445307, 4929644; 446107, 4929632; 446155, 4930036; 447719, 4929930; 447728, 4929524; 448246, 4929507; 448230, 4930317; 448646, 4930308; 448658, 4929898; 449196, 4929886; 449448, 4929574; 449451, 4928687; 450214, 4928700; 450224, 4929095; 450996, 4929109; 451042, 4929901; 451435, 4929892; 451371, 4928308; 452633, 4928276; 452619, 4929467; 454211, 4929437; 454213, 4929881; 455801, 4929860; 455809, 4930993; 456206, 4930988; 456209, 4931385; 457401, 4931373; 457399, 4931773; 458189, 4931753; 458191, 4932560; 460577, 4932563; 460557, 4930746; 460409, 4930804; 460378, 4930759; 460555, 4930657; 460554, 4929983; 460468, 4929853; 460554, 4929933; 460555, 4929702; 461362, 4929732; 461347, 4928535; 462154, 4928563; 462133, 4926593; 461336, 4926569; 461330, 4926273; 460933, 4926264; 460908, 4924990; 459324, 4925032; 459313, 4924470; 460108, 4924449; 460102, 4923661; 460501, 4923653; 460502, 4923259; 457285, 4923276; and excluding land bound by 454940, 4925851; 454953, 4926255; 455350, 4926250; 455361, 4926653; 454176, 4926669; 454143, 4925860; 454940, 4925851; and excluding land bound by 458891, 4926603; 459715, 4926573; 459730, 4927340; 458924, 4927360; 458891, 4926603; and excluding land bound by 454788, 4928237; 454794, 4928634; 454991, 4928665; 454206, 4928675; 454204, 4928245; 454788, 4928237; and excluding land bound by 455003, 4929424; 455792, 4929411; 455793, 4929459; 454998, 4929468; 455003, 4929424; and excluding land bound by 451630, 4922997; 451642, 4922595; 452040, 4922570; 452035, 4922972; 452440, 4922948; 452444, 4923349; 451206, 4923423; 451216, 4923022; 451630, 4922997; and excluding land bound by 451227, 4922620; 450812, 4922646; 450804, 4921837; 452055, 4921784; 452047, 4922177; 451231, 4922226; 451227, 4922620.

(II) Land bounded by the following UTM Zone 10, NAD83 coordinates (E, N): 443670, 4932489; 443267, 4932486; 443273, 4933294; 444501, 4933288; 444512, 4932495; 443670, 4932489.

(JJ) Land bounded by the following UTM Zone 10, NAD83 coordinates (E, N): 446129, 4933175; 445314, 4933232; 445326, 4933436; 445478, 4933426; 445490, 4933631; 446148, 4933596; 446129, 4933175.

(KK) Land bounded by the following UTM Zone 10, NAD83 coordinates (E, N): 451435, 4929892; 451441, 4930684; 451836, 4930673; 451845, 4931470; 451051, 4931481; 451044, 4931990; 450639, 4931999; 450650, 4931485; 449430, 4931525; 449438, 4930781; 449332, 4930705; 449017, 4930711; 448936, 4930869; 448813, 4930802; 448631, 4930816; 448622, 4931130; 446970, 4931198; 446964, 4931605; 447377, 4931581; 447366, 4932386; 446958, 4932395; 446961, 4932000; 446549, 4932017; 446546, 4932405; 446134, 4932414; 446129, 4933175; 447357, 4933180; 447361, 4932783; 447768, 4932786; 447789, 4931558; 448610, 4931541; 448595, 4932361; 449416, 4932346; 449407, 4932757; 448998, 4932765; 448990, 4933176; 447761, 4933196; 447773, 4934016; 448580, 4934004; 448580, 4933594; 449393, 4933581; 449399, 4933169; 450207, 4933140; 450217, 4932731; 451033, 4932703; 451040, 4932296; 452600, 4932226; 452614, 4929864; 451435, 4929892.

(LL) Land bounded by the following UTM Zone 10, NAD83 coordinates (E, N): 445364, 4934048; 445339, 4933639; 444522, 4933684; 444546, 4934081; 445364, 4934048.

(MM) Land bounded by the following UTM Zone 10, NAD83 coordinates (E, N): 445364, 4934048; 445416, 4934888; 446206, 4934875; 446167, 4934016; 445364, 4934048.

(NN) Land bounded by the following UTM Zone 10, NAD83 coordinates (E, N): 428512, 4935100; 428907, 4935094; 428894, 4934191; 430079, 4934167; 430084, 4934574; 429296, 4934590; 429301, 4935089; 433316, 4935021; 433259, 4930896; 432853, 4930898; 432846, 4930493; 432042, 4930499; 432052, 4931300; 430445, 4931330; 430452, 4931738; 430056, 4931753; 430065, 4932160; 428471, 4932205; 428474, 4931799; 427689, 4931813; 427688, 4932219; 426896, 4932232; 426888, 4931417; 428476, 4931392; 428351, 4925084; 428036, 4925242; 427718, 4925278; 427503, 4925478; 427138, 4924967; 426995, 4924881; 426789, 4924876; 426743, 4925005; 426422, 4925192; 425907, 4925122; 425715, 4925407; 425273, 4925300; 425089, 4925121; 424941, 4925196; 424948, 4925560; 425240, 4925657; 425495, 4925642; 425895, 4926079; 425698, 4926496; 425909, 4926454; 426280, 4926671; 426443, 4927139; 426401, 4927272; 426443, 4927409; 426164, 4927727; 425955, 4927757; 425723, 4927473; 425510, 4927495; 425149, 4927287; 424887, 4927262; 424668, 4927338; 424604, 4927213; 424316, 4927180; 423890, 4926879; 423910, 4929693; 425166, 4929741; 425176, 4929996; 425309, 4929994; 425305, 4930485; 424533, 4930444; 424502, 4930872; 424525, 4931434; 424884, 4932490; 424896, 4933553; 425291, 4933552; 425307, 4934766; 425710, 4934741; 425707, 4934345; 426516, 4934299; 426521, 4935156; 428512, 4935100.

(OO) Land bounded by the following UTM Zone 10, NAD83 coordinates (E, N): 455521, 4954090; 455535, 4953605; 453938, 4953579; 453911, 4954093; 455521, 4954090.

(PP) Land bounded by the following UTM Zone 10, NAD83 coordinates (E, N): 455521, 4954090; 455536, 4954896; 455936, 4954892; 455939, 4955287; 456338, 4955284; 456336, 4954888; 457140, 4954879; 457141, 4954079; 455521, 4954090.

(QQ) Land bounded by the following UTM Zone 10, NAD83 coordinates (E, N): 449136, 4955724; 450715, 4955701; 450701, 4954129; 449119, 4954147; 449136, 4955724.

(RR) Land bounded by the following UTM Zone 10, NAD83 coordinates (E, N): 453958, 4955683; 453911, 4954093; 452287, 4954113; 452299, 4955690; 452757, 4955690; 452761, 4956087; 453158, 4956085; 453156, 4955691; 453958, 4955683.

(SS) Land bounded by the following UTM Zone 10, NAD83 coordinates (E, N): 453958, 4955683; 453980, 4957279; 455561, 4957297; 455542, 4956488; 454766, 4956479; 454760, 4955699; 453958, 4955683.

(TT) Land bounded by the following UTM Zone 10, NAD83 coordinates (E, N): 449136, 4955724; 447559, 4955748; 447579, 4957369; 448351, 4957353; 448350, 4956944; 449135, 4956933; 449136, 4955724.

(UU) Land bounded by the following UTM Zone 10, NAD83 coordinates (E, N): 460377, 4958873; 460370, 4957670; 459964, 4957667; 459975, 4958876; 460377, 4958873.

(VV) Land bounded by the following UTM Zone 10, NAD83 coordinates (E, N): 455577, 4958883; 456393, 4958878; 456377, 4958080; 455972, 4958074; 455966, 4957683; 455564, 4957682; 455577, 4958883.

(WW) Land bounded by the following UTM Zone 10, NAD83 coordinates (E, N): 455577, 4958883; 454383, 4958871; 454385, 4959683; 455530, 4959717; 455577, 4958883.

(XX) Land bounded by the following UTM Zone 10, NAD83 coordinates (E, N): 460377, 4958873; 460374, 4960484; 462031, 4960489; 462015, 4958885; 460377, 4958873.

(YY) Land bounded by the following UTM Zone 10, NAD83 coordinates (E, N): 458372, 4959689; 458367, 4959289; 457963, 4959292; 457959, 4958894; 457151, 4958905; 457164, 4960511; 458382, 4960498; 458372, 4959689.

(ZZ) Land bounded by the following UTM Zone 10, NAD83 coordinates (E, N): 462051, 4962097; 463707, 4962066; 463697, 4960855; 462889, 4960872; 462891, 4961274; 462047, 4961291; 462051, 4962097.

(AAA) Land bounded by the following UTM Zone 10, NAD83 coordinates (E, N): 460445, 4962111; 460374, 4960484; 458787, 4960493; 458806, 4962114; 460445, 4962111.

(BBB) Land bounded by the following UTM Zone 10, NAD83 coordinates (E, N): 457186, 4962136; 457171, 4960919; 456761, 4960925; 456756, 4960518; 455531, 4960526; 455541, 4962160; 457186, 4962136.

(CCC) Land bounded by the following UTM Zone 10, NAD83 coordinates (E, N): 463676, 4963702; 465291, 4963684; 465298, 4963260; 464492, 4963269; 464499, 4962862; 463695, 4962868; 463676, 4963702.

(DDD) Land bounded by the following UTM Zone 10, NAD83 coordinates (E, N): 458806, 4962114; 457186, 4962136; 457249, 4963716; 458057, 4963708; 458029, 4962903; 458852, 4962906; 458806, 4962114.

(EEE) Land bounded by the following UTM Zone 10, NAD83 coordinates (E, N): 462051, 4962097; 460445, 4962111; 460443, 4962901; 460845, 4962902; 460835, 4963697; 462063, 4963720; 462051, 4962097.

(FFF) Land bounded by the following UTM Zone 10, NAD83 coordinates (E, N): 463275, 4964922; 463278, 4965324; 463681, 4965314; 463677, 4964915; 463275, 4964922.

(GGG) Land bounded by the following UTM Zone 10, NAD83 coordinates (E, N): 463275, 4964922; 463272, 4964519; 462870, 4964523; 462868, 4964117; 463675, 4964109; 463676, 4963702; 462063, 4963720; 462077, 4965341; 462479, 4965338; 462474, 4964932; 463275, 4964922.

(HHH) Land bounded by the following UTM Zone 10, NAD83 coordinates (E, N): 433564, 4970868; 433556, 4970455; 433154, 4970476; 433158, 4970890; 433564, 4970868.

(III) Land bounded by the following UTM Zone 10, NAD83 coordinates (E, N): 433362, 4971701; 433167, 4971685; 433172, 4972091; 433581, 4972064; 433575, 4971708; 433362, 4971701.

(JJJ) Land bounded by the following UTM Zone 10, NAD83 coordinates (E, N): 458622, 4972525; 458212, 4972517; 458234, 4973307; 459056, 4973318; 459031, 4972533; 458622, 4972525.

(KKK) Land bounded by the following UTM Zone 10, NAD83 coordinates (E, N): 454273, 4973324; 455842, 4973327; 455838, 4972524; 456632, 4972512; 456631, 4972125; 457029, 4972125; 457028, 4971743; 456232, 4971731; 456234, 4972124; 455836, 4972124; 455834, 4971725; 454248, 4971719; 454273, 4973324.

(LLL) Land bounded by the following UTM Zone 10, NAD83 coordinates (E, N): 449378, 4972214; 449374, 4971817; 448166, 4971827; 448174, 4973332; 449387, 4973337; 449378, 4972214.

(MMM) Land bounded by the following UTM Zone 10, NAD83 coordinates (E, N): 452624, 4973397; 452608, 4972594; 451800, 4972595; 451787, 4971796; 450982, 4971801; 450999, 4973360; 449517, 4973338; 449504, 4974952; 451070, 4974955; 451082, 4973361; 452624, 4973397.

(NNN) Land bounded by the following UTM Zone 10, NAD83 coordinates (E, N): 454273, 4973324; 452624, 4973397; 452628, 4974966; 454203, 4974746; 454273, 4973324.

(OOO) Land bounded by the following UTM Zone 10, NAD83 coordinates (E, N): 460650, 4977993; 460668, 4976490; 462154, 4976510; 462148, 4975707; 458977, 4975687; 458989, 4974910; 458150, 4974864; 458190, 4974123; 457428, 4974132; 457425, 4973291; 455842, 4973327; 455780, 4974028; 455817, 4974739; 457311, 4974818; 457440, 4976449; 459051, 4976477; 459051, 4978059; 460650, 4977993.

(PPP) Land bounded by the following UTM Zone 10, NAD83 coordinates (E, N): 460650, 4977993; 460622, 4979621; 462181, 4979648; 462174, 4978864; 461790, 4978850; 461789, 4978454; 462171, 4978471; 462167, 4978079; 460650, 4977993.

(QQQ) Land bounded by the following UTM Zone 10, NAD83 coordinates (E, N): 465411, 4979790; 465366, 4978148; 463755, 4978277; 463767, 4978670; 464170, 4978644; 464182, 4979043; 464998, 4979000; 465009, 4979805; 465411, 4979790.

(RRR) Land bounded by the following UTM Zone 10, NAD83 coordinates (E, N): 449487, 4976558; 449504, 4974952; 447949, 4974950; 447944, 4974158; 447539, 4974166; 447537, 4973768; 446337, 4973790; 446334, 4973351; 444713, 4973364; 444724, 4974218; 443911, 4974229; 443903, 4973376; 443097, 4973388; 443150, 4979853; 446374, 4979813; 446363, 4978202; 445559, 4978216; 445547, 4976608; 449487, 4976558; and excluding land bound by 446347, 4975789; 445543, 4975806; 445531, 4974203; 446340, 4974189; 446347, 4975789; 446747, 4975780; 446743, 4974979; 447140, 4974971; 447150, 4976177; 446348, 4976190; 446347, 4975789.

(SSS) Land bounded by the following UTM Zone 10, NAD83 coordinates (E, N): 437530, 4979925; 437544, 4980332; 436752, 4980343; 436737, 4979538; 437126, 4979527; 437120, 4979929; 437530, 4979925; 437547, 4978281; 437144, 4978291; 437138, 4977880; 436732, 4977889; 436727, 4977479; 435906, 4977491; 435902, 4977079; 435490, 4977081; 435488, 4978311; 434689, 4978322; 434686, 4977909; 434282, 4977912; 434287, 4978330; 433503, 4978346; 433521, 4980001; 433883, 4979992; 433883, 4979888; 434289, 4979879; 434289, 4979566; 434577, 4979559; 434337, 4979153; 435925, 4979150; 435952, 4980358; 434717, 4980382; 434782, 4981583; 436802, 4981547; 436784, 4981147; 437581, 4981138; 437558, 4980740; 437955, 4980737; 437940, 4979920; 437530, 4979925.

(TTT) Land bounded by the following UTM Zone 10, NAD83 coordinates (E, N): 465411, 4979790; 465409, 4980194; 465809, 4980197; 465808, 4980357; 465729, 4980277; 465622, 4980769; 466014, 4981159; 465918, 4981602; 466286, 4981969; 466580, 4981942; 466426, 4981672; 466260, 4981522; 466440, 4980984; 466207, 4980753; 466207, 4980600; 466606, 4980601; 466606, 4980998; 467006, 4980997; 467005, 4979810; 465411, 4979790.

(UUU) Land bounded by the following UTM Zone 10, NAD83 coordinates (E, N): 460622, 4979621; 460222, 4979626; 460221, 4980022; 459420, 4980032; 459423, 4979637; 459024, 4979642; 459009, 4981219; 457401, 4981225; 457405, 4979629; 455839, 4979590; 455834, 4980405; 454274, 4980410; 454273, 4979616; 455839, 4979590; 455872, 4978042; 454267, 4978028; 454270, 4978822; 452638, 4978888; 452636, 4978103; 451052, 4978133; 451061, 4976544; 449487, 4976558; 449470, 4978159; 448287, 4978174; 448260, 4979790; 449452, 4979761; 449457, 4979360; 451046, 4979325; 451044, 4979722; 451842, 4979697; 451839, 4980490; 452642, 4980457; 452644, 4981241; 454250, 4981207; 454171, 4983002; 452630, 4983018; 452644, 4981241; 451028, 4981324; 451013, 4983186; 455692, 4983088; 455782, 4982435; 456563, 4982426; 456967, 4982425; 456946, 4983082; 460642, 4983031; 461420, 4983074; 461414, 4982407; 462210, 4982402; 462214, 4982660; 463049, 4982643; 463027, 4981839; 463422, 4981823; 463434, 4982229; 463830, 4982217; 463844, 4982627; 464242, 4982625; 464256, 4983039; 464654, 4983036; 464641, 4982622; 465040, 4982620; 465051, 4983030; 465094, 4983034; 465099, 4982646; 465439, 4982644; 465427, 4982213; 465828, 4982210; 465808, 4981491; 465720, 4981403; 463803, 4981396; 463805, 4979850; 462182, 4979909; 462188, 4981200; 460618, 4981206; 460622, 4979621.

(VVV) Land bounded by the following UTM Zone 10, NAD83 coordinates (E, N): 431775, 4981512; 431768, 4980724; 431167, 4980728; 431165, 4980326; 431365, 4980325; 431362, 4979723; 431763, 4979722; 431764, 4979922; 431964, 4979919; 431969, 4980721; 432571, 4980709; 432578, 4981501; 431775, 4981512; 431780, 4981898; 432979, 4981895; 432974, 4981099; 433373, 4981090; 433335, 4977697; 433135, 4977699; 433137, 4977899; 432937, 4977901; 432942, 4978303; 432544, 4978308; 432541, 4978106; 432341, 4978108; 432338, 4977907; 432139, 4977909; 432131, 4977508; 433332, 4977497; 433327, 4977098; 433484, 4977094; 433496, 4977927; 433879, 4977921; 433863, 4976259; 433324, 4976268; 433293, 4974655; 433875, 4974632; 433871, 4975443; 434282, 4975439; 434279, 4975029; 434682, 4975027; 434694, 4974605; 434284, 4974619; 434289, 4974208; 433873, 4974233; 433871, 4973848; 434287, 4973828; 434285, 4973504; 433173, 4973531; 433151, 4969278; 433930, 4969249; 433967, 4968036; 433582, 4968032; 433594, 4967673; 432721, 4967666; 432718, 4966867; 431897, 4966872; 431897, 4967271; 431117, 4967285; 431109, 4966481; 430729, 4966489; 430728, 4965695; 429519, 4965716; 429532, 4966495; 429152, 4966511; 429181, 4967700; 429574, 4967699; 429567, 4967298; 429960, 4967302; 429967, 4967698; 430355, 4967692; 430376, 4968485; 429983, 4968489; 429992, 4969278; 429597, 4969290; 429596, 4968897; 427480, 4968945; 427529, 4969336; 427890, 4969334; 427906, 4970114; 427511, 4970118; 427522, 4970509; 426823, 4970533; 426832, 4970919; 424015, 4970952; 424026, 4971349; 423463, 4971361; 423471, 4972541; 424045, 4972523; 424044, 4973310; 423489, 4973320; 423567, 4975240; 424967, 4975220; 424977, 4975600; 424902, 4975602; 424899, 4976387; 424531, 4976380; 424526, 4977182; 424922, 4977178; 424919, 4976781; 425323, 4976779; 425306, 4975615; 425379, 4975613; 425382, 4977605; 426951, 4977549; 426961, 4977946; 427747, 4977935; 427765, 4977124; 428583, 4977124; 428585, 4977922; 427747, 4977935; 427728, 4978740; 426957, 4978743; 426945, 4977960; 426141, 4977988; 426149, 4978783; 425388, 4978793; 425398, 4979583; 423696, 4979616; 423790, 4982011; 425373, 4981965; 425384, 4983586; 426178, 4983573; 426188, 4984374; 426982, 4984367; 426973, 4983565; 428169, 4983551; 428154, 4982737; 429780, 4982736; 429774, 4982331; 429369, 4982322; 429365, 4981908; 428963, 4981921; 428961, 4981144; 430970, 4981132; 430976, 4981921; 431378, 4981910; 431374, 4981519; 431775, 4981512; and excluding land bound by 430159, 4980739; 430160, 4980340; 430084, 4980341; 430089, 4979934; 430165, 4979932; 430163, 4979125; 428140, 4979155; 428131, 4978744; 430557, 4978720; 430564, 4979929; 430962, 4979926; 430967, 4980730; 430159, 4980739; and excluding land bound by 430130, 4977126; 430119, 4976329; 430925, 4976320; 430928, 4977112; 430130, 4977126; and excluding land bound by 431721, 4977112; 431724, 4976312; 432524, 4976305; 432525, 4977101; 431721, 4977112; and excluding land bound by 432104, 4975514; 432103, 4973930; 433167, 4973916; 432880, 4973931; 432871, 4975510; 432104, 4975514; and excluding land bound by 433170, 4973773; 433172, 4973637; 433253, 4973684; 433170, 4973773; and excluding land bound by 424451, 4971341; 425256, 4971324; 425261, 4971712; 424469, 4971726; 424451, 4971341.

(WWW) Land bounded by the following UTM Zone 10, NAD83 coordinates (E, N): 424945, 4993129; 424947, 4992882; 424539, 4992895; 424539, 4993139; 424945, 4993129.

(XXX) Land bounded by the following UTM Zone 10, NAD83 coordinates (E, N): 423153, 4993160; 423433, 4993158; 423463, 4993100; 423472, 4993158; 423706, 4993156; 424435, 4992629; 424744, 4992609; 424743, 4992702; 424948, 4992699; 424950, 4992424; 425341, 4992425; 425335, 4991630; 426106, 4991626; 426101, 4991429; 426494, 4991432; 426489, 4991235; 427667, 4991235; 427692, 4992028; 426315, 4992029; 426321, 4992229; 426123, 4992228; 426128, 4992429; 425731, 4992427; 425758, 4993110; 429280, 4993047; 429265, 4991588; 429906, 4991568; 430024, 4991570; 430031, 4991973; 430398, 4991968; 430435, 4993039; 432046, 4993031; 431997, 4991550; 431178, 4991529; 431162, 4990757; 432765, 4990716; 432735, 4989947; 431934, 4989950; 431950, 4990349; 431552, 4990354; 431536, 4989556; 431143, 4989562; 431144, 4989962; 429577, 4990008; 429570, 4989192; 431925, 4989150; 431925, 4988365; 431483, 4988367; 431439, 4986736; 430227, 4986748; 430628, 4986721; 430624, 4986347; 431024, 4986343; 431012, 4985937; 429408, 4985962; 429419, 4986358; 429018, 4986364; 428984, 4985168; 428184, 4985172; 428207, 4985772; 427914, 4985772; 427895, 4985370; 427597, 4985371; 427587, 4985170; 426991, 4985173; 427030, 4985974; 427428, 4985974; 427448, 4986370; 427049, 4986375; 427113, 4988451; 426713, 4988448; 426642, 4987172; 425830, 4987205; 425912, 4988459; 424808, 4988473; 424841, 4988344; 425084, 4988061; 425035, 4987533; 424659, 4987546; 424661, 4987590; 423548, 4987594; 423552, 4987947; 423719, 4987886; 423772, 4988105; 423554, 4988131; 423557, 4988396; 422294, 4988406; 422290, 4988788; 421947, 4988793; 421955, 4989992; 420127, 4990001; 420067, 4990115; 420010, 4990101; 419975, 4990142; 420155, 4990257; 420147, 4990441; 420224, 4990555; 420139, 4990673; 420044, 4990644; 420062, 4990786; 420392, 4990912; 420654, 4991147; 420686, 4991321; 420561, 4991417; 420514, 4991551; 420455, 4991548; 420452, 4991652; 420604, 4991658; 420730, 4991813; 420532, 4991889; 420395, 4991850; 420340, 4991971; 420440, 4992133; 420568, 4992202; 420831, 4992812; 420926, 4992726; 420973, 4992756; 420991, 4992871; 421347, 4993213; 423153, 4993160; and excluding land bound by 427640, 4990421; 427625, 4990038; 428025, 4990033; 428014, 4989629; 428777, 4989602; 428798, 4990411; 427640, 4990421; and excluding land bound by 422679, 4989191; 423459, 4989184; 423464, 4989581; 422689, 4989588; 422679, 4989191; and excluding land bound by 424538, 4989263; 424548, 4989169; 424808, 4989007; 424990, 4989033; 425089, 4989144; 425080, 4989257; 424538, 4989263.

(YYY) Land bounded by the following UTM Zone 10, NAD83 coordinates (E, N): 446067, 5016711; 446099, 5016090; 445385, 5016086; 445409, 5017136; 445758, 5017122; 445728, 5016731; 446067, 5016711.

(ZZZ) Land bounded by the following UTM Zone 10, NAD83 coordinates (E, N): 446067, 5016711; 446150, 5017504; 446505, 5017498; 446456, 5016712; 446067, 5016711.

(AAAA) Land bounded by the following UTM Zone 10, NAD83 coordinates (E, N): 452427, 5019875; 450844, 5019812; 450888, 5020645; 451657, 5020658; 451639, 5020235; 452433, 5020273; 452427, 5019875.

(BBBB) Land bounded by the following UTM Zone 10, NAD83 coordinates (E, N): 447911, 5021537; 447165, 5021560; 447059, 5020621; 446689, 5020675; 446598, 5019869; 446970, 5019833; 447014, 5020227; 447747, 5020171; 447911, 5021537; 449404, 5021502; 449293, 5019825; 450068, 5019818; 450093, 5020234; 450480, 5020231; 450456, 5019815; 450844, 5019812; 450861, 5018252; 452429, 5018292; 452427, 5019875; 454035, 5019898; 454043, 5020690; 455634, 5020686; 455642, 5019878; 454436, 5019895; 454430, 5019098; 454831, 5019088; 454834, 5019489; 455638, 5019473; 455642, 5019878; 457248, 5019879; 457254, 5019484; 457657, 5019484; 457652, 5019881; 458052, 5019876; 458061, 5019485; 458878, 5019485; 458863, 5019890; 461694, 5019870; 461690, 5019466; 461290, 5019470; 461288, 5019067; 461687, 5019062; 461680, 5018258; 462077, 5018254; 462095, 5019866; 463763, 5019854; 463738, 5018249; 464541, 5018257; 464549, 5018661; 464946, 5018668; 464940, 5018262; 465340, 5018267; 465324, 5017081; 466118, 5017082; 466110, 5016683; 466506, 5016678; 466486, 5015057; 465287, 5015066; 465285, 5014669; 466486, 5014662; 466488, 5013871; 466087, 5013874; 466088, 5013478; 466890, 5013470; 466867, 5011893; 466066, 5011889; 466077, 5012682; 465270, 5012688; 465274, 5013477; 464475, 5013474; 464467, 5011875; 464866, 5011880; 464841, 5010673; 464437, 5010670; 464427, 5010267; 463629, 5010265; 463618, 5008692; 461963, 5008676; 461953, 5007474; 462800, 5007481; 462802, 5007881; 463205, 5007884; 463202, 5007083; 461951, 5007073; 460339, 5007094; 460354, 5008287; 459564, 5008292; 459570, 5008688; 458781, 5008691; 458776, 5009490; 457159, 5009532; 457159, 5008740; 458781, 5008691; 458773, 5008297; 459564, 5008292; 459557, 5007897; 459953, 5007893; 459941, 5007100; 457553, 5007131; 457555, 5007531; 457156, 5007537; 457155, 5007136; 456751, 5007136; 456759, 5008339; 456359, 5008338; 456362, 5008740; 455565, 5008740; 455569, 5009139; 455172, 5009143; 455175, 5009539; 455572, 5009538; 455578, 5010336; 455975, 5010333; 455978, 5010731; 456771, 5010724; 456782, 5011514; 455985, 5011527; 455985, 5012328; 455590, 5012333; 455577, 5012731; 455185, 5012732; 455187, 5012331; 454789, 5012329; 454784, 5011923; 455593, 5011935; 455578, 5010336; 455181, 5010333; 455185, 5011134; 454009, 5011136; 453992, 5011935; 453197, 5011943; 453190, 5010336; 453588, 5010330; 453601, 5011141; 454008, 5011136; 453984, 5009543; 454777, 5009540; 454772, 5008752; 455565, 5008740; 455560, 5007934; 453977, 5007967; 453976, 5007568; 455557, 5007539; 455554, 5007145; 453976, 5007170; 453929, 5006373; 452382, 5006394; 452372, 5003227; 450769, 5003256; 450761, 5002423; 442654, 5002491; 442639, 4999882; 440736, 4999882; 439283, 5001159; 439417, 5001503; 439337, 5001825; 440006, 5001845; 440000, 5002172; 439589, 5002166; 439574, 5002867; 441175, 5002849; 441181, 5003645; 440378, 5003656; 440376, 5003254; 439199, 5003271; 439154, 5004096; 439029, 5004314; 439071, 5004539; 438870, 5004986; 438966, 5005300; 439068, 5005333; 439371, 5005242; 439566, 5005259; 439665, 5005347; 439814, 5006048; 440236, 5006265; 440452, 5006725; 440825, 5007028; 440876, 5007437; 440783, 5007918; 440719, 5008067; 440363, 5008353; 440330, 5008759; 440417, 5009150; 440495, 5009286; 440747, 5009412; 441198, 5009469; 441614, 5009676; 442131, 5009783; 442594, 5010028; 442541, 5010520; 442589, 5010840; 442835, 5010838; 442834, 5011249; 443233, 5011246; 443244, 5011897; 443393, 5011899; 443407, 5012692; 444596, 5012714; 444587, 5011902; 446180, 5011913; 446172, 5013111; 444592, 5013101; 444590, 5013883; 446163, 5013896; 446166, 5013510; 447762, 5013532; 447704, 5015046; 446153, 5015054; 446110, 5015882; 446889, 5015876; 446867, 5016295; 447655, 5016283; 447639, 5016696; 448434, 5016662; 448435, 5017453; 447644, 5017479; 447653, 5018242; 446234, 5018297; 446232, 5018702; 445075, 5018703; 445065, 5017920; 444679, 5017926; 444640, 5017145; 443872, 5017060; 443856, 5016664; 443392, 5016611; 443333, 5017362; 442921, 5017412; 442921, 5017713; 442930, 5018208; 443368, 5018189; 443417, 5019724; 443611, 5019753; 443582, 5018987; 444299, 5019052; 444314, 5019437; 444687, 5019480; 444712, 5019870; 444330, 5019822; 444438, 5020688; 445944, 5020725; 445992, 5021134; 445616, 5021134; 445713, 5021913; 444954, 5021923; 444984, 5022227; 444604, 5022272; 444492, 5021122; 443579, 5021091; 443645, 5021648; 443324, 5021660; 443340, 5022422; 443839, 5022363; 443870, 5023084; 445050, 5022832; 445214, 5023134; 445903, 5023156; 445794, 5022536; 446181, 5022539; 446136, 5022224; 446518, 5022222; 446568, 5022542; 446957, 5022589; 447012, 5022928; 448192, 5023126; 448542, 5023115; 448349, 5021925; 447982, 5021934; 447911, 5021537; and excluding land bound by 448106, 5019426; 448884, 5019425; 448903, 5019822; 447737, 5019824; 447717, 5019428; 448106, 5019426; and excluding land bound by 455637, 5018114; 455629, 5017508; 457270, 5017502; 457270, 5018299; 455639, 5018309; 455637, 5018114; and excluding land bound by 454042, 5016722; 454022, 5015116; 454800, 5015115; 454808, 5015513; 454417, 5015515; 454436, 5016719; 454042, 5016722; 454029, 5017518; 453230, 5017510; 453231, 5016717; 454042, 5016722; and excluding land bound by 450868, 5017079; 450869, 5017472; 450019, 5017448; 450007, 5017809; 449220, 5017826; 449231, 5016621; 449637, 5016641; 449629, 5017039; 450033, 5017052; 450047, 5016656; 450867, 5016686; 450868, 5017079; and excluding land bound by 452028, 5016308; 452025, 5015914; 452415, 5015921; 452419, 5016711; 451642, 5016692; 451638, 5016299; 452028, 5016308; and excluding land bound by 448663, 5015851; 448647, 5016252; 448052, 5016271; 448068, 5015863; 448663, 5015851; and excluding land bound by 458888, 5015135; 458831, 5013513; 459627, 5013496; 459672, 5015109; 458888, 5015135; and excluding land bound by 462878, 5014660; 462876, 5014255; 463680, 5014262; 463687, 5015062; 462879, 5015065; 462878, 5014660; and excluding land bound by 455608, 5013526; 455585, 5013128; 455984, 5013124; 455987, 5013522; 455608, 5013526; and excluding land bound by 461215, 5013463; 461188, 5011060; 461985, 5011046; 462007, 5013446; 461215, 5013463; and excluding land bound by 459991, 5011478; 459592, 5011482; 459587, 5010279; 460380, 5010276; 460391, 5011474; 459991, 5011478; and excluding land bound by 457973, 5011102; 458013, 5012709; 458813, 5012706; 458822, 5013109; 457221, 5013112; 457175, 5011117; 457973, 5011102; and excluding land bound by 452403, 5013515; 453211, 5013528; 453233, 5015119; 452417, 5015118; 452403, 5013515; 452015, 5013529; 452011, 5012725; 451621, 5012715; 451626, 5013541; 450466, 5013562; 450460, 5013950; 450847, 5013954; 450839, 5014724; 450052, 5014699; 450044, 5015059; 449665, 5015055; 449668, 5014697; 449284, 5014695; 449313, 5012716; 450856, 5012694; 450842, 5011926; 450267, 5011923; 450291, 5011530; 449712, 5011533; 449728, 5011143; 449316, 5011149; 449317, 5011536; 447771, 5011543; 447762, 5011160; 447366, 5011141; 447368, 5010758; 446555, 5010719; 446564, 5009929; 447387, 5009971; 447369, 5010374; 447766, 5010376; 447764, 5010768; 449315, 5010760; 449313, 5010371; 449756, 5010397; 449732, 5011050; 450326, 5011046; 450336, 5010956; 450697, 5010950; 450713, 5010859; 450897, 5010856; 450993, 5010400; 451787, 5010400; 451795, 5009995; 452090, 5009974; 452098, 5009192; 452388, 5009170; 452385, 5010347; 451787, 5010400; 451745, 5010772; 452386, 5010752; 452388, 5011157; 452046, 5011151; 452025, 5011544; 452394, 5011554; 452403, 5013515; and excluding land bound by 451003, 5010017; 450604, 5010018; 450622, 5009234; 451021, 5009237; 451003, 5010017; and excluding land bound by 448888, 5014326; 448890, 5014688; 448107, 5014674; 448121, 5013921; 448892, 5013940; 448888, 5014326; and excluding land bound by 451627, 5014721; 451233, 5014722; 451237, 5013944; 452016, 5013925; 452020, 5014719; 451627, 5014721; and excluding land bound by 452390, 5007980; 453183, 5007974; 453181, 5008773; 452389, 5008780; 452390, 5007980; and excluding land bound by 446784, 5007592; 446774, 5007207; 446979, 5007208; 446994, 5007596; 446784, 5007592; and excluding land bound by 448794, 5004084; 449580, 5004085; 449637, 5004881; 448849, 5004888; 448794, 5004084.

(CCCC) Land bounded by the following UTM Zone 10, NAD83 coordinates (E, N): 449329, 5033180; 449308, 5032411; 448157, 5032447; 447005, 5032395; 447010, 5032768; 445859, 5032764; 445860, 5032380; 445095, 5032383; 445109, 5031982; 444333, 5031975; 444329, 5032370; 444712, 5032377; 444716, 5032775; 445482, 5032774; 445486, 5033167; 445858, 5033149; 445858, 5033497; 446631, 5033477; 447406, 5033554; 447396, 5032793; 448550, 5032826; 448568, 5033609; 449340, 5033565; 449329, 5033180.

(DDDD) Land bounded by the following UTM Zone 10, NAD83 coordinates (E, N): 445477, 5034325; 445474, 5033905; 445091, 5033966; 445114, 5033185; 444326, 5033161; 444325, 5033546; 443938, 5033531; 443938, 5033149; 443478, 5033135; 443486, 5033893; 444708, 5033948; 444708, 5034337; 445477, 5034325.

(EEEE) Land bounded by the following UTM Zone 10, NAD83 coordinates (E, N): 445477, 5034325; 445479, 5034745; 445864, 5034743; 445861, 5034294; 445477, 5034325.

(FFFF) Land bounded by the following UTM Zone 10, NAD83 coordinates (E, N): 445146, 5036303; 445122, 5035915; 446653, 5035994; 446645, 5035634; 447417, 5035619; 447415, 5035199; 448189, 5035210; 448998, 5035139; 448963, 5033975; 448189, 5034026; 447411, 5033935; 447413, 5034357; 446636, 5034292; 446641, 5035188; 444709, 5035111; 444709, 5034725; 443938, 5034684; 443936, 5035060; 443481, 5035031; 443492, 5036163; 444355, 5036236; 444338, 5035852; 444730, 5035883; 444750, 5036270; 445146, 5036303.

(GGGG) Land bounded by the following UTM Zone 10, NAD83 coordinates (E, N): 440891, 5036618; 440876, 5036214; 440491, 5036217; 440493, 5036603; 440891, 5036618.

(HHHH) Land bounded by the following UTM Zone 10, NAD83 coordinates (E, N): 440891, 5036618; 440907, 5037022; 440505, 5036990; 440519, 5037450; 440109, 5037446; 440114, 5037834; 439713, 5037838; 439707, 5037442; 438909, 5037449; 438912, 5037847; 438512, 5037874; 438515, 5038633; 438112, 5038666; 438113, 5037900; 437713, 5037926; 437708, 5039091; 437304, 5039129; 437294, 5039927; 436486, 5039952; 436484, 5040349; 436082, 5040361; 436084, 5041172; 438835, 5041106; 438842, 5041188; 438967, 5041166; 438872, 5041105; 438955, 5040125; 439674, 5040162; 439678, 5039754; 438522, 5039787; 438517, 5039016; 440065, 5038974; 440064, 5038604; 440432, 5038605; 440451, 5039341; 441208, 5039275; 441243, 5038920; 442018, 5038868; 441965, 5039208; 441587, 5039241; 441589, 5040666; 441211, 5040649; 441136, 5041806; 440405, 5041847; 440409, 5041067; 440016, 5041077; 440024, 5042243; 440767, 5042203; 440761, 5042955; 441128, 5042904; 441130, 5043276; 441502, 5043222; 441508, 5043591; 441884, 5043534; 442271, 5043640; 442251, 5042890; 442639, 5042978; 442629, 5042594; 441851, 5042436; 441896, 5041092; 443080, 5041136; 443193, 5039400; 443557, 5039457; 443571, 5038397; 443984, 5038457; 443992, 5038832; 444761, 5038947; 444788, 5037809; 444393, 5037763; 444389, 5037085; 444316, 5037085; 444316, 5037023; 444389, 5037001; 443516, 5036914; 443553, 5037996; 442853, 5038103; 442860, 5037239; 443219, 5037172; 443204, 5036795; 442479, 5036907; 442507, 5037306; 442152, 5037373; 442085, 5036664; 440891, 5036618.

(IIII) Land bounded by the following UTM Zone 10, NAD83 coordinates (E, N): 449185, 4921853; 449166, 4920203; 447537, 4920205; 447535, 4921894; 449185, 4921853.

(JJJJ) Land bounded by the following UTM Zone 10, NAD83 coordinates (E, N): 455846, 4976382; 455691, 4975553; 455817, 4974739; 454203, 4974746; 454260, 4976410; 455846, 4976382.

(KKKK) Land bounded by the following UTM Zone 10, NAD83 coordinates (E, N): 452632, 4976535; 452628, 4974966; 451070, 4974955; 451061, 4976544; 452632, 4976535.

(LLLL) Land bounded by the following UTM Zone 10, NAD83 coordinates (E, N): 455846, 4976382; 455872, 4978042; 457465, 4978044; 457440, 4976449; 455846, 4976382.

(MMMM) Land bounded by the following UTM Zone 10, NAD83 coordinates (E, N): 452632, 4976535; 452636, 4978103; 454267, 4978028; 454260, 4976410; 452632, 4976535.

(NNNN) Land bounded by the following UTM Zone 10, NAD83 coordinates (E, N): 459051, 4978059; 457465, 4978044; 457381, 4978844; 457405, 4979629; 459024, 4979642; 459051, 4978059.

(OOOO) Land bounded by the following UTM Zone 10, NAD83 coordinates (E, N): 454125, 5010702; 454189, 5010701; 454191, 5010326; 453987, 5010325; 453997, 5010704; 454125, 5010702.

(iii) Note: Map of Northern Oregon Coast Ranges Unit follows:

BILLING CODE 4310-55-S

BILLING CODE 4310-55-C

(15) Southern Oregon Coast Ranges Unit (Unit 8). Coos, Douglas, and Lane Counties, Oregon.

(i) The Southern Oregon Coast Ranges Unit consists of 212, 700 ac (86, 100 ha) and is comprised of lands managed by the Siuslaw National Forest (67, 800 ac (27, 400 ha)) and Eugene, Roseburg, and Coos Bay BLM Districts (144, 900 ac (58, 600 ha)).

(ii) From USGS 1:24, 000 scale quadrangles Baldy Mountain, Callahan, Camas Valley, Coos Mountain, Deer Head Point, Devils Graveyard, Dora, Goodwin Peak, Kellogg, Kelly Butte, Kenyon Mountain, Loon Lake, Mapleton, Mount Gurney, North Fork, Old Blue, Reedsport, Roman Nose Mountain, Scottsburg, Sitkum, Smith River Falls, Tiernan, Tioga, Twin Sisters, and Tyee.

(A) Land bounded by the following UTM Zone 10, NAD83 coordinates (E, N): 439679, 4773563; 439685, 4775173; 441297, 4775147; 441274, 4773528; 439679, 4773563.

(B) Land bounded by the following UTM Zone 10, NAD83 coordinates (E, N): 438105, 4775219; 438091, 4774431; 438888, 4774399; 438880, 4773597; 439679, 4773563; 439673, 4771953; 438062, 4772029; 438081, 4773630; 436430, 4773589; 436437, 4775180; 438105, 4775219.

(C) Land bounded by the following UTM Zone 10, NAD83 coordinates (E, N): 439685, 4775173; 438105, 4775219; 438112, 4776809; 439691, 4776783; 439685, 4775173.

(D) Land bounded by the following UTM Zone 10, NAD83 coordinates (E, N): 436441, 4776800; 436437, 4775180; 434752, 4775181; 434766, 4776819; 436441, 4776800.

(E) Land bounded by the following UTM Zone 10, NAD83 coordinates (E, N): 431566, 4776827; 431178, 4776823; 431184, 4777632; 431588, 4777636; 431566, 4776827.

(F) Land bounded by the following UTM Zone 10, NAD83 coordinates (E, N): 434875, 4778431; 434875, 4777612; 434766, 4776819; 433187, 4776801; 433197, 4778470; 434875, 4778431.

(G) Land bounded by the following UTM Zone 10, NAD83 coordinates (E, N): 438112, 4776809; 436441, 4776800; 436488, 4778403; 436896, 4778396; 436890, 4778807; 437297, 4778794; 437302, 4778390; 438116, 4778382; 438112, 4776809.

(H) Land bounded by the following UTM Zone 10, NAD83 coordinates (E, N): 433206, 4780072; 433197, 4778470; 431986, 4778434; 431979, 4778035; 430782, 4778027; 430781, 4777629; 430380, 4777625; 430388, 4778427; 431585, 4778425; 431612, 4780090; 433206, 4780072.

(I) Land bounded by the following UTM Zone 10, NAD83 coordinates (E, N): 436488, 4778403; 434875, 4778431; 434833, 4780104; 436458, 4780084; 436488, 4778403.

(J) Land bounded by the following UTM Zone 10, NAD83 coordinates (E, N): 430006, 4780118; 429992, 4779266; 429592, 4779269; 429573, 4778440; 428356, 4778457; 428376, 4778868; 427571, 4778858; 427599, 4779276; 428396, 4779278; 428438, 4780128; 430006, 4780118.

(K) Land bounded by the following UTM Zone 10, NAD83 coordinates (E, N): 438040, 4780854; 438030, 4780067; 437225, 4780084; 437251, 4780476; 437643, 4780467; 437664, 4780862; 438040, 4780854.

(L) Land bounded by the following UTM Zone 10, NAD83 coordinates (E, N): 425327, 4781755; 425314, 4781354; 426094, 4781348; 426095, 4780544; 425694, 4780548; 425685, 4780149; 426883, 4780138; 426694, 4778446; 425896, 4778450; 425896, 4778045; 426700, 4778041; 426694, 4778446; 427544, 4778440; 427541, 4777635; 428345, 4777634; 428347, 4776829; 426716, 4776828; 426706, 4777636; 425084, 4777644; 425073, 4776831; 423110, 4776880; 423109, 4777282; 423476, 4777273; 423477, 4778475; 424710, 4778454; 424735, 4778859; 425111, 4778858; 425199, 4779677; 423984, 4779686; 424020, 4780148; 423115, 4780136; 423164, 4782106; 423539, 4782116; 423544, 4781726; 425327, 4781755; and excluding land bound by 425097, 4778457; 425092, 4778052; 425493, 4778049; 425497, 4778454; 425097, 4778457.

(M) Land bounded by the following UTM Zone 10, NAD83 coordinates (E, N): 451793, 4796896; 452189, 4796896; 452184, 4796492; 451786, 4796493; 451793, 4796896.

(N) Land bounded by the following UTM Zone 10, NAD83 coordinates (E, N): 451793, 4796896; 451385, 4796897; 451391, 4797315; 451800, 4797311; 451793, 4796896.

(O) Land bounded by the following UTM Zone 10, NAD83 coordinates (E, N): 451788, 4799349; 451808, 4797726; 451031, 4797739; 451003, 4799347; 451788, 4799349.

(P) Land bounded by the following UTM Zone 10, NAD83 coordinates (E, N): 430079, 4797757; 428481, 4797778; 428458, 4796164; 430053, 4796140; 430079, 4797757; 431677, 4797746; 431652, 4796122; 433262, 4796109; 433253, 4795022; 434787, 4795003; 434797, 4796232; 436409, 4796203; 436390, 4794599; 434784, 4794594; 434773, 4793786; 435587, 4793789; 435586, 4792981; 436409, 4792984; 436390, 4794599; 438014, 4794603; 438015, 4792582; 436406, 4792590; 436394, 4791792; 437997, 4791777; 437960, 4789755; 438053, 4789754; 438063, 4786436; 436462, 4786438; 436466, 4788053; 435653, 4788039; 435650, 4787635; 434837, 4787615; 434835, 4787206; 435242, 4787218; 435240, 4786503; 436462, 4786438; 436447, 4784858; 438061, 4784847; 438063, 4784173; 438347, 4784156; 438473, 4784046; 438520, 4783946; 438282, 4783885; 438243, 4783690; 438368, 4783509; 438562, 4783528; 438597, 4783263; 436442, 4783252; 436436, 4781659; 434822, 4781663; 434833, 4780104; 433206, 4780072; 433222, 4781640; 431601, 4781682; 431612, 4780090; 430006, 4780118; 430013, 4781694; 428410, 4781704; 428415, 4781304; 428814, 4781301; 428817, 4780901; 428420, 4780904; 428438, 4780128; 426883, 4780138; 426882, 4781734; 425327, 4781755; 425284, 4782540; 424478, 4782523; 424461, 4783313; 423197, 4783289; 423353, 4788141; 424465, 4788131; 424440, 4788535; 425293, 4788520; 425213, 4789742; 426005, 4789723; 425991, 4791358; 425189, 4791363; 425213, 4789742; 423426, 4789779; 423481, 4794628; 425285, 4794587; 425240, 4792972; 426045, 4792955; 426059, 4793765; 426862, 4793747; 426794, 4791357; 428362, 4791328; 428391, 4789680; 426797, 4789705; 426929, 4788891; 427296, 4788883; 427322, 4788070; 428483, 4788044; 428435, 4786457; 429620, 4786461; 429623, 4786854; 430019, 4786855; 430023, 4787245; 429230, 4787251; 429235, 4788040; 428483, 4788044; 428495, 4788843; 428391, 4789680; 429998, 4789669; 430035, 4788059; 431589, 4788048; 431585, 4787653; 432391, 4787643; 432387, 4787247; 431984, 4787252; 431980, 4786451; 432784, 4786440; 432785, 4786840; 433606, 4786842; 433607, 4787228; 433183, 4787236; 433199, 4788032; 433618, 4788022; 433622, 4788432; 434027, 4788428; 434028, 4788842; 434835, 4788844; 434833, 4789253; 434430, 4789251; 434430, 4789786; 433548, 4789791; 433551, 4790192; 433952, 4790189; 433955, 4790591; 433214, 4790596; 433221, 4791258; 431604, 4791262; 431617, 4792886; 433231, 4792862; 433222, 4791400; 434762, 4791386; 434761, 4790585; 435164, 4790583; 435166, 4790985; 435571, 4790984; 435567, 4790582; 435966, 4790581; 435960, 4789773; 436361, 4789770; 436387, 4791387; 434762, 4791386; 434762, 4792978; 433233, 4793003; 433236, 4793264; 431625, 4793290; 431617, 4792886; 430006, 4792910; 430034, 4794521; 431640, 4794499; 431644, 4795307; 430040, 4795328; 430034, 4794521; 429244, 4794527; 429202, 4792932; 430006, 4792910; 429984, 4791292; 428362, 4791328; 428378, 4792140; 427595, 4792153; 427610, 4792962; 428399, 4792955; 428420, 4793751; 426862, 4793747; 426860, 4794569; 425285, 4794587; 425222, 4796223; 423503, 4796196; 423528, 4797900; 424449, 4797873; 424465, 4798665; 424066, 4798668; 424071, 4799052; 424473, 4799049; 424482, 4799523; 423553, 4799535; 423557, 4799788; 422770, 4799789; 422795, 4800413; 423589, 4800406; 423631, 4801137; 425699, 4801123; 425688, 4799512; 427281, 4799491; 427292, 4801106; 428878, 4801071; 428872, 4799483; 430102, 4799481; 430079, 4797757; and excluding land bound by 426042, 4797019; 426026, 4796207; 426846, 4796192; 426862, 4796999; 426042, 4797019; 426050, 4797425; 426873, 4797400; 426880, 4797803; 425256, 4797850; 425233, 4797028; 426042, 4797019; and excluding land bound by 432838, 4793672; 433241, 4793665; 433244, 4794070; 431636, 4794096; 431632, 4793693; 432838, 4793672; and excluding land bound by 424014, 4785535; 424030, 4784709; 424229, 4784713; 424224, 4784519; 425393, 4784510; 425396, 4785708; 425194, 4785725; 425191, 4786102; 423677, 4786129; 423671, 4785539; 424014, 4785535; and excluding land bound by 433188, 4784848; 431986, 4784850; 431995, 4783662; 431598, 4783666; 431608, 4783265; 433207, 4783245; 433188, 4784848; 434014, 4784864; 434015, 4785668; 433179, 4785642; 433188, 4784848; and excluding land bound by 427245, 4785663; 426849, 4785666; 426842, 4784880; 428429, 4784875; 428433, 4785653; 427245, 4785663; and excluding land bound by 434422, 4785278; 434420, 4784875; 434827, 4784884; 434829, 4785289; 434422, 4785278.

(Q) Land bounded by the following UTM Zone 10, NAD83 coordinates (E, N): 455768, 4802572; 455769, 4801781; 456559, 4801748; 456560, 4800983; 457385, 4800909; 457392, 4802518; 458208, 4802518; 458202, 4802115; 458614, 4802114; 458612, 4801710; 458195, 4801711; 458184, 4800984; 457996, 4800983; 457993, 4800504; 456982, 4800531; 457005, 4799706; 456603, 4799712; 456617, 4799298; 455813, 4799303; 455770, 4800990; 454984, 4800985; 455010, 4799309; 455813, 4799303; 455792, 4797275; 456590, 4797269; 456588, 4797671; 457390, 4797666; 457385, 4796049; 455415, 4796048; 455405, 4797275; 455018, 4797275; 455018, 4797684; 454633, 4797688; 454630, 4797275; 454242, 4797276; 454235, 4796859; 455019, 4796866; 455020, 4796446; 454228, 4796444; 454221, 4796027; 452581, 4796086; 452582, 4796490; 453005, 4796478; 453012, 4797296; 452585, 4797304; 452587, 4797712; 452197, 4797719; 452193, 4798938; 452593, 4798929; 452591, 4798524; 453408, 4798513; 453389, 4799327; 452993, 4799333; 452998, 4800149; 453395, 4800148; 453401, 4800970; 454590, 4800983; 454583, 4801779; 454978, 4801779; 454976, 4802178; 455372, 4802177; 455370, 4802574; 455768, 4802572.

(R) Land bounded by the following UTM Zone 10, NAD83 coordinates (E, N): 457392, 4802518; 455768, 4802572; 455767, 4802967; 456167, 4802959; 456170, 4803351; 456986, 4803331; 456980, 4802936; 457394, 4802919; 457392, 4802518.

Land bounded by the following UTM Zone 10, NAD83 coordinates (E, N): 449452, 4805768; 449428, 4805406; 448261, 4805390; 448251, 4805006; 448635, 4805019; 448607, 4804265; 447859, 4804212; 447876, 4805775; 449452, 4805768.

(S) Land bounded by the following UTM Zone 10, NAD83 coordinates (E, N): 451030, 4804288; 451010, 4803433; 451411, 4803476; 451427, 4804336; 451030, 4804288; 451026, 4805967; 452636, 4805993; 452604, 4806234; 453042, 4806156; 454201, 4806428; 454184, 4805779; 455831, 4805762; 455764, 4804150; 454966, 4804178; 454966, 4803780; 454567, 4803793; 454564, 4804192; 454164, 4804206; 454186, 4802591; 453009, 4802696; 453008, 4802257; 452598, 4802282; 452585, 4800961; 451807, 4801002; 450994, 4800930; 450991, 4802577; 449367, 4802707; 449356, 4804319; 448982, 4804292; 449001, 4804662; 450205, 4804695; 450193, 4804304; 451030, 4804288; and excluding land bound by 451811, 4803519; 451797, 4802655; 452603, 4802732; 452611, 4803605; 451811, 4803519; and excluding land bound by 452994, 4805790; 452634, 4805795; 452617, 4804221; 452977, 4804218; 452994, 4805790.

(T) Land bounded by the following UTM Zone 10, NAD83 coordinates (E, N): 451027, 4807636; 451075, 4809019; 452616, 4809025; 452612, 4807818; 453425, 4807809; 453427, 4808214; 453832, 4808212; 453826, 4807637; 452610, 4807416; 452314, 4807134; 452302, 4807052; 452216, 4807063; 452215, 4807471; 451027, 4807636.

(U) Land bounded by the following UTM Zone 10, NAD83 coordinates (E, N): 452616, 4809025; 452619, 4809426; 453438, 4809419; 453432, 4809017; 452616, 4809025.

(V) Land bounded by the following UTM Zone 10, NAD83 coordinates (E, N): 452630, 4810633; 453049, 4810630; 453037, 4809825; 452623, 4809828; 452630, 4810633.

(W) Land bounded by the following UTM Zone 10, NAD83 coordinates (E, N): 451024, 4810672; 451075, 4809019; 449528, 4809034; 449500, 4810639; 451024, 4810672.

(X) Land bounded by the following UTM Zone 10, NAD83 coordinates (E, N): 452645, 4812241; 452630, 4810633; 451024, 4810672; 451064, 4812263; 452645, 4812241.

(Y) Land bounded by the following UTM Zone 10, NAD83 coordinates (E, N): 447896, 4813930; 447921, 4812318; 448705, 4812293; 448699, 4813113; 449489, 4813073; 449490, 4813876; 451071, 4813859; 451064, 4812263; 449489, 4812269; 449500, 4810639; 447918, 4810680; 447950, 4809082; 449528, 4809034; 449482, 4807385; 451027, 4807636; 451026, 4805967; 450239, 4805867; 450227, 4805476; 449828, 4805441; 449846, 4805817; 449452, 4805768; 449472, 4806979; 448286, 4806985; 448293, 4807386; 447906, 4807385; 447884, 4806587; 448278, 4806583; 448274, 4806178; 447880, 4806181; 447876, 4805775; 445296, 4805746; 445320, 4807334; 445740, 4807327; 445780, 4809083; 446331, 4809083; 446398, 4810673; 444693, 4810664; 444674, 4813065; 445509, 4813073; 445499, 4814687; 445898, 4814685; 445899, 4815087; 446297, 4815086; 446295, 4813877; 447896, 4813930.

(Z) Land bounded by the following UTM Zone 10, NAD83 coordinates (E, N): 452645, 4812241; 452660, 4813849; 451071, 4813859; 451080, 4815444; 452674, 4815414; 452660, 4813876; 453491, 4813878; 453504, 4815491; 452675, 4815488; 452690, 4817122; 454330, 4817121; 454297, 4813881; 453894, 4813880; 453879, 4812651; 453470, 4812648; 453463, 4812242; 452645, 4812241.

(AA) Land bounded by the following UTM Zone 10, NAD83 coordinates (E, N): 453525, 4817928; 453123, 4817927; 453124, 4818327; 453525, 4818327; 453525, 4817928.

(BB) Land bounded by the following UTM Zone 10, NAD83 coordinates (E, N): 449567, 4820286; 450773, 4820274; 450768, 4819474; 451169, 4819470; 451164, 4818672; 449556, 4818686; 449567, 4820286.

(CC) Land bounded by the following UTM Zone 10, NAD83 coordinates (E, N): 447982, 4823501; 448000, 4825102; 449614, 4825088; 449630, 4826694; 450327, 4826719; 450314, 4825901; 450023, 4825904; 450018, 4825494; 451220, 4825481; 451216, 4825072; 450013, 4825084; 450010, 4824685; 450810, 4824678; 450805, 4824280; 451204, 4824277; 451201, 4823880; 450002, 4823886; 450006, 4824285; 449606, 4824288; 449598, 4823488; 447982, 4823501.

(DD) Land bounded by the following UTM Zone 10, NAD83 coordinates (E, N): 448015, 4826719; 448000, 4825102; 446401, 4825133; 446414, 4826730; 448015, 4826719.

(EE) Land bounded by the following UTM Zone 10, NAD83 coordinates (E, N): 449630, 4826694; 448015, 4826719; 448029, 4827921; 448433, 4827914; 448437, 4828361; 449647, 4828343; 449630, 4826694.

(FF) Land bounded by the following UTM Zone 10, NAD83 coordinates (E, N): 446414, 4826730; 444792, 4826753; 444785, 4825148; 446401, 4825133; 446379, 4823531; 445570, 4823540; 445566, 4823139; 445971, 4823135; 445964, 4822332; 446368, 4822329; 446379, 4823531; 447982, 4823501; 447968, 4821902; 446764, 4821922; 446760, 4821519; 447563, 4821508; 447560, 4821108; 447961, 4821103; 447968, 4821902; 449582, 4821887; 449567, 4820286; 447959, 4820302; 447947, 4818698; 449500, 4818686; 449497, 4817060; 451092, 4817038; 451080, 4815444; 449495, 4815465; 449490, 4813876; 447896, 4813930; 447896, 4815492; 446698, 4815489; 446700, 4816290; 447100, 4816288; 447101, 4817086; 447899, 4817079; 447905, 4818698; 442779, 4818720; 442792, 4819964; 438021, 4820092; 438072, 4820876; 437680, 4820879; 437632, 4820094; 435612, 4820063; 435578, 4822377; 437167, 4822375; 437168, 4822770; 435590, 4822777; 435587, 4825558; 433975, 4825592; 433961, 4826420; 432578, 4826436; 432541, 4827023; 432392, 4827055; 432394, 4828745; 433921, 4828753; 433937, 4827969; 434148, 4827969; 434134, 4827209; 434076, 4827171; 434538, 4827167; 434556, 4827969; 434148, 4827969; 434163, 4828754; 434957, 4828749; 434942, 4827167; 436929, 4827151; 436933, 4827945; 437330, 4827944; 437332, 4828732; 438520, 4828723; 438529, 4829122; 438923, 4829120; 438924, 4827929; 439722, 4827917; 439690, 4825536; 441271, 4825502; 441281, 4825900; 441672, 4825894; 441663, 4825495; 442838, 4825474; 442872, 4827996; 443211, 4827989; 443203, 4827588; 444400, 4827564; 444405, 4827965; 444803, 4827957; 444808, 4828426; 446431, 4828399; 446414, 4826730; and excluding land bound by 442054, 4823585; 442444, 4823575; 442441, 4824378; 441660, 4824389; 441658, 4823592; 442054, 4823585; and excluding land bound by 439673, 4822432; 439664, 4820852; 440455, 4820829; 440462, 4821621; 441247, 4821603; 441254, 4822403; 439673, 4822432.

(GG) Land bounded by the following UTM Zone 10, NAD83 coordinates (E, N): 439983, 4841198; 439974, 4839628; 438406, 4839643; 438417, 4841255; 439983, 4841198.

(HH) Land bounded by the following UTM Zone 10, NAD83 coordinates (E, N): 435183, 4846808; 435198, 4847227; 435588, 4847268; 435568, 4846850; 435183, 4846808.

(II) Land bounded by the following UTM Zone 10, NAD83 coordinates (E, N): 435183, 4846808; 435166, 4846362; 435930, 4846512; 436022, 4848085; 436417, 4848090; 436313, 4846592; 438462, 4846580; 438479, 4848076; 440054, 4848066; 440053, 4846283; 440451, 4846283; 440455, 4846686; 440857, 4846686; 440844, 4845880; 441638, 4845878; 441595, 4844323; 441203, 4844313; 441205, 4842737; 441606, 4842735; 441578, 4841162; 439983, 4841198; 440003, 4842744; 439606, 4842782; 439591, 4841990; 439242, 4841998; 439213, 4842811; 438416, 4842823; 438439, 4844350; 436808, 4844386; 436801, 4842839; 436007, 4842826; 436008, 4842029; 435208, 4842036; 435208, 4841244; 433607, 4841240; 433603, 4840160; 431624, 4840174; 431602, 4838399; 433319, 4838379; 433317, 4838124; 433583, 4838126; 433611, 4839660; 435214, 4839704; 435208, 4841244; 436814, 4841224; 436800, 4839632; 438406, 4839643; 438395, 4838090; 439189, 4838074; 439161, 4836575; 439948, 4836568; 439945, 4835776; 438303, 4835723; 438299, 4834990; 436965, 4834997; 436984, 4835806; 436608, 4835813; 436587, 4835567; 436600, 4836681; 435815, 4836699; 435810, 4837817; 435127, 4837826; 435125, 4838111; 434723, 4838114; 434724, 4837758; 434321, 4837763; 434321, 4836563; 435124, 4836551; 435114, 4835995; 434360, 4835994; 434342, 4834970; 433325, 4834980; 433340, 4834375; 433180, 4834320; 433192, 4834195; 431714, 4834235; 431700, 4833830; 431296, 4833826; 431318, 4834633; 430486, 4834619; 430470, 4834314; 430028, 4834255; 430035, 4834986; 429652, 4834986; 429636, 4834209; 428878, 4834203; 428856, 4833826; 428442, 4833830; 428450, 4834988; 426749, 4834990; 426767, 4834248; 426485, 4834255; 426244, 4834510; 425946, 4835029; 426044, 4835028; 426003, 4835319; 426197, 4835398; 426298, 4835337; 426301, 4835446; 426178, 4835499; 426106, 4835419; 425952, 4835459; 425757, 4835828; 425610, 4835828; 425420, 4836234; 425618, 4835921; 425559, 4836071; 425566, 4836607; 425252, 4836621; 424734, 4837095; 424273, 4837336; 424302, 4838477; 424414, 4838737; 424518, 4838796; 424430, 4838815; 423969, 4839394; 423982, 4839899; 424035, 4839959; 423972, 4840014; 423816, 4839497; 424312, 4838768; 424228, 4838476; 424305, 4838767; 423809, 4839496; 423966, 4840019; 423899, 4840079; 423720, 4839465; 423630, 4839406; 423709, 4839395; 424186, 4838736; 424122, 4838534; 423949, 4838473; 423527, 4838467; 423509, 4837703; 422977, 4837927; 423042, 4838343; 422557, 4838221; 422401, 4838600; 422405, 4839006; 420919, 4838995; 420954, 4839727; 420205, 4839757; 420251, 4838980; 419821, 4838985; 419829, 4838792; 419387, 4839112; 419382, 4839385; 418984, 4839389; 418989, 4839209; 418791, 4839200; 418771, 4839787; 418165, 4839784; 418153, 4839193; 417380, 4839126; 417369, 4839394; 416964, 4839397; 416930, 4840368; 417323, 4840340; 417342, 4840738; 418134, 4840763; 418147, 4841163; 417362, 4841135; 417372, 4841533; 418969, 4841578; 421396, 4841497; 421420, 4841891; 420593, 4841891; 420590, 4842298; 421821, 4842257; 421807, 4842623; 420585, 4842702; 420516, 4843503; 421325, 4843450; 421350, 4843051; 422187, 4842999; 422134, 4843401; 423743, 4843254; 423744, 4846108; 423347, 4846125; 423362, 4846928; 423757, 4846916; 423781, 4847710; 424521, 4847696; 424325, 4847262; 424342, 4847107; 424163, 4847109; 424141, 4846315; 424544, 4846317; 424546, 4846520; 424446, 4846520; 424457, 4846909; 424957, 4846780; 425355, 4846757; 425348, 4846483; 426149, 4846467; 426131, 4845693; 427338, 4845658; 427314, 4844869; 426922, 4844882; 426925, 4843413; 428513, 4843320; 428491, 4842516; 429240, 4842534; 429276, 4843319; 428513, 4843320; 428503, 4844079; 428886, 4844077; 428882, 4844828; 430011, 4844809; 430018, 4845633; 429275, 4845634; 429286, 4846450; 428552, 4846458; 428557, 4847628; 428163, 4847636; 428163, 4847911; 428245, 4848026; 430133, 4848068; 430148, 4848436; 431675, 4848458; 431704, 4848821; 432488, 4848839; 432484, 4848461; 433216, 4848461; 433220, 4848527; 433369, 4848577; 433584, 4848858; 434014, 4848866; 434023, 4848070; 431672, 4848080; 431660, 4846600; 433642, 4846595; 433646, 4846360; 434037, 4846357; 434028, 4847628; 434423, 4847628; 434420, 4847186; 434809, 4847185; 434797, 4846765; 435183, 4846808; and excluding land bound by 438458, 4845944; 437640, 4845943; 437618, 4845158; 438845, 4845132; 438851, 4845531; 439250, 4845516; 439230, 4844326; 440026, 4844283; 440050, 4845881; 438458, 4845944; and excluding land bound by 437525, 4838096; 437520, 4837728; 437119, 4837730; 437113, 4837321; 437514, 4837314; 437504, 4836540; 438307, 4836511; 438320, 4837721; 437920, 4837724; 437927, 4838094; 437525, 4838096.

(JJ) Land bounded by the following UTM Zone 10, NAD83 coordinates (E, N): 433223, 4856510; 433279, 4856157; 433259, 4856185; 433223, 4856510.

(KK) Land bounded by the following UTM Zone 10, NAD83 coordinates (E, N): 444474, 4868703; 444470, 4867888; 445265, 4867872; 445268, 4868677; 444474, 4868703; 444485, 4870312; 445679, 4870253; 445672, 4869458; 446065, 4869442; 446053, 4868478; 445797, 4867890; 445500, 4867727; 444898, 4867668; 444701, 4867517; 444468, 4867479; 444466, 4867091; 444286, 4867094; 444283, 4866768; 443529, 4866794; 443498, 4865105; 441926, 4865107; 441934, 4865928; 441539, 4865925; 441523, 4864289; 439930, 4864261; 439953, 4865914; 439170, 4865918; 439175, 4866328; 438775, 4866334; 438781, 4866737; 438382, 4866735; 438379, 4866538; 438280, 4866540; 438282, 4866639; 438084, 4866644; 438086, 4866743; 437987, 4866745; 437989, 4866850; 437791, 4866854; 437790, 4866751; 437691, 4866753; 437689, 4866654; 437590, 4866656; 437588, 4866557; 437095, 4866569; 437101, 4866869; 436805, 4866876; 436804, 4866776; 436705, 4866778; 436703, 4866679; 436604, 4866681; 436599, 4866482; 436501, 4866485; 436498, 4866385; 436400, 4866388; 436397, 4866289; 436299, 4866291; 436297, 4866192; 436100, 4866198; 436104, 4866396; 436006, 4866399; 436012, 4866696; 435816, 4866700; 435813, 4866602; 435617, 4866607; 435612, 4866410; 435219, 4866421; 435229, 4866813; 434735, 4866822; 434742, 4867199; 434973, 4867194; 434813, 4867981; 436437, 4867965; 436372, 4868362; 436780, 4868360; 436720, 4868760; 437133, 4868759; 437136, 4869156; 438364, 4869151; 438367, 4869551; 440030, 4869548; 440021, 4869146; 440832, 4869144; 440830, 4868743; 441240, 4868741; 441245, 4870360; 442909, 4870326; 442892, 4868707; 444474, 4868703.

(LL) Land bounded by the following UTM Zone 10, NAD83 coordinates (E, N): 441245, 4870360; 440415, 4870361; 440433, 4871159; 441257, 4871165; 441245, 4870360.

(MM) Land bounded by the following UTM Zone 10, NAD83 coordinates (E, N): 434425, 4866059; 434432, 4866443; 433643, 4866459; 433634, 4866078; 434425, 4866059; 434415, 4865663; 434613, 4865656; 434608, 4865458; 434410, 4865465; 434405, 4865267; 435299, 4865239; 435300, 4865337; 435594, 4865328; 435595, 4865426; 436281, 4865404; 436284, 4865600; 436481, 4865594; 436483, 4865692; 436679, 4865686; 436684, 4865883; 436487, 4865889; 436485, 4865791; 436190, 4865800; 436188, 4865702; 435894, 4865711; 435892, 4865613; 435500, 4865626; 435498, 4865527; 435302, 4865534; 435306, 4865828; 435502, 4865822; 435504, 4865920; 435602, 4865917; 435603, 4866015; 435308, 4866025; 435311, 4866123; 435507, 4866117; 435509, 4866215; 435805, 4866207; 435802, 4866108; 435901, 4866105; 435898, 4866006; 436391, 4865991; 436393, 4866090; 436688, 4866081; 436693, 4866280; 436792, 4866278; 436797, 4866477; 436895, 4866475; 436893, 4866375; 437683, 4866356; 437685, 4866455; 437784, 4866453; 437786, 4866552; 437983, 4866547; 437982, 4866448; 438179, 4866444; 438177, 4866345; 438375, 4866340; 438349, 4864297; 436761, 4864349; 436665, 4862665; 438274, 4862649; 438348, 4864295; 439930, 4864261; 439883, 4862605; 441492, 4862663; 441523, 4864289; 443502, 4864274; 443508, 4864737; 444679, 4864676; 444680, 4865115; 445491, 4865083; 445480, 4863399; 443853, 4863455; 443853, 4863063; 443499, 4863073; 443502, 4862660; 444259, 4862640; 444258, 4862221; 443505, 4862238; 443507, 4861813; 445471, 4861786; 445461, 4860175; 443510, 4860217; 443504, 4858978; 443850, 4858972; 443848, 4858563; 444244, 4858549; 444251, 4859378; 445052, 4859373; 445043, 4858535; 445445, 4858535; 445439, 4856925; 443485, 4856955; 443467, 4856130; 442278, 4856119; 442291, 4856927; 441895, 4856931; 441876, 4856123; 440277, 4856105; 440283, 4856551; 439888, 4856565; 439630, 4856516; 438281, 4856528; 438278, 4856128; 436821, 4856136; 436905, 4856216; 436869, 4856289; 436481, 4856371; 436364, 4856139; 433279, 4856157; 433208, 4856539; 431686, 4856348; 431593, 4857266; 428620, 4857331; 428822, 4864186; 425543, 4864264; 425303, 4862039; 422090, 4862045; 421878, 4862540; 421899, 4863091; 421827, 4863322; 422081, 4863319; 422082, 4863462; 422291, 4863436; 422446, 4863521; 422476, 4864470; 422863, 4864445; 422867, 4864839; 423260, 4864811; 423265, 4865007; 424020, 4864948; 424023, 4865342; 423462, 4865388; 423458, 4865188; 422906, 4865231; 422549, 4865680; 422508, 4865797; 422660, 4866212; 422679, 4867115; 421373, 4867000; 421300, 4867146; 421195, 4867116; 421340, 4866783; 421331, 4866360; 421162, 4866043; 420976, 4865883; 420919, 4865670; 420928, 4867407; 420793, 4867411; 420823, 4868749; 421103, 4868816; 421270, 4868597; 421219, 4868460; 421358, 4868503; 421378, 4868611; 421152, 4868942; 421294, 4869108; 421557, 4869072; 421567, 4869132; 421221, 4869230; 420996, 4868903; 420800, 4868861; 420804, 4870741; 422406, 4870627; 424627, 4870583; 424696, 4871277; 424847, 4871271; 424853, 4871471; 424710, 4871477; 424776, 4872878; 424744, 4873339; 425176, 4873332; 425179, 4872913; 425594, 4872890; 425603, 4873350; 427120, 4873324; 427097, 4872584; 427468, 4872573; 427467, 4872201; 427085, 4872215; 427072, 4871850; 427456, 4871825; 427445, 4871449; 427063, 4871485; 427038, 4870755; 427422, 4870701; 427417, 4869027; 427547, 4868186; 427159, 4868196; 427220, 4867772; 427610, 4867768; 427675, 4867345; 428462, 4867342; 428392, 4867760; 428001, 4867765; 427803, 4869002; 428190, 4868976; 428189, 4870596; 428572, 4870545; 428593, 4871342; 428210, 4871378; 428233, 4872163; 428617, 4872140; 428615, 4873727; 428823, 4873759; 427132, 4873695; 426959, 4873699; 426885, 4873764; 427423, 4874547; 427539, 4874624; 427702, 4874624; 427630, 4874504; 427859, 4874509; 427867, 4874624; 428048, 4874561; 428206, 4874582; 428204, 4874316; 429037, 4874385; 429029, 4874186; 429424, 4874246; 429407, 4873443; 429802, 4873504; 429794, 4873091; 430186, 4873147; 430145, 4872307; 429393, 4872223; 429382, 4871814; 429764, 4871851; 429748, 4871023; 430136, 4871050; 430147, 4871634; 430899, 4871623; 430914, 4871062; 431302, 4871067; 431308, 4871493; 431695, 4871501; 431686, 4870644; 433221, 4870809; 433216, 4869309; 431659, 4868953; 431987, 4867243; 433262, 4867228; 433259, 4867044; 433655, 4867043; 433652, 4866840; 434538, 4866825; 434530, 4866440; 434826, 4866432; 434817, 4866043; 434425, 4866059; and excluding land bound by 432071, 4867047; 431681, 4867059; 431670, 4866666; 431278, 4866689; 431250, 4865917; 429672, 4865963; 430645, 4866698; 430893, 4867118; 430475, 4867120; 430559, 4866785; 430278, 4866555; 429790, 4866325; 429577, 4865966; 429783, 4866332; 430273, 4866563; 430549, 4866790; 430464, 4867120; 430247, 4866653; 429668, 4866336; 429467, 4865970; 428882, 4865988; 428894, 4866376; 428098, 4866378; 428085, 4865994; 428483, 4865991; 428479, 4865190; 429268, 4865175; 429273, 4865575; 430063, 4865543; 430056, 4865137; 430845, 4865116; 430851, 4865521; 432036, 4865508; 432043, 4865906; 431647, 4865912; 431658, 4866289; 432052, 4866274; 432061, 4866642; 432457, 4866648; 432467, 4867046; 432071, 4867047; and excluding land bound by 433613, 4865135; 433214, 4865100; 433192, 4864323; 433587, 4864324; 433593, 4864504; 433989, 4864492; 434011, 4865279; 433616, 4865291; 433613, 4865135; and excluding land bound by 429652, 4867313; 429576, 4867729; 429967, 4867714; 429890, 4868127; 429501, 4868136; 429349, 4868956; 429349, 4869770; 428576, 4869745; 428577, 4869348; 428963, 4869356; 429035, 4868549; 428646, 4868552; 428856, 4867339; 429652, 4867313; and excluding land bound by 430893, 4869377; 430891, 4869166; 430698, 4869167; 430696, 4868957; 430504, 4868957; 430623, 4868324; 431007, 4868320; 430888, 4868956; 431081, 4868955; 431083, 4869166; 431276, 4869166; 431279, 4869377; 430893, 4869377; and excluding land bound by 433517, 4863526; 433506, 4863388; 433116, 4863389; 433081, 4862923; 432692, 4862926; 432657, 4862461; 432268, 4862465; 432231, 4862000; 433394, 4861994; 433452, 4862674; 433854, 4862685; 433921, 4863585; 433522, 4863584; 433517, 4863526; and excluding land bound by 439924, 4859299; 438229, 4859355; 438182, 4857707; 439892, 4857806; 439924, 4859299; 441517, 4859386; 441475, 4857753; 442681, 4857730; 442704, 4858950; 443105, 4858940; 443111, 4859346; 441517, 4859386; 441482, 4860614; 440264, 4860559; 440283, 4860146; 439880, 4860127; 439924, 4859299; and excluding land bound by 443092, 4858129; 443085, 4857723; 443491, 4857716; 443495, 4858121; 443092, 4858129; and excluding land bound by 430231, 4859344; 429836, 4859354; 429840, 4858901; 430239, 4858890; 430231, 4859344.

(NN) Land bounded by the following UTM Zone 10, NAD83 coordinates (E, N): 433199, 4788032; 432394, 4788038; 432392, 4788848; 432800, 4788848; 432799, 4789645; 433207, 4789643; 433199, 4788032.

(OO) Land bounded by the following UTM Zone 10, NAD83 coordinates (E, N): 431604, 4791262; 431593, 4790461; 430804, 4790474; 430793, 4789664; 429998, 4789669; 429984, 4791292; 431604, 4791262.

(PP) Land bounded by the following UTM Zone 10, NAD83 coordinates (E, N): 438416, 4842823; 438417, 4841255; 436814, 4841224; 436801, 4842839; 438416, 4842823.

(iii) Note: Map of Southern Oregon Coast Ranges Unit follows:

BILLING CODE 4310-55-S

BILLING CODE 4310-55-C

(16) Western Oregon Cascades North Unit (Unit 9). Clackamas, Hood River, Linn, Marion, and Multnomah Counties, Oregon.

(i) The Western Oregon Cascades North Unit consists of 335, 600 ac (135, 800 ha) and is comprised of 334, 700 ac (135, 400 ha) of lands managed by the Mt. Hood and Willamette National Forests and 900 ac (400 ha) of lands managed by the Salem District of the BLM.

(ii) From USGS 1:24, 000 scale quadrangles Bagby Hot Spring, Battle Ax, Bedford Point, Bonneville Dam, Breitenbush Hot Springs, Brightwood, Bull Run, Bull Run Lake, Bull of the Woods, Carpenter Mountain, Carson, Chimney Peak, Coffin Mountain, Dee, Detroit, Echo Mountain, Elkhorn, Fish Creek Mountain, Gawley Creek, Government Camp, Harter Mountain, Hickman Butte, High Rock, Idanha, Lawhead Creek, Marion Forks, Mother Lode Mountain, Mount Bruno, Mount Defiance, Mount Jefferson, Mount Lowe, Mount Mitchell, Multnomah Falls, Olallie Butte, Quartzville, Rhododendron, Rooster Rock, Tamolitch Falls, Tanner Butte, Three Lynx, Tidbits Mountain, Timothy Lake, Upper Soda, Wahtum Lake, and Wolf Peak.

(A) Land bounded by the following UTM Zone 10, NAD83 coordinates (E, N): 561539, 4908879; 563089, 4908939; 563137, 4908001; 562841, 4908011; 562675, 4907868; 562610, 4907938; 562552, 4907911; 562402, 4908193; 562195, 4908300; 562136, 4908396; 561517, 4908461; 561539, 4908879.

(B) Land bounded by the following UTM Zone 10, NAD83 coordinates (E, N): 570716, 4910779; 571261, 4910461; 571468, 4910582; 571688, 4910602; 571782, 4910525; 572063, 4910603; 572217, 4910772; 572631, 4910825; 572773, 4910760; 572771, 4910520; 572856, 4910452; 572721, 4909860; 572813, 4909736; 573651, 4909516; 573726, 4909379; 573678, 4909172; 573114, 4908967; 572550, 4909079; 572241, 4908617; 571992, 4908640; 571188, 4909282; 571045, 4909330; 570792, 4909302; 570538, 4909386; 570529, 4909552; 570350, 4909590; 570338, 4909719; 570218, 4909616; 569957, 4909576; 569998, 4909747; 569741, 4909878; 569895, 4910190; 569755, 4910213; 569667, 4910310; 569477, 4910291; 569360, 4910658; 569279, 4910736; 569231, 4911050; 569718, 4911183; 569781, 4911613; 569890, 4911797; 570404, 4911673; 570344, 4911481; 570819, 4911045; 570716, 4910779.

(C) Land bounded by the following UTM Zone 10, NAD83 coordinates (E, N): 563089, 4908939; 563137, 4910548; 561523, 4910538; 561539, 4908879; 559937, 4908863; 559933, 4908078; 559987, 4907751; 559736, 4907748; 559556, 4907998; 559323, 4908105; 559059, 4908123; 558984, 4908869; 559131, 4908869; 559092, 4909685; 558188, 4909678; 558084, 4909827; 558134, 4910441; 557951, 4910718; 557868, 4910614; 557016, 4910766; 556961, 4910710; 556331, 4910620; 556012, 4910813; 555063, 4910917; 554448, 4911135; 554036, 4911130; 554035, 4911251; 554428, 4911260; 554424, 4911672; 553626, 4911665; 553629, 4912070; 552053, 4912051; 552050, 4912462; 551708, 4912459; 551535, 4912672; 551534, 4912783; 551645, 4912896; 551587, 4913174; 551419, 4913284; 551251, 4913283; 551139, 4913449; 551024, 4913783; 551245, 4914008; 551244, 4914175; 551019, 4914396; 550904, 4914841; 550568, 4914950; 550400, 4915116; 550289, 4915059; 550177, 4915114; 550119, 4915337; 549895, 4915446; 549895, 4915502; 550062, 4915503; 550060, 4915671; 550171, 4915783; 550170, 4915895; 550391, 4916120; 550224, 4916118; 549774, 4916616; 549880, 4917231; 549991, 4917343; 550068, 4917195; 550228, 4917296; 550379, 4917190; 550471, 4917216; 550591, 4917147; 550785, 4917196; 550837, 4917116; 550794, 4916963; 551024, 4916887; 551381, 4917001; 551412, 4916633; 551667, 4916576; 551815, 4916426; 552081, 4916397; 552236, 4916410; 552961, 4916920; 553236, 4916881; 553271, 4916942; 553479, 4916940; 553653, 4917050; 554014, 4917011; 554432, 4916823; 554909, 4917126; 555277, 4917223; 555451, 4917196; 555626, 4917011; 555723, 4917002; 555738, 4917150; 556130, 4917146; 556311, 4917350; 556339, 4916762; 557132, 4916765; 557135, 4917105; 557443, 4917084; 557417, 4917166; 557521, 4917077; 557510, 4917557; 557273, 4917557; 557618, 4917817; 557872, 4917861; 558102, 4918025; 558185, 4918321; 558346, 4918417; 558740, 4917974; 558797, 4917807; 559300, 4917700; 559355, 4917756; 559468, 4917646; 559691, 4917648; 559746, 4917704; 559914, 4917594; 560736, 4917689; 560737, 4917823; 561366, 4917327; 561478, 4917328; 561479, 4917161; 561702, 4917163; 561868, 4917331; 562202, 4917334; 562367, 4917614; 562479, 4917615; 562929, 4917173; 562551, 4916851; 562563, 4916928; 562507, 4916806; 562516, 4916478; 562332, 4916283; 562100, 4916274; 562044, 4916329; 561656, 4915991; 562383, 4915774; 562608, 4915553; 562553, 4915441; 562778, 4915276; 562781, 4914885; 563061, 4914720; 563283, 4914889; 563282, 4915001; 563447, 4915225; 564171, 4915343; 564226, 4915399; 565175, 4915351; 565395, 4915632; 565338, 4915799; 565393, 4915967; 565505, 4915912; 566172, 4916085; 566282, 4916253; 566505, 4916311; 566730, 4916089; 566897, 4916091; 567010, 4915980; 567421, 4916044; 567723, 4915989; 567947, 4916133; 568455, 4916189; 568690, 4916429; 569108, 4916466; 569424, 4916359; 569430, 4916417; 569708, 4916388; 570613, 4916045; 571025, 4915959; 571551, 4916081; 572111, 4916602; 572750, 4916937; 573058, 4917070; 573692, 4917212; 573572, 4917063; 573349, 4916996; 573499, 4916916; 573399, 4916404; 573581, 4916297; 573716, 4916292; 573765, 4916499; 573628, 4916600; 574097, 4916696; 574492, 4916475; 574347, 4915041; 574647, 4914934; 574568, 4914833; 574448, 4914838; 574277, 4914663; 574134, 4914624; 574244, 4914498; 574353, 4914512; 574287, 4914344; 574363, 4914197; 574357, 4913917; 574478, 4913921; 574621, 4913656; 574762, 4913625; 574779, 4913292; 574691, 4913111; 575023, 4912606; 575050, 4912475; 574802, 4912253; 574384, 4912073; 574304, 4911947; 574141, 4911976; 573942, 4911880; 573818, 4911785; 573882, 4911616; 573757, 4911621; 573617, 4911776; 573329, 4911754; 573220, 4912035; 573088, 4912052; 572756, 4912555; 572670, 4912442; 572729, 4912223; 572596, 4911882; 572653, 4911603; 573053, 4911528; 573104, 4911176; 573065, 4911142; 572924, 4911214; 572752, 4911092; 572644, 4911231; 572457, 4911248; 572422, 4911414; 572615, 4911430; 572319, 4911686; 572351, 4911800; 572202, 4912018; 572420, 4912229; 572274, 4912544; 572075, 4912460; 571982, 4912340; 571661, 4912499; 571659, 4912643; 571339, 4912677; 571009, 4913030; 570649, 4913289; 570139, 4913540; 569918, 4913744; 569994, 4913928; 569869, 4914184; 569675, 4914233; 569551, 4913878; 569287, 4913907; 569231, 4913669; 568967, 4913698; 569205, 4913545; 569260, 4913601; 569484, 4913491; 569541, 4913324; 569489, 4912878; 569268, 4912653; 569327, 4912263; 569108, 4911815; 568829, 4911868; 568774, 4911812; 568776, 4911533; 568387, 4911363; 568388, 4911251; 568500, 4911196; 568501, 4911085; 568613, 4911030; 568614, 4910863; 568559, 4910807; 568672, 4910696; 568506, 4910472; 568395, 4910471; 568284, 4910358; 568117, 4910412; 567784, 4910131; 567617, 4910130; 567451, 4909961; 567004, 4910013; 566615, 4909899; 566282, 4909673; 566153, 4909170; 565754, 4909166; 565719, 4909049; 565546, 4908977; 565396, 4908996; 565116, 4909161; 564952, 4908714; 564729, 4908712; 564716, 4909007; 563089, 4908939; and excluding land bound by 566342, 4909795; 566360, 4910593; 564720, 4910563; 564721, 4909779; 566342, 4909795; and excluding land bound by 566366, 4910595; 567903, 4910640; 567889, 4911424; 567098, 4911417; 567090, 4912220; 566299, 4912213; 566366, 4910595; and excluding land bound by 553706, 4913666; 553719, 4914103; 552080, 4914077; 552040, 4913684; 553706, 4913666; and excluding land bound by 571387, 4914175; 571578, 4914306; 571716, 4914584; 571701, 4914790; 571558, 4914917; 571713, 4915459; 572140, 4915708; 572365, 4915743; 572632, 4916010; 572729, 4916005; 572692, 4915843; 572861, 4915710; 573080, 4915623; 573150, 4915668; 573152, 4916061; 573055, 4916182; 573149, 4916265; 572936, 4916144; 572754, 4916362; 572771, 4916548; 572975, 4916763; 572978, 4916908; 572265, 4916578; 572268, 4916353; 571937, 4916060; 571706, 4916025; 571891, 4916162; 571979, 4916350; 571610, 4915979; 571296, 4915885; 571554, 4915837; 571213, 4915420; 571448, 4914980; 571456, 4914864; 571250, 4914341; 571387, 4914175; and excluding land bound by 570988, 4915830; 569729, 4916253; 569308, 4916332; 568710, 4916314; 568456, 4916086; 568712, 4916140; 568649, 4915985; 568682, 4915915; 568912, 4916097; 569079, 4916073; 569143, 4916157; 569329, 4916165; 569446, 4916070; 569509, 4916154; 569580, 4916142; 569906, 4915966; 569972, 4915799; 570147, 4915673; 570341, 4915643; 570417, 4915695; 570559, 4915632; 570574, 4915497; 570890, 4915405; 570985, 4915496; 570988, 4915830; and excluding land bound by 574228, 4913113; 574098, 4913111; 574023, 4912971; 573993, 4912851; 574051, 4912746; 574176, 4912728; 574423, 4913025; 574574, 4913116; 574474, 4913169; 574228, 4913113; and excluding land bound by 550851, 4916369; 551024, 4916473; 551017, 4916544; 550927, 4916543; 550925, 4916736; 550829, 4916735; 550851, 4916369; and excluding land bound by 553938, 4916382; 555507, 4916389; 555561, 4916762; 553954, 4916755; 553938, 4916382; and excluding land bound by 555844, 4917069; 555800, 4917069; 555800, 4916954; 555844, 4916954; 555844, 4917069.

(D) Land bounded by the following UTM Zone 10, NAD83 coordinates (E, N): 585927, 4935172; 586322, 4935023; 586362, 4934907; 586262, 4934694; 585973, 4934658; 585189, 4934114; 585084, 4934209; 585124, 4934654; 584943, 4934722; 585312, 4934984; 585805, 4935190; 585927, 4935172.

(E) Land bounded by the following UTM Zone 10, NAD83 coordinates (E, N): 553575, 4939314; 554332, 4938773; 554434, 4938935; 554369, 4938986; 554508, 4939276; 553802, 4939882; 553681, 4939739; 553906, 4939533; 553739, 4939649; 553575, 4939314; 553488, 4939370; 553478, 4944703; 557566, 4944843; 557623, 4944620; 557513, 4944508; 557514, 4944396; 557852, 4943953; 558075, 4943955; 558144, 4943854; 558140, 4943956; 557974, 4943978; 558000, 4944418; 558266, 4944587; 559020, 4944647; 559075, 4944392; 558792, 4944217; 558835, 4944045; 558472, 4944066; 558719, 4943682; 558464, 4943632; 558188, 4943789; 558357, 4943623; 558636, 4943569; 558866, 4943639; 560116, 4943511; 560103, 4943378; 560295, 4942853; 560284, 4942649; 560388, 4942357; 560762, 4942146; 560880, 4942011; 561025, 4941621; 560953, 4941524; 561098, 4941079; 561101, 4940627; 561369, 4940636; 561561, 4940553; 562230, 4939978; 562861, 4939907; 563198, 4939965; 563358, 4939578; 563774, 4939267; 563876, 4939164; 563887, 4939059; 565014, 4938595; 566628, 4938631; 566694, 4938522; 566932, 4938447; 567497, 4938575; 567918, 4938335; 568233, 4938319; 568333, 4938199; 568374, 4938365; 568833, 4938801; 568991, 4939079; 569177, 4939126; 569374, 4939083; 569533, 4939181; 569746, 4939100; 569891, 4938863; 569709, 4938482; 569382, 4938394; 569190, 4938431; 569069, 4938333; 568754, 4938266; 569250, 4937563; 569201, 4937370; 569026, 4937217; 569147, 4936964; 569107, 4936462; 569314, 4936342; 569510, 4936395; 569725, 4936298; 569911, 4935893; 569839, 4935616; 570384, 4935046; 570686, 4934955; 570776, 4934800; 571023, 4935103; 571623, 4935160; 571827, 4935444; 572020, 4935547; 572342, 4935339; 571694, 4932044; 571694, 4930574; 571951, 4929736; 571326, 4928399; 571252, 4928507; 571029, 4928505; 570808, 4928280; 570586, 4928223; 570473, 4928389; 570250, 4928387; 570081, 4928553; 569635, 4928549; 569524, 4928437; 569301, 4928435; 569245, 4928490; 568521, 4928429; 568355, 4928260; 567966, 4928089; 567409, 4928085; 567240, 4928195; 567130, 4928082; 566406, 4927965; 566350, 4928020; 565862, 4928075; 565906, 4928194; 565799, 4928192; 565711, 4928315; 565804, 4928555; 565652, 4928856; 565751, 4928911; 566039, 4928776; 566211, 4928914; 566147, 4929149; 566035, 4929160; 565886, 4929390; 565567, 4929576; 565559, 4929877; 565408, 4930180; 565448, 4930271; 565400, 4930494; 565293, 4930654; 565350, 4930848; 565264, 4931169; 565555, 4931603; 565699, 4931952; 565685, 4932100; 565363, 4932727; 565394, 4932849; 565167, 4933027; 564731, 4932939; 564254, 4933018; 563832, 4932827; 563399, 4932945; 562959, 4933204; 563084, 4933637; 562993, 4933713; 562561, 4933811; 561919, 4933644; 561181, 4933553; 560996, 4933326; 560862, 4932821; 560254, 4932316; 560212, 4931968; 559948, 4931649; 559561, 4931530; 559180, 4931566; 558789, 4931357; 558643, 4931175; 558553, 4931175; 558325, 4931346; 558319, 4932883; 555104, 4932856; 555104, 4934291; 551969, 4934252; 551978, 4935853; 552762, 4935859; 552709, 4938271; 553069, 4938271; 553245, 4938102; 553923, 4937734; 554257, 4937834; 554426, 4937591; 554292, 4937493; 554532, 4937219; 554391, 4937147; 554834, 4936488; 554974, 4935981; 555140, 4936040; 555047, 4936458; 554786, 4936912; 554907, 4936997; 555056, 4936837; 555402, 4937052; 555187, 4937424; 555250, 4937469; 554868, 4937755; 554699, 4938037; 555263, 4938177; 555291, 4937965; 555420, 4937882; 555354, 4938152; 555405, 4938197; 555575, 4937793; 555716, 4937910; 555598, 4938186; 555934, 4937996; 556029, 4938164; 556392, 4937877; 556474, 4938032; 555781, 4938515; 555687, 4938339; 555615, 4938379; 555430, 4938242; 554909, 4938206; 554783, 4938687; 554431, 4938459; 554485, 4938183; 554312, 4938136; 554279, 4938220; 553836, 4938107; 553469, 4938380; 553490, 4939260; 553575, 4939314; and excluding land bound by 556158, 4938898; 556279, 4939002; 556141, 4939154; 556421, 4938920; 556544, 4939024; 556030, 4939527; 555883, 4939410; 556032, 4939257; 555905, 4939134; 556158, 4938898.

(F) Land bounded by the following UTM Zone 10, NAD83 coordinates (E, N): 582969, 4948789; 582964, 4949201; 583395, 4949207; 583394, 4948795; 582969, 4948789.

(G) Land bounded by the following UTM Zone 10, NAD83 coordinates (E, N): 580240, 4953797; 580383, 4953799; 580224, 4953696; 580232, 4953565; 580017, 4953640; 579769, 4953969; 579610, 4954335; 579202, 4954603; 579414, 4954784; 579755, 4954610; 579935, 4954417; 580023, 4954056; 580240, 4953797.

(H) Land bounded by the following UTM Zone 10, NAD83 coordinates (E, N): 558829, 4958187; 558740, 4958216; 558719, 4958639; 559125, 4958897; 559217, 4958748; 559219, 4958457; 559006, 4958372; 558829, 4958187.

(I) Land bounded by the following UTM Zone 10, NAD83 coordinates (E, N): 569537, 4964019; 569771, 4964030; 570017, 4963941; 570124, 4963710; 570337, 4963515; 570841, 4963573; 570987, 4963516; 571028, 4963422; 571287, 4963349; 571580, 4963367; 571676, 4963471; 571811, 4963470; 572244, 4963257; 572630, 4963652; 572935, 4963781; 573209, 4963659; 573169, 4963751; 573212, 4963793; 573667, 4963613; 573644, 4963368; 573525, 4963126; 573335, 4962977; 573272, 4962701; 573087, 4962538; 572979, 4962341; 572846, 4962284; 572570, 4962747; 572119, 4963027; 572045, 4963326; 571979, 4963278; 571913, 4962840; 571708, 4962825; 571612, 4962746; 571373, 4962872; 571207, 4963175; 570852, 4962847; 570625, 4962992; 570122, 4962911; 569749, 4963162; 569555, 4963186; 569060, 4962915; 568947, 4962433; 567669, 4962213; 567220, 4962480; 567263, 4962633; 567223, 4962789; 567626, 4963316; 567751, 4963386; 568177, 4963439; 569349, 4964036; 569537, 4964019.

(J) Land bounded by the following UTM Zone 10, NAD83 coordinates (E, N): 574284, 4964990; 574348, 4964985; 574308, 4964849; 574099, 4964621; 574219, 4964281; 574219, 4964095; 574087, 4963984; 574121, 4963804; 573879, 4963596; 573679, 4963620; 573571, 4964023; 573602, 4964319; 573702, 4964462; 574006, 4964474; 573972, 4964732; 574202, 4964778; 574217, 4964950; 574284, 4964990.

(K) Land bounded by the following UTM Zone 10, NAD83 coordinates (E, N): 574741, 4965108; 574562, 4965070; 574581, 4965292; 574973, 4965332; 574741, 4965108.

(L) Land bounded by the following UTM Zone 10, NAD83 coordinates (E, N): 559040, 4965871; 559133, 4965875; 559347, 4965670; 559534, 4965621; 559721, 4965373; 559709, 4965304; 560269, 4965163; 560073, 4964555; 560368, 4963779; 560369, 4963615; 560536, 4963285; 560508, 4962942; 560590, 4962444; 560931, 4962046; 560835, 4961867; 560671, 4961851; 560470, 4961932; 560347, 4961876; 560287, 4961734; 560613, 4961300; 560682, 4961071; 560661, 4960639; 560857, 4960206; 561080, 4960073; 561271, 4959697; 561267, 4959491; 561407, 4959387; 562057, 4959754; 562368, 4960244; 562510, 4960274; 562585, 4960093; 562539, 4959532; 562699, 4959365; 562773, 4959158; 562541, 4959256; 562019, 4959340; 561667, 4959131; 561037, 4959176; 560407, 4959125; 560115, 4959468; 560141, 4959373; 559270, 4959667; 559253, 4960087; 559166, 4960396; 558675, 4961234; 558538, 4965901; 559040, 4965871.

(M) Land bounded by the following UTM Zone 10, NAD83 coordinates (E, N): 595395, 4968976; 596243, 4966619; 596022, 4964741; 594954, 4963968; 593812, 4964078; 592670, 4963452; 591492, 4961979; 593849, 4958885; 593686, 4957941; 592527, 4959469; 592667, 4959536; 592546, 4959577; 592362, 4959837; 592130, 4959951; 592133, 4960277; 591397, 4960799; 590638, 4961833; 590169, 4962178; 589727, 4961964; 589346, 4961528; 589391, 4961313; 589343, 4961167; 588919, 4961044; 588999, 4961024; 589143, 4960543; 588941, 4960160; 588789, 4959453; 589047, 4958910; 588334, 4958419; 588094, 4958093; 587875, 4958117; 587749, 4957954; 587886, 4957563; 587768, 4957408; 587799, 4957313; 588073, 4957262; 588174, 4957165; 588038, 4956985; 588180, 4956782; 587981, 4956773; 588142, 4956730; 588247, 4956597; 588505, 4956529; 588578, 4956376; 588685, 4956383; 588752, 4955870; 589078, 4955809; 589119, 4955627; 588879, 4954822; 588310, 4953716; 588106, 4953605; 587897, 4953351; 587602, 4953142; 587369, 4952803; 586818, 4952853; 586330, 4953059; 585974, 4952884; 585916, 4952900; 585889, 4953093; 585803, 4952987; 585598, 4952934; 585348, 4953141; 585152, 4953210; 584887, 4953032; 584824, 4952829; 584865, 4952695; 584482, 4952568; 584243, 4952400; 584248, 4952250; 584529, 4952055; 584826, 4951696; 584939, 4951376; 585239, 4950899; 585274, 4950541; 585874, 4950234; 587011, 4950191; 587797, 4950248; 587797, 4950536; 587968, 4950522; 587967, 4950632; 588318, 4950656; 588727, 4950777; 588743, 4951007; 588814, 4951059; 589541, 4951166; 589640, 4950818; 589847, 4950939; 590157, 4948209; 589978, 4946399; 589458, 4946333; 588926, 4946352; 588248, 4946517; 588265, 4945244; 588177, 4945056; 588167, 4943905; 587925, 4943902; 587874, 4944116; 587779, 4944225; 587613, 4944273; 587299, 4944512; 587177, 4944523; 587008, 4944697; 586905, 4944700; 586863, 4944813; 586677, 4944625; 586519, 4944307; 586366, 4944225; 586214, 4944249; 585994, 4944104; 586111, 4943767; 586097, 4943611; 586259, 4943221; 586006, 4942689; 586009, 4942550; 586124, 4942463; 586009, 4942133; 586202, 4942033; 586564, 4942101; 586623, 4941889; 586868, 4941766; 586835, 4941624; 586981, 4941518; 586978, 4941393; 587248, 4941287; 587276, 4939673; 587043, 4939824; 586605, 4939857; 585913, 4940144; 585096, 4940661; 585010, 4940572; 585106, 4940526; 585114, 4940383; 584900, 4940357; 584896, 4940232; 584968, 4940167; 584839, 4940035; 584820, 4939726; 584666, 4939653; 584466, 4939953; 584584, 4939990; 584578, 4940358; 584531, 4940416; 584727, 4940455; 584692, 4940829; 584939, 4940820; 583894, 4941717; 583840, 4941734; 583762, 4941479; 583065, 4941471; 583062, 4941670; 582754, 4941666; 582755, 4941576; 582646, 4941575; 582648, 4941375; 582558, 4941374; 582556, 4941065; 582775, 4941068; 582772, 4941268; 583151, 4941272; 583159, 4940668; 583440, 4940671; 583435, 4940601; 582336, 4939359; 582140, 4939482; 581948, 4939835; 581682, 4940031; 581576, 4940294; 580882, 4941301; 580669, 4941768; 580345, 4942077; 580201, 4942113; 579771, 4941944; 579293, 4942032; 579144, 4941980; 578830, 4942033; 578536, 4941973; 578284, 4942127; 578445, 4942774; 578448, 4943112; 578325, 4943424; 578345, 4943885; 578238, 4943969; 578304, 4944046; 578134, 4944186; 578082, 4944329; 578588, 4945055; 579016, 4945399; 578990, 4946006; 578603, 4946383; 578433, 4946722; 578528, 4946726; 578503, 4948406; 578655, 4948395; 578712, 4948773; 578596, 4948643; 578455, 4948629; 578307, 4948678; 578182, 4948838; 578252, 4948922; 578504, 4948822; 578689, 4948848; 578461, 4948875; 577901, 4949125; 577163, 4949017; 576829, 4948687; 576487, 4948683; 576462, 4949101; 575658, 4949083; 575524, 4949323; 575243, 4949370; 575237, 4949859; 574868, 4949869; 574786, 4950062; 574702, 4950073; 574683, 4950227; 574960, 4950432; 575103, 4950368; 575411, 4950431; 575391, 4950092; 575286, 4949916; 576001, 4950256; 576177, 4950986; 576076, 4951399; 575886, 4951570; 576692, 4951773; 577329, 4952204; 577098, 4952476; 576943, 4952522; 576525, 4952196; 576486, 4952534; 576592, 4952625; 576740, 4952615; 576896, 4952763; 577217, 4952770; 577281, 4952579; 577496, 4952522; 577801, 4952300; 577779, 4951949; 577843, 4951912; 579148, 4951620; 579963, 4951568; 580456, 4951364; 580548, 4951427; 580553, 4951530; 580072, 4951878; 580072, 4952412; 580856, 4952422; 580855, 4952017; 581261, 4952016; 581264, 4950812; 582518, 4950829; 582520, 4951633; 582096, 4951628; 582090, 4952039; 581666, 4952027; 581660, 4952439; 581049, 4952426; 581125, 4952792; 581241, 4952975; 581074, 4953318; 580783, 4953508; 580560, 4953795; 580154, 4953963; 580023, 4954109; 579990, 4954276; 580129, 4954419; 580100, 4954663; 580416, 4955053; 580939, 4954456; 580914, 4954421; 581262, 4954755; 581328, 4954975; 581719, 4955237; 581727, 4955575; 581430, 4955734; 581003, 4956305; 581032, 4956499; 580955, 4957093; 580984, 4957775; 580929, 4957901; 581055, 4958059; 581317, 4958157; 581422, 4958290; 581343, 4958854; 581574, 4958851; 581564, 4959661; 581650, 4959722; 583405, 4959794; 584088, 4960066; 584727, 4960449; 586221, 4961149; 587192, 4961409; 588084, 4961975; 588261, 4962457; 588446, 4962528; 588868, 4962349; 588865, 4962510; 589002, 4962447; 589149, 4962605; 589250, 4962608; 589340, 4962797; 589308, 4963069; 589993, 4963843; 590060, 4964074; 589914, 4964463; 589984, 4964632; 589802, 4964762; 589643, 4965010; 589889, 4965146; 589999, 4965493; 590257, 4965795; 589849, 4966330; 589947, 4966614; 589831, 4966898; 589864, 4967104; 589748, 4967220; 589828, 4967403; 589747, 4967480; 589639, 4967478; 589615, 4967578; 589696, 4967877; 589635, 4967919; 589755, 4968154; 589734, 4968379; 589500, 4968761; 589140, 4969111; 589364, 4969360; 591418, 4969455; 594143, 4969676; 595395, 4968976; and excluding land bound by 582969, 4948789; 582980, 4947986; 583803, 4947996; 583793, 4948800; 584185, 4948799; 584176, 4950021; 584561, 4950026; 584563, 4950418; 584170, 4950420; 584166, 4951243; 583381, 4951239; 583390, 4950030; 582104, 4950013; 582121, 4949197; 582533, 4949195; 582545, 4948784; 582969, 4948789; and excluding land bound by 582591, 4946752; 582575, 4945941; 584215, 4945975; 584213, 4945171; 585030, 4945182; 585022, 4946790; 586231, 4946812; 586220, 4947629; 584612, 4947602; 584618, 4947190; 583421, 4947168; 583433, 4946769; 582591, 4946752.

(N) Land bounded by the following UTM Zone 10, NAD83 coordinates (E, N): 557621, 4971402; 557234, 4971394; 557234, 4972321; 558417, 4972328; 558419, 4971825; 557620, 4971808; 557621, 4971402.

(O) Land bounded by the following UTM Zone 10, NAD83 coordinates (E, N): 555404, 4976689; 556596, 4976679; 556562, 4976177; 554395, 4976206; 553946, 4976672; 555404, 4976689.

(P) Land bounded by the following UTM Zone 10, NAD83 coordinates (E, N): 566044, 4978633; 566101, 4978577; 566401, 4978558; 566965, 4978258; 567002, 4978088; 566859, 4977551; 566968, 4977324; 566723, 4976913; 566869, 4976582; 567035, 4976384; 567002, 4976261; 567130, 4976060; 567085, 4975916; 567210, 4975805; 567028, 4975717; 567004, 4975571; 566689, 4975174; 566826, 4974912; 566787, 4974827; 565922, 4975153; 565378, 4975053; 565139, 4975113; 564371, 4974817; 564506, 4974601; 564536, 4974083; 564189, 4973731; 564123, 4973348; 563957, 4973133; 564024, 4973029; 564010, 4972873; 563801, 4972721; 563866, 4972559; 563823, 4972316; 564198, 4972660; 564611, 4972637; 564803, 4972496; 564832, 4972571; 565004, 4972613; 565158, 4972507; 565247, 4972089; 565685, 4972380; 566571, 4971620; 566109, 4970779; 565997, 4970678; 565924, 4970772; 565705, 4970672; 565213, 4969801; 564880, 4969377; 564751, 4968945; 564353, 4969031; 564098, 4969202; 563845, 4969197; 563425, 4968957; 562911, 4968794; 562572, 4968261; 562536, 4968461; 562599, 4968853; 562525, 4969267; 562793, 4969398; 562914, 4969625; 562988, 4969969; 562494, 4970130; 562307, 4970113; 562023, 4970275; 561746, 4970263; 561560, 4970411; 561368, 4970339; 561231, 4970460; 560784, 4970581; 560621, 4970680; 560591, 4970855; 560273, 4971276; 560140, 4971329; 560412, 4971623; 560807, 4972246; 561165, 4972453; 561373, 4972761; 561593, 4973573; 561928, 4974098; 561854, 4974366; 562274, 4974706; 562437, 4975398; 562572, 4975508; 562803, 4975928; 563577, 4976690; 563598, 4977053; 563738, 4977095; 563782, 4977231; 564065, 4977334; 564275, 4977531; 564460, 4977478; 564619, 4977542; 564590, 4977638; 564465, 4977677; 564531, 4977713; 564920, 4977551; 565041, 4977294; 565132, 4977267; 565134, 4977728; 565056, 4977859; 565260, 4977990; 565344, 4978199; 565526, 4978240; 566044, 4978633.

(Q) Land bounded by the following UTM Zone 10, NAD83 coordinates (E, N): 555320, 4978769; 555286, 4977375; 555143, 4978023; 555208, 4978488; 555320, 4978769.

(R) Land bounded by the following UTM Zone 10, NAD83 coordinates (E, N): 552933, 4979050; 552936, 4978261; 552531, 4978267; 552526, 4979055; 552933, 4979050.

(S) Land bounded by the following UTM Zone 10, NAD83 coordinates (E, N): 546853, 4978724; 547106, 4978746; 547478, 4978944; 547660, 4978919; 546021, 4978031; 546015, 4978429; 546359, 4978436; 546383, 4979234; 546760, 4979240; 546789, 4979640; 547344, 4979647; 547077, 4979207; 546649, 4978831; 546677, 4978770; 546853, 4978724.

(T) Land bounded by the following UTM Zone 10, NAD83 coordinates (E, N): 555753, 4979733; 555755, 4979065; 555397, 4979034; 555591, 4979222; 555628, 4979711; 555753, 4979733.

(U) Land bounded by the following UTM Zone 10, NAD83 coordinates (E, N): 555225, 4980578; 555222, 4980392; 555032, 4980358; 554810, 4980417; 554618, 4980554; 554389, 4980535; 554277, 4980623; 555224, 4980644; 555225, 4980578.

(V) Land bounded by the following UTM Zone 10, NAD83 coordinates (E, N): 549732, 4980999; 549728, 4980600; 549281, 4980848; 549219, 4980962; 549732, 4980999.

(W) Land bounded by the following UTM Zone 10, NAD83 coordinates (E, N): 571918, 4983025; 571928, 4982814; 572046, 4982567; 572233, 4982529; 572429, 4982315; 572574, 4982332; 572486, 4982271; 572434, 4981988; 572792, 4982150; 572792, 4981989; 572862, 4981964; 573076, 4982123; 573066, 4982330; 573292, 4982233; 573440, 4982361; 573611, 4982352; 573791, 4982513; 574073, 4982338; 574347, 4982033; 574520, 4981995; 574780, 4982041; 574897, 4982277; 574984, 4982321; 575130, 4982248; 575225, 4982271; 575346, 4982178; 575456, 4982219; 575692, 4982136; 576111, 4982330; 576103, 4982154; 575867, 4981740; 575831, 4981435; 575596, 4981184; 575719, 4980938; 575867, 4980907; 576083, 4981017; 576259, 4980979; 576721, 4980641; 577485, 4981247; 577555, 4981019; 577672, 4980933; 577581, 4980731; 577883, 4980414; 577861, 4980329; 577699, 4980267; 577686, 4980144; 577584, 4980040; 577681, 4980071; 577738, 4979932; 577715, 4979574; 577798, 4979307; 577799, 4978831; 577600, 4978692; 577414, 4978706; 577473, 4978404; 577329, 4978265; 577042, 4978264; 576937, 4978195; 576945, 4978140; 577134, 4978067; 577262, 4977828; 577523, 4977744; 577685, 4977580; 577557, 4977459; 577615, 4977154; 577227, 4976929; 577202, 4976766; 577100, 4976657; 577396, 4976626; 577344, 4976357; 577385, 4976268; 577725, 4976129; 577748, 4976024; 577576, 4975967; 577567, 4975914; 577709, 4975763; 577912, 4975698; 577746, 4975578; 577820, 4975494; 577740, 4975425; 577746, 4975348; 578213, 4975033; 578376, 4975027; 578457, 4974715; 578251, 4974580; 578408, 4974196; 578580, 4974056; 578959, 4974085; 579120, 4973997; 579069, 4973795; 579116, 4973762; 579101, 4973564; 579042, 4973480; 579263, 4973391; 579307, 4973296; 579202, 4972902; 579296, 4972778; 579335, 4972483; 579439, 4972399; 579576, 4972411; 579725, 4972115; 579921, 4972080; 579893, 4971954; 580331, 4972143; 580580, 4972078; 580669, 4971972; 580879, 4971990; 580947, 4971931; 580756, 4971813; 580552, 4971502; 580398, 4971448; 580342, 4971272; 580537, 4970939; 580716, 4970826; 580954, 4970847; 580981, 4970652; 580875, 4970560; 581108, 4970138; 581005, 4970016; 580992, 4969866; 580852, 4969799; 580936, 4969502; 580797, 4969417; 580868, 4969318; 580884, 4969078; 580818, 4968777; 580685, 4968612; 580709, 4968245; 580587, 4968045; 580278, 4968131; 579997, 4967755; 579980, 4967549; 580114, 4967270; 580063, 4967132; 580146, 4966905; 579868, 4966934; 579984, 4966505; 579778, 4966362; 579935, 4966011; 579626, 4965689; 579267, 4965567; 579213, 4965293; 578781, 4965335; 578331, 4965069; 578158, 4965175; 578035, 4965146; 577900, 4965257; 577763, 4965460; 577849, 4965523; 577802, 4965654; 578115, 4965799; 578056, 4966140; 578165, 4966340; 578105, 4966594; 577965, 4966687; 577728, 4966641; 577468, 4966352; 577179, 4966397; 576788, 4966246; 576591, 4966246; 576361, 4966419; 576725, 4966493; 576719, 4967079; 577478, 4967659; 577490, 4968117; 577662, 4968179; 577925, 4968402; 578316, 4968517; 578378, 4969216; 578562, 4969594; 578240, 4969690; 578196, 4970286; 578105, 4970535; 578107, 4971006; 578030, 4971203; 577601, 4970812; 577483, 4970838; 577270, 4971084; 576789, 4971346; 575470, 4972362; 575526, 4972493; 575510, 4972796; 575430, 4972998; 575478, 4973649; 575610, 4973901; 575693, 4974260; 576065, 4974818; 575863, 4975151; 575816, 4975346; 575951, 4975986; 575474, 4975920; 575329, 4976099; 574730, 4975761; 574607, 4975542; 574485, 4975510; 574280, 4975293; 574169, 4975309; 574082, 4975471; 573877, 4975501; 573287, 4975785; 572919, 4975800; 572827, 4975782; 572768, 4975681; 572758, 4975786; 572920, 4975960; 573045, 4975992; 573090, 4976111; 573064, 4976208; 572942, 4976279; 572714, 4976215; 572509, 4976379; 572694, 4976666; 572736, 4976881; 572376, 4976970; 572239, 4976669; 572066, 4976602; 572131, 4976841; 571917, 4977124; 572037, 4977165; 572171, 4977393; 572164, 4977617; 572254, 4977911; 572201, 4978264; 572241, 4978538; 572141, 4978570; 571939, 4978409; 571757, 4978449; 571574, 4978393; 571350, 4978205; 571082, 4978202; 571112, 4978376; 571267, 4978610; 571383, 4979205; 571756, 4979590; 571507, 4979935; 571226, 4980078; 571350, 4980299; 571421, 4980670; 571511, 4980764; 571503, 4982423; 571749, 4982470; 571517, 4982804; 571903, 4983159; 571918, 4983025.

(X) Land bounded by the following UTM Zone 10, NAD83 coordinates (E, N): 585479, 4998174; 585682, 4997999; 585772, 4998037; 585903, 4997934; 585707, 4997786; 585854, 4997643; 585655, 4997558; 585660, 4997397; 585319, 4997393; 585135, 4997912; 585201, 4998186; 585479, 4998174.

(Y) Land bounded by the following UTM Zone 10, NAD83 coordinates (E, N): 575878, 5009426; 576335, 5009307; 576589, 5009161; 577376, 5009171; 577438, 5008975; 577666, 5009162; 577866, 5009202; 578137, 5008947; 578589, 5008890; 578834, 5008362; 578854, 5008152; 578762, 5007690; 579069, 5007401; 579346, 5007307; 579425, 5007163; 579939, 5006925; 580095, 5007029; 580236, 5006991; 580765, 5007148; 581158, 5007133; 581236, 5007064; 581364, 5007114; 581452, 5007057; 581887, 5007058; 581934, 5006958; 582061, 5006960; 582273, 5006845; 582328, 5006656; 582538, 5006523; 582834, 5006655; 583066, 5006367; 583247, 5006305; 583439, 5006325; 583584, 5006141; 583864, 5006218; 584044, 5006025; 584365, 5005979; 584595, 5005822; 584907, 5005908; 585070, 5005855; 585467, 5005540; 585775, 5005015; 586355, 5004665; 586723, 5005083; 587005, 5005708; 587405, 5006113; 587378, 5007718; 589737, 5007767; 589894, 5007380; 590161, 5007268; 590314, 5007095; 590425, 5006726; 590347, 5006243; 590635, 5006032; 590456, 5005583; 590479, 5004712; 590653, 5004464; 590718, 5004185; 590935, 5003936; 591170, 5003791; 591243, 5003359; 592500, 5002689; 592984, 5002478; 593439, 5002362; 593332, 5002130; 593321, 5001852; 593139, 5001468; 593191, 5001019; 593357, 5001028; 593356, 5000653; 593062, 4999901; 593192, 4999443; 593347, 4999311; 592900, 4999262; 592895, 4999337; 592598, 4999280; 592584, 4999407; 592374, 4999350; 592196, 4999182; 591990, 4999211; 591856, 4999327; 591909, 4999110; 591844, 4998613; 591441, 4997663; 591394, 4997685; 591433, 4998024; 591362, 4998278; 591008, 4998988; 590813, 4998980; 590617, 4998729; 590309, 4998830; 590179, 4998787; 590160, 4998744; 590282, 4998668; 590275, 4998557; 590154, 4998397; 590280, 4997762; 589932, 4997621; 589261, 4997613; 589146, 4997484; 589030, 4997488; 589005, 4997372; 588599, 4997048; 588702, 4996669; 588577, 4996685; 588476, 4996599; 588673, 4996604; 588805, 4995985; 588697, 4996003; 588683, 4996098; 588586, 4996097; 588604, 4996182; 588536, 4996226; 588459, 4996052; 588637, 4995992; 588713, 4995765; 588461, 4995704; 588329, 4995494; 588263, 4995524; 588189, 4996018; 588229, 4996064; 588153, 4996141; 588143, 4996318; 588407, 4996403; 588138, 4996516; 587837, 4996359; 587588, 4996456; 587404, 4996737; 587252, 4997265; 586950, 4997372; 586603, 4997828; 586244, 4997863; 585872, 4997986; 585424, 4998396; 585306, 4998415; 585078, 4998001; 584741, 4998154; 584654, 4998283; 584422, 4998428; 583833, 4998623; 583407, 4998678; 582897, 4998626; 582534, 4998438; 582041, 4998011; 581996, 4997881; 581814, 4997775; 581617, 4997725; 581268, 4997753; 581632, 4997285; 581777, 4996691; 581662, 4996159; 581392, 4996092; 580933, 4995773; 580976, 4995396; 580903, 4995217; 581117, 4994744; 581486, 4994469; 581452, 4994396; 581533, 4994294; 582007, 4994052; 582381, 4993617; 582323, 4993406; 582521, 4992454; 582328, 4992089; 582131, 4992041; 582055, 4991922; 581966, 4992044; 581677, 4992108; 581531, 4992349; 581319, 4992501; 581015, 4992555; 580807, 4992817; 580475, 4992926; 580289, 4993146; 580034, 4993113; 580033, 4993213; 579649, 4993328; 579471, 4993483; 579334, 4993429; 579270, 4993556; 579080, 4993568; 579019, 4993653; 578946, 4993617; 578802, 4993712; 578670, 4993688; 578594, 4993790; 578538, 4993802; 578477, 4993711; 578121, 4993945; 578022, 4994079; 577750, 4994216; 577016, 4994267; 576678, 4994536; 576294, 4995000; 575752, 4996103; 574814, 4996147; 574129, 4996317; 573763, 4996145; 573263, 4996272; 573192, 4996165; 571680, 4996741; 571715, 4996833; 571625, 4996926; 571356, 4996830; 571202, 4996947; 571006, 4996953; 570934, 4996987; 570839, 4997495; 570869, 4997592; 570700, 4997823; 570680, 4998032; 570334, 4998157; 570164, 4998126; 569976, 4997991; 569956, 4997733; 569751, 4997613; 569772, 4997704; 569682, 4997828; 569346, 4997894; 569476, 4998138; 569587, 4998160; 569646, 4998248; 569545, 4998469; 569640, 4998590; 569597, 4998881; 569525, 4999003; 569373, 4999027; 569317, 4999146; 568959, 4999101; 568925, 4999423; 568987, 4999624; 568805, 4999810; 568853, 5000078; 568553, 5000614; 568442, 5000605; 568328, 5000501; 568280, 5000103; 567895, 4999568; 567684, 4999779; 567751, 4999113; 567909, 4998709; 567906, 4998424; 567836, 4998274; 568157, 4997584; 568153, 4997224; 567033, 4997211; 566434, 4997658; 565921, 4997683; 565058, 4998125; 564598, 4998487; 564616, 4999204; 564825, 4999331; 564548, 4999424; 564411, 4999628; 564363, 4999888; 564267, 5000022; 564314, 5000815; 563795, 5001536; 563513, 5002391; 562147, 5002361; 562069, 5004830; 562525, 5005434; 563035, 5005615; 563388, 5005556; 563513, 5005731; 563730, 5005712; 563845, 5005894; 564100, 5005984; 564389, 5005980; 564820, 5005849; 565270, 5005515; 565360, 5005378; 565870, 5005237; 565750, 5005114; 565674, 5004844; 566213, 5003614; 566500, 5003237; 566770, 5003063; 567310, 5002453; 567820, 5002847; 568059, 5002833; 568209, 5003096; 569199, 5002821; 569305, 5002714; 569302, 5002534; 569385, 5002456; 569871, 5003100; 570152, 5003352; 570322, 5003369; 570435, 5003540; 570828, 5003810; 571080, 5004114; 571200, 5004161; 571565, 5004661; 571866, 5004569; 572423, 5004551; 572753, 5004605; 573016, 5004828; 573073, 5005100; 573489, 5005931; 573691, 5006645; 574023, 5007010; 574358, 5007956; 574732, 5008046; 575163, 5008061; 575272, 5008162; 575357, 5008411; 575232, 5008593; 575302, 5009065; 575510, 5009228; 575684, 5009487; 575878, 5009426; and excluding land bound by 576386, 5005980; 576107, 5005691; 575999, 5005712; 575910, 5005601; 575655, 5005621; 575224, 5005200; 575156, 5005197; 574669, 5004452; 574559, 5004451; 574130, 5004096; 573653, 5003980; 573400, 5003609; 573075, 5003320; 572406, 5002939; 571322, 5002706; 570656, 5002130; 570440, 5002128; 570247, 5001973; 569748, 5001791; 569607, 5001665; 569360, 5001612; 569150, 5001705; 569204, 5001273; 569712, 5000896; 569882, 5001032; 570268, 5000989; 570548, 5001065; 571273, 5001529; 571466, 5001794; 571987, 5001978; 572756, 5002137; 573351, 5002389; 573780, 5002787; 573779, 5002852; 574337, 5003317; 574577, 5003362; 575435, 5004048; 575841, 5004621; 576188, 5004736; 576518, 5004995; 576683, 5005027; 576788, 5005201; 577133, 5005490; 577913, 5005785; 578174, 5005765; 578448, 5005565; 578875, 5005428; 579466, 5005371; 579918, 5005485; 579987, 5005400; 580267, 5005407; 580360, 5005340; 581488, 5005465; 581921, 5005298; 582885, 5005196; 583320, 5004949; 584193, 5004790; 585210, 5003611; 585284, 5003106; 585372, 5002937; 585227, 5002300; 585059, 5002125; 584253, 5002157; 583931, 5001892; 583934, 5001652; 584047, 5001393; 584504, 5001291; 585033, 5001298; 585504, 5001436; 586040, 5002167; 586217, 5003208; 585794, 5004104; 585697, 5004441; 585411, 5004843; 585369, 5004805; 584486, 5005510; 583767, 5005608; 583657, 5005737; 583547, 5005735; 583261, 5005949; 582977, 5006053; 582890, 5005987; 582369, 5006045; 581798, 5006256; 580621, 5006280; 580489, 5006211; 579928, 5006206; 579820, 5006270; 579149, 5006105; 578927, 5006408; 578436, 5006527; 578010, 5006742; 577965, 5006677; 577060, 5006361; 576386, 5005980.

(Z) Land bounded by the following UTM Zone 10, NAD83 coordinates (E, N): 581920, 5018682; 582428, 5018581; 582450, 5018304; 582626, 5018044; 582664, 5017795; 582751, 5017698; 582794, 5018091; 582868, 5017787; 583044, 5017569; 583065, 5017327; 583211, 5017026; 583266, 5016693; 583056, 5016045; 583152, 5015820; 583157, 5015455; 582965, 5015157; 582986, 5014954; 583190, 5014604; 583178, 5014374; 583254, 5014309; 583141, 5013987; 583270, 5013882; 583337, 5013680; 583265, 5013267; 583175, 5013279; 583225, 5013395; 583038, 5013593; 583029, 5013758; 582921, 5013967; 582937, 5014107; 583094, 5014347; 583077, 5014630; 582840, 5014807; 582795, 5014999; 583057, 5015431; 583062, 5015822; 582893, 5016072; 582955, 5016344; 583090, 5016531; 583104, 5016649; 583037, 5016735; 583122, 5016957; 582635, 5017794; 582584, 5018081; 582424, 5018270; 582408, 5018552; 582058, 5018668; 581936, 5018619; 581920, 5018682.

(AA) Land bounded by the following UTM Zone 10, NAD83 coordinates (E, N): 582966, 5021434; 583168, 5021361; 583307, 5021228; 583324, 5021055; 583803, 5021033; 583825, 5020907; 584040, 5020886; 584056, 5020782; 584274, 5020767; 584296, 5020657; 584549, 5020693; 584735, 5020561; 585003, 5019924; 585039, 5019771; 584985, 5019560; 585203, 5018955; 585678, 5018292; 585624, 5018140; 585648, 5017940; 585972, 5017676; 586283, 5017146; 586878, 5016712; 587704, 5016508; 588024, 5016285; 588164, 5016275; 588267, 5016126; 588956, 5015721; 589272, 5015394; 589117, 5013240; 589121, 5012037; 589216, 5011956; 589043, 5011984; 588990, 5012172; 588043, 5012992; 587210, 5013302; 586869, 5013979; 586835, 5014269; 586487, 5014457; 586376, 5014703; 585766, 5015056; 585649, 5015187; 585728, 5015844; 585495, 5016199; 584758, 5016675; 584652, 5017127; 584365, 5017642; 584201, 5018301; 583792, 5019157; 583624, 5019708; 583117, 5019613; 582877, 5019643; 582838, 5021395; 582966, 5021434.

(BB) Land bounded by the following UTM Zone 10, NAD83 coordinates (E, N): 595582, 5049747; 595586, 5049465; 595375, 5049201; 595399, 5049091; 595332, 5049090; 595243, 5048971; 594714, 5048883; 594652, 5048807; 594763, 5048408; 594566, 5048405; 594520, 5048595; 594287, 5048762; 593959, 5048814; 593790, 5048699; 593617, 5048684; 593513, 5048805; 593511, 5048941; 593703, 5049329; 594032, 5049401; 594325, 5049566; 595026, 5050085; 595252, 5050549; 595465, 5050697; 595641, 5051005; 595912, 5051297; 596496, 5051261; 596608, 5051155; 596289, 5050542; 596160, 5050475; 596119, 5050321; 595756, 5049858; 595582, 5049747.

(CC) Land bounded by the following UTM Zone 10, NAD83 coordinates (E, N): 596628, 5052182; 596782, 5051791; 596579, 5051727; 596648, 5051347; 596949, 5051391; 597102, 5051277; 597272, 5051477; 597432, 5051452; 597447, 5051181; 597320, 5051323; 597245, 5051283; 597232, 5051179; 596946, 5051176; 596945, 5050785; 596870, 5050982; 596701, 5051054; 596741, 5051152; 596529, 5051241; 596442, 5051370; 596347, 5051971; 596402, 5052026; 596320, 5052183; 596520, 5052272; 596645, 5052253; 596628, 5052182; and excluding land bound by 596461, 5052079; 596481, 5051967; 596618, 5051981; 596566, 5052146; 596486, 5052142; 596461, 5052079.

(DD) Land bounded by the following UTM Zone 10, NAD83 coordinates (E, N): 592245, 5061051; 592316, 5061062; 592317, 5060816; 592808, 5060824; 592807, 5060582; 593108, 5060596; 593152, 5060771; 593477, 5061005; 593532, 5060834; 593774, 5060833; 594875, 5060438; 594860, 5060102; 594759, 5060100; 594759, 5059981; 595151, 5059981; 595152, 5060341; 595473, 5060331; 595592, 5060442; 595594, 5060381; 595816, 5060395; 595817, 5060149; 595887, 5060111; 596382, 5060111; 596383, 5060020; 596752, 5060025; 596753, 5060211; 597239, 5060228; 597239, 5059845; 597405, 5059845; 597404, 5060228; 597582, 5060228; 597576, 5060483; 598181, 5060495; 598195, 5060654; 598562, 5060502; 598797, 5060509; 598820, 5059432; 599204, 5059453; 599168, 5060316; 599629, 5060339; 599625, 5060448; 600052, 5060197; 600067, 5059890; 600464, 5059892; 600458, 5060032; 600952, 5060087; 600981, 5059938; 602230, 5060012; 602227, 5060339; 602498, 5060349; 602499, 5060635; 604496, 5060659; 604482, 5061059; 605282, 5061063; 605310, 5059584; 605689, 5059616; 605728, 5059197; 605316, 5059188; 605330, 5057572; 601951, 5057527; 601705, 5057252; 601604, 5056930; 601196, 5056821; 600988, 5056861; 600846, 5057086; 600703, 5057138; 600286, 5057054; 600017, 5057390; 599840, 5057347; 599753, 5057188; 599675, 5057174; 599599, 5056907; 599440, 5056709; 599098, 5056619; 598745, 5056640; 598492, 5056504; 598320, 5056588; 598084, 5056327; 598047, 5056138; 597891, 5056003; 597739, 5055978; 597581, 5055705; 597292, 5055640; 597005, 5055786; 597249, 5056383; 597490, 5056660; 597473, 5056903; 597365, 5057079; 597663, 5057872; 597624, 5057962; 597273, 5058076; 597081, 5057705; 597070, 5057437; 596985, 5057306; 596812, 5057258; 596470, 5057334; 596447, 5057080; 596303, 5056835; 596281, 5056619; 596195, 5056515; 596036, 5056460; 595787, 5056144; 595573, 5056398; 595440, 5056794; 595326, 5056888; 595075, 5056897; 594944, 5057133; 594703, 5057179; 594609, 5057386; 594427, 5057503; 594325, 5057684; 594134, 5057722; 593893, 5057911; 593631, 5058493; 593391, 5058655; 593372, 5058757; 593248, 5058825; 592863, 5058835; 592779, 5058530; 592550, 5058290; 591919, 5057990; 590878, 5057892; 590822, 5057838; 590682, 5057613; 590673, 5057355; 590338, 5056662; 590340, 5056512; 590266, 5056478; 589956, 5056611; 590179, 5056053; 590179, 5055730; 589442, 5055281; 589245, 5055251; 589201, 5054987; 589130, 5054883; 588950, 5054818; 588880, 5054512; 588703, 5054479; 588422, 5054643; 588224, 5054822; 588026, 5055183; 587886, 5054970; 587837, 5054759; 588204, 5054514; 588066, 5054480; 588040, 5054264; 586836, 5053968; 586726, 5053737; 586163, 5053177; 586194, 5053117; 586516, 5053159; 586247, 5052895; 586336, 5052773; 586627, 5052782; 586416, 5052604; 586745, 5052135; 586834, 5052081; 587116, 5052105; 586768, 5051925; 587112, 5051253; 587277, 5051140; 587384, 5051152; 587324, 5050783; 587553, 5050483; 587507, 5050377; 587560, 5050208; 587912, 5050000; 588018, 5049804; 588279, 5049707; 588325, 5049513; 588270, 5049512; 588203, 5049654; 588001, 5049718; 587815, 5049984; 587624, 5049843; 587663, 5050076; 587451, 5050071; 587430, 5050339; 587164, 5050743; 587148, 5050999; 586962, 5051106; 586837, 5051050; 586879, 5051293; 586700, 5051574; 586637, 5051625; 586482, 5051603; 586533, 5051687; 586487, 5051819; 586259, 5051833; 586466, 5051963; 586478, 5052069; 585986, 5052553; 585814, 5053009; 585736, 5053043; 585667, 5052997; 585634, 5053172; 585481, 5053203; 585332, 5053341; 585162, 5053293; 584936, 5052977; 585000, 5053429; 584957, 5053464; 584769, 5053326; 584473, 5052791; 583806, 5052552; 583839, 5052107; 583783, 5051820; 583410, 5051813; 582798, 5051670; 582356, 5051829; 582490, 5051693; 582487, 5051523; 582598, 5051487; 582574, 5051379; 582877, 5051247; 582825, 5051169; 582521, 5051045; 582856, 5050724; 582584, 5050685; 582682, 5050266; 582654, 5050125; 582578, 5049969; 582237, 5049799; 582383, 5049405; 582244, 5049106; 582286, 5048928; 582134, 5048686; 581016, 5048799; 580942, 5048523; 581037, 5048364; 581023, 5048261; 580695, 5048111; 580618, 5047842; 580716, 5047485; 580786, 5047486; 580826, 5044262; 584854, 5044323; 584872, 5042708; 585676, 5042721; 585699, 5041194; 587605, 5041235; 587766, 5041502; 588043, 5041250; 588855, 5041262; 589149, 5041499; 589309, 5042028; 589484, 5042191; 589902, 5042895; 590171, 5043187; 590499, 5043337; 590616, 5043715; 590691, 5043715; 590801, 5043607; 590943, 5042805; 590600, 5042452; 590405, 5042384; 589509, 5041154; 589573, 5041100; 590792, 5040980; 591015, 5040763; 591208, 5040433; 591400, 5040325; 591738, 5040518; 592914, 5040383; 593316, 5040629; 593612, 5040626; 593768, 5040713; 594001, 5040522; 594303, 5040441; 594372, 5040332; 594266, 5040242; 594113, 5040263; 593849, 5040114; 593660, 5040083; 593508, 5039993; 593445, 5039840; 593578, 5039689; 593773, 5039714; 593839, 5039628; 593820, 5039367; 593724, 5039295; 593949, 5039128; 594169, 5038460; 594528, 5037929; 594539, 5037829; 594361, 5037034; 594376, 5036653; 594194, 5036109; 594229, 5035917; 594562, 5035283; 594514, 5035157; 594597, 5034952; 594028, 5034941; 594081, 5032488; 593708, 5032495; 593721, 5032265; 593327, 5031970; 593049, 5031524; 592794, 5031323; 592462, 5031211; 592044, 5031213; 591914, 5031265; 591803, 5031502; 591259, 5031492; 591224, 5031288; 590997, 5031157; 589623, 5031032; 588447, 5030760; 588170, 5030668; 587220, 5030137; 585714, 5029471; 584992, 5029265; 584739, 5029394; 584661, 5029554; 584619, 5030243; 584313, 5030524; 584041, 5030710; 583768, 5030748; 583538, 5030870; 583088, 5030918; 582610, 5031055; 582410, 5031056; 581991, 5030902; 581742, 5030918; 581531, 5030747; 581300, 5030706; 580750, 5030857; 579910, 5030810; 578706, 5030441; 578140, 5030416; 577782, 5030481; 577397, 5030727; 576829, 5030699; 576433, 5030571; 575600, 5030557; 574967, 5030787; 574618, 5031376; 574486, 5031485; 573884, 5031497; 573367, 5031389; 573063, 5031394; 572360, 5031540; 571879, 5031792; 570842, 5031666; 570178, 5031862; 569898, 5032080; 569273, 5031855; 568472, 5031860; 568047, 5031683; 567520, 5031697; 567522, 5032469; 567918, 5032955; 568294, 5032959; 568293, 5033369; 568599, 5033385; 568724, 5033750; 569479, 5033736; 569480, 5033330; 569874, 5033319; 569871, 5034537; 571462, 5034529; 571450, 5035713; 570654, 5035709; 570662, 5034926; 569863, 5034934; 569853, 5036099; 568297, 5036101; 568289, 5036885; 569864, 5036889; 569872, 5037684; 569067, 5037676; 569063, 5037081; 568287, 5037083; 568273, 5038324; 568504, 5038312; 568436, 5038462; 571201, 5040439; 571056, 5040658; 571033, 5040858; 570766, 5041000; 570737, 5041325; 570827, 5041922; 570469, 5042091; 570383, 5042193; 570244, 5042737; 569598, 5042716; 569439, 5042775; 569278, 5042969; 569107, 5043011; 569101, 5043365; 568288, 5043348; 568232, 5047341; 569800, 5047832; 569807, 5047274; 570552, 5047340; 570552, 5047729; 571395, 5047741; 571439, 5048754; 572731, 5049482; 573892, 5050000; 573972, 5050017; 574056, 5049910; 573448, 5049372; 573434, 5048973; 573845, 5048975; 573848, 5049374; 575464, 5049379; 575468, 5049794; 577058, 5049819; 577031, 5050581; 577830, 5050581; 577831, 5051004; 578208, 5051015; 578202, 5051440; 578572, 5051451; 578570, 5051831; 578934, 5051841; 578919, 5052207; 579681, 5052221; 579683, 5052615; 580063, 5052626; 580061, 5052957; 580795, 5052992; 580792, 5053376; 581697, 5053379; 581654, 5053486; 581697, 5053725; 581787, 5053730; 581789, 5053796; 582007, 5053797; 582006, 5054201; 583234, 5054204; 583237, 5054630; 583354, 5054605; 583492, 5054715; 583663, 5054600; 583786, 5054605; 583643, 5054631; 583503, 5054745; 583367, 5054645; 583249, 5054687; 583192, 5054786; 583276, 5054919; 583621, 5055051; 583971, 5055048; 583948, 5055107; 584443, 5055443; 584771, 5055437; 584760, 5055839; 585043, 5055847; 585265, 5056012; 585655, 5056438; 585763, 5056666; 586147, 5056682; 586144, 5056505; 585942, 5056504; 585940, 5056302; 586355, 5056295; 586339, 5057069; 587148, 5057082; 587416, 5057486; 587533, 5057491; 587526, 5057907; 588332, 5057914; 588331, 5058308; 588528, 5058319; 588519, 5058614; 588843, 5058708; 588849, 5058647; 588599, 5058534; 588630, 5058454; 588947, 5058590; 588990, 5058710; 589125, 5058713; 589132, 5058327; 589515, 5058331; 589525, 5058858; 589704, 5058863; 589707, 5058760; 589906, 5058765; 589898, 5059940; 590295, 5059964; 590430, 5060338; 590974, 5060941; 591085, 5060968; 591103, 5060797; 591483, 5060797; 591483, 5060633; 591549, 5060677; 591906, 5060566; 591900, 5061054; 591971, 5061102; 592245, 5061051; and excluding land bound by 569879, 5032542; 571471, 5032523; 571470, 5032906; 569877, 5032905; 569879, 5032542; and excluding land bound by 585090, 5031321; 585095, 5030698; 585889, 5030697; 585876, 5031464; 585090, 5031465; 585090, 5031321.

(iii) Note: Map of Western Oregon Cascades North Unit follows:

BILLING CODE 4310-55-S

BILLING CODE 4310-55-C

(17) Hood River Unit (Unit 10). Clackamas, Hood River, and Wasco Counties, Oregon.

(i) The Hood River Unit consists of 42, 700 ac (17, 300 ha) and is comprised of lands managed by the Mt. Hood National Forest.

(ii) From USGS 1:24, 000 scale quadrangles Badger Lake, Dog River, Fivemile Butte, Flag Point, Friend, Mount Hood South, Parkdale, Post Point, Wapinitia Pass, and Wolf Run.

(A) Land bounded by the following UTM Zone 10, NAD83 coordinates (E, N): 614736, 5009550; 614708, 5009450; 612198, 5009395; 612328, 5010077; 612661, 5010183; 612747, 5010366; 612855, 5010362; 613380, 5009549; 613467, 5009849; 612834, 5011530; 612841, 5012166; 612341, 5012261; 612211, 5012505; 612757, 5012635; 612747, 5012896; 612567, 5013063; 612567, 5013264; 612273, 5013818; 611759, 5014314; 611667, 5014704; 611486, 5015045; 611647, 5015194; 612715, 5015364; 612839, 5015497; 613214, 5015298; 613639, 5014458; 613921, 5013516; 614021, 5012458; 614301, 5011657; 614521, 5011242; 614759, 5009920; 614736, 5009550.

(B) Land bounded by the following UTM Zone 10, NAD83 coordinates (E, N): 624469, 5017360; 624914, 5017298; 625161, 5017168; 625376, 5017167; 625667, 5017278; 625882, 5017216; 626843, 5016586; 627114, 5016518; 627425, 5016629; 627407, 5016530; 627684, 5016333; 627650, 5016295; 627100, 5016370; 627143, 5015899; 627466, 5015733; 627674, 5015760; 627690, 5015700; 627642, 5015606; 627473, 5015542; 627474, 5015365; 627332, 5015224; 627107, 5015222; 627223, 5014998; 627419, 5014868; 627378, 5014584; 627335, 5014433; 627144, 5014358; 627297, 5014231; 627005, 5013920; 626760, 5013862; 626776, 5013682; 626644, 5013610; 626423, 5013306; 626434, 5013203; 626629, 5013072; 626679, 5012938; 626318, 5012829; 626113, 5012836; 626102, 5012916; 625775, 5013110; 625396, 5013540; 624686, 5013751; 624336, 5013979; 624130, 5014000; 623835, 5014144; 623278, 5014184; 622928, 5014297; 622594, 5014461; 622341, 5014864; 622165, 5015439; 621829, 5015961; 621822, 5016182; 621933, 5016456; 622216, 5016565; 623207, 5017307; 623513, 5017341; 623747, 5017266; 624469, 5017360.

(C) Land bounded by the following UTM Zone 10, NAD83 coordinates (E, N): 605478, 5018542; 605729, 5018009; 606357, 5018034; 606447, 5017563; 606813, 5017114; 606715, 5017024; 607008, 5016835; 606976, 5016021; 607707, 5016052; 607457, 5016525; 608033, 5016708; 607711, 5017089; 608476, 5017331; 609034, 5016902; 609157, 5016642; 609153, 5015532; 609593, 5015325; 609865, 5015031; 609684, 5014863; 609661, 5013844; 610051, 5012706; 610138, 5012159; 610587, 5012177; 610697, 5011832; 610584, 5011619; 610587, 5011263; 610850, 5011019; 611024, 5010650; 611311, 5010276; 611549, 5009663; 611397, 5009376; 611311, 5009032; 611528, 5008982; 611508, 5008806; 611191, 5007942; 611185, 5006052; 611329, 5005415; 611747, 5004704; 609093, 5004512; 608915, 5004698; 608851, 5005002; 608716, 5005217; 608670, 5006045; 608594, 5006232; 608372, 5006460; 608450, 5006913; 608183, 5007155; 607926, 5007659; 607432, 5007680; 607597, 5007976; 607446, 5008128; 606961, 5008229; 606704, 5008150; 606283, 5008148; 605837, 5007858; 605751, 5007000; 605606, 5006639; 605650, 5006516; 605529, 5006174; 605401, 5006443; 605483, 5006525; 605387, 5006428; 604716, 5006400; 604696, 5006572; 604517, 5006784; 604476, 5006989; 604196, 5007147; 604057, 5007343; 603832, 5008146; 602829, 5008732; 602799, 5008845; 603643, 5008896; 603489, 5009634; 603436, 5010251; 603523, 5010963; 603502, 5011518; 602492, 5012643; 602525, 5013324; 602760, 5014238; 603256, 5015285; 603421, 5015354; 603854, 5015277; 604186, 5015560; 604265, 5015713; 604226, 5016155; 603927, 5016734; 603855, 5017059; 604204, 5017540; 603817, 5018071; 603813, 5018174; 603926, 5018199; 604371, 5017859; 604788, 5017746; 604917, 5018556; 605034, 5018776; 605478, 5018542.

(D) Land bounded by the following UTM Zone 10, NAD83 coordinates (E, N): 628373, 5027833; 628419, 5027824; 628459, 5026633; 627831, 5026605; 627541, 5026314; 627311, 5026299; 627144, 5025874; 627143, 5025918; 626813, 5025821; 626601, 5025854; 625873, 5025412; 625110, 5025238; 624722, 5024941; 624429, 5024628; 624352, 5024451; 624065, 5024335; 623985, 5023985; 623837, 5023962; 623743, 5024131; 623577, 5024197; 623251, 5023956; 623224, 5023802; 623070, 5023874; 622906, 5023822; 622751, 5023491; 622561, 5023307; 622431, 5023314; 622182, 5023121; 621756, 5022976; 621483, 5022634; 621078, 5022658; 621046, 5022551; 621150, 5022360; 621108, 5022437; 620662, 5022433; 620698, 5023048; 620165, 5023012; 619861, 5022882; 620369, 5023479; 620667, 5023971; 620487, 5024132; 620384, 5024464; 620402, 5024774; 619819, 5025041; 619682, 5025487; 619504, 5025645; 619202, 5026247; 619226, 5026649; 619512, 5026532; 619568, 5026388; 619778, 5026624; 619874, 5026962; 619973, 5027040; 620441, 5027006; 620678, 5027062; 620915, 5026975; 621371, 5026992; 622340, 5027442; 622494, 5027379; 622673, 5027138; 623175, 5027248; 623855, 5027506; 624265, 5027507; 624525, 5027574; 624947, 5027478; 625228, 5027646; 625709, 5027589; 626047, 5027697; 626679, 5027675; 627105, 5027824; 627557, 5027888; 627755, 5027830; 628080, 5027897; 628373, 5027833.

(E) Land bounded by the following UTM Zone 10, NAD83 coordinates (E, N): 614628, 5044966; 614643, 5044158; 615061, 5044171; 615070, 5043756; 615467, 5043765; 615474, 5043355; 615079, 5043344; 615090, 5041739; 615275, 5041743; 615296, 5041654; 615258, 5041258; 615327, 5040772; 615135, 5040558; 615259, 5040069; 615565, 5039518; 615392, 5039119; 615359, 5038673; 615554, 5038470; 614938, 5037582; 614991, 5037413; 615093, 5037339; 614931, 5037121; 615068, 5037028; 615133, 5036784; 615312, 5036571; 615425, 5036147; 615656, 5036052; 615752, 5035555; 616213, 5035526; 616486, 5035375; 616687, 5035464; 617174, 5035433; 617414, 5035667; 617958, 5035473; 618578, 5035545; 618724, 5035481; 618677, 5035336; 618438, 5035292; 618109, 5035071; 618600, 5034445; 618500, 5034312; 618526, 5033878; 618422, 5033740; 618438, 5033522; 618284, 5033413; 618279, 5033171; 618014, 5032817; 618036, 5032623; 618232, 5032754; 618837, 5032973; 619135, 5033176; 619989, 5033317; 619277, 5032957; 618682, 5032413; 618532, 5032105; 618535, 5031753; 618468, 5031644; 618224, 5031503; 617727, 5031380; 617519, 5030495; 616542, 5030422; 616237, 5029944; 616262, 5029532; 616166, 5029446; 616195, 5028970; 616740, 5027575; 616705, 5026997; 616447, 5026766; 616246, 5027769; 615898, 5028081; 615795, 5028957; 615286, 5029082; 615178, 5028616; 614526, 5028625; 614372, 5028452; 613843, 5028329; 613821, 5028258; 613669, 5028477; 613760, 5028982; 613723, 5029153; 613786, 5029290; 613505, 5029417; 613399, 5030023; 613734, 5031289; 613952, 5031558; 614459, 5031785; 614651, 5032109; 614588, 5032529; 614735, 5032622; 614733, 5032743; 614591, 5033411; 614690, 5033796; 614660, 5033912; 613958, 5033625; 613603, 5033721; 613300, 5034161; 612809, 5034451; 612626, 5034758; 612398, 5034909; 612367, 5035069; 612361, 5035152; 613684, 5035236; 613670, 5038418; 613562, 5041720; 613467, 5041720; 613457, 5043268; 613859, 5043285; 613848, 5043690; 613450, 5043668; 613411, 5044865; 614628, 5044966.

(iii) Note: Map of Hood River Unit follows:

BILLING CODE 4310-55-S

BILLING CODE 4310-55-C

(18) Eastern Oregon Cascades Unit (Unit 11). Deschutes, Jefferson, and Klamath Counties, Oregon.

(i) The Eastern Oregon Cascades Unit consists of 106, 600 ac (43, 100 ha) and is comprised of lands managed by the Deschutes National Forest.

(ii) From USGS 1:24, 000 scale quadrangles Black Butte, Black Crater, Candle Creek, Crane Prairie Reservoir, Crescent Lake, Cryder Butte, Davis Mountain, Elk Lake, Hamner Butte, Irish Mountain, Marion Lake, Mount Washington, Odell Butte, Odell Lake, Prairie Farm Spring, Shitike Butte, The Twins, Three Creek Butte, Three Fingered Jack, and Trout Creek Butte.

(A) Land bounded by the following UTM Zone 10, NAD83 coordinates (E, N): 588899, 4834542; 588977, 4834508; 589078, 4834643; 589606, 4834632; 589740, 4834576; 589797, 4834475; 590055, 4834340; 590189, 4833779; 590358, 4833678; 590796, 4833633; 590897, 4833487; 591166, 4833453; 591480, 4833049; 591674, 4832958; 591669, 4832803; 591774, 4832663; 592077, 4832575; 592281, 4832654; 592478, 4832550; 592730, 4832518; 592296, 4832172; 592091, 4832117; 592016, 4831987; 592017, 4831910; 592556, 4832023; 592661, 4831921; 592639, 4831689; 592464, 4831429; 592416, 4831196; 591731, 4830668; 591501, 4830561; 591165, 4830607; 590883, 4830550; 590759, 4830316; 590811, 4830266; 590818, 4829905; 590950, 4829727; 590899, 4829675; 590904, 4829417; 590547, 4829179; 590734, 4828822; 590969, 4828646; 590971, 4828543; 590568, 4828047; 590800, 4828025; 591425, 4827650; 591969, 4827480; 592048, 4827404; 592079, 4827069; 592330, 4827416; 592520, 4827511; 592878, 4827532; 593057, 4827458; 593173, 4827321; 593301, 4826798; 594439, 4827627; 594635, 4828146; 595083, 4829004; 595026, 4829337; 594869, 4829438; 594862, 4829849; 595140, 4830112; 595188, 4830319; 595129, 4830755; 595535, 4830994; 595788, 4831925; 596015, 4832173; 596085, 4832364; 596568, 4832322; 596958, 4832106; 597766, 4832007; 597879, 4831083; 597858, 4830832; 598380, 4830143; 598714, 4830060; 598780, 4829934; 599766, 4829961; 599847, 4827934; 599058, 4827594; 598972, 4827447; 598992, 4827300; 599169, 4827082; 599174, 4826986; 598951, 4826373; 598774, 4826195; 598825, 4825820; 598513, 4825641; 598556, 4825498; 598847, 4825259; 598834, 4824852; 598583, 4823606; 601527, 4823636; 601563, 4821592; 602173, 4821773; 602242, 4821828; 602268, 4822241; 602324, 4822293; 602442, 4822269; 602552, 4821836; 602758, 4821575; 602711, 4821205; 602768, 4821081; 602654, 4820914; 602366, 4820803; 602103, 4820462; 599993, 4820449; 599989, 4819692; 599909, 4819540; 599799, 4819498; 598696, 4819558; 598570, 4819716; 598450, 4819762; 598178, 4820228; 597941, 4820313; 597453, 4820300; 597348, 4820528; 597183, 4820616; 596281, 4820496; 596610, 4820867; 596935, 4821002; 597139, 4821268; 597054, 4821405; 597170, 4822291; 597118, 4822407; 596791, 4822590; 597262, 4823382; 597349, 4824147; 597315, 4824283; 596991, 4825122; 596594, 4825330; 596004, 4825274; 595861, 4825179; 595592, 4825186; 595459, 4825089; 594999, 4825095; 594644, 4824741; 594406, 4824394; 594140, 4823884; 594040, 4823527; 593955, 4822844; 594203, 4822330; 594223, 4822009; 594424, 4821645; 594447, 4821465; 593813, 4821626; 593615, 4821850; 593474, 4821914; 593406, 4821801; 593494, 4821427; 593347, 4821130; 592760, 4821482; 592609, 4821786; 592319, 4821776; 591872, 4821902; 591676, 4821116; 591672, 4820832; 592260, 4819870; 592408, 4819219; 592490, 4817516; 592368, 4817304; 592450, 4817175; 592428, 4817079; 592156, 4817048; 591955, 4816819; 591521, 4816727; 591245, 4816757; 590964, 4816533; 590676, 4816470; 590287, 4816284; 590279, 4816624; 589988, 4816708; 589136, 4816744; 588625, 4816907; 588410, 4817060; 588175, 4817382; 588065, 4817669; 588013, 4818189; 587662, 4819270; 587871, 4819790; 588143, 4820004; 588611, 4820240; 588589, 4823403; 586998, 4823417; 586767, 4834445; 586820, 4834463; 586817, 4834634; 586957, 4834654; 587293, 4834295; 587596, 4834205; 588113, 4834228; 588191, 4834362; 588135, 4834598; 588259, 4834710; 588461, 4834710; 588899, 4834542.

(B) Land bounded by the following UTM Zone 10, NAD83 coordinates (E, N): 585689, 4850804; 586102, 4850625; 586370, 4850249; 586554, 4850112; 586826, 4850027; 586956, 4849865; 587226, 4849816; 586032, 4849697; 585183, 4850803; 585689, 4850804.

(C) Land bounded by the following UTM Zone 10, NAD83 coordinates (E, N): 596425, 4861368; 596386, 4860828; 595971, 4860459; 595953, 4860311; 596030, 4860088; 596154, 4859980; 596595, 4859820; 596870, 4859493; 597085, 4859367; 597280, 4859299; 597439, 4859322; 597584, 4859242; 598006, 4858824; 598122, 4858630; 598262, 4858546; 598306, 4858384; 597779, 4857183; 597811, 4856852; 597685, 4856924; 597685, 4856827; 597873, 4856555; 598060, 4855723; 598044, 4854835; 597880, 4854384; 597074, 4853348; 596613, 4853305; 595892, 4853000; 595427, 4852703; 594849, 4852496; 595340, 4852036; 595616, 4851953; 595846, 4851775; 595619, 4851484; 596267, 4850919; 596267, 4850821; 595143, 4849944; 595143, 4849798; 594836, 4849514; 594394, 4849161; 594129, 4849153; 593926, 4848912; 593878, 4848833; 594160, 4848584; 594294, 4848329; 593703, 4848241; 593313, 4848263; 593131, 4848593; 593139, 4848853; 592955, 4849081; 592017, 4849018; 591769, 4849055; 590640, 4848773; 590340, 4848521; 589782, 4847620; 589268, 4847633; 588873, 4847878; 588487, 4848235; 588317, 4848479; 588286, 4848889; 588111, 4849059; 588111, 4849670; 588029, 4849714; 587733, 4855613; 594271, 4855700; 594076, 4859085; 594045, 4861189; 594257, 4861300; 594840, 4861241; 594878, 4861343; 595056, 4861300; 595223, 4861100; 595406, 4861165; 595595, 4861559; 595606, 4861737; 595759, 4861938; 596707, 4861945; 596406, 4861794; 596425, 4861368.

(D) Land bounded by the following UTM Zone 10, NAD83 coordinates (E, N): 602433, 4906635; 602524, 4903446; 604092, 4903439; 604132, 4901852; 607314, 4901899; 606779, 4900828; 606518, 4900512; 606865, 4900122; 606898, 4900007; 606645, 4900233; 606138, 4900051; 605921, 4899710; 605471, 4899236; 605651, 4898905; 605776, 4898369; 606054, 4898318; 606107, 4898603; 606395, 4898720; 606744, 4898530; 607076, 4898550; 607090, 4898822; 607122, 4898563; 606766, 4898169; 606804, 4898038; 606594, 4898027; 606410, 4897788; 606399, 4897495; 606556, 4897417; 607108, 4897549; 606921, 4897113; 606954, 4896877; 607189, 4897027; 607386, 4897039; 607821, 4897311; 608667, 4898027; 609046, 4898234; 609068, 4897088; 609741, 4897099; 609776, 4896239; 609162, 4895959; 609009, 4895828; 608663, 4895049; 608434, 4894890; 607957, 4894238; 607216, 4893915; 607174, 4893399; 606850, 4892801; 606838, 4892054; 606643, 4891407; 606420, 4890965; 606452, 4890631; 606403, 4890419; 605799, 4890405; 605809, 4890502; 606079, 4890703; 606022, 4890933; 605958, 4890965; 606037, 4891055; 606012, 4891137; 605351, 4890925; 605218, 4890765; 605212, 4890589; 605019, 4890483; 605290, 4891072; 605288, 4891795; 604809, 4891794; 604660, 4892008; 605369, 4893311; 606246, 4894572; 605740, 4894312; 605378, 4894224; 605248, 4894112; 606108, 4895133; 606519, 4895394; 607224, 4896024; 606936, 4896092; 606587, 4896325; 606546, 4896483; 606594, 4896654; 606423, 4896661; 606265, 4896914; 605837, 4897047; 601812, 4896993; 601788, 4898550; 601938, 4898707; 601785, 4898744; 601766, 4899968; 602050, 4900342; 602047, 4900451; 602590, 4900972; 602678, 4901516; 603093, 4901717; 603218, 4902239; 602862, 4902596; 602585, 4902679; 602593, 4902776; 601975, 4903071; 601949, 4903389; 602135, 4903896; 601698, 4904301; 601686, 4905033; 600855, 4905019; 600842, 4906025; 601122, 4906136; 601825, 4906626; 602433, 4906635.

(E) Land bounded by the following UTM Zone 10, NAD83 coordinates (E, N): 602394, 4909871; 600801, 4909851; 600805, 4909049; 602409, 4909064; 602394, 4909871; 603953, 4909909; 603983, 4908284; 599788, 4908269; 597645, 4908176; 597642, 4908299; 598354, 4908439; 598092, 4909161; 597471, 4910287; 596770, 4911038; 596747, 4912459; 596179, 4912573; 595981, 4912809; 595994, 4912988; 595897, 4913218; 595388, 4913492; 595026, 4913780; 593651, 4914258; 592826, 4914347; 593960, 4914447; 594274, 4914662; 595848, 4915279; 596043, 4915481; 595832, 4915680; 596730, 4916101; 596675, 4916170; 597255, 4916747; 597357, 4916737; 597480, 4916202; 597518, 4916285; 600652, 4916346; 600689, 4914709; 599879, 4914741; 599072, 4914682; 599104, 4913098; 600954, 4913101; 600872, 4912873; 600677, 4912824; 600556, 4912700; 600527, 4912487; 600548, 4912413; 600674, 4912403; 600695, 4912179; 600514, 4912047; 600472, 4911928; 600572, 4911840; 600773, 4911888; 600780, 4911476; 602368, 4911501; 602350, 4912099; 602514, 4912031; 603522, 4912114; 603754, 4911932; 603914, 4911891; 603923, 4911530; 602370, 4911478; 602394, 4909871.

(F) Land bounded by the following UTM Zone 10, NAD83 coordinates (E, N): 597426, 4925525; 597572, 4925590; 597531, 4925780; 597602, 4925837; 597879, 4925616; 597927, 4925411; 598009, 4925326; 598227, 4925259; 598599, 4925276; 598996, 4925102; 599185, 4924919; 599339, 4924942; 599621, 4924591; 599995, 4924551; 600592, 4924363; 600602, 4921154; 602213, 4921179; 602226, 4919139; 597409, 4919096; 597422, 4918525; 596883, 4918653; 596658, 4918435; 596538, 4918679; 596450, 4918533; 596469, 4918401; 596327, 4918285; 596218, 4918285; 596259, 4918154; 596342, 4918115; 596207, 4917995; 595938, 4917999; 595815, 4917847; 595821, 4917369; 595665, 4917312; 595544, 4917347; 595428, 4917588; 595225, 4917728; 595071, 4917414; 594842, 4917382; 594702, 4917434; 594741, 4917364; 594395, 4917181; 594006, 4917133; 593534, 4916796; 592826, 4916810; 592743, 4916899; 592759, 4917175; 592695, 4917229; 592161, 4917184; 591982, 4917888; 592282, 4918616; 592397, 4919080; 592215, 4919403; 591901, 4919729; 591729, 4920152; 592218, 4920253; 592499, 4920088; 593370, 4919839; 593494, 4920173; 593157, 4920444; 593492, 4920512; 593797, 4920528; 593874, 4920411; 594200, 4920439; 594695, 4920276; 594744, 4920335; 594905, 4920234; 595002, 4920309; 595852, 4920258; 596330, 4921038; 595940, 4922869; 596455, 4924435; 596190, 4926095; 596397, 4925956; 597335, 4925704; 597426, 4925525.

(G) Land bounded by the following UTM Zone 10, NAD83 coordinates (E, N): 605085, 4937466; 605373, 4937425; 605709, 4937135; 605915, 4937286; 606063, 4936987; 606339, 4936811; 606956, 4936199; 611698, 4933801; 611762, 4930726; 605505, 4930714; 605145, 4931272; 605063, 4931528; 605074, 4931902; 603896, 4932590; 603493, 4932634; 602894, 4933082; 602411, 4933184; 602207, 4933412; 602154, 4933761; 602095, 4933654; 601642, 4933575; 601256, 4933218; 599475, 4932853; 599099, 4932684; 598785, 4932694; 598771, 4933797; 599080, 4933822; 599206, 4934212; 599716, 4934819; 599983, 4935359; 599980, 4935520; 600423, 4936077; 600414, 4936628; 601613, 4936706; 601978, 4936660; 602230, 4936605; 602959, 4936278; 602966, 4936036; 603452, 4936053; 604079, 4936335; 604539, 4936793; 604973, 4937476; 605085, 4937466; and excluding land bound by 606086, 4933299; 606092, 4932893; 606894, 4932915; 606883, 4933332; 607308, 4933344; 607297, 4933725; 606489, 4933712; 606495, 4933315; 606086, 4933299; and excluding land bound by 608993, 4933509; 608994, 4933403; 609096, 4933405; 608892, 4932730; 608899, 4932400; 609297, 4932409; 609225, 4933518; 608993, 4933509.

(H) Land bounded by the following UTM Zone 10, NAD83 coordinates (E, N): 614650, 4947752; 614888, 4947585; 614895, 4947506; 615240, 4947437; 615333, 4947094; 615433, 4946984; 615698, 4946966; 615970, 4946820; 616202, 4946426; 616149, 4946168; 615741, 4945630; 615946, 4945185; 615707, 4944887; 615632, 4944457; 615231, 4944219; 615396, 4944046; 614966, 4943718; 614709, 4943767; 614510, 4943486; 614561, 4943367; 614900, 4943240; 615162, 4943022; 614973, 4942637; 614460, 4942428; 614883, 4942158; 615009, 4941960; 614955, 4941894; 614654, 4941828; 614577, 4941721; 614651, 4941643; 614996, 4941581; 615107, 4941342; 615044, 4940767; 614733, 4940459; 614945, 4940296; 614951, 4940102; 614598, 4939849; 614677, 4939343; 614499, 4939136; 614513, 4938935; 614385, 4938673; 614142, 4938496; 614039, 4938194; 613753, 4937846; 613618, 4937785; 613063, 4937938; 612682, 4938120; 612291, 4938092; 611747, 4938382; 611264, 4938513; 610791, 4938853; 610279, 4938810; 610139, 4938942; 610287, 4939249; 610535, 4939470; 610734, 4940199; 610601, 4940532; 610602, 4940765; 610866, 4940969; 611011, 4941403; 611289, 4941613; 611315, 4941753; 611187, 4942149; 610963, 4942583; 610814, 4942740; 610480, 4943918; 610341, 4944103; 609971, 4944371; 609947, 4944649; 610331, 4944656; 610324, 4945048; 610742, 4945055; 610734, 4945154; 610500, 4945151; 610835, 4945422; 611014, 4945931; 611350, 4946236; 611612, 4946194; 611981, 4946249; 612265, 4946738; 612807, 4947045; 613019, 4947462; 613404, 4947429; 613721, 4947727; 614096, 4947746; 614454, 4947916; 614650, 4947752.

(iii) Note: Map of Eastern Oregon Cascades Unit follows:

BILLING CODE 4310-55-S

BILLING CODE 4310-55-C

(19) Western Oregon Cascades South Unit (Unit 12). Douglas, Jackson, Lane, and Linn Counties, Oregon.

(i) The Western Oregon Cascades South Unit consists of 448, 100 ac (181, 300 ha) and is comprised of lands managed by the Willamette, Umpqua, and Rogue River National Forests (448, 000 ac (181, 300 ha)) and Eugene BLM Districts (100 ac (40 ha)).

(ii) From USGS 1:24, 000 scale quadrangles Abbott Butte, Acker Rock, Bearbones Mountain, Belknap Springs, Blair Lake, Buckeye Lake, Butler Butte, Clear Lake, Cougar Reservoir, Deadman Mountain, Diamond Peak, Dumont Creek, Fall Creek Lake, Fish Creek Desert, Fish Mountain, French Mountain, Goat Point, Groundhog Mountain, Hamaker Butte, Harvey Mountain, Holland Point, Huckleberry Mountain, Illahee Rock, Linton Lake, McCredie Springs, McKenzie Bridge, Mount David Douglas, Mount June, Nimrod, North Sister, Oakridge, Potter Mountain, Quartz Mountain, Ragsdale Butte, Red Butte, Reynolds Ridge, Rigdon Point, Saddleblanket Mountain, Sardine Butte, Sinker Mountain, Staley Ridge, Steamboat, Sugarpine Creek, Taft Mountain, Toketee Falls, Twin Lakes Mountain, Union Creek, Waldo Mountain, Warner Mountain, Westfir West, and Whetstone Point.

(A) Land bounded by the following UTM Zone 10, NAD83 coordinates (E, N): 533390, 4759941; 533407, 4759533; 533722, 4758879; 533757, 4758641; 533702, 4758538; 533835, 4758300; 533969, 4758214; 534780, 4758132; 535092, 4757957; 535150, 4757856; 535200, 4757385; 535018, 4756634; 534757, 4756385; 533790, 4755923; 533753, 4755749; 533895, 4755501; 534312, 4755298; 534403, 4755019; 534348, 4754750; 534526, 4754702; 534594, 4754520; 534798, 4754460; 534995, 4754278; 535080, 4753886; 534984, 4753629; 535281, 4753241; 535448, 4752838; 534727, 4752572; 534632, 4752200; 533564, 4751892; 533282, 4751626; 533179, 4751461; 533357, 4750916; 533248, 4750588; 533278, 4750307; 533162, 4750191; 532409, 4749938; 531976, 4749620; 531435, 4749431; 531496, 4749327; 532014, 4748998; 532449, 4748609; 532606, 4748215; 532502, 4748116; 532742, 4746998; 532576, 4746271; 531390, 4745366; 530768, 4744314; 530755, 4744210; 530908, 4743932; 531176, 4743598; 531048, 4743471; 531133, 4743391; 531080, 4743160; 530508, 4742167; 530439, 4741386; 528016, 4741368; 527963, 4740566; 526431, 4740564; 526401, 4741326; 519944, 4741218; 519934, 4741817; 519551, 4741844; 519544, 4741592; 518774, 4741587; 518774, 4741161; 518339, 4741172; 518194, 4741011; 518153, 4740756; 518048, 4740702; 516797, 4740635; 516813, 4739391; 516006, 4739404; 515211, 4739554; 515187, 4741799; 515143, 4741883; 516046, 4741965; 516052, 4743426; 514406, 4743420; 514404, 4744223; 513591, 4744235; 513602, 4744557; 513870, 4744648; 514102, 4744813; 514462, 4744887; 514675, 4745131; 515054, 4746008; 515154, 4745998; 514955, 4746259; 514948, 4746459; 515036, 4746512; 515402, 4746347; 515935, 4745904; 516305, 4745692; 516731, 4745680; 517032, 4745581; 517445, 4745857; 517733, 4745814; 517828, 4745545; 517622, 4745223; 517953, 4744965; 518191, 4744636; 518302, 4744197; 518320, 4743496; 518900, 4743015; 519184, 4742930; 519074, 4743258; 519111, 4743652; 519711, 4744240; 519906, 4744262; 520097, 4744115; 521022, 4744254; 521047, 4744782; 520979, 4745026; 520889, 4745092; 521003, 4745567; 521316, 4745682; 521639, 4745976; 521885, 4745904; 522076, 4745944; 522294, 4746121; 522399, 4746385; 522740, 4746618; 522914, 4746984; 523123, 4747231; 523456, 4747327; 523623, 4747265; 523815, 4747462; 523652, 4747762; 523763, 4747833; 523919, 4747750; 523977, 4747859; 523910, 4748159; 523726, 4748382; 523803, 4748551; 524000, 4748651; 523652, 4748896; 523506, 4748905; 523288, 4749245; 523250, 4749423; 523384, 4749725; 523484, 4749802; 523392, 4750042; 523413, 4750200; 523530, 4750246; 523434, 4750596; 523731, 4750772; 523613, 4750958; 523681, 4751285; 523794, 4751399; 523687, 4751816; 523829, 4751898; 523969, 4752164; 524070, 4752070; 524155, 4752605; 524060, 4752966; 524154, 4753361; 524419, 4754026; 524721, 4754477; 524727, 4754721; 524805, 4754696; 524819, 4754755; 524679, 4755039; 524876, 4755681; 524903, 4756089; 524738, 4756336; 524376, 4756502; 524251, 4756627; 524198, 4756766; 524250, 4756807; 524274, 4757277; 524354, 4757393; 525097, 4757978; 525352, 4758267; 525821, 4758606; 525997, 4758656; 526309, 4758990; 526540, 4759067; 526795, 4759028; 527097, 4759301; 527312, 4759603; 527658, 4759755; 527816, 4759644; 527870, 4759766; 528327, 4759968; 528421, 4759944; 528377, 4759862; 528527, 4759707; 528498, 4759512; 528687, 4759489; 528798, 4759542; 529142, 4759102; 529253, 4759154; 529403, 4759072; 529511, 4759264; 529814, 4758911; 529988, 4758797; 530058, 4758643; 530173, 4758610; 530297, 4758748; 530671, 4758737; 530544, 4759176; 530795, 4759260; 530850, 4759370; 531417, 4759259; 531727, 4758843; 531996, 4759177; 532161, 4759201; 532288, 4758981; 532429, 4759005; 532515, 4759145; 532746, 4759126; 532930, 4759388; 532944, 4759656; 533329, 4760009; 533390, 4759941; and excluding land bound by 527987, 4759272; 528049, 4758960; 528167, 4758799; 528186, 4759116; 528365, 4759284; 528141, 4759341; 528035, 4759172; 527987, 4759272; and excluding land bound by 527900, 4759501; 527859, 4759578; 527890, 4759519; 527900, 4759501.

(B) Land bounded by the following UTM Zone 10, NAD83 coordinates (E, N): 543210, 4756001; 542331, 4754211; 542338, 4754046; 542518, 4753748; 542182, 4753581; 542241, 4753371; 542001, 4752957; 542227, 4752373; 542381, 4752272; 542433, 4752101; 542262, 4751858; 541927, 4751608; 541902, 4751468; 541782, 4751385; 541764, 4751251; 541656, 4751142; 541563, 4750811; 541442, 4750772; 541072, 4750891; 540895, 4750858; 540717, 4750711; 540744, 4750444; 540671, 4750043; 540500, 4749781; 540323, 4749716; 540118, 4749874; 539928, 4749714; 539864, 4749930; 539900, 4750172; 539741, 4750254; 539670, 4750431; 539593, 4750443; 537664, 4752674; 538381, 4755585; 538865, 4755630; 539128, 4755743; 539350, 4755759; 540132, 4755748; 540388, 4755648; 540775, 4755704; 541185, 4755669; 541456, 4755721; 541614, 4755979; 541743, 4756017; 541685, 4756243; 541503, 4756516; 541504, 4756625; 541696, 4757051; 542001, 4758172; 542106, 4758311; 542558, 4758495; 542671, 4758756; 542635, 4759196; 542437, 4759794; 542609, 4760217; 543210, 4756001.

(C) Land bounded by the following UTM Zone 10, NAD83 coordinates (E, N): 544438, 4764419; 544487, 4764125; 544185, 4764398; 544318, 4764474; 544438, 4764419.

(D) Land bounded by the following UTM Zone 10, NAD83 coordinates (E, N): 544387, 4765399; 544521, 4765392; 544345, 4764960; 544258, 4765205; 544086, 4765401; 544387, 4765399.

(E) Land bounded by the following UTM Zone 10, NAD83 coordinates (E, N): 548421, 4767360; 548816, 4767362; 549072, 4767077; 549363, 4767048; 549435, 4766959; 549905, 4766902; 549126, 4766937; 548384, 4767145; 547954, 4767341; 548206, 4767282; 548319, 4767385; 548421, 4767360.

(F) Land bounded by the following UTM Zone 10, NAD83 coordinates (E, N): 545655, 4767451; 545731, 4767445; 545808, 4767280; 545888, 4767252; 544903, 4766637; 544658, 4766358; 544516, 4766465; 544744, 4766619; 544552, 4766866; 544767, 4766956; 545155, 4766920; 545275, 4767144; 545421, 4767171; 545503, 4767266; 545559, 4767571; 545655, 4767451.

(G) Land bounded by the following UTM Zone 10, NAD83 coordinates (E, N): 521305, 4766786; 520891, 4766985; 520740, 4767272; 521164, 4767587; 521277, 4767562; 521428, 4767393; 521424, 4766886; 521305, 4766786.

(H) Land bounded by the following UTM Zone 10, NAD83 coordinates (E, N): 546334, 4768383; 546483, 4768283; 546826, 4768240; 547298, 4768014; 547484, 4767850; 547630, 4767553; 547135, 4767844; 546808, 4768134; 546343, 4768158; 546238, 4768089; 546095, 4768230; 546241, 4768269; 546334, 4768383.

(I) Land bounded by the following UTM Zone 10, NAD83 coordinates (E, N): 552147, 4768438; 552091, 4768051; 551896, 4767913; 550805, 4767596; 550612, 4767862; 550630, 4768047; 550782, 4768118; 551906, 4768410; 552152, 4768538; 552147, 4768438.

(J) Land bounded by the following UTM Zone 10, NAD83 coordinates (E, N): 547622, 4775755; 547767, 4775649; 547900, 4775374; 547562, 4775419; 547545, 4775794; 547622, 4775755.

(K) Land bounded by the following UTM Zone 10, NAD83 coordinates (E, N): 549254, 4776148; 549510, 4776118; 549630, 4775962; 549582, 4775787; 549295, 4775522; 549271, 4775390; 549730, 4775042; 549618, 4774954; 549249, 4774920; 548937, 4774793; 548881, 4774699; 548879, 4774191; 548810, 4774072; 548549, 4773882; 548400, 4773612; 548239, 4773469; 547819, 4773465; 547846, 4773606; 548075, 4773839; 548129, 4774140; 548323, 4774391; 548487, 4774760; 548567, 4775206; 548541, 4775354; 548495, 4775358; 548654, 4775881; 549091, 4776165; 549254, 4776148.

(L) Land bounded by the following UTM Zone 10, NAD83 coordinates (E, N): 548384, 4777588; 548478, 4777260; 548246, 4777220; 548041, 4776987; 548055, 4776882; 547660, 4776781; 547624, 4776975; 547451, 4776906; 547427, 4776774; 547735, 4776663; 547539, 4776471; 547383, 4776767; 547339, 4777263; 547442, 4777350; 547635, 4777373; 547688, 4777546; 548254, 4777664; 548384, 4777588.

(M) Land bounded by the following UTM Zone 10, NAD83 coordinates (E, N): 546094, 4781417; 546846, 4781247; 547069, 4781229; 547135, 4781335; 547654, 4781246; 547552, 4780601; 547249, 4780425; 547222, 4780310; 547273, 4780211; 547838, 4780039; 547839, 4779832; 547478, 4779536; 547503, 4779454; 547660, 4779387; 547237, 4779071; 546899, 4778987; 547693, 4778984; 548049, 4779352; 548294, 4779184; 548469, 4779286; 548613, 4779280; 548737, 4779413; 548988, 4779389; 549026, 4779321; 548560, 4778792; 548111, 4778507; 547731, 4778154; 547225, 4777925; 546824, 4777978; 546391, 4778151; 546122, 4778068; 545914, 4778267; 545570, 4778321; 545483, 4778271; 544032, 4778265; 543795, 4777983; 543788, 4777824; 543969, 4777408; 543894, 4777000; 543702, 4776884; 543409, 4776908; 543111, 4777021; 542808, 4776971; 542686, 4776889; 542493, 4776439; 542501, 4776241; 542332, 4776078; 542309, 4775832; 542056, 4775542; 541953, 4775267; 542264, 4774601; 542161, 4773492; 542401, 4772792; 542349, 4772485; 542567, 4771974; 542555, 4771666; 542731, 4771350; 542766, 4770957; 539370, 4771062; 539222, 4770651; 539043, 4770479; 539000, 4770228; 538654, 4770009; 538604, 4769772; 538651, 4769582; 538547, 4769334; 538502, 4768791; 537867, 4766898; 538641, 4766842; 538948, 4766743; 539005, 4766622; 539024, 4766170; 539442, 4765714; 539602, 4765713; 539588, 4765790; 539750, 4765957; 539947, 4765987; 540284, 4766154; 540448, 4766122; 540497, 4766249; 540896, 4766187; 541053, 4766307; 541085, 4766152; 541226, 4766070; 541245, 4765651; 541565, 4765405; 541499, 4765065; 541129, 4764765; 541072, 4764564; 540750, 4764569; 540688, 4764333; 540853, 4764163; 540821, 4763924; 540572, 4763748; 540162, 4763643; 540042, 4763491; 540012, 4763260; 539926, 4763142; 539562, 4763093; 539392, 4762779; 539079, 4762483; 539088, 4760539; 540079, 4760551; 540024, 4759050; 539936, 4758682; 538818, 4757975; 537392, 4756749; 537399, 4757246; 537197, 4757255; 536526, 4760546; 536404, 4760571; 536252, 4760745; 536920, 4761218; 536976, 4761188; 537272, 4761429; 538017, 4761828; 538304, 4762087; 538333, 4762935; 538097, 4763298; 538226, 4763738; 538088, 4764096; 538178, 4764280; 538115, 4764505; 537965, 4764796; 537768, 4765001; 537560, 4765066; 537467, 4765175; 537484, 4765297; 537324, 4765411; 537323, 4765539; 537420, 4765613; 537339, 4765691; 537484, 4765864; 537379, 4766027; 537432, 4766180; 537370, 4766259; 537367, 4766551; 537225, 4766690; 537193, 4766879; 536930, 4766882; 536856, 4766966; 536868, 4767034; 537007, 4767102; 537006, 4767200; 536566, 4767347; 536423, 4767490; 536252, 4767488; 535954, 4767334; 535679, 4767393; 535385, 4767604; 535080, 4767547; 534569, 4767324; 534465, 4767335; 534331, 4767407; 534127, 4767723; 533972, 4767772; 533640, 4768147; 533570, 4768474; 533375, 4768765; 533440, 4768942; 533579, 4769063; 533921, 4769104; 534067, 4769201; 534874, 4770210; 535118, 4770929; 535069, 4771486; 535151, 4771994; 535265, 4772261; 535990, 4772350; 536666, 4772649; 537456, 4773175; 537985, 4773272; 538449, 4773938; 537744, 4774231; 537391, 4774118; 536985, 4774084; 536708, 4774484; 536360, 4774650; 535965, 4775005; 535419, 4775314; 534952, 4775923; 534955, 4776559; 535055, 4776922; 535874, 4777200; 535702, 4777551; 536058, 4777658; 536770, 4778598; 536982, 4779317; 537031, 4779731; 539186, 4779756; 539377, 4779416; 539396, 4779756; 543094, 4779767; 542808, 4780175; 542559, 4780720; 542662, 4780858; 542985, 4780341; 542988, 4780027; 543248, 4779977; 543268, 4779764; 543389, 4779502; 543358, 4779364; 543578, 4779253; 543815, 4779423; 543922, 4779387; 544330, 4779158; 544074, 4779100; 544232, 4778888; 544357, 4778882; 544787, 4779217; 544842, 4779361; 544759, 4779705; 544891, 4779625; 544860, 4779487; 545011, 4779438; 545138, 4779244; 545175, 4779276; 545059, 4779757; 545109, 4779820; 545222, 4779793; 545221, 4779940; 545081, 4780246; 545300, 4780235; 545522, 4780668; 545697, 4780723; 545897, 4780890; 546347, 4780984; 545959, 4780959; 545714, 4781027; 545794, 4781296; 546094, 4781417.

(N) Land bounded by the following UTM Zone 10, NAD83 coordinates (E, N): 530270, 4793196; 532533, 4791036; 533973, 4788619; 534590, 4785328; 533819, 4782705; 531659, 4780237; 531350, 4776637; 530527, 4772831; 529437, 4770325; 529266, 4770252; 529083, 4769996; 528638, 4769997; 528284, 4769528; 528166, 4769494; 528136, 4769553; 528333, 4769619; 528432, 4769725; 528474, 4769939; 528427, 4769973; 528260, 4769698; 527716, 4769460; 527419, 4770150; 527203, 4770027; 527138, 4770400; 527035, 4770433; 526947, 4770587; 526800, 4770554; 526741, 4770653; 526689, 4770514; 526473, 4770659; 526378, 4770752; 526318, 4771083; 526226, 4771048; 526116, 4771307; 525930, 4771439; 525723, 4771462; 525657, 4771347; 525515, 4771760; 525282, 4772045; 524630, 4772157; 524470, 4772388; 524397, 4772399; 523886, 4772177; 523800, 4772182; 523598, 4772370; 523160, 4772330; 522441, 4772149; 522338, 4772051; 522474, 4771503; 522292, 4771294; 522275, 4770989; 522007, 4771067; 521788, 4770931; 521728, 4770620; 521487, 4770241; 521928, 4770845; 522129, 4770758; 522205, 4770502; 522450, 4770271; 522195, 4769957; 521480, 4770130; 521487, 4770057; 521207, 4769885; 520881, 4769071; 520920, 4768626; 520673, 4767929; 520332, 4767750; 519336, 4767638; 519026, 4767464; 518233, 4766696; 517959, 4766654; 517696, 4766484; 517488, 4766076; 517482, 4765881; 517280, 4765382; 517035, 4765287; 517197, 4765066; 517053, 4764990; 516985, 4764871; 517023, 4764702; 517123, 4764589; 516854, 4764420; 516666, 4764506; 516452, 4764983; 516645, 4765177; 516377, 4764963; 515627, 4764940; 515511, 4764819; 515199, 4764728; 515106, 4764606; 514923, 4764562; 514428, 4764698; 514249, 4764989; 514223, 4765153; 514094, 4765304; 513942, 4765248; 513785, 4765009; 513541, 4764891; 513337, 4765340; 513310, 4765615; 513205, 4765634; 513206, 4766175; 512400, 4766181; 512404, 4765366; 513096, 4765367; 513132, 4765172; 513006, 4765171; 513005, 4765073; 512806, 4765071; 512806, 4765013; 512624, 4765139; 512442, 4765009; 512541, 4764894; 512370, 4764862; 512189, 4765349; 512097, 4765384; 511912, 4765627; 511588, 4765740; 511384, 4766012; 510749, 4766147; 510375, 4766357; 510214, 4766588; 510198, 4766229; 510072, 4766387; 510035, 4766662; 509895, 4766566; 509690, 4766746; 509526, 4767223; 509550, 4767418; 509649, 4767445; 509522, 4767685; 509250, 4767944; 508795, 4768234; 508681, 4768425; 508521, 4768981; 508265, 4768995; 507729, 4769769; 507546, 4769800; 506855, 4769506; 506674, 4769654; 506433, 4770083; 506228, 4770298; 505648, 4770581; 505750, 4770666; 505951, 4771068; 505798, 4771496; 505884, 4771638; 505917, 4771988; 505833, 4772338; 505939, 4772517; 506261, 4772610; 506323, 4772882; 506461, 4772996; 506498, 4773126; 506918, 4773316; 507277, 4773661; 507318, 4773986; 507754, 4774188; 508185, 4774065; 508372, 4774093; 508592, 4774198; 508775, 4774385; 509015, 4774351; 509121, 4774563; 509475, 4774647; 509401, 4775085; 509584, 4775440; 509702, 4775558; 509889, 4775517; 510072, 4775717; 510457, 4775809; 510679, 4776196; 510874, 4776326; 511056, 4776608; 511056, 4776925; 511222, 4777206; 511625, 4777077; 511807, 4777110; 511889, 4776992; 512129, 4776899; 512476, 4776615; 513000, 4776751; 513139, 4776662; 513379, 4776711; 513668, 4776606; 514562, 4776613; 514652, 4776536; 515124, 4776496; 515677, 4776693; 515863, 4776885; 516067, 4776580; 516471, 4776369; 516735, 4776508; 516922, 4776407; 517430, 4776584; 517931, 4776373; 518256, 4776354; 518410, 4776456; 518267, 4776749; 518380, 4777140; 518579, 4777250; 518935, 4777932; 519272, 4778202; 519466, 4778715; 519633, 4778561; 519792, 4778590; 520125, 4778514; 520692, 4778703; 521493, 4778773; 521492, 4779004; 521758, 4779384; 522156, 4779654; 522487, 4779974; 522778, 4779907; 523104, 4780274; 523961, 4780426; 524260, 4780086; 524822, 4780082; 525174, 4780311; 525188, 4780751; 525509, 4780891; 525822, 4780819; 526009, 4780845; 526357, 4781205; 526310, 4781611; 526352, 4782030; 526741, 4782175; 526837, 4782440; 527319, 4782829; 526846, 4783374; 526890, 4783531; 526127, 4784799; 525109, 4785834; 525039, 4786078; 525567, 4787232; 526005, 4787391; 526681, 4787412; 526812, 4787500; 526793, 4787694; 526993, 4787764; 527162, 4787915; 527248, 4788178; 527136, 4788628; 527329, 4788804; 527542, 4788799; 527598, 4788849; 527653, 4789250; 527921, 4789577; 528245, 4790167; 528267, 4790912; 528197, 4791143; 528259, 4791513; 528389, 4791689; 528796, 4791696; 529088, 4792361; 529402, 4792630; 529405, 4792787; 529570, 4792786; 529562, 4793396; 530270, 4793196.

(O) Land bounded by the following UTM Zone 10, NAD83 coordinates (E, N): 538246, 4794328; 537475, 4793609; 537223, 4793463; 536882, 4793374; 536719, 4793438; 536500, 4793777; 536313, 4793939; 536078, 4793874; 535826, 4793591; 535558, 4793551; 535477, 4793663; 535377, 4794252; 537052, 4794178; 537537, 4794079; 538312, 4794944; 538647, 4794955; 538497, 4794804; 538246, 4794328.

(P) Land bounded by the following UTM Zone 10, NAD83 coordinates (E, N): 547036, 4799069; 547367, 4798747; 547477, 4798475; 547704, 4798539; 547753, 4798661; 547890, 4798706; 547953, 4798669; 547936, 4798493; 548160, 4798377; 548335, 4797468; 548355, 4796988; 548506, 4796590; 548521, 4796375; 548276, 4796316; 548162, 4796403; 548130, 4796585; 548023, 4796678; 547729, 4796626; 547595, 4796724; 547172, 4796063; 547164, 4795486; 546940, 4795011; 546705, 4794695; 546266, 4794970; 545970, 4795405; 545595, 4795729; 545316, 4796135; 544880, 4796162; 544597, 4796755; 544373, 4796828; 544237, 4796687; 544072, 4796706; 543381, 4797375; 543303, 4797415; 543016, 4797370; 543636, 4797811; 544268, 4797712; 544681, 4797520; 545038, 4797600; 545171, 4797954; 545485, 4797955; 545807, 4797860; 546071, 4798491; 546369, 4798743; 546562, 4798782; 546744, 4798904; 546740, 4799007; 546882, 4799108; 547036, 4799069.

(Q) Land bounded by the following UTM Zone 10, NAD83 coordinates (E, N): 546907, 4799224; 546801, 4799250; 546610, 4799540; 546689, 4799759; 547139, 4799646; 547092, 4799280; 546907, 4799224.

(R) Land bounded by the following UTM Zone 10, NAD83 coordinates (E, N): 549038, 4803134; 549089, 4803022; 549033, 4802934; 548864, 4802989; 548938, 4803147; 549038, 4803134.

(S) Land bounded by the following UTM Zone 10, NAD83 coordinates (E, N): 545971, 4803802; 546278, 4803842; 545917, 4803640; 545756, 4803765; 545747, 4803949; 545582, 4804141; 545687, 4804120; 545801, 4803920; 545971, 4803802.

(T) Land bounded by the following UTM Zone 10, NAD83 coordinates (E, N): 555385, 4805405; 555437, 4805367; 555584, 4805445; 555857, 4805158; 555679, 4804912; 555568, 4805052; 555395, 4804987; 555189, 4805017; 554968, 4805260; 554909, 4805472; 555092, 4805859; 555184, 4805622; 555385, 4805405.

(U) Land bounded by the following UTM Zone 10, NAD83 coordinates (E, N): 543739, 4816011; 543827, 4815907; 543931, 4815963; 544049, 4815841; 544222, 4815805; 544218, 4815546; 544350, 4815189; 544486, 4815146; 544507, 4814807; 545402, 4814819; 545378, 4814714; 545188, 4814584; 545092, 4814176; 545160, 4814077; 545388, 4814141; 545506, 4814049; 545379, 4813709; 545668, 4813766; 545833, 4814026; 545814, 4814193; 546060, 4814343; 546064, 4814596; 546204, 4814948; 546506, 4815006; 546611, 4814933; 546864, 4815033; 546869, 4815150; 547061, 4815047; 547106, 4814862; 547427, 4814765; 547719, 4814483; 547923, 4814553; 548071, 4814541; 548132, 4814458; 548484, 4814847; 549075, 4814876; 549087, 4815102; 548983, 4815236; 549045, 4815313; 549542, 4815227; 549679, 4815067; 549775, 4815132; 550405, 4815111; 550847, 4815165; 551107, 4815081; 551434, 4815071; 551477, 4815152; 552550, 4815247; 552671, 4814896; 552485, 4814888; 552478, 4814339; 552311, 4814362; 552260, 4814516; 551927, 4814470; 551922, 4814316; 551849, 4814266; 551924, 4814082; 551858, 4813959; 551985, 4814069; 552076, 4813935; 552347, 4813828; 552674, 4813946; 552917, 4814135; 553111, 4814027; 553118, 4813918; 552774, 4813529; 552661, 4813269; 552862, 4813175; 552930, 4812712; 553202, 4812457; 553552, 4812215; 554009, 4812129; 554134, 4811853; 554105, 4811480; 554247, 4811365; 554332, 4811192; 554487, 4811142; 554778, 4810841; 554879, 4810614; 554862, 4810472; 555161, 4810122; 555225, 4809858; 555177, 4809691; 555307, 4809574; 555617, 4809509; 555797, 4809307; 555854, 4809153; 555820, 4808795; 555927, 4808746; 556081, 4807956; 556026, 4807846; 556177, 4807545; 556118, 4807187; 555996, 4807100; 555305, 4807004; 555490, 4806446; 555505, 4806183; 555359, 4805943; 555315, 4805537; 555141, 4805890; 554941, 4805940; 554733, 4806176; 554585, 4806188; 554191, 4805875; 554150, 4805659; 553996, 4805627; 554010, 4805368; 554085, 4805344; 553945, 4805047; 553989, 4804967; 553918, 4804658; 554092, 4804474; 554100, 4804277; 554226, 4804076; 554113, 4803741; 554082, 4803303; 554142, 4803072; 554088, 4802628; 553961, 4802421; 553372, 4802108; 553440, 4801709; 553594, 4801565; 553397, 4801329; 553095, 4800639; 553135, 4800686; 553223, 4800655; 553389, 4800287; 553101, 4800216; 553006, 4800453; 552964, 4800221; 552820, 4800139; 552536, 4800418; 552172, 4800484; 552157, 4800772; 552334, 4800722; 552148, 4800804; 551919, 4801087; 551905, 4801033; 551760, 4801075; 551546, 4801299; 551570, 4801405; 550924, 4801687; 550493, 4802102; 550344, 4802539; 550000, 4802821; 549639, 4803012; 549496, 4803209; 548971, 4803133; 548582, 4803443; 548709, 4803352; 548441, 4803418; 548031, 4803823; 548173, 4803949; 547731, 4803629; 547644, 4803642; 547464, 4803468; 547297, 4803500; 547170, 4803441; 547122, 4803140; 547249, 4802822; 547245, 4802465; 547358, 4802472; 547550, 4802855; 547644, 4802856; 547701, 4802737; 547485, 4802178; 547675, 4801885; 547308, 4801501; 547266, 4801275; 547462, 4801013; 547876, 4800841; 547915, 4800710; 547716, 4800414; 547541, 4800432; 547447, 4800362; 547131, 4799840; 546987, 4799827; 546734, 4800207; 546504, 4800408; 546480, 4800628; 546120, 4800690; 545963, 4800990; 545841, 4800921; 545559, 4800980; 545428, 4801108; 545673, 4801509; 545684, 4802063; 545811, 4802402; 546225, 4802433; 546435, 4802797; 546858, 4803197; 546653, 4803638; 546286, 4803919; 546111, 4804689; 546047, 4804554; 545910, 4804466; 545609, 4804470; 545422, 4804344; 545259, 4804386; 545146, 4804492; 545276, 4804662; 545251, 4804737; 544905, 4804841; 544553, 4805095; 544427, 4805245; 544406, 4805464; 544597, 4805273; 544989, 4805209; 544496, 4805340; 544297, 4805592; 544150, 4805541; 544145, 4805361; 544050, 4805298; 543716, 4805409; 543545, 4805393; 543192, 4805222; 542838, 4805257; 542556, 4805361; 542410, 4805239; 542568, 4804915; 542177, 4804671; 541825, 4804721; 541201, 4805199; 540860, 4805219; 539816, 4804471; 539681, 4804640; 539243, 4804647; 539162, 4804704; 539016, 4805011; 539016, 4805236; 538820, 4805430; 538326, 4805300; 537985, 4805389; 537937, 4805518; 538155, 4806051; 538147, 4806552; 537854, 4807504; 537668, 4807682; 537246, 4807899; 537027, 4807940; 536873, 4808060; 536890, 4808125; 536735, 4808351; 536767, 4808827; 536597, 4809061; 536670, 4809174; 536857, 4809199; 536929, 4809352; 537431, 4809805; 537901, 4810403; 537998, 4810734; 537990, 4810871; 537795, 4810951; 537536, 4810782; 537026, 4810709; 536734, 4810402; 536758, 4811330; 536838, 4811734; 537251, 4812227; 537761, 4812623; 538263, 4813132; 538149, 4813261; 537834, 4813366; 537736, 4813519; 537817, 4813616; 538198, 4813681; 538457, 4813907; 539105, 4813956; 539695, 4814234; 540343, 4814085; 540468, 4813835; 540665, 4814020; 541035, 4814078; 541111, 4814242; 541387, 4814155; 541697, 4814145; 541614, 4814430; 541398, 4814453; 541267, 4814582; 541384, 4814687; 541631, 4814677; 541778, 4814783; 541771, 4815005; 541838, 4815055; 541757, 4815147; 541837, 4815246; 541998, 4815167; 542011, 4815087; 542233, 4815063; 542343, 4815243; 542596, 4815374; 542589, 4815484; 542888, 4815491; 542887, 4815838; 543172, 4815884; 543443, 4816090; 543579, 4815936; 543671, 4816091; 543739, 4816011; and excluding land bound by 548917, 4812851; 548519, 4812842; 548512, 4812031; 548917, 4812034; 548906, 4811635; 549299, 4811637; 549306, 4812448; 548914, 4812446; 548911, 4812831; 549303, 4812860; 549313, 4813246; 548915, 4813243; 548917, 4812851.

(V) Land bounded by the following UTM Zone 10, NAD83 coordinates (E, N): 558902, 4833997; 559270, 4833775; 559566, 4833719; 559795, 4833509; 559951, 4833827; 560715, 4833969; 560808, 4833667; 560182, 4833108; 560118, 4833174; 560763, 4832392; 561432, 4831730; 561569, 4831500; 561751, 4831302; 561932, 4831227; 562231, 4830865; 562160, 4830303; 561996, 4830012; 562038, 4829685; 562160, 4829660; 562155, 4829565; 562658, 4829459; 563248, 4829491; 563410, 4829599; 563429, 4829460; 563341, 4829298; 563678, 4829031; 563731, 4828909; 563566, 4828702; 563694, 4828537; 563930, 4828428; 563919, 4828310; 564082, 4828084; 564032, 4828052; 564083, 4827942; 564220, 4827826; 564297, 4827549; 564799, 4827500; 564915, 4827546; 564911, 4827957; 564775, 4828007; 564825, 4828207; 564902, 4828208; 564930, 4828652; 565239, 4828603; 565299, 4827742; 565364, 4827647; 565164, 4827315; 565621, 4827298; 565728, 4827038; 565897, 4826849; 566083, 4826733; 566287, 4826748; 566531, 4826398; 566817, 4826216; 567186, 4826828; 567269, 4826823; 567361, 4826650; 567510, 4826574; 567520, 4826857; 567375, 4827222; 567561, 4827244; 567675, 4827399; 567785, 4827407; 567818, 4827291; 567735, 4827187; 567706, 4826859; 567868, 4826713; 567882, 4826623; 567716, 4826525; 567624, 4826042; 566904, 4826042; 566900, 4825816; 566752, 4825802; 566394, 4825554; 566128, 4825808; 565909, 4825787; 565793, 4825843; 565713, 4825734; 565325, 4825723; 565237, 4825452; 564945, 4825141; 565525, 4824992; 565649, 4824833; 565657, 4824672; 565447, 4824387; 565474, 4824227; 565406, 4824007; 565277, 4824000; 565156, 4823863; 565202, 4823812; 564824, 4823712; 564908, 4823617; 564574, 4823488; 564589, 4823683; 564458, 4823817; 563682, 4823367; 563284, 4823318; 563124, 4823233; 563021, 4823277; 564095, 4824139; 563998, 4824165; 564005, 4824109; 563882, 4824022; 563764, 4824094; 563800, 4824218; 563579, 4824666; 563366, 4824911; 563176, 4824817; 563116, 4824662; 562944, 4824512; 562837, 4824178; 562640, 4824053; 562537, 4823897; 562290, 4823883; 561627, 4824160; 561305, 4824157; 561201, 4824076; 560986, 4824043; 560629, 4824465; 560410, 4824216; 559953, 4824225; 559824, 4824119; 558782, 4824036; 558636, 4823732; 558119, 4823574; 557889, 4823689; 557712, 4823509; 557576, 4823483; 557552, 4823409; 557164, 4823362; 556740, 4823797; 556702, 4824537; 556401, 4824448; 556474, 4824585; 556384, 4824886; 556156, 4824897; 556015, 4824797; 555981, 4825148; 555870, 4825147; 555790, 4825029; 555661, 4824991; 555656, 4824818; 555563, 4824855; 555484, 4824768; 554916, 4824806; 554661, 4824940; 554561, 4825068; 554456, 4825076; 554498, 4825273; 554700, 4825445; 554842, 4825195; 555084, 4825264; 555189, 4825364; 555089, 4825486; 555031, 4825748; 554854, 4825546; 554470, 4825285; 554440, 4824996; 554011, 4824819; 553994, 4824542; 554143, 4824415; 554067, 4824298; 553958, 4824201; 553455, 4824390; 553471, 4823991; 553280, 4823790; 552985, 4823691; 552228, 4824193; 552379, 4824625; 552242, 4824843; 552042, 4824925; 551489, 4824894; 551294, 4825111; 551068, 4825225; 551053, 4825476; 550995, 4825533; 550343, 4825605; 550155, 4825713; 550135, 4825874; 550325, 4826267; 550562, 4826513; 550749, 4826528; 550905, 4826298; 551255, 4826170; 551285, 4826306; 551426, 4826425; 551463, 4826332; 551740, 4826498; 551895, 4826383; 551880, 4825888; 551816, 4825765; 551490, 4825589; 551529, 4825480; 551801, 4825302; 552200, 4825241; 552401, 4825030; 552871, 4825041; 552951, 4825434; 552959, 4826057; 553111, 4826348; 553102, 4826567; 553376, 4826968; 553421, 4826962; 553406, 4826453; 553451, 4826370; 553800, 4826187; 553939, 4825725; 554132, 4825662; 554324, 4825786; 554693, 4826284; 554637, 4826334; 554678, 4826557; 554511, 4826586; 554584, 4826691; 554600, 4827043; 554648, 4827136; 554876, 4827218; 554857, 4827317; 554979, 4827515; 554978, 4827633; 554729, 4827779; 554747, 4827841; 554950, 4827978; 555086, 4827936; 555206, 4828307; 555411, 4828198; 555571, 4828193; 555692, 4828539; 555486, 4828803; 555900, 4829424; 555999, 4829431; 556192, 4829272; 556146, 4829524; 556292, 4829770; 556538, 4829848; 556900, 4830122; 557083, 4830102; 557110, 4830192; 557288, 4830293; 557393, 4830281; 557425, 4830121; 557487, 4830097; 557596, 4830369; 557842, 4830415; 557960, 4830366; 557934, 4830520; 558285, 4830560; 558055, 4830731; 558003, 4831058; 558218, 4831207; 558218, 4831275; 558397, 4831277; 558439, 4831351; 558338, 4831653; 558133, 4831824; 558398, 4831869; 558435, 4831925; 558321, 4832189; 558272, 4832226; 558124, 4832175; 558043, 4832224; 558020, 4832351; 558516, 4833037; 558720, 4833429; 558807, 4833752; 558729, 4833867; 558779, 4834086; 558743, 4834451; 558867, 4834286; 558902, 4833997; and excluding land bound by 556617, 4829322; 556532, 4829231; 556724, 4829134; 556902, 4829259; 557038, 4829235; 557202, 4829477; 557090, 4829575; 557010, 4829556; 557001, 4829626; 556712, 4829477; 556617, 4829322.

(W) Land bounded by the following UTM Zone 10, NAD83 coordinates (E, N): 525100, 4857057; 525249, 4856814; 525719, 4856552; 526081, 4856199; 526358, 4856091; 526758, 4855797; 526752, 4855578; 526886, 4855579; 527557, 4855328; 527559, 4854777; 528144, 4854773; 528149, 4855126; 528617, 4855186; 528956, 4855188; 529133, 4855124; 529134, 4854790; 529649, 4854792; 530051, 4854356; 530054, 4853623; 530136, 4853623; 530279, 4853341; 530294, 4852846; 530489, 4852571; 531538, 4852280; 531540, 4851952; 531932, 4851954; 531935, 4851543; 532333, 4851545; 532335, 4851152; 532740, 4851200; 532739, 4851454; 533009, 4851440; 532739, 4851502; 532738, 4851566; 532835, 4851560; 532899, 4851657; 533125, 4851497; 533119, 4851414; 533532, 4851159; 533912, 4851019; 534282, 4850593; 534854, 4850400; 535197, 4850081; 535262, 4849933; 535277, 4849554; 535426, 4849278; 536128, 4848988; 536753, 4848883; 536983, 4848590; 536951, 4848371; 536880, 4848356; 537157, 4847986; 537361, 4847835; 537599, 4847857; 537795, 4847761; 537870, 4847530; 537797, 4847057; 537443, 4846397; 537523, 4846115; 537287, 4846113; 537303, 4846047; 537623, 4845999; 537681, 4845773; 537671, 4845400; 537522, 4845419; 537510, 4845341; 537356, 4845353; 537357, 4845103; 537447, 4845090; 537449, 4844846; 537647, 4844847; 537567, 4844528; 537484, 4844531; 537489, 4843765; 537103, 4843763; 537105, 4843377; 537876, 4843382; 537875, 4843735; 538044, 4843736; 538598, 4843434; 539377, 4843382; 539066, 4843349; 539067, 4843163; 539459, 4843171; 539454, 4842978; 540241, 4842983; 540239, 4843194; 540400, 4843215; 540710, 4843062; 541128, 4843123; 543279, 4842810; 543951, 4842422; 545090, 4841490; 545197, 4840925; 545411, 4840669; 545779, 4840433; 545944, 4840224; 545984, 4840012; 546133, 4839859; 545850, 4839838; 545860, 4839439; 546027, 4839440; 546038, 4839258; 545937, 4839013; 545758, 4838838; 545791, 4838684; 545702, 4838567; 545729, 4838426; 545614, 4838271; 545843, 4837718; 545634, 4837681; 545474, 4837571; 545475, 4837313; 545144, 4837308; 545358, 4837283; 545067, 4837210; 545022, 4837070; 544962, 4837175; 545051, 4837272; 545044, 4837421; 544856, 4837683; 544483, 4837681; 544393, 4837571; 544284, 4837557; 544285, 4837465; 544032, 4837411; 543806, 4837494; 543447, 4837471; 543331, 4837453; 543242, 4837322; 543123, 4837292; 543231, 4837269; 543577, 4837413; 543677, 4837320; 544352, 4837340; 544334, 4837199; 544524, 4837232; 544918, 4836995; 544938, 4836912; 544694, 4836858; 542726, 4836891; 542758, 4836068; 541170, 4836057; 541174, 4835420; 539551, 4835404; 539584, 4831327; 538389, 4831327; 538399, 4830504; 537994, 4830502; 538010, 4829335; 537454, 4829117; 537175, 4828825; 536890, 4828699; 536425, 4828230; 536544, 4828017; 536883, 4827758; 536800, 4827440; 536891, 4827126; 536612, 4826945; 536407, 4826353; 536020, 4826135; 535371, 4825638; 535147, 4825373; 534614, 4825490; 533719, 4825865; 532702, 4826893; 531803, 4827651; 531513, 4827996; 531561, 4828390; 531685, 4828573; 531773, 4828894; 531559, 4829325; 531850, 4829915; 531820, 4830922; 531870, 4831263; 531718, 4831245; 531169, 4831417; 530695, 4831809; 531065, 4832052; 531441, 4832079; 531913, 4832782; 531937, 4832933; 532404, 4833430; 533142, 4833741; 533366, 4834017; 534164, 4834617; 534219, 4834849; 534738, 4835146; 534852, 4835365; 534661, 4835646; 534890, 4836111; 534764, 4836297; 534840, 4837117; 534717, 4837296; 534810, 4837730; 534731, 4837991; 534780, 4838352; 534704, 4839116; 534800, 4839452; 534693, 4839625; 534460, 4839774; 534222, 4840049; 533875, 4840589; 533674, 4840662; 533206, 4840680; 532932, 4840887; 532928, 4841437; 532667, 4841905; 532556, 4842534; 532711, 4843198; 532677, 4843358; 532228, 4843938; 532053, 4844002; 531939, 4844228; 531653, 4844321; 531420, 4844613; 530738, 4844999; 530240, 4845913; 529567, 4845843; 529259, 4845945; 529042, 4845672; 528820, 4845745; 528644, 4846048; 528745, 4846251; 528789, 4846619; 528940, 4846685; 528858, 4846907; 528484, 4847276; 528387, 4847533; 528180, 4847663; 528002, 4847896; 527959, 4848258; 527793, 4848440; 527761, 4848583; 527537, 4848803; 527256, 4848624; 527087, 4848630; 526842, 4848767; 526642, 4848641; 526610, 4848860; 526459, 4848972; 526353, 4848959; 526189, 4849159; 525989, 4849108; 525971, 4849001; 525864, 4848938; 525726, 4849013; 525557, 4848981; 525747, 4848425; 525716, 4848362; 524946, 4848415; 524953, 4848184; 524784, 4847995; 524798, 4847814; 525357, 4847384; 525371, 4846801; 525159, 4846625; 524979, 4846160; 524409, 4846102; 524122, 4845875; 523774, 4845919; 523810, 4846014; 523764, 4846093; 523576, 4846237; 523414, 4845905; 523307, 4846048; 523225, 4846355; 522935, 4846811; 522827, 4847205; 522281, 4847585; 522098, 4847853; 521998, 4847709; 521904, 4847746; 521639, 4848290; 521711, 4848762; 521963, 4848764; 521963, 4849165; 523562, 4849212; 523548, 4851171; 522747, 4851178; 522741, 4851570; 521946, 4851579; 521941, 4852368; 520565, 4852350; 520494, 4857066; 522348, 4857131; 522349, 4856758; 522735, 4856759; 522734, 4857128; 525074, 4857136; 525100, 4857057; and excluding land bound by 523156, 4855938; 523147, 4855134; 523970, 4855143; 523966, 4855953; 523156, 4855938; and excluding land bound by 529234, 4853993; 529236, 4853613; 529924, 4853629; 529929, 4853995; 529234, 4853993.

(X) Land bounded by the following UTM Zone 10, NAD83 coordinates (E, N): 567027, 4858191; 567213, 4858045; 567417, 4858007; 567658, 4857778; 568204, 4857590; 568575, 4857575; 569036, 4857359; 569202, 4857369; 569648, 4856729; 569947, 4856466; 569507, 4855790; 568976, 4855476; 568577, 4855491; 568469, 4855349; 568296, 4855328; 567927, 4854558; 567935, 4854084; 568006, 4854000; 567977, 4853757; 568092, 4853620; 568015, 4853325; 568083, 4853257; 568121, 4853001; 568561, 4852898; 568865, 4852611; 569105, 4852509; 569606, 4852564; 569847, 4852351; 570320, 4852375; 570634, 4852302; 570936, 4852092; 571366, 4851995; 571447, 4851809; 571302, 4851592; 571314, 4851512; 571552, 4851425; 571837, 4851153; 572406, 4850009; 572125, 4849818; 571560, 4849793; 571430, 4849718; 571357, 4849756; 571347, 4849861; 570658, 4849898; 570654, 4849120; 570850, 4848858; 570688, 4848464; 570783, 4847957; 571171, 4847423; 570776, 4847108; 570766, 4845539; 570555, 4845434; 570271, 4845090; 570072, 4845017; 569692, 4844454; 569481, 4844265; 569483, 4844117; 569750, 4843792; 569934, 4843357; 569702, 4843241; 569577, 4842928; 568306, 4842054; 567860, 4841546; 566937, 4841463; 566720, 4841054; 566686, 4840722; 566463, 4840494; 566522, 4840404; 566232, 4840362; 566049, 4840576; 565842, 4840159; 565772, 4839789; 565818, 4838903; 565375, 4838899; 564886, 4839124; 565030, 4839005; 565000, 4838897; 564596, 4838771; 564242, 4838799; 564106, 4838946; 563868, 4838950; 563567, 4839105; 563072, 4839086; 562644, 4838761; 562649, 4838244; 562542, 4837874; 561842, 4837165; 561842, 4837087; 562030, 4836935; 561872, 4836734; 561761, 4836836; 561439, 4836884; 561206, 4837062; 560928, 4837169; 560739, 4837360; 560884, 4837488; 560661, 4837707; 560513, 4837705; 560178, 4837961; 559660, 4838029; 559139, 4838488; 559175, 4838541; 559360, 4838543; 559283, 4838801; 559172, 4838874; 559058, 4839131; 558836, 4839239; 558872, 4839351; 559055, 4839463; 559015, 4839758; 558867, 4839794; 558568, 4840160; 558788, 4840273; 558712, 4840494; 558492, 4840418; 558010, 4840597; 558082, 4840746; 558340, 4840785; 558779, 4841196; 558413, 4841277; 558180, 4841076; 558045, 4841171; 557881, 4841530; 557706, 4841657; 557653, 4841856; 557689, 4842108; 557870, 4842070; 557977, 4842127; 557805, 4842552; 557656, 4842699; 557518, 4843090; 557337, 4842684; 556791, 4842576; 556796, 4842724; 556653, 4842955; 556664, 4843116; 556786, 4843142; 556823, 4843381; 557119, 4843435; 556872, 4843577; 556689, 4843427; 556578, 4843426; 556466, 4843573; 556464, 4843758; 556607, 4844202; 556717, 4844314; 556527, 4844792; 556268, 4844900; 556340, 4845012; 556373, 4845418; 556483, 4845530; 556518, 4845715; 556439, 4846231; 556214, 4846525; 556172, 4847078; 556058, 4847336; 556094, 4847484; 556386, 4847856; 556385, 4848446; 556189, 4848182; 555669, 4848113; 555680, 4848281; 555857, 4848649; 555843, 4848777; 556223, 4848748; 556054, 4848972; 556309, 4849161; 556386, 4849194; 556501, 4848579; 556600, 4848597; 557663, 4849309; 557588, 4849493; 557514, 4849492; 557327, 4849675; 557364, 4849712; 557512, 4849677; 557732, 4849827; 557954, 4849828; 558100, 4849941; 558098, 4850125; 557984, 4850420; 557578, 4850416; 557391, 4850709; 557317, 4850709; 557171, 4850559; 557060, 4850558; 556688, 4850813; 556944, 4851037; 556764, 4851143; 556667, 4851059; 556540, 4851160; 556610, 4851354; 556738, 4851374; 556779, 4851200; 556867, 4851406; 557014, 4851407; 557234, 4851631; 557303, 4852075; 557227, 4852332; 557300, 4852407; 558149, 4852416; 558517, 4852530; 558848, 4852718; 558959, 4852608; 558961, 4852423; 559737, 4852431; 559883, 4852580; 560916, 4852628; 561028, 4852518; 561176, 4852519; 561362, 4852337; 561766, 4852636; 561801, 4852752; 561614, 4852793; 561607, 4852883; 561715, 4853019; 561864, 4852939; 561984, 4852971; 562088, 4853112; 561893, 4853207; 561879, 4853361; 562025, 4853491; 562310, 4853606; 562309, 4853712; 562159, 4853896; 562082, 4854227; 561820, 4854557; 561781, 4854741; 561407, 4855291; 561255, 4855696; 561733, 4855848; 562025, 4856184; 562172, 4856259; 562318, 4856482; 562352, 4856778; 563189, 4857968; 563261, 4858153; 563447, 4858044; 563668, 4858047; 563743, 4857973; 563889, 4858086; 564077, 4857755; 564298, 4857868; 564741, 4857873; 564924, 4857985; 565109, 4857950; 565182, 4858099; 565404, 4858064; 565553, 4857955; 565811, 4857994; 565886, 4857884; 566364, 4858037; 566624, 4857929; 566881, 4858005; 567027, 4858191; and excluding land bound by 558316, 4841778; 558375, 4841721; 558483, 4841742; 558550, 4841896; 558476, 4842005; 558292, 4841930; 558076, 4842027; 558192, 4841990; 558187, 4841854; 558316, 4841778; and excluding land bound by 558626, 4841748; 558520, 4841712; 558633, 4841665; 558626, 4841748.

(Y) Land bounded by the following UTM Zone 10, NAD83 coordinates (E, N): 545207, 4876784; 546448, 4876773; 546445, 4877069; 547044, 4876907; 547399, 4877017; 547540, 4876967; 547644, 4876775; 549168, 4876779; 549219, 4876786; 549213, 4877087; 549364, 4877160; 549812, 4876539; 549782, 4876327; 549989, 4875556; 550732, 4875517; 550981, 4875731; 551290, 4875760; 551665, 4875454; 551786, 4875516; 552076, 4875949; 552350, 4876396; 552498, 4876792; 554985, 4876798; 555044, 4876466; 555211, 4876241; 555300, 4875937; 555360, 4875364; 555750, 4874533; 555966, 4873791; 555960, 4873441; 555747, 4872433; 555753, 4871820; 556428, 4871564; 556488, 4871223; 557218, 4870927; 557352, 4870760; 557328, 4870433; 557172, 4870183; 556922, 4870173; 556659, 4870042; 556430, 4869680; 556254, 4869171; 555842, 4868750; 555919, 4868563; 555808, 4868455; 555773, 4868307; 555814, 4867901; 555742, 4867716; 555856, 4867347; 555674, 4867124; 555602, 4866902; 555236, 4866603; 555274, 4866529; 555495, 4866531; 555830, 4866276; 555870, 4866177; 555857, 4866231; 556041, 4866418; 556094, 4866671; 556297, 4866833; 556308, 4866957; 556531, 4866916; 556514, 4866638; 556689, 4866399; 556794, 4866436; 556850, 4866375; 556845, 4866221; 556449, 4866279; 556236, 4865987; 555968, 4866024; 556018, 4865946; 556092, 4865947; 556317, 4865580; 556465, 4865581; 556575, 4865656; 556724, 4865473; 556984, 4865365; 556988, 4864959; 556915, 4864847; 556804, 4864920; 556730, 4864882; 556403, 4864362; 556112, 4863990; 556001, 4863952; 555747, 4863580; 555635, 4863653; 555303, 4863649; 555193, 4863574; 555269, 4863354; 554976, 4863055; 554977, 4862944; 554757, 4862831; 554684, 4862720; 554537, 4862718; 554427, 4862570; 554205, 4862678; 553909, 4862675; 553726, 4862563; 553538, 4862856; 553243, 4862853; 552912, 4862702; 552839, 4862627; 552841, 4862443; 552767, 4862405; 552357, 4862770; 552283, 4862770; 552101, 4862509; 551807, 4862432; 551588, 4862172; 551440, 4862170; 551257, 4862058; 551075, 4861760; 550521, 4861718; 550448, 4861643; 550337, 4861642; 550118, 4861418; 550007, 4861417; 549898, 4861305; 549926, 4861147; 549838, 4861122; 549889, 4861028; 549852, 4860940; 549411, 4861300; 549368, 4861281; 549157, 4860873; 549202, 4860767; 548974, 4860764; 548915, 4860660; 549097, 4860559; 549066, 4860484; 548853, 4860436; 548499, 4860643; 548565, 4860971; 548354, 4861216; 548433, 4861328; 548613, 4861267; 548742, 4861330; 548910, 4861297; 548717, 4861626; 548398, 4861754; 548412, 4861857; 548618, 4861928; 548617, 4862040; 548692, 4862041; 548731, 4861935; 548888, 4861817; 548952, 4861610; 549027, 4861661; 549026, 4861768; 549165, 4861643; 549257, 4861641; 549117, 4861814; 549074, 4862442; 548960, 4862773; 548813, 4862882; 548622, 4862625; 548516, 4862809; 548200, 4863005; 548322, 4863228; 548414, 4863204; 548388, 4863419; 548030, 4863454; 547964, 4863145; 547760, 4863249; 547727, 4863575; 547781, 4863748; 547973, 4863682; 548090, 4863782; 547616, 4864199; 547431, 4864198; 547356, 4864271; 547355, 4864418; 547054, 4864841; 546600, 4864459; 546566, 4863848; 546207, 4863556; 546068, 4863285; 545773, 4863045; 545806, 4862696; 544970, 4862975; 544705, 4863243; 544483, 4863718; 544152, 4864076; 543817, 4864234; 543712, 4864504; 543570, 4864599; 543655, 4865268; 543144, 4865684; 542918, 4865785; 542846, 4866010; 542411, 4866566; 542282, 4866707; 542101, 4866757; 541855, 4867000; 541724, 4867263; 541608, 4867037; 541009, 4866971; 540866, 4867003; 540940, 4867149; 540909, 4867354; 540884, 4867405; 540772, 4867391; 540396, 4867325; 540164, 4866922; 540039, 4867044; 539981, 4867019; 540025, 4866795; 539781, 4866857; 539656, 4866968; 539556, 4866957; 539293, 4867263; 539343, 4867435; 538961, 4867708; 538706, 4867774; 537986, 4868352; 538008, 4869150; 537204, 4869159; 537189, 4868367; 535772, 4868611; 534750, 4868528; 534171, 4868564; 533849, 4868665; 533457, 4868573; 532995, 4868274; 532475, 4868072; 531974, 4867980; 531398, 4867514; 530767, 4867517; 529964, 4867680; 529962, 4868278; 531001, 4868270; 531188, 4868213; 531554, 4868415; 531643, 4868531; 531836, 4868564; 531952, 4868558; 531914, 4868339; 532011, 4868327; 532048, 4868546; 532640, 4868510; 532928, 4868731; 533145, 4869040; 533344, 4869170; 533837, 4869149; 533859, 4870408; 534056, 4870788; 533835, 4871237; 533877, 4871823; 534027, 4872061; 534495, 4872424; 534641, 4872701; 534671, 4873183; 534747, 4873293; 535005, 4873321; 535019, 4873540; 534941, 4873643; 534651, 4873784; 534551, 4873942; 534224, 4873728; 533852, 4873630; 533672, 4873513; 533292, 4873691; 533068, 4873600; 533009, 4873812; 532951, 4873818; 532727, 4873469; 532646, 4873160; 531992, 4872764; 531730, 4872519; 531421, 4872569; 531285, 4872690; 531215, 4872619; 531114, 4872239; 530954, 4872142; 530414, 4872062; 530047, 4872150; 530056, 4874278; 530357, 4874286; 530344, 4876715; 537894, 4876768; 540338, 4876759; 541140, 4876633; 543541, 4876674; 544995, 4876763; 545089, 4877053; 545210, 4877183; 545207, 4876784; and excluding land bound by 532274, 4868316; 532410, 4868271; 532409, 4868426; 532274, 4868451; 532274, 4868316.

(Z) Land bounded by the following UTM Zone 10, NAD83 coordinates (E, N): 566433, 4874497; 567104, 4874693; 567179, 4874314; 567989, 4874361; 568224, 4874633; 568604, 4874585; 568368, 4873702; 567884, 4873970; 567253, 4873827; 566921, 4873552; 566656, 4873444; 566682, 4873170; 566624, 4872960; 566490, 4873132; 566454, 4873866; 566179, 4874357; 565284, 4875023; 565017, 4875401; 564664, 4875513; 564270, 4875777; 564116, 4875930; 563995, 4876180; 562883, 4877208; 562826, 4877466; 562872, 4877749; 562647, 4878321; 563003, 4878441; 563147, 4878030; 563113, 4877514; 563357, 4877430; 563821, 4876992; 564217, 4876549; 564333, 4876192; 565018, 4875855; 565180, 4875689; 565334, 4875315; 565910, 4875051; 566433, 4874497.

(AA) Land bounded by the following UTM Zone 10, NAD83 coordinates (E, N): 562188, 4880533; 562341, 4880553; 562386, 4880679; 562479, 4880706; 562665, 4880547; 562666, 4880033; 562727, 4880010; 562678, 4879919; 562735, 4879683; 562366, 4879450; 562478, 4879878; 562403, 4879974; 562372, 4880252; 562204, 4880353; 562114, 4880569; 562152, 4880941; 562246, 4880807; 562164, 4880635; 562188, 4880533.

(BB) Land bounded by the following UTM Zone 10, NAD83 coordinates (E, N): 563683, 4882874; 563746, 4882754; 564537, 4882264; 564679, 4881949; 564655, 4881782; 563894, 4881507; 563751, 4881712; 563427, 4881685; 563135, 4881960; 563132, 4881815; 562822, 4881802; 562684, 4882144; 562692, 4882572; 562796, 4882590; 562947, 4882419; 563290, 4882654; 563027, 4882964; 562723, 4883075; 562437, 4883467; 562570, 4883619; 562910, 4883717; 562981, 4883554; 563549, 4883087; 563683, 4882874.

(CC) Land bounded by the following UTM Zone 10, NAD83 coordinates (E, N): 568337, 4890438; 569111, 4890443; 569104, 4890270; 570307, 4890294; 570743, 4890053; 570802, 4888674; 572423, 4888686; 572408, 4889860; 573449, 4890065; 573838, 4889793; 574187, 4889679; 574345, 4889555; 574671, 4889490; 574887, 4889229; 575277, 4889065; 575562, 4888811; 575776, 4888745; 576026, 4888779; 576360, 4888601; 576590, 4888228; 577040, 4887776; 577111, 4887520; 577257, 4887415; 577277, 4887240; 577481, 4886979; 577408, 4886784; 577412, 4886440; 576843, 4886433; 576971, 4886409; 577071, 4886185; 577036, 4885825; 577275, 4885750; 577706, 4885151; 577734, 4884971; 577865, 4884747; 578111, 4884634; 578204, 4884384; 578393, 4884161; 578286, 4883974; 578359, 4883717; 578323, 4883550; 578440, 4883410; 578355, 4882952; 578425, 4882413; 578528, 4882465; 578639, 4882267; 578571, 4882080; 578556, 4881649; 578568, 4881218; 578634, 4881013; 578407, 4880644; 578554, 4880182; 578703, 4880010; 578640, 4879926; 578623, 4879701; 578428, 4879345; 577948, 4879121; 577749, 4879118; 577512, 4878981; 577332, 4878991; 577058, 4878815; 576839, 4878799; 576338, 4878781; 576028, 4878867; 575681, 4878876; 575125, 4878992; 574920, 4879166; 574640, 4879129; 574503, 4879188; 574073, 4878755; 573641, 4878905; 573239, 4878876; 573142, 4878754; 573139, 4878521; 572716, 4878546; 572716, 4878978; 572275, 4879524; 571897, 4879631; 571443, 4879331; 570969, 4880141; 571106, 4880451; 571427, 4880714; 571866, 4881308; 571975, 4881859; 571833, 4882471; 571614, 4882796; 571260, 4883057; 570902, 4883155; 569988, 4883238; 570091, 4883598; 569842, 4883657; 569739, 4883600; 569606, 4883672; 569479, 4883621; 569163, 4883745; 568997, 4883685; 568659, 4883696; 568512, 4883793; 568003, 4883877; 567528, 4883842; 567258, 4883894; 566765, 4883819; 566502, 4884004; 566477, 4884256; 566291, 4884300; 566054, 4884493; 565941, 4884453; 565585, 4884580; 565321, 4884593; 564891, 4885068; 564602, 4885111; 564343, 4885067; 563658, 4885232; 563606, 4885344; 563345, 4885355; 562863, 4885598; 563507, 4886524; 563844, 4886633; 564352, 4886563; 564909, 4886675; 565700, 4886464; 566075, 4886567; 566090, 4886912; 565388, 4887043; 564900, 4887398; 564886, 4887650; 565165, 4888630; 565575, 4888647; 565566, 4889052; 565950, 4889056; 565955, 4889459; 567099, 4889471; 567123, 4890257; 567522, 4890261; 567536, 4890645; 568341, 4890633; 568337, 4890438.

(DD) Land bounded by the following UTM Zone 10, NAD83 coordinates (E, N): 589784, 4895977; 591033, 4896017; 591043, 4895645; 590911, 4895073; 591054, 4894974; 591070, 4894409; 589626, 4894365; 589175, 4893961; 589228, 4893667; 589176, 4893554; 589343, 4893445; 589273, 4893340; 589080, 4893309; 588918, 4893464; 588791, 4893487; 588528, 4893410; 588472, 4893448; 588563, 4893349; 588522, 4893295; 588289, 4893510; 588097, 4893394; 587955, 4892933; 588017, 4892940; 587976, 4892809; 587867, 4892788; 587775, 4892893; 587419, 4892814; 587350, 4892630; 587380, 4892586; 587457, 4892618; 587461, 4892549; 587337, 4892359; 587231, 4892374; 587318, 4892111; 587428, 4891970; 587531, 4891942; 587515, 4891865; 587270, 4891926; 587046, 4892073; 586700, 4892033; 586656, 4891999; 586713, 4891709; 586591, 4891783; 586378, 4891786; 586380, 4891479; 586105, 4891496; 585883, 4891296; 585990, 4891109; 585988, 4890893; 585773, 4891077; 585600, 4891070; 585409, 4890956; 585180, 4890955; 584970, 4891142; 584965, 4890875; 584931, 4890819; 584862, 4890837; 584841, 4890924; 584694, 4891032; 584749, 4892094; 584942, 4892180; 585252, 4892445; 585550, 4892465; 585709, 4892596; 585949, 4892522; 586089, 4892562; 586392, 4892920; 586642, 4893013; 586711, 4893105; 586535, 4893365; 586367, 4893408; 586143, 4893322; 585966, 4893544; 585973, 4893982; 586170, 4894158; 586171, 4894583; 585878, 4894610; 585702, 4894412; 585496, 4894306; 585482, 4894403; 585728, 4894932; 585346, 4895029; 585338, 4895206; 585483, 4895275; 585714, 4895222; 585628, 4895810; 585955, 4895873; 586637, 4896306; 587202, 4896365; 587259, 4897181; 588031, 4897683; 588528, 4898294; 589576, 4898311; 589830, 4897094; 589623, 4896981; 589784, 4895977.

(EE) Land bounded by the following UTM Zone 10, NAD83 coordinates (E, N): 584001, 4900035; 584066, 4899762; 583898, 4899473; 583741, 4899361; 583528, 4899322; 583263, 4899599; 583265, 4899910; 584001, 4900035.

(FF) Land bounded by the following UTM Zone 10, NAD83 coordinates (E, N): 583743, 4904124; 583832, 4904063; 583840, 4903437; 583746, 4903423; 583550, 4903533; 583353, 4904238; 583466, 4904259; 583743, 4904124.

(GG) Land bounded by the following UTM Zone 10, NAD83 coordinates (E, N): 583834, 4904326; 583526, 4904466; 583359, 4904790; 583369, 4904928; 583637, 4905094; 583831, 4905103; 583834, 4904326.

(iii) Note: Map of Western Oregon Cascades South Unit follows:

BILLING CODE 4310-55-S

BILLING CODE 4310-55-C

(20) Willamette/North Umpqua Unit (Unit 13). Douglas and Lane Counties, Oregon.

(i) The Willamette/North Umpqua Unit consists of 118, 500 ac (48, 000 ha) and is comprised of lands managed by the Eugene and Roseburg BLM Districts.

(ii) From USGS 1:24, 000 scale quadrangles Beaver Creek, Blue Mountain, Burnt Mountain, Chilcoot Mountain, Clay Creek, Cottage Grove, Cottage Grove Lake, Curtin, Drain, Elkton, Fairview Peak, Gunter, Harness Mountain, Harrington Creek, High Point, Letz Creek, Putnam Valley, Scaredman Creek, Scotts Valley, Silica Mountain, Yellow Butte, and Yoncalla.

(A) Land bounded by the following UTM Zone 10, NAD83 coordinates (E, N): 519356, 4809430; 520904, 4809430; 520937, 4807802; 519321, 4807771; 519356, 4809430.

(B) Land bounded by the following UTM Zone 10, NAD83 coordinates (E, N): 516119, 4814219; 516128, 4812627; 514530, 4812651; 514520, 4814234; 516119, 4814219.

(C) Land bounded by the following UTM Zone 10, NAD83 coordinates (E, N): 507114, 4817226; 508699, 4817335; 508748, 4815751; 507143, 4815679; 507114, 4817226.

(D) Land bounded by the following UTM Zone 10, NAD83 coordinates (E, N): 468798, 4818569; 468779, 4816954; 467159, 4816963; 467181, 4818589; 468798, 4818569.

(E) Land bounded by the following UTM Zone 10, NAD83 coordinates (E, N): 465548, 4818598; 465546, 4817792; 466360, 4817783; 466364, 4818192; 466770, 4818185; 466760, 4817373; 465546, 4817386; 465546, 4816979; 463937, 4816990; 463912, 4818604; 465548, 4818598.

(F) Land bounded by the following UTM Zone 10, NAD83 coordinates (E, N): 507114, 4817226; 505523, 4817106; 505507, 4818684; 507096, 4818761; 507114, 4817226.

(G) Land bounded by the following UTM Zone 10, NAD83 coordinates (E, N): 468798, 4818569; 469015, 4820171; 470330, 4820153; 470406, 4818557; 468798, 4818569.

(H) Land bounded by the following UTM Zone 10, NAD83 coordinates (E, N): 463912, 4818604; 462354, 4818580; 462362, 4820174; 464237, 4820187; 463912, 4818604.

(I) Land bounded by the following UTM Zone 10, NAD83 coordinates (E, N): 505507, 4818684; 504713, 4818647; 504709, 4819475; 504313, 4819452; 504315, 4819040; 503918, 4819020; 503916, 4820255; 505494, 4820353; 505507, 4818684.

(J) Land bounded by the following UTM Zone 10, NAD83 coordinates (E, N): 508683, 4818837; 507096, 4818761; 507092, 4820403; 508663, 4820451; 508683, 4818837.

(K) Land bounded by the following UTM Zone 10, NAD83 coordinates (E, N): 462358, 4821751; 462362, 4820174; 460792, 4820176; 460793, 4821767; 462358, 4821751.

(L) Land bounded by the following UTM Zone 10, NAD83 coordinates (E, N): 503916, 4820255; 502337, 4820151; 502344, 4821721; 503905, 4821902; 503916, 4820255.

(M) Land bounded by the following UTM Zone 10, NAD83 coordinates (E, N): 508656, 4822059; 509042, 4822065; 509048, 4821265; 508659, 4821255; 508656, 4822059.

(N) Land bounded by the following UTM Zone 10, NAD83 coordinates (E, N): 507106, 4822065; 507092, 4820403; 505494, 4820353; 505464, 4822058; 507106, 4822065.

(O) Land bounded by the following UTM Zone 10, NAD83 coordinates (E, N): 514473, 4822079; 514495, 4820514; 512889, 4820516; 512826, 4822103; 514473, 4822079.

(P) Land bounded by the following UTM Zone 10, NAD83 coordinates (E, N): 512049, 4822088; 511253, 4822085; 511232, 4822488; 512017, 4822496; 512049, 4822088.

(Q) Land bounded by the following UTM Zone 10, NAD83 coordinates (E, N): 499406, 4823158; 499378, 4821551; 497769, 4821555; 497791, 4823159; 499406, 4823158.

(R) Land bounded by the following UTM Zone 10, NAD83 coordinates (E, N): 465401, 4823330; 465239, 4822937; 464874, 4822947; 465049, 4823342; 465401, 4823330.

(S) Land bounded by the following UTM Zone 10, NAD83 coordinates (E, N): 463944, 4821773; 462358, 4821751; 462354, 4823328; 464696, 4823352; 463944, 4821773.

(T) Land bounded by the following UTM Zone 10, NAD83 coordinates (E, N): 467532, 4823244; 467536, 4822508; 467836, 4822493; 467615, 4821715; 468833, 4821684; 468865, 4822061; 468079, 4822091; 468137, 4822478; 468898, 4822439; 468964, 4823194; 470399, 4823265; 470475, 4821709; 470064, 4821704; 470069, 4821318; 469267, 4821310; 469293, 4820928; 468924, 4820928; 469015, 4820171; 467589, 4820154; 467181, 4818589; 465548, 4818598; 466157, 4820214; 464237, 4820187; 463944, 4821773; 465165, 4821764; 465753, 4823318; 465630, 4823404; 465750, 4823525; 466080, 4823399; 466105, 4823306; 467532, 4823244; and excluding land bound by 465979, 4821750; 466247, 4820975; 465862, 4820987; 466010, 4820600; 466752, 4820574; 466389, 4821742; 465979, 4821750; and excluding land bound by 469653, 4821698; 469667, 4822463; 469282, 4822451; 469242, 4821694; 469653, 4821698.

(U) Land bounded by the following UTM Zone 10, NAD83 coordinates (E, N): 519356, 4809430; 517745, 4809430; 517742, 4810230; 516937, 4810229; 516935, 4811028; 516130, 4811026; 516128, 4812627; 517726, 4812627; 517716, 4814228; 518515, 4814218; 518499, 4815786; 517702, 4815780; 517716, 4814228; 516119, 4814219; 516114, 4815399; 515715, 4815401; 515713, 4815795; 514515, 4815803; 514511, 4817372; 513315, 4817373; 513318, 4816977; 513708, 4816981; 513714, 4816583; 512930, 4816579; 512933, 4815793; 513329, 4815795; 513325, 4816189; 513719, 4816191; 513724, 4815798; 514515, 4815803; 514520, 4814234; 512947, 4814212; 512940, 4815002; 511750, 4815011; 511741, 4815805; 510261, 4815817; 510292, 4817339; 508699, 4817335; 508683, 4818837; 510268, 4818913; 510277, 4818518; 511332, 4818528; 511339, 4818134; 510944, 4818129; 510959, 4817346; 511353, 4817350; 511346, 4817742; 512135, 4817750; 512130, 4818142; 512525, 4818146; 512520, 4818540; 512124, 4818536; 512119, 4818925; 510271, 4818914; 510225, 4820503; 512889, 4820516; 512912, 4818929; 514500, 4818939; 514495, 4820514; 516116, 4820525; 516130, 4822015; 514473, 4822079; 514423, 4823636; 520090, 4823608; 520077, 4822863; 519676, 4822827; 519660, 4822071; 518862, 4822046; 518852, 4821286; 517673, 4821240; 517607, 4820509; 517641, 4819735; 518046, 4819740; 518070, 4818960; 519263, 4818966; 519268, 4818180; 520859, 4818187; 520867, 4811023; 519343, 4811023; 519356, 4809430; and excluding land bound by 517694, 4816576; 517687, 4817373; 516895, 4817372; 516901, 4816579; 517694, 4816576; and excluding land bound by 515408, 4818151; 515397, 4818946; 515294, 4818945; 515314, 4818162; 515408, 4818151.

(V) Land bounded by the following UTM Zone 10, NAD83 coordinates (E, N): 508650, 4823643; 508651, 4823247; 509034, 4823252; 509037, 4822856; 508653, 4822851; 508656, 4822059; 507106, 4822065; 507098, 4823642; 508650, 4823643.

(W) Land bounded by the following UTM Zone 10, NAD83 coordinates (E, N): 510176, 4823661; 511170, 4823690; 511190, 4823290; 511572, 4823299; 511598, 4822897; 510824, 4822883; 510855, 4822084; 510201, 4822082; 510176, 4823661.

(X) Land bounded by the following UTM Zone 10, NAD83 coordinates (E, N): 468964, 4823194; 467532, 4823244; 467449, 4824829; 468878, 4824704; 468964, 4823194.

(Y) Land bounded by the following UTM Zone 10, NAD83 coordinates (E, N): 497803, 4824776; 497791, 4823159; 496178, 4823178; 496197, 4824848; 497803, 4824776.

(Z) Land bounded by the following UTM Zone 10, NAD83 coordinates (E, N): 503895, 4823392; 503507, 4823380; 503506, 4822988; 503892, 4823005; 503895, 4823392; 505501, 4823572; 505501, 4823186; 505893, 4823202; 505868, 4822440; 505483, 4822429; 505464, 4822058; 503905, 4821902; 503889, 4822618; 503505, 4822597; 503510, 4822227; 503123, 4822193; 503121, 4822575; 502342, 4822532; 502344, 4821721; 501023, 4821717; 501048, 4823190; 499406, 4823158; 499427, 4824765; 501069, 4824806; 501066, 4824549; 501574, 4824538; 501574, 4824141; 502329, 4824128; 502318, 4824913; 503875, 4824957; 503895, 4823392.

(AA) Land bounded by the following UTM Zone 10, NAD83 coordinates (E, N): 510176, 4823661; 508650, 4823643; 508590, 4825175; 509371, 4825207; 509381, 4824818; 508993, 4824805; 509019, 4824033; 509403, 4824041; 509392, 4824430; 510164, 4824450; 510176, 4823661.

(BB) Land bounded by the following UTM Zone 10, NAD83 coordinates (E, N): 514431, 4825208; 514423, 4823636; 512674, 4823733; 512770, 4825255; 514431, 4825208.

(CC) Land bounded by the following UTM Zone 10, NAD83 coordinates (E, N): 497803, 4824776; 497733, 4825589; 498169, 4825601; 498184, 4825185; 498591, 4825188; 498592, 4824762; 497803, 4824776.

(DD) Land bounded by the following UTM Zone 10, NAD83 coordinates (E, N): 510384, 4826426; 510401, 4825240; 510152, 4825240; 510134, 4826424; 510384, 4826426.

(EE) Land bounded by the following UTM Zone 10, NAD83 coordinates (E, N): 496185, 4825660; 496191, 4825254; 494568, 4825255; 494573, 4826484; 495775, 4826484; 495782, 4825661; 496185, 4825660.

(FF) Land bounded by the following UTM Zone 10, NAD83 coordinates (E, N): 505438, 4826554; 505435, 4824971; 503875, 4824957; 503888, 4826547; 505438, 4826554.

(GG) Land bounded by the following UTM Zone 10, NAD83 coordinates (E, N): 508590, 4825175; 507382, 4825086; 507398, 4824712; 506979, 4824685; 506978, 4824314; 507098, 4823642; 505501, 4823572; 505435, 4824971; 506980, 4825056; 506994, 4826672; 508564, 4826756; 508590, 4825175.

(HH) Land bounded by the following UTM Zone 10, NAD83 coordinates (E, N): 514431, 4825208; 514358, 4826812; 515946, 4826820; 516045, 4825206; 514431, 4825208.

(II) Land bounded by the following UTM Zone 10, NAD83 coordinates (E, N): 512770, 4825255; 512380, 4825249; 512375, 4826049; 511981, 4826045; 511985, 4825644; 511190, 4825640; 511180, 4826434; 510384, 4826426; 510379, 4826821; 512769, 4826849; 512770, 4825255.

(JJ) Land bounded by the following UTM Zone 10, NAD83 coordinates (E, N): 486118, 4827294; 486115, 4826893; 485710, 4826893; 485714, 4827293; 486118, 4827294.

(KK) Land bounded by the following UTM Zone 10, NAD83 coordinates (E, N): 514358, 4826812; 512769, 4826849; 512776, 4827626; 513172, 4827624; 513174, 4828017; 514365, 4828019; 514358, 4826812.

(LL) Land bounded by the following UTM Zone 10, NAD83 coordinates (E, N): 491344, 4828080; 491338, 4826474; 490140, 4826483; 490139, 4826883; 489739, 4826884; 489738, 4828085; 491344, 4828080.

(MM) Land bounded by the following UTM Zone 10, NAD83 coordinates (E, N): 493771, 4826483; 492968, 4826482; 492956, 4828086; 493358, 4828081; 493367, 4826884; 493768, 4826884; 493771, 4826483.

(NN) Land bounded by the following UTM Zone 10, NAD83 coordinates (E, N): 497316, 4827297; 496955, 4827292; 496954, 4828084; 497732, 4828088; 497734, 4827304; 497316, 4827297.

(OO) Land bounded by the following UTM Zone 10, NAD83 coordinates (E, N): 487329, 4828094; 487326, 4827692; 486524, 4827695; 486526, 4828097; 487329, 4828094.

(PP) Land bounded by the following UTM Zone 10, NAD83 coordinates (E, N): 508564, 4826756; 508541, 4828048; 507082, 4828016; 507079, 4828389; 507832, 4828431; 507817, 4828817; 508591, 4828873; 508609, 4828048; 509735, 4828031; 509735, 4827944; 509337, 4827948; 509340, 4827560; 509736, 4827563; 509736, 4827183; 510130, 4827192; 510128, 4826818; 508564, 4826756.

(QQ) Land bounded by the following UTM Zone 10, NAD83 coordinates (E, N): 488933, 4828903; 489730, 4828899; 489737, 4828086; 488934, 4828088; 488933, 4828903.

(RR) Land bounded by the following UTM Zone 10, NAD83 coordinates (E, N): 488131, 4828907; 488132, 4828499; 487731, 4828499; 487731, 4828905; 488131, 4828907.

(SS) Land bounded by the following UTM Zone 10, NAD83 coordinates (E, N): 506994, 4826672; 505438, 4826554; 505416, 4828023; 504033, 4828034; 504012, 4829481; 505557, 4829476; 505549, 4828022; 507001, 4828016; 506994, 4826672.

(TT) Land bounded by the following UTM Zone 10, NAD83 coordinates (E, N): 496239, 4829673; 496245, 4828077; 495846, 4828077; 495844, 4828469; 495033, 4828470; 495033, 4828867; 495449, 4828868; 495451, 4829667; 496239, 4829673.

(UU) Land bounded by the following UTM Zone 10, NAD83 coordinates (E, N): 491344, 4828080; 491344, 4828282; 491802, 4828288; 491802, 4828488; 491803, 4828689; 491345, 4828687; 491347, 4829700; 492208, 4829697; 492207, 4829294; 492610, 4829293; 492605, 4828089; 491344, 4828080.

(VV) Land bounded by the following UTM Zone 10, NAD83 coordinates (E, N): 488933, 4828903; 488131, 4828907; 488130, 4829710; 488531, 4829710; 488532, 4829307; 488933, 4829307; 488933, 4828903.

(WW) Land bounded by the following UTM Zone 10, NAD83 coordinates (E, N): 502430, 4829471; 502469, 4828046; 503852, 4828035; 503888, 4826547; 502327, 4826506; 502345, 4828047; 501049, 4828062; 501066, 4826552; 502327, 4826506; 502318, 4824913; 501066, 4824951; 501067, 4826403; 499414, 4826454; 499458, 4827255; 499330, 4828089; 497831, 4828088; 497846, 4829694; 499472, 4829714; 499480, 4828086; 500895, 4828064; 500670, 4829263; 501481, 4829255; 502430, 4829471.

(XX) Land bounded by the following UTM Zone 10, NAD83 coordinates (E, N): 489727, 4829325; 489330, 4829316; 489326, 4829730; 489719, 4829751; 489727, 4829325.

(YY) Land bounded by the following UTM Zone 10, NAD83 coordinates (E, N): 504012, 4829481; 502430, 4829471; 502385, 4829849; 504012, 4829876; 504012, 4829481.

(ZZ) Land bounded by the following UTM Zone 10, NAD83 coordinates (E, N): 512769, 4830059; 512778, 4828443; 511589, 4828428; 511584, 4829242; 510398, 4829206; 510456, 4829626; 510191, 4829621; 510188, 4830041; 512769, 4830059.

(AAA) Land bounded by the following UTM Zone 10, NAD83 coordinates (E, N): 499472, 4829714; 499451, 4831294; 500254, 4831291; 500263, 4830498; 500749, 4830494; 500753, 4829700; 499472, 4829714.

(BBB) Land bounded by the following UTM Zone 10, NAD83 coordinates (E, N): 497841, 4831296; 497846, 4829694; 496239, 4829673; 496226, 4831299; 497841, 4831296.

(CCC) Land bounded by the following UTM Zone 10, NAD83 coordinates (E, N): 488130, 4829710; 486537, 4829703; 486545, 4830908; 487338, 4830909; 487339, 4831308; 488130, 4831307; 488130, 4829710.

(DDD) Land bounded by the following UTM Zone 10, NAD83 coordinates (E, N): 491351, 4831319; 491347, 4829700; 490940, 4829704; 490943, 4830114; 490538, 4830123; 490539, 4830543; 489728, 4830566; 489734, 4831390; 491351, 4831319.

(EEE) Land bounded by the following UTM Zone 10, NAD83 coordinates (E, N): 505149, 4831859; 505532, 4831868; 505578, 4831050; 504400, 4831059; 504392, 4831450; 505168, 4831456; 505149, 4831859.

(FFF) Land bounded by the following UTM Zone 10, NAD83 coordinates (E, N): 484926, 4832114; 486554, 4832113; 486548, 4831310; 485739, 4831312; 485740, 4831713; 484928, 4831715; 484926, 4832114.

(GGG) Land bounded by the following UTM Zone 10, NAD83 coordinates (E, N): 484926, 4832514; 484926, 4832114; 484525, 4832118; 484526, 4832516; 484926, 4832514.

(HHH) Land bounded by the following UTM Zone 10, NAD83 coordinates (E, N): 505149, 4831859; 504766, 4831850; 504751, 4832262; 504351, 4832255; 504319, 4832669; 505111, 4832681; 505149, 4831859.

(III) Land bounded by the following UTM Zone 10, NAD83 coordinates (E, N): 507089, 4832674; 507857, 4832712; 507870, 4832275; 507480, 4832267; 507486, 4831840; 507090, 4831842; 507089, 4832674.

(JJJ) Land bounded by the following UTM Zone 10, NAD83 coordinates (E, N): 499451, 4831294; 497841, 4831296; 497832, 4832888; 499436, 4832887; 499451, 4831294.

(KKK) Land bounded by the following UTM Zone 10, NAD83 coordinates (E, N): 496228, 4832890; 496226, 4831299; 494628, 4831290; 494634, 4832494; 495032, 4832494; 495034, 4832894; 496228, 4832890.

(LLL) Land bounded by the following UTM Zone 10, NAD83 coordinates (E, N): 484926, 4832514; 484926, 4832913; 486559, 4832916; 486556, 4832514; 484926, 4832514.

(MMM) Land bounded by the following UTM Zone 10, NAD83 coordinates (E, N): 491351, 4831319; 491353, 4832129; 491815, 4832124; 491816, 4832528; 491354, 4832534; 491354, 4832939; 492624, 4832920; 492622, 4832517; 492219, 4832523; 492216, 4831715; 491814, 4831719; 491812, 4831315; 491351, 4831319.

(NNN) Land bounded by the following UTM Zone 10, NAD83 coordinates (E, N): 505886, 4832781; 505886, 4832684; 505485, 4832687; 505486, 4833084; 505885, 4833084; 505886, 4832781.

(OOO) Land bounded by the following UTM Zone 10, NAD83 coordinates (E, N): 494634, 4833299; 494636, 4832895; 494234, 4832900; 494231, 4833304; 494634, 4833299.

(PPP) Land bounded by the following UTM Zone 10, NAD83 coordinates (E, N): 505884, 4833484; 505487, 4833480; 505488, 4833876; 505883, 4833884; 505884, 4833484.

(QQQ) Land bounded by the following UTM Zone 10, NAD83 coordinates (E, N): 507089, 4832674; 506287, 4832681; 506279, 4833891; 506674, 4833899; 506683, 4833084; 507082, 4833085; 507089, 4832674.

(RRR) Land bounded by the following UTM Zone 10, NAD83 coordinates (E, N): 497816, 4834490; 497832, 4832888; 496228, 4832890; 496212, 4834502; 497816, 4834490.

(SSS) Land bounded by the following UTM Zone 10, NAD83 coordinates (E, N): 491354, 4832939; 489736, 4832896; 489724, 4834507; 491347, 4834534; 491354, 4832939.

(TTT) Land bounded by the following UTM Zone 10, NAD83 coordinates (E, N): 488138, 4834522; 488134, 4832896; 489736, 4832896; 489734, 4831390; 489329, 4831369; 489331, 4832129; 488937, 4832123; 488938, 4832047; 489274, 4832043; 489273, 4831367; 488526, 4831328; 488528, 4831720; 488131, 4831704; 488133, 4832895; 486559, 4832916; 486547, 4834537; 488138, 4834522.

(UUU) Land bounded by the following UTM Zone 10, NAD83 coordinates (E, N): 491347, 4834534; 491343, 4835331; 491800, 4835334; 491804, 4834533; 491347, 4834534.

(VVV) Land bounded by the following UTM Zone 10, NAD83 coordinates (E, N): 502334, 4834603; 501936, 4834591; 501937, 4835389; 502334, 4835398; 502334, 4834603.

(WWW) Land bounded by the following UTM Zone 10, NAD83 coordinates (E, N): 501540, 4835379; 501142, 4835370; 501143, 4835771; 501540, 4835779; 501540, 4835379.

(XXX) Land bounded by the following UTM Zone 10, NAD83 coordinates (E, N): 478817, 4835781; 478815, 4834569; 478413, 4834571; 478415, 4835784; 478817, 4835781.

(YYY) Land bounded by the following UTM Zone 10, NAD83 coordinates (E, N): 499419, 4836080; 499426, 4834480; 497816, 4834490; 497795, 4836092; 499419, 4836080.

(ZZZ) Land bounded by the following UTM Zone 10, NAD83 coordinates (E, N): 496231, 4836120; 496212, 4834502; 495419, 4834506; 495425, 4836123; 496231, 4836120.

(AAAA) Land bounded by the following UTM Zone 10, NAD83 coordinates (E, N): 489719, 4836117; 489724, 4834507; 488138, 4834522; 488167, 4836126; 489719, 4836117.

(BBBB) Land bounded by the following UTM Zone 10, NAD83 coordinates (E, N): 486561, 4836133; 486547, 4834537; 484907, 4834534; 484911, 4834936; 485724, 4834937; 485729, 4835738; 484918, 4835735; 484921, 4836133; 486561, 4836133.

(CCCC) Land bounded by the following UTM Zone 10, NAD83 coordinates (E, N): 481638, 4836148; 482132, 4836148; 482129, 4835746; 481637, 4835745; 481638, 4836148.

(DDDD) Land bounded by the following UTM Zone 10, NAD83 coordinates (E, N): 483319, 4836149; 483317, 4834943; 482919, 4834943; 482921, 4835345; 482524, 4835344; 482528, 4836148; 483319, 4836149.

(EEEE) Land bounded by the following UTM Zone 10, NAD83 coordinates (E, N): 480022, 4836173; 480020, 4835367; 479217, 4835374; 479219, 4836181; 480022, 4836173.

(FFFF) Land bounded by the following UTM Zone 10, NAD83 coordinates (E, N): 451220, 4836406; 451211, 4834792; 449969, 4834822; 449980, 4835620; 450392, 4835613; 450397, 4836017; 449986, 4836024; 449992, 4836428; 451220, 4836406.

(GGGG) Land bounded by the following UTM Zone 10, NAD83 coordinates (E, N): 489719, 4836117; 489718, 4837721; 490525, 4837722; 490526, 4837323; 490930, 4837324; 490932, 4836924; 491336, 4836926; 491340, 4836129; 489719, 4836117.

(HHHH) Land bounded by the following UTM Zone 10, NAD83 coordinates (E, N): 497816, 4837724; 497855, 4836131; 496231, 4836120; 496224, 4836523; 497036, 4836518; 497027, 4836927; 496622, 4836926; 496605, 4837732; 497816, 4837724.

(IIII) Land bounded by the following UTM Zone 10, NAD83 coordinates (E, N): 481641, 4837745; 481637, 4836148; 480022, 4836173; 480031, 4837760; 481641, 4837745.

(JJJJ) Land bounded by the following UTM Zone 10, NAD83 coordinates (E, N): 456105, 4837950; 456032, 4836309; 454442, 4836305; 454538, 4837968; 456105, 4837950.

(KKKK) Land bounded by the following UTM Zone 10, NAD83 coordinates (E, N): 496203, 4837735; 496210, 4837330; 495966, 4837331; 495975, 4838061; 496202, 4838059; 496203, 4837735.

(LLLL) Land bounded by the following UTM Zone 10, NAD83 coordinates (E, N): 485674, 4837713; 484874, 4837709; 484875, 4838113; 485674, 4838116; 485674, 4837713.

(MMMM) Land bounded by the following UTM Zone 10, NAD83 coordinates (E, N): 483270, 4838130; 483269, 4837726; 482467, 4837735; 482467, 4838138; 483270, 4838130.

(NNNN) Land bounded by the following UTM Zone 10, NAD83 coordinates (E, N): 481641, 4837745; 481643, 4838147; 482065, 4838142; 482066, 4837739; 481641, 4837745.

(OOOO) Land bounded by the following UTM Zone 10, NAD83 coordinates (E, N): 489718, 4837721; 488156, 4837721; 488167, 4836126; 486561, 4836133; 486475, 4837718; 486878, 4837719; 486920, 4836936; 487745, 4836933; 487732, 4837333; 487302, 4837336; 487283, 4837719; 488091, 4837721; 488107, 4839322; 489726, 4839328; 489718, 4837721.

(PPPP) Land bounded by the following UTM Zone 10, NAD83 coordinates (E, N): 499419, 4836080; 499407, 4837288; 498998, 4837293; 498988, 4837749; 497816, 4837724; 497801, 4839344; 499413, 4839368; 499417, 4837761; 500208, 4837768; 500225, 4836063; 499419, 4836080.

(QQQQ) Land bounded by the following UTM Zone 10, NAD83 coordinates (E, N): 465499, 4839460; 467110, 4839467; 467083, 4837884; 465490, 4837889; 465499, 4839460.

(RRRR) Land bounded by the following UTM Zone 10, NAD83 coordinates (E, N): 470335, 4839465; 470325, 4838665; 469519, 4838668; 469524, 4839067; 468718, 4839069; 468723, 4839468; 470335, 4839465.

(SSSS) Land bounded by the following UTM Zone 10, NAD83 coordinates (E, N): 460804, 4839484; 460758, 4837923; 459207, 4837932; 459230, 4839535; 460804, 4839484.

(TTTT) Land bounded by the following UTM Zone 10, NAD83 coordinates (E, N): 456105, 4837950; 456086, 4839515; 457706, 4839536; 457656, 4837940; 456105, 4837950.

(UUUU) Land bounded by the following UTM Zone 10, NAD83 coordinates (E, N): 497801, 4839344; 496601, 4839342; 496599, 4840144; 497002, 4840144; 497002, 4840545; 496598, 4840545; 496597, 4840946; 497809, 4840948; 497801, 4839344.

(VVVV) Land bounded by the following UTM Zone 10, NAD83 coordinates (E, N): 489718, 4840944; 490937, 4840950; 490936, 4840547; 490531, 4840544; 490532, 4839737; 489722, 4839732; 489718, 4840944.

(WWWW) Land bounded by the following UTM Zone 10, NAD83 coordinates (E, N): 488107, 4839322; 486879, 4839324; 486884, 4839728; 486477, 4839727; 486494, 4840930; 488117, 4840956; 488107, 4839322.

(XXXX) Land bounded by the following UTM Zone 10, NAD83 coordinates (E, N): 499413, 4839368; 499400, 4840960; 500992, 4840978; 501001, 4839360; 499413, 4839368.

(YYYY) Land bounded by the following UTM Zone 10, NAD83 coordinates (E, N): 460804, 4839484; 460737, 4840967; 462423, 4841019; 462367, 4839465; 460804, 4839484.

(ZZZZ) Land bounded by the following UTM Zone 10, NAD83 coordinates (E, N): 465520, 4841034; 465499, 4839460; 463905, 4839471; 463933, 4841038; 465520, 4841034.

(AAAAA) Land bounded by the following UTM Zone 10, NAD83 coordinates (E, N): 468723, 4839468; 467110, 4839467; 467130, 4841052; 468740, 4841061; 468723, 4839468.

(BBBBB) Land bounded by the following UTM Zone 10, NAD83 coordinates (E, N): 470335, 4839465; 470345, 4841061; 471150, 4841067; 471139, 4839550; 470935, 4839551; 470934, 4839464; 470335, 4839465.

(CCCCC) Land bounded by the following UTM Zone 10, NAD83 coordinates (E, N): 499400, 4840960; 497809, 4840948; 497811, 4841349; 498208, 4841351; 498208, 4841751; 497813, 4841749; 497817, 4842551; 499387, 4842551; 499400, 4840960.

(DDDDD) Land bounded by the following UTM Zone 10, NAD83 coordinates (E, N): 492963, 4842556; 492960, 4841760; 491767, 4841759; 491771, 4842565; 492963, 4842556.

(EEEEE) Land bounded by the following UTM Zone 10, NAD83 coordinates (E, N): 489718, 4840944; 488117, 4840956; 488112, 4842580; 489316, 4842564; 489317, 4841756; 489718, 4841752; 489718, 4840944.

(FFFFF) Land bounded by the following UTM Zone 10, NAD83 coordinates (E, N): 460737, 4840967; 459236, 4841001; 459229, 4842579; 460734, 4842619; 460737, 4840967.

(GGGGG) Land bounded by the following UTM Zone 10, NAD83 coordinates (E, N): 471967, 4842682; 473611, 4842651; 473609, 4841442; 472797, 4841458; 472796, 4841056; 471954, 4841073; 471967, 4842682.

(HHHHH) Land bounded by the following UTM Zone 10, NAD83 coordinates (E, N): 497817, 4842551; 497413, 4842553; 497402, 4843355; 497808, 4843351; 497817, 4842551.

(IIIII) Land bounded by the following UTM Zone 10, NAD83 coordinates (E, N): 499387, 4842551; 499387, 4843354; 499786, 4843358; 499787, 4842557; 499387, 4842551.

(JJJJJ) Land bounded by the following UTM Zone 10, NAD83 coordinates (E, N): 492963, 4842556; 492958, 4843361; 493766, 4843369; 493770, 4842967; 494578, 4842974; 494582, 4842571; 492963, 4842556.

(KKKKK) Land bounded by the following UTM Zone 10, NAD83 coordinates (E, N): 462507, 4844122; 462493, 4843348; 462774, 4843354; 462772, 4842966; 462486, 4842960; 462479, 4842574; 460734, 4842619; 460855, 4844134; 462507, 4844122.

(LLLLL) Land bounded by the following UTM Zone 10, NAD83 coordinates (E, N): 497792, 4844091; 497800, 4843754; 497395, 4843759; 497388, 4844164; 497791, 4844158; 497792, 4844091.

(MMMMM) Land bounded by the following UTM Zone 10, NAD83 coordinates (E, N): 496986, 4844092; 496991, 4843765; 496588, 4843770; 496582, 4844177; 496985, 4844171; 496986, 4844092.

(NNNNN) Land bounded by the following UTM Zone 10, NAD83 coordinates (E, N): 471979, 4844295; 471985, 4845099; 471174, 4845079; 471169, 4845888; 470389, 4845875; 470393, 4846681; 471582, 4846699; 471584, 4847102; 470395, 4847083; 470398, 4847517; 471982, 4847514; 471988, 4846304; 471581, 4846297; 471580, 4845896; 473618, 4845874; 473615, 4844262; 471979, 4844295.

(OOOOO) Land bounded by the following UTM Zone 10, NAD83 coordinates (E, N): 468750, 4845836; 467165, 4845820; 467184, 4847557; 468758, 4847522; 468750, 4845836.

(PPPPP) Land bounded by the following UTM Zone 10, NAD83 coordinates (E, N): 466617, 4848782; 467025, 4848778; 467056, 4847560; 465829, 4847564; 465820, 4847973; 466228, 4847971; 466219, 4848379; 466627, 4848375; 466617, 4848782.

(QQQQQ) Land bounded by the following UTM Zone 10, NAD83 coordinates (E, N): 466617, 4848782; 465802, 4848792; 465811, 4848383; 464996, 4848387; 464990, 4848797; 465395, 4848796; 465386, 4849207; 466608, 4849189; 466617, 4848782.

(RRRRR) Land bounded by the following UTM Zone 10, NAD83 coordinates (E, N): 458219, 4850763; 459013, 4850770; 459004, 4849971; 458606, 4849967; 458611, 4850367; 458213, 4850363; 458219, 4850763.

(SSSSS) Land bounded by the following UTM Zone 10, NAD83 coordinates (E, N): 460988, 4850386; 460991, 4850788; 462179, 4850790; 462176, 4850388; 460988, 4850386.

(TTTTT) Land bounded by the following UTM Zone 10, NAD83 coordinates (E, N): 465386, 4849207; 463780, 4849210; 463765, 4850838; 465347, 4850862; 465386, 4849207.

(UUUUU) Land bounded by the following UTM Zone 10, NAD83 coordinates (E, N): 465340, 4854006; 465314, 4852428; 463733, 4852422; 463900, 4854080; 465340, 4854006.

(VVVVV) Land bounded by the following UTM Zone 10, NAD83 coordinates (E, N): 457472, 4853934; 455881, 4853910; 455912, 4855488; 457484, 4855514; 457472, 4853934.

(WWWWW) Land bounded by the following UTM Zone 10, NAD83 coordinates (E, N): 465340, 4854006; 465613, 4854858; 465610, 4855671; 466938, 4855655; 466920, 4853996; 465340, 4854006.

(XXXXX) Land bounded by the following UTM Zone 10, NAD83 coordinates (E, N): 465610, 4855671; 464003, 4855719; 464052, 4857297; 465634, 4857261; 465610, 4855671.

(YYYYY) Land bounded by the following UTM Zone 10, NAD83 coordinates (E, N): 459050, 4855539; 457484, 4855514; 457502, 4857385; 457894, 4857379; 457887, 4856707; 458279, 4856714; 458286, 4857373; 459070, 4857362; 459050, 4855539.

(ZZZZZ) Land bounded by the following UTM Zone 10, NAD83 coordinates (E, N): 464052, 4857297; 462481, 4857332; 462469, 4858912; 464056, 4858868; 464052, 4857297.

(AAAAAA) Land bounded by the following UTM Zone 10, NAD83 coordinates (E, N): 462481, 4857332; 462478, 4855825; 464003, 4855719; 463900, 4854080; 462537, 4854180; 462194, 4852446; 463733, 4852422; 463765, 4850838; 462180, 4850867; 462193, 4852396; 460611, 4852390; 460613, 4853178; 460218, 4853175; 460218, 4852386; 460611, 4852390; 460594, 4850787; 459408, 4850775; 459426, 4851977; 458635, 4851968; 458629, 4851567; 458231, 4851563; 458219, 4850763; 457822, 4850759; 457810, 4849958; 458208, 4849962; 458202, 4849563; 456613, 4849543; 456619, 4849944; 456222, 4849939; 456217, 4849537; 456613, 4849543; 456608, 4849141; 457004, 4849146; 456994, 4848346; 458188, 4848360; 458179, 4847558; 458976, 4847566; 458985, 4848370; 459781, 4848375; 459789, 4849177; 460585, 4849181; 460569, 4847582; 462163, 4847578; 462171, 4849184; 460585, 4849181; 460592, 4850386; 460988, 4850386; 460986, 4849985; 462174, 4849987; 462171, 4849247; 463780, 4849210; 463773, 4847571; 462570, 4847577; 462558, 4846827; 462775, 4846843; 462782, 4846068; 463182, 4846090; 463184, 4845700; 463978, 4845738; 463979, 4847570; 465589, 4847565; 465566, 4845779; 467165, 4845820; 467156, 4844220; 468759, 4844240; 468750, 4845836; 470389, 4845875; 470367, 4844243; 469563, 4844242; 469558, 4843449; 470359, 4843452; 470367, 4844243; 471979, 4844295; 471967, 4842682; 470352, 4842661; 470345, 4841061; 468740, 4841061; 468743, 4841458; 467938, 4841453; 467945, 4842245; 468749, 4842253; 468752, 4842650; 467144, 4842633; 467130, 4841052; 465520, 4841034; 465540, 4842612; 465144, 4842610; 465139, 4842216; 464743, 4842215; 464748, 4842608; 463957, 4842603; 463933, 4841038; 462423, 4841019; 462479, 4842574; 463166, 4842587; 463168, 4842976; 463564, 4842985; 463566, 4843375; 463963, 4843386; 463968, 4844168; 463174, 4844143; 463172, 4843754; 462776, 4843742; 462778, 4844130; 462507, 4844122; 462536, 4845668; 460906, 4845674; 460855, 4844134; 459268, 4844121; 459277, 4844508; 458878, 4844505; 458885, 4844891; 459285, 4844894; 459303, 4845666; 458499, 4845661; 458472, 4844117; 459268, 4844121; 459229, 4842579; 457664, 4842579; 457726, 4841036; 459236, 4841001; 459230, 4839535; 457857, 4839536; 458417, 4839872; 458240, 4840270; 458064, 4840477; 457715, 4840220; 457716, 4840286; 456925, 4840285; 456955, 4841045; 456184, 4841054; 456069, 4842209; 455671, 4842216; 455757, 4841453; 454912, 4841476; 454890, 4841849; 454459, 4841858; 454454, 4841114; 456184, 4841054; 456086, 4839515; 454474, 4839604; 454469, 4839982; 454091, 4839972; 454087, 4840350; 453710, 4840342; 453714, 4839963; 453338, 4839953; 453342, 4839573; 454474, 4839604; 454538, 4837968; 453755, 4837977; 453700, 4836331; 454442, 4836305; 454390, 4834762; 453870, 4834766; 453873, 4834991; 453234, 4834996; 453233, 4834771; 453178, 4834771; 453193, 4835168; 452959, 4835172; 452961, 4835478; 452811, 4835479; 452811, 4835575; 453209, 4835565; 453329, 4836344; 451220, 4836406; 451219, 4838002; 449823, 4838024; 449843, 4839616; 451322, 4839563; 451393, 4838002; 452181, 4837989; 452969, 4837981; 453013, 4839564; 451322, 4839563; 451358, 4840682; 449846, 4840728; 449868, 4842581; 451372, 4842541; 451370, 4841055; 452190, 4841070; 452192, 4842533; 451372, 4842541; 451402, 4844086; 452208, 4844090; 452221, 4844472; 451413, 4844474; 451440, 4845625; 452668, 4845615; 452646, 4845233; 453044, 4845227; 453075, 4845608; 454526, 4845617; 454513, 4847523; 455801, 4847531; 455853, 4852321; 457447, 4852353; 457472, 4853934; 459028, 4853957; 459050, 4855539; 460229, 4855554; 460228, 4855938; 460610, 4855940; 460621, 4857343; 459303, 4857359; 459289, 4858921; 460063, 4858920; 460071, 4858528; 460472, 4858518; 460464, 4858901; 460864, 4858882; 460885, 4857340; 462481, 4857332; and excluding land bound by 461814, 4855549; 461812, 4855150; 461412, 4855155; 461410, 4854362; 461809, 4854360; 461807, 4853969; 462204, 4853970; 462215, 4855545; 461814, 4855549; and excluding land bound by 457306, 4846425; 457294, 4845651; 457694, 4845655; 457702, 4846430; 457306, 4846425; and excluding land bound by 456055, 4843351; 456862, 4843348; 456877, 4844109; 456079, 4844107; 456055, 4843351; and excluding land bound by 453012, 4843342; 453012, 4842590; 454471, 4842599; 454497, 4843333; 453012, 4843342; and excluding land bound by 464762, 4844184; 465555, 4844193; 465561, 4844986; 464767, 4844970; 464762, 4844184.

(iii) Note: Map of Willamette/North Umpqua Unit follows:

BILLING CODE 4310-55-S

BILLING CODE 4310-55-C

(21) Rogue/Umpqua Unit (Unit 14). Douglas and Josephine Counties, Oregon.

(i) The Rogue/Umpqua Unit consists of 183, 800 ac (74, 400 ha) and is comprised of lands managed by the Umpqua National Forest (23, 400 ac (9, 500 ha)) and Roseburg and BLM Medford Districts (160, 500 ac (65, 000 ha)).

(ii) From USGS 1:24, 000 scale quadrangles Bunker Creek, Camas Valley, Canyonville, Cedar Springs Mountain, Chipmunk Ridge, Chrome Ridge, Days Creek, Dutchman Butte, Galice, Glendale, Hobson Horn, Kelsey Peak, Live Oak Mountain, McCullough Creek, Milo, Mount Peavine, Mount Reuben, Nickel Mountain, Onion Mountain, Quines Creek, Rabbit Mountain, Richter Mountain, Starvout Creek, Tenmile, Tiller, and Winston.

(A) Land bounded by the following UTM Zone 10, NAD83 coordinates (E, N): 456460, 4711086; 456656, 4711042; 456846, 4710813; 457409, 4710587; 457695, 4710240; 458240, 4709909; 458614, 4709865; 458613, 4709321; 457019, 4709341; 457067, 4710453; 456604, 4710697; 456604, 4710751; 456115, 4710956; 456099, 4711233; 456460, 4711086.

(B) Land bounded by the following UTM Zone 10, NAD83 coordinates (E, N): 455382, 4711334; 455387, 4710959; 454648, 4710982; 454769, 4711152; 454622, 4711011; 454435, 4711112; 454985, 4711328; 455233, 4711273; 455382, 4711334.

(C) Land bounded by the following UTM Zone 10, NAD83 coordinates (E, N): 452582, 4712516; 452736, 4712507; 453054, 4712347; 453241, 4712135; 453317, 4711735; 453250, 4711830; 453232, 4711737; 452939, 4711742; 452942, 4711425; 452538, 4711432; 452535, 4709794; 453340, 4709766; 453344, 4710593; 453745, 4710584; 453740, 4709353; 452127, 4709409; 452123, 4707251; 451992, 4707176; 451792, 4706816; 451646, 4706822; 451634, 4706423; 451195, 4706180; 450974, 4705938; 450706, 4705770; 450629, 4705576; 450323, 4705240; 449796, 4705294; 449707, 4705100; 449666, 4704542; 449421, 4704494; 448995, 4704566; 448714, 4704762; 448732, 4703689; 448387, 4703271; 448147, 4703318; 448293, 4703624; 448183, 4703813; 447724, 4703528; 447522, 4703539; 447746, 4703373; 447775, 4703137; 447698, 4702910; 447602, 4702853; 447602, 4702401; 447777, 4701873; 448127, 4701487; 448055, 4701091; 448091, 4700929; 447890, 4700979; 447731, 4701201; 447328, 4701141; 447168, 4701256; 446765, 4701221; 446537, 4701664; 446277, 4702012; 446063, 4702140; 445899, 4702487; 446035, 4702746; 446009, 4703044; 445652, 4703269; 445471, 4703254; 444947, 4703559; 444582, 4703612; 444270, 4704050; 444097, 4704623; 443596, 4704393; 443360, 4704670; 442915, 4704623; 442644, 4704948; 442548, 4705182; 443014, 4705422; 443663, 4705391; 443961, 4705553; 444362, 4705581; 444564, 4705748; 444752, 4705790; 444853, 4705921; 445179, 4705969; 445182, 4706269; 445008, 4706677; 445439, 4706680; 445861, 4707076; 446074, 4707170; 446586, 4707168; 446924, 4707406; 447419, 4707413; 447639, 4707831; 447813, 4707809; 448031, 4708010; 448217, 4707943; 448367, 4707978; 448717, 4708383; 448840, 4708319; 448960, 4708549; 449516, 4708987; 449522, 4709247; 449690, 4709518; 449973, 4709586; 450103, 4709539; 450200, 4709662; 450403, 4709664; 450636, 4709927; 450472, 4710023; 450510, 4710325; 450785, 4710515; 450964, 4710452; 451011, 4710566; 450985, 4710786; 451422, 4710896; 451741, 4711079; 451830, 4711393; 451342, 4711397; 451345, 4711798; 451747, 4711796; 451749, 4712051; 452152, 4712246; 452326, 4712457; 452582, 4712516.

(D) Land bounded by the following UTM Zone 10, NAD83 coordinates (E, N): 452305, 4717172; 452181, 4717168; 452181, 4717245; 452275, 4717244; 452305, 4717172.

(E) Land bounded by the following UTM Zone 10, NAD83 coordinates (E, N): 455386, 4715833; 455401, 4717442; 457014, 4717413; 457007, 4716610; 457413, 4716601; 457412, 4716201; 457004, 4716209; 457001, 4715808; 455386, 4715833.

(F) Land bounded by the following UTM Zone 10, NAD83 coordinates (E, N): 455413, 4719055; 455419, 4720682; 456228, 4720672; 456231, 4721080; 456636, 4721075; 456632, 4720667; 457036, 4720661; 457032, 4719029; 455413, 4719055.

(G) Land bounded by the following UTM Zone 10, NAD83 coordinates (E, N): 450616, 4723355; 450598, 4722364; 449795, 4722370; 449801, 4722772; 449324, 4722776; 449525, 4723268; 449706, 4723308; 449720, 4723217; 450616, 4723355.

(H) Land bounded by the following UTM Zone 10, NAD83 coordinates (E, N): 455496, 4725516; 455471, 4723921; 453850, 4723956; 453877, 4725518; 455496, 4725516.

(I) Land bounded by the following UTM Zone 10, NAD83 coordinates (E, N): 442606, 4721182; 442945, 4721170; 442945, 4721371; 443948, 4721357; 443949, 4721558; 444150, 4721555; 444150, 4721756; 444351, 4721754; 444351, 4721955; 444953, 4721949; 444954, 4722407; 446382, 4722396; 446384, 4722597; 447790, 4722586; 447787, 4722385; 448568, 4722379; 448568, 4721930; 449171, 4721928; 449171, 4721727; 449773, 4721725; 449774, 4721524; 450176, 4721522; 450176, 4721321; 450780, 4721319; 450779, 4721520; 451385, 4721519; 451384, 4721720; 451586, 4721719; 451584, 4721920; 452042, 4721919; 451979, 4721444; 452006, 4721084; 451416, 4720504; 451375, 4720101; 451066, 4719737; 451031, 4719285; 450886, 4719124; 450772, 4718859; 450877, 4718666; 451241, 4718336; 451286, 4718145; 451246, 4717918; 451370, 4717688; 451451, 4717609; 451717, 4717543; 451648, 4717100; 451829, 4717072; 451790, 4716825; 451980, 4716857; 452009, 4717044; 452180, 4717017; 452180, 4717092; 452483, 4717087; 452485, 4716996; 452113, 4716678; 452052, 4716550; 452084, 4716402; 452257, 4716161; 452251, 4715713; 451869, 4715504; 451360, 4715391; 451183, 4715227; 451152, 4715079; 451200, 4714973; 451541, 4714721; 451589, 4714371; 451550, 4714167; 451339, 4713759; 451147, 4713726; 451086, 4713823; 451330, 4713975; 451426, 4714279; 451214, 4713936; 450903, 4713803; 450835, 4713496; 450909, 4713466; 451002, 4713263; 450949, 4713251; 450967, 4713075; 450749, 4713077; 450751, 4713479; 450549, 4713481; 450546, 4712675; 450951, 4712673; 450799, 4712200; 450944, 4711978; 450940, 4711399; 450539, 4711402; 450543, 4712206; 450141, 4712209; 450139, 4711807; 449737, 4711810; 449735, 4711408; 448932, 4711413; 448931, 4711011; 448625, 4711013; 448706, 4711161; 448525, 4711243; 448397, 4711014; 447952, 4711018; 447653, 4711088; 447617, 4711020; 444106, 4711044; 444104, 4714307; 442534, 4714327; 442576, 4715952; 437730, 4715977; 437738, 4726259; 438122, 4726256; 438120, 4726053; 438522, 4726050; 438520, 4725847; 438923, 4725844; 438922, 4725642; 439123, 4725640; 439119, 4725237; 439321, 4725235; 439303, 4723226; 439505, 4723224; 439502, 4722820; 439704, 4722818; 439701, 4722414; 439797, 4722413; 439792, 4721999; 441407, 4721989; 441401, 4721587; 441804, 4721586; 441802, 4721385; 442609, 4721384; 442606, 4721182; and excluding land bound by 449583, 4717435; 449665, 4717042; 449841, 4717036; 449843, 4717356; 449987, 4717355; 449967, 4717447; 450147, 4717455; 450064, 4717904; 449882, 4717903; 449776, 4718412; 449587, 4718372; 449678, 4717922; 449507, 4717883; 449583, 4717435; and excluding land bound by 450025, 4717188; 450024, 4717069; 450050, 4717074; 450025, 4717188; and excluding land bound by 451833, 4716649; 451945, 4716632; 451957, 4716710; 451777, 4716738; 451764, 4716660; 451833, 4716649; and excluding land bound by 447347, 4716114; 447347, 4715914; 447749, 4715911; 447750, 4716111; 447548, 4716113; 447549, 4716514; 447147, 4716516; 447147, 4716316; 447348, 4716315; 447347, 4716114; and excluding land bound by 451772, 4716156; 451868, 4716141; 451882, 4716230; 451701, 4716258; 451688, 4716169; 451772, 4716156; and excluding land bound by 449748, 4716053; 449745, 4715597; 449921, 4715547; 449924, 4716003; 449748, 4716053; and excluding land bound by 449262, 4714658; 449441, 4714621; 449550, 4715065; 449370, 4715102; 449262, 4714658; and excluding land bound by 450336, 4714538; 448691, 4712459; 448767, 4712397; 448443, 4712005; 448155, 4712001; 448155, 4711614; 448443, 4711621; 448443, 4711851; 448764, 4712243; 448958, 4712061; 449745, 4713035; 449985, 4712835; 450997, 4714075; 450336, 4714538; and excluding land bound by 448340, 4713696; 448239, 4713696; 448239, 4713596; 448038, 4713597; 448035, 4713195; 448437, 4713193; 448440, 4713695; 448340, 4713696; and excluding land bound by 449533, 4714101; 449455, 4714212; 449292, 4714187; 449370, 4714075; 449533, 4714101.

(J) Land bounded by the following UTM Zone 10, NAD83 coordinates (E, N): 455496, 4725516; 455486, 4727116; 457127, 4727079; 457122, 4725512; 455496, 4725516.

(K) Land bounded by the following UTM Zone 10, NAD83 coordinates (E, N): 455486, 4727116; 453927, 4727195; 453964, 4728786; 455572, 4728737; 455486, 4727116.

(L) Land bounded by the following UTM Zone 10, NAD83 coordinates (E, N): 456975, 4732642; 456967, 4732055; 456382, 4732059; 456379, 4732451; 456577, 4732450; 456579, 4732646; 456975, 4732642.

(M) Land bounded by the following UTM Zone 10, NAD83 coordinates (E, N): 459745, 4733574; 459742, 4733185; 458954, 4733200; 458949, 4732812; 459343, 4732803; 459339, 4732415; 458548, 4732432; 458566, 4733594; 459745, 4733574.

(N) Land bounded by the following UTM Zone 10, NAD83 coordinates (E, N): 444546, 4733715; 444579, 4732126; 446156, 4732116; 446092, 4733696; 447626, 4733693; 447677, 4732112; 449184, 4732113; 449157, 4733696; 450699, 4733683; 450718, 4732085; 452263, 4732084; 452249, 4733675; 453835, 4733664; 453838, 4732077; 452390, 4732083; 452353, 4730420; 453979, 4730394; 453964, 4728786; 453262, 4728795; 453618, 4728804; 453453, 4728954; 453506, 4729207; 453639, 4729201; 453669, 4729301; 453842, 4729352; 453970, 4729319; 453975, 4729963; 453738, 4729813; 453466, 4729746; 453404, 4729553; 453282, 4729507; 453155, 4729303; 453140, 4729235; 453341, 4729125; 453262, 4728795; 452320, 4728815; 452298, 4727608; 452710, 4727606; 452699, 4727203; 453927, 4727195; 453877, 4725518; 453473, 4725532; 453460, 4724746; 453448, 4723960; 453850, 4723956; 453849, 4722350; 454248, 4722345; 454249, 4722752; 454648, 4722744; 454649, 4723148; 455458, 4723126; 455471, 4723921; 455876, 4723919; 455860, 4723124; 457272, 4723114; 457258, 4722516; 457044, 4721478; 456639, 4721483; 456643, 4721891; 456238, 4721896; 456234, 4721488; 455432, 4721497; 455445, 4722331; 456242, 4722326; 456252, 4722724; 455452, 4722728; 455445, 4722331; 455046, 4722336; 455030, 4721498; 455432, 4721497; 455419, 4720682; 453799, 4720684; 453802, 4719066; 455413, 4719055; 455401, 4717442; 454998, 4717448; 454983, 4715840; 455386, 4715833; 455382, 4715433; 454980, 4715440; 454976, 4715039; 454974, 4714640; 455376, 4714635; 455375, 4714238; 453762, 4714254; 453748, 4712651; 455364, 4712637; 455376, 4711780; 456185, 4711771; 456172, 4712630; 456980, 4712623; 457009, 4711033; 458615, 4710933; 458614, 4709894; 458311, 4709916; 457943, 4710113; 457784, 4710228; 457474, 4710628; 456931, 4710834; 456652, 4711089; 456160, 4711244; 455729, 4711508; 455473, 4711501; 455251, 4711325; 454988, 4711389; 454485, 4711146; 453946, 4711070; 453811, 4711253; 453758, 4711596; 453387, 4711757; 453303, 4712166; 453067, 4712421; 452774, 4712603; 452342, 4712607; 451921, 4712287; 451470, 4712121; 451314, 4712092; 450962, 4712229; 450987, 4712426; 451279, 4712671; 452155, 4712665; 452166, 4714274; 451619, 4714278; 451606, 4714718; 451274, 4715019; 451221, 4715144; 451346, 4715297; 451981, 4715462; 452277, 4715661; 452327, 4716045; 452127, 4716563; 452177, 4716641; 452177, 4716518; 452456, 4716514; 452456, 4716686; 452269, 4716689; 452440, 4716797; 452538, 4717086; 452591, 4717085; 452597, 4717486; 451644, 4717596; 451454, 4717678; 451301, 4717890; 451283, 4718326; 450928, 4718677; 450852, 4718970; 451062, 4719280; 451116, 4719730; 451222, 4719925; 451426, 4720087; 451463, 4720499; 452047, 4721083; 452036, 4721658; 452069, 4721907; 452191, 4721918; 452182, 4722353; 453442, 4722351; 453447, 4723166; 453041, 4723164; 453047, 4723963; 452645, 4723967; 452640, 4722757; 452246, 4722756; 452248, 4723962; 450627, 4723973; 450617, 4723401; 450567, 4723716; 450116, 4723644; 450088, 4723825; 449636, 4723753; 449651, 4723662; 449482, 4723648; 449654, 4724071; 449485, 4724140; 449313, 4723717; 449143, 4723786; 448897, 4723180; 448199, 4723185; 448202, 4723386; 448001, 4723387; 448003, 4723588; 446193, 4723603; 446191, 4723402; 445388, 4723408; 445386, 4723207; 444383, 4723214; 444378, 4722813; 444178, 4722814; 444175, 4722614; 443975, 4722615; 443972, 4722415; 441712, 4722393; 441715, 4722794; 441514, 4722797; 441516, 4722997; 440510, 4723010; 440513, 4723412; 440312, 4723415; 440321, 4724622; 440120, 4724624; 440125, 4725228; 440326, 4725226; 440331, 4726032; 439930, 4726036; 439932, 4726238; 439731, 4726240; 439733, 4726442; 439332, 4726446; 439334, 4726648; 438931, 4726652; 438939, 4727661; 438134, 4727670; 438132, 4727468; 437730, 4727472; 437768, 4728915; 439359, 4728875; 439359, 4732158; 442958, 4732146; 442959, 4733726; 444546, 4733715; and excluding land bound by 452713, 4729240; 452743, 4729185; 452985, 4729426; 453131, 4729315; 453354, 4729559; 453445, 4729853; 453270, 4730217; 452958, 4730158; 452840, 4730035; 452857, 4729711; 452731, 4729451; 452713, 4729240; and excluding land bound by 439746, 4728257; 439846, 4728255; 439849, 4728760; 439349, 4728767; 439346, 4728262; 439746, 4728257; and excluding land bound by 448633, 4725850; 448316, 4725521; 448066, 4724640; 448484, 4724551; 448673, 4725445; 448738, 4725432; 449055, 4725761; 448949, 4725783; 449267, 4726112; 448845, 4726201; 448528, 4725872; 448633, 4725850; and excluding land bound by 449613, 4725513; 449728, 4725071; 449551, 4725025; 449667, 4724583; 449843, 4724629; 449905, 4724395; 450081, 4724441; 450046, 4724577; 450200, 4724709; 450085, 4725151; 450277, 4725316; 450226, 4725513; 449879, 4725216; 449790, 4725559; 449613, 4725513; and excluding land bound by 450393, 4724701; 450509, 4724667; 450543, 4725103; 450372, 4725153; 450393, 4724701; and excluding land bound by 450818, 4725050; 450689, 4724611; 450864, 4724559; 450994, 4724998; 450818, 4725050; and excluding land bound by 448333, 4725700; 448279, 4725712; 448126, 4725553; 448231, 4725530; 448385, 4725689; 448333, 4725700; and excluding land bound by 452627, 4721506; 452611, 4720684; 453393, 4720680; 453417, 4721502; 452627, 4721506; and excluding land bound by 452186, 4719076; 452550, 4719078; 452638, 4719353; 452570, 4719416; 452611, 4719605; 452820, 4719594; 452835, 4719732; 452493, 4720054; 452191, 4720050; 452186, 4719076; and excluding land bound by 452998, 4717879; 452994, 4717479; 453790, 4717465; 453793, 4717865; 453396, 4717872; 453402, 4718670; 453006, 4718675; 452998, 4717879; and excluding land bound by 453782, 4716663; 453779, 4716262; 454584, 4716249; 454592, 4717052; 453786, 4717064; 453782, 4716663; and excluding land bound by 452960, 4714257; 453361, 4714255; 453368, 4715057; 452565, 4715057; 452559, 4714258; 452960, 4714257.

(O) Land bounded by the following UTM Zone 10, NAD83 coordinates (E, N): 455407, 4733644; 456197, 4733632; 456201, 4733828; 456596, 4733821; 456590, 4733429; 456392, 4733432; 456390, 4733236; 456192, 4733239; 456187, 4732846; 455989, 4732848; 455986, 4732652; 455591, 4732656; 455585, 4732261; 455387, 4732263; 455407, 4733644.

(P) Land bounded by the following UTM Zone 10, NAD83 coordinates (E, N): 456009, 4734223; 456006, 4734027; 455808, 4734031; 455811, 4734227; 456009, 4734223.

(Q) Land bounded by the following UTM Zone 10, NAD83 coordinates (E, N): 457144, 4734790; 457005, 4734521; 457010, 4734793; 457144, 4734790.

(R) Land bounded by the following UTM Zone 10, NAD83 coordinates (E, N): 458591, 4735144; 458567, 4733681; 458375, 4733597; 457383, 4733613; 457397, 4734393; 457791, 4734385; 457801, 4734969; 457604, 4734974; 457597, 4734584; 457400, 4734588; 457397, 4734393; 457200, 4734397; 457196, 4734202; 457052, 4734205; 457607, 4735169; 458591, 4735144.

(S) Land bounded by the following UTM Zone 10, NAD83 coordinates (E, N): 460129, 4735099; 461760, 4735197; 461750, 4734411; 461335, 4734391; 461340, 4733610; 460139, 4733567; 460129, 4735099.

(T) Land bounded by the following UTM Zone 10, NAD83 coordinates (E, N): 446092, 4733696; 444546, 4733715; 444533, 4735265; 446035, 4735266; 446092, 4733696.

(U) Land bounded by the following UTM Zone 10, NAD83 coordinates (E, N): 452234, 4735267; 452249, 4733675; 450699, 4733683; 450676, 4735278; 452234, 4735267.

(V) Land bounded by the following UTM Zone 10, NAD83 coordinates (E, N): 449157, 4733696; 447626, 4733693; 447583, 4735273; 449122, 4735279; 449157, 4733696.

(W) Land bounded by the following UTM Zone 10, NAD83 coordinates (E, N): 461359, 4735964; 460950, 4735943; 460976, 4736347; 461374, 4736368; 461359, 4735964.

(X) Land bounded by the following UTM Zone 10, NAD83 coordinates (E, N): 460129, 4735099; 458591, 4735144; 458647, 4736698; 460226, 4736709; 460178, 4735904; 460564, 4735924; 460539, 4735524; 460153, 4735501; 460129, 4735099.

(Y) Land bounded by the following UTM Zone 10, NAD83 coordinates (E, N): 453872, 4736839; 453863, 4736047; 455052, 4736023; 455030, 4734832; 455423, 4734824; 455407, 4733644; 453835, 4733664; 453845, 4734460; 453051, 4734465; 453055, 4735261; 452234, 4735267; 452223, 4736460; 453075, 4736452; 453082, 4736850; 453872, 4736839.

(Z) Land bounded by the following UTM Zone 10, NAD83 coordinates (E, N): 447583, 4735273; 446035, 4735266; 446023, 4736840; 447353, 4736854; 447405, 4736761; 447554, 4736788; 447583, 4735273.

(AA) Land bounded by the following UTM Zone 10, NAD83 coordinates (E, N): 444499, 4736824; 444533, 4735265; 442960, 4735270; 442959, 4733744; 441356, 4733755; 441373, 4736971; 442974, 4736950; 442974, 4736793; 444499, 4736824.

(BB) Land bounded by the following UTM Zone 10, NAD83 coordinates (E, N): 452874, 4736852; 452872, 4736653; 452665, 4736655; 452669, 4737048; 452877, 4737046; 452874, 4736852.

(CC) Land bounded by the following UTM Zone 10, NAD83 coordinates (E, N): 461760, 4735197; 461775, 4736793; 462292, 4736799; 462296, 4737196; 462699, 4737203; 462692, 4736402; 462288, 4736396; 462276, 4735201; 461760, 4735197.

(DD) Land bounded by the following UTM Zone 10, NAD83 coordinates (E, N): 461775, 4736793; 460226, 4736709; 460232, 4738321; 461001, 4738391; 461790, 4738373; 461775, 4736793.

(EE) Land bounded by the following UTM Zone 10, NAD83 coordinates (E, N): 457067, 4736755; 457018, 4735184; 455429, 4735217; 455459, 4736413; 454663, 4736428; 454670, 4736826; 453872, 4736839; 453911, 4738392; 455511, 4738394; 455468, 4736812; 457067, 4736755.

(FF) Land bounded by the following UTM Zone 10, NAD83 coordinates (E, N): 446023, 4736840; 444499, 4736824; 444470, 4738382; 445997, 4738419; 446023, 4736840.

(GG) Land bounded by the following UTM Zone 10, NAD83 coordinates (E, N): 452222, 4738415; 452219, 4736858; 450652, 4736867; 450676, 4735278; 449122, 4735279; 449077, 4736873; 449463, 4736871; 449471, 4737255; 449857, 4737255; 449865, 4737642; 450261, 4737646; 450267, 4738039; 450660, 4738039; 450663, 4738430; 452222, 4738415.

(HH) Land bounded by the following UTM Zone 10, NAD83 coordinates (E, N): 449077, 4736873; 447552, 4736856; 447541, 4738436; 449102, 4738438; 449077, 4736873.

(II) Land bounded by the following UTM Zone 10, NAD83 coordinates (E, N): 477250, 4738759; 477249, 4738358; 476844, 4738362; 476845, 4738763; 477250, 4738759.

(JJ) Land bounded by the following UTM Zone 10, NAD83 coordinates (E, N): 452222, 4738415; 452223, 4738805; 453501, 4738791; 453507, 4738390; 452222, 4738415.

(KK) Land bounded by the following UTM Zone 10, NAD83 coordinates (E, N): 460241, 4739933; 460232, 4738321; 458659, 4738319; 458647, 4736698; 457067, 4736755; 457072, 4738332; 458657, 4738319; 458653, 4739943; 460241, 4739933.

(LL) Land bounded by the following UTM Zone 10, NAD83 coordinates (E, N): 457080, 4739937; 457072, 4738332; 455511, 4738394; 455516, 4739178; 456296, 4739156; 456301, 4739950; 457080, 4739937.

(MM) Land bounded by the following UTM Zone 10, NAD83 coordinates (E, N): 478064, 4739958; 478474, 4739956; 478473, 4739552; 478063, 4739556; 478064, 4739958.

(NN) Land bounded by the following UTM Zone 10, NAD83 coordinates (E, N): 452223, 4738805; 450669, 4738821; 450663, 4738430; 449102, 4738438; 449113, 4740005; 450685, 4739993; 450680, 4739602; 451077, 4739600; 451069, 4739207; 452224, 4739194; 452223, 4738805.

(OO) Land bounded by the following UTM Zone 10, NAD83 coordinates (E, N): 447541, 4738436; 445997, 4738419; 445954, 4740015; 447525, 4740035; 447541, 4738436; and excluding land bound by 446754, 4739226; 446747, 4739625; 446356, 4739621; 446365, 4739222; 446754, 4739226.

(PP) Land bounded by the following UTM Zone 10, NAD83 coordinates (E, N): 479306, 4740746; 479301, 4740347; 478892, 4740350; 478899, 4740748; 479306, 4740746.

(QQ) Land bounded by the following UTM Zone 10, NAD83 coordinates (E, N): 459835, 4741158; 459837, 4740739; 459437, 4740746; 459433, 4741163; 459835, 4741158.

(RR) Land bounded by the following UTM Zone 10, NAD83 coordinates (E, N): 449921, 4741180; 449913, 4740783; 449525, 4740786; 449535, 4741186; 449921, 4741180.

(SS) Land bounded by the following UTM Zone 10, NAD83 coordinates (E, N): 481333, 4741517; 481329, 4739904; 480115, 4739935; 480116, 4740336; 479711, 4740344; 479714, 4741540; 481333, 4741517.

(TT) Land bounded by the following UTM Zone 10, NAD83 coordinates (E, N): 453888, 4741572; 455474, 4741596; 455518, 4739962; 453888, 4739990; 453899, 4739191; 452680, 4739193; 452679, 4739591; 453086, 4739591; 453081, 4739989; 453887, 4739990; 453888, 4741572.

(UU) Land bounded by the following UTM Zone 10, NAD83 coordinates (E, N): 449161, 4741581; 449113, 4740005; 447525, 4740035; 447607, 4741602; 449161, 4741581.

(VV) Land bounded by the following UTM Zone 10, NAD83 coordinates (E, N): 458653, 4739943; 457080, 4739937; 457044, 4741599; 458625, 4741623; 458653, 4739943.

(WW) Land bounded by the following UTM Zone 10, NAD83 coordinates (E, N): 452234, 4741550; 452230, 4740770; 451475, 4740774; 451479, 4740383; 450296, 4740388; 450313, 4741569; 449161, 4741581; 449165, 4743139; 450734, 4743155; 450698, 4741566; 452234, 4741550.

(XX) Land bounded by the following UTM Zone 10, NAD83 coordinates (E, N): 457028, 4743224; 457044, 4741599; 455474, 4741596; 455441, 4742015; 455060, 4742009; 455033, 4742429; 455409, 4742434; 455419, 4743233; 457028, 4743224.

(YY) Land bounded by the following UTM Zone 10, NAD83 coordinates (E, N): 460241, 4739933; 460235, 4741638; 458625, 4741623; 458631, 4742426; 459436, 4742430; 459442, 4743238; 459843, 4743238; 459837, 4742432; 460238, 4742434; 460238, 4741638; 461822, 4741646; 461805, 4740006; 460241, 4739933.

(ZZ) Land bounded by the following UTM Zone 10, NAD83 coordinates (E, N): 453888, 4741572; 452234, 4741550; 452250, 4743188; 453819, 4743242; 453808, 4742413; 453888, 4741572.

(AAA) Land bounded by the following UTM Zone 10, NAD83 coordinates (E, N): 452250, 4743188; 450734, 4743155; 450719, 4744693; 452261, 4744812; 452250, 4743188.

(BBB) Land bounded by the following UTM Zone 10, NAD83 coordinates (E, N): 455419, 4743233; 453819, 4743242; 453828, 4744821; 455422, 4744828; 455419, 4743233.

(CCC) Land bounded by the following UTM Zone 10, NAD83 coordinates (E, N): 458645, 4744833; 458637, 4743230; 457028, 4743224; 457030, 4743626; 457834, 4743630; 457840, 4744433; 457034, 4744431; 457036, 4744833; 458645, 4744833.

(DDD) Land bounded by the following UTM Zone 10, NAD83 coordinates (E, N): 460232, 4744815; 461829, 4744865; 461816, 4744076; 461036, 4744053; 461038, 4743248; 460640, 4743243; 460638, 4743642; 460238, 4743633; 460232, 4744815.

(EEE) Land bounded by the following UTM Zone 10, NAD83 coordinates (E, N): 460244, 4746430; 460232, 4744815; 458645, 4744833; 458638, 4746431; 460244, 4746430.

(FFF) Land bounded by the following UTM Zone 10, NAD83 coordinates (E, N): 453828, 4744821; 452261, 4744812; 452260, 4746414; 453826, 4746447; 453828, 4744821.

(GGG) Land bounded by the following UTM Zone 10, NAD83 coordinates (E, N): 457050, 4746438; 457036, 4744833; 455422, 4744828; 455429, 4746454; 457050, 4746438.

(HHH) Land bounded by the following UTM Zone 10, NAD83 coordinates (E, N): 487668, 4746450; 486051, 4746438; 486047, 4745623; 486449, 4745627; 486442, 4744816; 487243, 4744825; 487255, 4745635; 487656, 4745638; 487668, 4746450; 489257, 4746461; 489253, 4744885; 487645, 4744827; 487669, 4743218; 487269, 4743214; 487258, 4744022; 486455, 4744011; 486449, 4744414; 486049, 4744408; 486042, 4744809; 484493, 4744822; 484485, 4746475; 486049, 4746438; 486064, 4748056; 487674, 4748057; 487668, 4746450.

(III) Land bounded by the following UTM Zone 10, NAD83 coordinates (E, N): 458652, 4748035; 458638, 4746431; 457050, 4746438; 457046, 4748066; 458652, 4748035.

(JJJ) Land bounded by the following UTM Zone 10, NAD83 coordinates (E, N): 460244, 4746430; 460269, 4748088; 461869, 4748070; 461856, 4746443; 460244, 4746430.

(KKK) Land bounded by the following UTM Zone 10, NAD83 coordinates (E, N): 455429, 4746454; 453826, 4746447; 453810, 4748090; 455424, 4748101; 455429, 4746454.

(LLL) Land bounded by the following UTM Zone 10, NAD83 coordinates (E, N): 455819, 4748928; 455826, 4748510; 455416, 4748522; 455407, 4748944; 455819, 4748928.

(MMM) Land bounded by the following UTM Zone 10, NAD83 coordinates (E, N): 486071, 4749661; 486064, 4748056; 484495, 4748062; 484513, 4749672; 486071, 4749661.

(NNN) Land bounded by the following UTM Zone 10, NAD83 coordinates (E, N): 460269, 4748088; 458652, 4748035; 458598, 4749705; 460227, 4749721; 460269, 4748088.

(OOO) Land bounded by the following UTM Zone 10, NAD83 coordinates (E, N): 457012, 4749788; 457046, 4748066; 456645, 4748075; 456613, 4749790; 457012, 4749788.

(PPP) Land bounded by the following UTM Zone 10, NAD83 coordinates (E, N): 487674, 4748057; 487687, 4749662; 488091, 4749659; 488095, 4750063; 488497, 4750061; 488494, 4749656; 489283, 4749650; 489265, 4748056; 487674, 4748057.

(QQQ) Land bounded by the following UTM Zone 10, NAD83 coordinates (E, N): 475323, 4751198; 475312, 4750789; 474898, 4750790; 474903, 4750955; 475122, 4751060; 475055, 4751198; 475323, 4751198.

(RRR) Land bounded by the following UTM Zone 10, NAD83 coordinates (E, N): 460227, 4749721; 460276, 4750921; 460687, 4750910; 460701, 4751321; 461930, 4751317; 461916, 4750605; 461924, 4750876; 462601, 4750858; 462638, 4750741; 462922, 4750553; 463022, 4750634; 463156, 4750592; 463152, 4750440; 463029, 4750242; 462745, 4750345; 462748, 4750452; 461914, 4750477; 461899, 4749675; 460227, 4749721.

(SSS) Land bounded by the following UTM Zone 10, NAD83 coordinates (E, N): 503053, 4749937; 503059, 4746691; 503879, 4746689; 503841, 4746091; 503889, 4746131; 503887, 4745880; 504095, 4745877; 503965, 4745373; 503789, 4745204; 503620, 4745182; 503533, 4744874; 503184, 4744552; 502968, 4744054; 503290, 4743845; 503497, 4743838; 503716, 4743636; 504039, 4743586; 504294, 4743323; 504990, 4743382; 505085, 4743255; 505080, 4742999; 505495, 4742993; 505496, 4742581; 506298, 4742585; 506292, 4741784; 506695, 4741784; 506699, 4743409; 507910, 4743411; 507908, 4741781; 509053, 4741782; 508978, 4741324; 508812, 4741068; 508829, 4740946; 508548, 4740887; 508432, 4740716; 508285, 4740680; 508070, 4740474; 508027, 4740340; 507844, 4740365; 507740, 4740292; 507898, 4740072; 507849, 4739938; 507616, 4739793; 507036, 4739655; 506956, 4739527; 506956, 4739637; 506865, 4739686; 506915, 4739838; 506700, 4739772; 506652, 4739827; 506579, 4739803; 506651, 4739614; 506512, 4739346; 506490, 4739023; 506006, 4738678; 505927, 4738660; 505872, 4738733; 505713, 4738563; 505614, 4738252; 505662, 4738075; 505564, 4738021; 505502, 4737796; 505270, 4737766; 505111, 4737627; 505074, 4737217; 504342, 4737458; 504175, 4737619; 504074, 4737934; 504074, 4737759; 503847, 4737352; 503165, 4737702; 503182, 4737415; 502783, 4736990; 502660, 4736765; 502594, 4736839; 502673, 4737209; 502391, 4737209; 502169, 4737524; 502035, 4738053; 501666, 4738375; 501163, 4738629; 501096, 4738784; 500973, 4738844; 501246, 4738960; 500889, 4739097; 500833, 4739655; 500518, 4739658; 500522, 4739962; 500680, 4740174; 500822, 4740570; 500769, 4740844; 500435, 4741248; 500332, 4741480; 500367, 4741679; 500527, 4741675; 500535, 4742847; 500675, 4743154; 500615, 4743404; 500781, 4743556; 500397, 4743600; 500135, 4743851; 500239, 4743814; 500349, 4743862; 500246, 4743942; 500162, 4744289; 500363, 4744374; 500591, 4744867; 500435, 4745477; 500564, 4745586; 500542, 4746566; 499748, 4746568; 499746, 4746954; 500154, 4746972; 500129, 4748593; 500532, 4748597; 500541, 4749881; 501527, 4749881; 501531, 4751587; 503057, 4751576; 503053, 4749937; and excluding land bound by 504411, 4739880; 504593, 4739907; 504558, 4739462; 504737, 4739492; 504770, 4739937; 504955, 4739970; 505040, 4740406; 504977, 4740868; 504796, 4740840; 504907, 4741281; 504723, 4741250; 504613, 4740811; 504437, 4740782; 504507, 4740334; 504411, 4739880.

(TTT) Land bounded by the following UTM Zone 10, NAD83 coordinates (E, N): 487765, 4752598; 489386, 4752573; 489396, 4751738; 487775, 4751731; 487765, 4752598.

(UUU) Land bounded by the following UTM Zone 10, NAD83 coordinates (E, N): 482955, 4749648; 482939, 4748029; 481746, 4748015; 481747, 4747612; 481371, 4747608; 481362, 4746399; 482542, 4746410; 482540, 4747621; 482934, 4747626; 482939, 4748029; 484495, 4748062; 484485, 4746475; 482933, 4746415; 482947, 4744820; 484493, 4744822; 484446, 4743184; 483736, 4743186; 483736, 4742789; 482941, 4742788; 482929, 4741553; 481333, 4741517; 481351, 4743122; 479741, 4743095; 479713, 4741540; 478113, 4741556; 478064, 4739958; 476439, 4739968; 476439, 4738767; 476037, 4738769; 476035, 4738369; 474825, 4738378; 474856, 4739964; 475251, 4739964; 475256, 4740370; 475661, 4740369; 475674, 4740770; 475261, 4740776; 475281, 4741178; 474872, 4741171; 474856, 4739964; 473279, 4739979; 473270, 4740785; 474084, 4740780; 474093, 4741500; 475703, 4741557; 475711, 4742340; 476522, 4742353; 476533, 4743130; 476126, 4743126; 476116, 4743514; 476520, 4743517; 476483, 4744678; 478116, 4744684; 478148, 4746287; 478973, 4746286; 478965, 4746684; 478558, 4746684; 478546, 4747479; 478142, 4747479; 478148, 4746287; 476502, 4746282; 476501, 4747864; 474917, 4747866; 474907, 4746306; 476502, 4746282; 476483, 4744678; 474896, 4744686; 474904, 4745901; 473317, 4745885; 473320, 4746421; 473459, 4746577; 473301, 4746648; 473263, 4747108; 471589, 4747164; 471586, 4746323; 469961, 4746358; 469977, 4747951; 471592, 4748008; 471638, 4749545; 470414, 4749507; 470406, 4749126; 470001, 4749125; 469977, 4747951; 468351, 4747943; 468293, 4748748; 468345, 4749547; 470009, 4749516; 470019, 4750720; 470425, 4750718; 470429, 4751142; 472900, 4751149; 472937, 4751544; 473339, 4751553; 473258, 4750765; 473666, 4750772; 473628, 4750371; 473836, 4750372; 473819, 4750173; 474768, 4750164; 474788, 4750580; 474892, 4750581; 474861, 4749953; 475283, 4749956; 475266, 4749539; 476124, 4749549; 476130, 4749961; 476556, 4749964; 476559, 4750784; 476142, 4750786; 476148, 4751195; 476560, 4751194; 477523, 4751036; 478265, 4751030; 478250, 4752294; 478644, 4752280; 478640, 4752670; 479034, 4752661; 479038, 4752267; 479824, 4752238; 479826, 4751029; 481378, 4751016; 481382, 4751208; 481699, 4751211; 481714, 4750817; 481380, 4750813; 481378, 4749626; 482955, 4749648; and excluding land bound by 479828, 4749470; 479838, 4750243; 479441, 4750239; 479459, 4751032; 478295, 4751029; 478281, 4750809; 478672, 4750814; 478646, 4750235; 479045, 4750237; 479030, 4749852; 479432, 4749854; 479404, 4749071; 478999, 4749069; 478979, 4748672; 478573, 4748671; 478535, 4747877; 478941, 4747877; 478960, 4748275; 479366, 4748275; 479385, 4748673; 480187, 4748670; 480173, 4748275; 480973, 4748272; 480991, 4749442; 479828, 4749470; and excluding land bound by 474015, 4749151; 473143, 4749172; 473180, 4748348; 474081, 4748314; 474015, 4749151; and excluding land bound by 479787, 4746682; 479778, 4745487; 480578, 4745485; 480576, 4745078; 480970, 4745081; 480970, 4744677; 481365, 4744683; 481355, 4743596; 481736, 4743597; 481733, 4743194; 482541, 4743192; 482542, 4743597; 482942, 4743596; 482943, 4744003; 482543, 4744002; 482547, 4744817; 481365, 4744802; 481362, 4745883; 480184, 4745885; 480182, 4746683; 479787, 4746682; and excluding land bound by 479345, 4744451; 479346, 4744688; 478936, 4744687; 478938, 4744285; 478109, 4744278; 478102, 4743872; 479344, 4743887; 479345, 4744451; and excluding land bound by 478943, 4743097; 478928, 4742323; 478528, 4742325; 478521, 4741938; 479320, 4741932; 479342, 4743096; 478943, 4743097; and excluding land bound by 477976, 4742020; 477904, 4741944; 476517, 4741964; 476512, 4741576; 478112, 4741556; 478121, 4741942; 477976, 4742020.

(VVV) Land bounded by the following UTM Zone 10, NAD83 coordinates (E, N): 458598, 4749705; 457769, 4749792; 457012, 4749788; 457038, 4750178; 456626, 4750178; 456639, 4750567; 457808, 4750545; 457828, 4750944; 457441, 4750954; 457446, 4751352; 458654, 4751328; 458656, 4752899; 459045, 4752909; 459051, 4752525; 459835, 4752535; 459844, 4752143; 460236, 4752143; 460264, 4751733; 459863, 4751733; 459882, 4751324; 459473, 4751325; 459461, 4750922; 458645, 4750923; 458598, 4749705.

(WWW) Land bounded by the following UTM Zone 10, NAD83 coordinates (E, N): 486179, 4752624; 486182, 4751823; 486580, 4751820; 486581, 4751729; 487715, 4751731; 487687, 4749662; 486071, 4749661; 486112, 4751729; 484937, 4751730; 484938, 4751255; 484550, 4751253; 484513, 4749672; 482955, 4749648; 482983, 4751717; 481386, 4751710; 481387, 4751777; 483019, 4751875; 483021, 4752281; 481391, 4752200; 481395, 4752622; 483023, 4752687; 483027, 4753493; 484590, 4753485; 484590, 4753083; 484990, 4753069; 484987, 4752668; 486179, 4752624; and excluding land bound by 484220, 4752683; 484220, 4752281; 484306, 4752280; 484266, 4752164; 484438, 4752103; 484582, 4752527; 484414, 4752586; 484427, 4752683; 484220, 4752683.

(XXX) Land bounded by the following UTM Zone 10, NAD83 coordinates (E, N): 487762, 4754182; 487765, 4752598; 486179, 4752624; 486180, 4754233; 487762, 4754182.

(YYY) Land bounded by the following UTM Zone 10, NAD83 coordinates (E, N): 487762, 4754182; 487770, 4754572; 489385, 4754569; 489375, 4754197; 487762, 4754182.

(ZZZ) Land bounded by the following UTM Zone 10, NAD83 coordinates (E, N): 444363, 4755826; 444358, 4755027; 443208, 4755014; 443208, 4754612; 444354, 4754628; 444351, 4754228; 442711, 4754203; 442723, 4755814; 444363, 4755826.

(AAAA) Land bounded by the following UTM Zone 10, NAD83 coordinates (E, N): 445966, 4755891; 447572, 4755929; 447541, 4754350; 445952, 4754296; 445966, 4755891.

(BBBB) Land bounded by the following UTM Zone 10, NAD83 coordinates (E, N): 449163, 4756006; 450730, 4756037; 450725, 4754449; 449138, 4754408; 449163, 4756006.

(CCCC) Land bounded by the following UTM Zone 10, NAD83 coordinates (E, N): 455516, 4756091; 457098, 4756170; 457082, 4754563; 456684, 4754563; 456693, 4755359; 456296, 4755352; 456286, 4754562; 455510, 4754555; 455516, 4756091.

(DDDD) Land bounded by the following UTM Zone 10, NAD83 coordinates (E, N): 453961, 4756097; 453952, 4754514; 453171, 4754438; 452310, 4754479; 452315, 4756057; 452800, 4756068; 452803, 4756463; 453581, 4756484; 453573, 4756087; 453961, 4756097.

(EEEE) Land bounded by the following UTM Zone 10, NAD83 coordinates (E, N): 452315, 4756057; 450730, 4756037; 450721, 4757217; 452318, 4757236; 452315, 4756057.

(FFFF) Land bounded by the following UTM Zone 10, NAD83 coordinates (E, N): 445966, 4755891; 444363, 4755826; 444427, 4757446; 446000, 4757490; 445966, 4755891.

(GGGG) Land bounded by the following UTM Zone 10, NAD83 coordinates (E, N): 449163, 4756006; 447572, 4755929; 447589, 4757529; 449145, 4757576; 449163, 4756006.

(HHHH) Land bounded by the following UTM Zone 10, NAD83 coordinates (E, N): 455607, 4757686; 455516, 4756091; 453961, 4756097; 454001, 4757691; 455607, 4757686.

(IIII) Land bounded by the following UTM Zone 10, NAD83 coordinates (E, N): 457098, 4756170; 457171, 4757725; 458822, 4757767; 458760, 4756168; 457098, 4756170.

(JJJJ) Land bounded by the following UTM Zone 10, NAD83 coordinates (E, N): 444427, 4757446; 442735, 4757427; 442747, 4759040; 444450, 4759049; 444427, 4757446.

(KKKK) Land bounded by the following UTM Zone 10, NAD83 coordinates (E, N): 447589, 4757529; 446000, 4757490; 446020, 4759087; 447604, 4759131; 447589, 4757529.

(LLLL) Land bounded by the following UTM Zone 10, NAD83 coordinates (E, N): 449145, 4757576; 449164, 4759156; 450752, 4759202; 450722, 4758008; 450331, 4757999; 450325, 4757602; 449145, 4757576.

(MMMM) Land bounded by the following UTM Zone 10, NAD83 coordinates (E, N): 454001, 4757691; 452319, 4757629; 452323, 4759202; 453255, 4759243; 453243, 4758848; 453649, 4758865; 453620, 4758073; 454019, 4758088; 454001, 4757691.

(NNNN) Land bounded by the following UTM Zone 10, NAD83 coordinates (E, N): 458822, 4757767; 458836, 4759373; 460412, 4759379; 460406, 4758541; 460011, 4758548; 460015, 4758963; 459621, 4758966; 459611, 4757735; 458822, 4757767.

(OOOO) Land bounded by the following UTM Zone 10, NAD83 coordinates (E, N): 462037, 4760096; 462018, 4759299; 460812, 4759376; 460818, 4759771; 461219, 4759754; 461223, 4759965; 461539, 4760118; 461551, 4760261; 461694, 4760345; 461746, 4760484; 462045, 4760461; 462037, 4760096.

(PPPP) Land bounded by the following UTM Zone 10, NAD83 coordinates (E, N): 449164, 4759156; 447604, 4759131; 447648, 4760686; 449196, 4760698; 449164, 4759156.

(QQQQ) Land bounded by the following UTM Zone 10, NAD83 coordinates (E, N): 460427, 4760873; 461238, 4760854; 461232, 4760528; 460426, 4760603; 460427, 4760873.

(RRRR) Land bounded by the following UTM Zone 10, NAD83 coordinates (E, N): 446054, 4760674; 446020, 4759087; 444450, 4759049; 444459, 4760662; 442759, 4760653; 442764, 4761874; 443649, 4761876; 443652, 4762093; 444195, 4762096; 444196, 4762282; 444462, 4762281; 444455, 4761473; 445253, 4761477; 445243, 4760668; 446054, 4760674.

(SSSS) Land bounded by the following UTM Zone 10, NAD83 coordinates (E, N): 447648, 4760686; 446054, 4760674; 446061, 4762286; 447659, 4762297; 447648, 4760686.

(TTTT) Land bounded by the following UTM Zone 10, NAD83 coordinates (E, N): 452469, 4760692; 452328, 4760688; 452323, 4759202; 450752, 4759202; 450748, 4760693; 449255, 4760699; 449263, 4762304; 450872, 4762312; 450865, 4760693; 452469, 4760692.

(UUUU) Land bounded by the following UTM Zone 10, NAD83 coordinates (E, N): 460434, 4762433; 460443, 4763639; 462164, 4763637; 462122, 4762427; 460434, 4762433.

(VVVV) Land bounded by the following UTM Zone 10, NAD83 coordinates (E, N): 446061, 4762286; 444862, 4762282; 444864, 4762684; 445264, 4762685; 445272, 4763889; 445672, 4763890; 445670, 4763489; 446070, 4763490; 446061, 4762286.

(WWWW) Land bounded by the following UTM Zone 10, NAD83 coordinates (E, N): 449271, 4763891; 449263, 4762304; 447659, 4762297; 447671, 4763898; 449271, 4763891.

(XXXX) Land bounded by the following UTM Zone 10, NAD83 coordinates (E, N): 454131, 4764240; 454874, 4764250; 454880, 4763455; 454113, 4763463; 454131, 4764240.

(YYYY) Land bounded by the following UTM Zone 10, NAD83 coordinates (E, N): 454131, 4764240; 453738, 4764312; 453749, 4764698; 454134, 4764629; 454131, 4764240.

(ZZZZ) Land bounded by the following UTM Zone 10, NAD83 coordinates (E, N): 447671, 4763898; 446073, 4763891; 446076, 4764293; 447276, 4764298; 447280, 4764700; 447680, 4764702; 447671, 4763898.

(AAAAA) Land bounded by the following UTM Zone 10, NAD83 coordinates (E, N): 450888, 4763907; 449271, 4763891; 449289, 4765506; 450906, 4765512; 450888, 4763907.

(BBBBB) Land bounded by the following UTM Zone 10, NAD83 coordinates (E, N): 460460, 4765686; 460446, 4764041; 458833, 4764048; 458830, 4762440; 460434, 4762433; 460427, 4760873; 459635, 4760888; 459645, 4761638; 459245, 4761643; 458834, 4761648; 458840, 4760904; 458041, 4760904; 458005, 4759726; 458421, 4759752; 458435, 4760557; 458839, 4760577; 458836, 4759373; 457185, 4759281; 457171, 4757725; 455607, 4757686; 455633, 4758854; 454844, 4758868; 454858, 4759261; 456799, 4759271; 456821, 4759659; 457215, 4759670; 457256, 4760851; 455674, 4760785; 455673, 4760011; 454870, 4760030; 454858, 4759261; 454074, 4759279; 454095, 4760430; 453694, 4760419; 453701, 4760721; 452469, 4760692; 452479, 4762290; 450872, 4762312; 450888, 4763907; 452434, 4763894; 452431, 4763771; 452488, 4763760; 452484, 4763380; 452417, 4763396; 452402, 4763021; 453298, 4762686; 454095, 4762665; 453954, 4761293; 454105, 4761298; 454102, 4760931; 454493, 4760946; 454495, 4761147; 455678, 4761189; 455679, 4761298; 455504, 4761301; 455569, 4761843; 456735, 4761835; 456770, 4762615; 457160, 4762605; 457150, 4761831; 457072, 4761287; 458623, 4761249; 458691, 4762209; 457904, 4762207; 457931, 4762584; 457160, 4762605; 457197, 4764219; 458688, 4764090; 458709, 4765696; 458852, 4765695; 458841, 4764853; 459646, 4764850; 459651, 4765270; 459249, 4765272; 459254, 4765693; 460460, 4765686.

(CCCCC) Land bounded by the following UTM Zone 10, NAD83 coordinates (E, N): 457179, 4765824; 457197, 4764219; 456807, 4764227; 456804, 4764629; 456415, 4764637; 456415, 4765039; 455837, 4765051; 455840, 4765435; 455639, 4765456; 456026, 4765448; 456030, 4765848; 457179, 4765824.

(DDDDD) Land bounded by the following UTM Zone 10, NAD83 coordinates (E, N): 454564, 4766601; 455297, 4766646; 455286, 4766244; 455648, 4766262; 455647, 4765857; 455275, 4765842; 455268, 4765444; 454896, 4765432; 454925, 4766226; 454548, 4766207; 454564, 4766601.

(EEEEE) Land bounded by the following UTM Zone 10, NAD83 coordinates (E, N): 454564, 4766601; 454182, 4766578; 454190, 4766978; 454578, 4766984; 454564, 4766601.

(FFFFF) Land bounded by the following UTM Zone 10, NAD83 coordinates (E, N): 450906, 4765512; 450911, 4766313; 451314, 4766310; 451311, 4765908; 451713, 4765904; 451716, 4766306; 452112, 4766303; 452117, 4767105; 452459, 4767099; 452450, 4766069; 453391, 4765811; 454161, 4765798; 454143, 4765213; 453954, 4765238; 453948, 4765051; 453759, 4765084; 453754, 4764891; 453558, 4764924; 453551, 4764733; 453352, 4764767; 453338, 4764575; 452935, 4764647; 452930, 4764455; 452497, 4764531; 452505, 4765494; 450906, 4765512.

(GGGGG) Land bounded by the following UTM Zone 10, NAD83 coordinates (E, N): 460460, 4765686; 460460, 4767269; 462188, 4767155; 462234, 4765615; 460460, 4765686.

(HHHHH) Land bounded by the following UTM Zone 10, NAD83 coordinates (E, N): 454578, 4766984; 454591, 4767367; 454985, 4767357; 454965, 4766991; 454578, 4766984.

(IIIII) Land bounded by the following UTM Zone 10, NAD83 coordinates (E, N): 458729, 4767269; 458719, 4766482; 457964, 4766553; 457944, 4765760; 457179, 4765824; 457239, 4767424; 458729, 4767269.

(JJJJJ) Land bounded by the following UTM Zone 10, NAD83 coordinates (E, N): 457239, 4767424; 456062, 4767447; 456118, 4767798; 455741, 4767799; 455813, 4768349; 456188, 4768351; 456175, 4768149; 457323, 4768164; 457239, 4767424.

(KKKKK) Land bounded by the following UTM Zone 10, NAD83 coordinates (E, N): 460460, 4767269; 458729, 4767269; 458751, 4768822; 459588, 4768839; 459591, 4768048; 460454, 4768060; 460460, 4767269.

(LLLLL) Land bounded by the following UTM Zone 10, NAD83 coordinates (E, N): 457409, 4768904; 457366, 4768534; 456975, 4768534; 457021, 4768838; 457085, 4768836; 457086, 4768909; 457409, 4768904.

(iii) Note: Map of Rogue/Umpqua Unit follows:

BILLING CODE 4310-55-S

BILLING CODE 4310-55-C

(22) Oregon Klamath Mountains Unit (Unit 15). Coos, Curry, and Josephine Counties, Oregon. Del Norte County, California.

(i) The Oregon Klamath Mountains Unit is a total of 195, 200 ac (79, 000 ha), including 189, 400 ac (76, 600 ha) in Coos, Curry, and Josephine Counties, Oregon, and 5, 800 ac (2, 300 ha) in the northernmost portion of Del Norte County, California. It is comprised of lands managed by the Siskiyou and Six Rivers National Forests (194, 600 ac (78, 800 ha)) and Coos Bay BLM District (600 ac (200 ha)).

(ii) From USGS 1:24, 000 scale quadrangles Agness, Barklow Mountain, Biscuit Hill, Bosley Butte, Brandy Peak, Chetco Peak, China Flat, Chrome Ridge, Eden Valley, Eight Dollar Mountain, Father Mountain, Fourth of July Creek, High Divide, High Plateau Mountain, Horse Sign Butte, Illahe, Kelsey Peak, Marial, Mount Bolivar, Mount Butler, Mount Emily, Ophir Mountain, Pearsoll Peak, Port Orford, Quail Prairie Mountain, Silver Peak, Sixes, and York Butte.

(A) Land bounded by the following UTM Zone 10, NAD83 coordinates (E, N): 412199, 4649957; 415615, 4649887; 417036, 4649782; 417077, 4649836; 417958, 4649823; 417876, 4649492; 417613, 4648998; 417220, 4648437; 416391, 4647657; 415947, 4647137; 415669, 4646669; 415367, 4646052; 415010, 4644942; 414934, 4644983; 414881, 4644778; 414652, 4644493; 414685, 4644116; 414194, 4643354; 413858, 4642349; 413701, 4642168; 413168, 4641908; 413028, 4641912; 412838, 4642030; 412752, 4642515; 412860, 4642982; 413213, 4643657; 413299, 4643962; 413159, 4644613; 413167, 4645146; 413016, 4645381; 412728, 4645551; 412579, 4645752; 412577, 4646187; 412705, 4647080; 412669, 4647349; 412188, 4648452; 411611, 4649546; 411586, 4649935; 412199, 4649957; and excluding land bound by 414952, 4647460; 414906, 4647671; 414879, 4647708; 414952, 4647460; and excluding land bound by 414946, 4647286; 414952, 4647268; 414965, 4647420; 414946, 4647286.

(B) Land bounded by the following UTM Zone 10, NAD83 coordinates (E, N): 414566, 4645684; 414569, 4645662; 414553, 4645784; 414566, 4645684; and excluding land bound by 414798, 4645168; 414824, 4645128; 414802, 4645277; 414704, 4645378; 414798, 4645168.

(C) Land bounded by the following UTM Zone 10, NAD83 coordinates (E, N): 417863, 4670411; 417876, 4670379; 417650, 4670450; 417863, 4670411.

(D) Land bounded by the following UTM Zone 10, NAD83 coordinates (E, N): 418202, 4669074; 418306, 4668771; 418181, 4668401; 418070, 4668243; 417659, 4668003; 417387, 4667560; 416715, 4667435; 416032, 4667433; 415593, 4667535; 415343, 4667489; 415204, 4667393; 415117, 4667233; 414539, 4667059; 414479, 4666850; 414340, 4666695; 414891, 4666614; 415072, 4666488; 415123, 4666353; 415283, 4666205; 415305, 4665974; 415466, 4665975; 415675, 4665842; 415834, 4665865; 416040, 4665665; 416353, 4665628; 416437, 4665496; 416819, 4665246; 416841, 4665081; 417070, 4665030; 417210, 4664773; 417403, 4664761; 417341, 4664512; 417071, 4664103; 416881, 4664000; 416412, 4663499; 416181, 4662742; 415971, 4662324; 416145, 4662291; 416329, 4662111; 416458, 4661896; 416490, 4661617; 416656, 4661466; 416760, 4661157; 416910, 4661167; 417021, 4660946; 417240, 4661051; 417447, 4661030; 417442, 4660719; 417547, 4660475; 417462, 4660164; 417558, 4659922; 417500, 4659663; 417793, 4659347; 417774, 4659231; 417905, 4658989; 417858, 4658837; 418007, 4658487; 417867, 4658186; 417884, 4658070; 417739, 4658009; 417729, 4657929; 418022, 4657595; 418166, 4657584; 418638, 4657203; 418788, 4656942; 418678, 4656322; 418560, 4656124; 418586, 4656025; 418782, 4655871; 418663, 4655703; 418660, 4655480; 418586, 4655365; 418610, 4654870; 418449, 4654851; 418227, 4655123; 417889, 4655334; 417636, 4654778; 417415, 4654068; 417114, 4653866; 416867, 4653579; 416831, 4652560; 416972, 4652010; 416966, 4651439; 417040, 4651244; 416138, 4651255; 416115, 4649865; 407629, 4650076; 407716, 4652056; 406483, 4652033; 406495, 4652442; 406089, 4652433; 406103, 4653026; 405705, 4653032; 405713, 4653430; 405314, 4653438; 405341, 4654646; 402679, 4654687; 402732, 4655412; 402931, 4655398; 402957, 4655886; 402120, 4655925; 402171, 4659427; 402556, 4659423; 402562, 4661032; 402191, 4661037; 402284, 4668948; 403852, 4668916; 403843, 4668130; 405450, 4668101; 405461, 4668883; 407878, 4668834; 407882, 4668980; 408181, 4668079; 408266, 4667635; 408506, 4667332; 409050, 4667430; 409680, 4667896; 410312, 4668009; 410419, 4668136; 410852, 4668218; 411147, 4668434; 411145, 4667790; 411396, 4667859; 411488, 4668087; 411910, 4668392; 412661, 4668533; 413892, 4669772; 414390, 4670124; 414952, 4669592; 414899, 4669203; 414673, 4668807; 414703, 4668706; 415033, 4668912; 415218, 4668916; 415437, 4669063; 415620, 4669054; 415730, 4669305; 415810, 4669159; 416079, 4669017; 416567, 4669028; 416654, 4669130; 416979, 4669242; 417270, 4669737; 417534, 4670498; 417668, 4670396; 417883, 4669861; 418052, 4669646; 418202, 4669074; and excluding land bound by 403428, 4667375; 402629, 4667390; 402598, 4666204; 402997, 4666222; 403017, 4666984; 403420, 4666975; 403428, 4667375; and excluding land bound by 408639, 4655101; 408449, 4654709; 408267, 4654712; 408265, 4654613; 408579, 4654612; 408973, 4655012; 408879, 4655164; 408639, 4655101; and excluding land bound by 409365, 4652159; 409348, 4651369; 409726, 4651367; 409721, 4651034; 410116, 4651029; 410115, 4650859; 410541, 4650855; 410546, 4651361; 410119, 4651365; 410134, 4651756; 409740, 4651759; 409755, 4652155; 409365, 4652159.

(E) Land bounded by the following UTM Zone 10, NAD83 coordinates (E, N): 427634, 4697040; 427466, 4697028; 426751, 4697202; 426589, 4697339; 426534, 4697603; 427091, 4697372; 427754, 4697309; 427748, 4697144; 427634, 4697040.

(F) Land bounded by the following UTM Zone 10, NAD83 coordinates (E, N): 441321, 4697964; 441867, 4697631; 442352, 4697196; 442642, 4697177; 442780, 4697097; 442752, 4696878; 442845, 4696616; 443015, 4696589; 443227, 4696676; 443655, 4696499; 443976, 4696449; 443998, 4696025; 443685, 4695872; 443555, 4695874; 443423, 4695729; 443252, 4695707; 443172, 4695774; 443130, 4695644; 442950, 4695541; 443304, 4695386; 443024, 4694948; 442908, 4694648; 443030, 4694220; 443040, 4693888; 442982, 4693737; 442702, 4693779; 442578, 4693659; 442401, 4693718; 442248, 4693297; 442084, 4693210; 442058, 4693097; 442136, 4692925; 442402, 4692829; 442400, 4692283; 442765, 4692281; 442759, 4691881; 443166, 4691878; 443158, 4691475; 443315, 4691474; 443276, 4691263; 443148, 4691056; 443386, 4690935; 443557, 4691034; 443707, 4690939; 443471, 4690531; 443458, 4690412; 443600, 4690103; 443443, 4690142; 443341, 4690042; 443070, 4689962; 442959, 4690158; 442790, 4690241; 442695, 4690141; 442449, 4690131; 442471, 4689722; 442382, 4689685; 442374, 4688296; 443000, 4688287; 443013, 4687949; 443004, 4688176; 443073, 4688202; 443110, 4688135; 443024, 4687830; 443104, 4687727; 443262, 4687965; 443476, 4687977; 443640, 4688349; 443994, 4688368; 444140, 4688319; 443817, 4687917; 443811, 4687765; 443695, 4687679; 443395, 4687605; 443016, 4687629; 442585, 4687439; 442403, 4687485; 442345, 4687347; 442042, 4687117; 441736, 4686671; 441704, 4686503; 441778, 4686333; 441545, 4686285; 441725, 4686101; 441774, 4685906; 441514, 4685933; 441445, 4685583; 441549, 4685553; 441604, 4685433; 442122, 4685255; 442299, 4685255; 442336, 4685170; 441915, 4685067; 441669, 4685193; 441403, 4685194; 440755, 4685009; 440590, 4684834; 440294, 4684729; 440488, 4684432; 440714, 4684590; 440768, 4684542; 440714, 4684037; 440390, 4684006; 440348, 4684128; 440445, 4684341; 440260, 4684422; 440120, 4684215; 440219, 4683988; 440363, 4683968; 440407, 4683905; 440590, 4683973; 440765, 4683921; 440460, 4683546; 440471, 4683307; 440401, 4683239; 440494, 4683037; 440493, 4682861; 440359, 4682662; 440353, 4682168; 440511, 4682169; 440464, 4681810; 440975, 4681745; 440983, 4682173; 441571, 4682177; 441564, 4682015; 441965, 4681982; 441957, 4681773; 442364, 4681775; 442343, 4681405; 442479, 4681318; 442797, 4681149; 443297, 4681122; 443455, 4681009; 443590, 4680639; 443590, 4680108; 443395, 4679603; 443282, 4678531; 441615, 4678526; 441643, 4678737; 441173, 4678988; 440955, 4679282; 440690, 4679334; 440691, 4679516; 440065, 4679554; 439088, 4679262; 439088, 4679215; 438658, 4679239; 438471, 4679664; 438092, 4679903; 437999, 4680177; 437941, 4680177; 437876, 4680682; 437879, 4681653; 437419, 4682256; 437165, 4682398; 436682, 4682911; 436495, 4683002; 435960, 4683152; 435344, 4683219; 434894, 4683738; 434384, 4683895; 434290, 4683977; 434119, 4684385; 433984, 4684388; 433836, 4684264; 433620, 4684195; 433151, 4684199; 432815, 4684123; 432373, 4683906; 431575, 4683692; 430447, 4683194; 430345, 4683234; 430232, 4683742; 430427, 4684302; 430652, 4684622; 430876, 4684799; 431025, 4684738; 431206, 4684772; 431488, 4685020; 432146, 4686144; 432581, 4686742; 432463, 4687714; 432563, 4688178; 432175, 4688456; 431870, 4689199; 431800, 4689515; 431821, 4689849; 432046, 4690145; 432563, 4691184; 432827, 4691180; 432832, 4691608; 433525, 4691590; 433491, 4691758; 433658, 4691957; 433581, 4692362; 433381, 4692365; 433382, 4692573; 433183, 4692571; 433184, 4692773; 432851, 4692772; 432850, 4692576; 432438, 4692583; 432374, 4692381; 432499, 4692784; 432729, 4693081; 432747, 4693480; 432563, 4694411; 432792, 4694459; 433024, 4694893; 433059, 4695125; 433006, 4695573; 432876, 4695990; 433006, 4696347; 433399, 4696124; 433847, 4696379; 434267, 4696244; 434430, 4696290; 434530, 4696460; 434807, 4696561; 434786, 4696807; 434900, 4696932; 434991, 4696932; 434978, 4697208; 435119, 4697369; 435195, 4697619; 435447, 4697592; 435692, 4697726; 436580, 4697430; 436871, 4697913; 437164, 4697974; 437443, 4698173; 437596, 4698058; 437674, 4697862; 437886, 4697956; 438385, 4697788; 438485, 4697436; 438758, 4697270; 438923, 4697422; 439403, 4697480; 439441, 4697854; 439839, 4697864; 440230, 4697973; 440343, 4697930; 440623, 4698170; 440640, 4698259; 440868, 4698281; 441035, 4698092; 441321, 4697964; and excluding land bound by 434219, 4691669; 433905, 4691437; 434248, 4690909; 434669, 4690716; 435080, 4690643; 435276, 4690472; 435410, 4690527; 435314, 4690726; 435706, 4691135; 435699, 4691478; 434982, 4691479; 434705, 4690960; 434485, 4690990; 434628, 4691302; 434219, 4691669; and excluding land bound by 435117, 4690478; 435034, 4690541; 434904, 4690306; 435015, 4689823; 435121, 4689810; 435142, 4689710; 435323, 4689726; 435220, 4690318; 435117, 4690478; and excluding land bound by 435798, 4684482; 435674, 4684377; 435418, 4684329; 435215, 4683876; 435381, 4683844; 435136, 4683573; 435578, 4683354; 435754, 4683739; 435734, 4684070; 435863, 4684258; 435798, 4684482; and excluding land bound by 436313, 4684053; 436323, 4684000; 436417, 4684001; 436415, 4683900; 436619, 4683892; 436623, 4684205; 436313, 4684205; 436313, 4684053; and excluding land bound by 438871, 4683424; 438870, 4683283; 439034, 4683080; 439249, 4683114; 439240, 4683550; 438875, 4683540; 438871, 4683424.

(G) Land bounded by the following UTM Zone 10, NAD83 coordinates (E, N): 414690, 4706876; 414475, 4705566; 414470, 4705140; 414877, 4705116; 414855, 4704307; 416863, 4704288; 416858, 4703887; 417260, 4703882; 417241, 4701893; 417037, 4701895; 417021, 4701491; 416180, 4701457; 415524, 4701338; 415270, 4701197; 414917, 4700723; 414714, 4700223; 414406, 4699789; 414156, 4699668; 413162, 4699457; 412599, 4699015; 411568, 4698424; 411238, 4698294; 410942, 4698305; 410789, 4698230; 410777, 4698158; 411316, 4697723; 411773, 4697479; 412586, 4696535; 412573, 4696428; 412365, 4695962; 412171, 4695726; 411912, 4695548; 411374, 4695348; 410961, 4694929; 410775, 4694884; 410531, 4694583; 410074, 4694458; 409578, 4694124; 409485, 4693911; 409436, 4693124; 409355, 4692851; 409179, 4692633; 408932, 4692648; 408709, 4692763; 408556, 4692928; 408345, 4693467; 407971, 4693865; 407552, 4694072; 407318, 4694019; 407316, 4694124; 407458, 4694410; 407706, 4694549; 408256, 4694357; 408149, 4694547; 408254, 4694637; 408361, 4694453; 408263, 4694357; 408532, 4694329; 408706, 4694420; 408848, 4694556; 408559, 4694510; 408458, 4694642; 408496, 4694814; 408852, 4694837; 409168, 4694709; 409359, 4694707; 409374, 4694769; 409588, 4694829; 410348, 4694964; 410456, 4702093; 409412, 4703069; 409115, 4703493; 408982, 4703751; 408998, 4703845; 409288, 4703923; 409528, 4704220; 409696, 4704309; 410755, 4704556; 411450, 4705008; 411830, 4705112; 412029, 4705606; 412116, 4705666; 413043, 4705850; 413853, 4706430; 414114, 4706438; 414434, 4706802; 414690, 4706876.

(H) Land bounded by the following UTM Zone 10, NAD83 coordinates (E, N): 415343, 4707175; 417490, 4707155; 417983, 4706857; 418413, 4706758; 419173, 4707088; 419537, 4707076; 419744, 4706882; 419960, 4706433; 420288, 4706229; 420741, 4706181; 420930, 4706058; 421511, 4704603; 421824, 4704060; 422804, 4703180; 423093, 4703030; 424259, 4702783; 424474, 4702656; 424873, 4702673; 425628, 4702521; 425839, 4702392; 425971, 4702162; 426003, 4701528; 425795, 4700763; 425362, 4699652; 425327, 4699099; 425391, 4698773; 425576, 4698486; 426350, 4697743; 425688, 4697816; 425568, 4698029; 425444, 4698500; 425240, 4698762; 424993, 4698822; 424898, 4698911; 424579, 4698865; 424356, 4698711; 424146, 4698729; 423725, 4698617; 423365, 4698767; 422968, 4698750; 422602, 4698929; 422115, 4698960; 421761, 4699056; 421508, 4698855; 420901, 4698630; 420642, 4698227; 420280, 4697842; 419806, 4697855; 419464, 4698022; 419404, 4698320; 418997, 4699040; 418739, 4699231; 418733, 4699463; 418566, 4699802; 418506, 4700087; 418434, 4700177; 418164, 4700249; 418038, 4700405; 418074, 4705077; 415687, 4705113; 415718, 4707170; 415343, 4707175; and excluding land bound by 417548, 4705415; 417754, 4705445; 417958, 4705796; 417887, 4705849; 417548, 4705415.

(I) Land bounded by the following UTM Zone 10, NAD83 coordinates (E, N): 413041, 4717477; 412950, 4717303; 412817, 4718142; 412876, 4718370; 413177, 4718668; 413272, 4719101; 413345, 4719184; 413840, 4718381; 413729, 4718126; 413589, 4717991; 413372, 4717945; 413251, 4717834; 413041, 4717477.

(J) Land bounded by the following UTM Zone 10, NAD83 coordinates (E, N): 418573, 4719196; 418542, 4718848; 418394, 4718672; 417681, 4718496; 417011, 4717587; 415662, 4716716; 415147, 4716481; 415446, 4716678; 415733, 4717056; 415809, 4717371; 415727, 4718451; 416050, 4718776; 416316, 4718964; 416418, 4718921; 416471, 4718843; 416468, 4718128; 416928, 4717938; 417254, 4718125; 417451, 4718440; 417886, 4718590; 418401, 4718988; 418285, 4719519; 418350, 4720006; 418440, 4720091; 418705, 4720098; 418845, 4720027; 418893, 4719901; 418883, 4719509; 418645, 4719388; 418573, 4719196.

(K) Land bounded by the following UTM Zone 10, NAD83 coordinates (E, N): 422359, 4721257; 422289, 4721212; 422293, 4721844; 422412, 4722188; 422558, 4722235; 422655, 4722143; 422747, 4721743; 422879, 4721590; 422359, 4721257.

(L) Land bounded by the following UTM Zone 10, NAD83 coordinates (E, N): 415444, 4721983; 415159, 4721979; 415182, 4721779; 415306, 4721586; 415154, 4721589; 415183, 4721505; 415149, 4721580; 415091, 4721558; 414732, 4721803; 414724, 4721624; 414581, 4721672; 414147, 4721616; 414106, 4721828; 414165, 4721992; 414567, 4722244; 414686, 4722275; 415070, 4722199; 415444, 4721983.

(M) Land bounded by the following UTM Zone 10, NAD83 coordinates (E, N): 421290, 4720423; 421398, 4720410; 421080, 4719995; 419909, 4719361; 419807, 4719362; 419871, 4719690; 419782, 4720032; 419982, 4720975; 420129, 4722273; 420515, 4722888; 420901, 4723050; 421047, 4722942; 420728, 4722359; 420781, 4721353; 420982, 4720791; 421111, 4720573; 421290, 4720423.

(N) Land bounded by the following UTM Zone 10, NAD83 coordinates (E, N): 430019, 4725067; 430016, 4724929; 430821, 4724923; 430801, 4724060; 430614, 4723842; 430145, 4723525; 429836, 4723149; 429412, 4723029; 429005, 4723089; 428126, 4723656; 427245, 4724755; 427114, 4724823; 426819, 4724873; 426566, 4724813; 425817, 4724259; 425819, 4724412; 426101, 4724596; 426425, 4725117; 426940, 4725049; 427112, 4725179; 427314, 4725591; 427222, 4726043; 427264, 4726301; 427359, 4726401; 427849, 4726604; 428443, 4727364; 428843, 4727360; 428821, 4725755; 430030, 4725733; 430019, 4725067.

(O) Land bounded by the following UTM Zone 10, NAD83 coordinates (E, N): 385905, 4735412; 385996, 4735346; 386301, 4735376; 386508, 4735211; 386829, 4735264; 386978, 4735101; 387160, 4735019; 387143, 4734882; 387256, 4734744; 387168, 4734358; 387252, 4733887; 387055, 4733743; 386954, 4733549; 386361, 4733271; 385977, 4733239; 385583, 4732929; 385584, 4733004; 384551, 4733023; 384558, 4733407; 384957, 4733405; 384964, 4734608; 384558, 4734616; 384564, 4735016; 384966, 4735003; 384972, 4735407; 385374, 4735399; 385379, 4735752; 385905, 4735412.

(P) Land bounded by the following UTM Zone 10, NAD83 coordinates (E, N): 384865, 4736282; 384911, 4736219; 384577, 4736229; 384565, 4735820; 384151, 4735833; 384177, 4737206; 384431, 4736689; 384865, 4736282.

(Q) Land bounded by the following UTM Zone 10, NAD83 coordinates (E, N): 431672, 4738871; 431672, 4738805; 431581, 4738977; 431672, 4739186; 431672, 4738871.

(R) Land bounded by the following UTM Zone 10, NAD83 coordinates (E, N): 429736, 4741655; 430117, 4741662; 430117, 4741323; 429714, 4741323; 429712, 4740924; 430510, 4740920; 430513, 4741670; 431695, 4741634; 431672, 4739464; 431481, 4739368; 431394, 4739558; 431288, 4739629; 431260, 4739822; 430969, 4740011; 430923, 4739787; 431004, 4739521; 430989, 4739204; 430783, 4738837; 430092, 4738449; 429385, 4738399; 428979, 4737607; 429018, 4737316; 429337, 4736869; 429341, 4736595; 429018, 4736229; 428873, 4736233; 429009, 4736221; 428819, 4735971; 428562, 4735434; 428389, 4735428; 428559, 4735431; 428312, 4735230; 428030, 4735131; 427433, 4735121; 427115, 4735183; 426843, 4735394; 426282, 4735327; 425900, 4735541; 425818, 4735979; 425668, 4736127; 425295, 4735824; 425165, 4735631; 424760, 4735556; 424642, 4734834; 424787, 4734600; 424792, 4733751; 424726, 4733595; 424357, 4733272; 424263, 4733270; 423945, 4733648; 423865, 4733833; 423676, 4733879; 423506, 4734047; 423327, 4734004; 423256, 4733815; 423301, 4733144; 423222, 4732834; 422898, 4732761; 422755, 4732339; 422265, 4732038; 422291, 4731950; 422468, 4731838; 422491, 4731704; 422371, 4731559; 422139, 4731555; 422089, 4731327; 422148, 4731165; 422005, 4731120; 422161, 4730829; 422148, 4730692; 421891, 4730600; 421673, 4730828; 421657, 4730377; 421450, 4730336; 421261, 4730414; 421007, 4730675; 420824, 4730701; 420724, 4730857; 420651, 4730830; 420595, 4730730; 420637, 4730547; 420304, 4729690; 420305, 4729495; 420062, 4729153; 420055, 4728677; 419870, 4728472; 419149, 4728043; 417366, 4726510; 417311, 4726440; 417304, 4725993; 416785, 4725979; 416795, 4726390; 417178, 4726384; 417178, 4726786; 417565, 4726781; 417576, 4727600; 418375, 4727588; 418409, 4728777; 417602, 4728793; 417588, 4728002; 416785, 4728006; 416788, 4727610; 415978, 4727623; 415978, 4725991; 416294, 4725986; 416163, 4725873; 416159, 4725739; 416351, 4725507; 416781, 4725257; 416799, 4725147; 416598, 4724852; 416615, 4724566; 416551, 4724502; 416212, 4724439; 416090, 4724122; 415977, 4724074; 415861, 4723870; 415644, 4723958; 415513, 4723861; 415421, 4723968; 415235, 4723987; 414932, 4723613; 415027, 4723485; 414953, 4723336; 414735, 4723151; 414354, 4723136; 413940, 4723549; 413845, 4723835; 413783, 4724318; 413842, 4724699; 414057, 4724964; 414464, 4725843; 414714, 4726070; 414855, 4726296; 415026, 4726807; 415066, 4727449; 414887, 4727658; 414614, 4728213; 414258, 4728737; 414146, 4728751; 413994, 4728485; 413895, 4728473; 413754, 4728567; 413421, 4728585; 413348, 4728708; 413251, 4729111; 413336, 4729278; 413615, 4729327; 413975, 4729611; 414151, 4729652; 414031, 4729900; 413991, 4730181; 413616, 4730756; 413550, 4730757; 413507, 4730647; 413453, 4730262; 413338, 4730253; 413132, 4730113; 412888, 4730459; 412823, 4730414; 412415, 4730793; 412228, 4731513; 412382, 4731682; 412311, 4731947; 412057, 4731884; 411764, 4732143; 411597, 4732032; 411485, 4732042; 411354, 4732188; 411213, 4732206; 411143, 4732193; 411084, 4732033; 410991, 4731988; 410860, 4732027; 410302, 4732305; 410196, 4732432; 409003, 4732871; 408781, 4733025; 408763, 4733069; 409077, 4733184; 409097, 4733290; 409329, 4733368; 409262, 4733630; 409589, 4734014; 409826, 4734479; 410019, 4734464; 410135, 4734238; 410291, 4734274; 410492, 4734377; 410595, 4734688; 410791, 4734373; 411438, 4734272; 411496, 4734371; 411734, 4734505; 411854, 4735096; 412166, 4735098; 412827, 4735242; 413060, 4735073; 413238, 4735033; 414127, 4735345; 414259, 4734897; 414377, 4734758; 415216, 4734327; 416141, 4734112; 416435, 4734165; 416479, 4734382; 416676, 4734274; 416925, 4734284; 417196, 4733987; 417488, 4733871; 417507, 4733946; 417656, 4733900; 417763, 4733961; 417784, 4734154; 418390, 4734297; 418476, 4734233; 418621, 4734363; 418715, 4734588; 418451, 4734947; 418402, 4735222; 418451, 4735497; 418689, 4735839; 419079, 4736016; 419078, 4735890; 419477, 4735886; 419479, 4735979; 419609, 4735919; 419823, 4735739; 419966, 4735485; 419438, 4735483; 419468, 4733891; 421119, 4733896; 421116, 4734690; 420289, 4734693; 420294, 4735654; 420425, 4735634; 420408, 4735840; 420502, 4735851; 420569, 4735757; 420620, 4735794; 420630, 4736155; 420754, 4736141; 420831, 4736272; 420911, 4736183; 420909, 4736003; 420916, 4736090; 421118, 4736300; 421087, 4736337; 421219, 4736429; 421164, 4736505; 421573, 4736874; 421587, 4736980; 421712, 4737066; 421732, 4737191; 421872, 4737364; 421855, 4737520; 421957, 4737762; 421921, 4737850; 422718, 4737841; 422740, 4738631; 423129, 4738642; 423132, 4739036; 422751, 4739032; 422739, 4740235; 423546, 4740246; 423546, 4741053; 424341, 4741052; 424351, 4740261; 424223, 4740188; 424296, 4740075; 424186, 4739671; 424239, 4739427; 424566, 4739453; 424519, 4739490; 424580, 4739787; 424691, 4739858; 424890, 4739750; 424802, 4739594; 424810, 4739405; 425338, 4739589; 425532, 4739518; 425555, 4739449; 425412, 4739432; 425809, 4739497; 425809, 4739007; 426204, 4738988; 426204, 4738587; 427015, 4738548; 427011, 4739352; 426601, 4739370; 426602, 4739685; 426715, 4739730; 426654, 4739837; 426676, 4740043; 426797, 4740160; 427007, 4740152; 427055, 4740383; 427313, 4740457; 427338, 4740182; 426998, 4739815; 427578, 4740131; 428727, 4740125; 428728, 4740519; 428542, 4740520; 428542, 4740925; 428632, 4740926; 428633, 4741327; 428919, 4741328; 428921, 4741678; 429736, 4741655; and excluding land bound by 428920, 4740520; 428920, 4740123; 429312, 4740122; 429313, 4740518; 428920, 4740520; and excluding land bound by 428187, 4739348; 428209, 4738544; 428997, 4738563; 428941, 4739725; 428176, 4739728; 428187, 4739348; and excluding land bound by 425420, 4737028; 424620, 4737037; 424611, 4736629; 424272, 4736638; 424267, 4736223; 425011, 4736223; 425018, 4736631; 425417, 4736626; 425420, 4737028; 425820, 4737025; 425807, 4738607; 425615, 4738615; 425616, 4738221; 425414, 4738226; 425420, 4737028; and excluding land bound by 423460, 4735847; 423474, 4736651; 422290, 4736673; 422281, 4736274; 422671, 4736271; 422656, 4735873; 423460, 4735847; and excluding land bound by 422301, 4733900; 422291, 4733518; 422682, 4733517; 422690, 4733899; 422301, 4733900; and excluding land bound by 419054, 4733152; 419064, 4733910; 418261, 4733945; 418250, 4733165; 419054, 4733152; and excluding land bound by 417268, 4732416; 417235, 4731627; 418047, 4731608; 418067, 4732410; 417268, 4732416.

(S) Land bounded by the following UTM Zone 10, NAD83 coordinates (E, N): 385687, 4729433; 386283, 4729418; 386297, 4730237; 386002, 4730248; 385993, 4729827; 385695, 4729841; 385687, 4729433; 384918, 4729468; 384932, 4730276; 385703, 4730251; 385720, 4731080; 384078, 4731095; 384085, 4731487; 384544, 4731475; 384544, 4732262; 385289, 4732246; 385281, 4732111; 385416, 4731808; 385708, 4731729; 385914, 4731846; 386002, 4731502; 385797, 4731286; 386296, 4731139; 386706, 4730784; 386720, 4730516; 386877, 4730333; 387018, 4729995; 387285, 4730011; 387291, 4730209; 388824, 4730179; 388854, 4730309; 388950, 4730333; 389298, 4729963; 389336, 4729788; 389536, 4729853; 389678, 4729758; 389754, 4729499; 390031, 4729171; 390496, 4729028; 390608, 4729208; 390794, 4729238; 390926, 4729403; 391115, 4729056; 391358, 4728838; 391819, 4728928; 391901, 4729265; 392137, 4729433; 392298, 4729447; 392510, 4729765; 393007, 4729735; 393019, 4730043; 393205, 4730046; 393457, 4729765; 393611, 4729680; 393809, 4729861; 393979, 4730168; 394111, 4730195; 394135, 4730005; 394239, 4729944; 394521, 4730298; 394797, 4730117; 395034, 4729818; 395314, 4730002; 395457, 4730340; 395715, 4730338; 395755, 4730427; 395711, 4730521; 395837, 4730551; 395913, 4730749; 395822, 4731129; 396119, 4731437; 396138, 4731677; 396210, 4731768; 396072, 4731931; 396317, 4732127; 396200, 4732306; 396338, 4732444; 396194, 4732521; 396201, 4732773; 395963, 4732857; 395787, 4733114; 395366, 4733479; 395271, 4733709; 395789, 4734178; 395823, 4734479; 395765, 4734850; 395549, 4735218; 395198, 4735383; 394859, 4735363; 394749, 4735297; 394531, 4735416; 394301, 4735264; 394184, 4735137; 394200, 4735030; 393991, 4734881; 393902, 4735019; 393791, 4734941; 393698, 4735000; 393523, 4734935; 393549, 4735023; 393711, 4735122; 393727, 4735381; 393499, 4735603; 393425, 4735979; 393258, 4736002; 393203, 4736163; 393045, 4736236; 393091, 4736522; 392877, 4736446; 392931, 4736841; 392876, 4737079; 392646, 4737165; 392593, 4737242; 392107, 4736910; 391066, 4736445; 390976, 4736595; 390624, 4736619; 390205, 4736740; 389898, 4737187; 389905, 4737739; 392654, 4737692; 392648, 4737297; 393467, 4737285; 393477, 4737682; 393878, 4737676; 393920, 4739615; 395282, 4739592; 395288, 4740006; 395692, 4739997; 395700, 4740407; 393938, 4740434; 393963, 4741610; 395318, 4741597; 395613, 4741929; 396417, 4741684; 396913, 4741700; 397139, 4741622; 397408, 4741775; 397387, 4742013; 397528, 4742211; 397524, 4742368; 398776, 4742353; 398825, 4740765; 397303, 4740787; 397265, 4739182; 395660, 4739193; 395622, 4737588; 398833, 4737520; 398861, 4738073; 401920, 4738036; 401916, 4737235; 403608, 4737345; 403638, 4738151; 408124, 4738134; 408544, 4736154; 408380, 4736025; 408309, 4735845; 407914, 4736156; 407549, 4735708; 407124, 4735340; 406394, 4735149; 406114, 4734862; 405950, 4734787; 405846, 4734634; 405556, 4734555; 405374, 4734379; 405278, 4733657; 404636, 4733534; 404582, 4733194; 404197, 4732798; 404129, 4732350; 404167, 4731612; 404019, 4731054; 404099, 4730784; 404069, 4730432; 403657, 4730192; 403570, 4729705; 403373, 4729265; 402823, 4728866; 402638, 4728574; 401848, 4728260; 401516, 4728039; 400970, 4728531; 400568, 4728409; 400351, 4728441; 399927, 4728752; 399534, 4729146; 399291, 4729148; 399324, 4729358; 398827, 4729856; 398645, 4730161; 398395, 4730356; 398230, 4730333; 398108, 4730238; 397190, 4730371; 396786, 4730292; 396615, 4730242; 396522, 4730119; 396441, 4729752; 396262, 4729515; 395684, 4729383; 395492, 4729169; 394420, 4729079; 393894, 4728973; 393765, 4728521; 393626, 4728420; 393123, 4728298; 392639, 4727792; 392524, 4727547; 392373, 4726589; 392283, 4726421; 392045, 4726214; 391918, 4726216; 391916, 4726060; 391821, 4726028; 391343, 4726431; 391095, 4726905; 390718, 4727039; 390439, 4727322; 390071, 4727473; 390014, 4727567; 390087, 4727740; 389872, 4728016; 389763, 4728098; 389551, 4728126; 389560, 4728570; 388780, 4728576; 388775, 4728384; 388435, 4728343; 388069, 4728585; 387271, 4728599; 387205, 4728747; 387045, 4728799; 386985, 4728905; 386989, 4729012; 387180, 4729091; 387200, 4729188; 387089, 4729262; 386877, 4729089; 386570, 4729227; 386482, 4729364; 386469, 4728635; 385872, 4728653; 385879, 4729041; 385684, 4729047; 385687, 4729433; and excluding land bound by 401024, 4730376; 401492, 4729762; 401676, 4729941; 401749, 4730266; 401904, 4730571; 402182, 4730780; 402900, 4731039; 403159, 4731217; 403258, 4732067; 402970, 4732084; 401545, 4731365; 401273, 4731118; 401099, 4730757; 400902, 4730540; 401024, 4730376; and excluding land bound by 401184, 4728681; 401480, 4728695; 401481, 4728892; 401184, 4728681.

(iii) Note: Map of Oregon Klamath Mountains Unit follows:

BILLING CODE 4310-55-S

BILLING CODE 4310-55-C

(23) Klamath Intra-Province Unit (Unit 16). Jackson and Josephine Counties, Oregon. Siskiyou County, California.

(i) The Klamath Intra-Province Unit is a total of 96, 600 ac (39, 100 ha), including 90, 500 ac (36, 600 ha) in Josephine and Jackson Counties, Oregon, and 6, 100 ac (2, 500 ha) in the northern portion of Siskiyou County, California. It is comprised of lands managed by the Rogue-Siskiyou and Klamath National Forests (58, 000 ac (23, 500 ha)) and Medford BLM District (38, 600 ac (15, 600 ha)).

(ii) From USGS 1:24, 000 scale quadrangles Ashland, Buckhorn Bally, Condrey Mountain, Cottonwood Peak, Dutchman Peak, Kerby Peak, Mount Ashland, Murphy, Murphy Mountain, Oregon Caves, Selma, Siskiyou Peak, Talent, and Williams.

(A) Land bounded by the following UTM Zone 10, NAD83 coordinates (E, N): 521215, 4649295; 521205, 4649209; 521235, 4649346; 521567, 4649567; 521722, 4649579; 521894, 4649496; 521967, 4649382; 522107, 4649365; 522023, 4649170; 522051, 4649073; 521947, 4648961; 521784, 4648933; 521276, 4649020; 521219, 4648976; 521231, 4648671; 521327, 4648407; 521222, 4648267; 521180, 4647890; 521222, 4647731; 521044, 4647134; 521527, 4647080; 521831, 4647150; 521974, 4647303; 522235, 4647101; 522448, 4647117; 522449, 4646872; 520882, 4646819; 520879, 4646627; 520675, 4646627; 520671, 4646816; 520558, 4646815; 520682, 4646860; 520675, 4646943; 520543, 4646871; 520301, 4647142; 519989, 4647092; 519735, 4646733; 519546, 4646820; 519437, 4646708; 519298, 4646805; 517728, 4646836; 517721, 4646035; 517561, 4645980; 517452, 4645757; 517267, 4645950; 516873, 4646166; 516291, 4647872; 516159, 4647988; 516127, 4649997; 513857, 4649993; 513885, 4648431; 512228, 4648433; 512248, 4649999; 510636, 4650003; 510575, 4648404; 508984, 4648390; 508962, 4650001; 508979, 4650199; 521763, 4650259; 521694, 4650103; 521597, 4650093; 521473, 4650179; 521408, 4650148; 521237, 4649792; 521215, 4649295; and excluding land bound by 518511, 4649198; 519307, 4649180; 519310, 4649579; 518507, 4649605; 518511, 4649198; and excluding land bound by 521244, 4649120; 521222, 4648981; 521256, 4649099; 521206, 4649205; 521244, 4649120; and excluding land bound by 520095, 4648772; 520088, 4648369; 520884, 4648361; 520887, 4648767; 520095, 4648772.

(B) Land bounded by the following UTM Zone 10, NAD83 coordinates (E, N): 523554, 4655327; 523582, 4655207; 523554, 4655327; 523851, 4654989; 524152, 4654946; 524236, 4655142; 524399, 4655233; 524397, 4655404; 524552, 4655487; 524670, 4655093; 524432, 4654985; 524557, 4654899; 524645, 4654603; 524141, 4654602; 523953, 4654836; 523853, 4654778; 523656, 4654970; 523588, 4655185; 523654, 4654966; 523860, 4654770; 523890, 4654397; 523061, 4654317; 522989, 4654088; 522794, 4653852; 523197, 4652778; 523199, 4652630; 522394, 4652626; 522391, 4652228; 521981, 4652224; 521977, 4651819; 521598, 4651815; 521596, 4651010; 522697, 4651001; 521875, 4650679; 521644, 4650272; 508979, 4650199; 508976, 4650282; 508562, 4650282; 508632, 4650483; 508969, 4650714; 508983, 4651128; 508861, 4651469; 508951, 4651752; 508829, 4652150; 508835, 4652292; 508938, 4652407; 508764, 4652741; 508674, 4653532; 508385, 4653937; 508371, 4654109; 507987, 4654104; 507781, 4654264; 507569, 4654554; 507775, 4654644; 508315, 4654644; 508520, 4654791; 508758, 4655190; 509054, 4655010; 509182, 4655029; 509266, 4655138; 509497, 4655171; 509581, 4655248; 509632, 4655723; 509690, 4655807; 509793, 4655813; 510024, 4655614; 510127, 4655485; 510092, 4655388; 510898, 4655370; 511007, 4655473; 511194, 4656038; 512016, 4656045; 512018, 4657626; 514407, 4657638; 514400, 4656845; 514791, 4656839; 514808, 4656451; 515056, 4656463; 515062, 4656269; 515217, 4656250; 515223, 4656051; 515993, 4656070; 515998, 4655267; 516798, 4655271; 516801, 4656082; 516245, 4656076; 516129, 4656237; 516078, 4656546; 516438, 4656572; 516232, 4657105; 516264, 4657221; 516328, 4657111; 516618, 4657073; 516720, 4657086; 516796, 4657188; 516799, 4656878; 518327, 4656847; 518382, 4657289; 518561, 4657264; 518863, 4657373; 519444, 4657199; 519629, 4657338; 519982, 4657445; 519987, 4656633; 521293, 4656644; 521293, 4656242; 520884, 4656238; 520880, 4655841; 521708, 4655848; 521691, 4657453; 519987, 4657449; 520212, 4657631; 520228, 4657789; 520670, 4658403; 520647, 4658544; 520409, 4658994; 520409, 4659630; 520274, 4659997; 520114, 4660132; 520127, 4660774; 519150, 4661772; 518758, 4661914; 518636, 4662799; 518816, 4663390; 518790, 4663949; 518045, 4663968; 517621, 4664090; 516821, 4664739; 517209, 4664777; 517227, 4665166; 517621, 4665186; 517620, 4665593; 518435, 4665583; 518452, 4666372; 517637, 4666376; 517620, 4665593; 516821, 4665572; 516835, 4666374; 517217, 4666388; 517240, 4667190; 520795, 4667161; 520925, 4668773; 522161, 4668795; 522127, 4669583; 523298, 4669582; 523260, 4667284; 523076, 4667283; 523076, 4667175; 523261, 4667176; 523243, 4666781; 523656, 4666782; 523701, 4668768; 524904, 4668803; 524909, 4667187; 525717, 4667189; 525726, 4666374; 526553, 4666364; 526556, 4665543; 528159, 4665548; 528164, 4663956; 528491, 4663957; 528511, 4663583; 529750, 4663579; 529761, 4659970; 528132, 4659945; 528130, 4659132; 526517, 4659127; 526554, 4657580; 526369, 4657567; 526306, 4657491; 525835, 4657578; 525567, 4657749; 525096, 4657843; 524923, 4658225; 524731, 4658453; 524653, 4658931; 524305, 4658835; 524446, 4658509; 524499, 4657736; 524572, 4657492; 523306, 4657475; 523313, 4656664; 524127, 4656674; 524139, 4655869; 523320, 4655852; 523554, 4655327; and excluding land bound by 520489, 4655837; 520489, 4656234; 519989, 4656228; 519993, 4655832; 520489, 4655837; and excluding land bound by 528091, 4660761; 528120, 4661550; 527306, 4661548; 527302, 4660752; 528091, 4660761; and excluding land bound by 522567, 4665541; 522464, 4665544; 522452, 4665143; 522045, 4665148; 522046, 4664747; 522453, 4664742; 522467, 4664347; 522855, 4664355; 522845, 4665532; 522567, 4665541; and excluding land bound by 509509, 4654820; 509515, 4654453; 509914, 4654459; 509908, 4654832; 509509, 4654820; and excluding land bound by 511117, 4652044; 510303, 4652047; 510304, 4651634; 511121, 4651626; 511117, 4652044; 511524, 4652043; 511519, 4652446; 511111, 4652448; 511117, 4652044; and excluding land bound by 520605, 4651010; 519997, 4651006; 519992, 4650507; 519571, 4650504; 519567, 4650253; 520794, 4650267; 520808, 4651010; 520605, 4651010.

(C) Land bounded by the following UTM Zone 10, NAD83 coordinates (E, N): 467353, 4668777; 468144, 4668778; 468152, 4667984; 468529, 4667976; 468529, 4665619; 466558, 4665606; 466566, 4667196; 465782, 4667183; 465781, 4666786; 465376, 4666781; 465379, 4667177; 464993, 4667175; 464984, 4665585; 464589, 4665588; 464569, 4663998; 464968, 4663996; 464981, 4665136; 465369, 4665085; 465462, 4665293; 465287, 4665453; 465355, 4665589; 465495, 4665590; 465682, 4665339; 465942, 4665147; 466024, 4664842; 465764, 4664900; 466041, 4664721; 466084, 4664616; 465872, 4664221; 465919, 4663881; 465700, 4663577; 465731, 4663425; 464914, 4663004; 464674, 4662670; 463215, 4662617; 462894, 4662670; 462450, 4663008; 461916, 4663293; 461631, 4663542; 461546, 4663743; 461557, 4665992; 462169, 4665982; 462174, 4666393; 461559, 4666403; 461563, 4667212; 462723, 4667635; 463143, 4668080; 463430, 4668633; 463606, 4668626; 463763, 4668505; 463882, 4668517; 464275, 4668925; 464622, 4669011; 464863, 4669288; 464981, 4669300; 464982, 4668776; 466556, 4668777; 466563, 4669493; 467128, 4669881; 467230, 4669704; 467197, 4669514; 467351, 4669136; 467353, 4668777; and excluding land bound by 463368, 4664781; 463370, 4663982; 464169, 4664000; 464184, 4665589; 463375, 4665586; 463368, 4664781.

(D) Land bounded by the following UTM Zone 10, NAD83 coordinates (E, N): 464913, 4685170; 463304, 4685179; 463300, 4683969; 463702, 4683966; 463700, 4683563; 464905, 4683555; 464913, 4685170; 466124, 4685162; 466128, 4685567; 466531, 4685566; 466544, 4686707; 468133, 4686758; 468120, 4685157; 467337, 4685160; 467330, 4684755; 467733, 4684753; 467720, 4683942; 468113, 4683940; 468120, 4685134; 468930, 4685119; 468930, 4685529; 469330, 4685529; 469328, 4685120; 469726, 4685121; 469714, 4683545; 468134, 4683534; 468130, 4681695; 466521, 4681713; 466507, 4680109; 464907, 4680120; 464907, 4678503; 466506, 4678495; 466507, 4680109; 468115, 4680089; 468130, 4681695; 469730, 4681681; 469717, 4681284; 470118, 4681286; 470109, 4680889; 469704, 4680887; 469696, 4680088; 471305, 4680098; 471321, 4681689; 469730, 4681681; 469732, 4682488; 470133, 4682485; 470141, 4683538; 471317, 4683553; 471321, 4685133; 472601, 4685119; 472591, 4684718; 472196, 4684724; 472185, 4684325; 472978, 4684308; 472967, 4683497; 474607, 4683481; 474613, 4683880; 475427, 4683876; 475404, 4682621; 474594, 4682648; 474582, 4681816; 476183, 4681787; 476185, 4680117; 474561, 4680151; 474562, 4678526; 476179, 4678511; 476176, 4677296; 475775, 4677297; 475774, 4677705; 475373, 4677708; 475374, 4677298; 474973, 4677300; 474974, 4676890; 474573, 4676891; 474579, 4675284; 472951, 4675279; 472942, 4673248; 472537, 4673247; 472537, 4673658; 471281, 4673656; 471311, 4675266; 469694, 4675272; 469683, 4673665; 468159, 4673667; 468153, 4671960; 466586, 4671962; 466589, 4672765; 465789, 4672768; 465788, 4671960; 466586, 4671962; 466577, 4670763; 464985, 4670771; 464990, 4671967; 464195, 4671966; 464191, 4671571; 463391, 4671574; 463379, 4671980; 462546, 4671984; 462612, 4671883; 462716, 4671931; 462916, 4671789; 463087, 4671811; 463214, 4671755; 463378, 4671833; 463377, 4671629; 462727, 4671704; 462329, 4671978; 461563, 4671989; 461563, 4670307; 460379, 4670288; 460380, 4670690; 460784, 4670687; 460789, 4671891; 460384, 4671895; 460383, 4671493; 459978, 4671497; 459977, 4673606; 461649, 4673625; 461657, 4675232; 460033, 4675241; 460036, 4676858; 461670, 4676838; 461680, 4678469; 461638, 4678470; 461680, 4678503; 463303, 4678511; 463291, 4676899; 464491, 4676895; 464501, 4678101; 464102, 4678105; 464106, 4678513; 463303, 4678511; 463295, 4680546; 462892, 4680544; 462894, 4680141; 462489, 4680139; 462490, 4679729; 462087, 4679724; 462086, 4680140; 461672, 4680142; 461656, 4681742; 460058, 4681744; 460064, 4683362; 458448, 4683370; 458451, 4684188; 459261, 4684185; 459265, 4684594; 458453, 4684595; 458455, 4685002; 460083, 4685003; 460093, 4686634; 462105, 4686643; 462101, 4686191; 461808, 4686205; 461810, 4686024; 462100, 4686011; 462099, 4685188; 462902, 4685182; 462902, 4685587; 463303, 4685584; 463304, 4686628; 464895, 4686672; 464888, 4688310; 465710, 4688319; 465710, 4687512; 466520, 4687534; 466512, 4686707; 464927, 4686672; 464913, 4685170; and excluding land bound by 462108, 4682543; 462500, 4682541; 462513, 4683333; 461701, 4683343; 461702, 4682546; 462108, 4682543; and excluding land bound by 464104, 4679316; 464505, 4679314; 464505, 4679719; 464104, 4679724; 464104, 4679316; and excluding land bound by 473402, 4676994; 473401, 4676839; 473858, 4676838; 473860, 4677203; 473403, 4677205; 473405, 4677909; 472948, 4677911; 472945, 4676996; 473402, 4676994; and excluding land bound by 464883, 4675281; 463277, 4675284; 463268, 4673672; 464874, 4673669; 464883, 4675281; 466497, 4675283; 466501, 4676890; 464891, 4676893; 464883, 4675281; and excluding land bound by 472132, 4682569; 472129, 4683526; 471337, 4683553; 471327, 4682567; 472132, 4682569; 472134, 4681767; 472936, 4681765; 472932, 4682570; 472132, 4682569.

(E) Land bounded by the following UTM Zone 10, NAD83 coordinates (E, N): 470908, 4680494; 470508, 4680492; 470513, 4680891; 470912, 4680893; 470908, 4680494.

(iii) Note: Map of Klamath Intra-Province Unit follows:

BILLING CODE 4310-55-S

BILLING CODE 4310-55-C

(24) Southern Cascades Unit (Unit 17). Jackson and Klamath Counties, Oregon. Siskiyou County, California.

(i) The Southern Cascades Unit is a total of 246, 300 ac (99, 700 ha), including 206, 600 ac (83, 600 ha) in Jackson and Klamath Counties, Oregon, and 39, 700 ac (16, 100 ha) in the northern portion of Siskiyou County, California. It is comprised of lands managed by Rogue-Siskiyou, Winema, and Klamath National Forests (191, 600 ac (77, 500 ha)) and Medford and Lakeview BLM Districts (54, 700 ac (22, 100 ha)).

(ii) From USGS 1:24, 000 scale quadrangles Brown Mountain, Copco, Crystal Spring, Dewey Gulch, Emigrant Lake, Hyatt Reservoir, Imnaha Creek, Lake of the Woods North, Lake of the Woods South, Little Chinquapin Mountain, MacDoel, Mount Ashland, Mount McLoughlin, Panther Rock, Parker Mountain, Pelican Bay, Pelican Butte, Prospect North, Prospect South, Red Blanket Mountain, Robinson Butte, Rustler Peak, Secret Spring Mountain, Siskiyou Pass, Soda Mountain, and Willow Lake.

(A) Land bounded by the following UTM Zone 10, NAD83 coordinates (E, N): 569294, 4624472; 569312, 4623674; 568483, 4623659; 568478, 4624472; 569294, 4624472.

(B) Land bounded by the following UTM Zone 10, NAD83 coordinates (E, N): 561078, 4627200; 561083, 4626393; 561978, 4626419; 561991, 4625250; 562833, 4625219; 562832, 4622792; 562015, 4622778; 561999, 4623594; 561190, 4623579; 561168, 4624398; 559595, 4624472; 559675, 4626356; 559503, 4626356; 559453, 4629193; 561076, 4629217; 561078, 4627200; and excluding land bound by 562530, 4623186; 562523, 4623000; 562656, 4623000; 562658, 4623180; 562530, 4623186.

(C) Land bounded by the following UTM Zone 10, NAD83 coordinates (E, N): 557792, 4632804; 556200, 4632790; 556185, 4634393; 557765, 4634418; 557792, 4632804.

(D) Land bounded by the following UTM Zone 10, NAD83 coordinates (E, N): 559393, 4634446; 557765, 4634418; 557735, 4636096; 559361, 4636123; 559393, 4634446.

(E) Land bounded by the following UTM Zone 10, NAD83 coordinates (E, N): 557735, 4636096; 556106, 4636083; 556080, 4637694; 557703, 4637712; 557735, 4636096.

(F) Land bounded by the following UTM Zone 10, NAD83 coordinates (E, N): 559352, 4637760; 557703, 4637712; 557677, 4639356; 559299, 4639375; 559352, 4637760.

(G) Land bounded by the following UTM Zone 10, NAD83 coordinates (E, N): 569294, 4624472; 569290, 4625559; 570626, 4625552; 570581, 4627166; 571370, 4627181; 571370, 4627991; 570574, 4627989; 570581, 4627166; 568959, 4627168; 569003, 4625557; 566833, 4625499; 566830, 4625274; 566005, 4625255; 566002, 4625482; 565737, 4625480; 565732, 4626251; 563684, 4626257; 563690, 4626665; 562858, 4626649; 562862, 4627063; 562711, 4627063; 562706, 4629677; 560665, 4629612; 560653, 4630826; 559447, 4630810; 559438, 4631604; 557823, 4631583; 557792, 4632804; 559415, 4632818; 559393, 4634446; 561028, 4634475; 560992, 4636144; 559361, 4636123; 559352, 4637760; 559759, 4637770; 559708, 4639379; 559299, 4639375; 559310, 4641012; 560890, 4641050; 560898, 4640228; 561724, 4640236; 561740, 4639407; 562559, 4639413; 562566, 4636813; 563915, 4636808; 563959, 4635179; 565585, 4635205; 565579, 4636018; 567212, 4636049; 567215, 4635224; 568033, 4635229; 568059, 4634439; 568860, 4634474; 568885, 4633636; 572050, 4633663; 572051, 4633265; 572461, 4633277; 572473, 4632873; 572877, 4632880; 572890, 4632478; 573302, 4632483; 573311, 4632087; 573724, 4632097; 573770, 4627227; 575360, 4627250; 575361, 4626101; 574709, 4625618; 573756, 4625603; 573750, 4626409; 572950, 4626399; 572986, 4625198; 572586, 4625192; 572581, 4625580; 571052, 4625555; 570981, 4624510; 569294, 4624472; and excluding land bound by 572145, 4627192; 572149, 4627594; 571753, 4627589; 571757, 4627187; 572145, 4627192; and excluding land bound by 570528, 4631236; 570518, 4632057; 569711, 4632051; 569698, 4632848; 568881, 4632843; 568913, 4630415; 569718, 4630421; 569733, 4629618; 570554, 4629615; 570528, 4631236; and excluding land bound by 561065, 4631239; 561045, 4632045; 560223, 4632032; 560234, 4631214; 561065, 4631239; and excluding land bound by 564079, 4632768; 564057, 4633582; 563207, 4633560; 563239, 4632751; 564079, 4632768; and excluding land bound by 560930, 4638596; 560907, 4639395; 560504, 4639389; 560543, 4637789; 560949, 4637799; 560930, 4638596; and excluding land bound by 565315, 4627864; 565319, 4627073; 565724, 4627079; 565716, 4627862; 565315, 4627864.

(H) Land bounded by the following UTM Zone 10, NAD83 coordinates (E, N): 560890, 4641050; 561012, 4642663; 562523, 4642696; 562509, 4644274; 561038, 4644250; 561078, 4645832; 562504, 4645909; 562506, 4645300; 563164, 4645239; 563172, 4645632; 563966, 4645545; 563965, 4644771; 565563, 4644766; 565458, 4643379; 563841, 4643380; 563864, 4640896; 562541, 4640839; 562534, 4641063; 560890, 4641050.

(I) Land bounded by the following UTM Zone 10, NAD83 coordinates (E, N): 530619, 4651881; 529807, 4651896; 529805, 4652299; 530621, 4652283; 530619, 4651881.

(J) Land bounded by the following UTM Zone 10, NAD83 coordinates (E, N): 531378, 4654308; 530598, 4654316; 530593, 4654720; 531376, 4654710; 531378, 4654308.

(K) Land bounded by the following UTM Zone 10, NAD83 coordinates (E, N): 533019, 4652656; 532617, 4652657; 532535, 4652380; 532160, 4651904; 532019, 4651820; 531918, 4651459; 532224, 4651455; 532227, 4651047; 533027, 4651063; 533023, 4650508; 531297, 4650425; 531290, 4650708; 529812, 4650698; 529809, 4651493; 530618, 4651479; 530619, 4651881; 531017, 4651873; 531008, 4653470; 531404, 4653457; 531378, 4654308; 532168, 4654313; 532165, 4655120; 532955, 4655129; 533019, 4652656.

(L) Land bounded by the following UTM Zone 10, NAD83 coordinates (E, N): 531348, 4658308; 531345, 4657912; 530555, 4657951; 530560, 4657553; 529779, 4657578; 529778, 4658390; 531348, 4658308.

(M) Land bounded by the following UTM Zone 10, NAD83 coordinates (E, N): 537295, 4658007; 537299, 4658401; 538155, 4658403; 538159, 4658010; 537295, 4658007.

(N) Land bounded by the following UTM Zone 10, NAD83 coordinates (E, N): 537295, 4658007; 537291, 4657613; 536100, 4657606; 536090, 4658791; 536915, 4658808; 536905, 4658402; 536500, 4658402; 536496, 4658006; 537295, 4658007.

(O) Land bounded by the following UTM Zone 10, NAD83 coordinates (E, N): 531691, 4658702; 531341, 4658694; 531334, 4659080; 531698, 4658867; 531691, 4658702.

(P) Land bounded by the following UTM Zone 10, NAD83 coordinates (E, N): 540654, 4660007; 540658, 4659604; 540246, 4659609; 540234, 4660012; 540654, 4660007.

(Q) Land bounded by the following UTM Zone 10, NAD83 coordinates (E, N): 552228, 4659191; 550615, 4659167; 550595, 4660793; 551002, 4660795; 551012, 4659989; 552219, 4660002; 552228, 4659191.

(R) Land bounded by the following UTM Zone 10, NAD83 coordinates (E, N): 541057, 4660810; 540633, 4660808; 540644, 4660407; 539459, 4660420; 539450, 4659218; 539026, 4659218; 539030, 4659619; 537350, 4659615; 537360, 4660013; 538610, 4660020; 538614, 4660418; 539037, 4660419; 539039, 4660818; 539459, 4660819; 539447, 4662420; 541055, 4662416; 541060, 4661612; 540644, 4661611; 540639, 4661210; 541059, 4661211; 541057, 4660810.

(S) Land bounded by the following UTM Zone 10, NAD83 coordinates (E, N): 549168, 4660848; 549184, 4659156; 550615, 4659167; 550626, 4657523; 551443, 4657529; 551437, 4658353; 552245, 4658367; 552228, 4659191; 554253, 4659189; 554262, 4658378; 554668, 4658384; 554678, 4657164; 554273, 4657159; 554274, 4656753; 554681, 4656757; 554686, 4655944; 553878, 4655935; 553888, 4655128; 553089, 4655119; 553099, 4654715; 553498, 4654718; 553507, 4654313; 553510, 4653918; 553112, 4653913; 553115, 4653505; 554318, 4653514; 554309, 4654320; 554714, 4654323; 554724, 4653516; 555533, 4653519; 555539, 4653112; 553917, 4653101; 553922, 4652690; 554328, 4652694; 554338, 4651878; 553120, 4651872; 553121, 4651060; 552312, 4651055; 552309, 4652276; 551496, 4652266; 551506, 4651052; 552312, 4651055; 552312, 4651010; 551501, 4651023; 549858, 4650921; 549856, 4651041; 549054, 4651030; 549048, 4650898; 540033, 4650782; 540104, 4650777; 534602, 4650585; 534606, 4651053; 533027, 4651063; 533019, 4652656; 533794, 4652653; 533765, 4653474; 534534, 4653460; 534514, 4654267; 536071, 4654216; 536083, 4655065; 537275, 4655159; 537276, 4655627; 536881, 4655580; 536884, 4656033; 537277, 4656095; 537284, 4656854; 538139, 4656878; 538163, 4657617; 539451, 4657641; 539450, 4659218; 541066, 4659196; 541057, 4660810; 541472, 4660807; 541474, 4660407; 541882, 4660408; 541887, 4660805; 542809, 4660743; 542823, 4660648; 542940, 4660600; 543042, 4660746; 543121, 4660747; 543089, 4661990; 542678, 4662003; 542662, 4662418; 543902, 4662424; 543916, 4661569; 544733, 4661562; 544724, 4662418; 546763, 4662428; 546758, 4662031; 547563, 4662039; 547551, 4660829; 546745, 4660815; 546754, 4661635; 545141, 4661561; 545147, 4660754; 545940, 4660755; 545950, 4659203; 547551, 4659220; 547549, 4660026; 547963, 4660027; 547959, 4660431; 548369, 4660435; 548361, 4660841; 549168, 4660848; and excluding land bound by 542727, 4659127; 542729, 4659215; 541126, 4659196; 541146, 4658285; 541520, 4658292; 541533, 4657479; 542737, 4657495; 542727, 4659127; and excluding land bound by 544354, 4657498; 543547, 4657486; 543559, 4655872; 544368, 4655879; 544383, 4654260; 544784, 4654259; 544777, 4655071; 545178, 4655073; 545170, 4655887; 544368, 4655879; 544354, 4657498; 545965, 4657507; 545951, 4659148; 544334, 4659132; 544354, 4657498; and excluding land bound by 547178, 4657104; 547583, 4657104; 547579, 4657612; 546367, 4657611; 546369, 4657106; 547178, 4657104; and excluding land bound by 549214, 4655903; 547591, 4655893; 547588, 4656297; 546372, 4656300; 546374, 4655897; 547591, 4655893; 547595, 4654248; 549228, 4654286; 549214, 4655903; 549435, 4655900; 549437, 4655497; 549843, 4655494; 549829, 4656713; 550234, 4656713; 550246, 4655890; 550651, 4655885; 550632, 4657118; 550227, 4657120; 550221, 4657527; 549198, 4657524; 549214, 4655903; and excluding land bound by 539279, 4654224; 539470, 4655296; 539442, 4656067; 537670, 4656156; 537674, 4654229; 539279, 4654224; and excluding land bound by 540325, 4656239; 540329, 4655824; 541139, 4655831; 541145, 4657071; 540731, 4657064; 540730, 4657466; 539452, 4657456; 539455, 4657049; 539921, 4657053; 539924, 4656649; 540321, 4656655; 540325, 4656239; and excluding land bound by 542722, 4660341; 542721, 4660424; 542302, 4660423; 542300, 4660016; 542725, 4660021; 542722, 4660341; and excluding land bound by 546558, 4661931; 546386, 4661990; 546357, 4661862; 546558, 4661864; 546558, 4661931; and excluding land bound by 550262, 4653477; 550269, 4652655; 550678, 4652661; 550670, 4653486; 550262, 4653477; and excluding land bound by 549858, 4651843; 549857, 4651442; 550272, 4651446; 550273, 4651043; 550689, 4651045; 550681, 4652257; 550270, 4652252; 550271, 4651848; 549858, 4651843.

(T) Land bounded by the following UTM Zone 10, NAD83 coordinates (E, N): 536999, 4662438; 536993, 4662019; 538204, 4662022; 538198, 4660818; 537778, 4660820; 537774, 4660420; 537369, 4660414; 537378, 4660814; 536177, 4660800; 536198, 4662372; 536999, 4662438.

(U) Land bounded by the following UTM Zone 10, NAD83 coordinates (E, N): 548357, 4662863; 549161, 4662876; 549158, 4662471; 548361, 4662455; 548357, 4662863.

(V) Land bounded by the following UTM Zone 10, NAD83 coordinates (E, N): 552211, 4660832; 552210, 4661218; 551807, 4661209; 551810, 4660815; 552211, 4660832; 552215, 4660417; 551415, 4660395; 551400, 4661605; 550592, 4661607; 550595, 4660793; 549168, 4660848; 549164, 4661662; 549372, 4661654; 549376, 4661247; 550187, 4661216; 550184, 4661622; 549776, 4661638; 549772, 4662043; 549368, 4662059; 549363, 4662463; 550585, 4662421; 550588, 4662014; 551396, 4662012; 551391, 4662419; 550988, 4662420; 550982, 4662827; 550579, 4662828; 550572, 4663234; 551785, 4663231; 551778, 4663643; 552183, 4663635; 552194, 4662824; 552600, 4662832; 552604, 4662424; 553010, 4662432; 553024, 4660822; 552211, 4660832.

(W) Land bounded by the following UTM Zone 10, NAD83 coordinates (E, N): 548357, 4662863; 547957, 4662858; 547950, 4663266; 547548, 4663261; 547531, 4664084; 549175, 4664100; 549164, 4663280; 548352, 4663271; 548357, 4662863.

(X) Land bounded by the following UTM Zone 10, NAD83 coordinates (E, N): 551778, 4663643; 551374, 4663650; 551367, 4664113; 551770, 4664115; 551778, 4663643.

(Y) Land bounded by the following UTM Zone 10, NAD83 coordinates (E, N): 541900, 4664446; 541858, 4663631; 541456, 4663628; 541457, 4664038; 541135, 4664036; 541390, 4664236; 541618, 4664254; 541637, 4664343; 541563, 4664446; 541900, 4664446.

(Z) Land bounded by the following UTM Zone 10, NAD83 coordinates (E, N): 547531, 4664084; 547120, 4664078; 547122, 4664484; 547532, 4664491; 547531, 4664084.

(AA) Land bounded by the following UTM Zone 10, NAD83 coordinates (E, N): 549663, 4664102; 549583, 4664102; 549585, 4664505; 549991, 4664507; 549991, 4664104; 549663, 4664102.

(BB) Land bounded by the following UTM Zone 10, NAD83 coordinates (E, N): 552996, 4664117; 552839, 4664116; 552835, 4664521; 553238, 4664523; 553242, 4664120; 552996, 4664117.

(CC) Land bounded by the following UTM Zone 10, NAD83 coordinates (E, N): 554035, 4665736; 554038, 4665334; 553634, 4665332; 553631, 4665736; 554035, 4665736.

(DD) Land bounded by the following UTM Zone 10, NAD83 coordinates (E, N): 550802, 4665318; 550807, 4664108; 550399, 4664106; 550397, 4665316; 549992, 4665313; 549992, 4665716; 550801, 4665720; 550791, 4666119; 551198, 4666122; 551207, 4665321; 550802, 4665318.

(EE) Land bounded by the following UTM Zone 10, NAD83 coordinates (E, N): 551596, 4666920; 551600, 4666521; 551198, 4666520; 551194, 4666920; 551596, 4666920.

(FF) Land bounded by the following UTM Zone 10, NAD83 coordinates (E, N): 552397, 4667318; 552398, 4666921; 551596, 4666920; 551592, 4667319; 552397, 4667318.

(GG) Land bounded by the following UTM Zone 10, NAD83 coordinates (E, N): 554035, 4665736; 554018, 4667355; 555230, 4667360; 555231, 4666956; 554828, 4666954; 554835, 4665742; 554035, 4665736.

(HH) Land bounded by the following UTM Zone 10, NAD83 coordinates (E, N): 542281, 4667723; 542282, 4667680; 542684, 4667686; 542690, 4667289; 541886, 4667274; 541872, 4668079; 542275, 4668085; 542281, 4667723.

(II) Land bounded by the following UTM Zone 10, NAD83 coordinates (E, N): 549152, 4667327; 549138, 4668946; 550755, 4668948; 550771, 4667337; 549152, 4667327.

(JJ) Land bounded by the following UTM Zone 10, NAD83 coordinates (E, N): 554018, 4667355; 552397, 4667318; 552390, 4668944; 554005, 4668971; 554008, 4668567; 554410, 4668567; 554414, 4668165; 554011, 4668163; 554018, 4667355.

(KK) bounded by the following UTM Zone 10, NAD83 coordinates (E, N): 555616, 4668971; 557237, 4668970; 557252, 4667351; 555634, 4667361; 555616, 4668971.

(LL) Land bounded by the following UTM Zone 10, NAD83 coordinates (E, N): 544672, 4669726; 544269, 4669722; 544261, 4670531; 544664, 4670535; 544672, 4669726.

(MM) Land bounded by the following UTM Zone 10, NAD83 coordinates (E, N): 549138, 4668946; 547512, 4668937; 547524, 4667321; 549152, 4667327; 549168, 4666115; 547937, 4666108; 547939, 4665703; 547531, 4665699; 547533, 4664896; 546715, 4664885; 546708, 4664071; 544299, 4664053; 544287, 4667298; 545902, 4667311; 545893, 4668930; 545084, 4668921; 545090, 4668110; 544282, 4668100; 543927, 4668482; 543732, 4668907; 544680, 4668916; 544672, 4669726; 545076, 4669729; 545072, 4670134; 545879, 4670142; 545883, 4669737; 547504, 4669750; 547497, 4670563; 549124, 4670565; 549138, 4668946.

(NN) Land bounded by the following UTM Zone 10, NAD83 coordinates (E, N): 552390, 4668944; 550755, 4668948; 550740, 4670567; 552372, 4670575; 552390, 4668944.

(OO) Land bounded by the following UTM Zone 10, NAD83 coordinates (E, N): 555616, 4668971; 554005, 4668971; 553991, 4670592; 555604, 4670596; 555616, 4668971.

(PP) Land bounded by the following UTM Zone 10, NAD83 coordinates (E, N): 544037, 4671921; 543999, 4671813; 543662, 4671794; 543669, 4671927; 544037, 4671921.

(QQ) Land bounded by the following UTM Zone 10, NAD83 coordinates (E, N): 553991, 4670592; 552372, 4670575; 552362, 4672187; 553977, 4672205; 553991, 4670592.

(RR) Land bounded by the following UTM Zone 10, NAD83 coordinates (E, N): 551544, 4673003; 551548, 4672190; 550727, 4672179; 550740, 4670567; 549124, 4670565; 549113, 4672190; 550373, 4672180; 550321, 4672183; 550315, 4672470; 550178, 4672466; 550175, 4672586; 549900, 4672578; 549910, 4673394; 550721, 4673397; 550724, 4672990; 551544, 4673003.

(SS) Land bounded by the following UTM Zone 10, NAD83 coordinates (E, N): 551544, 4673003; 551541, 4673810; 551944, 4673812; 551946, 4673001; 551544, 4673003.

(TT) Land bounded by the following UTM Zone 10, NAD83 coordinates (E, N): 549502, 4673801; 549097, 4673801; 549094, 4674882; 549174, 4674555; 549237, 4674526; 549245, 4674264; 549501, 4674070; 549502, 4673801.

(UU) Land bounded by the following UTM Zone 10, NAD83 coordinates (E, N): 548672, 4675813; 548127, 4675805; 548234, 4676299; 548218, 4676540; 548285, 4676667; 548112, 4677020; 548664, 4677022; 548672, 4675813.

(VV) Land bounded by the following UTM Zone 10, NAD83 coordinates (E, N): 546649, 4678637; 546649, 4678493; 546437, 4678496; 546166, 4678394; 545849, 4678469; 545849, 4678632; 546649, 4678637.

(WW) Land bounded by the following UTM Zone 10, NAD83 coordinates (E, N): 547454, 4678247; 547052, 4678242; 547056, 4678641; 547453, 4678645; 547454, 4678247.

(XX) Land bounded by the following UTM Zone 10, NAD83 coordinates (E, N): 547989, 4679632; 547855, 4679511; 547754, 4679581; 547906, 4679752; 547989, 4679632.

(YY) Land bounded by the following UTM Zone 10, NAD83 coordinates (E, N): 561284, 4680531; 561567, 4680553; 561550, 4680172; 560554, 4680185; 560550, 4680673; 561129, 4680684; 561284, 4680531.

(ZZ) Land bounded by the following UTM Zone 10, NAD83 coordinates (E, N): 550631, 4682321; 551032, 4682305; 551023, 4681917; 550621, 4681920; 550631, 4682321.

(AAA) Land bounded by the following UTM Zone 10, NAD83 coordinates (E, N): 556345, 4683074; 556329, 4682673; 555934, 4682689; 555937, 4683090; 556345, 4683074.

(BBB) Land bounded by the following UTM Zone 10, NAD83 coordinates (E, N): 542977, 4688285; 542973, 4688680; 543770, 4688673; 543773, 4688285; 542977, 4688285.

(CCC) Land bounded by the following UTM Zone 10, NAD83 coordinates (E, N): 550631, 4682321; 549841, 4682321; 549819, 4681913; 547430, 4681894; 547392, 4683480; 549010, 4683499; 549016, 4685110; 547443, 4685085; 547392, 4683480; 545793, 4683466; 545832, 4681862; 545016, 4681860; 545007, 4682244; 544198, 4682237; 544185, 4682925; 544193, 4682258; 543791, 4682253; 543795, 4681851; 543394, 4681846; 543383, 4682652; 542576, 4682645; 542583, 4684256; 543379, 4684249; 543398, 4685065; 543003, 4685068; 542981, 4684660; 542586, 4684663; 542589, 4686275; 543394, 4686275; 543410, 4686664; 542588, 4686683; 542582, 4688275; 542977, 4688285; 542996, 4687476; 543786, 4687476; 543795, 4687068; 544197, 4687078; 544148, 4689887; 542549, 4689886; 542527, 4693339; 543475, 4693129; 544120, 4693180; 544128, 4693110; 545737, 4693117; 545756, 4692721; 546151, 4692712; 546167, 4692317; 546562, 4692327; 546571, 4692715; 546966, 4692731; 546960, 4693521; 546743, 4693532; 546785, 4693549; 547018, 4693565; 547358, 4693489; 547366, 4693139; 548977, 4693135; 548998, 4693664; 549718, 4693426; 550126, 4693111; 550700, 4693114; 550793, 4693344; 551155, 4693352; 551475, 4693125; 551584, 4692973; 551934, 4692861; 552250, 4693193; 553789, 4693183; 553791, 4694010; 553872, 4694099; 554101, 4694164; 553651, 4694976; 553629, 4695459; 553870, 4695721; 553881, 4695893; 553778, 4696045; 553777, 4696254; 553948, 4696408; 554577, 4696418; 554588, 4695611; 555390, 4695603; 555401, 4694814; 558617, 4694833; 558623, 4694167; 567896, 4694136; 567734, 4694035; 567730, 4693866; 567825, 4693723; 568398, 4693341; 568362, 4693373; 568556, 4693362; 568750, 4693203; 568768, 4693155; 568400, 4693150; 568500, 4689101; 568497, 4683497; 567713, 4683497; 567682, 4683369; 567618, 4683362; 567402, 4683496; 567596, 4683497; 565266, 4683499; 565269, 4683236; 563888, 4683701; 563728, 4683932; 563769, 4684265; 563727, 4684680; 563559, 4685187; 563350, 4685374; 563304, 4685587; 563565, 4685848; 563619, 4686106; 563843, 4686353; 563872, 4686592; 563745, 4686748; 563644, 4686754; 563426, 4686626; 563249, 4686725; 563113, 4686403; 562913, 4686172; 562361, 4685766; 561969, 4685374; 561710, 4685291; 561622, 4685005; 561494, 4684956; 561409, 4684804; 560609, 4684376; 560661, 4683860; 560520, 4683695; 560523, 4683497; 560132, 4683500; 560136, 4682169; 560533, 4682160; 560567, 4678559; 560152, 4678558; 560151, 4678960; 559750, 4678957; 559748, 4679748; 559345, 4679744; 559346, 4679400; 559268, 4679754; 559316, 4678521; 558767, 4678551; 558778, 4677063; 555544, 4677055; 555553, 4678647; 553934, 4678685; 553922, 4680271; 554731, 4680265; 554724, 4681870; 553896, 4681889; 553889, 4683494; 552271, 4683526; 552246, 4681901; 551844, 4681904; 551841, 4682299; 551427, 4682321; 551421, 4683117; 550656, 4683130; 550631, 4682321; and excluding land bound by 550242, 4683114; 549038, 4683111; 549038, 4682315; 549421, 4682305; 549436, 4682713; 550233, 4682713; 550242, 4683114; and excluding land bound by 557164, 4681877; 557157, 4680259; 557960, 4680265; 557979, 4681075; 558775, 4681081; 558775, 4681890; 557164, 4681877; 557151, 4682673; 558769, 4682693; 558765, 4683075; 557154, 4683081; 557138, 4683501; 555513, 4683488; 555526, 4681883; 557164, 4681877; and excluding land bound by 550621, 4685130; 549825, 4685123; 549815, 4684735; 550624, 4684735; 550621, 4685130; and excluding land bound by 546607, 4686040; 546608, 4686683; 546990, 4686686; 547006, 4687081; 547388, 4687078; 547410, 4686677; 548614, 4686719; 548595, 4688317; 547378, 4688301; 547375, 4687893; 546585, 4687893; 546592, 4687104; 546203, 4687094; 546194, 4686705; 545811, 4686690; 545808, 4686301; 546203, 4686285; 546223, 4685495; 546611, 4685492; 546607, 4686040; and excluding land bound by 545401, 4686272; 544605, 4686272; 544601, 4685884; 545398, 4685884; 545401, 4686272; and excluding land bound by 545302, 4687448; 545111, 4687454; 545303, 4687181; 545429, 4687347; 545302, 4687448; and excluding land bound by 544167, 4690689; 544957, 4690708; 544963, 4691498; 544574, 4691521; 544562, 4692304; 544141, 4692313; 544128, 4693103; 543339, 4693103; 543339, 4692307; 543753, 4692298; 543759, 4691501; 544161, 4691486; 544167, 4690689; and excluding land bound by 544595, 4684253; 544586, 4683864; 544987, 4683855; 544984, 4683466; 545379, 4683457; 545408, 4684661; 545006, 4684670; 544984, 4684262; 544595, 4684253.

(DDD) Land bounded by the following UTM Zone 10, NAD83 coordinates (E, N): 566120, 4706116; 566187, 4706082; 566201, 4705908; 566107, 4705715; 566198, 4705677; 566089, 4705410; 566087, 4705223; 565992, 4705207; 565946, 4705334; 566002, 4705591; 565870, 4705590; 565728, 4705692; 565652, 4706199; 565940, 4706311; 566120, 4706116.

(EEE) Land bounded by the following UTM Zone 10, NAD83 coordinates (E, N): 573404, 4718676; 573406, 4717311; 573341, 4716446; 573495, 4714995; 573644, 4715078; 573588, 4715045; 573702, 4715203; 573913, 4715244; 574008, 4715444; 574182, 4715382; 574183, 4715240; 573988, 4715159; 574018, 4715101; 574190, 4715136; 574184, 4714971; 574326, 4715173; 574507, 4715188; 574640, 4715109; 574635, 4714943; 574531, 4714943; 574547, 4714132; 575164, 4714138; 575168, 4713833; 575292, 4713836; 575295, 4713612; 575374, 4713444; 575303, 4712922; 574979, 4712918; 574988, 4712152; 574583, 4712151; 574589, 4711757; 574992, 4711752; 575010, 4710955; 575055, 4710956; 574947, 4710717; 575012, 4710309; 574881, 4709727; 574939, 4709342; 574703, 4709342; 574639, 4709504; 574635, 4709128; 574009, 4710214; 573148, 4710521; 572811, 4710213; 572668, 4709874; 572664, 4709758; 572991, 4709702; 573252, 4709302; 573308, 4708634; 573510, 4708284; 573667, 4707154; 574032, 4706854; 574167, 4706484; 574382, 4704176; 574381, 4703445; 574257, 4702875; 573894, 4702875; 573908, 4702442; 573512, 4702432; 573509, 4702030; 573084, 4702026; 573084, 4701679; 572602, 4700868; 572448, 4700772; 572177, 4700849; 571912, 4700824; 571909, 4701186; 572307, 4701195; 572307, 4701598; 571519, 4701574; 571531, 4701174; 571133, 4701173; 571135, 4700776; 571815, 4700780; 570765, 4700621; 570187, 4700651; 569868, 4700535; 569658, 4700847; 569483, 4700764; 569395, 4700788; 568782, 4701340; 568407, 4701757; 568248, 4702056; 567823, 4702473; 567483, 4701999; 567497, 4701842; 567186, 4701557; 567193, 4701507; 567394, 4701477; 567289, 4700636; 567171, 4700459; 567182, 4699995; 567424, 4699646; 567444, 4699452; 567621, 4699297; 568050, 4699138; 568334, 4698934; 568566, 4698980; 568627, 4699112; 568746, 4699107; 568919, 4698782; 568820, 4698625; 568414, 4698464; 568379, 4698188; 568191, 4698085; 568231, 4697923; 568057, 4697683; 568140, 4697520; 568033, 4696296; 566608, 4695454; 564808, 4696594; 563129, 4698858; 562723, 4699753; 562658, 4700157; 562688, 4700447; 562690, 4700332; 563260, 4700338; 563343, 4700069; 563440, 4700001; 564159, 4699966; 564318, 4699869; 564232, 4700075; 564243, 4700326; 564045, 4700791; 564188, 4701026; 564149, 4701155; 565506, 4701176; 565490, 4702384; 566698, 4702404; 566695, 4702747; 566410, 4703515; 565603, 4704790; 565755, 4704899; 566149, 4704978; 566239, 4705399; 566619, 4705741; 566601, 4705635; 566691, 4705441; 566996, 4705011; 567153, 4705044; 567152, 4705132; 567233, 4705152; 567181, 4705252; 567319, 4705366; 568020, 4705486; 567908, 4705867; 567925, 4706574; 567836, 4707402; 567514, 4707590; 567497, 4708155; 567225, 4708660; 567268, 4709197; 567231, 4709799; 567061, 4709816; 566849, 4709586; 566367, 4708799; 566180, 4708289; 565846, 4708229; 565662, 4708280; 565512, 4711388; 568190, 4710846; 568116, 4715640; 568573, 4715957; 569723, 4714299; 571348, 4715514; 571347, 4715697; 572151, 4715694; 572107, 4718626; 572198, 4718498; 572353, 4718487; 572357, 4718328; 572699, 4718393; 573183, 4718774; 573420, 4718858; 573404, 4718676.

(FFF) Land bounded by the following UTM Zone 10, NAD83 coordinates (E, N): 553474, 4744142; 554955, 4743196; 555384, 4742811; 555532, 4742405; 555667, 4742241; 556171, 4741964; 556211, 4741684; 556333, 4741450; 556880, 4741453; 557269, 4741271; 557396, 4741252; 557751, 4741509; 558021, 4741962; 558224, 4742103; 558729, 4742660; 558690, 4742882; 558797, 4743092; 558801, 4743397; 558927, 4743659; 558875, 4743926; 558961, 4744243; 559924, 4743153; 559982, 4737338; 559652, 4737285; 559612, 4737166; 559479, 4737373; 559205, 4737581; 558918, 4737669; 558581, 4737635; 558671, 4727785; 557876, 4727774; 557894, 4725841; 557258, 4725927; 557067, 4725849; 557083, 4725334; 557363, 4725310; 557373, 4724719; 557545, 4724676; 558709, 4724587; 558718, 4725312; 559455, 4725310; 559451, 4723847; 559190, 4723890; 559064, 4723769; 558937, 4723750; 558720, 4723811; 558804, 4723685; 558575, 4723613; 558907, 4723361; 558908, 4723215; 558966, 4723171; 559495, 4722983; 559222, 4722822; 559109, 4722548; 558807, 4722854; 558832, 4723113; 558719, 4722997; 558376, 4722894; 558281, 4722779; 558206, 4722360; 558043, 4722160; 557853, 4722134; 557746, 4721885; 557829, 4721746; 557627, 4721611; 557461, 4721642; 557112, 4721487; 557128, 4719878; 557237, 4719854; 557560, 4719964; 558018, 4719928; 558727, 4719405; 558737, 4715628; 559850, 4714559; 559853, 4714044; 558740, 4714012; 557166, 4712382; 557151, 4711803; 556820, 4711794; 556703, 4712188; 556749, 4713040; 556484, 4712778; 556211, 4712662; 555689, 4712793; 555368, 4713179; 555146, 4713145; 554840, 4713201; 555187, 4713680; 555240, 4714399; 555639, 4714732; 555631, 4714961; 554927, 4715732; 554779, 4716132; 554784, 4716278; 554562, 4716251; 554353, 4716085; 554105, 4716122; 553800, 4715999; 553640, 4716106; 553634, 4716189; 554001, 4716503; 554028, 4717253; 553766, 4717410; 553923, 4717723; 554040, 4718474; 554147, 4718583; 553963, 4718594; 553732, 4718962; 553425, 4719170; 553140, 4719054; 553138, 4719276; 552746, 4719954; 552530, 4719940; 552297, 4719666; 552033, 4720141; 551389, 4720461; 551286, 4720734; 551264, 4721186; 551587, 4721455; 551256, 4721491; 550720, 4721678; 550516, 4721868; 550418, 4722293; 550471, 4722910; 550432, 4723063; 550508, 4723197; 550487, 4723591; 550375, 4724252; 550436, 4724405; 550410, 4724710; 550560, 4725156; 550385, 4725644; 550143, 4725776; 550117, 4725897; 550248, 4726123; 550248, 4726337; 550037, 4726814; 549888, 4726926; 549800, 4726817; 549124, 4727315; 549137, 4729242; 549513, 4729054; 549961, 4728605; 550286, 4728442; 550636, 4728406; 551761, 4728533; 552171, 4728322; 552192, 4726920; 553824, 4726932; 553795, 4728660; 553552, 4728932; 552846, 4730034; 552184, 4730062; 552100, 4732503; 552517, 4732517; 552506, 4733318; 552101, 4733330; 552092, 4734930; 552107, 4734123; 552489, 4734125; 552494, 4735333; 551687, 4735329; 551689, 4734938; 550390, 4734921; 549681, 4734922; 549666, 4735317; 549284, 4735314; 549278, 4734894; 549068, 4734918; 549047, 4735720; 549022, 4738004; 549376, 4738261; 549825, 4738728; 550281, 4738959; 550408, 4738954; 550406, 4739259; 550520, 4739374; 550768, 4739401; 551034, 4739600; 551226, 4739566; 551218, 4739617; 551408, 4739766; 551935, 4739912; 552099, 4739939; 552114, 4739784; 552444, 4739919; 552956, 4740361; 553102, 4740419; 553625, 4740124; 553904, 4739744; 554305, 4740210; 554387, 4740440; 554353, 4740681; 554206, 4740884; 554267, 4741221; 554044, 4741436; 553992, 4741626; 553130, 4742175; 552917, 4742746; 552744, 4742935; 552495, 4743055; 552520, 4743150; 552094, 4743192; 552088, 4744178; 552246, 4744319; 552793, 4744290; 553474, 4744142.

(iii) Note: Map of Southern Cascades Unit follows:

BILLING CODE 4310-55-S

BILLING CODE 4310-55-C

(25) Coastal Redwoods Unit (Unit 18). Del Norte County, California.

(i) The Coastal Redwoods Unit consists of 6, 900 ac (2, 800 ha) and is comprised of lands managed by Six Rivers National Forest.

(ii) From USGS 1:24, 000 scale quadrangles Gasquet, Hiouchi, and Requa.

(A) Land bounded by the following UTM Zone 10, NAD83 coordinates (E, N): 411769, 4605429; 411759, 4605062; 412208, 4605063; 412212, 4605438; 412256, 4605439; 412237, 4604944; 412442, 4604620; 412118, 4603963; 412153, 4603590; 411792, 4603217; 411568, 4602849; 411248, 4602092; 411274, 4603177; 410486, 4603174; 410533, 4603972; 410159, 4604016; 410267, 4604419; 410179, 4604614; 410179, 4605551; 411769, 4605429.

(B) Land bounded by the following UTM Zone 10, NAD83 coordinates (E, N): 410811, 4633231; 410748, 4632164; 411567, 4632139; 411699, 4632303; 411804, 4632316; 412028, 4632308; 412222, 4632216; 411556, 4631772; 411381, 4630896; 411462, 4630616; 411339, 4630052; 411146, 4629649; 411412, 4628690; 411816, 4628166; 412230, 4628953; 412124, 4629090; 412125, 4629411; 412046, 4629589; 412148, 4629791; 412170, 4630234; 412273, 4630471; 412245, 4631054; 412395, 4631476; 412376, 4632019; 412311, 4632175; 412742, 4632288; 412879, 4632788; 412982, 4632945; 413712, 4632920; 414674, 4633052; 415161, 4633141; 415711, 4633394; 415948, 4633369; 415963, 4632693; 416774, 4632579; 416788, 4632745; 417156, 4632750; 417147, 4632356; 418585, 4632361; 418595, 4632766; 419735, 4632726; 419732, 4632617; 419661, 4632476; 419380, 4632231; 419240, 4631983; 419107, 4631318; 419150, 4631043; 419096, 4630965; 418759, 4630970; 418754, 4630817; 418582, 4630755; 417886, 4630793; 417500, 4630725; 417523, 4631191; 416714, 4631195; 416703, 4630930; 415139, 4631004; 415144, 4631420; 415529, 4631394; 415552, 4632224; 415155, 4632268; 414748, 4632169; 414726, 4630239; 414530, 4630244; 414529, 4630056; 414726, 4630048; 414725, 4629856; 415118, 4629830; 415112, 4629440; 415367, 4629464; 415328, 4629381; 415451, 4629301; 415388, 4629084; 414940, 4628677; 414337, 4628391; 413455, 4628408; 412930, 4628296; 412576, 4628002; 411539, 4628029; 411541, 4628236; 411134, 4628234; 411088, 4629246; 410732, 4629269; 410683, 4629713; 410287, 4629741; 410331, 4632026; 409934, 4632161; 409956, 4633029; 410386, 4632993; 410387, 4633394; 410809, 4633375; 410811, 4633231.

(iii) Note: Map of Coastal Redwoods Unit follows:

BILLING CODE 4310-55-S

BILLING CODE 4310-55-C

(26) Coastal Humboldt Unit (Unit 19). Humboldt and Mendocino Counties, California.

(i) The Coastal Humboldt Unit consists of 30, 700 ac (12, 400 ha) and is comprised of lands managed by the BLM Arcata Field Office.

(ii) From USGS 1:24, 000 scale quadrangles Bell Springs, Boonville, Bridgeville, Bull Creek, Cahto Peak, Ettersburg, Harris, Honeydew, Iaqua Buttes, Jewett Rock, Larabee Valley, Leggett, Lincoln Ridge, Mad River Buttes, Noble Butte, Orrs Springs, Tan Oak Park, and Weott.

(A) Land bounded by the following UTM Zone 10, NAD83 coordinates (E, N): 473495, 4328873; 473947, 4328883; 473907, 4327743; 473448, 4327749; 473430, 4327312; 474657, 4327299; 474652, 4326923; 475071, 4326915; 475073, 4325681; 474650, 4325682; 474657, 4326086; 474239, 4326112; 474252, 4326910; 473856, 4326907; 473838, 4325684; 473419, 4325686; 473422, 4326095; 471819, 4326105; 471821, 4326534; 472231, 4326530; 472249, 4326916; 471822, 4326926; 471873, 4328127; 472674, 4328147; 472680, 4328539; 473481, 4328538; 473495, 4328873.

(B) Land bounded by the following UTM Zone 10, NAD83 coordinates (E, N): 473495, 4328873; 471922, 4328912; 471914, 4329336; 470282, 4329341; 470283, 4329738; 470140, 4329720; 470118, 4331801; 472696, 4331753; 472695, 4331372; 473101, 4331376; 473104, 4330163; 473505, 4330158; 473495, 4328873; and excluding land bound by 471479, 4330135; 470696, 4330139; 470697, 4329745; 471487, 4329742; 471479, 4330135; and excluding land bound by 471893, 4330940; 471894, 4331374; 471068, 4331380; 471055, 4330954; 471893, 4330940.

(C) Land bounded by the following UTM Zone 10, NAD83 coordinates (E, N): 450686, 4393191; 450747, 4392981; 450858, 4392955; 451029, 4392556; 451174, 4392441; 451162, 4392283; 451483, 4392070; 451482, 4391380; 452691, 4391312; 452693, 4390878; 451085, 4390986; 450350, 4390848; 449563, 4390855; 449564, 4391226; 449171, 4391242; 449185, 4391437; 449353, 4391441; 449585, 4391579; 449795, 4391556; 449935, 4391650; 450047, 4391547; 449992, 4391329; 450073, 4391202; 450576, 4391205; 450571, 4391473; 450453, 4391640; 450507, 4391709; 450657, 4391680; 450606, 4391774; 450639, 4391840; 450079, 4392775; 450106, 4393050; 450028, 4393137; 450068, 4393225; 450178, 4393188; 450309, 4393327; 450256, 4393590; 450318, 4393729; 450294, 4394010; 450374, 4394004; 450410, 4393888; 450441, 4393700; 450377, 4393587; 450436, 4393380; 450640, 4393311; 450686, 4393191.

(D) Land bounded by the following UTM Zone 10, NAD83 coordinates (E, N): 443596, 4399288; 444006, 4399280; 444009, 4398879; 443593, 4398890; 443596, 4399288.

(E) Land bounded by the following UTM Zone 10, NAD83 coordinates (E, N): 447577, 4400038; 447585, 4399653; 446105, 4399659; 446372, 4400045; 447577, 4400038.

(F) Land bounded by the following UTM Zone 10, NAD83 coordinates (E, N): 445232, 4403234; 445220, 4402830; 445088, 4402833; 445029, 4403023; 445169, 4403235; 445232, 4403234.

(G) Land bounded by the following UTM Zone 10, NAD83 coordinates (E, N): 440510, 4403385; 440493, 4402186; 440097, 4402191; 440105, 4402597; 439717, 4402616; 439730, 4403402; 440510, 4403385.

(H) Land bounded by the following UTM Zone 10, NAD83 coordinates (E, N): 443596, 4399288; 442391, 4399293; 442387, 4399693; 442804, 4399689; 442802, 4400091; 441591, 4400100; 441584, 4400900; 441186, 4400916; 441174, 4400516; 440865, 4400533; 440868, 4400180; 440062, 4400190; 440085, 4400987; 440874, 4401000; 440884, 4401320; 441594, 4401302; 441599, 4402109; 441997, 4402097; 441986, 4402499; 442792, 4402468; 442775, 4403280; 441968, 4403293; 441977, 4402891; 440900, 4402915; 440908, 4403390; 440510, 4403385; 440514, 4403793; 441992, 4403681; 442021, 4404509; 441618, 4404513; 441632, 4404889; 442108, 4404883; 442113, 4405349; 441722, 4405359; 441734, 4407621; 442118, 4407612; 442106, 4408044; 442206, 4408102; 442227, 4408380; 442674, 4408131; 442770, 4408153; 442906, 4408321; 443159, 4408237; 443551, 4408553; 443784, 4408328; 443921, 4408326; 443800, 4408040; 443904, 4407771; 443841, 4407400; 443937, 4407006; 443782, 4406887; 443671, 4406663; 443691, 4406405; 443847, 4406180; 443550, 4406010; 443465, 4405861; 443446, 4405654; 443627, 4405304; 443896, 4405162; 444148, 4404481; 444002, 4404199; 444025, 4403961; 444330, 4403653; 444022, 4403491; 443848, 4403263; 443580, 4403274; 443590, 4402866; 443193, 4402876; 443196, 4402473; 443600, 4402422; 443612, 4402053; 444011, 4402055; 444012, 4402332; 444131, 4402288; 444060, 4402040; 444081, 4401855; 444194, 4401638; 444415, 4401450; 444406, 4400075; 443207, 4400080; 443211, 4399687; 443597, 4399686; 443596, 4399288.

(I) Land bounded by the following UTM Zone 10, NAD83 coordinates (E, N): 445220, 4402830; 445633, 4402822; 445631, 4402429; 446082, 4402422; 446089, 4403229; 445232, 4403234; 445236, 4404439; 445053, 4404439; 444884, 4404836; 445263, 4404830; 445258, 4405614; 446062, 4405613; 446064, 4406009; 444920, 4406020; 444859, 4406258; 444650, 4406580; 444779, 4406901; 444657, 4407453; 444716, 4407770; 444688, 4408046; 444888, 4408045; 444888, 4408453; 444484, 4408452; 444484, 4408338; 444132, 4408436; 443935, 4408339; 444119, 4408590; 444358, 4408682; 444377, 4408845; 445292, 4408849; 445281, 4408043; 445690, 4408042; 445687, 4407626; 446095, 4407627; 446078, 4406807; 446474, 4406806; 446456, 4406019; 447654, 4405953; 447641, 4405196; 446852, 4405201; 446850, 4404806; 446958, 4404804; 446950, 4404421; 447353, 4404419; 447350, 4404025; 447756, 4404017; 447773, 4404794; 448164, 4404791; 448071, 4403215; 447693, 4403215; 447696, 4402818; 448077, 4402817; 448090, 4402026; 448469, 4402035; 448474, 4401639; 445598, 4401644; 445411, 4401908; 445211, 4402059; 445220, 4402830.

(J) Land bounded by the following UTM Zone 10, NAD83 coordinates (E, N): 444174, 4412298; 444170, 4411898; 443779, 4411897; 443774, 4411492; 444161, 4411500; 444152, 4411087; 444568, 4411092; 444549, 4409506; 442937, 4409521; 442946, 4409929; 442546, 4409931; 442551, 4410322; 442135, 4410318; 442143, 4410724; 442561, 4410720; 442571, 4411101; 441770, 4411109; 441781, 4411917; 442580, 4411903; 442573, 4412697; 443779, 4412687; 443780, 4412287; 444174, 4412298.

(K) Land bounded by the following UTM Zone 10, NAD83 coordinates (E, N): 444174, 4412298; 444187, 4413105; 444582, 4413104; 444570, 4412299; 444174, 4412298.

(L) Land bounded by the following UTM Zone 10, NAD83 coordinates (E, N): 440200, 4416355; 439386, 4416340; 439390, 4416743; 440204, 4416744; 440200, 4416355.

(M) Land bounded by the following UTM Zone 10, NAD83 coordinates (E, N): 445285, 4420260; 445279, 4419436; 444903, 4419444; 444900, 4420259; 445285, 4420260.

(N) Land bounded by the following UTM Zone 10, NAD83 coordinates (E, N): 444411, 4419875; 444153, 4419874; 444152, 4420270; 444415, 4420267; 444411, 4419875.

(O) Land bounded by the following UTM Zone 10, NAD83 coordinates (E, N): 446479, 4421062; 447660, 4421032; 447661, 4420646; 445689, 4420658; 445692, 4421064; 446072, 4421060; 446076, 4421455; 446476, 4421452; 446479, 4421062.

(P) Land bounded by the following UTM Zone 10, NAD83 coordinates (E, N): 443388, 4421470; 443377, 4420668; 442972, 4420671; 442980, 4421470; 443388, 4421470.

(Q) Land bounded by the following UTM Zone 10, NAD83 coordinates (E, N): 445305, 4422659; 445306, 4422260; 444546, 4422271; 444548, 4423075; 444929, 4423075; 444925, 4422666; 445305, 4422659.

(R) Land bounded by the following UTM Zone 10, NAD83 coordinates (E, N): 436766, 4422735; 436369, 4422735; 436374, 4423138; 436770, 4423127; 436766, 4422735.

(S) Land bounded by the following UTM Zone 10, NAD83 coordinates (E, N): 452970, 4423843; 453368, 4423841; 453368, 4423038; 453777, 4423036; 453779, 4422640; 453370, 4422633; 453370, 4422227; 452174, 4422233; 452174, 4422633; 451781, 4422633; 451785, 4423041; 452969, 4423040; 452970, 4423843.

(T) Land bounded by the following UTM Zone 10, NAD83 coordinates (E, N): 441016, 4424281; 441039, 4423876; 440623, 4423889; 440661, 4423478; 441451, 4423451; 441456, 4423056; 441841, 4423054; 441835, 4422648; 441073, 4422666; 441070, 4422271; 439908, 4422286; 439907, 4421892; 439530, 4421888; 439522, 4422673; 439154, 4422672; 439130, 4421503; 438744, 4421498; 438745, 4422268; 437562, 4422312; 437567, 4421528; 437184, 4421528; 437167, 4422322; 436763, 4422323; 436766, 4422735; 438362, 4422696; 438368, 4423486; 437174, 4423530; 437183, 4423926; 438366, 4423893; 438371, 4424291; 438769, 4424290; 438771, 4424633; 440118, 4424662; 440173, 4424297; 441016, 4424281.

(U) Land bounded by the following UTM Zone 10, NAD83 coordinates (E, N): 444543, 4424692; 444561, 4424291; 444189, 4424294; 444179, 4423476; 443388, 4423476; 443391, 4423882; 443796, 4423889; 443798, 4424708; 444543, 4424692.

(V) Land bounded by the following UTM Zone 10, NAD83 coordinates (E, N): 441016, 4424281; 440994, 4424678; 442579, 4424710; 442583, 4423875; 442184, 4423873; 442181, 4424262; 441884, 4424258; 441869, 4423855; 441447, 4423869; 441445, 4424273; 441016, 4424281.

(W) Land bounded by the following UTM Zone 10, NAD83 coordinates (E, N): 450073, 4427295; 450084, 4426857; 449668, 4426850; 449664, 4427286; 450073, 4427295.

(X) Land bounded by the following UTM Zone 10, NAD83 coordinates (E, N): 446455, 4427931; 446464, 4427231; 446837, 4427234; 446845, 4426813; 446466, 4426812; 446467, 4426386; 447239, 4426405; 447264, 4425956; 448092, 4425983; 448115, 4425567; 448499, 4425576; 448528, 4425159; 448115, 4425146; 448147, 4424708; 448511, 4424711; 448497, 4424229; 447286, 4424259; 447287, 4424708; 446944, 4424707; 446914, 4425132; 446535, 4425130; 446507, 4425550; 445330, 4425541; 445311, 4425952; 444919, 4425952; 444890, 4427207; 444507, 4427209; 444507, 4427629; 446065, 4427627; 446055, 4427933; 446455, 4427931; and excluding land bound by 445279, 4426779; 445291, 4426366; 446076, 4426373; 446069, 4426791; 445279, 4426779.

(Y) Land bounded by the following UTM Zone 10, NAD83 coordinates (E, N): 452970, 4423843; 452174, 4423840; 452175, 4423428; 450977, 4423436; 450969, 4423838; 450568, 4423839; 450565, 4424242; 451770, 4424242; 451763, 4424727; 452219, 4424740; 452194, 4425600; 451341, 4425566; 451329, 4426052; 451745, 4426049; 451732, 4426861; 450892, 4426878; 450897, 4427319; 450073, 4427295; 450065, 4427723; 449659, 4427706; 449690, 4428127; 450476, 4428153; 450471, 4427737; 451703, 4427710; 451710, 4427301; 452123, 4427283; 452140, 4426850; 452552, 4426843; 452527, 4427712; 453270, 4427714; 453309, 4426452; 452897, 4426439; 452911, 4426037; 453713, 4426048; 453730, 4425632; 454131, 4425649; 454144, 4424801; 452972, 4424765; 452970, 4423843.

(Z) Land bounded by the following UTM Zone 10, NAD83 coordinates (E, N): 444485, 4428509; 444494, 4428062; 444126, 4428041; 444117, 4428482; 444485, 4428509.

(AA) Land bounded by the following UTM Zone 10, NAD83 coordinates (E, N): 444485, 4428509; 444473, 4428934; 444876, 4428931; 444884, 4428507; 444485, 4428509.

(BB) Land bounded by the following UTM Zone 10, NAD83 coordinates (E, N): 448436, 4429744; 448830, 4429765; 448839, 4429311; 449237, 4429341; 449237, 4428931; 449641, 4428948; 449654, 4428529; 448863, 4428484; 448855, 4428083; 448425, 4428068; 448424, 4428461; 448032, 4428461; 448020, 4428864; 448427, 4428882; 448436, 4429744.

(CC) Land bounded by the following UTM Zone 10, NAD83 coordinates (E, N): 449224, 4430189; 448823, 4430172; 448815, 4430575; 449229, 4430590; 449224, 4430189.

(DD) Land bounded by the following UTM Zone 10, NAD83 coordinates (E, N): 448436, 4429744; 448006, 4429711; 448022, 4430114; 447626, 4430106; 447637, 4430931; 448043, 4430941; 448043, 4430533; 448448, 4430528; 448436, 4429744.

(EE) Land bounded by the following UTM Zone 10, NAD83 coordinates (E, N): 444869, 4431787; 444867, 4431430; 444440, 4431458; 444444, 4430577; 444868, 4430491; 444866, 4430077; 444453, 4430155; 444449, 4429297; 444050, 4429255; 444059, 4431791; 444451, 4431839; 444869, 4431787.

(FF) Land bounded by the following UTM Zone 10, NAD83 coordinates (E, N): 448223, 4436408; 448149, 4435180; 448578, 4435164; 448579, 4434767; 450069, 4434725; 450035, 4434310; 448015, 4434354; 448019, 4433960; 447199, 4433976; 447211, 4434806; 446893, 4434815; 446920, 4435620; 447760, 4435610; 447804, 4436435; 448223, 4436408.

(GG) Land bounded by the following UTM Zone 10, NAD83 coordinates (E, N): 448523, 4440135; 448554, 4439751; 448991, 4439753; 449026, 4438908; 448642, 4438906; 448660, 4438501; 448268, 4438487; 448221, 4438900; 447811, 4438904; 447727, 4439745; 448131, 4439748; 448114, 4440161; 448523, 4440135.

(HH) Land bounded by the following UTM Zone 10, NAD83 coordinates (E, N): 417533, 4454186; 417544, 4453763; 417137, 4453898; 417133, 4454318; 417533, 4454186.

(II) Land bounded by the following UTM Zone 10, NAD83 coordinates (E, N): 415885, 4456449; 415886, 4456131; 416314, 4456058; 416319, 4455756; 417124, 4455523; 417129, 4455120; 416709, 4455267; 416716, 4454434; 416318, 4454561; 416326, 4452880; 416733, 4452765; 416736, 4453615; 417150, 4453474; 417118, 4451858; 417536, 4451763; 418328, 4451791; 418328, 4451394; 417521, 4451360; 415902, 4451737; 415910, 4451293; 415503, 4451381; 415503, 4451867; 414289, 4452269; 413846, 4452272; 413853, 4452760; 412991, 4452687; 412972, 4452277; 411871, 4452272; 411871, 4453871; 412691, 4453928; 412676, 4454723; 413073, 4454723; 413073, 4455131; 413454, 4455131; 413454, 4454723; 414285, 4454723; 414227, 4456301; 414995, 4456222; 414990, 4456524; 415885, 4456449.

(JJ) Land bounded by the following UTM Zone 10, NAD83 coordinates (E, N): 441472, 4473871; 441488, 4473470; 442223, 4473453; 442231, 4473029; 441852, 4473020; 441861, 4472606; 442222, 4472608; 442232, 4472193; 441083, 4472176; 441074, 4472600; 440295, 4472612; 440255, 4473863; 439861, 4473859; 439889, 4473451; 439501, 4473445; 439443, 4473860; 439179, 4473861; 439173, 4475093; 440432, 4475155; 441202, 4475109; 441155, 4474280; 441538, 4474266; 441538, 4473874; 441472, 4473871.

(KK) Land bounded by the following UTM Zone 10, NAD83 coordinates (E, N): 437631, 4478275; 437641, 4477856; 438049, 4477860; 438025, 4478272; 438437, 4478273; 438444, 4477498; 439601, 4477473; 439616, 4477077; 439226, 4477074; 439233, 4476674; 438833, 4476683; 438857, 4477068; 436019, 4477094; 436025, 4477894; 436419, 4477909; 436403, 4479071; 437212, 4479055; 437223, 4478278; 437631, 4478275.

(LL) Land bounded by the following UTM Zone 10, NAD83 coordinates (E, N): 425479, 4502988; 425467, 4502590; 425869, 4502582; 425863, 4501745; 425441, 4501774; 425469, 4502180; 425073, 4502180; 425084, 4502989; 425479, 4502988.

(MM) Land bounded by the following UTM Zone 10, NAD83 coordinates (E, N): 424689, 4503394; 424677, 4502614; 424269, 4502622; 424278, 4503024; 423481, 4503044; 423526, 4502619; 423107, 4502636; 423103, 4502219; 422282, 4502225; 422282, 4502643; 421744, 4502646; 421667, 4503502; 424689, 4503394.

(NN) Land bounded by the following UTM Zone 10, NAD83 coordinates (E, N): 425479, 4502988; 425478, 4503394; 425838, 4503397; 425841, 4503802; 426193, 4503822; 426302, 4503407; 426256, 4503407; 426250, 4503005; 425479, 4502988.

(OO) Land bounded by the following UTM Zone 10, NAD83 coordinates (E, N): 425841, 4503802; 425433, 4503791; 425434, 4504195; 425842, 4504203; 425841, 4503802.

(PP) Land bounded by the following UTM Zone 10, NAD83 coordinates (E, N): 425434, 4504195; 424542, 4504219; 424552, 4504711; 425431, 4504602; 425434, 4504195.

(QQ) Land bounded by the following UTM Zone 10, NAD83 coordinates (E, N): 424563, 4505487; 424556, 4505096; 423731, 4505121; 423736, 4505510; 424563, 4505487.

(iii) Note: Map of Coastal Humboldt Unit follows:

BILLING CODE 4310-55-S

BILLING CODE 4310-55-C

(27) King Range Unit (Unit 20). Humboldt and Mendocino Counties, California.

(i) The King Range Unit consists of 14, 800 ac (6, 000 ha)and is comprised of lands managed by the BLM Arcata Field Office.

(ii) From USGS 1:24, 000 scale quadrangles Bear Harbor, Briceland, Honeydew, Shelter Cove, and Shubrick Peak.

(A) Land bounded by the following UTM Zone 10, NAD83 coordinates (E, N): 416281, 4425861; 416320, 4425622; 415481, 4425623; 415357, 4426571; 416046, 4426551; 416131, 4426269; 416089, 4426195; 416204, 4426096; 416281, 4425861.

(B) Land bounded by the following UTM Zone 10, NAD83 coordinates (E, N): 411990, 4432325; 411694, 4432124; 411510, 4432082; 411518, 4432314; 411990, 4432325.

(C) Land bounded by the following UTM Zone 10, NAD83 coordinates (E, N): 411155, 4433707; 411154, 4433615; 411560, 4433610; 411561, 4433702; 411155, 4433707; 411157, 4433882; 411562, 4433921; 411561, 4434323; 410735, 4434269; 410744, 4434480; 409987, 4434432; 410035, 4434776; 410505, 4434770; 410523, 4435138; 410327, 4435127; 410255, 4435190; 410181, 4435525; 410043, 4435728; 409994, 4436340; 409826, 4436811; 409855, 4437057; 409786, 4437171; 409757, 4437643; 409661, 4437746; 409635, 4438143; 409453, 4438392; 409473, 4438504; 409540, 4438536; 409333, 4438544; 409292, 4438843; 409013, 4439066; 408494, 4438818; 408420, 4438846; 408352, 4438997; 408379, 4439316; 408268, 4439756; 408183, 4439842; 408320, 4440010; 408266, 4440254; 408200, 4440400; 407957, 4440504; 407893, 4441088; 407716, 4441365; 407687, 4441582; 407758, 4441709; 407769, 4441995; 407704, 4442159; 407569, 4442279; 407459, 4442656; 407279, 4442747; 406967, 4443077; 406973, 4443354; 407032, 4443412; 406974, 4443511; 406985, 4443768; 407123, 4444143; 407070, 4444343; 407157, 4444473; 407379, 4444574; 407061, 4444551; 407002, 4444347; 406901, 4444277; 406840, 4444107; 406744, 4444072; 406761, 4444681; 406419, 4444852; 406377, 4444982; 406213, 4444853; 406070, 4445016; 405855, 4444866; 405757, 4444903; 405808, 4445454; 406060, 4445632; 406147, 4445836; 406000, 4445856; 405903, 4446051; 405717, 4446123; 405874, 4446491; 405824, 4446622; 405724, 4446661; 405787, 4447002; 405533, 4447273; 405489, 4447701; 405433, 4447732; 405316, 4447662; 405117, 4448440; 404880, 4448958; 404655, 4449238; 404267, 4449465; 404077, 4449830; 403901, 4449865; 403917, 4449992; 404017, 4450081; 404035, 4450381; 404625, 4451081; 404166, 4451537; 404000, 4452003; 403706, 4452098; 403617, 4452008; 403442, 4452045; 403261, 4451895; 403066, 4451900; 402944, 4451808; 403024, 4451720; 403085, 4451381; 402971, 4451121; 402809, 4450985; 402608, 4451012; 402373, 4451160; 402166, 4451083; 402034, 4451115; 401993, 4451409; 401870, 4451361; 401825, 4451214; 401687, 4451193; 401586, 4451069; 401491, 4451106; 401301, 4450905; 401212, 4450930; 401122, 4451119; 400942, 4450829; 401045, 4450604; 400966, 4450514; 401000, 4450412; 400901, 4450313; 400859, 4450076; 400782, 4450081; 400751, 4450258; 400636, 4450146; 400459, 4450108; 400252, 4450229; 400364, 4449957; 400084, 4449393; 400054, 4449113; 400118, 4448956; 400033, 4448967; 399927, 4449106; 399880, 4448964; 399500, 4448850; 399334, 4448985; 399219, 4448933; 399062, 4448958; 398989, 4449115; 398369, 4448832; 398322, 4448879; 398985, 4449176; 399082, 4449144; 399106, 4449011; 399339, 4449047; 399510, 4448911; 399836, 4449014; 399881, 4449187; 399993, 4449115; 400024, 4449410; 400303, 4449968; 400183, 4450321; 400399, 4450172; 400609, 4450202; 400744, 4450320; 400813, 4450249; 400941, 4450430; 400905, 4450532; 400985, 4450622; 400896, 4450701; 400883, 4450849; 401082, 4451168; 401185, 4451153; 401272, 4450959; 401464, 4451163; 401559, 4451130; 401653, 4451247; 401787, 4451262; 401822, 4451400; 401995, 4451540; 401966, 4451688; 402025, 4451895; 402138, 4452005; 402162, 4452333; 401520, 4452337; 401513, 4452710; 401070, 4452703; 401065, 4453112; 402648, 4453107; 402652, 4453510; 403466, 4453507; 403451, 4452750; 403689, 4452858; 404181, 4452803; 404233, 4452860; 404354, 4452844; 404609, 4452958; 404673, 4453099; 404667, 4451892; 405055, 4451877; 405030, 4449941; 405834, 4449976; 405816, 4448807; 406219, 4448804; 406219, 4448419; 406623, 4448317; 406622, 4447384; 407046, 4447140; 407069, 4446481; 406661, 4446527; 406660, 4446126; 407075, 4446121; 407111, 4445705; 406724, 4445773; 406737, 4444957; 407937, 4444942; 407918, 4444090; 408709, 4444076; 408715, 4444495; 409541, 4444479; 409530, 4444063; 409118, 4444082; 409098, 4443677; 409527, 4443667; 409511, 4443273; 409100, 4443285; 409087, 4442893; 409507, 4442873; 409499, 4442474; 410700, 4442472; 410695, 4443302; 411118, 4443303; 411118, 4442899; 411512, 4442895; 411506, 4442510; 411906, 4442514; 411881, 4441684; 411113, 4441700; 411043, 4440073; 413025, 4440058; 413014, 4439624; 413421, 4439629; 413404, 4438469; 413345, 4438469; 413324, 4436821; 413381, 4436827; 413272, 4435288; 414120, 4435347; 414139, 4435733; 414501, 4435651; 414519, 4435844; 414996, 4435953; 415387, 4435860; 415389, 4435423; 415249, 4435443; 415111, 4435339; 415100, 4435090; 414485, 4435231; 414442, 4434433; 414612, 4434413; 414611, 4434327; 414920, 4434323; 414910, 4433915; 415311, 4433910; 415290, 4433500; 414697, 4433507; 414649, 4432745; 415202, 4432728; 415191, 4431526; 415602, 4431523; 415554, 4430353; 415150, 4430341; 415162, 4430747; 414657, 4430733; 414651, 4430022; 414467, 4430116; 413755, 4430794; 414058, 4430832; 414059, 4431216; 413762, 4431217; 413791, 4431582; 413417, 4431585; 413442, 4431904; 412573, 4431871; 412515, 4431798; 412559, 4431885; 412449, 4432157; 412183, 4432225; 412067, 4432324; 412297, 4432318; 412317, 4432748; 411532, 4432726; 411544, 4433104; 411143, 4433097; 411156, 4433518; 410779, 4433503; 410772, 4433703; 411155, 4433707; and excluding land bound by 413957, 4433644; 413898, 4432819; 414332, 4432821; 414374, 4433640; 413957, 4433644; and excluding land bound by 413133, 4433171; 413157, 4433589; 412377, 4433575; 412375, 4433173; 413133, 4433171; and excluding land bound by 412706, 4432761; 412697, 4432323; 413079, 4432313; 413102, 4432755; 412706, 4432761; and excluding land bound by 408680, 4442883; 408692, 4443292; 407911, 4443310; 407901, 4442896; 408680, 4442883.

(D) Land bounded by the following UTM Zone 10, NAD83 coordinates (E, N): 394233, 4453606; 394240, 4453225; 393936, 4453205; 393937, 4453286; 393790, 4453294; 393735, 4453430; 393774, 4453616; 394233, 4453606.

(iii) Note: Map of King Range Unit follows:

BILLING CODE 4310-55-S

BILLING CODE 4310-55-C

(28) South Fork Mountain Divide Unit (Unit 21). Humboldt and Trinity Counties, California.

(i) The South Fork Mountain Divide Unit consists of 137, 900 ac (55, 800 ha) and is comprised of lands managed by the Six Rivers and Shasta-Trinity National Forests (133, 800 ac (54, 100 ha)) and BLM Arcata Field Office (4, 100 ac (1, 700 ha)).

(ii) From USGS 1:24, 000 scale quadrangles Alderpoint, Black Lassic, Blake Mountain, Board Camp Mountain, Dinsmore, Forest Glen, Grouse Mountain, Hennessy Peak, Hupa Mountain, Lord-Ellis Summit, Naufus Creek, Pony Buck Peak, Ruth Lake, Sims Mountain, Smoky Creek, Sportshaven, Swim Ridge, Willow Creek, and Zenia.

(A) Land bounded by the following UTM Zone 10, NAD83 coordinates (E, N): 449534, 4464539; 449405, 4464328; 449570, 4464396; 449751, 4464259; 449263, 4464262; 449281, 4464667; 449632, 4464663; 449534, 4464539.

(B) Land bounded by the following UTM Zone 10, NAD83 coordinates (E, N): 449709, 4465059; 449303, 4465065; 449325, 4465462; 448911, 4465472; 448918, 4465793; 449105, 4465629; 449488, 4465711; 449514, 4465607; 449410, 4465472; 449739, 4465386; 449709, 4465059.

(C) Land bounded by the following UTM Zone 10, NAD83 coordinates (E, N): 448692, 4466128; 449090, 4466207; 449145, 4466006; 449030, 4465872; 448490, 4465881; 448499, 4466744; 448666, 4466655; 448636, 4466267; 448692, 4466128.

(D) Land bounded by the following UTM Zone 10, NAD83 coordinates (E, N): 448886, 4467835; 448966, 4467747; 449128, 4467807; 449107, 4467742; 449296, 4467496; 449141, 4467316; 448863, 4467247; 448504, 4467340; 448512, 4467842; 448886, 4467835.

(E) Land bounded by the following UTM Zone 10, NAD83 coordinates (E, N): 450003, 4468207; 449730, 4468213; 449723, 4468610; 449327, 4468618; 449322, 4468989; 449669, 4468726; 449958, 4468387; 450003, 4468207.

(F) Land bounded by the following UTM Zone 10, NAD83 coordinates (E, N): 465923, 4472699; 466412, 4472674; 466553, 4472151; 466548, 4471815; 466923, 4471225; 467222, 4471133; 467747, 4470818; 469024, 4469568; 469344, 4469357; 470054, 4469293; 470315, 4469455; 470652, 4469470; 470922, 4469691; 471138, 4469738; 471240, 4469717; 471520, 4469401; 471714, 4469348; 471814, 4469134; 472249, 4469463; 472308, 4469254; 472468, 4469130; 472695, 4468731; 472932, 4468904; 473290, 4468886; 473372, 4469040; 473823, 4469034; 473821, 4468929; 474218, 4468927; 474219, 4469133; 474175, 4469134; 474262, 4469168; 474778, 4469144; 475306, 4469010; 476018, 4469113; 476691, 4469397; 477912, 4468856; 478233, 4468643; 478452, 4468341; 478254, 4467640; 477844, 4467164; 477795, 4466341; 477112, 4466369; 477105, 4465180; 477432, 4465164; 477425, 4465968; 477784, 4465946; 477790, 4465361; 477715, 4464787; 478419, 4463699; 478769, 4463013; 479136, 4462907; 479369, 4462605; 480116, 4462284; 481575, 4462381; 481872, 4462494; 481752, 4462214; 481231, 4461541; 481208, 4461176; 481324, 4460809; 481781, 4460454; 482712, 4459971; 481705, 4460000; 481704, 4460212; 481312, 4460234; 481310, 4460440; 481101, 4460446; 481103, 4460642; 480900, 4460643; 480898, 4460547; 480803, 4460551; 480802, 4460455; 480902, 4460452; 480903, 4460036; 481213, 4460026; 481210, 4459814; 482322, 4459780; 482319, 4459571; 482540, 4459562; 482542, 4459673; 482645, 4459672; 482647, 4459765; 482721, 4459763; 482725, 4459963; 483815, 4459227; 485473, 4458342; 486791, 4457911; 486789, 4457385; 487129, 4457191; 487643, 4456757; 488248, 4456533; 489262, 4456513; 489502, 4456306; 489764, 4455764; 489524, 4455722; 488031, 4455816; 487594, 4455878; 487333, 4456042; 487002, 4455708; 487009, 4455039; 486796, 4454793; 486637, 4454453; 485043, 4454505; 485016, 4452943; 484763, 4452650; 484522, 4452555; 483811, 4452598; 483487, 4452922; 483252, 4452905; 482842, 4453037; 482558, 4452989; 482375, 4453087; 482146, 4453419; 481132, 4453346; 480797, 4453966; 480701, 4454599; 480792, 4454721; 480835, 4454950; 480731, 4455336; 480429, 4455475; 480166, 4455879; 480017, 4455907; 479920, 4456063; 479324, 4456184; 478699, 4456126; 478105, 4456435; 477783, 4456515; 477188, 4457197; 476892, 4457328; 476227, 4457791; 475839, 4458241; 475706, 4458502; 475734, 4459138; 475547, 4459625; 475103, 4460064; 474585, 4460830; 474397, 4461304; 473951, 4461909; 475718, 4461829; 475663, 4461007; 476388, 4461007; 476430, 4462625; 475770, 4462639; 475594, 4463424; 474292, 4463551; 474330, 4463157; 473885, 4463196; 473906, 4462792; 473507, 4462770; 473529, 4462336; 473930, 4462346; 473950, 4461909; 473707, 4462050; 473522, 4462218; 473268, 4462672; 472921, 4463086; 472855, 4463335; 472456, 4463696; 471876, 4464019; 471706, 4464366; 471122, 4464934; 470920, 4465294; 470388, 4465418; 470160, 4465682; 469643, 4465806; 469227, 4466072; 469149, 4466200; 469033, 4466192; 468056, 4466651; 467473, 4467155; 466707, 4467646; 466448, 4468068; 465909, 4468492; 465663, 4468937; 465214, 4469331; 464783, 4469939; 464517, 4470175; 464478, 4470573; 464319, 4470797; 463961, 4471151; 463360, 4471433; 463074, 4471647; 463056, 4471805; 462754, 4472182; 462689, 4472602; 462723, 4472791; 462510, 4472959; 462352, 4473198; 462224, 4473591; 462237, 4473810; 465120, 4473868; 465156, 4474726; 465379, 4474123; 465369, 4473829; 465008, 4473668; 465451, 4473159; 465601, 4472866; 465923, 4472699; and excluding land bound by 467373, 4469435; 467368, 4469139; 467768, 4469140; 467790, 4470754; 467390, 4470753; 467373, 4469435; and excluding land bound by 469001, 4467531; 469003, 4466725; 470572, 4466737; 470575, 4468345; 469001, 4468336; 469001, 4467531; and excluding land bound by 472215, 4466330; 472227, 4464707; 473404, 4464698; 473409, 4465101; 473004, 4465104; 473011, 4465914; 472610, 4465918; 472604, 4466320; 472215, 4466330; and excluding land bound by 475212, 4465487; 475209, 4465280; 475407, 4465281; 475401, 4465067; 475604, 4465063; 475598, 4464644; 476194, 4464643; 476200, 4465061; 476001, 4465065; 476003, 4465269; 475607, 4465277; 475611, 4465484; 475212, 4465487; and excluding land bound by 480394, 4457800; 480395, 4457402; 479580, 4457412; 479589, 4456646; 480003, 4456643; 479999, 4456253; 480388, 4456245; 480391, 4456623; 480775, 4456621; 480775, 4457785; 480394, 4457800; and excluding land bound by 486394, 4457068; 486391, 4456964; 486181, 4456970; 486176, 4456876; 485984, 4456879; 485980, 4456781; 486084, 4456779; 486084, 4456486; 486582, 4456446; 486605, 4456826; 486696, 4456823; 486699, 4456946; 486597, 4456952; 486598, 4457063; 486394, 4457068.

(G) Land bounded by the following UTM Zone 10, NAD83 coordinates (E, N): 464037, 4481074; 464108, 4480906; 464080, 4480725; 464872, 4480778; 465153, 4480390; 466057, 4480381; 466021, 4478750; 469826, 4478676; 469840, 4478264; 469439, 4478292; 469456, 4477883; 470651, 4477829; 470647, 4476924; 471040, 4476872; 471348, 4476704; 471414, 4476504; 471236, 4476170; 471205, 4475970; 471303, 4475331; 471233, 4474856; 470979, 4474705; 470504, 4474710; 469937, 4474579; 469708, 4474577; 469355, 4474758; 469043, 4475410; 469081, 4477079; 467510, 4477055; 466001, 4477133; 464684, 4477075; 464670, 4476929; 465117, 4476778; 465157, 4476639; 465061, 4476385; 464823, 4476376; 464817, 4476272; 464421, 4476272; 464415, 4475870; 464810, 4475868; 464744, 4474269; 462750, 4474238; 462755, 4474662; 462224, 4474655; 462209, 4474864; 461696, 4476480; 461230, 4477158; 460458, 4478655; 460207, 4479909; 460086, 4480102; 460091, 4480208; 460396, 4480215; 461477, 4480455; 462287, 4480460; 462295, 4481167; 462856, 4481064; 462874, 4481890; 463762, 4481906; 463807, 4481647; 464003, 4481372; 464037, 4481074; and excluding land bound by 462827, 4480274; 462831, 4479488; 464088, 4479528; 464117, 4480362; 462827, 4480274; and excluding land bound by 463889, 4477892; 464443, 4477878; 464452, 4478689; 463643, 4478705; 463637, 4477898; 463889, 4477892.

(H) Land bounded by the following UTM Zone 10, NAD83 coordinates (E, N): 452092, 4480708; 452078, 4480306; 452873, 4480272; 452862, 4479868; 453575, 4479846; 453575, 4479437; 453245, 4479439; 453228, 4479019; 454790, 4479029; 454780, 4477834; 454376, 4477828; 454363, 4477019; 454770, 4477022; 454865, 4476218; 455684, 4476233; 455727, 4475831; 455322, 4475822; 455365, 4475417; 455199, 4474208; 454396, 4474207; 454447, 4474608; 454050, 4474614; 454097, 4475011; 453695, 4475017; 453592, 4474214; 453994, 4474207; 453938, 4473807; 455545, 4473806; 455657, 4474614; 456474, 4474618; 456355, 4473817; 456621, 4473803; 456647, 4473338; 456244, 4473370; 456257, 4472973; 455836, 4473006; 455836, 4472809; 455632, 4472822; 455624, 4473426; 455418, 4473441; 455412, 4472636; 455631, 4472622; 455631, 4472220; 456069, 4472185; 456061, 4472583; 456275, 4472565; 456286, 4472168; 456725, 4472133; 456718, 4471744; 456282, 4471774; 456265, 4471226; 456324, 4471184; 456264, 4471201; 456259, 4470990; 456483, 4470976; 456367, 4471156; 456466, 4471091; 456504, 4470973; 456703, 4470960; 456662, 4468975; 457850, 4468974; 458130, 4468845; 458407, 4468283; 458355, 4467977; 458378, 4467557; 458505, 4467518; 458659, 4467581; 458785, 4467440; 458923, 4467019; 458769, 4466791; 458985, 4466573; 458965, 4466210; 458559, 4466212; 458590, 4467015; 458170, 4467023; 458144, 4465805; 458943, 4465812; 458965, 4466210; 459355, 4466207; 459332, 4465814; 459440, 4465806; 459628, 4465321; 458986, 4464076; 459099, 4463795; 459264, 4463628; 459301, 4463412; 459186, 4463361; 459492, 4463334; 459683, 4463422; 459835, 4463345; 459976, 4463370; 460102, 4463153; 460572, 4462870; 460916, 4462958; 460915, 4462677; 461016, 4462499; 461040, 4462231; 460835, 4461913; 460831, 4461174; 460945, 4461034; 461045, 4460676; 460916, 4460320; 460979, 4460244; 461183, 4460217; 461246, 4460115; 461475, 4460114; 461855, 4459691; 462034, 4459647; 462025, 4458587; 462460, 4458274; 462535, 4457955; 462763, 4457699; 462748, 4457432; 462900, 4457227; 462925, 4457049; 462873, 4456922; 462987, 4456692; 462998, 4456475; 462995, 4455838; 462944, 4455685; 463020, 4455532; 463044, 4455213; 463120, 4455136; 463094, 4455034; 463246, 4454880; 463156, 4454702; 463296, 4454624; 463257, 4454497; 463499, 4454343; 463613, 4454112; 463612, 4453934; 463739, 4453920; 463803, 4453818; 463969, 4453804; 464019, 4453740; 464250, 4453943; 464646, 4453967; 464329, 4454351; 464380, 4454504; 464956, 4454655; 465186, 4454858; 465301, 4454857; 465516, 4454422; 465490, 4454333; 465732, 4454178; 465731, 4454025; 465807, 4453974; 465832, 4453757; 465742, 4453693; 465677, 4453464; 465791, 4453336; 465778, 4453234; 465904, 4452978; 466032, 4452939; 466171, 4452785; 466221, 4452593; 466298, 4452567; 466305, 4452378; 466500, 4452381; 466492, 4452185; 466696, 4452182; 466690, 4451979; 466754, 4451876; 466982, 4451620; 467046, 4451632; 467095, 4451338; 467235, 4451235; 467247, 4451120; 467375, 4451056; 467425, 4450890; 467679, 4450672; 467793, 4450416; 467677, 4450238; 467500, 4450258; 467499, 4450360; 465889, 4450381; 465889, 4450323; 465750, 4450273; 465685, 4450069; 465771, 4449366; 465461, 4448538; 465700, 4447886; 465724, 4447643; 465687, 4447577; 465258, 4447581; 465236, 4447191; 465521, 4447189; 465274, 4447020; 465081, 4446689; 464671, 4446270; 464606, 4445990; 464720, 4445772; 464641, 4445709; 464640, 4445866; 464242, 4445868; 464242, 4445768; 464037, 4445767; 464036, 4445565; 463934, 4445563; 463938, 4445369; 464424, 4445368; 464346, 4445034; 464404, 4444495; 464164, 4444332; 463551, 4444157; 463269, 4443954; 463129, 4443993; 463039, 4443955; 463038, 4443892; 462495, 4443901; 462546, 4446282; 461752, 4446268; 461749, 4447117; 462549, 4447104; 462551, 4448749; 462357, 4448753; 462360, 4448971; 462152, 4448978; 462153, 4449384; 461712, 4449379; 461717, 4449575; 461226, 4449579; 461128, 4449644; 461116, 4449747; 461244, 4449835; 461524, 4449834; 461603, 4450229; 461273, 4450563; 460749, 4450514; 460890, 4450616; 461032, 4450921; 461186, 4451061; 460894, 4451343; 460550, 4451473; 460232, 4451717; 460618, 4452366; 460479, 4452737; 460493, 4452851; 460877, 4453092; 460495, 4453426; 460308, 4454141; 460129, 4454232; 459952, 4454539; 459863, 4454616; 459480, 4454528; 459314, 4454555; 458997, 4454978; 458412, 4455427; 457978, 4455037; 457978, 4455079; 457170, 4455086; 457167, 4454420; 456757, 4454426; 456763, 4454028; 457162, 4454033; 457170, 4453631; 457469, 4453632; 457406, 4453237; 457544, 4452725; 457425, 4452619; 457422, 4452419; 455982, 4452431; 455974, 4453236; 455155, 4453217; 455146, 4453624; 454323, 4453610; 454319, 4454424; 453715, 4454416; 453715, 4454538; 453408, 4454535; 453411, 4454649; 453311, 4454649; 453313, 4454763; 453113, 4454761; 453114, 4454874; 453012, 4454874; 453016, 4455357; 452688, 4455351; 452774, 4457633; 451952, 4457634; 451941, 4458043; 451531, 4458049; 451525, 4458448; 450280, 4458431; 450257, 4459198; 450560, 4461565; 449754, 4461657; 449851, 4462531; 449423, 4462563; 449590, 4463829; 449991, 4463821; 450036, 4464231; 450234, 4464229; 450225, 4464323; 450279, 4464323; 450867, 4463790; 450900, 4463635; 451181, 4463362; 451338, 4462657; 451588, 4462565; 451542, 4462389; 451577, 4462152; 451403, 4461706; 451532, 4461523; 451514, 4461422; 451584, 4461381; 451686, 4461573; 451606, 4461369; 451449, 4461419; 451445, 4461244; 451580, 4460952; 452028, 4460634; 452123, 4460690; 452137, 4460602; 452193, 4460613; 452486, 4460762; 452775, 4460709; 452720, 4461052; 452792, 4461170; 452700, 4461286; 452813, 4461657; 452722, 4462109; 452562, 4462184; 452628, 4462481; 452534, 4462744; 452251, 4462628; 452080, 4462781; 452251, 4462647; 452531, 4462771; 452643, 4462503; 452580, 4462189; 452738, 4462118; 452831, 4461677; 452718, 4461286; 452811, 4461172; 452738, 4461050; 452793, 4460702; 453039, 4460612; 453134, 4460835; 453321, 4460845; 453406, 4461315; 453484, 4461360; 453732, 4461841; 453749, 4464605; 453573, 4464791; 453426, 4465175; 453532, 4465533; 453501, 4465795; 453257, 4466250; 453247, 4466424; 453068, 4466585; 453120, 4466653; 453425, 4466680; 453764, 4467012; 453775, 4468689; 453588, 4468987; 452962, 4468902; 452966, 4469577; 452814, 4469717; 451671, 4469796; 453012, 4469921; 453036, 4469117; 454246, 4469088; 454219, 4468740; 454620, 4468725; 454610, 4469483; 455431, 4469453; 455407, 4469853; 455828, 4469823; 455824, 4470219; 455387, 4470260; 455367, 4470660; 454922, 4470690; 454986, 4472268; 452988, 4472270; 452986, 4473812; 453133, 4473809; 453170, 4475825; 451964, 4475865; 452004, 4477472; 451605, 4477492; 451593, 4477093; 450783, 4477099; 450819, 4478312; 450007, 4478322; 449994, 4477919; 450399, 4477908; 450365, 4476695; 449956, 4476700; 449919, 4475483; 449119, 4475498; 449133, 4476305; 448723, 4476316; 448735, 4477123; 448322, 4477129; 448480, 4481989; 448893, 4481985; 448859, 4481177; 449272, 4481173; 449294, 4481982; 450417, 4481968; 450418, 4481860; 450517, 4481859; 450513, 4481657; 450709, 4481653; 450707, 4481451; 450804, 4481449; 450802, 4481349; 450907, 4481347; 450905, 4481245; 451204, 4481241; 451197, 4480940; 451597, 4480934; 451600, 4481025; 451702, 4481024; 451694, 4480725; 452092, 4480708; and excluding land bound by 452429, 4478555; 452400, 4477453; 452793, 4477436; 452829, 4479040; 452440, 4479060; 452429, 4478555; and excluding land bound by 460831, 4458983; 460823, 4457825; 461611, 4457817; 461618, 4458197; 461210, 4458204; 461212, 4458978; 460831, 4458983; and excluding land bound by 453737, 4456262; 453733, 4456057; 454537, 4456064; 454540, 4456367; 454441, 4456367; 454440, 4456465; 454340, 4456465; 454339, 4456567; 454040, 4456566; 454037, 4456362; 453738, 4456360; 453737, 4456262; and excluding land bound by 462551, 4450600; 462354, 4450572; 462346, 4450199; 462123, 4450200; 462125, 4450002; 463203, 4449994; 463201, 4450788; 462987, 4450782; 462985, 4450604; 462551, 4450600; and excluding land bound by 462842, 4446370; 462841, 4446170; 463039, 4446167; 463038, 4445966; 463235, 4445967; 463234, 4445565; 463837, 4445567; 463837, 4445969; 463641, 4445971; 463640, 4446168; 463441, 4446169; 463443, 4446571; 462550, 4446574; 462548, 4446370; 462842, 4446370.

(I) Land bounded by the following UTM Zone 10, NAD83 coordinates (E, N): 452092, 4480708; 452113, 4481528; 451715, 4481539; 451724, 4481940; 451320, 4481950; 451327, 4482352; 450119, 4482376; 450148, 4483594; 453747, 4483582; 453726, 4483354; 453842, 4483258; 453726, 4483333; 453706, 4483096; 453395, 4483113; 453349, 4482306; 454033, 4482269; 454110, 4483069; 454512, 4483047; 454476, 4482642; 454871, 4482621; 454832, 4482223; 455229, 4482222; 455196, 4481029; 454793, 4481027; 454794, 4481422; 454392, 4481436; 454390, 4480648; 452092, 4480708.

(J) Land bounded by the following UTM Zone 10, NAD83 coordinates (E, N): 443504, 4514935; 443104, 4514928; 443110, 4515304; 443505, 4515330; 443504, 4514935.

(K) Land bounded by the following UTM Zone 10, NAD83 coordinates (E, N): 443504, 4514935; 443894, 4514950; 443891, 4516154; 442367, 4516116; 442352, 4516913; 441546, 4516940; 441527, 4515319; 441127, 4515352; 441142, 4516952; 440737, 4516965; 440733, 4517756; 441273, 4517852; 441457, 4517962; 441588, 4518160; 441510, 4518431; 441133, 4518828; 440779, 4519352; 440799, 4520218; 440547, 4520233; 440199, 4520594; 439847, 4520812; 439519, 4520890; 439242, 4521158; 439222, 4521897; 438807, 4521919; 438813, 4522723; 438760, 4522723; 438737, 4522819; 438739, 4523097; 438626, 4523136; 438488, 4523301; 438553, 4523541; 438390, 4523757; 438455, 4523959; 438203, 4524037; 438127, 4524126; 438231, 4524403; 437953, 4524519; 437993, 4524709; 438258, 4525137; 438068, 4525504; 437830, 4525526; 437833, 4525456; 437778, 4525889; 437809, 4527491; 439434, 4527469; 439490, 4529064; 442551, 4529002; 442566, 4529156; 442697, 4528975; 443493, 4528704; 443793, 4528499; 444064, 4528402; 444210, 4528224; 444432, 4527501; 444752, 4526862; 445037, 4525857; 445187, 4525627; 445348, 4525005; 445414, 4523705; 445799, 4523671; 445729, 4523530; 445819, 4523402; 446243, 4523157; 446476, 4522797; 446716, 4522832; 446743, 4522553; 446928, 4522477; 447259, 4522170; 448133, 4522304; 448182, 4522101; 447978, 4521900; 447828, 4521568; 447759, 4520821; 447778, 4519597; 447879, 4519454; 448075, 4519454; 448166, 4519356; 448348, 4519313; 448293, 4519197; 448457, 4519075; 448494, 4518947; 448591, 4518929; 448609, 4518807; 448749, 4518636; 448858, 4518641; 448931, 4518483; 448754, 4518391; 448522, 4518386; 448413, 4518490; 448378, 4518898; 448274, 4519082; 448195, 4519106; 448018, 4519021; 448152, 4518826; 448194, 4518588; 448169, 4518441; 448059, 4518399; 448047, 4518488; 448093, 4518054; 447982, 4517868; 448141, 4517510; 448141, 4517244; 448444, 4516342; 449292, 4515168; 449433, 4515103; 449396, 4514679; 449855, 4514592; 450448, 4514636; 450879, 4514709; 451044, 4514810; 451473, 4514680; 451523, 4514629; 451605, 4513718; 451576, 4513567; 451402, 4513570; 451397, 4512366; 451798, 4512334; 451838, 4512490; 452010, 4512397; 452643, 4512468; 452724, 4512333; 452747, 4512112; 452903, 4511880; 452914, 4511802; 452755, 4511598; 452819, 4511323; 452475, 4510974; 452415, 4510831; 452532, 4510763; 452733, 4510825; 452822, 4510792; 453079, 4510449; 453165, 4510214; 453081, 4509671; 453306, 4509574; 453413, 4509364; 453352, 4509238; 452828, 4509004; 452769, 4508675; 452437, 4508690; 452493, 4507885; 453012, 4507865; 453099, 4507757; 453119, 4507466; 453350, 4507426; 453385, 4507059; 453128, 4506452; 452755, 4506110; 452722, 4505822; 452546, 4505677; 452422, 4505405; 452236, 4505483; 451959, 4505838; 451845, 4505852; 451489, 4505601; 451425, 4505614; 451323, 4505399; 450638, 4505239; 450548, 4505062; 450288, 4504838; 450179, 4506765; 449779, 4506804; 449760, 4507212; 449357, 4507247; 449330, 4507658; 449193, 4507671; 449287, 4507921; 449082, 4508098; 448924, 4508671; 448948, 4509475; 448812, 4509597; 448318, 4509451; 448296, 4509381; 447401, 4509470; 447283, 4509657; 447333, 4509799; 446883, 4509927; 446231, 4509968; 445992, 4510174; 445379, 4510262; 445429, 4509625; 445312, 4509634; 445335, 4508833; 445735, 4508806; 445719, 4508280; 445645, 4508274; 445517, 4508440; 445320, 4508549; 444809, 4508602; 444304, 4508947; 443771, 4510147; 443371, 4510128; 443362, 4511734; 443758, 4511753; 443747, 4512549; 443363, 4512533; 443357, 4512931; 443745, 4512951; 443896, 4514550; 443498, 4514548; 443504, 4514935; and excluding land bound by 444900, 4510464; 445290, 4510438; 445282, 4510838; 444897, 4510861; 444900, 4510464; and excluding land bound by 451307, 4507933; 451700, 4507919; 451647, 4508729; 451255, 4508738; 451226, 4509160; 450830, 4509180; 450880, 4508356; 451282, 4508342; 451307, 4507933; and excluding land bound by 447981, 4518899; 448005, 4518783; 448048, 4518783; 447981, 4518899; and excluding land bound by 443984, 4522482; 443975, 4523975; 442529, 4524181; 442445, 4522633; 443984, 4522482.

(L) Land bounded by the following UTM Zone 10, NAD83 coordinates (E, N): 431012, 4540381; 430996, 4539990; 430623, 4539998; 430624, 4540387; 431012, 4540381.

(M) Land bounded by the following UTM Zone 10, NAD83 coordinates (E, N): 429747, 4540419; 430146, 4540400; 430138, 4540001; 429730, 4540022; 429747, 4540419.

(N) Land bounded by the following UTM Zone 10, NAD83 coordinates (E, N): 429747, 4540419; 428943, 4540458; 428949, 4540060; 428490, 4540078; 428509, 4540464; 428106, 4540469; 428135, 4540921; 429357, 4540874; 429375, 4541274; 429774, 4541261; 429747, 4540419.

(O) Land bounded by the following UTM Zone 10, NAD83 coordinates (E, N): 434632, 4541554; 435025, 4541549; 434915, 4539078; 434131, 4539108; 434148, 4539495; 434536, 4539491; 434632, 4541554.

(P) Land bounded by the following UTM Zone 10, NAD83 coordinates (E, N): 434632, 4541554; 433843, 4541570; 433861, 4541977; 434648, 4541960; 434632, 4541554.

(Q) Land bounded by the following UTM Zone 10, NAD83 coordinates (E, N): 428561, 4542104; 428546, 4541681; 428150, 4541686; 428154, 4542108; 428561, 4542104.

(R) Land bounded by the following UTM Zone 10, NAD83 coordinates (E, N): 428951, 4542956; 428562, 4542955; 428557, 4543373; 428946, 4543372; 428951, 4542956.

(S) Land bounded by the following UTM Zone 10, NAD83 coordinates (E, N): 433496, 4545676; 433115, 4545483; 432924, 4546385; 433332, 4546467; 433496, 4545676.

(T) Land bounded by the following UTM Zone 10, NAD83 coordinates (E, N): 433843, 4541570; 433732, 4539114; 433343, 4539127; 433319, 4538714; 432930, 4538726; 432892, 4537944; 433285, 4537932; 433306, 4538323; 433718, 4538304; 433663, 4536648; 433248, 4536656; 433267, 4537525; 432094, 4537575; 432168, 4539166; 432554, 4539152; 432566, 4539547; 432952, 4539532; 432984, 4540321; 432590, 4540337; 432656, 4541992; 431427, 4542012; 431427, 4541614; 431026, 4541622; 431033, 4542491; 431425, 4542487; 431430, 4542885; 431829, 4542877; 431835, 4543250; 431434, 4543274; 431431, 4543671; 431838, 4543665; 431861, 4544945; 431466, 4544951; 431479, 4545350; 430683, 4545376; 430706, 4545833; 430183, 4545847; 430189, 4546266; 430712, 4546253; 430732, 4547024; 431920, 4546982; 431917, 4546588; 432463, 4546572; 432469, 4545636; 432290, 4544132; 433075, 4544110; 433236, 4544970; 433642, 4544930; 433476, 4544094; 433459, 4542462; 433065, 4542460; 433031, 4541583; 433843, 4541570.

(iii) Note: Map of South Fork Mountain Divide Unit follows:

BILLING CODE 4310-55-S

BILLING CODE 4310-55-C

(29) Eel-Russian River Unit (Unit 22). Mendocino and Trinity Counties, California.

(i) The Eel-Russian River Unit consists of 20, 300 ac (8, 200 ha) and is comprised of lands managed by the BLM Ukiah and Arcata Field Offices.

(ii) From USGS 1:24, 000 scale quadrangles Bluenose Ridge, Brushy Mountain, Covelo East, Foster Mountain, Four Corners Rock, Iron Peak, Jamison Ridge, Laytonville, Long Ridge, Mina, Newhouse Ridge, Thatcher Ridge, Willis Ridge, and Willits.

(A) Land bounded by the following UTM Zone 10, NAD83 coordinates (E, N): 477842, 4366623; 477810, 4366241; 478250, 4366246; 478200, 4365457; 478390, 4365449; 478388, 4365043; 477202, 4365006; 477203, 4364638; 476268, 4364646; 476245, 4365831; 475062, 4365859; 475034, 4366263; 476604, 4366236; 476622, 4366617; 477842, 4366623.

(B) Land bounded by the following UTM Zone 10, NAD83 coordinates (E, N): 475386, 4367326; 475385, 4366987; 474962, 4366981; 474940, 4367287; 475386, 4367326.

(C) Land bounded by the following UTM Zone 10, NAD83 coordinates (E, N): 475386, 4367326; 475371, 4367658; 476213, 4367795; 476227, 4367415; 475386, 4367326.

(D) Land bounded by the following UTM Zone 10, NAD83 coordinates (E, N): 475023, 4371106; 475018, 4370689; 474628, 4370690; 474624, 4371096; 474211, 4371098; 474217, 4372295; 474634, 4372294; 474629, 4371526; 475427, 4371524; 475425, 4371108; 475023, 4371106.

(E) Land bounded by the following UTM Zone 10, NAD83 coordinates (E, N): 477804, 4372284; 477824, 4371596; 477357, 4371666; 477002, 4371538; 476972, 4371943; 476607, 4371819; 476594, 4372209; 477345, 4372520; 477740, 4372497; 477735, 4372284; 477804, 4372284.

(F) Land bounded by the following UTM Zone 10, NAD83 coordinates (E, N): 476203, 4373266; 475797, 4373111; 475804, 4373525; 476203, 4373724; 476203, 4373266.

(G) Land bounded by the following UTM Zone 10, NAD83 coordinates (E, N): 478517, 4375767; 478791, 4375776; 478793, 4375592; 478447, 4375592; 478451, 4375270; 478118, 4375307; 478112, 4375506; 478517, 4375767.

(H) Land bounded by the following UTM Zone 10, NAD83 coordinates (E, N): 473437, 4376400; 473446, 4375542; 473848, 4375554; 473849, 4375167; 474229, 4375165; 474229, 4374764; 474685, 4374772; 474700, 4374342; 475414, 4374347; 475418, 4373946; 474715, 4373944; 474719, 4373540; 474237, 4373538; 474236, 4373939; 473846, 4373946; 473840, 4374331; 473437, 4374333; 473440, 4375162; 472621, 4375173; 472610, 4376001; 473050, 4376005; 473056, 4376400; 473437, 4376400.

(I) Land bounded by the following UTM Zone 10, NAD83 coordinates (E, N): 480061, 4379563; 480062, 4380394; 480465, 4380370; 480458, 4379981; 480808, 4379976; 480793, 4379157; 480437, 4379165; 480444, 4379557; 480061, 4379563.

(J) Land bounded by the following UTM Zone 10, NAD83 coordinates (E, N): 480062, 4380394; 479661, 4380392; 479661, 4380812; 480063, 4380813; 480062, 4380394.

(K) Land bounded by the following UTM Zone 10, NAD83 coordinates (E, N): 472201, 4381303; 472211, 4380916; 472609, 4380905; 472604, 4379708; 472971, 4379706; 472972, 4377811; 473452, 4377793; 473452, 4377391; 472970, 4377380; 472969, 4377075; 472603, 4377070; 472601, 4376646; 472245, 4376618; 472249, 4375465; 471853, 4375491; 471846, 4377073; 471354, 4377061; 471368, 4377803; 470154, 4377807; 470157, 4377395; 469443, 4377410; 469445, 4378006; 468280, 4377991; 468280, 4378311; 469064, 4378324; 469067, 4378762; 470496, 4378657; 470517, 4378953; 470925, 4378958; 470923, 4379790; 470116, 4379790; 470111, 4380554; 470519, 4380562; 470528, 4380960; 470938, 4380956; 470940, 4381350; 470526, 4381360; 470527, 4381812; 470111, 4381852; 470101, 4382529; 471818, 4382530; 471833, 4382118; 472198, 4382113; 472205, 4381755; 471815, 4381748; 471819, 4381310; 472201, 4381303; and excluding land bound by 471809, 4378111; 471813, 4377777; 472637, 4377785; 472637, 4378117; 471809, 4378111.

(L) Land bounded by the following UTM Zone 10, NAD83 coordinates (E, N): 474062, 4384588; 474065, 4384175; 473939, 4384169; 474062, 4384588.

(M) Land bounded by the following UTM Zone 10, NAD83 coordinates (E, N): 474508, 4384592; 474062, 4384588; 474048, 4384886; 474510, 4384895; 474508, 4384592.

(N) Land bounded by the following UTM Zone 10, NAD83 coordinates (E, N): 478167, 4382912; 478180, 4382103; 478903, 4382101; 478895, 4381667; 478482, 4381671; 478472, 4379684; 479307, 4379578; 479320, 4380000; 479685, 4379995; 479684, 4379560; 480061, 4379563; 480022, 4378773; 480430, 4378774; 480379, 4376403; 480754, 4376398; 480726, 4376032; 480421, 4376160; 480192, 4376128; 479951, 4375987; 479881, 4376276; 479740, 4376501; 479423, 4376722; 479154, 4376813; 478834, 4376783; 478511, 4376595; 478267, 4376559; 477738, 4376237; 477737, 4376575; 477355, 4376621; 477352, 4377097; 476804, 4377114; 476631, 4377271; 476633, 4377875; 477001, 4377878; 476984, 4378273; 476626, 4378282; 476624, 4379488; 476185, 4379472; 476195, 4378686; 475861, 4378680; 475786, 4378986; 475773, 4379854; 476635, 4379868; 476643, 4380231; 475426, 4380223; 475701, 4380693; 475760, 4381129; 475679, 4381326; 475438, 4381598; 475419, 4381846; 475275, 4382106; 474854, 4382396; 474877, 4382637; 474797, 4382869; 474693, 4383062; 474533, 4383179; 474508, 4384592; 475296, 4384602; 475289, 4384907; 475711, 4384917; 475725, 4384216; 475306, 4384195; 475308, 4383784; 474913, 4383770; 474942, 4382855; 475294, 4382863; 475327, 4382523; 476140, 4382539; 476136, 4382987; 478167, 4382912; and excluding land bound by 478423, 4376997; 479229, 4376887; 479276, 4378495; 477754, 4378702; 477762, 4377089; 478423, 4376997.

(O) Land bounded by the following UTM Zone 10, NAD83 coordinates (E, N): 474048, 4384886; 473950, 4384886; 473883, 4384982; 473797, 4385334; 474055, 4385330; 474048, 4384886.

(P) Land bounded by the following UTM Zone 10, NAD83 coordinates (E, N): 478167, 4382912; 478163, 4383259; 478438, 4383248; 478495, 4384074; 478895, 4384045; 478919, 4384810; 476937, 4384861; 476925, 4384469; 476529, 4384490; 476521, 4384885; 476119, 4384911; 476125, 4385719; 476934, 4385679; 476936, 4385272; 477319, 4385253; 477332, 4385657; 479336, 4385631; 479298, 4382897; 478167, 4382912.

(Q) Land bounded by the following UTM Zone 10, NAD83 coordinates (E, N): 461283, 4396595; 462101, 4396608; 462094, 4395473; 461306, 4395420; 461283, 4396595.

(R) Land bounded by the following UTM Zone 10, NAD83 coordinates (E, N): 463740, 4397485; 463313, 4397483; 463292, 4398708; 463689, 4398693; 463740, 4397485.

(S) Land bounded by the following UTM Zone 10, NAD83 coordinates (E, N): 463677, 4399511; 463689, 4399100; 463282, 4399091; 463279, 4399513; 463677, 4399511.

(T) Land bounded by the following UTM Zone 10, NAD83 coordinates (E, N): 461283, 4396595; 460544, 4396588; 460540, 4398302; 460883, 4398309; 460867, 4398729; 461268, 4398737; 461265, 4399134; 460458, 4399134; 460455, 4398723; 460030, 4398724; 460034, 4399141; 459539, 4399136; 459546, 4399565; 461668, 4399556; 461664, 4399135; 462487, 4399136; 462505, 4397888; 461680, 4397827; 461691, 4397412; 461271, 4397413; 461283, 4396595.

(U) Land bounded by the following UTM Zone 10, NAD83 coordinates (E, N): 487635, 4400067; 488430, 4400112; 488422, 4399753; 488028, 4399581; 488025, 4399214; 488015, 4399689; 487609, 4399690; 487635, 4400067.

(V) Land bounded by the following UTM Zone 10, NAD83 coordinates (E, N): 463677, 4399511; 463678, 4400332; 464077, 4400322; 464081, 4399894; 464490, 4399904; 464491, 4399499; 463677, 4399511.

(W) Land bounded by the following UTM Zone 10, NAD83 coordinates (E, N): 491708, 4400424; 491671, 4399869; 491578, 4400028; 491261, 4400103; 491273, 4400453; 491708, 4400424.

(X) Land bounded by the following UTM Zone 10, NAD83 coordinates (E, N): 486414, 4401290; 486413, 4400448; 485589, 4400465; 485605, 4401289; 486414, 4401290.

(Y) Land bounded by the following UTM Zone 10, NAD83 coordinates (E, N): 488430, 4400112; 488422, 4400972; 487627, 4400929; 487635, 4400067; 487208, 4400044; 487228, 4400901; 486810, 4400878; 486813, 4401285; 486414, 4401290; 486424, 4401681; 486009, 4401687; 486007, 4402507; 486810, 4402506; 486813, 4402904; 488029, 4402925; 488023, 4402129; 488428, 4402139; 488425, 4401759; 488788, 4401749; 488776, 4400959; 489267, 4400942; 489267, 4401348; 490053, 4401303; 490063, 4400107; 489673, 4400120; 489655, 4400526; 489196, 4400560; 488778, 4400561; 488767, 4400099; 488430, 4400112.

(Z) Land bounded by the following UTM Zone 10, NAD83 coordinates (E, N): 459222, 4404482; 459211, 4404388; 459624, 4404385; 459621, 4403985; 460018, 4403977; 460019, 4403573; 460421, 4403574; 460436, 4401184; 460032, 4401195; 460032, 4400403; 458828, 4400434; 458791, 4400051; 458380, 4400052; 458406, 4402031; 459197, 4402015; 459206, 4402860; 457645, 4402870; 457695, 4404498; 458455, 4404477; 458459, 4404888; 458843, 4404874; 458838, 4404489; 459222, 4404482.

(AA) Land bounded by the following UTM Zone 10, NAD83 coordinates (E, N): 479998, 4426723; 479992, 4426336; 480391, 4426348; 480424, 4424308; 478956, 4424297; 478953, 4422042; 478547, 4422048; 478549, 4422545; 478157, 4422552; 478152, 4422945; 477709, 4422955; 477703, 4423096; 477933, 4423240; 478029, 4423597; 478153, 4423730; 478483, 4423819; 478726, 4424300; 478722, 4424466; 478897, 4424500; 478949, 4424648; 478966, 4425527; 479720, 4425532; 479714, 4426012; 479405, 4426001; 479405, 4426249; 479614, 4426251; 479612, 4427196; 480405, 4427200; 480399, 4426730; 479998, 4426723.

(BB) Land bounded by the following UTM Zone 10, NAD83 coordinates (E, N): 471444, 4429917; 471475, 4429155; 471905, 4429214; 471913, 4428792; 471497, 4428722; 471525, 4427880; 470630, 4427808; 470644, 4428180; 471070, 4428240; 471046, 4429049; 470217, 4428911; 470208, 4429289; 469813, 4429286; 469811, 4428902; 469403, 4428898; 469407, 4429279; 469027, 4429290; 469032, 4429689; 470951, 4429726; 471444, 4429917.

(CC) Land bounded by the following UTM Zone 10, NAD83 coordinates (E, N): 481568, 4431033; 481562, 4430602; 481169, 4430625; 481166, 4431061; 481568, 4431033.

(DD) Land bounded by the following UTM Zone 10, NAD83 coordinates (E, N): 481561, 4431842; 481592, 4431406; 481188, 4431422; 481189, 4431846; 481561, 4431842.

(EE) Land bounded by the following UTM Zone 10, NAD83 coordinates (E, N): 480361, 4431885; 480355, 4431060; 480766, 4431041; 480760, 4430287; 481175, 4430275; 481172, 4429054; 481573, 4429065; 481587, 4428266; 481182, 4428261; 481197, 4427410; 480780, 4427403; 480792, 4428266; 480387, 4428268; 480399, 4428588; 480056, 4428589; 480059, 4429877; 479658, 4429865; 479651, 4430286; 478960, 4430299; 478952, 4430442; 478617, 4430430; 478625, 4430825; 478960, 4430848; 478977, 4431212; 478647, 4431218; 478641, 4431614; 478973, 4431609; 478992, 4431335; 479218, 4431333; 479229, 4431879; 480361, 4431885.

(FF) Land bounded by the following UTM Zone 10, NAD83 coordinates (E, N): 480843, 4432329; 480061, 4432321; 480062, 4432614; 480852, 4432602; 480843, 4432329.

(GG) Land bounded by the following UTM Zone 10, NAD83 coordinates (E, N): 478995, 4432154; 478662, 4432142; 478672, 4433217; 478995, 4433219; 478995, 4432154.

(iii) Note: Map of Eel-Russian River Unit follows:

BILLING CODE 4310-55-S

BILLING CODE 4310-55-C

(30) Mendocino Coast Ranges Unit (Unit 23). Colusa, Glenn, Lake, Mendocino, Tehama, and Trinity Counties, California.

(i) The Mendocino Coast Ranges Unit consists of 186, 200 ac (75, 400 ha) and is comprised of lands managed by the Mendocino National Forest.

(ii) From USGS 1:24, 000 scale quadrangles Ball Mountain, Bartlett Mountain, Black Rock Mountain, Brushy Mountain, Buck Rock, Crockett Peak, Elk Mountain, Felkner Hill, Foster Mountain, Fouts Springs, Hall Ridge, Hull Mountain, Kneecap Ridge, Lake Pillsbury, Log Spring, Mendocino Pass, Newhouse Ridge, North Yolla Bolly Mountains, Plaskett Meadows, Plaskett Ridge, Potato Hill, Potter Valley, Riley Ridge, Saint John Mountain, Sanhedrin Mountain, Thatcher Ridge, Van Arsdale Reservoir, and Wrights Ridge.

(A) Land bounded by the following UTM Zone 10, NAD83 coordinates (E, N): 520831, 4354685; 520831, 4354613; 521311, 4354541; 521924, 4354678; 522265, 4354611; 522643, 4354251; 522484, 4354253; 522491, 4353842; 522882, 4353846; 522947, 4353912; 522856, 4353499; 522176, 4352976; 522176, 4352862; 522358, 4352658; 522744, 4352727; 523061, 4352977; 523311, 4353341; 524014, 4353659; 524581, 4353751; 525035, 4354024; 525353, 4354138; 525625, 4354184; 525852, 4354116; 526284, 4353844; 526466, 4353595; 526534, 4353300; 526466, 4352959; 526194, 4352709; 525900, 4352549; 525287, 4352412; 525106, 4352162; 525379, 4351368; 525538, 4351300; 525538, 4351141; 525403, 4350800; 525448, 4350551; 525699, 4350052; 525926, 4349802; 526358, 4349644; 526607, 4349667; 526857, 4349894; 527355, 4350917; 527672, 4351008; 528126, 4350963; 528535, 4350850; 528830, 4350669; 529217, 4350079; 529402, 4349994; 529509, 4349752; 529295, 4349348; 528931, 4349162; 528758, 4349000; 528597, 4348708; 528769, 4347375; 528034, 4347101; 526975, 4346993; 527082, 4346450; 527280, 4346470; 526909, 4345964; 526370, 4345928; 526395, 4345500; 526046, 4345352; 524800, 4345479; 524605, 4345684; 524413, 4345715; 524481, 4345962; 524399, 4346091; 523881, 4346267; 523894, 4346450; 523747, 4346720; 523368, 4347162; 523097, 4347004; 522859, 4347001; 522607, 4347149; 522553, 4347301; 522399, 4347434; 521769, 4347754; 521626, 4347914; 521479, 4347980; 520980, 4348002; 520617, 4347729; 520368, 4347365; 520323, 4347070; 520573, 4346571; 520415, 4346162; 520511, 4346001; 520087, 4346004; 520185, 4345723; 519790, 4345728; 519971, 4345203; 520940, 4345224; 520808, 4344890; 520667, 4344822; 520553, 4344800; 520258, 4344890; 519499, 4345321; 519071, 4345468; 518796, 4345731; 518512, 4345784; 518383, 4345933; 518084, 4346096; 517532, 4346158; 517283, 4345794; 517124, 4345726; 516843, 4345677; 516032, 4345728; 516318, 4345167; 516318, 4345066; 515786, 4345020; 515466, 4344629; 515454, 4344872; 515096, 4344937; 515102, 4344629; 515410, 4344559; 515038, 4344361; 514856, 4344338; 514266, 4344496; 513016, 4345266; 512607, 4345424; 511904, 4345492; 511540, 4345514; 510769, 4345376; 509113, 4344761; 508840, 4344738; 508772, 4344806; 508681, 4345237; 508816, 4345760; 509110, 4346260; 509042, 4346782; 509994, 4347344; 510020, 4347773; 509610, 4347781; 509636, 4348208; 510843, 4348183; 510867, 4348368; 511286, 4348363; 511350, 4348986; 512844, 4348985; 512865, 4348738; 513009, 4348511; 513265, 4348560; 513340, 4348429; 513591, 4348391; 513725, 4348468; 514035, 4348423; 514157, 4348662; 514487, 4348901; 514759, 4348992; 515099, 4348902; 515827, 4348403; 516326, 4348449; 516485, 4348518; 516371, 4348745; 516393, 4349040; 516643, 4349040; 517143, 4348655; 517347, 4348632; 517392, 4348678; 517210, 4349177; 517369, 4349359; 517277, 4349745; 517345, 4350017; 517549, 4350313; 517458, 4350472; 515937, 4350719; 515642, 4350878; 514347, 4351262; 513698, 4351637; 513040, 4351906; 512718, 4352232; 512343, 4352481; 512233, 4352682; 512525, 4352600; 512626, 4352677; 512954, 4352514; 513060, 4352323; 513261, 4352367; 513461, 4352277; 513591, 4352338; 513751, 4352304; 514190, 4352623; 514269, 4352785; 514584, 4353105; 514830, 4353185; 514812, 4353437; 514922, 4353647; 515227, 4353788; 515480, 4353732; 515593, 4353803; 515606, 4353746; 515677, 4353771; 515763, 4353708; 516153, 4353778; 516284, 4353721; 516340, 4353782; 516689, 4353541; 516867, 4353514; 516949, 4353609; 516987, 4353536; 517163, 4353486; 517663, 4353740; 517845, 4353933; 518117, 4353939; 518323, 4354193; 518420, 4354194; 518597, 4354068; 518722, 4354260; 518852, 4354258; 519041, 4354449; 519204, 4354412; 519372, 4354202; 519206, 4354204; 519205, 4353797; 520022, 4353793; 520023, 4353858; 520077, 4353674; 520281, 4354016; 520218, 4354402; 520256, 4354499; 520431, 4354621; 520831, 4354685; and excluding land bound by 519214, 4352587; 518819, 4352587; 518821, 4352178; 519216, 4352185; 519214, 4352587; 520020, 4352589; 520020, 4352989; 519208, 4352989; 519214, 4352587; and excluding land bound by 518397, 4352584; 517597, 4352585; 517601, 4351358; 518001, 4351362; 518008, 4352165; 518404, 4352174; 518397, 4352584; and excluding land bound by 525702, 4347790; 525713, 4347393; 526292, 4347457; 526287, 4347849; 525702, 4347790.

(B) Land bounded by the following UTM Zone 10, NAD83 coordinates (E, N): 498287, 4355794; 498290, 4355060; 498452, 4355010; 499110, 4355101; 499496, 4355056; 500087, 4354716; 500121, 4354486; 500319, 4354219; 500425, 4354171; 500573, 4353894; 500969, 4353864; 501200, 4353673; 501269, 4353333; 501225, 4352583; 501338, 4352470; 501510, 4352446; 501502, 4350527; 501000, 4350445; 500767, 4350261; 500547, 4350189; 500181, 4350297; 500119, 4350373; 499832, 4350316; 499828, 4350855; 499425, 4350855; 499439, 4351472; 499043, 4351466; 499058, 4352093; 498671, 4352097; 498679, 4352494; 498286, 4352475; 498293, 4354112; 497906, 4354105; 497905, 4354528; 497513, 4354517; 497500, 4355634; 497638, 4355747; 498287, 4355794.

(C) Land bounded by the following UTM Zone 10, NAD83 coordinates (E, N): 496363, 4355307; 495965, 4355294; 495960, 4354478; 496353, 4354489; 496363, 4355307; 496669, 4355317; 496734, 4355264; 496729, 4354498; 497121, 4354509; 497110, 4353267; 496329, 4353248; 496333, 4353673; 495942, 4353673; 495939, 4353253; 495136, 4353261; 495146, 4357150; 496740, 4357141; 496746, 4356440; 496358, 4356431; 496331, 4356117; 496527, 4355823; 496507, 4355717; 496368, 4355712; 496363, 4355307.

(D) Land bounded by the following UTM Zone 10, NAD83 coordinates (E, N): 498904, 4361532; 498965, 4361413; 498761, 4361140; 498784, 4361095; 498920, 4360958; 499397, 4360777; 499528, 4360826; 499526, 4360405; 500318, 4360400; 500314, 4359584; 500720, 4359578; 500719, 4359174; 501121, 4359172; 501114, 4358767; 502318, 4358762; 502320, 4359563; 502720, 4359557; 502726, 4360371; 503904, 4360345; 504386, 4359954; 504347, 4359717; 504457, 4359601; 504489, 4359408; 504807, 4359126; 504453, 4358365; 503533, 4358345; 503539, 4357924; 503119, 4357929; 503121, 4357507; 502320, 4357514; 502326, 4357109; 503545, 4357102; 503542, 4357514; 503941, 4357513; 503937, 4356615; 504232, 4356546; 504440, 4356256; 504375, 4356103; 503935, 4355660; 503635, 4355706; 503330, 4355968; 502717, 4355866; 502810, 4355151; 502697, 4355015; 502493, 4354947; 502289, 4354787; 502039, 4354764; 501494, 4354786; 501131, 4354899; 500336, 4355284; 500221, 4355829; 499904, 4355879; 499903, 4356265; 499846, 4356279; 499761, 4356657; 499521, 4356652; 499394, 4356376; 499314, 4356330; 498938, 4356497; 498663, 4356939; 498585, 4356916; 498381, 4357052; 498199, 4357075; 498018, 4357211; 497868, 4357511; 497803, 4357983; 497426, 4357982; 497421, 4358778; 496641, 4358774; 496660, 4359983; 497056, 4359991; 497060, 4360793; 497862, 4360812; 497865, 4361613; 498904, 4361532; and excluding land bound by 500719, 4357136; 501122, 4357126; 501122, 4357528; 501519, 4357522; 501516, 4357934; 500721, 4357946; 500719, 4357136; and excluding land bound by 501536, 4356201; 501544, 4355787; 502333, 4355792; 502330, 4356204; 502127, 4356204; 502131, 4356374; 501928, 4356373; 501922, 4356204; 501536, 4356201.

(E) Land bounded by the following UTM Zone 10, NAD83 coordinates (E, N): 493029, 4366522; 493020, 4366607; 494630, 4366564; 494640, 4366475; 493029, 4366522.

(F) Land bounded by the following UTM Zone 10, NAD83 coordinates (E, N): 495384, 4367537; 495157, 4367798; 495396, 4367795; 495384, 4367537.

(G) Land bounded by the following UTM Zone 10, NAD83 coordinates (E, N): 491746, 4366694; 491333, 4366691; 491380, 4366217; 491822, 4366191; 491746, 4366694; 493029, 4366522; 493168, 4365221; 491966, 4365222; 491520, 4365281; 491528, 4364857; 491086, 4364913; 491083, 4364521; 490192, 4364632; 489789, 4364613; 489752, 4365860; 490625, 4365864; 490579, 4366268; 490980, 4366243; 490936, 4366689; 489685, 4366664; 489656, 4367914; 488786, 4367862; 488785, 4369137; 489277, 4369135; 489263, 4368287; 490069, 4368340; 490064, 4367939; 490479, 4367962; 490476, 4367562; 491682, 4367575; 491746, 4366694.

(H) Land bounded by the following UTM Zone 10, NAD83 coordinates (E, N): 494168, 4369452; 494015, 4369635; 493965, 4369855; 494166, 4369853; 494168, 4369452.

(I) Land bounded by the following UTM Zone 10, NAD83 coordinates (E, N): 493743, 4373518; 493775, 4372256; 494174, 4372253; 494185, 4371874; 495803, 4371870; 495789, 4370661; 496189, 4370664; 496195, 4371262; 496993, 4371254; 496998, 4370666; 497479, 4370665; 497481, 4371066; 498280, 4371063; 498279, 4370665; 498743, 4370664; 498747, 4371930; 499096, 4371900; 499141, 4372661; 499526, 4372645; 499523, 4371821; 500300, 4371783; 500302, 4370965; 500708, 4370962; 500711, 4370550; 501124, 4370548; 501124, 4370147; 501527, 4370143; 500981, 4370149; 500732, 4370247; 500303, 4370510; 500303, 4370562; 499907, 4370567; 499902, 4370157; 500303, 4370155; 500297, 4369754; 499486, 4369776; 499477, 4369372; 500285, 4369350; 500266, 4368542; 499905, 4368543; 499905, 4368146; 499500, 4368148; 499567, 4367334; 498738, 4367345; 498740, 4367749; 498312, 4367757; 498295, 4368160; 497900, 4368168; 497910, 4367769; 497082, 4367786; 497127, 4366952; 499159, 4366920; 499158, 4366501; 499276, 4366499; 499276, 4366227; 499230, 4365517; 499095, 4365558; 499062, 4365482; 499160, 4364894; 498295, 4364896; 498290, 4363692; 495938, 4363589; 495940, 4363992; 495538, 4363988; 495537, 4364789; 495198, 4364786; 495085, 4366061; 494699, 4366067; 495087, 4366098; 495059, 4366325; 494754, 4366765; 494687, 4366985; 494958, 4366983; 495096, 4367116; 495410, 4366979; 495867, 4366969; 495838, 4367790; 496241, 4367789; 496228, 4368191; 494988, 4368204; 494986, 4368615; 494580, 4368624; 494567, 4370666; 494164, 4370670; 494168, 4371074; 493266, 4371066; 493143, 4371149; 492831, 4371130; 492676, 4371246; 492597, 4371196; 492358, 4371245; 492311, 4371306; 492302, 4371423; 492448, 4371612; 492408, 4372300; 492469, 4372285; 492528, 4372118; 492516, 4372051; 492424, 4372289; 492466, 4371616; 492584, 4371838; 492767, 4371845; 493078, 4372058; 493429, 4371771; 493495, 4371909; 493629, 4371984; 493591, 4372164; 493713, 4372500; 493719, 4372949; 493474, 4373273; 493280, 4373237; 493120, 4373467; 492087, 4373337; 492087, 4373498; 493743, 4373518.

(J) Land bounded by the following UTM Zone 10, NAD83 coordinates (E, N): 490467, 4375345; 490469, 4374974; 491688, 4374992; 491692, 4374617; 492100, 4374626; 492099, 4374111; 491970, 4374125; 491793, 4374025; 491602, 4373737; 491448, 4373710; 491507, 4373790; 491484, 4374046; 491419, 4374168; 491263, 4374221; 491292, 4374384; 491018, 4374465; 491064, 4374619; 490931, 4374702; 490842, 4374889; 490458, 4374893; 490449, 4375280; 490046, 4375290; 490045, 4375340; 490467, 4375345.

(K) Land bounded by the following UTM Zone 10, NAD83 coordinates (E, N): 491234, 4378843; 491288, 4378512; 491176, 4378247; 491035, 4378156; 490823, 4378133; 490834, 4378826; 491234, 4378843.

(L) Land bounded by the following UTM Zone 10, NAD83 coordinates (E, N): 508479, 4379279; 508646, 4379307; 508811, 4379227; 508974, 4379305; 508957, 4379180; 509097, 4379092; 509387, 4379066; 509659, 4378813; 509861, 4378850; 509921, 4378653; 510233, 4378574; 510251, 4378412; 510413, 4378370; 510569, 4378535; 510842, 4378504; 510962, 4378340; 511147, 4378324; 511559, 4378143; 511753, 4378163; 511863, 4378067; 511949, 4378123; 512189, 4378013; 512211, 4377902; 512116, 4377802; 512100, 4377651; 512141, 4377532; 512040, 4377261; 512238, 4377150; 512291, 4377038; 512063, 4376617; 512135, 4376436; 512241, 4376408; 512402, 4376095; 512488, 4376062; 512849, 4375428; 513072, 4375509; 513554, 4375541; 513815, 4375670; 514297, 4375696; 514478, 4375570; 515021, 4375713; 515114, 4375845; 515045, 4376134; 515092, 4376193; 515550, 4376078; 515603, 4376167; 515792, 4376215; 516238, 4376489; 516441, 4376432; 516480, 4376559; 516676, 4376641; 516943, 4376591; 517028, 4376798; 516981, 4376980; 517478, 4376997; 517483, 4377330; 517605, 4377460; 517838, 4377417; 517915, 4377565; 518041, 4377535; 518173, 4377701; 518363, 4377724; 518535, 4377661; 518725, 4377778; 518863, 4377748; 518897, 4377828; 519090, 4377824; 519338, 4378129; 519634, 4378187; 519677, 4378307; 520259, 4378450; 520397, 4378410; 520416, 4378174; 520557, 4378079; 520784, 4378107; 520834, 4378007; 521240, 4377981; 521318, 4377824; 521397, 4377894; 521487, 4377792; 521627, 4377868; 521707, 4377637; 521903, 4377707; 522080, 4377529; 522225, 4377616; 522457, 4377554; 522549, 4377687; 522684, 4377698; 522759, 4377814; 523059, 4377823; 523199, 4377730; 523773, 4377701; 523991, 4377614; 524351, 4377657; 524505, 4377610; 524874, 4377771; 525175, 4377786; 525555, 4377756; 526273, 4377468; 526710, 4377504; 527047, 4377439; 527342, 4377300; 527484, 4377131; 527725, 4377042; 528152, 4376730; 528159, 4376438; 528303, 4375928; 528245, 4375626; 528079, 4375551; 527763, 4375067; 527552, 4374946; 527342, 4374583; 527140, 4374421; 527300, 4373838; 527546, 4373614; 527526, 4373547; 527070, 4373338; 526470, 4373226; 526239, 4373083; 526272, 4372792; 526457, 4372677; 526555, 4372399; 527217, 4371997; 527326, 4371669; 526850, 4371396; 526509, 4371282; 525533, 4371121; 525026, 4370966; 524400, 4371046; 523938, 4371213; 523543, 4371511; 523411, 4371544; 523176, 4371402; 522864, 4371323; 522553, 4370677; 522651, 4370316; 522402, 4370524; 522456, 4370770; 522161, 4370899; 521910, 4371173; 521401, 4371376; 520807, 4371477; 520207, 4371323; 519203, 4370568; 518248, 4370407; 517827, 4370467; 517661, 4370586; 517264, 4370537; 516768, 4370824; 516458, 4370855; 516277, 4371022; 515736, 4370997; 515337, 4371104; 515026, 4371564; 514683, 4371285; 514910, 4371327; 514857, 4371101; 515038, 4370882; 514839, 4371097; 514893, 4371317; 514591, 4371262; 514532, 4371392; 514333, 4371337; 514304, 4371378; 514148, 4371221; 513953, 4371168; 513944, 4371122; 514121, 4371067; 514054, 4370917; 514200, 4370760; 514307, 4370770; 514349, 4370622; 514294, 4370755; 514190, 4370745; 514037, 4370910; 514103, 4371060; 513920, 4371128; 514243, 4371315; 514215, 4371436; 514296, 4371548; 514212, 4371683; 514227, 4371809; 514098, 4371890; 513990, 4371851; 513890, 4372005; 513758, 4371962; 513534, 4372156; 513678, 4372146; 513728, 4372253; 513832, 4372231; 513817, 4372347; 513916, 4372368; 513922, 4372444; 514350, 4372524; 514454, 4372856; 514568, 4372936; 514845, 4372981; 514989, 4373138; 515158, 4373068; 515161, 4373011; 515003, 4372975; 515290, 4372674; 515512, 4373297; 515225, 4373467; 515328, 4373659; 515328, 4374066; 515454, 4374374; 515469, 4374593; 515054, 4374545; 514974, 4374645; 514726, 4374463; 514266, 4374349; 514163, 4374484; 514104, 4374723; 513890, 4374801; 513869, 4374878; 512762, 4374878; 512869, 4374647; 512864, 4374324; 512939, 4374202; 512949, 4373440; 513029, 4373263; 513148, 4373233; 512948, 4373011; 512658, 4372463; 512262, 4372132; 512336, 4371833; 512299, 4371519; 512410, 4371296; 512272, 4371081; 512384, 4371059; 512407, 4370929; 512276, 4370778; 512259, 4370556; 512083, 4370234; 511936, 4370151; 511763, 4370203; 511762, 4370034; 511495, 4369859; 511464, 4369664; 511217, 4369592; 511073, 4369434; 510728, 4369521; 510329, 4369735; 509442, 4369276; 508741, 4369041; 508412, 4369212; 508218, 4369618; 508061, 4369787; 507618, 4369850; 507032, 4370058; 506799, 4370283; 506750, 4370695; 506673, 4370852; 506409, 4371002; 506150, 4371439; 505724, 4371845; 505641, 4372140; 505298, 4372627; 505186, 4372899; 505276, 4373462; 505106, 4374124; 505105, 4374930; 504743, 4375314; 504499, 4375386; 504825, 4375646; 505000, 4375664; 505496, 4376106; 505581, 4376243; 505579, 4376372; 505699, 4376526; 506136, 4376799; 506733, 4378121; 507207, 4378385; 507397, 4378353; 507812, 4378611; 507977, 4379022; 508219, 4379106; 508304, 4379295; 508479, 4379279; and excluding land bound by 509762, 4372024; 510541, 4372060; 510535, 4372436; 509760, 4372382; 509762, 4372024.

(M) Land bounded by the following UTM Zone 10, NAD83 coordinates (E, N): 493276, 4379616; 493437, 4379674; 493571, 4379406; 493764, 4379486; 493922, 4379417; 494018, 4379323; 493901, 4379218; 494319, 4379202; 494333, 4378685; 493690, 4378635; 493688, 4377851; 492797, 4377834; 492781, 4378225; 493071, 4378237; 492762, 4378494; 492428, 4378666; 492204, 4379083; 492358, 4379192; 492517, 4379159; 492512, 4379303; 492779, 4379412; 492752, 4379612; 492906, 4379615; 493065, 4379713; 493276, 4379616.

(N) Land bounded by the following UTM Zone 10, NAD83 coordinates (E, N): 489893, 4380657; 489991, 4380537; 489884, 4380329; 489889, 4380103; 489775, 4379808; 490081, 4379830; 490308, 4379668; 490445, 4379670; 490444, 4379593; 490558, 4379550; 490444, 4379515; 490463, 4378504; 490068, 4378491; 490069, 4378087; 489665, 4378078; 489655, 4377267; 489544, 4377519; 489296, 4377703; 489310, 4377361; 489110, 4377553; 489167, 4377228; 488996, 4377479; 489180, 4377244; 489092, 4377559; 489167, 4377560; 489297, 4377376; 489280, 4377721; 489108, 4377719; 488952, 4377884; 488513, 4378085; 488359, 4378073; 488348, 4377962; 488293, 4377943; 487810, 4377976; 487697, 4377819; 487358, 4377894; 487381, 4377801; 487508, 4377708; 487429, 4377576; 487599, 4377525; 487683, 4377424; 487626, 4377344; 487623, 4377122; 487705, 4377009; 487631, 4376931; 487723, 4376837; 487696, 4376777; 487552, 4376845; 487462, 4376777; 487382, 4376803; 487459, 4376975; 487394, 4376817; 487552, 4376863; 487702, 4376814; 487613, 4376930; 487687, 4377011; 487604, 4377121; 487663, 4377420; 487588, 4377509; 487244, 4377588; 487246, 4377691; 487084, 4377959; 487052, 4377912; 486863, 4377915; 486458, 4378104; 486459, 4378326; 487873, 4378270; 487884, 4380306; 488075, 4380305; 488080, 4380504; 488285, 4380505; 488283, 4380707; 488884, 4380706; 488885, 4380460; 489665, 4380474; 489675, 4381244; 489946, 4381251; 489952, 4381088; 489805, 4380805; 489893, 4380657.

(O) Land bounded by the following UTM Zone 10, NAD83 coordinates (E, N): 494975, 4386986; 494949, 4386978; 494871, 4387034; 494975, 4386986.

(P) Land bounded by the following UTM Zone 10, NAD83 coordinates (E, N): 495406, 4387047; 495718, 4387035; 495031, 4386976; 495406, 4387047.

(Q) Land bounded by the following UTM Zone 10, NAD83 coordinates (E, N): 496319, 4388741; 496666, 4388744; 496780, 4388495; 496574, 4387992; 496320, 4387991; 496335, 4387104; 496228, 4387198; 495745, 4387043; 495814, 4387123; 496108, 4387165; 496140, 4387218; 495947, 4387841; 496190, 4388359; 496320, 4388360; 496319, 4388741.

(R) Land bounded by the following UTM Zone 10, NAD83 coordinates (E, N): 493579, 4387605; 493695, 4387617; 494247, 4387167; 494632, 4387152; 494817, 4387043; 494553, 4387133; 494219, 4387111; 493715, 4387470; 493665, 4387563; 493562, 4387541; 493409, 4387694; 493366, 4388038; 493424, 4388200; 493575, 4388286; 493718, 4388546; 493705, 4389060; 493841, 4389333; 494103, 4389583; 494086, 4389462; 493928, 4389327; 493853, 4388616; 493623, 4388248; 493428, 4388081; 493387, 4387870; 493579, 4387605.

(S) Land bounded by the following UTM Zone 10, NAD83 coordinates (E, N): 496319, 4388741; 496171, 4388741; 496257, 4389009; 495941, 4389530; 495971, 4389636; 495793, 4389715; 495633, 4389900; 495819, 4390088; 496043, 4390060; 496398, 4389786; 496491, 4389594; 496515, 4389489; 496321, 4389491; 496319, 4388741.

(T) Land bounded by the following UTM Zone 10, NAD83 coordinates (E, N): 500983, 4401748; 501114, 4401696; 501254, 4401344; 501895, 4401350; 502218, 4401167; 502381, 4401197; 502922, 4400756; 502927, 4400560; 503296, 4400562; 503315, 4400407; 503475, 4400371; 503684, 4400173; 503676, 4399961; 503784, 4399654; 503709, 4399468; 503901, 4399229; 503860, 4399033; 503993, 4398585; 504080, 4398520; 504195, 4398584; 504257, 4398426; 504369, 4398388; 504350, 4398227; 504436, 4398044; 504672, 4398077; 504771, 4397949; 504802, 4397648; 505124, 4397530; 505276, 4397085; 505469, 4397037; 505580, 4396625; 505797, 4396637; 505903, 4396576; 505943, 4396456; 505836, 4396408; 505786, 4396219; 506018, 4395638; 506299, 4395197; 506471, 4395059; 506513, 4394777; 506445, 4394491; 506770, 4394185; 506769, 4393875; 506939, 4393708; 506880, 4393402; 507053, 4393180; 506995, 4393037; 507145, 4392946; 507168, 4392588; 507256, 4392394; 507139, 4392233; 507055, 4391928; 507143, 4391682; 507127, 4391181; 507186, 4391128; 506882, 4391123; 506902, 4389912; 507280, 4389918; 507284, 4390372; 507516, 4390335; 507692, 4390129; 507854, 4390078; 507856, 4390031; 507669, 4390023; 507650, 4389226; 508476, 4389271; 508483, 4389645; 508607, 4389548; 508583, 4389364; 508674, 4389198; 509062, 4388665; 509161, 4388614; 509198, 4388492; 509501, 4388185; 508863, 4388147; 508858, 4387772; 509598, 4387803; 509620, 4387547; 509768, 4387314; 510058, 4387072; 510225, 4386695; 510354, 4386582; 510228, 4386347; 510258, 4385973; 509986, 4385700; 509147, 4385381; 507989, 4385084; 507127, 4384719; 506809, 4384787; 506787, 4385423; 506432, 4385604; 506316, 4385770; 506023, 4385507; 505885, 4385469; 505496, 4385609; 505349, 4385504; 504991, 4385677; 504855, 4385506; 504325, 4385147; 504324, 4385411; 503507, 4385410; 503508, 4385273; 503315, 4385215; 503032, 4385481; 503093, 4385729; 502929, 4385714; 502626, 4385852; 502330, 4385607; 502226, 4385621; 502000, 4385836; 501883, 4385759; 501552, 4385774; 501264, 4385689; 501076, 4385746; 501029, 4385687; 499660, 4385534; 498744, 4385622; 499005, 4385666; 499117, 4385754; 499574, 4385756; 499808, 4385907; 499937, 4386420; 499905, 4386761; 500010, 4386964; 499878, 4387281; 500032, 4387476; 499990, 4387597; 500109, 4387962; 499991, 4388157; 500031, 4388241; 499948, 4388424; 499954, 4388851; 499903, 4388907; 500296, 4389022; 500439, 4388596; 500499, 4388087; 500464, 4387712; 500574, 4387878; 500878, 4388816; 500888, 4389013; 500737, 4389555; 500485, 4389786; 499576, 4390103; 499448, 4390351; 499456, 4390685; 499917, 4390767; 500096, 4390959; 499951, 4390925; 499782, 4390987; 500125, 4391229; 500008, 4391566; 499866, 4391769; 500009, 4391604; 500095, 4391353; 500139, 4391725; 500221, 4391801; 500326, 4391792; 500374, 4391875; 500413, 4391832; 500377, 4391739; 500289, 4391710; 500285, 4391485; 500406, 4391602; 500540, 4391493; 500871, 4391419; 501109, 4391476; 501244, 4391765; 501476, 4391559; 501574, 4391541; 502004, 4391864; 502243, 4391900; 502637, 4391764; 502893, 4391941; 502648, 4391889; 502316, 4392044; 502246, 4392281; 502011, 4392529; 501748, 4393120; 501620, 4393236; 501593, 4393454; 501300, 4393725; 501105, 4394054; 500837, 4394163; 500554, 4394962; 500458, 4395115; 500073, 4395421; 499900, 4396034; 499568, 4396395; 499489, 4396609; 499221, 4396741; 498817, 4396817; 498643, 4397173; 498075, 4397242; 497931, 4397441; 497596, 4397496; 497338, 4397632; 496977, 4398087; 496893, 4398647; 496754, 4399028; 496251, 4399238; 495994, 4399737; 495595, 4400043; 495399, 4400378; 496168, 4400783; 496475, 4401071; 497166, 4401039; 497167, 4401330; 497451, 4401447; 497428, 4401348; 497548, 4401008; 498524, 4400873; 499158, 4400913; 499466, 4400777; 499656, 4400766; 499972, 4401057; 500196, 4401497; 500287, 4401557; 500360, 4401505; 500546, 4401943; 500505, 4402078; 500610, 4402100; 500740, 4401871; 500983, 4401748; and excluding land bound by 502877, 4399736; 502836, 4398963; 503649, 4398961; 503690, 4399779; 502879, 4399778; 502877, 4399736; and excluding land bound by 501170, 4398632; 501152, 4399052; 500738, 4399044; 500755, 4398627; 501170, 4398632; and excluding land bound by 503274, 4394635; 503287, 4394254; 504517, 4394274; 504501, 4395038; 504081, 4395035; 504089, 4394648; 503274, 4394635; and excluding land bound by 506161, 4394265; 506125, 4392665; 506495, 4392627; 506498, 4394173; 506161, 4394265; and excluding land bound by 503660, 4387967; 504079, 4387959; 504071, 4388747; 503660, 4388737; 503660, 4387967.

(U) Land bounded by the following UTM Zone 10, NAD83 coordinates (E, N): 508682, 4425293; 509486, 4425276; 509543, 4425154; 508251, 4425141; 508434, 4423935; 509215, 4423942; 509219, 4423896; 509184, 4423562; 508397, 4423589; 508280, 4422518; 508299, 4422102; 507892, 4422168; 507932, 4421409; 508336, 4421363; 508356, 4420990; 507941, 4421034; 507951, 4420636; 508764, 4420553; 508771, 4420182; 508379, 4420233; 508396, 4419546; 508182, 4415067; 509759, 4415139; 512144, 4415141; 512202, 4415752; 512599, 4415832; 512572, 4415484; 512962, 4415529; 512937, 4415154; 513758, 4415153; 513811, 4416240; 513414, 4416260; 513439, 4416626; 514613, 4416552; 514560, 4415153; 516185, 4415126; 516187, 4416755; 516518, 4416747; 516514, 4416334; 516899, 4416332; 516897, 4416740; 517676, 4416735; 517675, 4415926; 518078, 4415936; 518078, 4415541; 518473, 4415548; 518476, 4415948; 519692, 4415973; 519681, 4417584; 520094, 4417579; 520099, 4417188; 520913, 4417180; 520854, 4418777; 520450, 4418774; 520429, 4419172; 519635, 4419188; 519611, 4419589; 520011, 4419585; 519976, 4420022; 521185, 4420010; 521224, 4420954; 522845, 4420888; 522853, 4420012; 524070, 4420039; 524071, 4418414; 524415, 4418412; 524992, 4417803; 525243, 4417349; 525277, 4416815; 524294, 4416819; 524060, 4416547; 524024, 4416395; 524087, 4415486; 524165, 4415398; 524219, 4415466; 524556, 4415324; 524833, 4415326; 525103, 4415008; 524879, 4414572; 524790, 4414499; 524197, 4414343; 523748, 4414087; 522950, 4413843; 522559, 4413346; 522820, 4412985; 523374, 4412665; 523591, 4412379; 523837, 4412224; 523328, 4411675; 523412, 4411375; 523677, 4411266; 523699, 4411207; 523692, 4409627; 524086, 4409624; 524091, 4410419; 524904, 4410409; 524906, 4408415; 524496, 4408428; 524490, 4409219; 523692, 4409225; 523690, 4408834; 523289, 4408832; 523296, 4409225; 522897, 4409227; 522894, 4408829; 520615, 4408777; 520604, 4408647; 520465, 4408647; 520197, 4408686; 520198, 4409232; 519767, 4409252; 519740, 4408473; 519289, 4408496; 519266, 4408081; 518891, 4408076; 518903, 4408491; 518494, 4408476; 518477, 4407937; 518042, 4408054; 518034, 4408121; 517797, 4407901; 517668, 4407876; 517705, 4408842; 516476, 4408786; 516320, 4409023; 516015, 4409153; 515972, 4409236; 515328, 4409244; 514766, 4409137; 514417, 4409172; 513998, 4409042; 513743, 4409050; 513709, 4408754; 513529, 4408246; 513641, 4407978; 513569, 4407791; 513669, 4407648; 513666, 4407059; 513552, 4406922; 513543, 4406793; 513948, 4406541; 514126, 4406555; 514293, 4406489; 514450, 4406197; 514717, 4406078; 514755, 4405912; 514911, 4405873; 515033, 4405745; 515039, 4405552; 515151, 4405516; 515195, 4405285; 515347, 4405129; 515387, 4404931; 515548, 4404926; 515616, 4404634; 515801, 4404600; 515819, 4404385; 515998, 4404393; 516054, 4404277; 516235, 4404167; 516282, 4403965; 516441, 4403846; 516435, 4403752; 516190, 4403559; 515986, 4402573; 515800, 4402236; 515680, 4402150; 515774, 4402071; 515772, 4401865; 515506, 4401645; 515466, 4401347; 515593, 4401075; 515857, 4400899; 518920, 4400853; 518949, 4399306; 517969, 4398805; 517786, 4398366; 517824, 4397903; 518187, 4397586; 518188, 4397382; 517961, 4396950; 517689, 4396813; 517394, 4396813; 516690, 4397221; 516213, 4397175; 515918, 4397265; 515395, 4397627; 515293, 4398087; 514592, 4397962; 514604, 4398363; 514009, 4398260; 514009, 4397991; 513585, 4398024; 512363, 4398714; 512173, 4398993; 511593, 4399234; 511162, 4399536; 510897, 4400141; 510692, 4400450; 510831, 4402105; 510639, 4403659; 510267, 4403652; 510421, 4402111; 509169, 4402124; 508464, 4402636; 507874, 4402612; 507624, 4402680; 507179, 4403015; 506647, 4403564; 506446, 4403911; 505761, 4404516; 505493, 4405098; 505169, 4405378; 504922, 4405760; 504908, 4406161; 504810, 4406158; 504803, 4406210; 504880, 4406955; 504551, 4407694; 504564, 4408181; 504399, 4408942; 504392, 4409665; 504151, 4410009; 504178, 4410184; 504072, 4410395; 503959, 4410463; 503640, 4410894; 503912, 4411235; 504093, 4411644; 504161, 4412007; 504134, 4414709; 504179, 4415073; 504413, 4415664; 504390, 4416635; 504467, 4416834; 504287, 4417514; 504324, 4417599; 504718, 4417719; 505364, 4417792; 505493, 4417911; 505886, 4417959; 506308, 4418822; 506421, 4419276; 506261, 4419526; 505762, 4419797; 505398, 4420115; 504875, 4420432; 504875, 4420614; 504693, 4421090; 504692, 4421431; 504783, 4421681; 505009, 4421953; 506070, 4422811; 506347, 4423386; 506436, 4423976; 506385, 4424162; 507330, 4424163; 507303, 4423776; 507719, 4423768; 507662, 4423010; 507913, 4422935; 508028, 4424069; 507960, 4424899; 507740, 4424995; 507727, 4425757; 508064, 4425884; 508056, 4425937; 508682, 4425293; and excluding land bound by 520531, 4414358; 520532, 4413958; 520904, 4413959; 520913, 4414362; 520531, 4414358; and excluding land bound by 517762, 4413886; 517783, 4413552; 518160, 4413555; 518151, 4413947; 517758, 4413950; 517762, 4413886; and excluding land bound by 504918, 4412121; 505343, 4412112; 505331, 4412539; 504831, 4412496; 504832, 4412432; 504914, 4412430; 504918, 4412121; and excluding land bound by 510185, 4410762; 510182, 4410352; 510590, 4410359; 510589, 4410764; 510185, 4410762; 510184, 4411563; 509791, 4411560; 509783, 4410759; 510185, 4410762; and excluding land bound by 519402, 4411135; 519397, 4410751; 519800, 4410777; 519809, 4411171; 519402, 4411135; and excluding land bound by 512593, 4410771; 511392, 4410775; 511393, 4410379; 511798, 4410375; 511814, 4409566; 512215, 4409567; 512205, 4409970; 512601, 4409975; 512593, 4410771; and excluding land bound by 506787, 4407803; 506790, 4407585; 507197, 4407594; 507192, 4407797; 506787, 4407803; and excluding land bound by 511024, 4403662; 511075, 4403276; 511867, 4403286; 511801, 4403680; 511416, 4403676; 511453, 4404446; 511065, 4404435; 511024, 4403662.

(V) Land bounded by the following UTM Zone 10, NAD83 coordinates (E, N): 494627, 4429352; 494410, 4429604; 493850, 4429894; 494013, 4429981; 494095, 4429958; 494539, 4429621; 494627, 4429352.

(W) Land bounded by the following UTM Zone 10, NAD83 coordinates (E, N): 499435, 4429986; 499368, 4428937; 499084, 4428318; 498622, 4428309; 498343, 4428390; 498644, 4428459; 498620, 4428563; 498532, 4428585; 498357, 4428577; 498272, 4428445; 498201, 4428438; 497637, 4428483; 497553, 4428604; 497295, 4428573; 497118, 4428465; 496966, 4428512; 497146, 4428769; 497452, 4428923; 497591, 4428808; 497759, 4428770; 497870, 4428634; 498069, 4428686; 498724, 4428609; 498792, 4428510; 499179, 4428791; 499289, 4429124; 499223, 4429469; 498981, 4429772; 498583, 4429898; 498112, 4429976; 497561, 4429856; 496830, 4429242; 496489, 4429060; 495804, 4429007; 494918, 4429115; 497339, 4429946; 498743, 4430325; 499081, 4430255; 499435, 4429986.

(X) Land bounded by the following UTM Zone 10, NAD83 coordinates (E, N): 493326, 4430139; 493636, 4430004; 493105, 4430016; 492851, 4429928; 492566, 4429664; 492424, 4429410; 492398, 4429516; 492250, 4429634; 491554, 4429880; 491457, 4430524; 491573, 4430778; 492090, 4430698; 492288, 4430643; 492682, 4430311; 493326, 4430139.

(Y) Land bounded by the following UTM Zone 10, NAD83 coordinates (E, N): 501441, 4454239; 501741, 4454065; 501878, 4454066; 501891, 4453846; 502122, 4453671; 502226, 4453443; 502028, 4452983; 502032, 4452602; 501921, 4452386; 501893, 4451765; 501954, 4451336; 502076, 4451173; 502322, 4451025; 502520, 4450512; 502417, 4450485; 502270, 4450289; 502201, 4450381; 502186, 4450928; 501008, 4450932; 499844, 4451027; 499846, 4451424; 498136, 4451447; 498116, 4451824; 497887, 4452365; 497650, 4452496; 497517, 4453374; 497386, 4453667; 497365, 4453844; 497447, 4454116; 497386, 4454232; 497664, 4454214; 497717, 4453826; 499334, 4453769; 499255, 4454651; 499731, 4455209; 500140, 4455220; 500413, 4455429; 500934, 4455256; 500998, 4454953; 501186, 4454842; 501243, 4454597; 501205, 4454403; 501441, 4454239.

(iii) Note: Map of Mendocino Coast Ranges Unit follows:

BILLING CODE 4310-55-S

BILLING CODE 4310-55-C

(31) Western Klamath/Siskiyou Mountains Unit (Unit 24). Del Norte, Humboldt, Shasta, Siskiyou, and Trinity Counties, California.

(i) The Western Klamath/Siskiyou Mountains Unit consists of 219, 300 ac (88, 700 ha) and is comprised of lands managed by the Six Rivers and Shasta-Trinity National Forests (215, 600 ac (87, 200 ha)) and BLM Redding Field Office (3, 700 ac (1, 500 ha)).

(ii) From USGS 1:24, 000 scale quadrangles Bark Shanty Gulch, Big Bar, Broken Rib Mountain, Chanchelulla Peak, Dedrick, Del Loma, Denny, Devils Punchbowl, Fish Lake, Hayfork, Hayfork Bally, Helena, Hopkins Butte, Hossimbim Mountain, Hurdygurdy Butte, Hyampom Mountain, Ironside Mountain, Jim Jam Ridge, Johnsons, Junction City, Lonesome Ridge, Mount Hilton, Orleans, Orleans Mountain, Pony Buck Peak, Prescott Mountain, Rush Creek Lakes, Salyer, Shelly Creek Ridge, Ship Mountain, Somes Bar, Thurston Peaks, Tish Tang Point, Trinity Mountain, Weitchpec, and Wildwood.

(A) Land bounded by the following UTM Zone 10, NAD83 coordinates (E, N): 505618, 4480861; 505756, 4480850; 505761, 4479716; 506189, 4479660; 506191, 4480331; 507445, 4480355; 507430, 4479949; 506599, 4479993; 506589, 4479260; 507396, 4479142; 507377, 4478728; 507789, 4478639; 507802, 4479071; 508200, 4479001; 508198, 4477835; 508597, 4477790; 508599, 4478108; 508997, 4478052; 508963, 4477140; 505790, 4477198; 505819, 4473874; 504195, 4473923; 504200, 4474320; 503837, 4474331; 503815, 4474742; 503427, 4474758; 503382, 4475577; 502607, 4475614; 501826, 4475542; 501813, 4475949; 502202, 4475996; 502177, 4476794; 501789, 4476753; 501799, 4476354; 501411, 4476314; 501426, 4475908; 501042, 4475877; 501054, 4475468; 500256, 4475509; 500229, 4473932; 500379, 4473933; 500069, 4473577; 499879, 4473029; 499853, 4472271; 499974, 4471907; 499601, 4470920; 499514, 4470534; 499691, 4469946; 499064, 4469942; 499064, 4469543; 499164, 4469542; 499164, 4469435; 499359, 4469432; 499353, 4469118; 499580, 4467611; 499155, 4467661; 499146, 4467268; 498737, 4467318; 498735, 4466930; 499146, 4466874; 499145, 4466511; 497886, 4466660; 497880, 4466283; 497538, 4466046; 497096, 4466038; 496602, 4466152; 496032, 4466119; 495683, 4466235; 495439, 4466507; 494885, 4466677; 494786, 4467354; 494356, 4468151; 493791, 4468710; 493613, 4469331; 493058, 4469378; 493055, 4471781; 492971, 4472327; 493063, 4475636; 494566, 4475625; 494627, 4478677; 497816, 4478709; 497801, 4475719; 498405, 4475756; 499431, 4476047; 499446, 4475587; 499521, 4475639; 499553, 4475831; 499682, 4476016; 499705, 4476288; 499965, 4476480; 500208, 4476546; 500255, 4476685; 500748, 4476769; 500863, 4476855; 500999, 4477145; 501004, 4477994; 501353, 4477874; 501735, 4478048; 502197, 4478088; 502574, 4478216; 502609, 4479308; 502812, 4479176; 503458, 4479265; 504048, 4479015; 504414, 4479106; 504545, 4479258; 504496, 4479535; 504807, 4479535; 504941, 4479650; 505024, 4480555; 505236, 4480803; 505618, 4480861; and excluding land bound by 495381, 4475575; 495382, 4477099; 495008, 4477091; 494990, 4475599; 495381, 4475575; and excluding land bound by 495367, 4474814; 495360, 4474054; 494562, 4474145; 494552, 4471167; 494201, 4471214; 494200, 4470043; 494560, 4470003; 494554, 4470375; 494956, 4470371; 494952, 4470751; 495344, 4470753; 495349, 4469990; 497396, 4469969; 497402, 4469582; 498589, 4469558; 498583, 4470749; 497386, 4470755; 497381, 4471144; 496578, 4471151; 496569, 4471555; 496147, 4471563; 496150, 4473146; 495754, 4473178; 495766, 4474780; 495367, 4474814; and excluding land bound by 497002, 4469187; 496999, 4468818; 497829, 4468843; 497806, 4469183; 497002, 4469187.

(B) Land bounded by the following UTM Zone 10, NAD83 coordinates (E, N): 504620, 4481751; 503510, 4481483; 503750, 4482056; 505492, 4482049; 504620, 4481751.

(C) Land bounded by the following UTM Zone 10, NAD83 coordinates (E, N): 505541, 4482105; 505496, 4482054; 505523, 4482805; 505851, 4482806; 505851, 4482438; 505693, 4482391; 505541, 4482105.

(D) Land bounded by the following UTM Zone 10, NAD83 coordinates (E, N): 503954, 4485096; 504775, 4485099; 504763, 4484727; 505575, 4484712; 505552, 4483585; 503926, 4483602; 503905, 4482808; 503097, 4482809; 503111, 4483607; 501429, 4483618; 501284, 4483864; 501183, 4484112; 501376, 4484195; 501870, 4484235; 502130, 4484466; 502299, 4484277; 502438, 4484259; 502540, 4484347; 502759, 4484882; 502948, 4485103; 503954, 4485096.

(E) Land bounded by the following UTM Zone 10, NAD83 coordinates (E, N): 467774, 4513669; 467754, 4513480; 467678, 4513484; 467559, 4512771; 467821, 4512354; 468216, 4512025; 468250, 4511839; 472235, 4511695; 472305, 4511450; 472499, 4511340; 472530, 4509183; 472861, 4509142; 473111, 4509239; 475267, 4510759; 475742, 4510708; 476476, 4510327; 476638, 4510352; 476913, 4509937; 476881, 4509536; 477681, 4509532; 477678, 4509845; 477874, 4509796; 477876, 4509919; 477678, 4509920; 477680, 4510112; 478134, 4510124; 478853, 4509807; 479868, 4509814; 480154, 4509666; 480359, 4509437; 480528, 4509388; 480738, 4509457; 481298, 4509987; 481952, 4510087; 481953, 4509930; 482341, 4509913; 482336, 4509712; 482167, 4509712; 482156, 4509094; 482257, 4509087; 482259, 4508992; 482461, 4508991; 482471, 4509271; 482780, 4509272; 482769, 4509599; 483191, 4509386; 483381, 4509383; 483567, 4509438; 483798, 4509672; 484073, 4509797; 484298, 4509288; 484396, 4508707; 484850, 4508648; 485099, 4508323; 485396, 4508100; 485632, 4507476; 486907, 4506473; 487233, 4505589; 487509, 4505368; 488764, 4504652; 488845, 4504459; 489282, 4504483; 489516, 4504767; 489795, 4504845; 490709, 4504889; 490918, 4504746; 490918, 4502866; 490635, 4502719; 490506, 4502723; 490438, 4502421; 490625, 4501887; 490918, 4501620; 490917, 4501110; 490788, 4500544; 490174, 4500056; 489056, 4499592; 488899, 4499454; 488491, 4499291; 488263, 4499074; 488296, 4498709; 488493, 4498355; 488378, 4498131; 488343, 4497815; 488163, 4497530; 488343, 4496708; 487376, 4496853; 487149, 4496780; 486788, 4496283; 486660, 4495762; 486554, 4495612; 486383, 4495695; 486309, 4495985; 486122, 4496028; 485527, 4495865; 484863, 4496111; 484612, 4496120; 484561, 4496033; 484272, 4495917; 484044, 4495918; 483759, 4496429; 483510, 4496533; 483238, 4496560; 483187, 4496883; 483546, 4497228; 483576, 4497471; 483525, 4497822; 483022, 4498545; 482713, 4499233; 482711, 4500308; 482221, 4500694; 481793, 4500845; 481365, 4500748; 481204, 4500603; 480990, 4500803; 480751, 4500692; 480507, 4500546; 479051, 4499259; 478415, 4499020; 478129, 4499046; 477459, 4499304; 477200, 4499240; 476352, 4499283; 476097, 4499112; 474885, 4499171; 474616, 4499656; 474557, 4500237; 474894, 4500358; 475340, 4500283; 475689, 4500348; 476251, 4500605; 476438, 4500610; 476941, 4500385; 477150, 4500370; 477348, 4500440; 478165, 4502389; 478123, 4502564; 477907, 4502570; 477728, 4502426; 477027, 4502308; 476852, 4502379; 476494, 4502678; 475773, 4502961; 473767, 4503330; 472368, 4503242; 472147, 4503406; 471600, 4503592; 471280, 4503509; 471093, 4503390; 470883, 4503041; 470722, 4502986; 470011, 4502175; 469733, 4502150; 469550, 4502020; 469335, 4502054; 468670, 4501944; 468553, 4502007; 468473, 4502203; 468522, 4502418; 468918, 4502774; 469046, 4503007; 468861, 4503098; 468322, 4503144; 467386, 4503643; 467219, 4503817; 467185, 4504090; 468342, 4504046; 468359, 4504819; 469167, 4504805; 469176, 4505593; 467549, 4505596; 467580, 4507109; 467454, 4508737; 465931, 4508749; 465905, 4509808; 465472, 4510015; 465215, 4510051; 465082, 4509965; 465148, 4510331; 465316, 4510331; 465303, 4511392; 465358, 4511929; 465512, 4512441; 465356, 4512927; 465288, 4513584; 465164, 4513590; 465071, 4513897; 465614, 4514243; 466126, 4514454; 466840, 4514565; 467298, 4514510; 467300, 4514414; 467517, 4514298; 467708, 4514066; 467774, 4513669; and excluding land bound by 478078, 4509030; 478079, 4508654; 478163, 4508659; 478169, 4508839; 478264, 4508840; 478261, 4509016; 478453, 4509016; 478457, 4509372; 478264, 4509371; 478263, 4509107; 478078, 4509030; and excluding land bound by 481568, 4509526; 481571, 4508745; 481969, 4508768; 481947, 4509507; 481568, 4509526; and excluding land bound by 481168, 4508722; 481168, 4509109; 480766, 4509093; 480763, 4509303; 480370, 4509273; 480383, 4508473; 481181, 4508529; 481168, 4508722; and excluding land bound by 476525, 4507150; 476485, 4508750; 475490, 4508702; 475515, 4507073; 476525, 4507150; and excluding land bound by 479701, 4507102; 479740, 4505521; 481316, 4505531; 481278, 4507118; 480283, 4507107; 480259, 4507499; 480071, 4507502; 480040, 4507697; 479838, 4507688; 479858, 4507498; 479667, 4507495; 479701, 4507102; and excluding land bound by 473988, 4505868; 473199, 4505874; 473195, 4505489; 472392, 4505488; 472406, 4503874; 475493, 4503921; 475497, 4505497; 473986, 4505487; 473988, 4505868; and excluding land bound by 469565, 4504688; 469571, 4504984; 469874, 4504980; 469865, 4505179; 469974, 4505177; 469972, 4505367; 469871, 4505370; 469869, 4505566; 469672, 4505573; 469666, 4505085; 469269, 4505096; 469267, 4504807; 469365, 4504805; 469365, 4504695; 469565, 4504688; and excluding land bound by 472391, 4505584; 472385, 4505891; 471596, 4505910; 471617, 4506308; 471224, 4506318; 471245, 4506706; 470853, 4506719; 470827, 4506323; 470419, 4506338; 470395, 4505944; 470799, 4505925; 470777, 4505630; 470968, 4505624; 470988, 4505825; 471200, 4505820; 471488, 4505810; 471486, 4505713; 471781, 4505705; 471778, 4505603; 472391, 4505584; and excluding land bound by 479297, 4509239; 478841, 4509249; 478839, 4509074; 479013, 4509068; 479015, 4508973; 479295, 4508972; 479297, 4509239; and excluding land bound by 479131, 4509452; 479135, 4509724; 478644, 4509724; 478644, 4509548; 478842, 4509537; 478843, 4509454; 479131, 4509452.

(F) Land bounded by the following UTM Zone 10, NAD83 coordinates (E, N): 495738, 4522855; 495730, 4522455; 496143, 4522465; 496142, 4522855; 495738, 4522855; 495983, 4522912; 496092, 4522867; 496641, 4523508; 496909, 4523681; 496920, 4523859; 497155, 4524269; 497158, 4524389; 497251, 4524405; 497315, 4524563; 497255, 4524809; 497465, 4524953; 497440, 4525049; 497639, 4525091; 497742, 4525233; 497818, 4525638; 497894, 4525755; 497840, 4526035; 497718, 4526165; 497792, 4526320; 497984, 4526358; 498080, 4525937; 498206, 4525838; 498092, 4525664; 498052, 4525315; 498310, 4525132; 498439, 4524947; 498083, 4524647; 498150, 4524470; 498087, 4524300; 497958, 4524230; 497954, 4524104; 497617, 4523743; 497323, 4523684; 497208, 4523452; 497484, 4523250; 497475, 4522842; 497692, 4522694; 497749, 4522536; 498104, 4522202; 498409, 4522173; 498775, 4522398; 499079, 4522189; 499351, 4522468; 499612, 4522485; 499772, 4522277; 499925, 4521842; 499868, 4521747; 499849, 4521226; 500108, 4521094; 499634, 4520881; 499402, 4520919; 498879, 4520790; 498768, 4520700; 498389, 4520660; 498260, 4520824; 498007, 4520611; 497687, 4520520; 497000, 4521271; 496521, 4521454; 496345, 4521296; 496265, 4520988; 495955, 4520579; 496007, 4520256; 495777, 4520044; 495348, 4519249; 494872, 4519062; 494491, 4518703; 494037, 4519781; 492881, 4520668; 492729, 4520689; 492717, 4522188; 492849, 4522281; 492888, 4522414; 495416, 4522398; 495447, 4522630; 495738, 4522855; and excluding land bound by 496387, 4522528; 496416, 4522276; 496545, 4522137; 496676, 4522181; 496955, 4522682; 496733, 4522708; 496690, 4522629; 496648, 4522711; 496387, 4522528; and excluding land bound by 495371, 4520233; 495375, 4520031; 495730, 4520032; 495733, 4520237; 495371, 4520233; and excluding land bound by 496791, 4523400; 496828, 4523499; 496780, 4523508; 496745, 4523427; 496791, 4523400; 496464, 4523222; 496413, 4522917; 496522, 4522905; 496590, 4523009; 496609, 4522888; 496921, 4523089; 496895, 4523269; 496728, 4523208; 496968, 4523473; 496885, 4523525; 496791, 4523400.

(G) Land bounded by the following UTM Zone 10, NAD83 coordinates (E, N): 487704, 4526377; 488054, 4526488; 488398, 4526329; 488731, 4526321; 489366, 4525887; 489356, 4525662; 489127, 4525467; 489171, 4525152; 488972, 4524899; 489122, 4524732; 489154, 4524450; 489293, 4524308; 489293, 4524194; 489113, 4523968; 488882, 4524010; 488757, 4523861; 488668, 4523689; 488724, 4523410; 488682, 4523233; 489158, 4522444; 489614, 4522230; 490101, 4522186; 490421, 4522036; 490484, 4521692; 490306, 4521283; 490422, 4520540; 490139, 4520526; 490158, 4518832; 490960, 4518768; 492550, 4519116; 492545, 4517553; 494129, 4517603; 494080, 4516025; 494147, 4514477; 492385, 4514433; 492406, 4515254; 490668, 4514170; 489070, 4514137; 489050, 4513274; 489159, 4512740; 488787, 4512844; 488669, 4513169; 488574, 4513170; 488478, 4513074; 488335, 4513122; 487906, 4513599; 487619, 4513647; 487245, 4513505; 487094, 4513886; 487096, 4514174; 487330, 4514744; 488324, 4514290; 488579, 4514278; 488812, 4514098; 488877, 4514102; 488985, 4514296; 489073, 4514283; 489087, 4514890; 489405, 4514934; 489154, 4515124; 489123, 4515394; 489220, 4515677; 489159, 4516075; 489078, 4516109; 489033, 4516270; 489108, 4516701; 489215, 4516784; 489240, 4517013; 489172, 4517104; 489419, 4517285; 489587, 4517283; 489714, 4517733; 489687, 4517846; 489510, 4517906; 489468, 4518079; 489340, 4518226; 488960, 4519440; 488763, 4519623; 488675, 4519873; 488664, 4520079; 488749, 4520323; 488650, 4520763; 488701, 4521106; 488636, 4521208; 488466, 4521259; 488476, 4521453; 488628, 4521865; 488750, 4521999; 488699, 4522254; 488521, 4522283; 488571, 4522016; 488425, 4521886; 488291, 4521465; 488278, 4521205; 488150, 4521137; 488339, 4521685; 488100, 4521815; 487932, 4521783; 487720, 4522048; 487673, 4522548; 487565, 4522729; 487632, 4523251; 487540, 4523417; 487608, 4523776; 487556, 4523977; 487579, 4524415; 487670, 4524608; 488138, 4524730; 487618, 4525390; 487657, 4525586; 487504, 4526047; 487555, 4526528; 487176, 4526861; 487183, 4527066; 487001, 4527255; 486752, 4527730; 486563, 4527813; 486438, 4528048; 486248, 4528150; 486462, 4528258; 486697, 4528493; 486898, 4528529; 487234, 4528736; 487497, 4528968; 487617, 4529141; 487695, 4529618; 487751, 4529028; 487366, 4528471; 487260, 4528353; 487044, 4528259; 487001, 4528171; 487158, 4527967; 487250, 4527420; 487401, 4527334; 487595, 4526894; 487704, 4526377; and excluding land bound by 488200, 4523788; 488196, 4523568; 487998, 4523568; 487993, 4523369; 488398, 4523368; 488402, 4523784; 488200, 4523788; and excluding land bound by 490173, 4517141; 489923, 4515007; 490360, 4515066; 490413, 4515587; 490818, 4515594; 490970, 4516948; 490173, 4517141.

(H) Land bounded by the following UTM Zone 10, NAD83 coordinates (E, N): 469001, 4533644; 469898, 4533665; 470312, 4532993; 470610, 4532711; 470896, 4532599; 471017, 4532224; 471470, 4531913; 471141, 4531821; 471089, 4531307; 471368, 4530704; 471473, 4530266; 471421, 4529740; 471344, 4529626; 471445, 4529318; 471317, 4529241; 471054, 4529295; 470776, 4528940; 471048, 4528714; 471115, 4528557; 471279, 4528492; 471330, 4528297; 471467, 4528179; 471491, 4528036; 471397, 4527910; 471075, 4527751; 471064, 4527639; 471603, 4526989; 471739, 4526732; 471824, 4526300; 472283, 4526269; 472428, 4526126; 472891, 4525934; 473151, 4525726; 473272, 4525678; 473486, 4525715; 473863, 4525368; 473588, 4525259; 473813, 4524995; 473780, 4524699; 473315, 4524259; 473112, 4523962; 473089, 4523785; 473081, 4523829; 472634, 4523343; 472682, 4523104; 472968, 4522707; 472872, 4522246; 472490, 4522055; 471917, 4521960; 471869, 4521722; 472011, 4521293; 472107, 4521197; 472154, 4520816; 471868, 4520577; 471581, 4520626; 471438, 4520578; 471347, 4520487; 471103, 4520435; 470908, 4520244; 470626, 4520245; 470474, 4520340; 470339, 4520340; 470184, 4520484; 469814, 4520436; 469671, 4520532; 469481, 4520438; 469412, 4520543; 469458, 4520853; 469400, 4521169; 469208, 4521442; 468607, 4521853; 467976, 4522089; 467685, 4522555; 467709, 4523425; 467791, 4523851; 467756, 4523988; 467353, 4523641; 466801, 4522889; 466326, 4522607; 466185, 4522418; 466024, 4522336; 465872, 4522356; 465628, 4522464; 465604, 4522803; 465667, 4523085; 465384, 4523693; 465379, 4523925; 465478, 4524029; 465782, 4524768; 465681, 4524935; 465258, 4525306; 464756, 4525511; 464295, 4525497; 463528, 4525714; 463528, 4525776; 463431, 4525777; 463437, 4525978; 463156, 4525980; 462959, 4526253; 462475, 4526237; 462218, 4526347; 462201, 4526753; 462375, 4527296; 462659, 4527889; 462959, 4527977; 462952, 4527176; 463150, 4527176; 463148, 4526976; 463760, 4526965; 463757, 4527565; 464384, 4527522; 464394, 4528349; 463984, 4528356; 464268, 4528681; 464655, 4529047; 464888, 4529163; 465352, 4529257; 465615, 4529715; 466054, 4529822; 466036, 4530200; 466217, 4530189; 466214, 4529988; 466412, 4529975; 466418, 4530396; 466166, 4530399; 466758, 4530617; 466801, 4530794; 466713, 4531172; 467064, 4531570; 467354, 4531553; 467406, 4532433; 467592, 4532433; 467595, 4532831; 467517, 4532894; 467321, 4533532; 467370, 4533631; 467633, 4533573; 467972, 4533675; 468138, 4533590; 468487, 4533772; 469001, 4533644; and excluding land bound by 464247, 4526979; 464243, 4526789; 463931, 4526787; 463933, 4526512; 464490, 4526582; 464493, 4526789; 464419, 4526790; 464422, 4527161; 464791, 4527168; 464794, 4527349; 464576, 4527350; 464575, 4527266; 464269, 4527260; 464268, 4527168; 464179, 4527167; 464178, 4526980; 464247, 4526979.

(I) Land bounded by the following UTM Zone 10, NAD83 coordinates (E, N): 455502, 4543515; 455979, 4543440; 455949, 4543199; 456532, 4543006; 456520, 4542877; 456996, 4542270; 456663, 4541550; 456450, 4541317; 456744, 4541387; 457077, 4541770; 457161, 4541746; 457041, 4541272; 457122, 4541061; 457108, 4540856; 456834, 4540784; 456675, 4540296; 456831, 4540109; 456813, 4539882; 456891, 4539635; 456581, 4539501; 456552, 4539388; 456398, 4539424; 456034, 4539205; 456174, 4539064; 456146, 4538696; 456335, 4538713; 456307, 4538375; 456574, 4538683; 456517, 4538307; 456672, 4538225; 456769, 4538050; 457109, 4538003; 456743, 4537995; 456630, 4538181; 456504, 4538248; 456495, 4537549; 456758, 4537571; 456767, 4537211; 456823, 4537103; 456985, 4537044; 457236, 4536821; 457359, 4536814; 457435, 4536536; 457687, 4536491; 457795, 4536279; 457977, 4536234; 458116, 4536092; 458120, 4536010; 458173, 4536207; 457949, 4536380; 457913, 4536509; 458029, 4536649; 458362, 4536670; 458348, 4536947; 458508, 4537079; 458458, 4537492; 458648, 4537752; 458815, 4538358; 459031, 4538251; 458863, 4538202; 459038, 4537740; 458940, 4537693; 459018, 4537556; 459140, 4537512; 459090, 4537393; 459285, 4537251; 459171, 4537093; 459318, 4536907; 459271, 4536750; 459311, 4536629; 459677, 4536411; 459998, 4536356; 460020, 4536273; 460258, 4536250; 460100, 4536060; 460394, 4535705; 460438, 4535499; 460583, 4535420; 460669, 4535249; 461139, 4535302; 461375, 4535424; 461223, 4535441; 461170, 4535512; 461304, 4535740; 461224, 4536076; 461409, 4536190; 461761, 4536125; 461890, 4536012; 462164, 4536192; 462400, 4535702; 462453, 4536381; 462283, 4536624; 462376, 4536807; 462528, 4536903; 462747, 4536913; 462639, 4537077; 462662, 4537167; 462864, 4537132; 463071, 4537371; 463360, 4537506; 463513, 4537423; 463537, 4537545; 463819, 4537564; 463789, 4537794; 463873, 4537901; 463911, 4538143; 464062, 4538217; 463948, 4538378; 463972, 4538553; 463836, 4539197; 463866, 4539438; 464084, 4539725; 464060, 4539912; 463923, 4540161; 464011, 4540390; 463985, 4540167; 464117, 4539933; 464145, 4539718; 463922, 4539413; 463899, 4539139; 464092, 4538267; 463992, 4537672; 464044, 4537379; 463853, 4537255; 463832, 4537086; 464631, 4536665; 465153, 4536567; 465566, 4536369; 465907, 4536440; 466002, 4536298; 465963, 4536142; 464771, 4536390; 464360, 4536580; 463888, 4536937; 463558, 4537033; 463456, 4536931; 463404, 4536703; 463298, 4535877; 462814, 4535586; 462437, 4535202; 461999, 4535133; 461819, 4534805; 461793, 4534628; 461868, 4534424; 462083, 4534266; 462285, 4534284; 462375, 4534089; 462577, 4533886; 462601, 4533512; 462543, 4533148; 462470, 4532920; 462368, 4532846; 462319, 4532624; 462037, 4532540; 461883, 4532365; 461706, 4532467; 461375, 4532394; 461043, 4532013; 460890, 4531964; 460585, 4531991; 460508, 4531711; 460227, 4531458; 460226, 4531281; 460149, 4531180; 460022, 4531155; 459741, 4530902; 459586, 4530327; 459171, 4530093; 458924, 4530079; 458516, 4530411; 457933, 4530609; 457603, 4530981; 457167, 4531097; 456938, 4531316; 456826, 4531563; 456576, 4531741; 456121, 4532704; 455827, 4532798; 455525, 4532782; 454460, 4534352; 453583, 4535935; 453594, 4537086; 453376, 4537442; 453188, 4538112; 453182, 4538341; 453306, 4538720; 453521, 4539011; 453755, 4539166; 453860, 4539348; 453865, 4539486; 453570, 4540307; 453680, 4541070; 453403, 4541045; 453022, 4541121; 453057, 4541569; 453343, 4542768; 455050, 4543255; 454980, 4543516; 455158, 4543473; 455502, 4543515.

(J) Land bounded by the following UTM Zone 10, NAD83 coordinates (E, N): 455573, 4557665; 456595, 4557233; 457491, 4557002; 457507, 4556942; 457712, 4556857; 457833, 4556569; 457587, 4556366; 457548, 4555894; 457408, 4555857; 457236, 4555975; 456986, 4555917; 456776, 4555672; 456558, 4555609; 456220, 4555867; 455549, 4555552; 455575, 4555445; 455735, 4555313; 456043, 4555217; 456010, 4554882; 455537, 4554553; 455481, 4554350; 455633, 4554217; 455642, 4554120; 455174, 4553776; 455100, 4553507; 454944, 4553442; 455130, 4553241; 455505, 4553232; 455667, 4553165; 455910, 4553188; 456105, 4553043; 456304, 4553090; 456710, 4553007; 456700, 4552912; 456367, 4552700; 456264, 4552452; 455996, 4552411; 455890, 4552453; 455699, 4552318; 455619, 4552156; 455618, 4551977; 455862, 4551754; 455770, 4551523; 455939, 4551329; 456207, 4551455; 456181, 4551363; 456584, 4551455; 456366, 4551284; 456332, 4551174; 456061, 4551090; 456172, 4550927; 456095, 4550563; 456196, 4550333; 456572, 4550106; 456700, 4550133; 457021, 4549780; 457654, 4550076; 457684, 4549717; 457622, 4549131; 457236, 4547730; 457237, 4547404; 457301, 4547276; 457146, 4547310; 456734, 4547111; 456536, 4547080; 456475, 4547258; 456557, 4547447; 456461, 4547613; 456525, 4547923; 456433, 4548502; 456304, 4548692; 456317, 4548883; 456049, 4549263; 455702, 4549313; 455939, 4548895; 455868, 4548608; 455970, 4548337; 455617, 4548184; 455491, 4548232; 455447, 4547975; 455370, 4547908; 454953, 4547943; 454842, 4548004; 454716, 4548242; 454716, 4548489; 454500, 4548664; 454288, 4548593; 454335, 4548470; 454321, 4547985; 454268, 4548598; 454128, 4548581; 453912, 4548795; 453609, 4548824; 453388, 4549718; 453111, 4550511; 453000, 4551318; 452154, 4554667; 452630, 4554606; 452937, 4554663; 453882, 4555075; 453898, 4555518; 453782, 4555759; 453388, 4556173; 452906, 4556549; 452713, 4556915; 452771, 4557002; 452839, 4557059; 454245, 4557194; 454649, 4557397; 455208, 4558032; 455568, 4557731; 455573, 4557665.

(K) Land bounded by the following UTM Zone 10, NAD83 coordinates (E, N): 452308, 4572704; 452436, 4572639; 452466, 4572478; 452594, 4572380; 452593, 4572251; 452709, 4572186; 452719, 4571864; 452429, 4571834; 452299, 4571739; 451945, 4571742; 451947, 4571903; 451851, 4572000; 451529, 4572035; 451209, 4572231; 451275, 4572359; 451629, 4572356; 451629, 4572453; 452015, 4572417; 452049, 4572546; 452211, 4572705; 452308, 4572704; and excluding land bound by 451854, 4572322; 451724, 4572259; 451723, 4572162; 451884, 4572161; 452012, 4572031; 452205, 4572062; 452111, 4572288; 451854, 4572322.

(L) Land bounded by the following UTM Zone 10, NAD83 coordinates (E, N): 456205, 4578044; 456064, 4577969; 456061, 4577787; 455753, 4577790; 455751, 4577597; 455622, 4577534; 455494, 4577664; 455432, 4577986; 455369, 4578051; 455371, 4578308; 455436, 4578437; 455372, 4578502; 455244, 4578503; 455052, 4578697; 455054, 4578890; 455119, 4578954; 455312, 4578953; 455503, 4578694; 455632, 4578692; 455695, 4578627; 455694, 4578434; 455822, 4578433; 456014, 4578303; 456205, 4578044.

(M) Land bounded by the following UTM Zone 10, NAD83 coordinates (E, N): 455960, 4579462; 455830, 4579334; 455573, 4579337; 455443, 4579209; 455379, 4579274; 455121, 4579212; 455123, 4579405; 455252, 4579532; 455189, 4579597; 455190, 4579790; 455255, 4579854; 455384, 4579853; 455575, 4579594; 455896, 4579527; 455960, 4579462.

(N) Land bounded by the following UTM Zone 10, NAD83 coordinates (E, N): 457874, 4581413; 458079, 4581447; 458223, 4581279; 457979, 4580749; 457790, 4580742; 457785, 4580644; 457587, 4580636; 457587, 4580270; 457766, 4580268; 457766, 4580192; 458131, 4580172; 458127, 4580065; 457768, 4580078; 457768, 4579972; 457582, 4579972; 457583, 4579565; 457386, 4579565; 457384, 4579241; 457053, 4579048; 456672, 4578978; 456476, 4578856; 455983, 4578869; 455952, 4578911; 456035, 4578972; 456220, 4579002; 456346, 4579309; 456254, 4579392; 456306, 4579556; 456162, 4579557; 456257, 4579968; 455928, 4579981; 456135, 4580072; 456187, 4580246; 456085, 4580350; 456230, 4580503; 456004, 4580515; 455922, 4580618; 456262, 4580668; 456333, 4580606; 456487, 4580605; 456457, 4580769; 456602, 4580810; 456664, 4580922; 456623, 4580964; 456479, 4580882; 456397, 4580996; 456017, 4581040; 455988, 4581116; 456305, 4581069; 456368, 4581201; 456499, 4581287; 456943, 4581421; 457116, 4581647; 457678, 4581518; 457874, 4581413.

(O) Land bounded by the following UTM Zone 10, NAD83 coordinates (E, N): 451440, 4582385; 451995, 4582467; 452182, 4582272; 452275, 4582286; 452410, 4582518; 452675, 4582665; 452763, 4582575; 452824, 4582069; 453019, 4582119; 453131, 4582356; 453334, 4582371; 453474, 4582126; 453675, 4582169; 453829, 4582032; 453816, 4581927; 453968, 4581813; 454050, 4581607; 454185, 4581551; 454457, 4580864; 454674, 4580820; 454910, 4580976; 454984, 4580837; 455040, 4580398; 455000, 4579947; 454758, 4579396; 454753, 4578706; 454715, 4578619; 454186, 4578258; 454082, 4577820; 454142, 4577380; 453977, 4577093; 454150, 4576690; 454284, 4576099; 454607, 4575520; 454843, 4575255; 454607, 4574764; 453357, 4574764; 453345, 4574169; 453150, 4573695; 453071, 4573303; 453147, 4572803; 453039, 4572803; 452966, 4572575; 453040, 4572342; 453122, 4572341; 453155, 4572253; 452981, 4572252; 452842, 4572382; 452794, 4572658; 452608, 4572923; 452522, 4573325; 451974, 4573868; 451001, 4574715; 450737, 4574767; 450400, 4574995; 450175, 4575047; 449838, 4575300; 449370, 4574976; 449257, 4574422; 449271, 4574032; 449166, 4573874; 448849, 4573695; 448077, 4573639; 448090, 4573414; 447717, 4573030; 447806, 4572729; 448032, 4572474; 448525, 4572371; 448715, 4572254; 448904, 4572294; 448960, 4572609; 449153, 4572704; 449354, 4572658; 449507, 4572394; 449700, 4571813; 450104, 4571534; 450341, 4571276; 449279, 4571273; 449272, 4570521; 449984, 4570512; 449976, 4569712; 449482, 4569696; 449181, 4569530; 449107, 4569032; 449133, 4568462; 448998, 4568113; 448831, 4567903; 448413, 4567714; 448182, 4567494; 448530, 4567620; 448980, 4567584; 449109, 4567551; 449124, 4567336; 449461, 4567323; 449460, 4567258; 449653, 4567289; 449749, 4567127; 449877, 4567062; 449941, 4567061; 449975, 4567222; 450103, 4567220; 450072, 4567349; 450138, 4567445; 450234, 4567412; 450264, 4567155; 450488, 4566992; 450486, 4566799; 450422, 4566799; 450421, 4566735; 450100, 4566802; 450034, 4566674; 449713, 4566677; 449715, 4566966; 449587, 4567032; 449616, 4566678; 449262, 4566681; 449263, 4566842; 449491, 4567065; 449427, 4567162; 449168, 4566939; 449167, 4566842; 449005, 4566747; 449036, 4566618; 448808, 4566298; 448522, 4566687; 448232, 4566690; 448263, 4566496; 448456, 4566495; 448455, 4566398; 448166, 4566465; 447972, 4566338; 447812, 4566532; 447721, 4567112; 447915, 4567207; 448110, 4567433; 447749, 4567251; 447110, 4567170; 446698, 4566789; 446907, 4566865; 447160, 4566770; 447222, 4566685; 447588, 4566672; 447597, 4566507; 447750, 4566311; 448078, 4566216; 448078, 4566164; 447996, 4566165; 447862, 4566217; 447841, 4566104; 447973, 4565877; 447910, 4565651; 448074, 4565506; 448053, 4565455; 447869, 4565569; 447878, 4565363; 448069, 4564848; 448008, 4564869; 447841, 4564551; 447529, 4564649; 447534, 4564290; 447278, 4564343; 447257, 4564439; 447191, 4564454; 445925, 4564339; 445417, 4564412; 445773, 4564052; 445763, 4563641; 445838, 4563543; 445844, 4563331; 445792, 4563258; 445465, 4563161; 445394, 4562888; 445239, 4562765; 445082, 4562312; 444868, 4562058; 444661, 4561943; 444663, 4562045; 444887, 4562380; 444958, 4562365; 445032, 4562466; 445035, 4562796; 445388, 4563228; 445323, 4563536; 445141, 4563709; 444668, 4563411; 444668, 4563505; 443107, 4563531; 441528, 4563448; 439934, 4563561; 439936, 4571676; 439403, 4571674; 439052, 4572359; 438502, 4572727; 438421, 4573035; 438439, 4573273; 438305, 4573432; 438202, 4573768; 438070, 4573829; 437835, 4573823; 437621, 4573607; 437223, 4573853; 437028, 4574202; 436829, 4574956; 436884, 4575719; 437212, 4577149; 437256, 4577783; 437587, 4578193; 437736, 4578689; 437808, 4578740; 438192, 4578749; 438513, 4578649; 439178, 4578611; 439400, 4578530; 440218, 4577545; 440343, 4577484; 441374, 4577465; 441890, 4577750; 442367, 4577906; 442654, 4577852; 443305, 4577560; 443967, 4577639; 444314, 4577783; 444429, 4577905; 444481, 4578139; 444312, 4578929; 444046, 4579431; 443965, 4579729; 444010, 4580245; 444408, 4580692; 445099, 4581090; 445112, 4581426; 445246, 4581682; 445423, 4581747; 445529, 4582058; 445449, 4582429; 445604, 4582607; 445989, 4582833; 446344, 4582955; 446989, 4582812; 447739, 4582973; 448294, 4582788; 448672, 4582415; 449044, 4582279; 449217, 4582360; 449807, 4582926; 450234, 4583122; 450813, 4582747; 451278, 4582613; 451440, 4582385; and excluding land bound by 445335, 4567639; 445337, 4567283; 445746, 4567289; 445738, 4568099; 446147, 4568104; 446140, 4568517; 445328, 4568490; 445335, 4567639; and excluding land bound by 443475, 4565232; 443477, 4564806; 444690, 4564825; 444696, 4565268; 443879, 4565243; 443848, 4565645; 443454, 4565632; 443475, 4565232; and excluding land bound by 445329, 4563814; 445417, 4563660; 445435, 4564064; 445228, 4564051; 445242, 4564355; 445005, 4564085; 445220, 4564001; 445329, 4563814.

(P) Land bounded by the following UTM Zone 10, NAD83 coordinates (E, N): 443594, 4640167; 443682, 4639751; 443989, 4639670; 443974, 4639475; 443726, 4639588; 443509, 4639901; 443458, 4640158; 443594, 4640167.

(Q) Land bounded by the following UTM Zone 10, NAD83 coordinates (E, N): 436410, 4647259; 436506, 4647201; 437524, 4647083; 438127, 4646825; 438470, 4646502; 438574, 4646080; 438726, 4645927; 439125, 4645705; 439151, 4645479; 439434, 4645173; 439751, 4644981; 439616, 4644743; 439620, 4644628; 439386, 4644335; 439225, 4644008; 439077, 4643880; 438937, 4643386; 438493, 4643291; 437997, 4642920; 437990, 4642739; 437701, 4642136; 437514, 4641882; 436949, 4641347; 436968, 4641283; 437051, 4641282; 437356, 4641453; 437652, 4641479; 437679, 4640944; 437972, 4640747; 437207, 4639721; 436905, 4639601; 436808, 4639293; 436646, 4639120; 436450, 4638708; 436450, 4638509; 436527, 4638362; 436767, 4638157; 436840, 4638473; 437324, 4639038; 437647, 4639559; 437982, 4639897; 438456, 4639771; 438984, 4639211; 439295, 4639023; 439706, 4638967; 440017, 4638814; 441064, 4639010; 441305, 4639149; 441401, 4639864; 441834, 4640404; 442098, 4640521; 442299, 4640349; 442485, 4639806; 442652, 4639681; 442645, 4639785; 442690, 4639760; 442752, 4639528; 442966, 4639241; 442987, 4639064; 443106, 4638893; 443384, 4638745; 443678, 4638706; 443746, 4638610; 444221, 4638708; 444332, 4638621; 444568, 4637877; 444562, 4637120; 444121, 4637120; 444375, 4636572; 444155, 4636556; 443782, 4636642; 443547, 4636736; 443534, 4637031; 443446, 4637220; 443275, 4637339; 443076, 4637358; 442696, 4637646; 442333, 4638239; 441897, 4638670; 441666, 4638655; 441585, 4638438; 441028, 4638440; 441007, 4638216; 440927, 4638260; 440957, 4638157; 440668, 4638398; 440514, 4638427; 440471, 4638519; 440280, 4638585; 440270, 4638294; 440178, 4638199; 440066, 4638205; 440311, 4638134; 440393, 4638362; 440486, 4638366; 440529, 4638272; 440448, 4638128; 440598, 4638032; 440706, 4637819; 440837, 4637764; 440830, 4637560; 440549, 4637664; 440637, 4637486; 440597, 4637260; 440384, 4637578; 440228, 4637382; 439953, 4637264; 439778, 4637299; 439616, 4637150; 439365, 4637282; 439432, 4637124; 439342, 4636943; 439572, 4636946; 439486, 4636776; 439776, 4636690; 439588, 4636434; 439778, 4636249; 439645, 4636092; 439826, 4635982; 439913, 4635669; 439818, 4635536; 439538, 4635313; 439258, 4635418; 439075, 4635414; 438669, 4635061; 438395, 4635037; 438376, 4635158; 438220, 4634978; 438064, 4634923; 438036, 4634797; 437469, 4634700; 437127, 4634826; 436684, 4634130; 436729, 4634124; 436864, 4633459; 437068, 4633108; 437145, 4632703; 437415, 4632125; 437698, 4631945; 437818, 4631776; 438187, 4631580; 438547, 4631220; 438735, 4631131; 438880, 4630692; 439251, 4630474; 438660, 4629513; 438264, 4629209; 438326, 4629064; 438563, 4629073; 438449, 4629020; 438424, 4628917; 438413, 4628548; 438477, 4628458; 438848, 4628498; 439140, 4628391; 439489, 4628732; 439764, 4628881; 440075, 4628707; 440241, 4628513; 440242, 4628928; 440537, 4628988; 440598, 4629566; 440656, 4629615; 441011, 4629409; 441447, 4629284; 441676, 4628526; 441492, 4628204; 441156, 4628091; 440881, 4627876; 440595, 4627775; 440471, 4627530; 440493, 4627117; 440381, 4626966; 440104, 4626815; 439763, 4626249; 439321, 4625970; 439201, 4625800; 439197, 4625508; 439021, 4625143; 439007, 4624915; 438753, 4624645; 438699, 4624444; 438701, 4624083; 438853, 4623827; 438902, 4623473; 439093, 4622971; 438848, 4622754; 438504, 4622195; 438454, 4621725; 438564, 4621451; 438523, 4621144; 438582, 4620934; 438331, 4620461; 438379, 4620191; 438291, 4619757; 438147, 4619548; 437984, 4619068; 437727, 4618928; 437630, 4618670; 437450, 4618456; 437321, 4618118; 437358, 4617705; 437047, 4617238; 436623, 4616878; 436522, 4616597; 436163, 4616276; 436052, 4615966; 435886, 4615796; 435810, 4615463; 435854, 4615271; 435307, 4614422; 435234, 4613966; 435268, 4613809; 435203, 4613670; 434912, 4613434; 434775, 4612908; 434643, 4612799; 434272, 4613002; 434166, 4613004; 433297, 4612139; 433001, 4612098; 432659, 4611831; 432158, 4611851; 431913, 4611998; 432405, 4612026; 432606, 4612468; 433221, 4612679; 433254, 4613107; 433367, 4613443; 433328, 4613870; 433371, 4613972; 433739, 4614197; 433890, 4614368; 434008, 4614640; 433949, 4615112; 434142, 4615476; 434210, 4615766; 434293, 4615801; 434384, 4615677; 434429, 4615779; 434528, 4616456; 435007, 4616854; 435363, 4616958; 435430, 4617236; 435430, 4617530; 435244, 4617264; 434775, 4616997; 434907, 4617571; 435134, 4617977; 435262, 4618457; 435311, 4619129; 435276, 4620707; 435176, 4620840; 434459, 4620895; 434166, 4620993; 434122, 4621066; 434216, 4621288; 434814, 4622022; 435089, 4622184; 435580, 4622820; 435650, 4622970; 435603, 4623262; 435090, 4624105; 434835, 4624250; 434477, 4624608; 434378, 4625144; 434408, 4625915; 434301, 4626375; 434199, 4626293; 434001, 4626621; 433788, 4626560; 433701, 4626649; 433696, 4627501; 433811, 4627714; 433805, 4628122; 434053, 4628100; 434343, 4628273; 434414, 4628467; 434621, 4628483; 434836, 4628682; 435213, 4628728; 435389, 4628827; 436146, 4629489; 435719, 4629457; 435519, 4629490; 435530, 4629542; 435383, 4629595; 435369, 4629664; 435646, 4629768; 435762, 4630197; 435735, 4630584; 435787, 4630661; 436015, 4630572; 436055, 4630217; 435906, 4629759; 436004, 4629635; 436281, 4629623; 436237, 4629553; 436602, 4629706; 436689, 4629642; 436900, 4629650; 436699, 4630227; 436460, 4630486; 436152, 4630674; 435295, 4630680; 435016, 4630746; 434684, 4631211; 435002, 4631697; 435446, 4631941; 435504, 4632049; 435408, 4633638; 435031, 4634080; 434960, 4634517; 435844, 4634539; 435831, 4636451; 436079, 4637011; 435830, 4636966; 435587, 4637437; 435328, 4637644; 435184, 4637678; 434930, 4637590; 434690, 4637410; 433678, 4637163; 433459, 4636992; 433275, 4637006; 433209, 4636786; 433407, 4636250; 433164, 4635818; 432541, 4635742; 432356, 4635663; 432245, 4635561; 432179, 4635336; 431995, 4635119; 431877, 4634851; 431417, 4634844; 431416, 4634597; 430996, 4634607; 430994, 4634452; 430608, 4634455; 430533, 4634635; 430523, 4635421; 430379, 4635908; 430137, 4636167; 429849, 4636186; 429393, 4636602; 429385, 4636695; 429870, 4637243; 429997, 4637483; 430392, 4637865; 430423, 4638257; 430984, 4638488; 431315, 4638859; 431676, 4639058; 431756, 4639256; 431911, 4640772; 431846, 4641038; 431986, 4641666; 431896, 4642449; 432115, 4643508; 432288, 4643685; 432734, 4644856; 432790, 4645242; 432738, 4645388; 433040, 4645627; 433181, 4645963; 433561, 4646104; 433680, 4646234; 434059, 4646959; 434609, 4647467; 434722, 4647481; 435195, 4647311; 435511, 4647409; 435356, 4647211; 435278, 4647199; 435326, 4647184; 435524, 4647412; 435874, 4647520; 436410, 4647259; and excluding land bound by 436390, 4647237; 436444, 4647164; 436494, 4647192; 436443, 4647169; 436390, 4647237; and excluding land bound by 436894, 4647174; 436929, 4647154; 437021, 4647112; 436894, 4647174; and excluding land bound by 437127, 4647118; 437027, 4647111; 437358, 4647063; 437127, 4647118; and excluding land bound by 435187, 4647229; 435091, 4647341; 435106, 4647312; 435187, 4647229; and excluding land bound by 437558, 4647016; 437680, 4646994; 437581, 4647019; 437558, 4647016; and excluding land bound by 433201, 4637706; 433199, 4637504; 432999, 4637507; 432995, 4637106; 433199, 4637104; 433200, 4637301; 433604, 4637300; 433606, 4637702; 433201, 4637706; and excluding land bound by 431835, 4636064; 431830, 4635659; 432234, 4635667; 432239, 4636063; 431835, 4636064.

(iii) Note: Map of Western Klamath/Siskiyou Mountains Unit follows:

BILLING CODE 4310-55-S

BILLING CODE 4310-55-C

(32) Scott and Salmon Mountains Unit (Unit 25). Siskiyou County, California. Josephine County, Oregon.

(i) The Scott and Salmon Mountains Unit is a total of 242, 200 ac (98, 100 ha), including 242, 000 ac (98, 000 ha) in Siskiyou County, California, and 200 ac (100 ha) in Josephine County, Oregon, and is comprised of lands managed by the Klamath National Forest.

(ii) From USGS 1:24, 000 scale quadrangles Boulder Peak, Cecilville, Clear Creek, Deadman Peak, Deadman Point, Dillon Mountain, Dutch Creek, Eaton Peak, English Peak, Etna, Figurehead Mountain, Forks of Salmon, Grasshopper Ridge, Grayback Mountain, Grider Valley, Hamburg, Horse Creek, Huckleberry Mountain, Indian Creek Baldy, Kangaroo Mountain, McKinley Mountain, Medicine Mountain, Orleans Mountain, Russell Peak, Sawyers Bar, Scott Bar, Seiad Valley, Slater Butte, Somes Bar, Tanners Peak, Ukonom Lake, Ukonom Mountain, and Yellow Dog Peak.

(A) Land bounded by the following UTM Zone 10, NAD83 coordinates (E, N): 508489, 4571053; 508477, 4570444; 508369, 4570445; 508166, 4570010; 507733, 4569827; 507210, 4569980; 506822, 4569971; 507271, 4570441; 507359, 4570611; 507278, 4571277; 507562, 4572143; 508351, 4573063; 508453, 4573063; 508322, 4572458; 508474, 4572299; 508489, 4571053.

(B) Land bounded by the following UTM Zone 10, NAD83 coordinates (E, N): 477962, 4575302; 479301, 4575319; 479119, 4575219; 479037, 4574958; 478530, 4574924; 477917, 4574740; 477753, 4574487; 477736, 4574347; 477413, 4574027; 477228, 4573941; 477144, 4573977; 477058, 4574153; 476237, 4574397; 475703, 4574401; 475559, 4574105; 474937, 4574363; 474730, 4574377; 474664, 4574688; 474052, 4575221; 473764, 4575874; 477505, 4575881; 477502, 4575305; 477962, 4575302.

(C) Land bounded by the following UTM Zone 10, NAD83 coordinates (E, N): 483017, 4580952; 483163, 4580961; 483432, 4580799; 483506, 4580683; 483668, 4580718; 483862, 4580643; 484469, 4580892; 484740, 4580890; 484940, 4580564; 485353, 4580399; 485746, 4579902; 486325, 4579660; 486668, 4579431; 486878, 4579107; 487102, 4578910; 487440, 4578845; 487944, 4578950; 488378, 4578873; 488599, 4578752; 489191, 4578140; 489462, 4577485; 488441, 4576889; 488118, 4576635; 487852, 4576615; 487467, 4576711; 486800, 4576754; 486429, 4576214; 486142, 4575497; 485847, 4575439; 485304, 4574939; 484998, 4574775; 484913, 4574776; 484912, 4574908; 484815, 4574908; 484813, 4574560; 484711, 4574562; 484712, 4574507; 484568, 4574545; 483428, 4574397; 482463, 4574449; 481790, 4574805; 481643, 4574960; 481015, 4575061; 480749, 4575314; 482143, 4575300; 482162, 4577781; 482223, 4577781; 482209, 4580721; 482560, 4580798; 482761, 4580932; 483017, 4580952.

(D) Land bounded by the following UTM Zone 10, NAD83 coordinates (E, N): 468107, 4581581; 468004, 4581424; 467728, 4581415; 467693, 4581203; 467570, 4581090; 467371, 4580501; 467996, 4580679; 468109, 4580627; 468299, 4580360; 468829, 4580202; 468676, 4580211; 468394, 4579537; 468276, 4579343; 468084, 4579200; 467662, 4579215; 467237, 4579134; 466880, 4579224; 466748, 4579324; 466525, 4579709; 466124, 4580062; 465898, 4580621; 465749, 4581219; 465949, 4581936; 466201, 4582019; 466260, 4581788; 466622, 4581583; 466780, 4581582; 466914, 4581623; 467194, 4581889; 468116, 4582408; 468401, 4582121; 468502, 4581892; 468414, 4581703; 468107, 4581581.

(E) Land bounded by the following UTM Zone 10, NAD83 coordinates (E, N): 503822, 4585764; 502246, 4585875; 502255, 4584311; 500700, 4584344; 500727, 4582749; 502270, 4582759; 502255, 4584311; 503817, 4584192; 503822, 4585764; 505406, 4585730; 505379, 4584096; 504600, 4584145; 504604, 4583454; 504216, 4583291; 504066, 4582765; 503793, 4582510; 503826, 4581764; 503084, 4581431; 502923, 4581324; 502844, 4581120; 502723, 4581014; 502360, 4580888; 502279, 4580887; 502179, 4581097; 501887, 4581210; 500709, 4581263; 500646, 4579687; 501843, 4579615; 501843, 4579529; 501426, 4579528; 500115, 4577352; 500397, 4576603; 500561, 4576423; 501073, 4576207; 501213, 4575763; 501403, 4575486; 502419, 4574921; 501972, 4574651; 501925, 4574214; 501684, 4574110; 501637, 4573918; 501308, 4573910; 501246, 4573522; 501498, 4573296; 501776, 4573171; 502024, 4573191; 502317, 4573025; 502732, 4573102; 502866, 4573035; 502974, 4572903; 503027, 4572625; 503225, 4572357; 503290, 4572051; 502744, 4571703; 502157, 4571457; 501812, 4571237; 501686, 4571102; 501617, 4570736; 501257, 4570080; 500740, 4569652; 500355, 4569184; 499993, 4569125; 499999, 4568875; 499809, 4568601; 499678, 4568547; 500169, 4567974; 500226, 4567826; 500119, 4567224; 500216, 4567058; 500087, 4566811; 500179, 4566253; 500157, 4566037; 500014, 4565775; 499821, 4565697; 499485, 4565388; 499172, 4565287; 498992, 4565068; 498920, 4564745; 498773, 4564612; 498804, 4564485; 498733, 4564421; 498722, 4564273; 498562, 4564114; 498631, 4564013; 498620, 4563488; 498225, 4563493; 498178, 4563403; 497832, 4563397; 497771, 4563294; 497568, 4563260; 497568, 4562863; 497367, 4562857; 497367, 4562191; 497054, 4562205; 496556, 4561971; 496080, 4561939; 496275, 4561574; 496239, 4561099; 495961, 4560734; 495598, 4560588; 495306, 4560600; 494942, 4560795; 494760, 4561038; 494687, 4561392; 494310, 4561148; 494159, 4560938; 493827, 4561121; 493519, 4561191; 493532, 4561565; 493920, 4561521; 493867, 4562088; 492956, 4562746; 491632, 4563244; 491602, 4562465; 491684, 4561614; 491937, 4561362; 491688, 4560522; 491692, 4559831; 491295, 4558938; 490896, 4558612; 490259, 4557905; 489871, 4557765; 489418, 4557934; 489418, 4557794; 489067, 4557422; 488806, 4557280; 488727, 4557848; 488800, 4558164; 488304, 4558217; 487186, 4557750; 487129, 4557227; 487200, 4556998; 487025, 4556897; 486544, 4556808; 485796, 4556874; 485724, 4556675; 485514, 4556549; 484717, 4556358; 483877, 4556031; 483349, 4555907; 483056, 4555945; 483023, 4556052; 482702, 4556375; 482555, 4556426; 482434, 4556925; 481944, 4557080; 481904, 4557319; 481569, 4557615; 481509, 4558218; 481396, 4558385; 481551, 4558595; 481694, 4559133; 481662, 4559352; 481961, 4559379; 481978, 4559566; 482201, 4559768; 482841, 4559944; 483284, 4560340; 483364, 4560231; 483555, 4560190; 483878, 4559910; 484076, 4559978; 484586, 4559803; 485435, 4559121; 485730, 4559569; 485952, 4560269; 486339, 4560851; 486391, 4561178; 486592, 4561342; 486810, 4561335; 486967, 4561466; 486495, 4561845; 486032, 4561891; 485902, 4562236; 485924, 4562824; 485770, 4562959; 485593, 4562961; 485525, 4563156; 485830, 4563154; 486118, 4563713; 486399, 4564026; 485906, 4564578; 485498, 4564755; 485103, 4565416; 485543, 4565414; 485543, 4565615; 485251, 4565617; 485252, 4565721; 485438, 4565819; 485448, 4566121; 485546, 4566124; 485542, 4566220; 485651, 4566229; 485729, 4566417; 485685, 4566591; 485542, 4566317; 485445, 4566319; 485444, 4566200; 485143, 4566132; 485138, 4565921; 485045, 4565923; 485041, 4565700; 484687, 4565780; 484368, 4566112; 484315, 4566513; 484362, 4567124; 484450, 4567399; 484124, 4568387; 484278, 4568981; 484456, 4568952; 484700, 4569063; 484947, 4568996; 485500, 4569072; 486078, 4568948; 486311, 4568758; 487084, 4568997; 487603, 4568711; 487671, 4568827; 487847, 4568914; 488943, 4568901; 489434, 4568824; 489434, 4568732; 488941, 4568363; 489357, 4568102; 489473, 4568089; 489753, 4568295; 489581, 4568441; 489761, 4568835; 489943, 4568702; 489977, 4568738; 489891, 4568815; 490101, 4569115; 490978, 4569392; 491268, 4569582; 491334, 4570063; 491057, 4570502; 491543, 4570877; 492742, 4571505; 493024, 4571928; 493189, 4571935; 493184, 4571705; 493545, 4571704; 493549, 4571950; 493663, 4571947; 493665, 4572136; 493750, 4572138; 493751, 4572313; 493946, 4572574; 494124, 4572631; 494197, 4572728; 494193, 4573120; 494460, 4573495; 494962, 4573851; 494910, 4573981; 494572, 4574095; 494960, 4574127; 494951, 4574599; 494850, 4574601; 494854, 4574983; 495016, 4574984; 495016, 4575056; 495193, 4575048; 495568, 4574890; 495734, 4574958; 495868, 4575184; 495860, 4575330; 496015, 4575591; 495891, 4575681; 495876, 4575907; 495990, 4576005; 496208, 4576510; 496350, 4576655; 496447, 4577047; 496455, 4577427; 496577, 4577605; 496641, 4577633; 496660, 4577586; 496878, 4577960; 497004, 4578015; 497115, 4578284; 497009, 4578312; 496998, 4578522; 497135, 4578571; 497230, 4578698; 497356, 4578698; 497418, 4579113; 497257, 4579113; 497402, 4579294; 497354, 4579504; 497592, 4579613; 497740, 4579793; 498004, 4579950; 498307, 4580373; 498339, 4580510; 498288, 4580594; 498367, 4580845; 498581, 4581014; 498807, 4581581; 498914, 4581649; 499176, 4581658; 499356, 4581934; 499431, 4582261; 499765, 4582547; 499904, 4582941; 499904, 4583102; 499723, 4583628; 499081, 4583829; 498697, 4584118; 498290, 4583939; 498217, 4588946; 498453, 4588995; 498722, 4589270; 499904, 4589402; 500446, 4589232; 500804, 4589031; 500878, 4588907; 501316, 4588675; 501679, 4588606; 502086, 4588756; 502306, 4588508; 502856, 4588310; 503040, 4588305; 503289, 4588427; 503678, 4588484; 503827, 4588598; 503822, 4585764; and excluding land bound by 497949, 4576786; 499535, 4576749; 499530, 4577479; 497941, 4577487; 497949, 4576786; and excluding land bound by 497609, 4576123; 497570, 4575857; 497449, 4575880; 497080, 4574110; 497835, 4574066; 497960, 4574530; 497794, 4574568; 497993, 4575710; 498300, 4575702; 498447, 4576706; 497727, 4576702; 497609, 4576123; and excluding land bound by 499141, 4575890; 499146, 4575502; 499530, 4575497; 499534, 4575894; 499141, 4575890; and excluding land bound by 493049, 4571721; 492959, 4571722; 492957, 4571565; 492858, 4571565; 492858, 4571299; 493033, 4571286; 493049, 4571721; and excluding land bound by 491918, 4568272; 492024, 4567335; 491920, 4567313; 491937, 4567136; 492373, 4567198; 492355, 4567387; 492222, 4567365; 492099, 4568298; 491918, 4568272; and excluding land bound by 486864, 4566981; 487691, 4568045; 487539, 4568162; 487048, 4567529; 486759, 4567464; 486674, 4567338; 486911, 4567347; 486675, 4567062; 486864, 4566981; and excluding land bound by 489432, 4567814; 489622, 4567746; 489627, 4567930; 489228, 4568079; 489214, 4567902; 489432, 4567814; and excluding land bound by 490068, 4567815; 490148, 4567743; 490233, 4567822; 490159, 4567896; 490068, 4567815; and excluding land bound by 490911, 4567293; 491186, 4567403; 491018, 4567656; 490870, 4567598; 490983, 4567392; 490911, 4567293; and excluding land bound by 486485, 4563107; 486485, 4562702; 486884, 4562704; 486888, 4563102; 486485, 4563107; and excluding land bound by 484927, 4558109; 485070, 4557153; 485454, 4557196; 485307, 4557518; 485665, 4557520; 485519, 4557997; 485080, 4557997; 485054, 4558107; 484927, 4558109.

(F) Land bounded by the following UTM Zone 10, NAD83 coordinates (E, N): 495692, 4600445; 495724, 4597336; 497313, 4597306; 497328, 4595734; 496494, 4595741; 496473, 4596207; 496334, 4596522; 496035, 4596456; 495441, 4596709; 494896, 4596703; 494122, 4597071; 494110, 4598876; 494426, 4599266; 494948, 4599347; 495145, 4599665; 495231, 4600074; 495450, 4600424; 495693, 4600609; 495692, 4600445.

(G) Land bounded by the following UTM Zone 10, NAD83 coordinates (E, N): 495695, 4601245; 495694, 4601044; 495198, 4600920; 495087, 4600943; 495117, 4601077; 495230, 4601185; 495357, 4601193; 495531, 4601359; 495695, 4601413; 495695, 4601245.

(H) Land bounded by the following UTM Zone 10, NAD83 coordinates (E, N): 468396, 4610664; 468452, 4610534; 468604, 4610569; 469168, 4610436; 469231, 4610517; 469569, 4610581; 469889, 4610314; 470048, 4610326; 470270, 4609960; 470446, 4609363; 470670, 4609153; 470945, 4608480; 468546, 4608460; 468536, 4606489; 468100, 4606485; 468100, 4606059; 468533, 4606072; 468506, 4600468; 468717, 4599520; 467895, 4599524; 468107, 4598662; 468119, 4597898; 467318, 4597901; 467332, 4597090; 463681, 4597150; 463700, 4593907; 463290, 4593904; 463251, 4592297; 467749, 4592297; 468059, 4591754; 468510, 4591564; 469433, 4591795; 469580, 4591747; 470103, 4591424; 469933, 4591057; 470023, 4590920; 470312, 4590817; 469614, 4590325; 468860, 4590141; 468640, 4590160; 468406, 4590007; 467913, 4590079; 467668, 4590178; 466947, 4590101; 466683, 4590001; 466457, 4589632; 466197, 4588986; 465983, 4588664; 465825, 4587677; 465070, 4587312; 464695, 4586637; 464120, 4585953; 463948, 4585902; 463714, 4586029; 463605, 4585991; 463588, 4585803; 463355, 4585283; 463329, 4584799; 462464, 4584794; 461484, 4584565; 461401, 4584521; 461357, 4584391; 461434, 4584139; 461268, 4584088; 461000, 4584243; 460975, 4584372; 460744, 4584496; 460813, 4584729; 460737, 4585102; 460812, 4585849; 460962, 4585808; 461233, 4585934; 461950, 4586520; 462053, 4586544; 462258, 4586417; 462516, 4586469; 462799, 4586383; 462758, 4586908; 462599, 4587026; 462741, 4587195; 462662, 4587268; 462611, 4587520; 462714, 4587809; 463085, 4587980; 463246, 4587973; 463529, 4588076; 463700, 4587949; 463953, 4587915; 464043, 4587795; 464286, 4587904; 464643, 4587828; 464814, 4587947; 465063, 4588728; 465039, 4588898; 464958, 4588951; 464610, 4589002; 464197, 4588650; 463919, 4588876; 463634, 4588936; 463252, 4589239; 462910, 4589235; 462599, 4589318; 462441, 4589284; 462339, 4589183; 462144, 4589186; 461985, 4589228; 461869, 4589350; 461564, 4589886; 461504, 4590402; 461142, 4590677; 461074, 4590812; 461174, 4590895; 461081, 4591262; 461114, 4591380; 461005, 4591594; 460970, 4592202; 460542, 4591950; 460277, 4592033; 460024, 4591990; 460221, 4592572; 460178, 4592793; 460252, 4592949; 460178, 4593187; 460394, 4593636; 460381, 4593994; 460449, 4594261; 460408, 4594410; 459660, 4594429; 459157, 4594657; 458830, 4594658; 458721, 4594528; 458238, 4594594; 458106, 4594657; 458004, 4594850; 457878, 4594849; 457708, 4594974; 457767, 4595175; 457309, 4595029; 456994, 4595100; 457422, 4595268; 457824, 4595866; 457856, 4596103; 457650, 4596360; 457630, 4596632; 457457, 4596591; 457169, 4596669; 456692, 4597068; 457298, 4597317; 457590, 4597310; 458107, 4597689; 458190, 4597640; 458432, 4597718; 458632, 4597636; 458876, 4597634; 459099, 4597721; 459290, 4597643; 459419, 4597660; 459526, 4597905; 459468, 4598213; 459346, 4598352; 459349, 4598546; 459214, 4598639; 459057, 4599248; 459033, 4599646; 458895, 4599923; 458820, 4600396; 458608, 4600623; 458596, 4600802; 458654, 4600997; 458926, 4601177; 459022, 4601477; 459381, 4601919; 459744, 4601933; 460167, 4602038; 460164, 4602730; 460020, 4603130; 460197, 4603321; 460330, 4603871; 460164, 4604078; 459944, 4604574; 459246, 4605435; 459305, 4606009; 459183, 4606635; 459199, 4606959; 459474, 4607366; 459833, 4607320; 460065, 4607517; 460598, 4607508; 460797, 4607575; 461059, 4607517; 461161, 4607599; 461297, 4608157; 461432, 4608443; 461600, 4608656; 461569, 4608954; 461922, 4609074; 462139, 4609261; 462500, 4609807; 462841, 4609907; 463038, 4610136; 463640, 4610085; 463942, 4610132; 465108, 4610980; 465600, 4610779; 465761, 4610641; 466088, 4610603; 466929, 4610924; 467494, 4611026; 467823, 4611193; 467943, 4611172; 468044, 4610955; 468328, 4610871; 468396, 4610664.

(I) Land bounded by the following UTM Zone 10, NAD83 coordinates (E, N): 510218, 4615658; 510209, 4614848; 511838, 4614866; 511683, 4614481; 511451, 4614424; 511156, 4614501; 510711, 4614376; 510640, 4614259; 510250, 4614050; 508609, 4614056; 508622, 4616037; 510223, 4616061; 510218, 4615658.

(J) Land bounded by the following UTM Zone 10, NAD83 coordinates (E, N): 507019, 4617937; 508611, 4618043; 508627, 4616437; 507029, 4616428; 507019, 4617937.

(K) Land bounded by the following UTM Zone 10, NAD83 coordinates (E, N): 507019, 4617937; 505450, 4617970; 505441, 4619537; 506999, 4619540; 507019, 4617937.

(L) Land bounded by the following UTM Zone 10, NAD83 coordinates (E, N): 503865, 4619573; 503859, 4617987; 502260, 4618001; 502270, 4618391; 501520, 4618395; 501527, 4618792; 502278, 4618798; 502296, 4619575; 503865, 4619573.

(M) Land bounded by the following UTM Zone 10, NAD83 coordinates (E, N): 505422, 4621109; 505441, 4619537; 503865, 4619573; 503889, 4621119; 505422, 4621109.

(N) Land bounded by the following UTM Zone 10, NAD83 coordinates (E, N): 502296, 4619575; 500713, 4619575; 500726, 4620950; 500995, 4621031; 501997, 4621039; 501997, 4621131; 502298, 4621126; 502296, 4619575.

(O) Land bounded by the following UTM Zone 10, NAD83 coordinates (E, N): 506999, 4619540; 506984, 4621145; 508581, 4621264; 508593, 4619649; 506999, 4619540.

(P) Land bounded by the following UTM Zone 10, NAD83 coordinates (E, N): 510217, 4622824; 510230, 4621226; 508581, 4621264; 508558, 4622858; 510217, 4622824.

(Q) Land bounded by the following UTM Zone 10, NAD83 coordinates (E, N): 510217, 4622824; 510217, 4624432; 511829, 4624477; 511817, 4622857; 510217, 4622824.

(R) Land bounded by the following UTM Zone 10, NAD83 coordinates (E, N): 508558, 4622858; 506973, 4622750; 506984, 4621145; 505422, 4621109; 505353, 4622694; 505771, 4622707; 505735, 4623507; 505325, 4623477; 505353, 4622694; 503813, 4622697; 503737, 4624275; 505287, 4624248; 505237, 4625265; 505903, 4625252; 505896, 4626857; 507537, 4626810; 507535, 4626617; 507635, 4626617; 507635, 4626422; 507738, 4626424; 507735, 4626029; 507444, 4626027; 507443, 4625239; 506750, 4625237; 506957, 4624405; 508548, 4624449; 508558, 4622858; and excluding land bound by 506102, 4624891; 506099, 4624985; 505677, 4624972; 505687, 4624801; 506105, 4624824; 506102, 4624891.

(S) Land bounded by the following UTM Zone 10, NAD83 coordinates (E, N): 504356, 4626858; 504345, 4625285; 503709, 4625292; 503737, 4624275; 502193, 4624286; 502163, 4625322; 502793, 4625308; 502810, 4626887; 504356, 4626858.

(T) Land bounded by the following UTM Zone 10, NAD83 coordinates (E, N): 501260, 4626880; 501247, 4625337; 499662, 4625355; 499631, 4626914; 501260, 4626880.

(U) Land bounded by the following UTM Zone 10, NAD83 coordinates (E, N): 505905, 4628446; 505896, 4626857; 504356, 4626858; 504362, 4628457; 505905, 4628446.

(V) Land bounded by the following UTM Zone 10, NAD83 coordinates (E, N): 502810, 4626887; 501260, 4626880; 501125, 4628429; 502743, 4628459; 502810, 4626887.

(W) Land bounded by the following UTM Zone 10, NAD83 coordinates (E, N): 499601, 4628480; 499631, 4626914; 498109, 4626919; 498082, 4628519; 499601, 4628480.

(X) Land bounded by the following UTM Zone 10, NAD83 coordinates (E, N): 488511, 4628539; 489133, 4628414; 489526, 4628224; 489738, 4628040; 489883, 4627746; 490023, 4627178; 490236, 4626998; 490343, 4626785; 490276, 4626559; 490411, 4626070; 490200, 4625927; 490193, 4625599; 490027, 4624983; 490032, 4624516; 490121, 4624355; 490375, 4624242; 491064, 4624256; 491230, 4624207; 491441, 4624051; 491541, 4623893; 491653, 4623508; 491575, 4623413; 491596, 4623132; 491483, 4622582; 491533, 4622310; 491423, 4622044; 491986, 4621667; 492598, 4621487; 493093, 4621066; 493532, 4620922; 493673, 4620758; 493733, 4620406; 493953, 4619879; 493974, 4619538; 494082, 4619211; 493948, 4618702; 493696, 4617053; 492756, 4616751; 491861, 4616312; 491418, 4616169; 491328, 4616072; 491155, 4615573; 489881, 4615325; 488778, 4615309; 488487, 4615503; 488033, 4615665; 487798, 4615896; 487581, 4616008; 487562, 4616578; 487836, 4616897; 487768, 4617034; 487594, 4617116; 487438, 4617348; 487136, 4617347; 486774, 4617801; 486533, 4617997; 486119, 4618146; 486059, 4618050; 486137, 4617592; 486050, 4617495; 486029, 4617287; 486063, 4616684; 485926, 4616645; 485860, 4616481; 485567, 4616305; 485187, 4615227; 484325, 4614931; 478916, 4614945; 478487, 4616553; 477376, 4616556; 477339, 4616865; 477246, 4617008; 477331, 4617263; 477539, 4617402; 477716, 4617892; 477672, 4617934; 476891, 4618430; 476735, 4618348; 475947, 4618344; 475857, 4618445; 475276, 4618347; 474941, 4618973; 475005, 4619617; 474779, 4620240; 474778, 4620811; 474818, 4621011; 475017, 4621338; 475447, 4621780; 475931, 4622104; 476078, 4622427; 475931, 4622827; 475693, 4623053; 475388, 4623154; 475259, 4623270; 475234, 4623525; 475145, 4623554; 475149, 4624026; 475298, 4624315; 475228, 4624741; 475307, 4625017; 475935, 4624993; 476256, 4625219; 476673, 4625235; 476772, 4625313; 476952, 4625723; 476241, 4625994; 476277, 4626617; 476220, 4626865; 476017, 4627187; 476162, 4627179; 476377, 4627305; 476770, 4627081; 477066, 4627197; 477471, 4627176; 477928, 4627301; 478276, 4626930; 478981, 4626888; 479380, 4626952; 479775, 4626693; 480082, 4626662; 479983, 4627035; 482326, 4627030; 482239, 4627662; 482263, 4627911; 482401, 4628057; 482888, 4628267; 483453, 4628294; 483893, 4628233; 484226, 4628081; 485117, 4627860; 485128, 4627803; 487100, 4627788; 487313, 4628005; 487486, 4628020; 487602, 4628349; 487981, 4628508; 488511, 4628539; and excluding land bound by 481417, 4620958; 481834, 4620956; 481832, 4621376; 481425, 4621383; 481417, 4620958.

(Y) Land bounded by the following UTM Zone 10, NAD83 coordinates (E, N): 501125, 4628429; 499601, 4628480; 499612, 4629999; 501152, 4630011; 501125, 4628429.

(Z) Land bounded by the following UTM Zone 10, NAD83 coordinates (E, N): 505905, 4628446; 505918, 4630023; 507382, 4630007; 507383, 4629913; 507289, 4629913; 507283, 4629611; 507468, 4629602; 507454, 4628408; 505905, 4628446.

(AA) Land bounded by the following UTM Zone 10, NAD83 coordinates (E, N): 504362, 4628457; 502743, 4628459; 502740, 4629238; 503146, 4629237; 503143, 4630034; 504377, 4630044; 504362, 4628457.

(BB) Land bounded by the following UTM Zone 10, NAD83 coordinates (E, N): 501152, 4630011; 501243, 4630846; 501514, 4630839; 501263, 4630329; 501380, 4630270; 501520, 4630523; 501825, 4630544; 501968, 4630358; 501947, 4630012; 501759, 4630008; 501829, 4630197; 501728, 4630197; 501637, 4630009; 501152, 4630011.

(CC) Land bounded by the following UTM Zone 10, NAD83 coordinates (E, N): 496409, 4638956; 496369, 4640558; 497950, 4640518; 497978, 4638964; 496409, 4638956.

(DD) Land bounded by the following UTM Zone 10, NAD83 coordinates (E, N): 496330, 4642136; 496231, 4643711; 494622, 4643817; 494720, 4642199; 496330, 4642136; 496369, 4640558; 494821, 4640594; 494712, 4642199; 493544, 4642127; 493634, 4640551; 494821, 4640594; 494874, 4639929; 494852, 4639008; 496409, 4638956; 496456, 4637773; 495649, 4637779; 495662, 4637380; 495265, 4637377; 495238, 4638180; 494463, 4638195; 494460, 4637382; 494852, 4637380; 494981, 4635627; 494556, 4635317; 494021, 4635117; 493782, 4634682; 493649, 4634623; 493338, 4634634; 493145, 4635119; 492931, 4635092; 492704, 4634870; 491137, 4634870; 490666, 4635325; 490118, 4635509; 490069, 4635633; 489864, 4635791; 489532, 4635889; 489283, 4636203; 488778, 4636314; 488620, 4636434; 488109, 4636492; 488109, 4636358; 487348, 4636786; 487268, 4636910; 487072, 4637696; 486743, 4637773; 486545, 4637947; 486169, 4638946; 486185, 4639220; 486334, 4639467; 486250, 4639584; 486239, 4639843; 486365, 4640007; 486670, 4640208; 488411, 4640936; 488378, 4641325; 488471, 4641669; 488459, 4641926; 488355, 4642057; 487690, 4642282; 487127, 4642353; 486750, 4642671; 486650, 4642896; 486379, 4643082; 486186, 4642758; 485874, 4642531; 485295, 4642374; 485138, 4642447; 484865, 4642161; 484492, 4643198; 484556, 4644001; 484652, 4644091; 484678, 4644220; 484588, 4644888; 484421, 4645203; 484338, 4645544; 484216, 4645711; 484415, 4645923; 484743, 4646096; 484736, 4645911; 485134, 4645930; 485212, 4646772; 485409, 4646456; 485929, 4646218; 486105, 4646318; 487087, 4646397; 487203, 4646352; 487418, 4646114; 487581, 4646121; 488009, 4646467; 488586, 4646782; 489056, 4646508; 489416, 4645853; 489632, 4645653; 489869, 4645582; 490192, 4645812; 490345, 4645842; 490797, 4645440; 490743, 4644609; 490518, 4643324; 490697, 4643304; 490461, 4642816; 490516, 4642815; 490696, 4642904; 490877, 4643291; 491116, 4644666; 491302, 4644679; 491361, 4645321; 491541, 4645334; 491470, 4645681; 491203, 4645781; 491182, 4646354; 491494, 4646862; 491514, 4647412; 491622, 4647564; 492172, 4647119; 492342, 4646893; 492830, 4646911; 493040, 4647227; 493200, 4647347; 493455, 4647777; 493801, 4647944; 494313, 4647618; 494611, 4647647; 494611, 4647694; 494831, 4647659; 495149, 4647401; 495451, 4647266; 496188, 4647276; 496855, 4647481; 497028, 4647433; 497342, 4647224; 497374, 4646691; 497542, 4646693; 497782, 4646827; 497761, 4645246; 497855, 4643928; 498166, 4643903; 498342, 4644021; 498713, 4644119; 499018, 4643933; 499348, 4643243; 499532, 4643155; 499601, 4642188; 496330, 4642136; and excluding land bound by 499395, 4643109; 499371, 4643147; 499378, 4643136; 499395, 4643109; and excluding land bound by 492170, 4644351; 492241, 4645045; 492035, 4645180; 492312, 4645668; 492158, 4645764; 492242, 4645886; 492120, 4645989; 491882, 4645604; 491997, 4645514; 491675, 4644756; 491823, 4644666; 491887, 4644775; 492054, 4644672; 491996, 4644402; 492170, 4644351; and excluding land bound by 493337, 4645272; 494522, 4645293; 494555, 4646077; 493360, 4646059; 493337, 4645272; and excluding land bound by 490568, 4639405; 490571, 4639348; 490959, 4639357; 490945, 4639743; 491714, 4639750; 491703, 4640141; 490530, 4640135; 490568, 4639405; and excluding land bound by 491819, 4638524; 491815, 4638469; 491713, 4638473; 491695, 4638182; 491797, 4638180; 491777, 4637787; 491971, 4637791; 492021, 4638567; 491822, 4638571; 491819, 4638524; and excluding land bound by 492485, 4638047; 492447, 4637398; 492865, 4637397; 492935, 4636760; 493352, 4636764; 493290, 4637802; 492877, 4637796; 492895, 4638190; 492493, 4638188; 492485, 4638047.

(EE) Land bounded by the following UTM Zone 10, NAD83 coordinates (E, N): 468406, 4649791; 470930, 4649739; 471090, 4649657; 471324, 4648950; 471568, 4648739; 471686, 4648078; 471581, 4647786; 471762, 4647463; 471926, 4647307; 472062, 4646924; 472348, 4646792; 473063, 4646860; 473442, 4646409; 473939, 4646221; 474285, 4646242; 474896, 4645590; 474915, 4644410; 474830, 4643825; 475377, 4644003; 475714, 4644242; 475961, 4644064; 476330, 4643976; 477099, 4644075; 477245, 4643774; 477553, 4643690; 477736, 4643554; 477932, 4643154; 478264, 4642870; 478340, 4642704; 479067, 4642349; 479224, 4642191; 479384, 4641817; 480039, 4641331; 479910, 4641108; 479784, 4640578; 479628, 4640240; 479356, 4640094; 479170, 4639788; 479169, 4639520; 479412, 4639038; 479560, 4638905; 479643, 4638288; 480409, 4637769; 480682, 4637073; 481383, 4636285; 481939, 4635524; 482260, 4634893; 482324, 4634202; 481980, 4634027; 481747, 4634046; 481652, 4633899; 481392, 4633773; 481105, 4633814; 480644, 4633999; 479755, 4634056; 479496, 4634234; 479155, 4634829; 478938, 4634892; 478630, 4634759; 478630, 4635030; 478510, 4635033; 478513, 4635390; 478432, 4635392; 478417, 4636050; 478198, 4636050; 478233, 4634731; 478191, 4634531; 478090, 4634528; 478085, 4634363; 477870, 4634333; 477929, 4634443; 477837, 4634677; 477657, 4634568; 477626, 4634822; 477752, 4634841; 477634, 4634998; 477780, 4634985; 477775, 4635287; 477223, 4635294; 476743, 4635612; 476573, 4635920; 476341, 4636662; 475778, 4637286; 475674, 4637623; 474968, 4638202; 474943, 4638555; 475025, 4639345; 474952, 4639871; 473891, 4640691; 473515, 4640608; 472845, 4640062; 472789, 4639521; 472559, 4638929; 472560, 4639125; 472158, 4639133; 472156, 4639536; 471358, 4639536; 471356, 4639141; 471741, 4639137; 471747, 4638742; 472467, 4638735; 472268, 4638338; 472318, 4638287; 472120, 4638087; 471428, 4637964; 470487, 4637565; 470058, 4637573; 469888, 4637370; 469270, 4637050; 469096, 4637028; 468791, 4637105; 468792, 4637285; 468900, 4637286; 468939, 4637360; 468857, 4637584; 468793, 4637659; 468793, 4637569; 468301, 4637770; 468422, 4638022; 467953, 4638376; 467321, 4638272; 466750, 4638424; 466205, 4638912; 465764, 4639467; 465632, 4639778; 465417, 4639781; 465216, 4639956; 464750, 4639908; 464588, 4640238; 464536, 4639868; 464311, 4639796; 464417, 4639634; 464340, 4639548; 464209, 4639550; 464204, 4639754; 463798, 4639752; 463795, 4639390; 463481, 4639399; 463172, 4640078; 462868, 4640297; 462799, 4640702; 462585, 4640973; 462555, 4641246; 463029, 4641542; 463088, 4641863; 463301, 4642108; 464203, 4642266; 464381, 4642473; 464410, 4642724; 464609, 4643237; 464626, 4643533; 464497, 4644217; 464551, 4644730; 464710, 4645223; 464899, 4645565; 464843, 4645765; 464890, 4646178; 464696, 4646787; 464707, 4647069; 464880, 4647311; 465227, 4647479; 466235, 4648370; 466936, 4649281; 467573, 4649731; 467987, 4649741; 467979, 4649801; 468406, 4649791; and excluding land bound by 466600, 4643431; 466647, 4644231; 466189, 4644235; 466174, 4643437; 466600, 4643431; and excluding land bound by 469829, 4640354; 469833, 4639526; 470170, 4639531; 470178, 4640356; 469829, 4640354; and excluding land bound by 479976, 4634933; 479687, 4634673; 480112, 4634672; 480115, 4634753; 479976, 4634933; and excluding land bound by 480004, 4634069; 480109, 4634085; 480111, 4634256; 480014, 4634240; 480004, 4634069.

(FF) Land bounded by the following UTM Zone 10, NAD83 coordinates (E, N): 471338, 4650883; 471344, 4651024; 472160, 4650895; 471338, 4650883.

(GG) Land bounded by the following UTM Zone 10, NAD83 coordinates (E, N): 470411, 4651907; 470569, 4651721; 470078, 4651722; 469509, 4652049; 468964, 4652227; 469086, 4652349; 469527, 4652496; 470067, 4652300; 470411, 4651907.

(iii) Note: Map of Scott and Salmon Mountains Unit follows:

BILLING CODE 4310-55-S

BILLING CODE 4310-55-C

(33) Trinity Divide Unit (Unit 26). Siskiyou County, California.

(i) The Trinity Divide Unit consists of 13, 900 ac (5, 600 ha) and is comprised of lands managed by the Klamath National Forest.

(ii) From USGS 1:24, 000 scale quadrangles Billys Peak, Callahan, Deadman Peak, Grasshopper Ridge, and Scott Mountain.

(A) Land bounded by the following UTM Zone 10, NAD83 coordinates (E, N): 500570, 4560110; 500339, 4559807; 500432, 4559668; 500560, 4559644; 500504, 4559390; 500321, 4559085; 500553, 4558982; 500839, 4558713; 500977, 4558497; 501129, 4558416; 501202, 4558199; 499508, 4558457; 499357, 4558276; 498899, 4558050; 498901, 4556889; 499733, 4556911; 500427, 4556840; 500567, 4556717; 500566, 4556610; 501260, 4556452; 501267, 4555591; 500735, 4555539; 500675, 4555228; 500565, 4555039; 500210, 4554798; 499521, 4554743; 499533, 4554660; 499347, 4554627; 498922, 4554695; 498707, 4554252; 498232, 4554036; 497748, 4554189; 497533, 4554170; 497139, 4554358; 496965, 4554109; 496721, 4553910; 496344, 4553963; 495595, 4553782; 495119, 4553871; 494932, 4554615; 494962, 4554862; 494802, 4555155; 494495, 4555451; 494242, 4555590; 494405, 4555853; 494456, 4556177; 494650, 4556174; 494650, 4556419; 494552, 4556422; 494551, 4556522; 494270, 4556527; 494262, 4556921; 494962, 4556899; 494877, 4556954; 494776, 4557238; 494833, 4557502; 495331, 4557753; 495765, 4557883; 495913, 4558065; 496172, 4558195; 497137, 4558275; 497777, 4558642; 498270, 4559232; 498242, 4559761; 498280, 4559884; 498419, 4559972; 498530, 4559998; 499201, 4559766; 499172, 4560110; 500570, 4560110.

(B) Land bounded by the following UTM Zone 10, NAD83 coordinates (E, N): 503470, 4564580; 503877, 4564485; 505465, 4564584; 505476, 4564228; 506458, 4564235; 506457, 4563789; 507228, 4563790; 507198, 4562727; 506885, 4561406; 503951, 4561461; 502435, 4561573; 502426, 4562611; 502843, 4562563; 502852, 4563917; 503144, 4563940; 503112, 4564664; 503470, 4564580.

(C) Land bounded by the following UTM Zone 10, NAD83 coordinates (E, N): 513663, 4566473; 515412, 4566478; 515492, 4566309; 515788, 4566010; 515665, 4566012; 515849, 4565534; 513501, 4565369; 513655, 4564743; 511993, 4564749; 512016, 4566128; 512221, 4566356; 512250, 4566520; 512688, 4567010; 513661, 4567038; 513663, 4566473.

(D) Land bounded by the following UTM Zone 10, NAD83 coordinates (E, N): 519899, 4568135; 519905, 4568040; 518831, 4568056; 518354, 4568167; 518250, 4569810; 519796, 4569851; 519899, 4568135.

(E) Land bounded by the following UTM Zone 10, NAD83 coordinates (E, N): 529330, 4576071; 531053, 4576025; 531045, 4575622; 530476, 4575496; 530081, 4575118; 529700, 4574908; 529494, 4574572; 529467, 4574378; 529364, 4574375; 529330, 4576071.

(F) Land bounded by the following UTM Zone 10, NAD83 coordinates (E, N): 527728, 4576089; 527856, 4574487; 526626, 4574471; 526600, 4574882; 526174, 4574893; 526149, 4576078; 527728, 4576089.

(G) Land bounded by the following UTM Zone 10, NAD83 coordinates (E, N): 529431, 4577664; 529330, 4576071; 527728, 4576089; 527817, 4577689; 529431, 4577664.

(H) Land bounded by the following UTM Zone 10, NAD83 coordinates (E, N): 529431, 4577664; 529446, 4577745; 529065, 4577743; 529069, 4579378; 530651, 4579357; 530673, 4577754; 531063, 4577746; 531065, 4577638; 529431, 4577664.

(iii) Note: Map of Trinity Divide Unit follows:

BILLING CODE 4310-55-S

BILLING CODE 4310-55-C

(34) Shasta-Trinity Lakes Unit (Unit 27). Shasta and Trinity Counties, California.

(i) The Shasta-Trinity Lakes Unit consists of 86, 800 ac (35, 100 ha) and is comprised of lands managed by the Shasta-Trinity National Forest (85, 700 ac (34, 700 ha)) and BLM Redding Field Office (1, 100 ac (400 ha)).

(ii) From USGS 1:24, 000 scale quadrangles Carrville, Covington Mill, Damnation Peak, French Gulch, Lamoine, Lewiston, Mumbo Basin, Papoose Creek, Rush Creek Lakes, Schell Mountain, Siligo Peak, Tangle Blue Lake, Trinity Center, Trinity Dam, Whisky Bill Peak, and Ycatapom Peak.

(A) Land bounded by the following UTM Zone 10, NAD83 coordinates (E, N): 527642, 4521968; 527650, 4520659; 525924, 4520814; 526061, 4521984; 527642, 4521968.

(B) Land bounded by the following UTM Zone 10, NAD83 coordinates (E, N): 529149, 4521994; 530750, 4521981; 530882, 4520482; 529310, 4520453; 529149, 4521994.

(C) Land bounded by the following UTM Zone 10, NAD83 coordinates (E, N): 511467, 4519422; 511412, 4520213; 509853, 4520213; 509944, 4519436; 511467, 4519422; 511440, 4517814; 508347, 4518001; 507612, 4518100; 506778, 4517793; 506684, 4516972; 506695, 4516180; 505142, 4516185; 505139, 4516698; 505399, 4516669; 505410, 4516786; 505308, 4517298; 505152, 4517650; 505131, 4518135; 505396, 4518129; 505679, 4517999; 505845, 4518117; 506090, 4518047; 506483, 4518138; 506714, 4518302; 506814, 4518489; 507127, 4518649; 507327, 4518636; 507518, 4518521; 508200, 4519507; 508274, 4518764; 509090, 4518719; 509068, 4519482; 508210, 4519531; 508242, 4521003; 509762, 4521004; 509752, 4522525; 511102, 4522238; 512523, 4520965; 513309, 4520440; 514159, 4520547; 514911, 4520304; 515765, 4520421; 516037, 4520644; 516610, 4520756; 517367, 4520591; 518085, 4520280; 518162, 4520016; 518060, 4519921; 517235, 4519581; 517017, 4519408; 516973, 4519272; 516649, 4519343; 516467, 4519135; 516364, 4518840; 516251, 4518713; 516059, 4518511; 515735, 4518338; 515560, 4517954; 515783, 4517872; 516283, 4517977; 516411, 4518075; 516694, 4518598; 516948, 4518778; 517369, 4518966; 517953, 4518990; 518694, 4519344; 518988, 4519168; 519074, 4518958; 519609, 4518722; 519667, 4518586; 519590, 4518062; 519512, 4517907; 519434, 4517023; 519429, 4515868; 519583, 4515255; 520415, 4515061; 520560, 4515052; 520722, 4515148; 520689, 4515428; 520209, 4516781; 520353, 4516948; 520576, 4517001; 521599, 4516800; 522252, 4516879; 522693, 4516838; 523315, 4516166; 523800, 4515517; 524440, 4515009; 524578, 4512907; 522951, 4512891; 522959, 4511136; 521007, 4511113; 521009, 4511021; 522808, 4511027; 522785, 4509430; 520423, 4509502; 520427, 4510298; 519697, 4510335; 519641, 4509549; 518055, 4509716; 518024, 4509641; 517441, 4510024; 518063, 4510419; 518176, 4510419; 518572, 4510814; 518798, 4510927; 519307, 4511040; 519581, 4510926; 519566, 4512941; 517901, 4513011; 517841, 4514561; 516228, 4514550; 516283, 4512996; 517094, 4513001; 517130, 4511872; 516958, 4511876; 516391, 4512546; 516038, 4512614; 515793, 4512589; 515279, 4512303; 514687, 4512132; 514608, 4514523; 513041, 4514470; 513079, 4517016; 514669, 4516985; 514688, 4517786; 513068, 4517814; 513051, 4519412; 511467, 4519422; and excluding land bound by 518031, 4517771; 516299, 4517769; 516375, 4516163; 518061, 4516212; 518031, 4517771; 519029, 4517772; 519019, 4517947; 519226, 4517945; 519206, 4518335; 518994, 4518337; 518980, 4518550; 518779, 4518549; 518753, 4518952; 517926, 4518953; 518031, 4517771; and excluding land bound by 521152, 4510401; 520711, 4510156; 520815, 4509982; 521231, 4510250; 521152, 4510401.

(D) Land bounded by the following UTM Zone 10, NAD83 coordinates (E, N): 529149, 4521994; 527642, 4521968; 527663, 4523571; 529236, 4523610; 529149, 4521994.

(E) Land bounded by the following UTM Zone 10, NAD83 coordinates (E, N): 529236, 4523610; 528951, 4525219; 530560, 4525250; 530750, 4523620; 529236, 4523610.

(F) Land bounded by the following UTM Zone 10, NAD83 coordinates (E, N): 538527, 4525552; 540088, 4525586; 540057, 4524000; 538555, 4523997; 538527, 4525552.

(G) Land bounded by the following UTM Zone 10, NAD83 coordinates (E, N): 522671, 4525796; 523799, 4525814; 523803, 4525750; 523982, 4525812; 524061, 4525699; 523863, 4525327; 523209, 4524795; 522677, 4524776; 522671, 4525796.

(H) Land bounded by the following UTM Zone 10, NAD83 coordinates (E, N): 511224, 4525859; 511241, 4524254; 510558, 4524083; 509778, 4524073; 509613, 4525702; 511224, 4525859.

(I) Land bounded by the following UTM Zone 10, NAD83 coordinates (E, N): 527388, 4525190; 527663, 4523571; 526390, 4523578; 526402, 4522771; 526072, 4522769; 526061, 4521984; 524138, 4522689; 524234, 4521052; 523575, 4521410; 522940, 4521395; 522751, 4521580; 522677, 4522019; 522255, 4521915; 522134, 4521994; 522189, 4522155; 522341, 4522174; 522587, 4522534; 523300, 4522543; 523546, 4522690; 523726, 4522920; 523767, 4523166; 523898, 4523385; 523882, 4523526; 524013, 4523731; 523996, 4524059; 523816, 4524379; 523931, 4524682; 524202, 4525066; 524203, 4524963; 524355, 4524965; 524963, 4524470; 525592, 4523491; 525820, 4523201; 526082, 4522991; 526075, 4523198; 525682, 4524074; 525215, 4524673; 525221, 4524799; 525369, 4524934; 525618, 4524906; 526912, 4524117; 527179, 4524205; 526807, 4524530; 526393, 4524684; 526199, 4525029; 525947, 4525153; 525265, 4525172; 525145, 4525272; 525044, 4525262; 525043, 4525347; 525435, 4525430; 525725, 4525358; 525727, 4525884; 527388, 4525190.

(J) Land bounded by the following UTM Zone 10, NAD83 coordinates (E, N): 521016, 4525947; 521075, 4524501; 520696, 4524306; 520492, 4524359; 520213, 4524989; 520344, 4525133; 520281, 4525306; 520105, 4525492; 519922, 4525906; 519661, 4525939; 519493, 4526139; 519450, 4526296; 519567, 4526350; 519546, 4526598; 519397, 4526563; 519395, 4526772; 519609, 4526742; 519610, 4526206; 519757, 4526201; 519758, 4526100; 520120, 4526091; 520123, 4525909; 521016, 4525947.

(K) Land bounded by the following UTM Zone 10, NAD83 coordinates (E, N): 530560, 4525250; 530499, 4526928; 532157, 4526942; 532139, 4525291; 530560, 4525250.

(L) Land bounded by the following UTM Zone 10, NAD83 coordinates (E, N): 540088, 4525586; 540089, 4527180; 541661, 4527193; 541668, 4525632; 540088, 4525586.

(M) Land bounded by the following UTM Zone 10, NAD83 coordinates (E, N): 522671, 4525796; 521016, 4525947; 521006, 4527500; 522577, 4527506; 522671, 4525796.

(N) Land bounded by the following UTM Zone 10, NAD83 coordinates (E, N): 533740, 4527023; 532157, 4526942; 532156, 4528589; 533704, 4528681; 533740, 4527023.

(O) Land bounded by the following UTM Zone 10, NAD83 coordinates (E, N): 536923, 4527070; 536076, 4527053; 536106, 4526232; 536917, 4526276; 536923, 4527070; 538089, 4527132; 538099, 4526736; 538500, 4526749; 538527, 4525552; 536910, 4525486; 535373, 4525325; 533783, 4525349; 533740, 4527023; 535237, 4527037; 535309, 4528570; 536859, 4528732; 536923, 4527070.

(P) Land bounded by the following UTM Zone 10, NAD83 coordinates (E, N): 522577, 4527506; 522573, 4529097; 523871, 4529116; 523906, 4529315; 524598, 4529356; 524819, 4529331; 524943, 4529194; 525001, 4528816; 524859, 4528577; 524566, 4528378; 524326, 4528076; 524317, 4527701; 524386, 4527452; 522577, 4527506.

(Q) Land bounded by the following UTM Zone 10, NAD83 coordinates (E, N): 522573, 4529097; 520981, 4529100; 520971, 4530947; 522572, 4530927; 522573, 4529097.

(R) Land bounded by the following UTM Zone 10, NAD83 coordinates (E, N): 520981, 4529100; 521006, 4527500; 519446, 4527519; 519451, 4527344; 519342, 4527417; 519030, 4525980; 519150, 4525868; 519149, 4525583; 519438, 4525399; 519371, 4524917; 519213, 4524912; 519213, 4524988; 518970, 4524992; 518968, 4525390; 519198, 4525388; 519010, 4525871; 517819, 4525829; 517820, 4526280; 517406, 4526280; 517405, 4525841; 516002, 4525878; 515988, 4525227; 515928, 4525009; 515824, 4524882; 515704, 4524844; 515575, 4524982; 515437, 4525641; 515422, 4526696; 514560, 4526728; 514544, 4527538; 512938, 4527651; 513117, 4526851; 513134, 4526066; 511224, 4525859; 511305, 4527033; 511490, 4527177; 513859, 4530032; 514490, 4531008; 516109, 4531006; 516104, 4529397; 516531, 4529397; 516531, 4529512; 516925, 4529516; 516928, 4529392; 517761, 4529379; 517792, 4528342; 518150, 4527778; 518147, 4527689; 518215, 4527684; 518184, 4527539; 519061, 4527525; 519071, 4527051; 519208, 4527523; 519211, 4527836; 519400, 4528071; 519389, 4529148; 520981, 4529100; and excluding land bound by 517821, 4527132; 517533, 4527134; 517567, 4526728; 517813, 4526726; 517821, 4527132; and excluding land bound by 517396, 4527119; 517394, 4527544; 516598, 4527551; 516611, 4526700; 517002, 4526699; 517002, 4526901; 517205, 4526907; 517205, 4527117; 517396, 4527119.

(S) Land bounded by the following UTM Zone 10, NAD83 coordinates (E, N): 530448, 4528594; 530499, 4526928; 528930, 4526932; 528951, 4525219; 527388, 4525190; 527369, 4526505; 526603, 4526831; 526595, 4526593; 526177, 4526731; 526171, 4526528; 526040, 4526550; 525938, 4526000; 525729, 4526081; 525727, 4525884; 525449, 4525873; 525275, 4525725; 525757, 4526454; 525738, 4526621; 525953, 4526973; 525647, 4527192; 525439, 4527245; 525309, 4527377; 525339, 4527609; 525797, 4528110; 525680, 4528548; 525955, 4528911; 525912, 4529311; 525959, 4529560; 526305, 4529962; 526523, 4529984; 526711, 4529917; 527929, 4530402; 528242, 4530724; 528286, 4530850; 529014, 4531460; 529214, 4531718; 529139, 4531867; 528758, 4531886; 528555, 4531834; 527991, 4531556; 528017, 4531337; 527971, 4531254; 527960, 4532475; 529530, 4532475; 529553, 4532045; 529709, 4532007; 529575, 4531650; 529343, 4531655; 529343, 4531551; 529257, 4531547; 529252, 4531447; 529146, 4531444; 529144, 4531339; 528954, 4531329; 528955, 4531226; 528808, 4531219; 528811, 4530849; 528945, 4530853; 528939, 4528645; 530448, 4528594.

(T) Land bounded by the following UTM Zone 10, NAD83 coordinates (E, N): 531131, 4532566; 529530, 4532475; 529526, 4534124; 531113, 4534141; 531131, 4532566.

(U) Land bounded by the following UTM Zone 10, NAD83 coordinates (E, N): 534374, 4538981; 532702, 4539018; 532690, 4539726; 533599, 4539769; 533564, 4540635; 534285, 4540632; 534374, 4538981.

(V) Land bounded by the following UTM Zone 10, NAD83 coordinates (E, N): 541661, 4527193; 541663, 4528733; 540127, 4528670; 540089, 4527180; 538491, 4527153; 538483, 4528712; 536859, 4528732; 536780, 4530889; 535143, 4530850; 535309, 4528570; 533704, 4528681; 533653, 4530830; 532068, 4530820; 532156, 4528589; 530448, 4528594; 530511, 4530838; 531206, 4530828; 531131, 4532566; 532771, 4532504; 532764, 4533363; 532982, 4533349; 533128, 4533195; 533250, 4533161; 533371, 4533325; 533424, 4533122; 533784, 4532651; 534004, 4532476; 534267, 4532439; 534445, 4532304; 534393, 4532441; 534230, 4532552; 534064, 4532546; 533942, 4532698; 533874, 4532698; 533513, 4533164; 533442, 4533373; 533279, 4533379; 533217, 4533271; 533065, 4533390; 532764, 4533402; 532763, 4533493; 532672, 4533548; 532412, 4533609; 532222, 4534004; 532263, 4534180; 531113, 4534141; 531084, 4535735; 532495, 4535809; 532510, 4535863; 532194, 4536205; 532158, 4536336; 532202, 4536519; 532498, 4536678; 532179, 4536853; 532248, 4537069; 531959, 4537388; 530728, 4537384; 530736, 4536889; 530186, 4536897; 530174, 4536347; 530244, 4536241; 531084, 4536241; 531084, 4535735; 529548, 4535800; 529526, 4534124; 528781, 4534135; 528787, 4533429; 528376, 4533419; 528375, 4533504; 528160, 4533511; 528160, 4533748; 527947, 4533750; 527960, 4532475; 526738, 4532470; 526738, 4532365; 526679, 4532554; 526579, 4532653; 526577, 4532852; 526626, 4532902; 526727, 4532853; 526874, 4533054; 526947, 4533032; 526973, 4533204; 527072, 4533305; 527020, 4533503; 527266, 4533904; 527434, 4533906; 528030, 4534108; 528180, 4534362; 528309, 4535104; 528983, 4536123; 529664, 4536779; 530589, 4537362; 530696, 4537615; 531578, 4538723; 531726, 4538815; 532704, 4538884; 532727, 4537401; 532109, 4537391; 532327, 4537190; 532299, 4536978; 532352, 4536853; 532538, 4536756; 532733, 4536746; 532727, 4537401; 534571, 4537341; 534374, 4538981; 536046, 4539020; 536116, 4537717; 536539, 4537722; 536534, 4538092; 536921, 4538085; 536869, 4538960; 536046, 4539020; 536015, 4539405; 539204, 4539465; 539158, 4540606; 540799, 4540661; 540801, 4540472; 541047, 4540236; 541541, 4539529; 541631, 4539184; 541837, 4538773; 541964, 4538625; 542526, 4538428; 542833, 4538218; 543013, 4537853; 543461, 4537267; 543635, 4537166; 544126, 4537073; 544383, 4536623; 544515, 4536520; 545629, 4536485; 545610, 4535891; 542395, 4535691; 542424, 4534174; 540895, 4534164; 540831, 4532600; 542432, 4532596; 542454, 4531830; 541660, 4531823; 541668, 4531436; 540860, 4531424; 540848, 4531103; 540719, 4531218; 540484, 4531237; 540503, 4531575; 540193, 4531608; 540372, 4531960; 540363, 4532095; 540238, 4532230; 540330, 4532244; 540347, 4532338; 540532, 4532219; 540617, 4532240; 540778, 4532026; 540757, 4532227; 540646, 4532343; 540494, 4532346; 540284, 4532465; 540201, 4532407; 540222, 4532328; 540057, 4532258; 540102, 4532152; 540263, 4532074; 540279, 4531944; 540037, 4531519; 540272, 4531446; 540383, 4531477; 540387, 4531191; 540643, 4531104; 540579, 4531005; 541659, 4531019; 541605, 4530887; 541257, 4530996; 541072, 4530496; 541317, 4530413; 541256, 4530234; 541054, 4530242; 541038, 4530057; 541228, 4530037; 541053, 4529966; 540978, 4530101; 540378, 4529865; 540477, 4529732; 540560, 4529757; 540554, 4529622; 540993, 4529766; 541014, 4529660; 541434, 4529770; 541435, 4529893; 541502, 4529906; 541474, 4530139; 541690, 4530075; 541754, 4530251; 541942, 4530172; 541998, 4530923; 541746, 4531024; 542567, 4531050; 543493, 4530867; 543490, 4530538; 543170, 4530484; 543071, 4530054; 543546, 4528937; 543604, 4528092; 543470, 4527603; 543497, 4527282; 543753, 4526531; 543612, 4526315; 543332, 4526270; 543312, 4527211; 542181, 4527198; 542117, 4527315; 541974, 4527356; 541661, 4527193; and excluding land bound by 539689, 4529616; 539666, 4530086; 539799, 4530348; 540023, 4530438; 540016, 4530565; 539663, 4530395; 539575, 4530119; 539580, 4529891; 539493, 4530225; 539525, 4530809; 539470, 4530983; 539248, 4531008; 539158, 4531651; 538854, 4532005; 538764, 4532369; 538584, 4532543; 538541, 4532673; 538272, 4532589; 538326, 4532321; 538240, 4532268; 538021, 4532376; 537441, 4532099; 537307, 4531786; 537193, 4531676; 537127, 4531733; 537042, 4531608; 536650, 4531481; 536581, 4531508; 536521, 4531772; 536324, 4531774; 536351, 4531518; 536195, 4531412; 535924, 4531539; 535896, 4531421; 535683, 4531463; 535587, 4531378; 535266, 4531323; 535249, 4531236; 535090, 4531181; 534885, 4531186; 534838, 4531306; 534843, 4531610; 534793, 4531669; 534877, 4531672; 534887, 4532547; 534675, 4532552; 534656, 4531664; 534731, 4531666; 534736, 4531323; 534826, 4531099; 534913, 4531097; 534920, 4530987; 535064, 4530996; 535062, 4531092; 535316, 4531170; 535319, 4531257; 535372, 4531211; 535621, 4531280; 535686, 4531372; 535777, 4531309; 535902, 4531343; 535955, 4531435; 536010, 4531347; 536212, 4531348; 536457, 4531479; 536428, 4531582; 536498, 4531577; 536470, 4531432; 536640, 4531380; 537106, 4531493; 537138, 4531586; 537215, 4531523; 537425, 4531825; 537472, 4532026; 537963, 4532244; 538072, 4532242; 538186, 4532145; 538401, 4532222; 538362, 4532489; 538457, 4532501; 538653, 4532334; 538746, 4532021; 538721, 4531916; 539059, 4531595; 539175, 4531220; 539155, 4530858; 539257, 4530794; 539321, 4530909; 539418, 4530806; 539383, 4530163; 539586, 4529538; 539450, 4529537; 539456, 4529327; 539693, 4529331; 539689, 4529616; and excluding land bound by 532755, 4534197; 533622, 4534192; 533633, 4535758; 532740, 4535797; 532734, 4536572; 532671, 4536499; 532285, 4536488; 532233, 4536380; 532740, 4535797; 532755, 4534197; 532396, 4534184; 532299, 4533987; 532474, 4533707; 532763, 4533579; 532755, 4534197; and excluding land bound by 537312, 4535754; 537728, 4535752; 537721, 4536128; 537311, 4536126; 537312, 4535754; and excluding land bound by 528787, 4534458; 528790, 4534308; 528873, 4534310; 528869, 4534459; 528787, 4534458.

(W) Land bounded by the following UTM Zone 10, NAD83 coordinates (E, N): 521687, 4543766; 521671, 4542110; 520105, 4542112; 520094, 4543714; 521687, 4543766.

(X) Land bounded by the following UTM Zone 10, NAD83 coordinates (E, N): 524913, 4543764; 524912, 4543823; 524621, 4543825; 524633, 4543403; 524922, 4543398; 524913, 4543764; 524974, 4543290; 525402, 4542399; 525443, 4542174; 525381, 4542175; 525380, 4542289; 525276, 4542288; 525268, 4542594; 525057, 4542598; 525050, 4543010; 524645, 4543012; 524666, 4542187; 524036, 4542125; 523250, 4542138; 523254, 4543784; 523613, 4543773; 523585, 4543998; 524209, 4544593; 524204, 4543943; 524428, 4544000; 524522, 4543914; 524849, 4543955; 524941, 4544224; 524913, 4543764.

(Y) Land bounded by the following UTM Zone 10, NAD83 coordinates (E, N): 524966, 4544478; 524852, 4544696; 524900, 4544855; 524999, 4544856; 524966, 4544478.

(Z) Land bounded by the following UTM Zone 10, NAD83 coordinates (E, N): 523585, 4543998; 523238, 4543991; 523254, 4543784; 521687, 4543766; 521559, 4545273; 523105, 4545475; 523222, 4544198; 523559, 4544200; 523585, 4543998.

(AA) Land bounded by the following UTM Zone 10, NAD83 coordinates (E, N): 518574, 4546872; 518507, 4545287; 516980, 4545290; 517048, 4546871; 518574, 4546872.

(BB) Land bounded by the following UTM Zone 10, NAD83 coordinates (E, N): 521559, 4545273; 520023, 4545277; 520080, 4546844; 521596, 4546879; 521559, 4545273.

(CC) Land bounded by the following UTM Zone 10, NAD83 coordinates (E, N): 526206, 4545430; 526214, 4544981; 526047, 4544982; 525969, 4545146; 525819, 4545163; 525827, 4544396; 526227, 4544400; 526231, 4544205; 527029, 4544212; 527017, 4544626; 527816, 4544632; 527848, 4542200; 526376, 4542160; 526351, 4542449; 526226, 4542664; 526156, 4543231; 525698, 4543973; 525658, 4544422; 525377, 4545127; 525279, 4545290; 525144, 4545218; 525142, 4545399; 525414, 4545394; 525402, 4547048; 527786, 4547048; 527787, 4545438; 526206, 4545430.

(DD) Land bounded by the following UTM Zone 10, NAD83 coordinates (E, N): 523105, 4545475; 523103, 4547039; 522029, 4546924; 522066, 4547340; 522605, 4547316; 523377, 4547387; 523392, 4547040; 523790, 4547038; 523782, 4547840; 524696, 4547836; 524698, 4547327; 524598, 4547326; 524600, 4547037; 524781, 4547036; 524783, 4546923; 524521, 4547035; 524356, 4547035; 524364, 4546860; 524767, 4546675; 524600, 4546674; 524589, 4544817; 524200, 4544824; 524189, 4545432; 523105, 4545475.

(EE) Land bounded by the following UTM Zone 10, NAD83 coordinates (E, N): 520080, 4546844; 518574, 4546872; 518969, 4548453; 520599, 4548430; 520080, 4546844.

(FF) Land bounded by the following UTM Zone 10, NAD83 coordinates (E, N): 523055, 4550291; 522186, 4550210; 522093, 4551601; 522709, 4551699; 522957, 4551773; 523059, 4551875; 523055, 4550291.

(GG) Land bounded by the following UTM Zone 10, NAD83 coordinates (E, N): 524611, 4553432; 524567, 4551875; 523657, 4551879; 523657, 4553260; 523560, 4553258; 523560, 4553384; 523367, 4553460; 524611, 4553432.

(HH) Land bounded by the following UTM Zone 10, NAD83 coordinates (E, N): 523066, 4555036; 523063, 4553770; 522645, 4553879; 522374, 4554045; 522176, 4554579; 522021, 4554756; 522022, 4554862; 521894, 4554883; 521921, 4555009; 523066, 4555036.

(II) Land bounded by the following UTM Zone 10, NAD83 coordinates (E, N): 524611, 4553432; 524629, 4554988; 526192, 4555051; 526180, 4554570; 526082, 4554438; 525122, 4554411; 525103, 4553528; 524893, 4553431; 524611, 4553432.

(JJ) Land bounded by the following UTM Zone 10, NAD83 coordinates (E, N): 526192, 4555051; 526163, 4556629; 527770, 4556628; 527764, 4555710; 527453, 4555495; 527054, 4555334; 526709, 4555016; 526192, 4555051.

(KK) Land bounded by the following UTM Zone 10, NAD83 coordinates (E, N): 524564, 4556558; 524629, 4554988; 523066, 4555040; 523084, 4556636; 524564, 4556558.

(LL) Land bounded by the following UTM Zone 10, NAD83 coordinates (E, N): 526163, 4556629; 524564, 4556558; 524600, 4558165; 526185, 4558118; 526163, 4556629.

(MM) Land bounded by the following UTM Zone 10, NAD83 coordinates (E, N): 530880, 4558103; 532511, 4558190; 532557, 4556579; 532065, 4556558; 531631, 4556870; 531401, 4556913; 531110, 4556718; 530946, 4556523; 530880, 4558103.

(NN) Land bounded by the following UTM Zone 10, NAD83 coordinates (E, N): 530886, 4559779; 530880, 4558103; 529298, 4558107; 529287, 4558892; 529378, 4559829; 530886, 4559779.

(OO) Land bounded by the following UTM Zone 10, NAD83 coordinates (E, N): 530886, 4559779; 531036, 4560689; 531055, 4561456; 532499, 4561429; 532460, 4559799; 530886, 4559779.

(PP) Land bounded by the following UTM Zone 10, NAD83 coordinates (E, N): 533426, 4561500; 532659, 4561441; 532652, 4562300; 533426, 4562303; 533426, 4561500.

(QQ) Land bounded by the following UTM Zone 10, NAD83 coordinates (E, N): 531055, 4561456; 529402, 4561448; 529406, 4563080; 531009, 4563059; 531055, 4561456.

(iii) Note: Map of Shasta-Trinity Lakes Unit follows:

BILLING CODE 4310-55-S

BILLING CODE 4310-55-C

(35) Eastern Klamath Mountains Unit (Unit 28). Shasta and Siskiyou Counties, California.

(i) The Eastern Klamath Mountains Unit consists of 110, 800 ac (44, 800 ha) and is comprised of lands managed by the Shasta-Trinity and Klamath National Forests.

(ii) From USGS 1:24, 000 scale quadrangles Big Bend, Chicken Hawk Hill, China Mountain, City of Mount Shasta, Dead Horse Summit, Devils Rock, Dunsmuir, Girard Ridge, Goose Gap, Grizzly Peak, Lake McCloud, Minnesota Mountain, Mount Eddy, Roaring Creek, Seven Lakes Basin, Shoeinhorse Mountain, Skunk Ridge, Tombstone Mountain, Weed, and Yellowjacket Mountain.

(A) Land bounded by the following UTM Zone 10, NAD83 coordinates (E, N): 578200, 4524539; 578201, 4524455; 578289, 4524456; 578410, 4524095; 578726, 4523959; 578755, 4523806; 578977, 4523549; 578929, 4523279; 578826, 4523182; 578696, 4523183; 578773, 4522840; 577029, 4522803; 576913, 4522422; 576910, 4522151; 577149, 4521953; 577432, 4521000; 577445, 4520717; 577294, 4520549; 577419, 4520358; 577552, 4520281; 577544, 4520020; 577753, 4519632; 577163, 4519246; 576249, 4518481; 574159, 4517380; 573357, 4517156; 573005, 4517116; 572955, 4517678; 572818, 4517883; 572601, 4518036; 572045, 4518240; 571555, 4518294; 570745, 4518770; 570372, 4519550; 570358, 4521084; 572621, 4521109; 572955, 4521939; 573005, 4522210; 573038, 4522548; 572898, 4523371; 573098, 4523839; 573144, 4524286; 573301, 4524416; 573631, 4524540; 573721, 4524454; 574043, 4524414; 574921, 4524504; 574787, 4524580; 575178, 4524836; 575028, 4525501; 575027, 4525783; 574924, 4525922; 574920, 4526039; 578185, 4526080; 578200, 4524539.

(B) Land bounded by the following UTM Zone 10, NAD83 coordinates (E, N): 577107, 4531320; 577161, 4531139; 577674, 4531185; 577752, 4530737; 577452, 4530332; 577347, 4529876; 577944, 4529577; 578150, 4529643; 578265, 4529405; 578264, 4529333; 578144, 4529332; 578153, 4528995; 577905, 4528886; 577929, 4528280; 577511, 4528180; 577444, 4527705; 577379, 4527688; 576680, 4527672; 576512, 4527885; 575488, 4527915; 575493, 4529087; 575215, 4529127; 575299, 4529171; 575272, 4529876; 575499, 4529916; 575490, 4530033; 575671, 4530047; 575659, 4530334; 576244, 4530309; 576348, 4531439; 577126, 4531437; 577107, 4531320.

(C) Land bounded by the following UTM Zone 10, NAD83 coordinates (E, N): 585053, 4539135; 585080, 4537541; 583550, 4537500; 583587, 4539132; 585053, 4539135.

(D) Land bounded by the following UTM Zone 10, NAD83 coordinates (E, N): 582029, 4540678; 583567, 4540704; 583585, 4539187; 582047, 4539261; 582029, 4540678.

(E) Land bounded by the following UTM Zone 10, NAD83 coordinates (E, N): 585053, 4539135; 585113, 4540749; 586712, 4540792; 586653, 4539172; 585053, 4539135.

(F) Land bounded by the following UTM Zone 10, NAD83 coordinates (E, N): 577111, 4542267; 578753, 4542276; 578786, 4540652; 577158, 4540640; 577111, 4542267.

(G) Land bounded by the following UTM Zone 10, NAD83 coordinates (E, N): 582010, 4542250; 582029, 4540678; 580399, 4540673; 580385, 4542290; 582010, 4542250.

(H) Land bounded by the following UTM Zone 10, NAD83 coordinates (E, N): 555053, 4540700; 553483, 4540700; 553499, 4542336; 555121, 4542340; 555053, 4540700.

(I) Land bounded by the following UTM Zone 10, NAD83 coordinates (E, N): 575494, 4542349; 575538, 4540736; 573922, 4540834; 573882, 4542438; 575494, 4542349.

(J) Land bounded by the following UTM Zone 10, NAD83 coordinates (E, N): 571745, 4542539; 571834, 4540957; 570179, 4540951; 570043, 4542522; 571745, 4542539.

(K) Land bounded by the following UTM Zone 10, NAD83 coordinates (E, N): 580385, 4542290; 578753, 4542276; 578668, 4543907; 580300, 4543910; 580385, 4542290.

(L) Land bounded by the following UTM Zone 10, NAD83 coordinates (E, N): 577027, 4543889; 577111, 4542267; 575494, 4542349; 575406, 4543962; 577027, 4543889.

(M) Land bounded by the following UTM Zone 10, NAD83 coordinates (E, N): 553499, 4542336; 551970, 4542369; 551983, 4543568; 552684, 4543562; 552680, 4543970; 553485, 4543952; 553499, 4542336.

(N) Land bounded by the following UTM Zone 10, NAD83 coordinates (E, N): 573771, 4544036; 573882, 4542438; 571745, 4542539; 571652, 4544118; 573771, 4544036.

(O) Land bounded by the following UTM Zone 10, NAD83 coordinates (E, N): 578668, 4543907; 577027, 4543889; 576965, 4545521; 578609, 4545531; 578668, 4543907.

(P) Land bounded by the following UTM Zone 10, NAD83 coordinates (E, N): 575322, 4545576; 575406, 4543962; 573771, 4544036; 573664, 4545634; 575322, 4545576.

(Q) Land bounded by the following UTM Zone 10, NAD83 coordinates (E, N): 555053, 4540700; 556711, 4540757; 556732, 4542386; 561662, 4542514; 561661, 4542605; 562164, 4543172; 562151, 4543532; 562385, 4543785; 562479, 4544237; 562399, 4544443; 562282, 4544536; 561801, 4544552; 561523, 4544487; 561509, 4544847; 561633, 4544980; 561626, 4545416; 561780, 4545522; 561873, 4545722; 561968, 4545722; 561994, 4545903; 562242, 4546376; 562735, 4546702; 562948, 4547232; 564994, 4547279; 564986, 4545674; 566600, 4545697; 566600, 4544101; 563411, 4544083; 563587, 4540937; 562253, 4540933; 562422, 4540645; 562371, 4540213; 562237, 4540016; 561757, 4539774; 561550, 4539345; 556774, 4539195; 556768, 4539390; 556433, 4539382; 556427, 4539577; 556228, 4539573; 556222, 4539769; 555102, 4539729; 555053, 4540700.

(R) Land bounded by the following UTM Zone 10, NAD83 coordinates (E, N): 586712, 4540792; 586691, 4542342; 585146, 4542324; 585113, 4540749; 583567, 4540704; 583575, 4542295; 582010, 4542250; 581929, 4543821; 580300, 4543910; 580250, 4545528; 581904, 4545464; 581865, 4547095; 582694, 4547066; 582661, 4548632; 581821, 4548735; 581865, 4547095; 580213, 4547150; 580250, 4545528; 578609, 4545531; 578550, 4547157; 576891, 4547151; 576965, 4545521; 575322, 4545576; 575237, 4547189; 573561, 4547229; 573664, 4545634; 571559, 4545687; 571652, 4544118; 569894, 4544100; 569865, 4545682; 570711, 4545686; 570671, 4546478; 571506, 4546490; 571457, 4547271; 572956, 4547238; 572924, 4548031; 573515, 4548034; 573475, 4548830; 575149, 4548802; 575146, 4549204; 574729, 4549209; 574726, 4549612; 572881, 4549630; 572884, 4548841; 572581, 4548845; 572576, 4550572; 568523, 4550557; 568527, 4548827; 566720, 4548828; 566723, 4548667; 566284, 4548339; 566050, 4548310; 565538, 4548411; 564921, 4548668; 564486, 4549041; 564473, 4551003; 563025, 4550961; 562991, 4551738; 562865, 4552107; 561440, 4552094; 561465, 4553581; 562205, 4553599; 562224, 4553198; 562410, 4553201; 562430, 4552828; 563227, 4552840; 563261, 4553626; 562950, 4553620; 562878, 4554010; 562613, 4554011; 562904, 4554270; 563658, 4555239; 564510, 4555279; 564464, 4556835; 566086, 4556887; 566173, 4558440; 567762, 4558469; 567717, 4555289; 572564, 4555363; 572563, 4555259; 572735, 4555260; 572735, 4555682; 573563, 4555676; 573607, 4553640; 573507, 4552049; 575156, 4552049; 575184, 4552441; 575994, 4552545; 576028, 4552981; 576860, 4553121; 576792, 4552223; 578442, 4552164; 578462, 4552595; 578865, 4552574; 578884, 4553014; 579292, 4552988; 579311, 4553417; 580121, 4553362; 580136, 4553789; 580915, 4553720; 580891, 4554975; 581684, 4554875; 581667, 4555695; 583272, 4555373; 583663, 4555409; 583685, 4554980; 585832, 4555164; 585458, 4555017; 585473, 4554814; 585577, 4554635; 585594, 4554098; 585727, 4553976; 586360, 4554194; 586336, 4555189; 588093, 4555337; 591293, 4555460; 591333, 4552440; 592056, 4552491; 592054, 4552873; 592347, 4552884; 592353, 4553263; 594351, 4553349; 594354, 4552587; 592755, 4552533; 592709, 4551326; 592107, 4551293; 592055, 4550464; 592936, 4550476; 593040, 4548916; 593060, 4547329; 592646, 4547338; 592673, 4545733; 591874, 4545761; 591867, 4546155; 591428, 4546165; 591031, 4546146; 591038, 4545756; 590247, 4545718; 590212, 4546108; 589836, 4546091; 589847, 4545698; 588256, 4545533; 588262, 4543964; 589050, 4544019; 589063, 4542823; 588662, 4542809; 588669, 4542408; 588275, 4542397; 588254, 4540818; 586712, 4540792; and excluding land bound by 587066, 4545040; 587060, 4545506; 586645, 4545497; 586652, 4545103; 586851, 4545171; 586914, 4545025; 587066, 4545040; and excluding land bound by 591340, 4552049; 591335, 4552235; 589746, 4552192; 589769, 4550579; 591369, 4550606; 591340, 4552049.

(S) Land bounded by the following UTM Zone 10, NAD83 coordinates (E, N): 550565, 4567493; 550574, 4567338; 550926, 4567351; 550982, 4565105; 550813, 4564865; 550550, 4564659; 550525, 4564524; 549130, 4564452; 548687, 4564551; 547979, 4564978; 547835, 4565181; 547811, 4565384; 547865, 4566191; 548707, 4566636; 550023, 4567544; 550555, 4567667; 550565, 4567493.

(T) Land bounded by the following UTM Zone 10, NAD83 coordinates (E, N): 552091, 4576100; 552081, 4574483; 552488, 4574479; 552488, 4573676; 553312, 4573673; 553344, 4571667; 552148, 4571674; 552138, 4570882; 550817, 4570876; 550826, 4571142; 550182, 4571151; 550163, 4570595; 550317, 4570492; 550526, 4570494; 550631, 4570391; 551048, 4570395; 551153, 4570291; 551154, 4570187; 550844, 4569872; 550635, 4569870; 550530, 4569973; 550009, 4569969; 549914, 4570061; 548397, 4570071; 548368, 4570871; 547949, 4571122; 548005, 4571368; 547833, 4571825; 547689, 4571989; 547121, 4572291; 546699, 4572600; 546607, 4572700; 546654, 4572900; 546807, 4573056; 547439, 4573158; 547712, 4573431; 548334, 4574416; 548779, 4574419; 548949, 4574541; 549244, 4575042; 549291, 4575291; 549430, 4575532; 549452, 4576076; 552091, 4576100.

(U) Land bounded by the following UTM Zone 10, NAD83 coordinates (E, N): 545232, 4582413; 546031, 4582434; 546034, 4580838; 545176, 4580807; 545188, 4579202; 542018, 4579239; 542016, 4580969; 542302, 4581254; 542752, 4581493; 543125, 4582005; 543365, 4582207; 544082, 4582594; 544367, 4582822; 544725, 4583293; 545224, 4583396; 545232, 4582413.

(V) Land bounded by the following UTM Zone 10, NAD83 coordinates (E, N): 534403, 4589735; 535209, 4589716; 535206, 4590520; 538821, 4590527; 538809, 4588926; 538884, 4587322; 540927, 4587309; 540915, 4586878; 540465, 4586874; 540457, 4586541; 540283, 4586563; 540262, 4585981; 541267, 4585966; 541281, 4585183; 541501, 4585180; 541525, 4585247; 541589, 4585167; 541513, 4584677; 541346, 4584400; 540603, 4583765; 540443, 4584182; 539833, 4584370; 538252, 4584544; 537280, 4585444; 536714, 4586257; 535930, 4586649; 534999, 4586638; 534537, 4586556; 534525, 4586369; 533784, 4586199; 533743, 4590563; 534398, 4590546; 534403, 4589735; and excluding land bound by 537611, 4589713; 537606, 4588924; 538006, 4588925; 538009, 4589717; 537611, 4589713.

(iii) Note: Map of Eastern Klamath Mountains Unit follows:

BILLING CODE 4310-55-S

BILLING CODE 4310-55-C

(36) Shasta/McCloud Unit (Unit 29). Shasta and Siskiyou Counties, California.

(i) The Shasta/McCloud Unit consists of 73, 300 ac (29, 700 ha) and is comprised of lands managed by the Klamath and Shasta-Trinity National Forests.

(ii) From USGS 1:24, 000 scale quadrangles Ash Creek Butte, Bartle, Burney, Burney Falls, Chalk Mountain, City of Mount Shasta, Dead Horse Summit, Elk Spring, Grizzly Peak, Horse Peak, Kinyon, Little Glass Mountain, McCloud, Rainbow Mountain, Skunk Ridge, and Tennant.

(A) Land bounded by the following UTM Zone 10, NAD83 coordinates (E, N): 596359, 4540919; 596374, 4540106; 597178, 4540115; 597176, 4540920; 596359, 4540919; 596287, 4542541; 599473, 4542583; 599397, 4545769; 600942, 4545780; 600917, 4547631; 601964, 4547643; 602278, 4547132; 602214, 4547017; 602242, 4546797; 602088, 4546150; 601880, 4546051; 601628, 4546050; 601778, 4545836; 601558, 4545522; 601591, 4545373; 601518, 4545170; 601565, 4544863; 601781, 4544743; 601883, 4544434; 601817, 4543821; 601913, 4543481; 601891, 4543236; 601822, 4543157; 601925, 4542787; 601892, 4542742; 601672, 4542796; 601576, 4542461; 601719, 4542324; 601973, 4542262; 602180, 4542131; 602021, 4541904; 601945, 4541657; 602314, 4541632; 602634, 4541393; 602741, 4541536; 602951, 4541526; 603314, 4541805; 603340, 4542207; 603531, 4542262; 603580, 4542497; 603962, 4542052; 603949, 4541941; 604222, 4542386; 604380, 4542515; 604302, 4542748; 604398, 4542728; 604456, 4542420; 604657, 4542549; 604764, 4542487; 604725, 4542305; 604886, 4542190; 604889, 4541998; 604645, 4541953; 604530, 4542027; 604555, 4541913; 605095, 4540768; 605403, 4539953; 605279, 4539153; 605268, 4538409; 605292, 4538181; 605446, 4537992; 605459, 4537199; 603865, 4537170; 603885, 4535559; 603490, 4535553; 603494, 4534738; 602300, 4534721; 602321, 4533496; 601916, 4533497; 601920, 4533102; 601218, 4533111; 601217, 4533211; 600448, 4533198; 600448, 4532800; 599596, 4532785; 599625, 4531181; 596405, 4531139; 596350, 4534364; 596398, 4537643; 596799, 4537647; 596792, 4538068; 596396, 4538066; 596378, 4539811; 595578, 4539823; 595559, 4540920; 596359, 4540919; and excluding land bound by 601056, 4541215; 601044, 4542605; 600245, 4542592; 600255, 4541774; 600661, 4541784; 600672, 4540970; 601062, 4540976; 601056, 4541215.

(B) Land bounded by the following UTM Zone 10, NAD83 coordinates (E, N): 593134, 4559505; 591918, 4559465; 591898, 4561059; 593129, 4561078; 593134, 4559505.

(C) Land bounded by the following UTM Zone 10, NAD83 coordinates (E, N): 596310, 4559526; 594721, 4559518; 594734, 4561105; 596358, 4561121; 596310, 4559526.

(D) Land bounded by the following UTM Zone 10, NAD83 coordinates (E, N): 594710, 4565943; 596325, 4565963; 596346, 4564353; 595554, 4564325; 595541, 4563915; 594739, 4563897; 594710, 4565943.

(E) Land bounded by the following UTM Zone 10, NAD83 coordinates (E, N): 593134, 4559505; 594721, 4559518; 594732, 4558703; 596314, 4558724; 596310, 4559526; 597984, 4559519; 597971, 4563552; 598377, 4563551; 598382, 4563954; 598783, 4563961; 598775, 4564362; 599569, 4564372; 599563, 4565991; 600366, 4565992; 601325, 4566528; 601444, 4566666; 601507, 4566860; 601467, 4567626; 601509, 4567624; 601443, 4568106; 601572, 4568644; 601551, 4569365; 601771, 4569676; 601777, 4569925; 601982, 4570172; 602094, 4570458; 601979, 4570418; 601864, 4570467; 601758, 4570216; 601771, 4571410; 602655, 4571666; 602798, 4564409; 604412, 4564441; 604421, 4563636; 602807, 4563614; 602913, 4559588; 598828, 4559512; 598904, 4557915; 591268, 4557860; 591265, 4558665; 593148, 4558899; 593134, 4559505.

(F) Land bounded by the following UTM Zone 10, NAD83 coordinates (E, N): 576061, 4573802; 576068, 4573496; 576474, 4573504; 576475, 4573425; 576818, 4573197; 577181, 4573199; 577194, 4573059; 577624, 4573062; 577739, 4572497; 577914, 4572414; 578356, 4571699; 578724, 4571346; 578771, 4571208; 578393, 4570848; 578405, 4570421; 578254, 4570022; 578017, 4569853; 577510, 4569836; 577462, 4569713; 577513, 4569446; 577912, 4569265; 577936, 4569123; 577746, 4569015; 577424, 4568922; 577308, 4568936; 577308, 4569053; 574595, 4569025; 574706, 4570703; 574600, 4570807; 574598, 4571016; 574876, 4571041; 574873, 4571452; 575278, 4571454; 575242, 4573892; 575655, 4573900; 575647, 4574295; 576051, 4574301; 576061, 4573802; and excluding land bound by 576890, 4572708; 576899, 4571898; 577304, 4571908; 577294, 4572719; 576890, 4572708.

(G) Land bounded by the following UTM Zone 10, NAD83 coordinates (E, N): 572436, 4574658; 574003, 4574688; 574048, 4573077; 572439, 4573039; 572436, 4574658.

(H) Land bounded by the following UTM Zone 10, NAD83 coordinates (E, N): 572436, 4574658; 570806, 4574655; 570803, 4576260; 572430, 4576276; 572436, 4574658.

(I) Land bounded by the following UTM Zone 10, NAD83 coordinates (E, N): 574003, 4574688; 573997, 4576299; 575613, 4576320; 575636, 4574698; 574003, 4574688.

(J) Land bounded by the following UTM Zone 10, NAD83 coordinates (E, N): 601297, 4576862; 601416, 4576156; 601693, 4575629; 601733, 4575426; 601681, 4575174; 601463, 4574978; 601209, 4574770; 600946, 4574655; 600716, 4574708; 600620, 4574965; 600621, 4575508; 600383, 4575754; 600170, 4575804; 599945, 4575689; 599739, 4575278; 599630, 4575180; 599423, 4575208; 599344, 4575317; 599439, 4575866; 599321, 4576025; 599309, 4576635; 598977, 4576632; 599007, 4576908; 599192, 4577110; 599325, 4577121; 599568, 4576955; 599660, 4576814; 599809, 4576795; 599950, 4576848; 600126, 4577120; 600513, 4577140; 601244, 4577021; 601297, 4576862.

(K) Land bounded by the following UTM Zone 10, NAD83 coordinates (E, N): 594710, 4565943; 593913, 4565914; 593929, 4565524; 593522, 4565518; 593537, 4564711; 593135, 4564698; 593111, 4565907; 591861, 4565900; 591849, 4566885; 591073, 4566819; 591079, 4566038; 590276, 4565989; 590294, 4565188; 589864, 4565174; 589913, 4563564; 589513, 4563560; 589480, 4564350; 589075, 4564333; 589050, 4565959; 588650, 4565946; 588608, 4568369; 588974, 4568589; 589097, 4569955; 590695, 4570045; 590642, 4571229; 591010, 4571270; 591007, 4571606; 590716, 4571604; 590772, 4573570; 591159, 4573653; 591195, 4574592; 592947, 4574601; 592929, 4576208; 593312, 4576215; 593308, 4576606; 594519, 4576603; 594458, 4578205; 596045, 4578229; 596103, 4576599; 597697, 4576624; 597767, 4575007; 596196, 4575016; 596207, 4574193; 597006, 4574194; 597025, 4573382; 594599, 4573368; 594648, 4569343; 593843, 4569340; 593848, 4569139; 593306, 4569046; 593115, 4569196; 593043, 4569541; 593043, 4569047; 593112, 4568992; 593403, 4568945; 593849, 4569051; 593854, 4568531; 594664, 4568533; 594710, 4565943; and excluding land bound by 590036, 4569526; 590188, 4569687; 589417, 4569457; 589390, 4569330; 590036, 4569526; and excluding land bound by 592177, 4573338; 592166, 4573750; 591759, 4573744; 591768, 4573328; 592177, 4573338.

(L) Land bounded by the following UTM Zone 10, NAD83 coordinates (E, N): 561804, 4577980; 562058, 4577946; 562296, 4578036; 563148, 4578076; 563379, 4577952; 563538, 4577750; 563533, 4576973; 564333, 4576985; 564328, 4576183; 562791, 4576157; 562830, 4572964; 561230, 4572959; 561213, 4574568; 559978, 4574510; 559757, 4574600; 559599, 4574775; 559574, 4576146; 559764, 4576452; 560011, 4577189; 560452, 4578090; 560698, 4578441; 560847, 4578591; 560996, 4578643; 561094, 4578793; 561244, 4578794; 561613, 4579044; 561772, 4579079; 561939, 4579249; 562220, 4579253; 561946, 4578623; 561804, 4577980.

(M) Land bounded by the following UTM Zone 10, NAD83 coordinates (E, N): 586854, 4579770; 586888, 4578161; 585288, 4578050; 583272, 4578048; 583250, 4578862; 582850, 4578855; 582828, 4579660; 582019, 4579639; 581999, 4581237; 584382, 4581293; 584395, 4580515; 585629, 4580532; 585644, 4579732; 586053, 4579745; 586016, 4581359; 586832, 4581389; 586854, 4579770.

(N) Land bounded by the following UTM Zone 10, NAD83 coordinates (E, N): 575442, 4582736; 575480, 4581125; 573856, 4581084; 573812, 4582695; 575442, 4582736.

(O) Land bounded by the following UTM Zone 10, NAD83 coordinates (E, N): 575442, 4582736; 575425, 4583938; 575845, 4583960; 575842, 4584367; 577069, 4584426; 577070, 4582809; 575442, 4582736.

(P) Land bounded by the following UTM Zone 10, NAD83 coordinates (E, N): 575406, 4585954; 575419, 4584348; 573776, 4584305; 573753, 4585910; 575406, 4585954.

(Q) Land bounded by the following UTM Zone 10, NAD83 coordinates (E, N): 577069, 4584426; 577062, 4586038; 577888, 4586035; 577536, 4585687; 577454, 4585499; 577450, 4585273; 577813, 4584763; 577874, 4584435; 577069, 4584426.

(R) Land bounded by the following UTM Zone 10, NAD83 coordinates (E, N): 585108, 4586174; 585192, 4584567; 584779, 4584548; 584782, 4584140; 583151, 4584089; 583149, 4584497; 583541, 4584508; 583504, 4586128; 585108, 4586174.

(S) Land bounded by the following UTM Zone 10, NAD83 coordinates (E, N): 577062, 4586038; 575406, 4585954; 575448, 4587645; 577054, 4587642; 577062, 4586038.

(T) Land bounded by the following UTM Zone 10, NAD83 coordinates (E, N): 585108, 4586174; 585111, 4587781; 586713, 4587805; 586739, 4586209; 585108, 4586174.

(U) Land bounded by the following UTM Zone 10, NAD83 coordinates (E, N): 603851, 4588309; 603825, 4587641; 603154, 4587516; 603006, 4588209; 602741, 4588174; 602465, 4588375; 601897, 4589000; 601818, 4589180; 601712, 4589796; 602108, 4590686; 602047, 4590850; 602195, 4591000; 602070, 4591191; 602039, 4591365; 602167, 4591701; 602111, 4592084; 602329, 4592228; 603572, 4592350; 603704, 4591625; 603851, 4591615; 603854, 4591483; 604270, 4591477; 604293, 4589541; 604224, 4588428; 603851, 4588309.

(V) Land bounded by the following UTM Zone 10, NAD83 coordinates (E, N): 591485, 4594808; 591473, 4594276; 590582, 4593904; 590170, 4593900; 590179, 4593532; 589793, 4593511; 589817, 4592416; 588273, 4592401; 588172, 4593850; 586539, 4593842; 586672, 4592331; 586573, 4592350; 586571, 4592453; 585832, 4592493; 585044, 4592645; 584976, 4594058; 586156, 4593901; 586163, 4594684; 586542, 4594649; 586576, 4595613; 588217, 4595631; 588164, 4594308; 588971, 4594318; 588969, 4594701; 589816, 4594721; 589847, 4595726; 591483, 4595906; 591485, 4594808.

(W) Land bounded by the following UTM Zone 10, NAD83 coordinates (E, N): 609182, 4606721; 609665, 4606353; 609543, 4606078; 609518, 4605722; 609569, 4605524; 609742, 4605433; 609787, 4605158; 609740, 4604922; 609474, 4604446; 609352, 4603859; 609429, 4603475; 609375, 4603450; 609089, 4603530; 609160, 4603590; 608723, 4603812; 608418, 4603891; 608418, 4604197; 607792, 4605038; 607598, 4605661; 607331, 4605836; 606960, 4605805; 606293, 4606245; 606198, 4606431; 606249, 4606543; 606425, 4606637; 607050, 4606675; 607358, 4607308; 607586, 4607415; 608286, 4607377; 609182, 4606721.

(iii) Note: Map of Shasta/McCloud Unit follows:

BILLING CODE 4310-55-S

* * * * *

Dated: July 28, 2008.
Lyle Laverty
Assistant Secretary for Fish and Wildlife and Parks

[FR Doc. E8-17866 Filed 8-12-08; 8:45 am]

BILLING CODE 4310-55-C